FEDERAL EMERGENCY MANAGEMENT AGENCY

Compendium of Flood Map Changes

AGENCY: Federal Emergency Management Agency (FEMA).

ACTION: Notice.

SUMMARY: This Notice provides listings of changes made to National Flood Insurance Program (NFIP) maps produced by FEMA effective during the last 6 months of 1999.

DATES: The listings include changes to NFIP maps that became effective July 1, 1999, through December 31, 1999.

FOR FURTHER INFORMATION CONTACT: Michael K. Buckley, P.E., Director, Technical Services Division, Mitigation Directorate, Federal Emergency Management Agency, Washington, DC 20472, (202)646-2756.

SUPPLEMENTARY INFORMATION: In accordance with Section 1360(i) of the National Flood Insurance Reform Act of 1994, this Notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: June 8, 2000.
Michael J. Armstrong,
Associate Director for Mitigation.

Two listings are provided below. The first listing includes all Letters of Map Change issued by FEMA from July 1 through December 31, 1999. The following types of letters are included in the listing:

Type | Description
01 | Letter of Map Revision Based on Fill (218-65)
02 | Letter of Map Amendment (218-70)
05 | Letter of Map Revision With Base Flood Elevation Changes
06 | Letter of Map Revision Without Base Flood Elevation Changes
08 | Denial
12 | Floodway Revision
17 | Letter of Map Revision-inadvertent inclusion in floodway (218-65)
18 | Letter of Map Revision-inadvertent inclusion in V zone (218-65)
19 | Letter of Map Change Revalidation.

The second listing includes map panels that FEMA physically revised and republished from July 1 through December 31, 1999. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

Region | State | Community | Map panel | Determination date | Case No. | Type
01 | CT | BARKHAMSTED, TOWN OF | 0901340010B | 20-OCT-1999 | 99-01-1004A | 02
01 | CT | BERLIN, TOWN OF | 0900220010D | 04-AUG-1999 | 99-01-1056A | 02
01 | CT | BERLIN, TOWN OF | 0900220010D | 13-DEC-1999 | 98-01-067P | 05
01 | CT | CANTERBURY, TOWN OF | 0901830015A | 14-JUL-1999 | 99-01-496A | 02
01 | CT | DARIEN, TOWN OF | 0900050005E | 18-OCT-1999 | 99-01-686P | 05
01 | CT | FAIRFIELD, TOWN OF | 0900070004C | 29-SEP-1999 | 99-01-1192A | 02
01 | CT | FAIRFIELD, TOWN OF | 0900070006C | 30-JUL-1999 | 99-01-1000A | 17
01 | CT | FAIRFIELD, TOWN OF | 0900070009C | 27-AUG-1999 | 99-01-1006A | 02
01 | CT | FARMINGTON, TOWN OF | 0900290005C | 04-AUG-1999 | 99-01-1016A | 01
01 | CT | GLASTONBURY, TOWN OF | 0901240010B | 20-AUG-1999 | 99-01-1174A | 02
01 | CT | GLASTONBURY, TOWN OF | 0901240010B | 17-AUG-1999 | 99-01-1014A | 02
01 | CT | GREENWICH, TOWN OF | 0900080005C | 18-AUG-1999 | 99-01-1038A | 02
01 | CT | GREENWICH, TOWN OF | 0900080018C | 20-AUG-1999 | 99-01-1064A | 02
01 | CT | GREENWICH, TOWN OF | 0900080019C | 21-JUL-1999 | 99-01-1018A | 17
01 | CT | GREENWICH, TOWN OF | 0900080021C | 06-AUG-1999 | 99-01-808A | 02
01 | CT | GREENWICH, TOWN OF | 0900080022C | 24-SEP-1999 | 99-01-019P | 05
01 | CT | GREENWICH, TOWN OF | 0900080024C | 20-AUG-1999 | 99-01-1160A | 02
01 | CT | GREENWICH, TOWN OF | 0900080024C | 25-AUG-1999 | 99-01-1084A | 02
01 | CT | GREENWICH, TOWN OF | 0900080024C | 29-SEP-1999 | 99-01-830A | 02
01 | CT | GROTON, TOWN OF | 0900970010C | 01-DEC-1999 | 00-01-0108A | 02
01 | CT | GUILFORD, TOWN OF | 0900770010B | 19-NOV-1999 | 99-01-1344A | 02
01 | CT | HAMDEN, TOWN OF | 0900780005B | 16-JUL-1999 | 99-01-1012A | 02
01 | CT | MADISON, TOWN OF | 0900790012D | 03-SEP-1999 | 99-01-956A | 02
01 | CT | MADISON, TOWN OF | 0900790012D | 30-JUL-1999 | 99-01-560A | 02
01 | CT | MANCHESTER, TOWN OF | 0900310004D | 24-SEP-1999 | 99-01-1138A | 02
01 | CT | MERIDEN, CITY OF | 0900810004B | 09-JUL-1999 | 99-01-826A | 02
01 | CT | NEW BRITAIN, CITY OF | 0900320001C | 14-JUL-1999 | 99-01-676A | 02
01 | CT | NEW CANAAN, TOWN OF | 0900100002B | 16-JUL-1999 | 99-01-828A | 02
01 | CT | NEW HARTFORD, TOWN OF | 0900480006B | 17-SEP-1999 | 99-01-1204A | 02
01 | CT | NORTH CANAAN, TOWN OF | 0901490002B | 23-JUL-1999 | 99-01-646A | 02
01 | CT | NORWALK, CITY OF | 0900120005C | 20-AUG-1999 | 99-01-796A | 02
01 | CT | PLAINVILLE, TOWN OF | 0900340005C | 20-AUG-1999 | 99-01-1172A | 02
01 | CT | PUTNAM, TOWN OF | 0901940002B | 29-DEC-1999 | 00-01-0074A | 02
01 | CT | RIDGEFIELD, TOWN OF | 0900130003B | 22-SEP-1999 | 99-01-906A | 02
01 | CT | ROCKY HILL, TOWN OF | 0901420010B | 22-SEP-1999 | 99-01-878A | 01
01 | CT | SOMERS, TOWN OF | 0901120004B | 20-AUG-1999 | 99-01-768A | 02
01 | CT | STAMFORD, CITY OF | 0900150006C | 10-NOV-1999 | 99-01-1338A | 02
01 | CT | STAMFORD, CITY OF | 0900150007D | 29-SEP-1999 | 98-01-049P | 05
01 | CT | STONINGTON, TOWN OF | 0901060017F | 15-OCT-1999 | 99-01-1304A | 02
01 | CT | VERNON, TOWN OF | 0901310005C | 15-OCT-1999 | 99-01-1208A | 02
01 | CT | VERNON, TOWN OF | 0901310005C | 10-AUG-1999 | 99-01-1220V | 19
01 | CT | WALLINGFORD, TOWN OF | 0900900006C | 22-DEC-1999 | 00-01-0162A | 02
01 | CT | WALLINGFORD, TOWN OF | 0900900009B | 22-DEC-1999 | 00-01-0100A | 02
01 | CT | WATERTOWN, TOWN OF | 0900580006B | 19-NOV-1999 | 99-01-1362A | 02
01 | CT | WEST HARTFORD, TOWN OF | 0950820002D | 13-OCT-1999 | 99-01-962A | 02
01 | CT | WEST HARTFORD, TOWN OF | 0950820003C | 28-DEC-1999 | 99-01-055P | 05
01 | CT | WEST HARTFORD, TOWN OF | 0950820003C | 16-NOV-1999 | 99-01-009P | 05
01 | CT | WEST HARTFORD, TOWN OF | 0950820003C | 17-SEP-1999 | 98-01-069P | 05
01 | CT | WESTPORT, TOWN OF | 0900190003C | 15-DEC-1999 | 00-01-0156A | 02
01 | CT | WETHERSFIELD, TOWN OF | 0900400003B | 08-OCT-1999 | 99-01-003P | 05
01 | CT | WILTON, TOWN OF | 0900200007C | 22-SEP-1999 | 98-01-031P | 06
01 | MA | ANDOVER, TOWN OF | 2500760005B | 13-OCT-1999 | 99-01-1270A | 02
01 | MA | ANDOVER, TOWN OF | 2500760007B | 17-NOV-1999 | 99-01-1042A | 02
01 | MA | BARNSTABLE, TOWN OF | 2500010006D | 29-OCT-1999 | 99-01-1194A | 02
01 | MA | BEDFORD, TOWN OF | 2552090003C | 29-OCT-1999 | 99-01-1384A | 02
01 | MA | BILLERICA, TOWN OF | 2501830010C | 15-AUG-1999 | 98-01-017P | 05
01 | MA | BOURNE, TOWN OF | 2552100001E | 10-AUG-1999 | 99-01-1282V | 19
01 | MA | BRIDGEWATER, TOWN OF | 2502600002C | 10-SEP-1999 | 99-01-1347V | 19
01 | MA | BRIDGEWATER, TOWN OF | 2502600015B | 02-JUL-1999 | 99-01-944A | 02
01 | MA | BROCKTON, CITY OF | 2502610005C | 10-NOV-1999 | 99-01-1110A | 02
01 | MA | COHASSET, TOWN OF | 2502360004C | 27-OCT-1999 | 99-01-1146A | 02
01 | MA | COHASSET, TOWN OF | 2502360004C | 24-AUG-1999 | 99-01-1134A | 02
01 | MA | CONCORD, TOWN OF | 2501890010B | 19-NOV-1999 | 00-01-0094A | 02
01 | MA | DEDHAM, TOWN OF | 2502370005C | 27-AUG-1999 | 99-01-740A | 02
01 | MA | DUNSTABLE, TOWN OF | 2501910005B | 08-NOV-1999 | 99-01-041P | 06
01 | MA | DUXBURY, TOWN OF | 2502630005B | 30-JUL-1999 | 99-01-756A | 02
01 | MA | DUXBURY, TOWN OF | 2502630012C | 10-NOV-1999 | 99-01-930A | 02
01 | MA | EASTON, TOWN OF | 2500530010D | 12-NOV-1999 | 99-01-1388A | 02
01 | MA | EASTON, TOWN OF | 2500530010D | 06-OCT-1999 | 99-01-510A | 02
01 | MA | FALMOUTH, TOWN OF | 2552110004H | 18-AUG-1999 | 99-01-882A | 02
01 | MA | FRAMINGHAM, TOWN OF | 2501930008C | 12-NOV-1999 | 99-01-1366A | 02
01 | MA | HADLEY, TOWN OF | 2501630002B | 05-NOV-1999 | 99-01-1404A | 02
01 | MA | HINGHAM, TOWN OF | 2502680001B | 23-JUL-1999 | 99-01-896A | 02
01 | MA | HOLBROOK, TOWN OF | 2552120005C | 24-NOV-1999 | 99-01-1298A | 02
01 | MA | HOLLISTON, TOWN OF | 2501950003C | 15-JUL-1999 | 99-01-752A | 02
01 | MA | IPSWICH, TOWN OF | 2500860007D | 10-SEP-1999 | 99-01-1156A | 02
01 | MA | LAKEVILLE, TOWN OF | 2502710015C | 25-AUG-1999 | 99-01-1150A | 02
01 | MA | MARION, TOWN OF | 2552130002D | 09-JUL-1999 | 99-01-844A | 02
01 | MA | MARSHFIELD, TOWN OF | 2502730003D | 08-OCT-1999 | 99-01-1104A | 02
01 | MA | MEDFIELD, TOWN OF | 2502420005B | 23-JUL-1999 | 99-01-918A | 02
01 | MA | METHUEN, TOWN OF | 2500930010C | 11-AUG-1999 | 99-01-1092A | 02
01 | MA | MIDDLEBOROUGH, TOWN OF | 2502750030B | 29-SEP-1999 | 99-01-1132A | 02
01 | MA | MILLBURY, TOWN OF | 2503180005B | 09-NOV-1999 | 00-01-0062V | 19
01 | MA | MILLIS, TOWN OF | 2502440002C | 29-SEP-1999 | 99-01-1218A | 02
01 | MA | NATICK, TOWN OF | 2502070006B | 04-AUG-1999 | 99-01-910A | 02
01 | MA | NEEDHAM, TOWN OF | 2552150002C | 03-DEC-1999 | 99-01-1216A | 02
01 | MA | NEWTON, CITY OF | 2502080004D | 17-SEP-1999 | 99-01-818A | 02
01 | MA | NORTH ANDOVER, TOWN OF | 2500980003C | 10-NOV-1999 | 99-01-1390A | 02
01 | MA | NORTH ANDOVER, TOWN OF | 2500980009C | 14-JUL-1999 | 99-01-840A | 02
01 | MA | NORTON, TOWN OF | 2500600006C | 03-SEP-1999 | 99-01-1144A | 02
01 | MA | ORLEANS, CITY OF | 2500100002D | 13-AUG-1999 | 99-01-1010A | 02
01 | MA | QUINCY, CITY OF | 2552190016B | 18-AUG-1999 | 99-01-1050A | 02
01 | MA | RANDOLPH, TOWN OF | 2502510002C | 15-SEP-1999 | 99-01-862A | 02
01 | MA | ROCKLAND, TOWN OF | 2502810001B | 06-AUG-1999 | 99-01-702A | 02
01 | MA | ROCKPORT, TOWN OF | 2501000001B | 04-AUG-1999 | 99-01-1032A | 02
01 | MA | SALISBURY, TOWN OF | 2501030003C | 13-AUG-1999 | 99-01-502A | 02
01 | MA | SHREWSBURY, TOWN OF | 2503320004B | 20-OCT-1999 | 99-01-774A | 02
01 | MA | SOUTH HADLEY, TOWN OF | 2501700010A | 18-AUG-1999 | 99-01-916A | 02
01 | MA | STOUGHTON, TOWN OF | 2502530001B | 03-DEC-1999 | 99-01-1254A | 02
01 | MA | STOW, TOWN OF | 2502160005B | 29-DEC-1999 | 00-01-0216A | 02
01 | MA | SWANSEA, TOWN OF | 2552210007C | 17-SEP-1999 | 99-01-958A | 02
01 | MA | TEWKSBURY, TOWN OF | 2502180006B | 01-SEP-1999 | 99-01-680A | 02
01 | MA | TOPSFIELD, TOWN OF | 2501060001D | 08-OCT-1999 | 99-01-1082A | 02
01 | MA | TOPSFIELD, TOWN OF | 2501060001D | 08-JUL-1999 | 99-01-602A | 02
01 | MA | WAYLAND, CITY OF | 2502240002C | 22-DEC-1999 | 99-01-1332A | 02
01 | MA | WELLFLEET, TOWN OF | 2500140008B | 22-DEC-1999 | 00-01-0168A | 02
01 | MA | WEST NEWBURY, TOWN OF | 2501080005A | 28-JUL-1999 | 99-01-974A | 02
01 | MA | WILMINGTON, TOWN OF | 2502270003C | 03-DEC-1999 | 99-01-1396A | 02
01 | MA | WORTHINGTON, TOWN OF | 2501750016B | 27-OCT-1999 | 99-01-1096A | 02
01 | ME | ALEXANDER, TOWN OF | 230303B | 27-AUG-1999 | 99-01-998A | 02
01 | ME | ALEXANDER, TOWN OF | 230303B | 27-AUG-1999 | 99-01-996A | 02
01 | ME | BELGRADE, TOWN OF | 2302320010B | 15-OCT-1999 | 99-01-954A | 01
01 | ME | BETHEL, TOWN OF | 2300880005C | 10-DEC-1999 | 00-01-0080A | 02
01 | ME | BLUE HILL, TOWN OF | 2302740015A | 29-SEP-1999 | 99-01-1214A | 02
01 | ME | BLUE HILL, TOWN OF | 2302740020A | 01-DEC-1999 | 00-01-0068A | 18
01 | ME | BLUE HILL, TOWN OF | 2302740020A | 18-AUG-1999 | 99-01-900A | 18
01 | ME | BOOTHBAY HARBOR, TOWN OF | 2302130002B | 28-SEP-1999 | 98-01-061P | 05
01 | ME | BOOTHBAY, TOWN OF | 2302120011B | 28-JUL-1999 | 99-01-968A | 02
01 | ME | BRIDGTON, TOWN OF | 2300410010B | 03-NOV-1999 | 99-01-1228A | 02
01 | ME | BRIDGTON, TOWN OF | 2300410010B | 27-OCT-1999 | 99-01-1166A | 02
01 | ME | BRISTOL, TOWN OF | 2302150015B | 12-NOV-1999 | 99-01-1234A | 02
01 | ME | CARIBOU, CITY OF | 2300140010C | 04-AUG-1999 | 99-01-498A | 02
01 | ME | CUSHING, TOWN OF | 2302240005B | 14-JUL-1999 | 99-01-986A | 02
01 | ME | DEER ISLE, TOWN OF | 2302800015B | 02-JUL-1999 | 99-01-948A | 18
01 | ME | ELIOT, TOWN OF | 2301490010B | 05-NOV-1999 | 99-01-1238A | 02
01 | ME | ELLSWORTH, CITY OF | 2300660020B | 22-SEP-1999 | 99-01-1252A | 02
01 | ME | ENFIELD, TOWN OF | 2303840005A | 14-JUL-1999 | 99-01-946A | 02
01 | ME | GOULDSBORO,TOWN OF | 2302830020B | 08-SEP-1999 | 99-01-1002A | 01
01 | ME | GRAY, TOWN OF | 2300480010A | 27-OCT-1999 | 00-01-0032A | 02
01 | ME | GREENWOOD, TOWN OF | 230332A | 10-SEP-1999 | 99-01-1126A | 02
01 | ME | HARMONY, TOWN OF | 230360B | 04-OCT-1999 | 99-01-007P | 06
01 | ME | HARPSWELL, TOWN OF | 2301690011B | 26-OCT-1999 | 99-01-1184A | 02
01 | ME | HARRISON, TOWN OF | 2300490010B | 11-AUG-1999 | 99-01-980A | 02
01 | ME | HARTLAND, TOWN OF | 2303619999A | 15-SEP-1999 | 99-01-864A | 02
01 | ME | KENNEBUNKPORT, TOWN OF | 2301700004B | 24-NOV-1999 | 99-01-994A | 02
01 | ME | KENNEBUNKPORT, TOWN OF | 2301700007B | 13-OCT-1999 | 99-01-1292A | 01
01 | ME | LAMOINE, TOWN OF | 2302850010A | 19-NOV-1999 | 99-01-1322A | 02
01 | ME | LAMOINE, TOWN OF | 2302850010A | 18-AUG-1999 | 99-01-1088A | 02
01 | ME | LAMOINE, TOWN OF | 2302850010A | 16-JUL-1999 | 99-01-970A | 02
01 | ME | LEBANON, TOWN OF | 230193 | 08-JUL-1999 | 99-01-904A | 02
01 | ME | LOVELL, TOWN OF | 2303360015B | 29-DEC-1999 | 00-01-0114A | 02
01 | ME | LOVELL, TOWN OF | 2303360015B | 06-AUG-1999 | 99-01-1048A | 02
01 | ME | LYMAN, TOWN OF | 2301950005A | 27-OCT-1999 | 99-01-1336A | 02
01 | ME | MARIAVILLE, TOWN OF | 230286 | 17-NOV-1999 | 00-01-0070A | 02
01 | ME | MATTAWAMAKEAG, TOWN OF | 2301740010A | 20-AUG-1999 | 99-01-876A | 02
01 | ME | MEXICO, TOWN OF | 2300950004B | 25-AUG-1999 | 99-01-1170A | 02
01 | ME | MONMOUTH, TOWN OF | 2302400010A | 17-DEC-1999 | 00-01-0106A | 02
01 | ME | MT. VERNON, TOWN OF | 230241A | 08-OCT-1999 | 99-01-1300A | 02
01 | ME | NAPLES, TOWN OF | 2300500021B | 13-OCT-1999 | 99-01-1272A | 02
01 | ME | NEWPORT, TOWN OF | 230398B | 01-SEP-1999 | 99-01-834A | 02
01 | ME | NORTH BERWICK, TOWN OF | 2301970007C | 23-JUL-1999 | 99-01-1026A | 02
01 | ME | ORLAND,TOWN OF | 230288A | 01-OCT-1999 | 99-01-732A | 02
01 | ME | OXFORD, TOWN OF | 2308690006A | 04-AUG-1999 | 99-01-700A | 02
01 | ME | OXFORD, TOWN OF | 2308690015A | 10-NOV-1999 | 00-01-0046A | 02
01 | ME | PALMYRA, TOWN OF | 230366B | 29-OCT-1999 | 99-01-1122A | 02
01 | ME | PITTSFIELD, TOWN OF | 2301270005C | 09-JUL-1999 | 99-01-858A | 02
01 | ME | PORTLAND, CITY OF | 2300510007C | 17-DEC-1999 | 00-01-0140A | 02
01 | ME | PORTLAND, CITY OF | 2300510007C | 10-SEP-1999 | 99-01-1154A | 02
01 | ME | PORTLAND, CITY OF | 2300510007C | 22-SEP-1999 | 99-01-1106A | 02
01 | ME | RANGELEY, TOWN OF | 2303520001B | 10-SEP-1999 | 99-01-1348V | 19
01 | ME | RANGELEY, TOWN OF | 2303520004B | 27-OCT-1999 | 99-01-1140A | 02
01 | ME | ROME, TOWN OF | 2302460010B | 23-JUL-1999 | 99-01-1046A | 02
01 | ME | SABATTUS, TOWN OF | 2300110005B | 08-DEC-1999 | 00-01-0178X | 02
01 | ME | SABATTUS, TOWN OF | 2300110005B | 22-SEP-1999 | 99-01-1256A | 02
01 | ME | SACO, CITY OF | 2301550029C | 14-JUL-1999 | 99-01-934A | 02
01 | ME | SANFORD, TOWN OF | 2301560017E | 08-OCT-1999 | 99-01-1202A | 02
01 | ME | SCARBOROUGH, TOWN OF | 2300520023D | 17-DEC-1999 | 00-01-0174A | 02
01 | ME | SORRENTO, TOWN OF | 230292A | 12-NOV-1999 | 99-01-1262A | 02
01 | ME | ST. ALBANS, TOWN OF | 230369A | 27-OCT-1999 | 99-01-1386A | 02
01 | ME | ST. ALBANS, TOWN OF | 230369A | 27-OCT-1999 | 99-01-1380A | 02
01 | ME | ST. ALBANS, TOWN OF | 230369A | 27-OCT-1999 | 99-01-1378A | 02
01 | ME | ST. ALBANS, TOWN OF | 230369A | 06-OCT-1999 | 99-01-1232A | 02
01 | ME | ST. GEORGE, TOWN OF | 2302290015C | 08-SEP-1999 | 99-01-1054A | 02
01 | ME | STANDISH, TOWN OF | 2302070010B | 06-OCT-1999 | 99-01-952A | 02
01 | ME | STANDISH, TOWN OF | 2302070040B | 24-NOV-1999 | 00-01-0104A | 02
01 | ME | SURRY, TOWN OF | 2302960010B | 10-DEC-1999 | 00-01-0076A | 01
01 | ME | SURRY, TOWN OF | 2302960010B | 04-AUG-1999 | 99-01-1060A | 18
01 | ME | SURRY, TOWN OF | 2302960015B | 02-JUL-1999 | 99-01-846A | 18
01 | ME | SWANVILLE,TOWN OF | 230267A | 22-DEC-1999 | 00-01-0172A | 02
01 | ME | TOPSHAM, TOWN OF | 2301220008B | 18-AUG-1999 | 99-01-866A | 02
01 | ME | TRENTON, TOWN OF | 2302990010A | 23-JUL-1999 | 99-01-600A | 01
01 | ME | TURNER, TOWN OF | 2300100010B | 11-AUG-1999 | 99-01-988A | 02
01 | ME | VINALHAVEN, TOWN OF | 230230A | 27-OCT-1999 | 99-01-1198A | 02
01 | ME | WARREN, TOWN OF | 2300810005B | 18-AUG-1999 | 99-01-1080A | 02
01 | ME | WATERBORO, TOWN OF | 2301990003C | 01-DEC-1999 | 00-01-0102A | 02
01 | ME | WELD, TOWN OF | 230353A | 30-JUL-1999 | 99-01-776A | 02
01 | ME | WINDHAM, TOWN OF | 2301890015B | 18-AUG-1999 | 99-01-1020A | 02
01 | ME | WINTERVILLE PLANTATION | 230450A | 03-NOV-1999 | 99-01-1326A | 02
01 | ME | WINTHROP, TOWN OF | 2300720020B | 19-NOV-1999 | 99-01-1196A | 02
01 | ME | YORK, TOWN OF | 2301590022B | 02-NOV-1999 | 99-01-1034A | 02
01 | ME | YORK, TOWN OF | 2301590024B | 03-AUG-1999 | 99-01-940A | 02
01 | ME | YORK, TOWN OF | 2301590024B | 28-SEP-1999 | 99-01-190A | 02
01 | NH | ALLENSTOWN, TOWN OF | 3301030010B | 01-NOV-1999 | 98-01-027P | 05
01 | NH | BEDFORD, TOWN OF | 3300830005C | 15-JUL-1999 | 99-01-029P | 05
01 | NH | CONCORD, CITY OF | 3301100020A | 28-JUL-1999 | 99-01-936A | 01
01 | NH | EPSOM, TOWN OF | 3301120010B | 01-NOV-1999 | 98-01-027P | 05
01 | NH | FREMONT, TOWN OF | 3301310005C | 22-DEC-1999 | 99-01-1180A | 02
01 | NH | FREMONT, TOWN OF | 3301310005C | 22-SEP-1999 | 99-01-742A | 02
01 | NH | GORHAM, TOWN OF | 3300320010C | 29-DEC-1999 | 99-01-1288A | 02
01 | NH | GORHAM, TOWN OF | 3300320015C | 01-DEC-1999 | 99-01-017P | 05
01 | NH | HAMPSTEAD, TOWN OF | 3302110005A | 01-DEC-1999 | 99-01-1364A | 02
01 | NH | JACKSON, TOWN OF | 3300140025B | 18-AUG-1999 | 99-01-1078A | 02
01 | NH | MANCHESTER, CITY OF | 3301690020B | 01-DEC-1999 | 00-01-0110A | 02
01 | NH | MIDDLETON, TOWN OF | 3302220001B | 11-AUG-1999 | 99-01-1100A | 02
01 | NH | NEW DURHAM, TOWN OF | 3302270010B | 29-SEP-1999 | 99-01-1152A | 02
01 | NH | PELHAM, TOWN OF | 3301000001B | 09-DEC-1999 | 99-01-1278A | 02
01 | NH | PORTSMOUTH, CITY OF | 3301390015B | 06-OCT-1999 | 99-01-033P | 05
01 | NH | RAYMOND, TOWN OF | 3301400005D | 01-DEC-1999 | 99-01-1374A | 02
01 | NH | RAYMOND, TOWN OF | 3301400005D | 17-SEP-1999 | 99-01-992A | 02
01 | NH | SALEM, TOWN OF | 3301420005C | 07-JUL-1999 | 99-01-880A | 02
01 | NH | SALEM, TOWN OF | 3301420010C | 15-SEP-1999 | 99-01-045P | 05
01 | NH | WOLFEBORO, TOWN OF | 3302390015A | 18-AUG-1999 | 99-01-1066A | 02
01 | RI | BARRINGTON, TOWN OF | 44001C0007F | 27-OCT-1999 | 99-01-1314A | 02
01 | RI | COVENTRY, TOWN OF | 4400040015A | 03-NOV-1999 | 99-01-1258A | 02
01 | RI | COVENTRY, TOWN OF | 4400040015A | 22-SEP-1999 | 99-01-1178A | 02
01 | RI | CRANSTON, CITY OF | 4453960009B | 10-NOV-1999 | 00-01-0038A | 02
01 | RI | CRANSTON, CITY OF | 4453960009B | 20-AUG-1999 | 99-01-1136A | 02
01 | RI | HOPKINTON, TOWN OF | 4400280009B | 03-NOV-1999 | 99-01-1276A | 02
01 | RI | NEW SHOREHAM, TOWN OF | 4400360004D | 16-JUL-1999 | 99-01-894A | 02
01 | RI | NEWPORT, CITY OF | 4454030002F | 14-JUL-1999 | 99-01-976A | 02
01 | RI | NORTH KINGSTOWN, TOWN OF | 4454040008B | 03-NOV-1999 | 99-01-1406A | 02
01 | RI | NORTH PROVIDENCE, TOWN OF | 4400200001B | 07-DEC-1999 | 00-01-0200V | 19
01 | RI | PORTSMOUTH, TOWN OF | 4454050004D | 01-OCT-1999 | 99-01-1118A | 02
01 | RI | PROVIDENCE, CITY OF | 4454060002E | 22-SEP-1999 | 99-01-950A | 02
01 | RI | SOUTH KINGSTOWN, TOWN OF | 4454070003D | 24-NOV-1999 | 00-01-0078A | 02
01 | RI | SOUTH KINGSTOWN, TOWN OF | 4454070028F | 07-JUL-1999 | 99-01-606A | 02
01 | RI | WARWICK, CITY OF | 4454090006E | 24-SEP-1999 | 99-01-1074A | 02
01 | RI | WARWICK, CITY OF | 4454090009D | 16-JUL-1999 | 99-01-688A | 02
01 | VT | CAMBRIDGE, TOWN OF | 5000610025B | 27-AUG-1999 | 99-01-990A | 02
01 | VT | CANAAN, TOWN OF | 5000460005B | 13-AUG-1999 | 99-01-924A | 02
01 | VT | FERRISBURG, TOWN OF | 5000020020B | 20-OCT-1999 | 99-01-1328A | 02
01 | VT | FERRISBURG, TOWN OF | 5000020020B | 24-SEP-1999 | 99-01-1230A | 02
01 | VT | GRAFTON, TOWN OF | 5001290015D | 03-SEP-1999 | 99-01-1070A | 02
01 | VT | GROTON, TOWN OF | 5000260010B | 27-OCT-1999 | 99-01-1376A | 02
01 | VT | HARTFORD, TOWN OF | 5001480007B | 17-DEC-1999 | 99-01-1040A | 01
01 | VT | LONDONDERRY, TOWN OF | 5001320005C | 05-NOV-1999 | 00-01-0042A | 02
01 | VT | LUDLOW, TOWN OF | 5001500015B | 22-SEP-1999 | 99-01-1200A | 02
01 | VT | LUDLOW, VILLAGE OF | 5002940001B | 08-OCT-1999 | 99-01-1212A | 02
01 | VT | LUDLOW, VILLAGE OF | 5002940001B | 21-JUL-1999 | 99-01-1030A | 02
01 | VT | NEWBURY, TOWN OF | 5002370005C | 22-JUL-1999 | 99-01-1128V | 19
01 | VT | NEWFANE, TOWN AND VILLAGE OF | 5001330020B | 05-NOV-1999 | 00-01-0066A | 02
01 | VT | NEWFANE, TOWN AND VILLAGE OF | 5001330020B | 17-SEP-1999 | 99-01-1090A | 02
01 | VT | PITTSFORD, TOWN OF | 5000980015B | 03-NOV-1999 | 99-01-1356A | 02
01 | VT | STAMFORD, TOWN OF | 5000200020B | 29-OCT-1999 | 99-01-1368A | 02
01 | VT | THETFORD, TOWN OF | 5000750010B | 21-DEC-1999 | 00-01-0202V | 19
01 | VT | WALLINGFORD, TOWN OF | 5001030005B | 01-DEC-1999 | 00-01-0116A | 02
01 | VT | WELLS, TOWNSHIP OF | 5002710001B | 22-DEC-1999 | 00-01-0176A | 02
01 | VT | WINDSOR, TOWN OF | 5001590004C | 20-AUG-1999 | 99-01-1116A | 02
02 | NJ | ABSECON, CITY OF | 3400010001C | 24-AUG-1999 | 99-02-1320V | 19
02 | NJ | BERNARDSVILLE, BOROUGH OF | 3404290001B | 27-OCT-1999 | 99-02-1068A | 01
02 | NJ | BOONTON, TOWNSHIP OF | 3403360010C | 24-NOV-1999 | 00-02-0122A | 02
02 | NJ | BOUND BROOK, BOROUGH OF | 3404300001C | 03-NOV-1999 | 99-02-1242A | 02
02 | NJ | BRICK, TOWNSHIP OF | 3452850005D | 13-OCT-1999 | 99-02-1262A | 02
02 | NJ | CARLSTADT, BOROUGH OF | 34003C0254F | 24-NOV-1999 | 99-02-1350A | 02
02 | NJ | COLTS NECK, TOWNSHIP OF | 3402910002C | 22-DEC-1999 | 99-02-888A | 02
02 | NJ | CRANFORD, TOWNSHIP OF | 3452910001B | 10-NOV-1999 | 00-02-0038A | 02
02 | NJ | CRANFORD, TOWNSHIP OF | 3452910001B | 17-DEC-1999 | 00-02-0032A | 02
02 | NJ | DENVILLE, TOWNSHIP OF | 3452920005B | 27-AUG-1999 | 99-02-1052A | 02
02 | NJ | EVESHAM, TOWNSHIP OF | 3400970003C | 22-SEP-1999 | 99-02-1028A | 02
02 | NJ | FAIR LAWN, BOROUGH OF | 34003C0167F | 27-OCT-1999 | 99-02-1356A | 02
02 | NJ | FAIR LAWN, BOROUGH OF | 34003C0167F | 01-SEP-1999 | 99-02-1136A | 02
02 | NJ | FAIR LAWN, BOROUGH OF | 34003C0186F | 02-JUL-1999 | 99-02-884A | 02
02 | NJ | FRANKLIN LAKES, BOROUGH OF | 34003C0064F | 03-NOV-1999 | 99-02-1326A | 02
02 | NJ | FRANKLIN LAKES, BOROUGH OF | 34003C0066F | 05-NOV-1999 | 99-02-1366A | 02
02 | NJ | FRANKLIN LAKES, BOROUGH OF | 34003C0066F | 21-JUL-1999 | 99-02-878A | 02
02 | NJ | FRANKLIN LAKES, BOROUGH OF | 34003C0151F | 22-SEP-1999 | 99-02-896A | 02
02 | NJ | GLEN ROCK, BOROUGH OF | 34003C0159G | 06-OCT-1999 | 99-02-1018A | 02
02 | NJ | GLEN ROCK, BOROUGH OF | 34003C0159G | 17-SEP-1999 | 99-02-940A | 02
02 | NJ | GREENWICH, TOWNSHIP OF | 3402040004C | 01-SEP-1999 | 99-02-1062A | 02
02 | NJ | HAMILTON, TOWNSHIP OF | 3400090005A | 08-OCT-1999 | 99-02-942A | 02
02 | NJ | HAMILTON, TOWNSHIP OF | 3402460015C | 17-NOV-1999 | 00-02-0068A | 02
02 | NJ | HAMILTON, TOWNSHIP OF | 3402460015C | 29-DEC-1999 | 99-02-1334A | 02
02 | NJ | HAMILTON, TOWNSHIP OF | 3402460015C | 11-AUG-1999 | 99-02-914A | 02
02 | NJ | HIGHLANDS, BOROUGH OF | 3452970001B | 03-SEP-1999 | 99-02-978A | 02
02 | NJ | HIGHLANDS, BOROUGH OF | 3452970001B | 27-AUG-1999 | 99-02-1066A | 02
02 | NJ | HOBOKEN, CITY OF | 3402220001B | 28-DEC-1999 | 00-02-0006A | 01
02 | NJ | HOBOKEN, CITY OF | 3402220001B | 06-OCT-1999 | 99-02-1114A | 02
02 | NJ | HO-HO-KUS, BOROUGH OF | 34003C0176F | 10-SEP-1999 | 99-02-1286A | 02
02 | NJ | HOWELL, TOWNSHIP OF | 3403010016B | 13-OCT-1999 | 99-02-934A | 02
02 | NJ | LINCOLN PARK, BOROUGH OF | 3453000001B | 16-JUL-1999 | 99-02-988A | 01
02 | NJ | LINDEN, CITY OF | 3404670002B | 10-AUG-1999 | 99-02-003P | 05
02 | NJ | LINDEN, CITY OF | 3404670002B | 10-AUG-1999 | 99-02-005P | 05
02 | NJ | LITTLE EGG HARBOR, TOWNSHIP OF | 3403800027B | 13-OCT-1999 | 99-02-1168A | 02
02 | NJ | LIVINGSTON, TOWNSHIP OF | 3401850002D | 17-SEP-1999 | 99-02-962A | 02
02 | NJ | LOWER ALLOWAYS CREEK, TOWNSHIP OF | 3404160013B | 29-DEC-1999 | 00-02-0132A | 02
02 | NJ | LOWER ALLOWAYS CREEK, TOWNSHIP OF | 3404160013B | 16-JUL-1999 | 99-02-916A | 02
02 | NJ | MAHWAH, TOWNSHIP OF | 34003C0057F | 29-DEC-1999 | 00-02-0160A | 02
02 | NJ | MAHWAH, TOWNSHIP OF | 34003C0059F | 23-JUL-1999 | 99-02-910A | 01
02 | NJ | MANALAPAN, TOWNSHIP OF | 3403080002A | 01-NOV-1999 | 99-02-063P | 05
02 | NJ | MANASQUAN, BOROUGH OF | 3453030001C | 20-AUG-1999 | 99-02-1026A | 02
02 | NJ | MANTUA, TOWNSHIP OF | 3402070015B | 01-SEP-1999 | 99-02-1100A | 02
02 | NJ | MIDDLESEX, BOROUGH OF | 3453050001B | 01-JUL-1999 | 99-02-874A | 02
02 | NJ | MIDDLETOWN, TOWNSHIP OF | 3403130002B | 10-SEP-1999 | 99-02-1158A | 02
02 | NJ | MONROE, TOWNSHIP OF | 3402690003C | 22-JUL-1999 | 99-02-1002A | 02
02 | NJ | MONTGOMERY, TOWNSHIP OF | 3404390005B | 20-OCT-1999 | 99-02-930A | 02
02 | NJ | MONTVALE, BOROUGH OF | 34003C0091F | 22-OCT-1999 | 99-02-1352A | 02
02 | NJ | MONTVALE, BOROUGH OF | 34003C0091F | 01-SEP-1999 | 99-02-1090A | 02
02 | NJ | MONTVALE, BOROUGH OF | 34003C0091F | 03-NOV-1999 | 99-02-1086A | 17
02 | NJ | NEPTUNE, TOWNSHIP OF | 3403170003C | 03-DEC-1999 | 00-02-0110A | 02
02 | NJ | NEPTUNE, TOWNSHIP OF | 3403170003C | 12-NOV-1999 | 00-02-0036A | 02
02 | NJ | NEWARK, CITY OF | 3401890004B | 22-DEC-1999 | 00-02-0288A | 01
02 | NJ | OCEAN, TOWNSHIP OF | 3403190005D | 16-JUL-1999 | 99-02-534A | 02
02 | NJ | OLD BRIDGE, TOWN OF | 3402650004D | 15-SEP-1999 | 99-02-690A | 02
02 | NJ | PALMYRA, BOROUGH OF | 3401100001C | 08-DEC-1999 | 00-02-0222X | 01
02 | NJ | PALMYRA, BOROUGH OF | 3401100001C | 20-OCT-1999 | 99-02-1250A | 01
02 | NJ | PALMYRA, BOROUGH OF | 3401100001C | 20-AUG-1999 | 99-02-1150A | 02
02 | NJ | PARSIPPANY-TROY HILLS, TOWNSHIP OF | 3403550009B | 01-OCT-1999 | 99-02-1008A | 01
02 | NJ | PARSIPPANY-TROY HILLS, TOWNSHIP OF | 3403550009B | 01-SEP-1999 | 99-02-982A | 02
02 | NJ | PASSAIC, TOWNSHIP OF | 340356A | 01-SEP-1999 | 99-02-1048A | 02
02 | NJ | PASSAIC, TOWNSHIP OF | 340356A | 20-AUG-1999 | 99-02-708A | 02
02 | NJ | PATERSON, CITY OF | 3404040001A | 15-SEP-1999 | 99-02-055P | 05
02 | NJ | PENNSVILLE, TOWNSHIP OF | 3405120005B | 17-DEC-1999 | 00-02-0258A | 02
02 | NJ | PENNSVILLE, TOWNSHIP OF | 3405120005B | 12-NOV-1999 | 99-02-1404A | 02
02 | NJ | PEQUANNOCK, VILLAGE OF | 3453110001C | 29-DEC-1999 | 00-02-0204A | 02
02 | NJ | PEQUANNOCK, VILLAGE OF | 3453110001C | 19-NOV-1999 | 00-02-0096A | 02
02 | NJ | PEQUANNOCK, VILLAGE OF | 3453110001C | 17-SEP-1999 | 99-02-1198A | 02
02 | NJ | PEQUANNOCK, VILLAGE OF | 3453110001C | 12-NOV-1999 | 99-02-1078A | 02
02 | NJ | PEQUANNOCK, VILLAGE OF | 3453110001C | 04-AUG-1999 | 99-02-902A | 02
02 | NJ | PLAINSBORO, TOWN OF | 3402750003B | 13-OCT-1999 | 99-02-846A | 01
02 | NJ | POINT PLEASANT, BOROUGH OF | 3453130001B | 27-OCT-1999 | 99-02-1396A | 02
02 | NJ | PRINCETON, TOWNSHIP OF | 3402520003B | 12-NOV-1999 | 99-02-1238A | 02
02 | NJ | ROSELLE, BOROUGH OF | 3404720001A | 10-AUG-1999 | 99-02-005P | 05
02 | NJ | ROSELLE, BOROUGH OF | 3404720001A | 10-AUG-1999 | 99-02-003P | 05
02 | NJ | ROXBURY, TOWNSHIP OF | 3403620006B | 24-SEP-1999 | 99-02-932A | 01
02 | NJ | SCOTCH PLAINS, TOWNSHIP OF | 3404740005B | 01-OCT-1999 | 99-02-1274A | 02
02 | NJ | SOUTH BRUNSWICK, TOWNSHIP OF | 3402780006B | 03-DEC-1999 | 99-02-016A | 01
02 | NJ | SUMMIT, CITY OF | 3404760001A | 13-OCT-1999 | 99-02-706A | 02
02 | NJ | UPPER SADDLE RIVER, BOROUGH OF | 34003C0086G | 06-OCT-1999 | 99-02-644A | 01
02 | NJ | WASHINGTON, TOWNSHIP OF | 3402130003B | 08-SEP-1999 | 99-02-1014A | 02
02 | NJ | WEST MILFORD, TOWNSHIP OF | 3404110004B | 24-SEP-1999 | 99-02-960A | 02
02 | NJ | WINSLOW, TOWNSHIP OF | 3401480013B | 18-AUG-1999 | 99-02-970A | 02
02 | NJ | WINSLOW, TOWNSHIP OF | 3401480026B | 06-AUG-1999 | 99-02-530A | 02
02 | NY | AMENIA, TOWN OF | 3613320015D | 30-JUL-1999 | 99-02-974A | 02
02 | NY | AMHERST, TOWN OF | 3602260004D | 12-NOV-1999 | 99-02-1390A | 02
02 | NY | AMHERST, TOWN OF | 3602260004D | 25-AUG-1999 | 99-02-1044A | 02
02 | NY | ANGOLA, VILLAGE OF | 360982B | 01-SEP-1999 | 99-02-1034A | 02
02 | NY | ARCADE, VILLAGE OF | 3615550005D | 21-JUL-1999 | 99-02-968A | 01
02 | NY | BARNEVELD, VILLAGE OF | 3615690001C | 04-AUG-1999 | 99-02-1000A | 02
02 | NY | BEACON, CITY OF | 3602170001B | 22-DEC-1999 | 99-02-027P | 06
02 | NY | BEEKMANTOWN, TOWN OF | 3601660005B | 22-SEP-1999 | 99-02-1288A | 02
02 | NY | BELLMONT, TOWN OF | 361392A | 19-NOV-1999 | 00-02-0080A | 02
02 | NY | BELLMONT, TOWN OF | 361392A | 20-OCT-1999 | 99-02-646A | 02
02 | NY | BETHLEHEM, TOWN OF | 3615400010B | 28-JUL-1999 | 99-02-882A | 02
02 | NY | BOONVILLE, TOWN OF | 3605190010B | 29-SEP-1999 | 99-02-992A | 02
02 | NY | BRIGHTON, TOWN OF | 3604100005B | 08-NOV-1999 | 99-02-007P | 05
02 | NY | BRUNSWICK, TOWN OF | 3611300005B | 10-OCT-1999 | 99-02-1302A | 02
02 | NY | BUFFALO, CITY OF | 3602300010B | 02-JUL-1999 | 99-02-892A | 02
02 | NY | BUFFALO, CITY OF | 3602300010C | 29-DEC-1999 | 00-02-0118A | 02
02 | NY | BUFFALO, CITY OF | 3602300010C | 03-DEC-1999 | 00-02-0108A | 02
02 | NY | BUFFALO, CITY OF | 3602300010C | 01-DEC-1999 | 00-02-0104A | 02
02 | NY | BUFFALO, CITY OF | 3602300010C | 10-DEC-1999 | 00-02-0090A | 02
02 | NY | BUFFALO, CITY OF | 3602300010C | 03-DEC-1999 | 00-02-0092A | 02
02 | NY | BUFFALO, CITY OF | 3602300010C | 22-DEC-1999 | 00-02-0098A | 02
02 | NY | BUFFALO, CITY OF | 3602300010C | 10-SEP-1999 | 99-02-1294A | 02
02 | NY | BUFFALO, CITY OF | 3602300010C | 29-SEP-1999 | 99-02-1296A | 02
02 | NY | BUFFALO, CITY OF | 3602300010C | 22-DEC-1999 | 99-02-1300A | 02
02 | NY | BUFFALO, CITY OF | 3602300010C | 24-AUG-1999 | 99-02-1012A | 02
02 | NY | BUFFALO, CITY OF | 3602300010C | 24-AUG-1999 | 99-02-1370V | 19
02 | NY | CAMILLUS, TOWN OF | 3605700004D | 17-SEP-1999 | 99-02-1116A | 02
02 | NY | CAMILLUS, TOWN OF | 3605700006D | 13-OCT-1999 | 99-02-1260A | 02
02 | NY | CAMPBELL, TOWN OF | 3607680010C | 23-JUL-1999 | 99-02-918A | 02
02 | NY | CAPE VINCENT, TOWN OF | 361062C | 08-OCT-1999 | 99-02-1178A | 02
02 | NY | CARMEL,TOWN OF | 3606690003C | 19-NOV-1999 | 99-02-1064A | 02
02 | NY | CHEEKTOWAGA, TOWN OF | 3602310010F | 06-OCT-1999 | 99-02-1166A | 02
02 | NY | CHESTER, TOWN OF | 3608700005B | 10-NOV-1999 | 99-02-1400A | 02
02 | NY | CHESTER, TOWN OF | 3608700010B | 18-AUG-1999 | 99-02-1080A | 01
02 | NY | CICERO, TOWN OF | 3605720004D | 22-DEC-1999 | 00-02-0196A | 02
02 | NY | CICERO, TOWN OF | 3605720004D | 04-AUG-1999 | 99-02-954A | 02
02 | NY | CLARENCE, TOWN OF | 3602320005C | 22-OCT-1999 | 99-02-1394A | 02
02 | NY | CLARENCE, TOWN OF | 3602320005C | 18-AUG-1999 | 99-02-1006A | 02
02 | NY | CLARENCE, TOWN OF | 3602320011C | 29-DEC-1999 | 00-02-0234A | 17
02 | NY | CLARENCE, TOWN OF | 3602320011C | 24-NOV-1999 | 00-02-0078A | 02
02 | NY | CLARENCE, TOWN OF | 3602320011C | 20-OCT-1999 | 99-02-1412A | 02
02 | NY | CLARENCE, TOWN OF | 3602320011C | 10-NOV-1999 | 99-02-1406A | 02
02 | NY | CLARENCE, TOWN OF | 3602320011C | 12-NOV-1999 | 99-02-1266A | 02
02 | NY | CLARENCE, TOWN OF | 3602320013C | 12-NOV-1999 | 99-02-1312A | 02
02 | NY | CLARENCE, TOWN OF | 3602320013C | 17-SEP-1999 | 99-02-1252A | 02
02 | NY | CLARENCE, TOWN OF | 3602320013C | 20-AUG-1999 | 99-02-1092A | 02
02 | NY | CLARENCE, TOWN OF | 3602320013C | 13-OCT-1999 | 99-02-1094A | 02
02 | NY | CLARENCE, TOWN OF | 3602320014C | 18-AUG-1999 | 99-02-990A | 02
02 | NY | CORTLAND, CITY OF | 3601780001C | 22-OCT-1999 | 99-02-1402A | 02
02 | NY | CROWN POINT,TOWN OF | 3611480020B | 08-DEC-1999 | 99-02-1342A | 02
02 | NY | DEER PARK, TOWN OF | 3606120005C | 21-OCT-1999 | 99-02-1386V | 19
02 | NY | DRESDEN, TOWN OF | 3614100015B | 22-OCT-1999 | 99-02-1060A | 02
02 | NY | EAST AURORA, VILLAGE OF | 3653350005B | 08-DEC-1999 | 99-02-976A | 02
02 | NY | EAST FISHKILL, TOWN OF | 3613360013B | 01-SEP-1999 | 99-02-1098A | 02
02 | NY | EAST ROCKAWAY, VILLAGE OF | 36059C0218F | 28-JUL-1999 | 99-02-522A | 02
02 | NY | EASTON, TOWN OF | 3612240010B | 01-DEC-1999 | 00-02-0062A | 02
02 | NY | ELLENBURG, TOWN OF | 361382A | 08-OCT-1999 | 99-02-1276A | 02
02 | NY | ELLENBURG, TOWN OF | 361382A | 08-OCT-1999 | 99-02-1278A | 02
02 | NY | ELMIRA, CITY OF | 3601500005C | 28-DEC-1999 | 99-02-248P | 05
02 | NY | FINE, TOWN OF | 361177B | 21-JUL-1999 | 99-02-814A | 02
02 | NY | GORHAM, TOWN OF | 3606010001C | 12-NOV-1999 | 99-02-1182A | 02
02 | NY | GORHAM, TOWN OF | 3606010003C | 06-OCT-1999 | 99-02-1176A | 02
02 | NY | GORHAM, TOWN OF | 3606010003C | 24-SEP-1999 | 99-02-1118A | 02
02 | NY | GOSHEN, VILLAGE OF | 3615710004B | 17-SEP-1999 | 99-02-736A | 02
02 | NY | GRAFTON, TOWN OF | 3611500003B | 03-DEC-1999 | 99-02-1362A | 02
02 | NY | GREECE, TOWN OF | 3604170004E | 03-NOV-1999 | 00-02-0040A | 01
02 | NY | GREECE, TOWN OF | 3604170004E | 29-OCT-1999 | 99-02-1184A | 01
02 | NY | GREECE, TOWN OF | 3604170006E | 20-OCT-1999 | 99-02-1360A | 02
02 | NY | HAMBURG, TOWN OF | 3602440005B | 17-DEC-1999 | 99-02-041P | 05
02 | NY | HEMPSTEAD, TOWN OF | 36059C0214G | 24-SEP-1999 | 99-02-1324A | 02
02 | NY | HEMPSTEAD, TOWN OF | 36059C0261F | 03-NOV-1999 | 99-02-1322A | 02
02 | NY | HENRIETTA, TOWN OF | 3604190005E | 16-DEC-1999 | 00-02-0170A | 01
02 | NY | HENRIETTA, TOWN OF | 3604190005E | 08-DEC-1999 | 99-02-1128A | 02
02 | NY | ILION, VILLAGE OF | 3603080001C | 17-DEC-1999 | 00-02-0100A | 02
02 | NY | ILION, VILLAGE OF | 3603080001C | 10-SEP-1999 | 99-02-1380V | 19
02 | NY | JERUSALEM, TOWN OF | 360959C | 13-JUL-1999 | 99-02-1010A | 02
02 | NY | LAGRANGE, TOWN OF | 3610110005D | 10-SEP-1999 | 99-02-1378V | 19
02 | NY | LAGRANGE, TOWN OF | 3610110015C | 18-AUG-1999 | 99-02-952A | 02
02 | NY | LANCASTER, TOWN OF | 3602490002B | 22-OCT-1999 | 99-02-1280A | 02
02 | NY | LANCASTER, TOWN OF | 3602490010B | 10-AUG-1999 | 99-02-045P | 06
02 | NY | LANCASTER, TOWN OF | 3602490010B | 09-AUG-1999 | 98-02-011P | 05
02 | NY | LANSING, TOWN OF | 3608520037C | 02-JUL-1999 | 99-02-558A | 02
02 | NY | LEWISTON, TOWN OF | 3605020010B | 25-AUG-1999 | 99-02-1040A | 02
02 | NY | LONG BEACH, CITY OF | 36059C0309F | 23-JUL-1999 | 99-02-958A | 02
02 | NY | LYSANDER, TOWN OF | 3605830015B | 28-JUL-1999 | 99-02-870A | 02
02 | NY | MAMARONECK, VILLAGE OF | 3609160002D | 12-NOV-1999 | 99-02-1282A | 02
02 | NY | MILO, TOWN OF | 360961C | 03-DEC-1999 | 99-02-1408A | 02
02 | NY | MOUNT KISCO, VILLAGE OF | 3609180001B | 08-JUL-1999 | 99-02-760A | 02
02 | NY | NEW YORK, CITY OF | 3604970076C | 17-SEP-1999 | 99-02-1310A | 02
02 | NY | NEW YORK, CITY OF | 3604970082C | 17-DEC-1999 | 00-02-0232A | 02
02 | NY | NEW YORK, CITY OF | 3604970082C | 03-DEC-1999 | 99-02-1164A | 02
02 | NY | NEW YORK, CITY OF | 3604970082C | 08-OCT-1999 | 99-02-1004A | 02
02 | NY | NEW YORK, CITY OF | 3604970082C | 21-JUL-1999 | 99-02-904A | 02
02 | NY | NEW YORK, CITY OF | 3604970092C | 10-SEP-1999 | 99-02-1112A | 02
02 | NY | NEW YORK, CITY OF | 3604970092C | 20-JUL-1999 | 99-02-754A | 02
02 | NY | NEW YORK, CITY OF | 3604970092C | 08-SEP-1999 | 99-02-716A | 02
02 | NY | NEW YORK, CITY OF | 3604970092C | 13-AUG-1999 | 99-02-714A | 02
02 | NY | NEW YORK, CITY OF | 3604970107B | 30-JUL-1999 | 99-02-620A | 02
02 | NY | NEW YORK, CITY OF | 3604970114D | 22-SEP-1999 | 99-02-1020A | 02
02 | NY | NEW YORK, CITY OF | 3604970114D | 08-JUL-1999 | 99-02-818A | 02
02 | NY | NEW YORK, CITY OF | 3604970114D | 05-NOV-1999 | 99-02-752A | 02
02 | NY | NEW YORK, CITY OF | 3604970115B | 13-OCT-1999 | 99-02-1240A | 02
02 | NY | NEW YORK, CITY OF | 3604970115B | 30-JUL-1999 | 99-02-926A | 02
02 | NY | NEW YORK, CITY OF | 3604970125D | 29-SEP-1999 | 99-02-1124A | 02
02 | NY | NEW YORK, CITY OF | 3604970125D | 27-AUG-1999 | 99-02-1038A | 02
02 | NY | NEW YORK, CITY OF | 3604970126B | 06-OCT-1999 | 99-02-1348A | 02
02 | NY | NEW YORK, CITY OF | 3604970127C | 23-JUL-1999 | 99-02-848A | 02
02 | NY | NEW YORK, CITY OF | 3604970128D | 22-OCT-1999 | 99-02-920A | 02
02 | NY | NEW YORK, CITY OF | 3604970131C | 13-AUG-1999 | 99-02-908A | 02
02 | NY | NEWSTEAD, TOWN OF | 3602510020D | 23-NOV-1999 | 99-02-1154A | 02
02 | NY | NORWICH, TOWN OF | 3601620012B | 29-OCT-1999 | 99-02-1290A | 01
02 | NY | OLIVE, TOWN OF | 3608600025B | 17-NOV-1999 | 99-02-1174A | 02
02 | NY | OSWEGO, CITY OF | 3606560004D | 30-JUL-1999 | 99-02-035P | 05
02 | NY | OWEGO, TOWN OF | 3608390030C | 08-DEC-1999 | 00-02-0094A | 02
02 | NY | OYSTER BAY, TOWN OF | 36059C0039F | 06-OCT-1999 | 99-02-1088A | 02
02 | NY | PHILIPSTOWN,TOWN OF | 3610260001B | 04-AUG-1999 | 99-02-626A | 02
02 | NY | PLEASANT VALLEY, TOWN OF | 3602210015B | 21-JUL-1999 | 99-02-946A | 02
02 | NY | PORT JERVIS, CITY OF | 3609760001B | 06-OCT-1999 | 99-02-734A | 02
02 | NY | POUGHKEEPSIE, TOWN OF | 3611420001C | 10-SEP-1999 | 99-02-1376V | 19
02 | NY | POUGHKEEPSIE, TOWN OF | 3611420015B | 16-JUL-1999 | 99-02-686A | 17
02 | NY | PREBLE, TOWN OF | 360185B | 06-AUG-1999 | 99-02-838A | 02
02 | NY | PUTNAM, TOWN OF | 3612360005B | 01-SEP-1999 | 99-02-1104A | 02
02 | NY | RED HOOK, TOWN OF | 3611430027B | 30-JUL-1999 | 99-02-748A | 02
02 | NY | RIVERHEAD, TOWN OF | 36103C0479G | 23-JUL-1999 | 99-02-894A | 02
02 | NY | ROME, CITY OF | 3605420009C | 22-DEC-1999 | 00-02-0242X | 02
02 | NY | ROME, CITY OF | 3605420009C | 03-NOV-1999 | 99-02-640A | 02
02 | NY | ROTTERDAM, TOWN OF | 3607400004B | 27-OCT-1999 | 99-02-1196A | 02
02 | NY | ROTTERDAM, TOWN OF | 3607400012B | 03-DEC-1999 | 00-02-0084A | 02
02 | NY | ROTTERDAM, TOWN OF | 3607400012B | 29-OCT-1999 | 99-02-1140A | 02
02 | NY | ROTTERDAM, TOWN OF | 3607400012B | 12-AUG-1999 | 99-02-832A | 02
02 | NY | SALINA, TOWN OF | 3605910007A | 16-JUL-1999 | 99-02-938A | 02
02 | NY | SARDINIA, TOWN OF | 3602560010B | 29-DEC-1999 | 00-02-0152A | 02
02 | NY | SCRIBA, TOWN OF | 3606630010B | 20-OCT-1999 | 99-02-802A | 01
02 | NY | SLOATSBURG, VILLAGE OF | 3606900001C | 01-DEC-1999 | 99-02-009P | 05
02 | NY | SMITHFIELD, TOWN OF | 361294B | 19-NOV-1999 | 99-02-1058A | 02
02 | NY | SOUTHAMPTON, TOWN OF | 36103C0537G | 27-OCT-1999 | 99-02-1138A | 02
02 | NY | SOUTHAMPTON, TOWN OF | 36103C0762G | 08-SEP-1999 | 99-02-1076A | 02
02 | NY | SOUTHOLD,TOWN OF | 36103C0158G | 06-OCT-1999 | 99-02-770A | 02
02 | NY | SPENCERPORT, VILLAGE OF | 3604330005B | 22-SEP-1999 | 99-02-1096A | 02
02 | NY | STILLWATER, VILLAGE OF | 36091C0584E | 08-OCT-1999 | 99-02-912A | 02
02 | NY | STONY POINT, TOWN OF | 3606930007C | 22-SEP-1999 | 99-02-1122A | 02
02 | NY | STONY POINT, TOWN OF | 3606930011C | 22-OCT-1999 | 99-02-1264A | 02
02 | NY | SUFFERN, VILLAGE OF | 3606940001B | 27-OCT-1999 | 99-02-1156A | 01
02 | NY | TROY, CITY OF | 3606770002B | 10-DEC-1999 | 00-02-0042A | 02
02 | NY | TROY, CITY OF | 3606770003B | 29-SEP-1999 | 99-02-1106A | 02
02 | NY | WALLKILL, TOWN OF | 3606340020B | 17-NOV-1999 | 00-02-0074A | 02
02 | NY | WAPPINGER, TOWN OF | 3613870015A | 03-SEP-1999 | 99-02-1108A | 02
02 | NY | WARWICK, VILLAGE OF | 3606370001C | 19-OCT-1999 | 00-02-0044A | 02
02 | NY | WARWICK, VILLAGE OF | 3606370001C | 25-AUG-1999 | 99-02-664A | 02
02 | NY | WELLSVILLE, VILLAGE OF | 3600360001B | 28-JUL-1999 | 99-02-746A | 02
02 | NY | WHEATFIELD, TOWN OF | 3605130004D | 23-NOV-1999 | 00-02-0126A | 02
02 | NY | WHEATFIELD, TOWN OF | 3605130007D | 17-DEC-1999 | 00-02-0060A | 02
02 | NY | WILSON, TOWN OF | 3605140020C | 04-AUG-1999 | 99-02-1084A | 01
02 | NY | YONKERS, CITY OF | 3609360005C | 17-DEC-1999 | 00-02-0200A | 02
02 | NY | YONKERS, CITY OF | 3609360010C | 29-DEC-1999 | 00-02-0286A | 02
02 | NY | YORKTOWN, TOWN OF | 3609370012C | 08-SEP-1999 | 99-02-1110A | 02
02 | PR | PUERTO RICO, COMMONWEALTH OF | 7200000192C | 14-JUL-1999 | 99-02-764A | 01
02 | PR | PUERTO RICO, COMMONWEALTH OF | 7200000040E | 13-OCT-1999 | 99-02-014A | 01
02 | PR | PUERTO RICO, COMMONWEALTH OF | 7200000045E | 18-NOV-1999 | 00-02-0136A | 02
02 | PR | PUERTO RICO, COMMONWEALTH OF | 7200000046D | 18-AUG-1999 | 99-02-856A | 01
02 | PR | PUERTO RICO, COMMONWEALTH OF | 7200000047E | 19-NOV-1999 | 99-02-028A | 02
02 | PR | PUERTO RICO, COMMONWEALTH OF | 7200000049C | 20-AUG-1999 | 99-02-964A | 02
02 | PR | PUERTO RICO, COMMONWEALTH OF | 7200000058D | 10-DEC-1999 | 99-02-030A | 01
02 | PR | PUERTO RICO, COMMONWEALTH OF | 7200000065F | 10-AUG-1999 | 99-02-504A | 01
02 | PR | PUERTO RICO, COMMONWEALTH OF | 7200000114B | 08-SEP-1999 | 99-02-936A | 02
02 | PR | PUERTO RICO, COMMONWEALTH OF | 7200000134E | 03-NOV-1999 | 99-02-024A | 01
02 | PR | PUERTO RICO, COMMONWEALTH OF | 7200000175B | 18-NOV-1999 | 98-02-059P | 05
02 | PR | PUERTO RICO, COMMONWEALTH OF | 7200000219C | 29-SEP-1999 | 99-02-1082A | 01
02 | PR | PUERTO RICO, COMMONWEALTH OF | 7200000219C | 20-AUG-1999 | 99-02-784A | 01
02 | PR | PUERTO RICO, COMMONWEALTH OF | 7200000224B | 22-OCT-1999 | 99-02-026A | 01
03 | DE | DOVER, CITY OF | 1000060005C | 27-OCT-1999 | 00-03-0018A | 02
03 | DE | DOVER, CITY OF | 1000060005C | 25-AUG-1999 | 99-03-1374A | 02
03 | DE | DOVER, CITY OF | 1000060005C | 16-JUL-1999 | 99-03-1008A | 02
03 | DE | ELSMERE, TOWN OF | 10003C0152F | 17-DEC-1999 | 00-03-0152A | 02
03 | DE | KENT COUNTY * | 1000010075B | 03-NOV-1999 | 99-03-1564A | 02
03 | DE | KENT COUNTY * | 1000010075B | 29-OCT-1999 | 99-03-1392A | 02
03 | DE | KENT COUNTY * | 1000010075B | 20-AUG-1999 | 99-03-1146A | 02
03 | DE | KENT COUNTY * | 1000010075B | 21-JUL-1999 | 99-03-970A | 02
03 | DE | KENT COUNTY * | 1000010075B | 30-JUL-1999 | 99-03-612A | 02
03 | DE | KENT COUNTY * | 1000010080B | 22-DEC-1999 | 00-03-0024A | 02
03 | DE | KENT COUNTY * | 1000010090B | 28-JUL-1999 | 98-03-1834A | 02
03 | DE | KENT COUNTY * | 1000010130C | 08-DEC-1999 | 00-03-0184A | 02
03 | DE | KENT COUNTY * | 1000010130C | 17-SEP-1999 | 99-03-822A | 02
03 | DE | KENT COUNTY * | 1000010200B | 15-OCT-1999 | 99-03-1534A | 02
03 | DE | NEW CASTLE COUNTY * | 10003C0060F | 21-JUL-1999 | 99-03-1098A | 02
03 | DE | NEW CASTLE COUNTY * | 10003C0069F | 16-JUL-1999 | 99-03-824A | 02
03 | DE | NEW CASTLE COUNTY * | 10003C0145F | 06-OCT-1999 | 99-03-1660A | 17
03 | DE | NEW CASTLE COUNTY * | 10003C0230F | 20-AUG-1999 | 99-03-1234A | 02
03 | DE | SELBYVILLE, TOWN OF | 10005C0629F | 17-NOV-1999 | 00-03-0090A | 02
03 | DE | SUSSEX COUNTY* | 10005C0100F | 05-OCT-1999 | 99-03-1770A | 02
03 | DE | SUSSEX COUNTY* | 10005C0250F | 12-NOV-1999 | 99-03-1496A | 02
03 | DE | SUSSEX COUNTY* | 10005C0250F | 06-JUL-1999 | 99-03-996A | 02
03 | DE | SUSSEX COUNTY* | 10005C0355G | 17-SEP-1999 | 99-03-1346A | 01
03 | DE | SUSSEX COUNTY* | 10005C0355G | 18-AUG-1999 | 99-03-1354A | 02
03 | DE | SUSSEX COUNTY* | 10005C0505F | 13-AUG-1999 | 99-03-1320A | 02
03 | DE | WILMINGTON, CITY OF | 10003C0068F | 12-NOV-1999 | 99-03-1572A | 02
03 | MD | ANNE ARUNDEL COUNTY * | 2400080006C | 30-JUL-1999 | 99-03-1262A | 02
03 | MD | ANNE ARUNDEL COUNTY * | 2400080044D | 20-OCT-1999 | 99-03-1172A | 01
03 | MD | ANNE ARUNDEL COUNTY * | 2400080047C | 01-OCT-1999 | 99-03-1276A | 02
03 | MD | BALTIMORE COUNTY* | 2400100025B | 14-AUG-1999 | 99-03-1094A | 02
03 | MD | BALTIMORE COUNTY* | 2400100220C | 20-DEC-1999 | 00-02 | 02
03 | MD | BALTIMORE COUNTY* | 2400100220C | 20-DEC-1999 | 00-02 | 02
03 | MD | BALTIMORE COUNTY* | 2400100245E | 06-OCT-1999 | 99-03-1780A | 17
03 | MD | BALTIMORE COUNTY* | 2400100255B | 22-OCT-1999 | 99-03-1584A | 02
03 | MD | BALTIMORE COUNTY* | 2400100255B | 23-JUL-1999 | 99-03-994A | 02
03 | MD | BALTIMORE COUNTY* | 2400100290B | 13-OCT-1999 | 99-03-918A | 02
03 | MD | BALTIMORE COUNTY* | 2400100295B | 06-OCT-1999 | 99-03-992A | 02
03 | MD | BALTIMORE COUNTY* | 2400100360B | 29-SEP-1999 | 99-03-1252A | 02
03 | MD | BALTIMORE COUNTY* | 2400100370B | 22-SEP-1999 | 99-03-1592A | 02
03 | MD | BALTIMORE COUNTY* | 2400100430B | 30-JUL-1999 | 99-03-1142A | 02
03 | MD | BALTIMORE COUNTY* | 2400100435B | 28-JUL-1999 | 99-03-656A | 02
03 | MD | BALTIMORE COUNTY* | 2400100440C | 22-DEC-1999 | 99-03-1826A | 02
03 | MD | BALTIMORE COUNTY* | 2400100445C | 27-OCT-1999 | 99-03-1650A | 02
03 | MD | BALTIMORE COUNTY* | 2400100445C | 10-SEP-1999 | 99-03-1506A | 02
03 | MD | BALTIMORE COUNTY* | 2400100505B | 08-SEP-1999 | 99-03-1274A | 02
03 | MD | CAROLINE COUNTY * | 2401300165B | 08-OCT-1999 | 99-03-1398A | 02
03 | MD | CARROLL COUNTY * | 2400150050B | 24-NOV-1999 | 00-03-0140A | 02
03 | MD | CARROLL COUNTY * | 2400150075B | 12-NOV-1999 | 99-03-1658A | 02
03 | MD | CECIL COUNTY* | 2400190054A | 22-OCT-1999 | 99-03-1358A | 02
03 | MD | CECIL COUNTY* | 2400190057A | 17-DEC-1999 | 99-03-1418A | 02
03 | MD | CHARLES COUNTY * | 2400890035B | 08-DEC-1999 | 99-03-1850A | 02
03 | MD | DORCHESTER COUNTY * | 2400260200A | 24-NOV-1999 | 00-03-0178A | 02
03 | MD | DORCHESTER COUNTY * | 2400260475A | 08-DEC-1999 | 00-03-0176A | 02
03 | MD | FREDERICK COUNTY * | 2400270115B | 29-DEC-1999 | 00-03-0128A | 02
03 | MD | FREDERICK COUNTY * | 2400270115B | 02-SEP-1999 | 99-03-1400A | 02
03 | MD | FREDERICK COUNTY * | 2400270115B | 30-JUL-1999 | 99-03-1156A | 02
03 | MD | FREDERICK, CITY OF | 2400300003C | 10-OCT-1999 | 99-03-1280A | 02
03 | MD | HOWARD COUNTY* | 2400440016B | 14-OCT-1999 | 99-03-173P | 05
03 | MD | HOWARD COUNTY* | 2400440034B | 31-AUG-1999 | 99-03-1366A | 02
03 | MD | KENT COUNTY * | 2400450030B | 24-NOV-1999 | 00-03-0148A | 02
03 | MD | KENT COUNTY * | 2400450035B | 15-DEC-1999 | 00-03-0504X | 02
03 | MD | KENT COUNTY * | 2400450035B | 03-SEP-1999 | 99-03-1352A | 02
03 | MD | LAUREL, CITY OF | 2400530001D | 29-DEC-1999 | 00-03-0160A | 02
03 | MD | QUEEN ANNES COUNTY | 2400540045B | 28-JUL-1999 | 99-03-1210A | 01
03 | MD | QUEEN ANNES COUNTY | 2400540046C | 18-AUG-1999 | 99-03-1180A | 02
03 | MD | QUEEN ANNES COUNTY | 2400540047B | 06-OCT-1999 | 99-03-1456A | 02
03 | MD | QUEEN ANNES COUNTY | 2400540052B | 10-SEP-1999 | 99-03-1548A | 02
03 | MD | ST. MARYS COUNTY* | 2400640041D | 12-NOV-1999 | 99-03-1590A | 02
03 | MD | TALBOT COUNTY * | 2400660032A | 25-AUG-1999 | 99-03-1318A | 02
03 | MD | TALBOT COUNTY * | 2400660037A | 11-AUG-1999 | 99-03-1218A | 02
03 | MD | TALBOT COUNTY * | 2400660038A | 03-DEC-1999 | 00-03-0146A | 02
03 | MD | WASHINGTON COUNTY * | 2400700025A | 22-OCT-1999 | 99-03-1310A | 02
03 | MD | WORCESTER COUNTY * | 2400830075A | 06-JUL-1999 | 99-03-974A | 02
03 | MD | WORCESTER COUNTY * | 2400830105D | 29-DEC-1999 | 99-03-1788A | 02
03 | PA | AMELL, TOWNSHIP OF | 4226150015B | 04-AUG-1999 | 99-03-908A | 02
03 | PA | ANNVILLE, TOWNSHIP OF | 4205700001B | 16-SEP-1999 | 99-03-1338A | 17
03 | PA | BRISTOL, TOWNSHIP OF | 42017C0462F | 22-OCT-1999 | 99-03-1846A | 02
03 | PA | BROOKHAVEN, BOROUGH OF | 42045C0057D | 28-OCT-1999 | 99-03-167P | 05
03 | PA | BUTLER, TOWNSHIP OF | 421247A | 22-SEP-1999 | 99-03-1152A | 02
03 | PA | CALN, TOWNSHIP OF | 42029C0307D | 16-JUL-1999 | 99-03-1090A | 02
03 | PA | CHESTNUTHILL, TOWNSHIP OF | 4218850015B | 09-JUL-1999 | 99-03-1182A | 02
03 | PA | CHOCONUT, TOWNSHIP OF | 4220760005A | 08-OCT-1999 | 99-03-1432A | 02
03 | PA | COLLEGEVILLE, BOROUGH OF | 42091C0237E | 29-DEC-1999 | 00-03-0350A | 02
03 | PA | CONEMAUGH, TOWNSHIP OF | 4220470005A | 12-NOV-1999 | 99-03-1184A | 02
03 | PA | CONEMAUGH, TOWNSHIP OF | 4220470005A | 04-AUG-1999 | 99-03-1136A | 02
03 | PA | CONEWAGO, TOWNSHIP OF | 4209180015B | 19-NOV-1999 | 99-03-1570A | 02
03 | PA | CRANBERRY, TOWNSHIP OF | 4212170010B | 29-DEC-1999 | 00-03-0362A | 02
03 | PA | CRANBERRY, TOWNSHIP OF | 4212170010B | 09-JUL-1999 | 99-03-1256A | 02
03 | PA | CUMRU, TOWNSHIP OF | 42011C0511E | 19-OCT-1999 | 99-03-1408A | 01
03 | PA | EAST BRANDYWINE, TOWNSHIP OF | 42029C0167D | 15-DEC-1999 | 99-03-1594A | 02
03 | PA | EAST CHILLISQUAQUE, TOWNSHIP OF | 4225990005A | 15-SEP-1999 | 99-03-1404A | 02
03 | PA | EAST COVENTRY, TOWNSHIP OF | 42029C0060D | 23-JUL-1999 | 99-03-1278A | 02
03 | PA | EAST WHITELAND, TOWNSHIP OF | 42029C0216D | 29-OCT-1999 | 99-03-1672A | 02
03 | PA | FALLS, TOWNSHIP OF | 42017C0458F | 12-NOV-1999 | 99-03-1822A | 02
03 | PA | FALLS, TOWNSHIP OF | 42017C0458F | 22-OCT-1999 | 99-03-1654A | 02
03 | PA | FALLS, TOWNSHIP OF | 42017C0461F | 29-SEP-1999 | 99-03-1610A | 02
03 | PA | FERGUSON, TOWNSHIP OF | 4202600010C | 15-DEC-1999 | 00-03-0104A | 02
03 | PA | HAMILTON, TOWNSHIP OF | 4218880010A | 20-AUG-1999 | 99-03-1130A | 02
03 | PA | HARMONY, BOROUGH OF | 4202170001B | 15-OCT-1999 | 99-03-1804A | 02
03 | PA | HARMONY, BOROUGH OF | 4202170001B | 12-NOV-1999 | 99-03-1602A | 02
03 | PA | HEIDELBERG, TOWNSHIP OF | 4210250006C | 10-NOV-1999 | 98-03-247P | 05
03 | PA | HELLAM, TOWNSHIP OF | 4209270001D | 23-SEP-1999 | 99-03-1574V | 19
03 | PA | JACKSON, TOWNSHIP OF | 4214200002A | 28-JUL-1999 | 99-03-1154A | 02
03 | PA | JOHNSTOWN, CITY OF | 4202310005C | 10-DEC-1999 | 99-03-1776A | 02
03 | PA | JOHNSTOWN, CITY OF | 4202310010C | 29-JUL-1999 | 99-03-1196A | 02
03 | PA | LAWRENCE, TOWNSHIP OF | 4215280020B | 19-NOV-1999 | 99-03-1382A | 02
03 | PA | LOWER FREDERICK, TOWNSHIP OF | 42091C0113E | 06-AUG-1999 | 99-03-884A | 02
03 | PA | LOWER MAKEFIELD, TOWNSHIP OF | 42017C0452F | 14-JUL-1999 | 99-03-1076A | 02
03 | PA | LOWER MERION, TOWNSHIP OF | 42091C0362E | 04-AUG-1999 | 99-03-1144A | 02
03 | PA | LOWER MERION, TOWNSHIP OF | 42091C0432E | 28-JUL-1999 | 98-03-171P | 05
03 | PA | LOWER PAXTON, TOWNSHIP OF | 4203840005B | 12-NOV-1999 | 99-03-1806A | 02
03 | PA | LOWER SOUTHAMPTON, TOWNSHIP OF | 42017C0437F | 15-NOV-1999 | 99-03-185P | 06
03 | PA | MAIDENCREEK, TOWNSHIP OF | 42011C0359E | 29-OCT-1999 | 99-03-1632A | 02
03 | PA | MAIDENCREEK, TOWNSHIP OF | 42011C0359E | 29-JUL-1999 | 99-03-003P | 05
03 | PA | MARION, TOWNSHIP OF | 42011C0460E | 16-DEC-1999 | 99-03-1516A | 02
03 | PA | MARSHALL, TOWNSHIP OF | 42003C0177F | 17-SEP-1999 | 99-03-976A | 02
03 | PA | MIFFLINBURG, BOROUGHS OF | 4208320001B | 22-OCT-1999 | 99-03-1652A | 02
03 | PA | MT. PLEASANT, TOWNSHIP OF | 42129C0635D | 18-AUG-1999 | 99-25 | 02
03 | PA | NEW FREEDOM, BOROUGH OF | 4209320001B | 30-SEP-1999 | 99-03-1342A | 02
03 | PA | NEWTOWN, TOWNSHIP OF | 42017C0433F | 02-DEC-1999 | 99-27 | 02
03 | PA | NORTH LONDONDERRY, TOWNSHIP OF | 4205770005B | 22-SEP-1999 | 98-03-281P | 06
03 | PA | NORTH MANHEIM, TOWNSHIP OF | 4220130008B | 27-AUG-1999 | 99-03-1314A | 02
03 | PA | NORTH UNION, TOWNSHIP OF | 4216330006B | 15-DEC-1999 | 00-03-0004A | 02
03 | PA | NORTH WHITEHALL, TOWNSHIP OF | 4218130010B | 03-DEC-1999 | 00-01 | 02
03 | PA | OLD FORGE, BOROUGH OF | 4205350005B | 27-OCT-1999 | 98-03-213P | 06
03 | PA | PARKSIDE, BOROUGH OF | 42045C0057D | 28-OCT-1999 | 99-03-167P | 05
03 | PA | PENN, TOWNSHIP OF | 4210250006C | 10-NOV-1999 | 98-03-247P | 05
03 | PA | PENN, TOWNSHIP OF | 42129C0189D | 29-SEP-1999 | 99-03-1340A | 02
03 | PA | PERKASIE, BOROUGH OF | 42017C0143F | 19-NOV-1999 | 00-03-0012A | 02
03 | PA | PHILADELPHIA, CITY OF | 4207570183F | 28-JUL-1999 | 99-03-1212A | 02
03 | PA | PICTURE ROCKS, BOROUGH OF | 4206540001B | 24-SEP-1999 | 99-03-1494A | 02
03 | PA | PIKE, TOWNSHIP OF | 42011C0411E | 15-JUL-1999 | R3-218-70R | 02
03 | PA | RADNOR, TOWNSHIP OF | 42045C0002D | 14-JUL-1999 | 99-03-1176A | 02
03 | PA | RADNOR, TOWNSHIP OF | 42045C0008D | 22-SEP-1999 | 99-03-1540A | 02
03 | PA | READING, CITY OF | 42011C0512E | 01-DEC-1999 | 99-03-1668A | 02
03 | PA | ROSS, TOWNSHIP OF | 42003C0192F | 23-JUL-1999 | 99-03-840A | 02
03 | PA | ROSS, TOWNSHIP OF | 42003C0211F | 18-AUG-1999 | 99-03-1150A | 02
03 | PA | RUSCOMBMANOR, TOWNSHIP OF | 42011C0378E | 29-OCT-1999 | 99-03-1616A | 02
03 | PA | RUSH, TOWNSHIP OF | 4214680015B | 24-NOV-1999 | 99-03-012A | 01
03 | PA | SALFORD, TOWNSHIP OF | 42091C0128E | 27-OCT-1999 | 99-03-1812A | 02
03 | PA | SILVER LAKE, TOWNSHIP OF | 422091A | 22-DEC-1999 | 00-03-0574A | 02
03 | PA | SILVER SPRING, TOWNSHIP OF | 4203700010B | 28-NOV-1999 | 99-03-053P | 05
03 | PA | SKIPPACK, TOWNSHIP OF | 42091C0232E | 08-OCT-1999 | 99-03-1532A | 01
03 | PA | SPRING, TOWNSHIP OF | 42011C0491E | 16-NOV-1999 | 99-03-1238A | 02
03 | PA | SPRINGFIELD, TOWNSHIP OF | 42017C0107F | 15-OCT-1999 | 99-03-1472A | 02
03 | PA | SPRINGFIELD, TOWNSHIP OF | 42091C0379E | 29-SEP-1999 | 99-03-1554A | 02
03 | PA | SPRINGFIELD, TOWNSHIP OF | 42091C0379E | 12-NOV-1999 | 99-03-1556A | 02
03 | PA | TAYLOR, TOWNSHIP OF | 421469B | 14-JUL-1999 | 99-03-616A | 02
03 | PA | TAYLOR, TOWNSHIP OF | 421800A | 17-DEC-1999 | 00-03-0306A | 02
03 | PA | TULPEHOCKEN, TOWNSHIP OF | 42011C0315E | 12-NOV-1999 | 99-03-1530A | 02
03 | PA | TUSCARORA, TOWNSHIP OF | 4224520010B | 06-OCT-1999 | 99-03-1694A | 02
03 | PA | UPPER DARBY, TOWNSHIP OF | 42045C0025D | 22-SEP-1999 | 99-03-1138A | 02
03 | PA | UPPER MAKEFIELD, TOWNSHIP OF | 42017C0330F | 25-AUG-1999 | 99-03-085P | 05
03 | PA | UWCHLAN, TOWNSHIP OF | 42029C0187D | 15-JUL-1999 | 99-03-364A | 02
03 | PA | WARRINGTON, TOWNSHIP OF | 42017C0382F | 21-JUL-1999 | 99-03-1326A | 02
03 | PA | WASHINGTON, TOWNSHIP OF | 4211500020B | 06-OCT-1999 | 99-03-1394A | 02
03 | PA | WASHINGTON, TOWNSHIP OF | 4218160005A | 29-SEP-1999 | 99-03-1490A | 02
03 | PA | WASHINGTON, TOWNSHIP OF | 4225060005A | 27-AUG-1999 | 99-03-1248A | 02
03 | PA | WEST BRADFORD, TOWNSHIP OF | 42029C0328D | 09-JUL-1999 | 99-03-880A | 02
03 | PA | WEST BRADFORD, TOWNSHIP OF | 42029C0331D | 14-JUL-1999 | 99-03-1164A | 02
03 | PA | WEST WHITELAND, TOWNSHIP OF | 42029C0213D | 08-DEC-1999 | 99-03-1510A | 02
03 | PA | WESTTOWN, TOWNSHIP OF | 42029C0362D | 22-SEP-1999 | 99-03-1498A | 02
03 | VA | ALEXANDRIA, CITY OF | 5155190005D | 08-OCT-1999 | 99-03-1768A | 02
03 | VA | ALEXANDRIA, CITY OF | 5155190005D | 22-SEP-1999 | 99-03-1542A | 02
03 | VA | ARLINGTON COUNTY * | 5155200010B | 12-NOV-1999 | 99-03-1802A | 02
03 | VA | AUGUSTA COUNTY * | 5100130205B | 22-DEC-1999 | 00-03-0572X | 02
03 | VA | AUGUSTA COUNTY * | 5100130205B | 20-OCT-1999 | 99-03-1304A | 02
03 | VA | AUGUSTA COUNTY * | 5100130270B | 08-JUL-1999 | 99-03-1224A | 02
03 | VA | BEDFORD COUNTY * | 5100160100A | 29-OCT-1999 | 99-03-1578A | 02
03 | VA | BEDFORD COUNTY * | 5100160175A | 03-DEC-1999 | 00-03-0164A | 02
03 | VA | BRISTOL, CITY OF | 5100220004C | 16-JUL-1999 | 99-03-1020A | 01
03 | VA | CHESAPEAKE, CITY OF | 510034B | 23-JUL-1999 | 99-03-920A | 02
03 | VA | CHESAPEAKE, CITY OF | 5100340022C | 21-JUL-1999 | 99-03-1246A | 02
03 | VA | CHESAPEAKE, CITY OF | 5100340013C | 10-NOV-1999 | 00-03-0092A | 02
03 | VA | CHESAPEAKE, CITY OF | 5100340022C | 14-DEC-1999 | 99-03-1904A | 02
03 | VA | CHESAPEAKE, CITY OF | 5100340022C | 29-OCT-1999 | 99-03-1604A | 02
03 | VA | CHESAPEAKE, CITY OF | 5100340022C | 29-SEP-1999 | 99-03-1558A | 02
03 | VA | CHESAPEAKE, CITY OF | 5100340024C | 06-OCT-1999 | 99-03-1786A | 02
03 | VA | CHESAPEAKE, CITY OF | 5100340033C | 07-SEP-1999 | 99-03-1454A | 01
03 | VA | CHESAPEAKE, CITY OF | 5100340033C | 25-AUG-1999 | 99-03-1380A | 01
03 | VA | CHESTERFIELD COUNTY * | 5100350031B | 06-AUG-1999 | 99-03-458A | 02
03 | VA | CHESTERFIELD COUNTY * | 5100350093C | 06-OCT-1999 | 99-03-1778A | 01
03 | VA | CRAIGSVILLE, TOWN OF | 5100140001C | 13-OCT-1999 | 99-03-1282A | 02
03 | VA | ELKTON, TOWN OF | 5101370001C | 25-AUG-1999 | 99-03-1370A | 02
03 | VA | FAIRFAX COUNTY * | 5155250025D | 27-OCT-1999 | 99-03-1684A | 02
03 | VA | FAIRFAX COUNTY * | 5155250025D | 27-OCT-1999 | 99-03-1682A | 02
03 | VA | FAIRFAX COUNTY * | 5155250025D | 08-DEC-1999 | 99-03-1484A | 02
03 | VA | FAIRFAX COUNTY * | 5155250050D | 09-JUL-1999 | 99-03-978A | 02
03 | VA | FAIRFAX COUNTY * | 5155250083D | 09-JUL-1999 | 99-03-978A | 02
03 | VA | FAIRFAX COUNTY * | 5155250100D | 09-JUL-1999 | 99-03-978A | 02
03 | VA | FAIRFAX COUNTY * | 5155250050D | 08-DEC-1999 | 00-03-0106A | 02
03 | VA | FAIRFAX COUNTY * | 5155250050D | 01-DEC-1999 | 99-03-1852A | 02
03 | VA | FAIRFAX COUNTY * | 5155250050D | 08-OCT-1999 | 99-03-1518A | 02
03 | VA | FAIRFAX COUNTY * | 5155250050D | 18-AUG-1999 | 99-03-1378A | 02
03 | VA | FAIRFAX COUNTY * | 5155250050D | 14-JUL-1999 | 99-03-1228A | 02
03 | VA | FAIRFAX COUNTY * | 5155250050D | 14-JUL-1999 | 99-03-1232A | 02
03 | VA | FAIRFAX COUNTY * | 5155250075D | 23-JUL-1999 | 99-03-1268A | 02
03 | VA | FAIRFAX COUNTY * | 5155250079D | 30-NOV-1999 | 99-03-1486P | 06
03 | VA | FAIRFAX COUNTY * | 5155250083D | 09-JUL-1999 | 99-03-1158A | 02
03 | VA | FAIRFAX COUNTY * | 5155250089D | 30-JUL-1999 | 99-03-1124A | 02
03 | VA | FAIRFAX COUNTY * | 5155250100D | 22-DEC-1999 | 00-03-0606X | 02
03 | VA | FAIRFAX COUNTY * | 5155250100D | 23-NOV-1999 | 00-03-0344A | 02
03 | VA | FAIRFAX COUNTY * | 5155250100D | 12-NOV-1999 | 99-03-1820A | 02
03 | VA | FAIRFAX COUNTY * | 5155250100D | 03-DEC-1999 | 99-03-1774A | 02
03 | VA | FAIRFAX COUNTY * | 5155250100D | 29-SEP-1999 | 99-03-1600A | 02
03 | VA | FAIRFAX COUNTY * | 5155250100D | 29-SEP-1999 | 99-03-1482A | 02
03 | VA | FAIRFAX COUNTY * | 5155250100D | 08-SEP-1999 | 99-03-1476A | 02
03 | VA | FAIRFAX COUNTY * | 5155250117D | 18-AUG-1999 | 99-03-1296A | 02
03 | VA | FAIRFAX COUNTY * | 5155250125D | 20-AUG-1999 | 99-03-1420A | 02
03 | VA | FAIRFAX COUNTY * | 5155250150D | 06-OCT-1999 | 99-03-1696A | 02
03 | VA | FAIRFAX COUNTY * | 5155250150D | 10-SEP-1999 | 99-03-1364A | 02
03 | VA | FAUQUIER COUNTY * | 5100550475A | 22-SEP-1999 | 99-03-916A | 02
03 | VA | FRANKLIN COUNTY * | 5100610210A | 29-SEP-1999 | 99-03-1674A | 02
03 | VA | FRANKLIN COUNTY * | 5100610210A | 23-JUL-1999 | 99-03-1258A | 02
03 | VA | FRANKLIN COUNTY * | 5100610215A | 12-NOV-1999 | 99-03-1808A | 02
03 | VA | FRANKLIN COUNTY * | 5100610220A | 29-DEC-1999 | 00-03-0316A | 02
03 | VA | FRANKLIN COUNTY * | 5100610220A | 01-OCT-1999 | 99-03-1560A | 02
03 | VA | FRANKLIN COUNTY * | 5100610220A | 22-SEP-1999 | 99-03-1372A | 02
03 | VA | GLOUCESTER COUNTY* | 5100710025B | 21-JUL-1999 | 99-24 | 02
03 | VA | GLOUCESTER COUNTY* | 5100710060B | 14-JUL-1999 | 99-03-1198A | 02
03 | VA | GREENSVILLE COUNTY * | 5100730050A | 10-SEP-1999 | 99-03-1428A | 02
03 | VA | HANOVER COUNTY * | 5102370320A | 12-NOV-1999 | 99-03-1070A | 01
03 | VA | HANOVER COUNTY * | 5102370435A | 06-OCT-1999 | 99-03-1692A | 02
03 | VA | HENRICO COUNTY * | 5100770025B | 03-DEC-1999 | 00-03-0134A | 02
03 | VA | HENRICO COUNTY * | 5100770025B | 22-OCT-1999 | 99-03-1814A | 02
03 | VA | HENRICO COUNTY * | 5100770025B | 27-OCT-1999 | 99-03-1782A | 02
03 | VA | HENRICO COUNTY * | 5100770025B | 25-AUG-1999 | 99-03-1512A | 02
03 | VA | HENRICO COUNTY * | 5100770025B | 22-SEP-1999 | 99-03-1388A | 02
03 | VA | HENRICO COUNTY * | 5100770025B | 19-NOV-1999 | 99-03-1344A | 02
03 | VA | HENRICO COUNTY * | 5100770025B | 20-OCT-1999 | 99-03-1330A | 02
03 | VA | HENRICO COUNTY * | 5100770025B | 15-JUL-1999 | 99-03-1168A | 01
03 | VA | HENRICO COUNTY * | 5100770025B | 27-AUG-1999 | 99-03-1088A | 02
03 | VA | HENRICO COUNTY * | 5100770025B | 16-JUL-1999 | 99-03-898A | 02
03 | VA | HENRICO COUNTY * | 5100770025B | 03-SEP-1999 | 99-03-800A | 02
03 | VA | HENRICO COUNTY * | 5100770025B | 22-SEP-1999 | 99-03-798A | 02
03 | VA | HENRICO COUNTY * | 5100770025B | 03-SEP-1999 | 99-03-758A | 02
03 | VA | HENRICO COUNTY * | 5100770025B | 23-JUL-1999 | 99-03-728A | 02
03 | VA | HENRICO COUNTY * | 5100770025B | 30-JUL-1999 | 99-03-676A | 02
03 | VA | HENRICO COUNTY * | 5100770025B | 29-JUL-1999 | 99-03-668A | 02
03 | VA | HENRICO COUNTY * | 5100770050B | 17-NOV-1999 | 99-03-1678A | 02
03 | VA | KING GEORGE COUNTY * | 5103120015B | 04-AUG-1999 | 99-03-1272A | 02
03 | VA | LANCASTER COUNTY* | 5100840039B | 03-SEP-1999 | 99-03-1438A | 02
03 | VA | LEESBURG, TOWN OF | 5100900085C | 19-NOV-1999 | 99-03-099P | 05
03 | VA | LOUDOUN COUNTY * | 5100900085C | 12-AUG-1999 | 99-03-1430A | 01
03 | VA | LOUDOUN COUNTY * | 5100900110C | 22-DEC-1999 | 00-03-013P | 05
03 | VA | LOUDOUN COUNTY * | 5100900120C | 29-DEC-1999 | 99-03-1800A | 02
03 | VA | LOUDOUN COUNTY * | 5100900120C | 28-JUL-1999 | 99-03-1350A | 02
03 | VA | LOUDOUN COUNTY * | 5100900120C | 25-SEP-1999 | 99-03-083P | 05
03 | VA | LOUDOUN COUNTY * | 5100900175C | 22-DEC-1999 | 00-03-011P | 05
03 | VA | LOUDOUN COUNTY * | 5100900200C | 17-SEP-1999 | 99-03-1072A | 02
03 | VA | LOUISA COUNTY * | 51109C0025B | 08-DEC-1999 | 00-03-0122A | 02
03 | VA | LOUISA COUNTY * | 51109C0125B | 27-OCT-1999 | 99-03-1784A | 02
03 | VA | LOUISA COUNTY * | 51109C0125B | 20-OCT-1999 | 99-03-1644A | 02
03 | VA | LOUISA COUNTY * | 51109C0175B | 22-SEP-1999 | 99-03-1508A | 02
03 | VA | LOUISA COUNTY * | 51109C0200B | 10-NOV-1999 | 99-03-1586A | 02
03 | VA | LOUISA COUNTY * | 51109C0400B | 16-DEC-1999 | 99-03-1160A | 02
03 | VA | MECKLENBURG COUNTY * | 5101890200A | 17-DEC-1999 | 00-03-0366A | 02
03 | VA | MIDDLESEX COUNTY * | 5100980025B | 21-JUL-1999 | 99-03-1334A | 02
03 | VA | NEW KENT COUNTY * | 5103060020A | 28-SEP-1999 | 99-03-1332A | 02
03 | VA | NEWPORT NEWS, CITY OF | 5101030006C | 09-JUL-1999 | 99-03-1148A | 02
03 | VA | NEWPORT NEWS, CITY OF | 5101030007A | 21-DEC-1999 | 99-03-1290A | 02
03 | VA | NEWPORT NEWS, CITY OF | 5101030010C | 24-SEP-1999 | 99-03-1416A | 02
03 | VA | NEWPORT NEWS, CITY OF | 5101030016C | 10-NOV-1999 | 99-03-006A | 01
03 | VA | NORTHUMBERLAND COUNTY * | 5101070010C | 27-OCT-1999 | 99-03-1810A | 02
03 | VA | PAGE COUNTY * | 5101090100B | 15-JUL-1999 | 99-03-1298A | 02
03 | VA | PEMBROKE, TOWN OF | 5100690001B | 06-AUG-1999 | 99-03-1206A | 01
03 | VA | PORTSMOUTH, CITY OF | 5155290025B | 17-DEC-1999 | 99-03-1450A | 01
03 | VA | PRINCE WILLIAM COUNTY * | 51153C0111D | 29-DEC-1999 | 00-03-0204A | 02
03 | VA | PRINCE WILLIAM COUNTY * | 51153C0111D | 08-DEC-1999 | 00-03-0224A | 02
03 | VA | PRINCE WILLIAM COUNTY * | 51153C0111D | 03-NOV-1999 | 00-03-0074A | 02
03 | VA | PRINCE WILLIAM COUNTY * | 51153C0111D | 10-NOV-1999 | 00-03-0076A | 02
03 | VA | PRINCE WILLIAM COUNTY * | 51153C0111D | 20-OCT-1999 | 99-03-1878A | 02
03 | VA | PRINCE WILLIAM COUNTY * | 51153C0111D | 10-NOV-1999 | 99-03-1876A | 02
03 | VA | PRINCE WILLIAM COUNTY * | 51153C0111D | 05-NOV-1999 | 99-03-1882A | 02
03 | VA | PRINCE WILLIAM COUNTY * | 51153C0111D | 20-OCT-1999 | 99-03-1880A | 02
03 | VA | PRINCE WILLIAM COUNTY * | 51153C0111D | 24-NOV-1999 | 99-03-1892A | 02
03 | VA | PRINCE WILLIAM COUNTY * | 51153C0111D | 20-OCT-1999 | 99-03-1890A | 02
03 | VA | PRINCE WILLIAM COUNTY * | 51153C0111D | 03-DEC-1999 | 99-03-1888A | 02
03 | VA | PRINCE WILLIAM COUNTY * | 51153C0111D | 20-OCT-1999 | 99-03-1886A | 02
03 | VA | PRINCE WILLIAM COUNTY * | 51153C0111D | 20-OCT-1999 | 99-03-1884A | 02
03 | VA | PRINCE WILLIAM COUNTY * | 51153C0111D | 08-DEC-1999 | 99-03-1900A | 02
03 | VA | PRINCE WILLIAM COUNTY * | 51153C0111D | 20-OCT-1999 | 99-03-1898A | 02
03 | VA | PRINCE WILLIAM COUNTY * | 51153C0111D | 03-NOV-1999 | 99-03-1874A | 02
03 | VA | PRINCE WILLIAM COUNTY * | 51153C0111D | 22-OCT-1999 | 99-03-1896A | 02
03 | VA | PRINCE WILLIAM COUNTY * | 51153C0111D | 29-OCT-1999 | 99-03-1894A | 02
03 | VA | PRINCE WILLIAM COUNTY * | 51153C0111D | 15-OCT-1999 | 99-03-1766A | 02
03 | VA | PRINCE WILLIAM COUNTY * | 51153C0112D | 29-DEC-1999 | 00-03-0196A | 02
03 | VA | PRINCE WILLIAM COUNTY * | 51153C0112D | 29-DEC-1999 | 00-03-0200A | 02
03 | VA | PRINCE WILLIAM COUNTY * | 51153C0112D | 29-OCT-1999 | 00-03-0066A | 02
03 | VA | PRINCE WILLIAM COUNTY * | 51153C0112D | 03-NOV-1999 | 00-03-0064A | 02
03 | VA | PRINCE WILLIAM COUNTY * | 51153C0112D | 03-NOV-1999 | 00-03-0062A | 02
03 | VA | PRINCE WILLIAM COUNTY * | 51153C0112D | 17-NOV-1999 | 00-03-0022A | 02
03 | VA | PRINCE WILLIAM COUNTY * | 51153C0112D | 03-NOV-1999 | 00-03-0068A | 02
03 | VA | PRINCE WILLIAM COUNTY * | 51153C0112D | 05-NOV-1999 | 00-03-0086A | 02
03 | VA | PRINCE WILLIAM COUNTY * | 51153C0113D | 12-NOV-1999 | 00-03-0072A | 02
03 | VA | PRINCE WILLIAM COUNTY * | 51153C0113D | 05-NOV-1999 | 00-03-0070A | 02
03 | VA | PRINCE WILLIAM COUNTY * | 51153C0113D | 05-NOV-1999 | 00-03-0082A | 02
03 | VA | PRINCE WILLIAM COUNTY * | 51153C0113D | 10-NOV-1999 | 00-03-0078A | 02
03 | VA | PRINCE WILLIAM COUNTY * | 51153C0113D | 05-NOV-1999 | 00-03-0084A | 02
03 | VA | PRINCE WILLIAM COUNTY * | 51153C0113D | 05-NOV-1999 | 00-03-0080A | 02
03 | VA | PRINCE WILLIAM COUNTY * | 51153C0170D | 10-DEC-1999 | 00-03-0120A | 02
03 | VA | PRINCE WILLIAM COUNTY * | 51153C0178D | 27-OCT-1999 | 99-03-1848A | 02
03 | VA | PRINCE WILLIAM COUNTY * | 51153C0194D | 19-NOV-1999 | 99-03-1842A | 02
03 | VA | PRINCE WILLIAM COUNTY * | 51153C0212D | 08-DEC-1999 | 00-03-0226A | 02
03 | VA | PRINCE WILLIAM COUNTY * | 51153C0212D | 08-DEC-1999 | 00-03-0228A | 02
03 | VA | PRINCE WILLIAM COUNTY * | 51153C0212D | 10-DEC-1999 | 00-03-0238A | 02
03 | VA | PRINCE WILLIAM COUNTY * | 51153C0212D | 10-DEC-1999 | 00-03-0240A | 02
03 | VA | PRINCE WILLIAM COUNTY * | 51153C0212D | 08-DEC-1999 | 00-03-0242A | 02
03 | VA | PRINCE WILLIAM COUNTY * | 51153C0212D | 10-DEC-1999 | 00-03-0244A | 02
03 | VA | PRINCE WILLIAM COUNTY * | 51153C0212D | 10-DEC-1999 | 00-03-0246A | 02
03 | VA | PRINCE WILLIAM COUNTY * | 51153C0212D | 15-DEC-1999 | 00-03-0248A | 02
03 | VA | PRINCE WILLIAM COUNTY * | 51153C0212D | 15-DEC-1999 | 00-03-0250A | 02
03 | VA | PRINCE WILLIAM COUNTY * | 51153C0212D | 01-DEC-1999 | 00-03-0252A | 02
03 | VA | PRINCE WILLIAM COUNTY * | 51153C0212D | 03-DEC-1999 | 00-03-0272A | 02
03 | VA | PRINCE WILLIAM COUNTY * | 51153C0212D | 03-DEC-1999 | 00-03-0270A | 02
03 | VA | PRINCE WILLIAM COUNTY * | 51153C0212D | 03-DEC-1999 | 00-03-0268A | 02
03 | VA | PRINCE WILLIAM COUNTY * | 51153C0212D | 01-DEC-1999 | 00-03-0264A | 02
03 | VA | PRINCE WILLIAM COUNTY * | 51153C0212D | 01-DEC-1999 | 00-03-0262A | 02
03 | VA | PRINCE WILLIAM COUNTY * | 51153C0212D | 03-DEC-1999 | 00-03-0260A | 02
03 | VA | PRINCE WILLIAM COUNTY * | 51153C0212D | 03-DEC-1999 | 00-03-0258A | 02
03 | VA | PRINCE WILLIAM COUNTY * | 51153C0212D | 03-DEC-1999 | 00-03-0256A | 02
03 | VA | PRINCE WILLIAM COUNTY * | 51153C0212D | 01-DEC-1999 | 00-03-0254A | 02
03 | VA | PRINCE WILLIAM COUNTY * | 51153C0212D | 01-DEC-1999 | 00-03-0282A | 02
03 | VA | PRINCE WILLIAM COUNTY * | 51153C0212D | 01-DEC-1999 | 00-03-0280A | 02
03 | VA | PRINCE WILLIAM COUNTY * | 51153C0212D | 01-DEC-1999 | 00-03-0278A | 02
03 | VA | PRINCE WILLIAM COUNTY * | 51153C0212D | 01-DEC-1999 | 00-03-0276A | 02
03 | VA | PRINCE WILLIAM COUNTY * | 51153C0212D | 01-DEC-1999 | 00-03-0284A | 02
03 | VA | PRINCE WILLIAM COUNTY * | 51153C0212D | 01-DEC-1999 | 00-03-0286A | 02
03 | VA | PRINCE WILLIAM COUNTY * | 51153C0212D | 22-DEC-1999 | 00-03-0290A | 02
03 | VA | PRINCE WILLIAM COUNTY * | 51153C0216D | 17-DEC-1999 | 00-03-0436A | 02
03 | VA | PRINCE WILLIAM COUNTY * | 51153C0216D | 17-DEC-1999 | 00-03-0434A | 02
03 | VA | PRINCE WILLIAM COUNTY * | 51153C0216D | 17-DEC-1999 | 00-03-0418A | 02
03 | VA | PRINCE WILLIAM COUNTY * | 51153C0216D | 29-DEC-1999 | 00-03-0206A | 02
03 | VA | PRINCE WILLIAM COUNTY * | 51153C0217D | 10-DEC-1999 | 99-03-1866A | 02
03 | VA | PRINCE WILLIAM COUNTY * | 51153C0217D | 01-OCT-1999 | 99-03-1720A | 02
03 | VA | PRINCE WILLIAM COUNTY * | 51153C0217D | 06-OCT-1999 | 99-03-1722A | 02
03 | VA | PRINCE WILLIAM COUNTY * | 51153C0217D | 06-OCT-1999 | 99-03-1724A | 02
03 | VA | PRINCE WILLIAM COUNTY * | 51153C0217D | 08-OCT-1999 | 99-03-1726A | 02
03 | VA | PRINCE WILLIAM COUNTY * | 51153C0217D | 06-OCT-1999 | 99-03-1728A | 02
03 | VA | PRINCE WILLIAM COUNTY * | 51153C0217D | 13-OCT-1999 | 99-03-1730A | 02
03 | VA | PRINCE WILLIAM COUNTY * | 51153C0217D | 13-OCT-1999 | 99-03-1732A | 02
03 | VA | PRINCE WILLIAM COUNTY * | 51153C0217D | 15-OCT-1999 | 99-03-1738A | 02
03 | VA | PRINCE WILLIAM COUNTY * | 51153C0217D | 15-OCT-1999 | 99-03-1740A | 17
03 | VA | PRINCE WILLIAM COUNTY * | 51153C0217D | 15-OCT-1999 | 99-03-1742A | 02
03 | VA | PRINCE WILLIAM COUNTY * | 51153C0217D | 15-OCT-1999 | 99-03-1744A | 02
03 | VA | PRINCE WILLIAM COUNTY * | 51153C0217D | 15-OCT-1999 | 99-03-1746A | 02
03 | VA | PRINCE WILLIAM COUNTY * | 51153C0217D | 15-OCT-1999 | 99-03-1748A | 02
03 | VA | PRINCE WILLIAM COUNTY * | 51153C0217D | 15-OCT-1999 | 99-03-1750A | 02
03 | VA | PRINCE WILLIAM COUNTY * | 51153C0217D | 15-OCT-1999 | 99-03-1752A | 02
03 | VA | PRINCE WILLIAM COUNTY * | 51153C0217D | 15-OCT-1999 | 99-03-1754A | 02
03 | VA | PRINCE WILLIAM COUNTY * | 51153C0217D | 06-OCT-1999 | 99-03-1700A | 02
03 | VA | PRINCE WILLIAM COUNTY * | 51153C0217D | 08-OCT-1999 | 99-03-1702A | 02
03 | VA | PRINCE WILLIAM COUNTY * | 51153C0217D | 08-OCT-1999 | 99-03-1704A | 02
03 | VA | PRINCE WILLIAM COUNTY * | 51153C0217D | 08-OCT-1999 | 99-03-1706A | 02
03 | VA | PRINCE WILLIAM COUNTY * | 51153C0217D | 13-OCT-1999 | 99-03-1708A | 02
03 | VA | PRINCE WILLIAM COUNTY * | 51153C0217D | 20-OCT-1999 | 99-03-1710A | 02
03 | VA | PRINCE WILLIAM COUNTY * | 51153C0217D | 13-OCT-1999 | 99-03-1712A | 02
03 | VA | PRINCE WILLIAM COUNTY * | 51153C0217D | 20-OCT-1999 | 99-03-1716A | 02
03 | VA | PRINCE WILLIAM COUNTY * | 51153C0217D | 20-OCT-1999 | 99-03-1718A | 02
03 | VA | PRINCE WILLIAM COUNTY * | 51153C0217D | 29-SEP-1999 | 99-03-1288A | 02
03 | VA | PRINCE WILLIAM COUNTY * | 51153C0218D | 01-DEC-1999 | 99-03-1734A | 01
03 | VA | PRINCE WILLIAM COUNTY * | 51153C0218D | 01-DEC-1999 | 99-03-1736A | 01
03 | VA | PRINCE WILLIAM COUNTY * | 51153C0219D | 12-NOV-1999 | 00-03-0030A | 17
03 | VA | PRINCE WILLIAM COUNTY * | 51153C0219D | 13-OCT-1999 | 99-03-1756A | 02
03 | VA | PRINCE WILLIAM COUNTY * | 51153C0219D | 27-OCT-1999 | 99-03-1758A | 17
03 | VA | PRINCE WILLIAM COUNTY * | 51153C0219D | 13-OCT-1999 | 99-03-1760A | 17
03 | VA | PRINCE WILLIAM COUNTY * | 51153C0219D | 13-OCT-1999 | 99-03-1762A | 17
03 | VA | PRINCE WILLIAM COUNTY * | 51153C0219D | 13-OCT-1999 | 99-03-1764A | 17
03 | VA | PRINCE WILLIAM COUNTY * | 51153C0238D | 05-NOV-1999 | 99-03-1858A | 02
03 | VA | PRINCE WILLIAM COUNTY * | 51153C0238D | 19-NOV-1999 | 99-03-1862A | 02
03 | VA | PRINCE WILLIAM COUNTY * | 51153C0238D | 05-NOV-1999 | 99-03-1860A | 02
03 | VA | PRINCE WILLIAM COUNTY * | 51153C0238D | 24-NOV-1999 | 99-03-1870A | 02
03 | VA | PRINCE WILLIAM COUNTY * | 51153C0238D | 03-NOV-1999 | 99-03-1864A | 02
03 | VA | PRINCE WILLIAM COUNTY * | 51153C0238D | 27-OCT-1999 | 99-03-1856A | 02
03 | VA | PRINCE WILLIAM COUNTY * | 51153C0238D | 03-NOV-1999 | 99-03-1872A | 02
03 | VA | ROANOKE COUNTY * | 51161C0022D | 01-OCT-1999 | 99-03-1436A | 02
03 | VA | ROANOKE, CITY OF | 51161C0046D | 28-JUL-1999 | 99-03-1254A | 02
03 | VA | SALEM, CITY OF | 51161C0037D | 22-SEP-1999 | 99-03-1546A | 02
03 | VA | SALEM, CITY OF | 51161C0037D | 23-JUL-1999 | 99-03-748A | 01
03 | VA | SHENANDOAH COUNTY * | 5101470025B | 12-NOV-1999 | 99-03-1422A | 02
03 | VA | SHENANDOAH COUNTY * | 5101470175B | 05-NOV-1999 | 99-03-1402A | 02
03 | VA | STAUNTON, CITY OF | 5101550001C | 24-AUG-1999 | 99-03-1434A | 02
03 | VA | STAUNTON, CITY OF | 5101550003C | 29-OCT-1999 | 99-03-1816A | 02
03 | VA | SUFFOLK, CITY OF | 5101560004B | 15-OCT-1999 | 99-03-1480A | 02
03 | VA | VINTON, TOWN OF | 51161C0046D | 01-DEC-1999 | 99-03-1504A | 02
03 | VA | VIRGINIA BEACH, CITY OF | 5155310012E | 21-JUL-1999 | 99-03-1186A | 02
03 | VA | VIRGINIA BEACH, CITY OF | 5155310021E | 22-DEC-1999 | 00-03-0136A | 02
03 | VA | VIRGINIA BEACH, CITY OF | 5155310025E | 14-JUL-1999 | 99-03-1270A | 02
03 | VA | VIRGINIA BEACH, CITY OF | 5155310027E | 22-OCT-1999 | 99-03-1794A | 02
03 | VA | VIRGINIA BEACH, CITY OF | 5155310027E | 15-OCT-1999 | 99-03-1458A | 02
03 | VA | VIRGINIA BEACH, CITY OF | 5155310042E | 17-NOV-1999 | 99-03-1308A | 01
03 | VA | WAYNESBORO, CITY OF | 5155320010B | 22-SEP-1999 | 99-03-1502A | 02
03 | VA | WAYNESBORO, CITY OF | 5155320010B | 21-JUL-1999 | 99-03-1306A | 02
03 | VA | WESTMORELAND COUNTY * | 5102500025C | 03-DEC-1999 | 00-03-0170A | 02
03 | VA | WINCHESTER, CITY OF | 5101730005B | 13-AUG-1999 | 98-03-109P | 06
03 | VA | WISE COUNTY * | 5101740082A | 12-JUL-1999 | R3-218-70R | 02
03 | VA | WOODSTOCK, TOWN OF | 510150B | 16-JUL-1999 | 99-03-1110A | 02
03 | WV | BELLE, TOWN OF | 5400710001C | 03-DEC-1999 | 99-03-1830A | 02
03 | WV | BERKELEY COUNTY * | 5402820078C | 10-NOV-1999 | 99-03-1638A | 02
03 | WV | CABELL COUNTY* | 5400160031A | 19-NOV-1999 | 99-03-1648A | 02
03 | WV | CLAY, COUNTY * | 54015C0010B | 20-AUG-1999 | 99-03-1384A | 02
03 | WV | DODDRIDGE COUNTY * | 54017C0135B | 15-DEC-1999 | 99-03-1834A | 02
03 | WV | FAYETTE COUNTY* | 5400260052B | 25-AUG-1999 | 99-03-870A | 02
03 | WV | JACKSON COUNTY * | 5400630100B | 17-DEC-1999 | 99-03-1200A | 02
03 | WV | KANAWHA COUNTY * | 5400700104C | 15-DEC-1999 | 99-03-1536A | 02
03 | WV | LOGAN COUNTY * | 5455360143B | 10-SEP-1999 | 99-03-1550A | 02
03 | WV | MATEWAN, TOWN OF | 5455380002C | 15-NOV-1999 | 99-28 | 02
03 | WV | MERCER COUNTY* | 5401240134B | 01-OCT-1999 | 99-03-984A | 02
03 | WV | MINERAL COUNTY * | 5401290005A | 21-OCT-1999 | 99-03-1902V | 19
03 | WV | MINERAL COUNTY * | 5401290038A | 10-DEC-1999 | 99-03-1840A | 02
03 | WV | MONONGALIA COUNTY * | 5401390035B | 13-OCT-1999 | 99-03-1538A | 02
03 | WV | MONONGALIA COUNTY * | 5401390075B | 13-OCT-1999 | 99-03-1442A | 02
03 | WV | MORGANTOWN, CITY OF | 5401410001D | 17-DEC-1999 | 99-03-1412A | 02
03 | WV | PRESTON COUNTY* | 540160A | 08-DEC-1999 | 99-03-1360A | 02
03 | WV | RALEIGH COUNTY * | 5401690005B | 15-DEC-1999 | 00-03-0322A | 02
03 | WV | WAYNE COUNTY* | 5402000125B | 25-AUG-1999 | 99-03-1230A | 02
03 | WV | WHEELING, CITY OF | 5401520010C | 17-SEP-1999 | 99-03-816A | 02
03 | WV | WOOD COUNTY * | 5402130106A | 11-AUG-1999 | 99-03-1190A | 02
04 | AL | ANNISTON, CITY OF | 0100200004C | 04-NOV-1999 | 99-04-6248A | 02
04 | AL | ANNISTON, CITY OF | 0100200004C | 21-DEC-1999 | 99-04-5634A | 02
04 | AL | AUTAUGA COUNTY * | 0103140105B | 17-AUG-1999 | 99-04-4530A | 02
04 | AL | BIRMINGHAM, CITY OF | 01073C0189E | 26-DEC-1999 | 98-04-149P | 05
04 | AL | BIRMINGHAM, CITY OF | 01073C0191E | 07-OCT-1999 | 99-04-4394A | 02
04 | AL | BIRMINGHAM, CITY OF | 01073C0486E | 28-DEC-1999 | 00-04-0056A | 02
04 | AL | CHEROKEE COUNTY* | 0102340100B | 21-OCT-1999 | 99-04-5842A | 02
04 | AL | CHEROKEE COUNTY* | 0102340100B | 19-AUG-1999 | 99-04-2358A | 02
04 | AL | CHEROKEE COUNTY* | 0102340125B | 18-NOV-1999 | 99-04-6142A | 02
04 | AL | CHEROKEE COUNTY* | 0102340125B | 23-SEP-1999 | 99-04-4656A | 02
04 | AL | CHEROKEE COUNTY* | 0102340175B | 13-JUL-1999 | 99-04-2462A | 02
04 | AL | COLBERT COUNTY | 0103180125B | 20-JUL-1999 | 99-04-3616A | 02
04 | AL | COLBERT COUNTY | 0103180125B | 29-JUL-1999 | 99-04-2030A | 02
04 | AL | COOSADA, TOWN OF | 0150120005B | 21-SEP-1999 | 99-04-5416A | 01
04 | AL | CREOLA, TOWN OF | 01097C0318J | 12-OCT-1999 | 99-04-5766A | 02
04 | AL | DALLAS COUNTY* | 0100630070B | 09-DEC-1999 | 00-04-0356A | 02
04 | AL | DECATUR, CITY OF | 01103C0060D | 28-DEC-1999 | 00-04-0494A | 02
04 | AL | DECATUR, CITY OF | 01103C0060D | 23-NOV-1999 | 00-04-0264A | 02
04 | AL | DECATUR, CITY OF | 01103C0060D | 16-NOV-1999 | 00-04-0164A | 02
04 | AL | DECATUR, CITY OF | 01103C0060D | 03-NOV-1999 | 99-04-5712A | 02
04 | AL | DECATUR, CITY OF | 01103C0080D | 23-NOV-1999 | 00-04-0232A | 02
04 | AL | DECATUR, CITY OF | 01103C0080D | 05-NOV-1999 | 99-04-5018A | 02
04 | AL | DECATUR, CITY OF | 01103C0090D | 03-DEC-1999 | 99-04-5240A | 02
04 | AL | HELENA, TOWN OF | 0102940003B | 08-OCT-1999 | 99-04-3250A | 02
04 | AL | HUEYTOWN, CITY OF | 01073C0453E | 30-NOV-1999 | 00-04-0126A | 02
04 | AL | HUEYTOWN, CITY OF | 01073C0461E | 30-DEC-1999 | 00-04-0162A | 02
04 | AL | HUNTSVILLE, CITY OF | 01089C0340D | 21-DEC-1999 | 00-04-0382A | 02
04 | AL | HUNTSVILLE, CITY OF | 01089C0343D | 09-NOV-1999 | 99-04-5152A | 02
04 | AL | HUNTSVILLE, CITY OF | 01089C0365D | 30-JUL-1999 | 99-04-099P | 05
04 | AL | HUNTSVILLE, CITY OF | 01089C0455D | 21-JUL-1999 | 99-04-3332A | 02
04 | AL | JEFFERSON COUNTY * | 01073C0183F | 02-SEP-1999 | 99-04-4136A | 02
04 | AL | JEFFERSON COUNTY * | 01073C0189E | 26-DEC-1999 | 98-04-149P | 05
04 | AL | JEFFERSON COUNTY * | 01073C0191E | 17-AUG-1999 | 98-04-317P | 05
04 | AL | JEFFERSON COUNTY * | 01073C0194E | 28-JUL-1999 | 99-04-4506A | 02
04 | AL | JEFFERSON COUNTY * | 01073C0194E | 07-SEP-1999 | 99-04-3742A | 02
04 | AL | JEFFERSON COUNTY * | 01073C0194E | 03-AUG-1999 | 99-04-3382A | 02
04 | AL | JEFFERSON COUNTY * | 01073C0250E | 28-DEC-1999 | 00-04-0712A | 02
04 | AL | JEFFERSON COUNTY * | 01073C0493E | 17-NOV-1999 | 00-04-0482A | 01
04 | AL | JEFFERSON COUNTY * | 01073C0493E | 17-NOV-1999 | 00-04-0484A | 01
04 | AL | JEFFERSON COUNTY * | 01073C0494E | 06-AUG-1999 | 99-04-4410A | 01
04 | AL | JEFFERSON COUNTY * | 01073C0581E | 28-SEP-1999 | 99-04-223P | 05
04 | AL | JEFFERSON COUNTY * | 01073C0607E | 05-NOV-1999 | 99-04-6306A | 02
04 | AL | JEFFERSON COUNTY * | 01073C0627E | 07-JUL-1999 | 99-04-2668A | 01
04 | AL | LANETT, CITY OF | 0100290010B | 23-JUL-1999 | 99-04-3666A | 02
04 | AL | LAUDERDALE COUNTY * | 0103230195C | 04-AUG-1999 | 99-04-4426A | 02
04 | AL | LEEDS, CITY OF | 01073C0366E | 30-DEC-1999 | 99-04-5912A | 01
04 | AL | MADISON COUNTY * | 01089C0166D | 18-NOV-1999 | 99-04-5604A | 01
04 | AL | MADISON COUNTY * | 01089C0166D | 20-JUL-1999 | 99-04-1552A | 01
04 | AL | MADISON COUNTY * | 01089C0365D | 30-JUL-1999 | 99-04-099P | 05
04 | AL | MADISON, CITY OF | 01089C0284D | 20-AUG-1999 | 99-04-2156A | 01
04 | AL | MARSHALL COUNTY * | 0102750125B | 15-DEC-1999 | 99-04-6296A | 02
04 | AL | MOBILE, CITY OF | 01097C0677J | 15-OCT-1999 | 99-04-4552A | 02
04 | AL | MONTGOMERY, CITY OF | 01101C0070F | 26-AUG-1999 | 99-04-4690A | 01
04 | AL | MONTGOMERY, CITY OF | 01101C0070F | 07-JUL-1999 | 99-04-3202A | 17
04 | AL | MOULTON, CITY OF | 0101420002B | 01-SEP-1999 | 99-04-5238A | 02
04 | AL | PELHAM, TOWN OF | 0101930001B | 04-NOV-1999 | 99-04-6232A | 02
04 | AL | PELHAM, TOWN OF | 0101930001B | 26-AUG-1999 | 99-04-4778A | 02
04 | AL | PELHAM, TOWN OF | 0101930004B | 12-NOV-1999 | 00-04-0066A | 01
04 | AL | RUSSELL COUNTY * | 0102870350B | 06-JUL-1999 | 99-04-3890A | 02
04 | AL | SHELBY COUNTY* | 0101910045B | 13-OCT-1999 | 99-04-4364A | 02
04 | AL | SHELBY COUNTY* | 0101910050B | 10-SEP-1999 | 99-04-3984A | 01
04 | AL | SHELBY COUNTY* | 0101910050B | 21-JUL-1999 | 99-04-2596A | 02
04 | AL | SHELBY COUNTY* | 0101910145B | 12-OCT-1999 | 99-04-5128A | 02
04 | AL | SHELBY COUNTY* | 0101910145B | 12-NOV-1999 | 99-04-4864A | 02
04 | AL | SHELBY COUNTY* | 0101910145B | 31-AUG-1999 | 99-04-4654A | 02
04 | AL | SHELBY COUNTY* | 0101910150B | 07-DEC-1999 | 00-04-0298A | 02
04 | AL | SHELBY COUNTY* | 0101910150B | 08-SEP-1999 | 99-04-4502A | 02
04 | AL | ST. CLAIR COUNTY * | 0102900325B | 08-SEP-1999 | 99-04-4342A | 02
04 | AL | SYLACAUGA, CITY OF | 0101990020C | 21-SEP-1999 | 98-04-155P | 05
04 | AL | TALLADEGA COUNTY * | 0102970075B | 26-OCT-1999 | 99-04-4854A | 02
04 | AL | TALLADEGA COUNTY * | 0102970100B | 30-SEP-1999 | 99-04-4180A | 01
04 | AL | TALLADEGA COUNTY * | 0102970125B | 21-DEC-1999 | 00-04-0284A | 02
04 | AL | TALLADEGA COUNTY * | 0102970200B | 15-OCT-1999 | 99-04-4456A | 02
04 | AL | TALLADEGA COUNTY * | 0102970225B | 30-JUL-1999 | 99-04-4598A | 02
04 | AL | TUSCALOOSA, CITY OF | 0102030040A | 17-AUG-1999 | 99-04-3410A | 02
04 | AL | TUSCALOOSA, CITY OF | 0102030045B | 04-NOV-1999 | 00-04-0044A | 02
04 | AL | TUSCALOOSA, CITY OF | 0102030045B | 06-OCT-1999 | 99-04-4916A | 02
04 | AL | WALKER COUNTY * | 0103010215B | 21-JUL-1999 | 99-04-3854A | 02
04 | AL | WINSTON COUNTY * | 0103040009B | 17-DEC-1999 | 99-04-4108A | 02
04 | FL | ALACHUA COUNTY* | 1200010259A | 21-DEC-1999 | 00-04-0496A | 02
04 | FL | ALACHUA COUNTY* | 1200010259A | 08-SEP-1999 | 99-04-3930A | 01
04 | FL | BOCA RATON, CITY OF | 1201950007C | 30-DEC-1999 | 00-04-0654A | 02
04 | FL | BRADFORD COUNTY * | 12007C0240D | 16-JUL-1999 | 99-04-2600A | 02
04 | FL | BRADFORD COUNTY * | 12007C0245D | 15-OCT-1999 | 99-04-5524A | 02
04 | FL | BREVARD COUNTY * | 12009C0180E | 30-SEP-1999 | 99-04-5706A | 02
04 | FL | BREVARD COUNTY * | 12009C0190F | 17-AUG-1999 | 99-04-4664A | 02
04 | FL | BREVARD COUNTY * | 12009C0260E | 30-DEC-1999 | 00-04-0672A | 01
04 | FL | BREVARD COUNTY * | 12009C0260E | 06-OCT-1999 | 99-04-5058A | 02
04 | FL | BREVARD COUNTY * | 12009C0260E | 11-AUG-1999 | 99-04-4764A | 02
04 | FL | BREVARD COUNTY * | 12009C0270E | 10-SEP-1999 | 99-04-4874A | 02
04 | FL | BREVARD COUNTY * | 12009C0275E | 03-SEP-1999 | 99-04-4674A | 02
04 | FL | BREVARD COUNTY * | 12009C0275E | 21-OCT-1999 | 99-04-4316A | 01
04 | FL | BREVARD COUNTY * | 12009C0275E | 29-JUL-1999 | 99-04-3880A | 02
04 | FL | BREVARD COUNTY * | 12009C0290E | 02-DEC-1999 | 00-04-0152A | 02
04 | FL | BREVARD COUNTY * | 12009C0350E | 07-DEC-1999 | 00-04-0200A | 02
04 | FL | BREVARD COUNTY * | 12009C0365E | 12-OCT-1999 | 99-04-4584A | 01
04 | FL | BREVARD COUNTY * | 12009C0430E | 02-DEC-1999 | 99-04-6272A | 02
04 | FL | BREVARD COUNTY * | 12009C0430E | 21-DEC-1999 | 99-04-5792A | 01
04 | FL | BREVARD COUNTY * | 12009C0430E | 02-SEP-1999 | 99-04-5268A | 02
04 | FL | BREVARD COUNTY * | 12009C0430E | 10-SEP-1999 | 99-04-5032A | 01
04 | FL | BREVARD COUNTY * | 12009C0430E | 10-SEP-1999 | 99-04-4946A | 01
04 | FL | BREVARD COUNTY * | 12009C0430E | 26-OCT-1999 | 99-04-4672A | 01
04 | FL | BREVARD COUNTY * | 12009C0435E | 16-DEC-1999 | 00-04-0256A | 02
04 | FL | BREVARD COUNTY * | 12009C0435E | 17-SEP-1999 | 99-04-5464A | 02
04 | FL | BREVARD COUNTY * | 12009C0435E | 05-AUG-1999 | 99-04-4438A | 02
04 | FL | BREVARD COUNTY * | 12009C0435E | 20-JUL-1999 | 99-04-4140A | 01
04 | FL | BREVARD COUNTY * | 12009C0435E | 30-JUL-1999 | 99-04-3366A | 02
04 | FL | BREVARD COUNTY * | 12009C0440E | 13-JUL-1999 | 99-04-2754A | 01
04 | FL | BREVARD COUNTY * | 12009C0441F | 02-NOV-1999 | 99-04-4196A | 01
04 | FL | BREVARD COUNTY * | 12009C0441F | 16-NOV-1999 | 99-04-5252A | 01
04 | FL | BREVARD COUNTY * | 12009C0441F | 31-AUG-1999 | 99-04-4592A | 01
04 | FL | BREVARD COUNTY * | 12009C0443E | 28-JUL-1999 | 99-04-3826A | 02
04 | FL | BREVARD COUNTY * | 12009C0502E | 15-JUL-1999 | 99-04-3768A | 01
04 | FL | BROWARD COUNTY* | 12011C0120F | 01-JUL-1999 | 99-04-3646A | 01
04 | FL | BROWARD COUNTY* | 12011C0190F | 15-OCT-1999 | 99-04-6000A | 01
04 | FL | BROWARD COUNTY* | 12011C0215F | 05-NOV-1999 | 99-04-5196A | 02
04 | FL | BROWARD COUNTY* | 12011C0215F | 26-OCT-1999 | 99-04-4966A | 01
04 | FL | BROWARD COUNTY* | 12011C0215F | 19-OCT-1999 | 99-04-4866A | 02
04 | FL | BROWARD COUNTY* | 12011C0215F | 17-AUG-1999 | 99-04-4470A | 02
04 | FL | CALLAWAY, CITY OF | 1200050002C | 24-AUG-1999 | 99-04-4574A | 02
04 | FL | CAPE CORAL, CITY OF | 1250950020C | 04-NOV-1999 | 99-04-5928A | 01
04 | FL | CAPE CORAL, CITY OF | 1250950020C | 14-OCT-1999 | 99-04-5420A | 01
04 | FL | CAPE CORAL, CITY OF | 1250950020C | 13-OCT-1999 | 99-04-5374A | 01
04 | FL | CAPE CORAL, CITY OF | 1250950020C | 20-JUL-1999 | 99-04-4160A | 01
04 | FL | CAPE CORAL, CITY OF | 1250950030C | 16-DEC-1999 | 00-04-0214A | 01
04 | FL | CAPE CORAL, CITY OF | 1250950030C | 09-DEC-1999 | 00-04-0130A | 01
04 | FL | CAPE CORAL, CITY OF | 1250950030C | 30-DEC-1999 | 00-04-0132A | 01
04 | FL | CAPE CORAL, CITY OF | 1250950030C | 09-DEC-1999 | 00-04-0136A | 01
04 | FL | CAPE CORAL, CITY OF | 1250950030C | 09-DEC-1999 | 00-04-0138A | 01
04 | FL | CAPE CORAL, CITY OF | 1250950030C | 23-NOV-1999 | 99-04-6346A | 01
04 | FL | CAPE CORAL, CITY OF | 1250950030C | 16-NOV-1999 | 99-04-6010A | 01
04 | FL | CAPE CORAL, CITY OF | 1250950030C | 16-NOV-1999 | 99-04-6008A | 01
04 | FL | CAPE CORAL, CITY OF | 1250950030C | 16-NOV-1999 | 99-04-6022A | 01
04 | FL | CAPE CORAL, CITY OF | 1250950030C | 16-NOV-1999 | 99-04-6020A | 01
04 | FL | CAPE CORAL, CITY OF | 1250950030C | 16-NOV-1999 | 99-04-6002A | 01
04 | FL | CAPE CORAL, CITY OF | 1250950030C | 28-OCT-1999 | 99-04-5926A | 01
04 | FL | CAPE CORAL, CITY OF | 1250950030C | 28-OCT-1999 | 99-04-5924A | 01
04 | FL | CAPE CORAL, CITY OF | 1250950030C | 26-OCT-1999 | 99-04-5790A | 01
04 | FL | CAPE CORAL, CITY OF | 1250950030C | 21-OCT-1999 | 99-04-5760A | 01
04 | FL | CAPE CORAL, CITY OF | 1250950030C | 21-OCT-1999 | 99-04-5740A | 01
04 | FL | CAPE CORAL, CITY OF | 1250950030C | 14-OCT-1999 | 99-04-5602A | 01
04 | FL | CAPE CORAL, CITY OF | 1250950030C | 28-OCT-1999 | 99-04-5596A | 01
04 | FL | CAPE CORAL, CITY OF | 1250950030C | 21-OCT-1999 | 99-04-5492A | 01
04 | FL | CAPE CORAL, CITY OF | 1250950030C | 14-OCT-1999 | 99-04-5254A | 01
04 | FL | CAPE CORAL, CITY OF | 1250950030C | 30-SEP-1999 | 99-04-5050A | 01
04 | FL | CAPE CORAL, CITY OF | 1250950030C | 16-SEP-1999 | 99-04-4986A | 01
04 | FL | CAPE CORAL, CITY OF | 1250950030C | 28-SEP-1999 | 99-04-4994A | 01
04 | FL | CAPE CORAL, CITY OF | 1250950030C | 10-SEP-1999 | 99-04-4716A | 01
04 | FL | CAPE CORAL, CITY OF | 1250950030C | 18-AUG-1999 | 99-04-4538A | 01
04 | FL | CAPE CORAL, CITY OF | 1250950030C | 12-AUG-1999 | 99-04-4540A | 01
04 | FL | CAPE CORAL, CITY OF | 1250950030C | 05-AUG-1999 | 99-04-4446A | 01
04 | FL | CAPE CORAL, CITY OF | 1250950030C | 12-AUG-1999 | 99-04-4338A | 01
04 | FL | CAPE CORAL, CITY OF | 1250950030C | 20-JUL-1999 | 99-04-3916A | 01
04 | FL | CAPE CORAL, CITY OF | 1250950030C | 20-AUG-1999 | 99-04-3588A | 02
04 | FL | CAPE CORAL, CITY OF | 1250950035C | 23-NOV-1999 | 99-04-6122A | 01
04 | FL | CAPE CORAL, CITY OF | 1250950035C | 14-DEC-1999 | 99-04-6050A | 01
04 | FL | CAPE CORAL, CITY OF | 1250950035C | 19-OCT-1999 | 99-04-6156A | 02
04 | FL | CAPE CORAL, CITY OF | 1250950035C | 23-NOV-1999 | 99-04-5808A | 01
04 | FL | CAPE CORAL, CITY OF | 1250950035C | 28-OCT-1999 | 99-04-5806A | 01
04 | FL | CAPE CORAL, CITY OF | 1250950035C | 16-SEP-1999 | 99-04-5606A | 02
04 | FL | CAPE CORAL, CITY OF | 1250950035C | 24-AUG-1999 | 99-04-5498A | 02
04 | FL | CAPE CORAL, CITY OF | 1250950035C | 10-SEP-1999 | 99-04-5078A | 01
04 | FL | CAPE CORAL, CITY OF | 1250950035C | 10-SEP-1999 | 99-04-4926A | 01
04 | FL | CAPE CORAL, CITY OF | 1250950035C | 06-JUL-1999 | 99-04-4700A | 01
04 | FL | CAPE CORAL, CITY OF | 1250950035C | 02-JUL-1999 | 99-04-4586A | 01
04 | FL | CAPE CORAL, CITY OF | 1250950035C | 05-AUG-1999 | 99-04-4464A | 01
04 | FL | CAPE CORAL, CITY OF | 1250950035C | 20-JUL-1999 | 99-04-4162A | 02
04 | FL | CAPE CORAL, CITY OF | 1250950035C | 09-JUL-1999 | 99-04-3938A | 01
04 | FL | CAPE CORAL, CITY OF | 1250950040C | 16-NOV-1999 | 00-04-0294A | 01
04 | FL | CAPE CORAL, CITY OF | 1250950040C | 09-DEC-1999 | 00-04-0134A | 01
04 | FL | CAPE CORAL, CITY OF | 1250950040C | 23-NOV-1999 | 99-04-6308A | 01
04 | FL | CAPE CORAL, CITY OF | 1250950040C | 23-NOV-1999 | 99-04-6348A | 01
04 | FL | CAPE CORAL, CITY OF | 1250950040C | 26-OCT-1999 | 99-04-5744A | 01
04 | FL | CAPE CORAL, CITY OF | 1250950040C | 14-OCT-1999 | 99-04-5556A | 01
04 | FL | CAPE CORAL, CITY OF | 1250950040C | 16-SEP-1999 | 99-04-4984A | 01
04 | FL | CAPE CORAL, CITY OF | 1250950040C | 01-JUL-1999 | 99-04-2168A | 02
04 | FL | CHARLOTTE COUNTY * | 1200610020D | 02-SEP-1999 | 99-04-4892A | 02
04 | FL | CITRUS COUNTY * | 1200630175B | 09-DEC-1999 | 00-04-0380A | 02
04 | FL | CITRUS COUNTY * | 1200630175B | 28-OCT-1999 | 99-04-6204A | 02
04 | FL | CITRUS COUNTY * | 1200630175B | 12-OCT-1999 | 99-04-5828A | 02
04 | FL | CITRUS COUNTY * | 1200630175B | 12-OCT-1999 | 99-04-5560A | 02
04 | FL | CITRUS COUNTY * | 1200630175B | 20-OCT-1999 | 99-04-4258A | 02
04 | FL | CITRUS COUNTY * | 1200630175B | 02-SEP-1999 | 99-04-4276A | 02
04 | FL | CITRUS COUNTY * | 1200630175B | 06-AUG-1999 | 99-04-4274A | 02
04 | FL | CITRUS COUNTY * | 1200630205C | 01-DEC-1999 | 99-04-5898A | 02
04 | FL | CITRUS COUNTY * | 1200630205C | 05-OCT-1999 | 99-04-5656A | 02
04 | FL | CITRUS COUNTY * | 1200630210B | 28-DEC-1999 | 00-04-0548A | 02
04 | FL | CITRUS COUNTY * | 1200630220B | 19-AUG-1999 | 99-04-4728A | 02
04 | FL | CITRUS COUNTY * | 1200630255B | 09-NOV-1999 | 99-04-5858A | 02
04 | FL | CITRUS COUNTY * | 1200630255B | 24-NOV-1999 | 99-04-4286A | 02
04 | FL | CITRUS COUNTY * | 1200630260B | 04-NOV-1999 | 00-04-0080A | 02
04 | FL | CITRUS COUNTY * | 1200630260B | 21-OCT-1999 | 99-04-6234A | 02
04 | FL | CITRUS COUNTY * | 1200630260B | 14-OCT-1999 | 99-04-5920A | 02
04 | FL | CITRUS COUNTY * | 1200630260B | 13-OCT-1999 | 99-04-3780A | 02
04 | FL | CITRUS COUNTY * | 1200630270B | 06-AUG-1999 | 99-04-4454A | 02
04 | FL | CITRUS COUNTY * | 1200630270B | 05-AUG-1999 | 99-04-4284A | 02
04 | FL | CITRUS COUNTY * | 1200630270B | 10-AUG-1999 | 99-04-4282A | 02
04 | FL | CLAY COUNTY * | 1200640070D | 17-AUG-1999 | 99-04-4118A | 02
04 | FL | CLAY COUNTY * | 1200640135D | 16-NOV-1999 | 99-04-6188A | 02
04 | FL | CLAY COUNTY * | 1200640135D | 06-AUG-1999 | 99-04-3746A | 01
04 | FL | CLAY COUNTY * | 1200640155D | 12-NOV-1999 | 99-04-133A | 01
04 | FL | CLAY COUNTY * | 1200640290D | 16-NOV-1999 | 99-04-4638A | 01
04 | FL | CLAY COUNTY * | 1200640350D | 22-SEP-1999 | 99-04-5036A | 02
04 | FL | CLEARWATER, CITY OF | 1250960010D | 09-JUL-1999 | 99-04-2544A | 02
04 | FL | CLERMONT, CITY OF | 1201330001B | 28-DEC-1999 | 00-04-0576A | 02
04 | FL | COLLIER COUNTY * | 1200670195D | 16-DEC-1999 | 00-04-0092A | 01
04 | FL | COLLIER COUNTY * | 1200670394D | 28-DEC-1999 | 00-04-0890A | 02
04 | FL | COLLIER COUNTY * | 1200670394D | 28-OCT-1999 | 99-04-6224A | 02
04 | FL | COLLIER COUNTY * | 1200670394D | 21-OCT-1999 | 99-04-5798A | 01
04 | FL | COLLIER COUNTY * | 1200670394D | 28-OCT-1999 | 99-04-5796A | 01
04 | FL | COLLIER COUNTY * | 1200670394D | 26-OCT-1999 | 99-04-5794A | 01
04 | FL | COLLIER COUNTY * | 1200670582F | 28-DEC-1999 | 00-04-0552A | 01
04 | FL | COLLIER COUNTY * | 1200670582F | 14-OCT-1999 | 99-04-5370A | 01
04 | FL | COLLIER COUNTY * | 1200670605E | 28-DEC-1999 | 00-04-0742A | 01
04 | FL | COLLIER COUNTY * | 1200670605E | 14-DEC-1999 | 00-04-0528A | 01
04 | FL | COLLIER COUNTY * | 1200670605E | 16-NOV-1999 | 00-04-0350A | 01
04 | FL | COLLIER COUNTY * | 1200670605E | 28-OCT-1999 | 99-04-6024A | 01
04 | FL | COLLIER COUNTY * | 1200670605E | 04-NOV-1999 | 99-04-6018A | 01
04 | FL | COLLIER COUNTY * | 1200670605E | 04-NOV-1999 | 99-04-5978A | 01
04 | FL | COLLIER COUNTY * | 1200670605E | 14-OCT-1999 | 99-04-5372A | 01
04 | FL | COLLIER COUNTY * | 1200670605E | 24-AUG-1999 | 99-04-4858A | 01
04 | FL | COLLIER COUNTY * | 1200670605E | 10-SEP-1999 | 99-04-4788A | 01
04 | FL | COLLIER COUNTY * | 1200670605E | 10-SEP-1999 | 99-04-4794A | 01
04 | FL | COLLIER COUNTY * | 1200670605E | 10-SEP-1999 | 99-04-4768A | 01
04 | FL | COLLIER COUNTY * | 1200670605E | 07-JUL-1999 | 99-04-3892A | 01
04 | FL | COLLIER COUNTY * | 1200670605E | 01-JUL-1999 | 99-04-3136A | 01
04 | FL | CORAL SPRINGS, CITY OF | 12011C0095F | 25-AUG-1999 | 99-04-4832A | 01
04 | FL | CORAL SPRINGS, CITY OF | 12011C0095F | 19-AUG-1999 | 99-04-4682A | 02
04 | FL | CORAL SPRINGS, CITY OF | 12011C0095F | 27-JUL-1999 | 99-04-4234A | 02
04 | FL | CORAL SPRINGS, CITY OF | 12011C0115F | 14-DEC-1999 | 99-04-6038A | 01
04 | FL | DADE COUNTY* | 12025C0075J | 14-OCT-1999 | 99-04-5030A | 02
04 | FL | DADE COUNTY* | 12025C0075J | 20-AUG-1999 | 99-04-4706A | 01
04 | FL | DADE COUNTY* | 12025C0075J | 07-JUL-1999 | 99-04-3200A | 01
04 | FL | DADE COUNTY* | 12025C0080J | 02-DEC-1999 | 00-04-0520A | 01
04 | FL | DADE COUNTY* | 12025C0080J | 02-DEC-1999 | 00-04-0522A | 01
04 | FL | DADE COUNTY* | 12025C0080J | 18-AUG-1999 | 99-04-4860A | 01
04 | FL | DADE COUNTY* | 12025C0160J | 26-AUG-1999 | 99-04-5358A | 01
04 | FL | DADE COUNTY* | 12025C0160J | 26-AUG-1999 | 99-04-5292A | 01
04 | FL | DADE COUNTY* | 12025C0160J | 18-AUG-1999 | 99-04-5088A | 01
04 | FL | DADE COUNTY* | 12025C0165J | 01-DEC-1999 | 99-04-6312A | 01
04 | FL | DADE COUNTY* | 12025C0165J | 05-OCT-1999 | 99-04-5396A | 01
04 | FL | DADE COUNTY* | 12025C0165J | 26-AUG-1999 | 99-04-4720A | 01
04 | FL | DADE COUNTY* | 12025C0170J | 29-DEC-1999 | 99-04-6262A | 02
04 | FL | DADE COUNTY* | 12025C0170J | 06-AUG-1999 | 99-04-4250A | 01
04 | FL | DADE COUNTY* | 12025C0255J | 28-DEC-1999 | 00-04-1264X | 01
04 | FL | DADE COUNTY* | 12025C0255J | 28-OCT-1999 | 99-04-5956A | 01
04 | FL | DADE COUNTY* | 12025C0255J | 14-DEC-1999 | 99-04-5870A | 02
04 | FL | DADE COUNTY* | 12025C0255J | 28-SEP-1999 | 99-04-5044A | 02
04 | FL | DADE COUNTY* | 12025C0265J | 16-DEC-1999 | 00-04-0738A | 01
04 | FL | DADE COUNTY* | 12025C0265J | 02-DEC-1999 | 00-04-0518A | 01
04 | FL | DADE COUNTY* | 12025C0265J | 02-DEC-1999 | 00-04-0516A | 01
04 | FL | DADE COUNTY* | 12025C0265J | 12-NOV-1999 | 99-04-6054A | 01
04 | FL | DADE COUNTY* | 12025C0265J | 21-OCT-1999 | 99-04-6052A | 01
04 | FL | DADE COUNTY* | 12025C0265J | 21-OCT-1999 | 99-04-5592A | 01
04 | FL | DADE COUNTY* | 12025C0265J | 28-SEP-1999 | 99-04-4184A | 01
04 | FL | DADE COUNTY* | 12025C0265J | 08-OCT-1999 | 99-04-5034A | 01
04 | FL | DADE COUNTY* | 12025C0265J | 21-SEP-1999 | 99-04-4878A | 01
04 | FL | DADE COUNTY* | 12025C0265J | 04-AUG-1999 | 99-04-4224A | 01
04 | FL | DADE COUNTY* | 12025C0265J | 07-SEP-1999 | 99-04-3072A | 01
04 | FL | DADE COUNTY* | 12025C0265J | 27-AUG-1999 | 99-04-3076A | 01
04 | FL | DADE COUNTY* | 12025C0266J | 18-AUG-1999 | 99-04-4580A | 02
04 | FL | DADE COUNTY* | 12025C0268J | 03-AUG-1999 | 99-04-4444A | 02
04 | FL | DADE COUNTY* | 12025C0356J | 01-DEC-1999 | 00-04-0404A | 02
04 | FL | DANIA, CITY OF | 12011C0309F | 30-JUL-1999 | 99-04-4428A | 02
04 | FL | DAVIE, CITY OF | 12011C0285F | 26-OCT-1999 | 99-04-5080A | 01
04 | FL | DAYTONA BEACH, CITY OF | 1250990015D | 14-JUL-1999 | 99-04-3112A | 01
04 | FL | DEBARY, CITY OF | 1206720001F | 10-SEP-1999 | 99-04-5010A | 02
04 | FL | DEERFIELD BEACH, CITY OF | 12011C0105F | 15-JUL-1999 | 99-04-4486A | 01
04 | FL | DELRAY BEACH, CITY OF | 1251020001D | 21-JUL-1999 | 99-04-3400A | 02
04 | FL | DESOTO COUNTY* | 12027C0320B | 23-NOV-1999 | 99-04-5992A | 02
04 | FL | ESCAMBIA COUNTY* | 12033C0235E | 22-JUL-1999 | 99-04-4172A | 02
04 | FL | ESCAMBIA COUNTY* | 12033C0245E | 16-NOV-1999 | 99-04-4676A | 02
04 | FL | ESCAMBIA COUNTY* | 12033C0305E | 19-AUG-1999 | 99-04-4610A | 02
04 | FL | EUSTIS, CITY OF | 1201340005B | 19-AUG-1999 | 99-04-4564A | 02
04 | FL | FELLSMERE, CITY OF | 12061C0060E | 16-DEC-1999 | 00-04-0052A | 01
04 | FL | FERNANDINA BEACH, CITY OF | 1201720006D | 07-DEC-1999 | 99-04-5136A | 02
04 | FL | FLAGLER COUNTY* | 1200850150B | 12-NOV-1999 | 99-04-3968A | 02
04 | FL | FORT LAUDERDALE, CITY OF | 12011C0219F | 12-NOV-1999 | 99-04-5054A | 02
04 | FL | FRUITLAND PARK, CITY OF | 1203870001B | 10-NOV-1999 | 99-04-4754A | 02
04 | FL | GADSDEN COUNTY * | 1200910300A | 26-AUG-1999 | 99-04-3266A | 02
04 | FL | GAINESVILLE, CITY OF | 1251070012B | 10-SEP-1999 | 99-04-5006A | 02
04 | FL | GULF COUNTY * | 1200980050B | 03-NOV-1999 | 99-04-5218A | 02
04 | FL | GULF COUNTY * | 1200980175D | 12-OCT-1999 | 99-04-5124A | 02
04 | FL | HERNANDO COUNTY * | 1201100075B | 12-NOV-1999 | 99-04-5882A | 02
04 | FL | HERNANDO COUNTY * | 1201100150B | 10-SEP-1999 | 99-04-5338A | 02
04 | FL | HERNANDO COUNTY * | 1201100180B | 09-NOV-1999 | 00-04-0088A | 02
04 | FL | HERNANDO COUNTY * | 1201100280B | 28-DEC-1999 | 00-04-0538A | 02
04 | FL | HERNANDO COUNTY * | 1201100300B | 07-DEC-1999 | 00-04-0288A | 02
04 | FL | HERNANDO COUNTY * | 1201100300B | 08-SEP-1999 | 99-04-5334A | 02
04 | FL | HERNANDO COUNTY * | 1201100300B | 15-OCT-1999 | 99-04-5336A | 02
04 | FL | HERNANDO COUNTY * | 1201100300B | 02-SEP-1999 | 99-04-4850A | 02
04 | FL | HIALEAH GARDENS, CITY OF | 12025C0075J | 21-DEC-1999 | 00-04-0020A | 01
04 | FL | HIALEAH, CITY OF | 12025C0075J | 12-NOV-1999 | 00-04-0032A | 01
04 | FL | HIALEAH, CITY OF | 12025C0075J | 21-SEP-1999 | 99-04-4182A | 01
04 | FL | HIALEAH, CITY OF | 12025C0075J | 31-AUG-1999 | 99-04-4740A | 02
04 | FL | HIGHLANDS COUNTY * | 1201110025B | 28-OCT-1999 | 99-04-6218A | 02
04 | FL | HIGHLANDS COUNTY * | 1201110025B | 20-AUG-1999 | 99-04-2982A | 02
04 | FL | HIGHLANDS COUNTY * | 1201110150B | 28-SEP-1999 | 99-04-4940A | 02
04 | FL | HILLSBOROUGH COUNTY* | 1201120045D | 14-OCT-1999 | 99-04-5888A | 02
04 | FL | HILLSBOROUGH COUNTY* | 1201120045D | 07-DEC-1999 | 99-04-5598A | 01
04 | FL | HILLSBOROUGH COUNTY* | 1201120045D | 03-SEP-1999 | 99-04-5042A | 02
04 | FL | HILLSBOROUGH COUNTY* | 1201120045D | 05-AUG-1999 | 99-04-3080A | 01
04 | FL | HILLSBOROUGH COUNTY* | 1201120045D | 24-SEP-1999 | 99-04-2326A | 01
04 | FL | HILLSBOROUGH COUNTY* | 1201120065D | 30-NOV-1999 | 99-04-6216A | 02
04 | FL | HILLSBOROUGH COUNTY* | 1201120065D | 16-NOV-1999 | 99-04-6096A | 02
04 | FL | HILLSBOROUGH COUNTY* | 1201120090E | 05-OCT-1999 | 99-04-6006A | 01
04 | FL | HILLSBOROUGH COUNTY* | 1201120090E | 07-SEP-1999 | 99-04-3640A | 01
04 | FL | HILLSBOROUGH COUNTY* | 1201120090E | 06-JUL-1999 | 99-04-1604A | 01
04 | FL | HILLSBOROUGH COUNTY* | 1201120160C | 07-OCT-1999 | 99-04-5550A | 01
04 | FL | HILLSBOROUGH COUNTY* | 1201120160C | 10-SEP-1999 | 99-04-4792A | 01
04 | FL | HILLSBOROUGH COUNTY* | 1201120160C | 03-AUG-1999 | 99-04-4228A | 01
04 | FL | HILLSBOROUGH COUNTY* | 1201120169C | 13-JUL-1999 | 99-04-3810A | 01
04 | FL | HILLSBOROUGH COUNTY* | 1201120180F | 28-DEC-1999 | 00-04-0784A | 01
04 | FL | HILLSBOROUGH COUNTY* | 1201120180F | 23-SEP-1999 | 99-04-5250A | 01
04 | FL | HILLSBOROUGH COUNTY* | 1201120180F | 14-JUL-1999 | 99-04-3574A | 01
04 | FL | HILLSBOROUGH COUNTY* | 1201120180F | 30-JUL-1999 | 99-04-3206A | 02
04 | FL | HILLSBOROUGH COUNTY* | 1201120185F | 07-DEC-1999 | 00-04-0240A | 01
04 | FL | HILLSBOROUGH COUNTY* | 1201120185F | 02-DEC-1999 | 00-04-0242A | 01
04 | FL | HILLSBOROUGH COUNTY* | 1201120185F | 17-NOV-1999 | 99-04-6310A | 01
04 | FL | HILLSBOROUGH COUNTY* | 1201120185F | 30-DEC-1999 | 99-04-6166A | 02
04 | FL | HILLSBOROUGH COUNTY* | 1201120185F | 29-SEP-1999 | 99-04-5084A | 01
04 | FL | HILLSBOROUGH COUNTY* | 1201120185F | 07-OCT-1999 | 99-04-5144A | 02
04 | FL | HILLSBOROUGH COUNTY* | 1201120185F | 28-SEP-1999 | 99-04-5090A | 02
04 | FL | HILLSBOROUGH COUNTY* | 1201120185F | 10-SEP-1999 | 99-04-4900A | 02
04 | FL | HILLSBOROUGH COUNTY* | 1201120185F | 25-AUG-1999 | 99-04-4424A | 02
04 | FL | HILLSBOROUGH COUNTY* | 1201120185F | 08-SEP-1999 | 99-04-4358A | 01
04 | FL | HILLSBOROUGH COUNTY* | 1201120190D | 08-OCT-1999 | 99-04-5446A | 01
04 | FL | HILLSBOROUGH COUNTY* | 1201120190D | 26-AUG-1999 | 99-04-5404A | 01
04 | FL | HILLSBOROUGH COUNTY* | 1201120190D | 19-AUG-1999 | 99-04-3764A | 01
04 | FL | HILLSBOROUGH COUNTY* | 1201120192D | 02-DEC-1999 | 00-04-0858A | 01
04 | FL | HILLSBOROUGH COUNTY* | 1201120192D | 11-AUG-1999 | 99-04-3354A | 01
04 | FL | HILLSBOROUGH COUNTY* | 1201120205D | 09-DEC-1999 | 00-04-0042A | 01
04 | FL | HILLSBOROUGH COUNTY* | 1201120205D | 09-DEC-1999 | 00-04-0040A | 01
04 | FL | HILLSBOROUGH COUNTY* | 1201120205D | 02-DEC-1999 | 99-04-6220A | 02
04 | FL | HILLSBOROUGH COUNTY* | 1201120205D | 21-OCT-1999 | 99-04-6098A | 02
04 | FL | HILLSBOROUGH COUNTY* | 1201120230E | 08-JUL-1999 | 99-04-3980A | 02
04 | FL | HILLSBOROUGH COUNTY* | 1201120265D | 14-OCT-1999 | 99-04-5668A | 02
04 | FL | HILLSBOROUGH COUNTY* | 1201120367E | 13-JUL-1999 | 99-04-3732A | 02
04 | FL | HILLSBOROUGH COUNTY* | 1201120387E | 15-OCT-1999 | 99-04-3830A | 01
04 | FL | HILLSBOROUGH COUNTY* | 1201120395E | 12-NOV-1999 | 00-04-0208A | 01
04 | FL | HILLSBOROUGH COUNTY* | 1201120395E | 21-DEC-1999 | 99-04-5954A | 01
04 | FL | HILLSBOROUGH COUNTY* | 1201120395E | 11-AUG-1999 | 99-04-4988A | 02
04 | FL | HILLSBOROUGH COUNTY* | 1201120395E | 27-AUG-1999 | 99-04-4418A | 01
04 | FL | HILLSBOROUGH COUNTY* | 1201120425C | 16-NOV-1999 | 00-04-0236A | 02
04 | FL | HILLSBOROUGH COUNTY* | 1201120425C | 26-AUG-1999 | 99-04-4774A | 02
04 | FL | HILLSBOROUGH COUNTY* | 1201120494C | 03-NOV-1999 | 99-04-5942A | 01
04 | FL | HILLSBOROUGH COUNTY* | 1201120494C | 27-AUG-1999 | 99-04-5076A | 01
04 | FL | HILLSBOROUGH COUNTY* | 1201120520C | 22-SEP-1999 | 99-04-3744A | 01
04 | FL | HOLLY HILL, CITY OF | 125112C | 15-OCT-1999 | 99-04-5046A | 02
04 | FL | HOLLYWOOD, CITY OF | 12011C0312F | 21-JUL-1999 | 99-04-3752A | 02
04 | FL | INDIAN RIVER COUNTY * | 12061C0060E | 07-DEC-1999 | 00-04-0170A | 01
04 | FL | INDIAN RIVER COUNTY * | 12061C0070E | 28-DEC-1999 | 00-04-0718A | 01
04 | FL | INDIAN RIVER COUNTY * | 12061C0070E | 05-NOV-1999 | 99-04-6026A | 01
04 | FL | INDIAN RIVER COUNTY * | 12061C0083G | 14-DEC-1999 | 99-04-6016A | 01
04 | FL | INDIAN RIVER COUNTY * | 12061C0168E | 09-JUL-1999 | 99-04-2794A | 01
04 | FL | INVERNESS, CITY OF | 1203480001B | 19-OCT-1999 | 99-04-4884A | 02
04 | FL | ISLAMORADA, VILLAGE OF | 12087C1131H | 04-NOV-1999 | 99-04-6244A | 02
04 | FL | JACKSON COUNTY * | 12063C0175C | 31-AUG-1999 | 99-04-3476A | 02
04 | FL | JACKSONVILLE, CITY OF | 1200770025E | 20-JUL-1999 | 99-04-3088A | 02
04 | FL | JACKSONVILLE, CITY OF | 1200770070E | 21-DEC-1999 | 99-04-6070A | 01
04 | FL | JACKSONVILLE, CITY OF | 1200770131E | 06-AUG-1999 | 99-04-4336A | 17
04 | FL | JACKSONVILLE, CITY OF | 1200770141E | 14-OCT-1999 | 99-04-5818A | 02
04 | FL | JACKSONVILLE, CITY OF | 1200770152E | 24-AUG-1999 | 99-04-4556A | 02
04 | FL | JACKSONVILLE, CITY OF | 1200770209E | 30-SEP-1999 | 99-04-5586A | 02
04 | FL | JACKSONVILLE, CITY OF | 1200770233E | 29-JUL-1999 | 99-04-4382A | 02
04 | FL | JACKSONVILLE, CITY OF | 1200770234E | 01-DEC-1999 | 99-04-4920A | 01
04 | FL | JACKSONVILLE, CITY OF | 1200770238E | 28-OCT-1999 | 99-04-5388A | 01
04 | FL | JACKSONVILLE, CITY OF | 1200770238E | 28-JUL-1999 | 99-04-3936A | 01
04 | FL | JACKSONVILLE, CITY OF | 1200770239E | 30-SEP-1999 | 99-04-4776A | 01
04 | FL | JACKSONVILLE, CITY OF | 1200770241E | 28-DEC-1999 | 00-04-0624A | 02
04 | FL | JACKSONVILLE, CITY OF | 1200770241E | 28-DEC-1999 | 00-04-0734A | 02
04 | FL | JACKSONVILLE, CITY OF | 1200770241E | 16-DEC-1999 | 00-04-0260A | 02
04 | FL | JACKSONVILLE, CITY OF | 1200770241E | 14-DEC-1999 | 00-04-0262A | 02
04 | FL | JACKSONVILLE, CITY OF | 1200770241E | 16-DEC-1999 | 00-04-0268A | 02
04 | FL | JACKSONVILLE, CITY OF | 1200770241E | 16-DEC-1999 | 00-04-0270A | 02
04 | FL | JACKSONVILLE, CITY OF | 1200770241E | 16-DEC-1999 | 00-04-0276A | 02
04 | FL | JACKSONVILLE, CITY OF | 1200770241E | 16-DEC-1999 | 00-04-0278A | 02
04 | FL | LAKE COUNTY * | 1204210100B | 04-NOV-1999 | 99-04-6342A | 02
04 | FL | LAKE COUNTY * | 1204210100B | 28-SEP-1999 | 99-04-5576A | 02
04 | FL | LAKE COUNTY * | 1204210100B | 17-SEP-1999 | 99-04-5430A | 02
04 | FL | LAKE COUNTY * | 1204210100B | 14-OCT-1999 | 99-04-5310A | 02
04 | FL | LAKE COUNTY * | 1204210125B | 19-AUG-1999 | 99-04-4270A | 02
04 | FL | LAKE COUNTY * | 1204210150B | 28-DEC-1999 | 00-04-0578A | 02
04 | FL | LAKE COUNTY * | 1204210200B | 31-AUG-1999 | 99-04-4634A | 02
04 | FL | LAKE COUNTY * | 1204210200B | 12-AUG-1999 | 99-04-3918A | 02
04 | FL | LAKE COUNTY * | 1204210225B | 30-DEC-1999 | 99-04-6252A | 02
04 | FL | LAKE COUNTY * | 1204210225B | 04-NOV-1999 | 99-04-6106A | 02
04 | FL | LAKE COUNTY * | 1204210225B | 09-NOV-1999 | 99-04-5746A | 01
04 | FL | LAKE COUNTY * | 1204210225B | 17-SEP-1999 | 99-04-5506A | 02
04 | FL | LAKE COUNTY * | 1204210225B | 17-SEP-1999 | 99-04-5462A | 02
04 | FL | LAKE COUNTY * | 1204210225B | 24-AUG-1999 | 99-04-4812A | 02
04 | FL | LAKE COUNTY * | 1204210225B | 26-AUG-1999 | 99-04-4572A | 02
04 | FL | LAKE COUNTY * | 1204210375B | 28-DEC-1999 | 00-04-0580A | 02
04 | FL | LAKE COUNTY * | 1204210425B | 14-SEP-1999 | 99-04-027P | 05
04 | FL | LAKE MARY, CITY OF | 12117C0040E | 07-OCT-1999 | 99-04-4612A | 01
04 | FL | LAKE MARY, CITY OF | 12117C0040E | 07-OCT-1999 | 99-04-3740A | 01
04 | FL | LAKELAND, CITY OF | 1202670010B | 21-DEC-1999 | 00-04-0570A | 02
04 | FL | LARGO, CITY OF | 1251220009D | 07-JUL-1999 | 99-04-3876A | 02
04 | FL | LAUDERHILL, CITY OF | 12011C0204F | 14-JUL-1999 | 99-04-3952A | 02
04 | FL | LAUDERHILL, CITY OF | 12011C0205F | 02-DEC-1999 | 99-04-6158A | 02
04 | FL | LAUDERHILL, CITY OF | 12011C0205F | 01-SEP-1999 | 99-04-5526A | 01
04 | FL | LAUDERHILL, CITY OF | 12011C0205F | 14-DEC-1999 | 99-04-5500A | 02
04 | FL | LAUDERHILL, CITY OF | 12011C0205F | 14-OCT-1999 | 99-04-4668A | 01
04 | FL | LAUDERHILL, CITY OF | 12011C0212F | 28-SEP-1999 | 99-04-4840A | 02
04 | FL | LAUDERHILL, CITY OF | 12011C0212F | 04-AUG-1999 | 99-04-4352A | 01
04 | FL | LEE COUNTY* | 1251240225C | 21-OCT-1999 | 99-04-6174A | 02
04 | FL | LEE COUNTY* | 1251240225C | 21-OCT-1999 | 99-04-5738A | 01
04 | FL | LEE COUNTY* | 1251240225C | 05-OCT-1999 | 99-04-5494A | 01
04 | FL | LEE COUNTY* | 1251240225C | 23-SEP-1999 | 99-04-5332A | 02
04 | FL | LEE COUNTY* | 1251240225C | 03-AUG-1999 | 99-04-5062A | 01
04 | FL | LEE COUNTY* | 1251240225C | 29-SEP-1999 | 99-04-5026A | 01
04 | FL | LEE COUNTY* | 1251240325C | 28-SEP-1999 | 99-04-5380A | 02
04 | FL | LEE COUNTY* | 1251240426C | 21-OCT-1999 | 99-04-6048A | 01
04 | FL | LEE COUNTY* | 1251240465C | 30-NOV-1999 | 00-04-0358A | 01
04 | FL | LEE COUNTY* | 1251240465C | 30-NOV-1999 | 00-04-0202A | 01
04 | FL | LEE COUNTY* | 1251240505E | 11-AUG-1999 | 99-04-4144A | 02
04 | FL | LEON COUNTY * | 12073C0110D | 06-AUG-1999 | 99-04-4220A | 02
04 | FL | LEON COUNTY * | 12073C0250D | 12-OCT-1999 | 99-04-5350A | 02
04 | FL | LEON COUNTY * | 12073C0250D | 10-SEP-1999 | 99-04-4350A | 02
04 | FL | LEON COUNTY * | 12073C0350D | 04-NOV-1999 | 00-04-0086A | 02
04 | FL | LEON COUNTY * | 12073C0431D | 16-SEP-1999 | 99-04-5724A | 01
04 | FL | LONGWOOD, CITY OF | 12117C0130E | 02-SEP-1999 | 99-04-4838A | 02
04 | FL | MANATEE COUNTY * | 1201530327C | 30-SEP-1999 | 99-04-5594A | 01
04 | FL | MANATEE COUNTY * | 1201530344C | 01-JUL-1999 | 99-04-2786A | 01
04 | FL | MARION COUNTY * | 1201600300B | 19-OCT-1999 | 99-04-5574A | 02
04 | FL | MARION COUNTY * | 1201600300B | 03-NOV-1999 | 99-04-1954A | 02
04 | FL | MARTIN COUNTY * | 1201610145C | 28-JUL-1999 | 99-04-2890A | 02
04 | FL | MARTIN COUNTY * | 1201610485B | 22-SEP-1999 | 99-04-3840A | 02
04 | FL | MARY ESTHER, CITY OF | 1203370001B | 16-JUL-1999 | 99-04-2886A | 01
04 | FL | MIAMI, CITY OF | 12025C0191J | 24-SEP-1999 | 99-04-259P | 05
04 | FL | MIRAMAR, CITY OF | 12011C0290F | 26-OCT-1999 | 99-04-5610A | 01
04 | FL | MIRAMAR, CITY OF | 12011C0295F | 10-DEC-1999 | 00-04-0156A | 01
04 | FL | MIRAMAR, CITY OF | 12011C0295F | 02-DEC-1999 | 99-04-5998A | 01
04 | FL | MIRAMAR, CITY OF | 12011C0295F | 16-DEC-1999 | 99-04-5754A | 01
04 | FL | MIRAMAR, CITY OF | 12011C0295F | 23-SEP-1999 | 99-04-4932A | 01
04 | FL | MIRAMAR, CITY OF | 12011C0295F | 01-SEP-1999 | 99-04-4766A | 01
04 | FL | MIRAMAR, CITY OF | 12011C0295F | 03-AUG-1999 | 99-04-4148A | 01
04 | FL | MIRAMAR, CITY OF | 12011C0315F | 12-AUG-1999 | 99-04-5322A | 01
04 | FL | MIRAMAR, CITY OF | 12011C0315F | 23-JUL-1999 | 99-04-3954A | 02
04 | FL | MONTVERDE, TOWN OF | 1206140001A | 11-AUG-1999 | 99-04-3906A | 02
04 | FL | NASSAU COUNTY* | 1201700239C | 10-NOV-1999 | 99-04-4750A | 02
04 | FL | OCOEE, CITY OF | 1201850005B | 13-JUL-1999 | 99-04-3556A | 02
04 | FL | OKALOOSA COUNTY * | 1201730170D | 30-SEP-1999 | 99-04-5082A | 01
04 | FL | OKALOOSA COUNTY * | 1201730195D | 15-SEP-1999 | 99-04-5516A | 02
04 | FL | OKALOOSA COUNTY * | 1201730205E | 28-SEP-1999 | 99-04-5074A | 01
04 | FL | OKEECHOBEE COUNTY * | 1201770200B | 04-NOV-1999 | 99-04-6014A | 01
04 | FL | OLDSMAR, CITY OF | 1202500003B | 12-NOV-1999 | 00-04-0140A | 01
04 | FL | OLDSMAR, CITY OF | 1202500003B | 28-SEP-1999 | 99-04-5548A | 01
04 | FL | OLDSMAR, CITY OF | 1202500003B | 26-AUG-1999 | 99-04-4230A | 01
04 | FL | OLDSMAR, CITY OF | 1202500004B | 16-NOV-1999 | 99-04-5950A | 01
04 | FL | OLDSMAR, CITY OF | 1202500004B | 31-AUG-1999 | 99-04-4790A | 01
04 | FL | ORANGE COUNTY * | 1201790175C | 24-AUG-1999 | 99-04-4810A | 02
04 | FL | ORANGE COUNTY * | 1201790175C | 14-JUL-1999 | 99-04-3800A | 02
04 | FL | ORANGE COUNTY * | 1201790225C | 16-NOV-1999 | 99-04-5280A | 02
04 | FL | ORANGE COUNTY * | 1201790225C | 16-SEP-1999 | 99-04-4488A | 01
04 | FL | ORANGE COUNTY * | 1201790225C | 12-AUG-1999 | 99-04-3878A | 02
04 | FL | ORANGE COUNTY * | 1201790250D | 05-NOV-1999 | 99-04-6012A | 01
04 | FL | ORANGE COUNTY * | 1201790250D | 02-NOV-1999 | 99-04-5786A | 02
04 | FL | ORANGE COUNTY * | 1201790250D | 02-DEC-1999 | 99-04-5290A | 01
04 | FL | ORANGE COUNTY * | 1201790250D | 04-NOV-1999 | 99-04-5266A | 01
04 | FL | ORANGE COUNTY * | 1201790250D | 23-SEP-1999 | 99-04-4588A | 01
04 | FL | ORANGE COUNTY * | 1201790250D | 15-OCT-1999 | 99-04-4480A | 02
04 | FL | ORANGE COUNTY * | 1201790250D | 26-OCT-1999 | 99-04-4460A | 01
04 | FL | ORANGE COUNTY * | 1201790250D | 12-NOV-1999 | 99-04-4384A | 01
04 | FL | ORANGE COUNTY * | 1201790250D | 17-DEC-1999 | 99-04-013P | 06
04 | FL | ORANGE COUNTY * | 1201790275D | 12-OCT-1999 | 99-04-5618A | 02
04 | FL | ORANGE COUNTY * | 1201790325B | 14-JUL-1999 | 99-04-3678A | 02
04 | FL | ORANGE COUNTY * | 1201790350C | 23-NOV-1999 | 99-04-6186A | 02
04 | FL | ORANGE COUNTY * | 1201790350C | 30-NOV-1999 | 99-04-4880A | 01
04 | FL | ORANGE COUNTY * | 1201790375D | 14-OCT-1999 | 99-04-5342A | 01
04 | FL | ORANGE COUNTY * | 1201790375D | 12-NOV-1999 | 99-04-4078A | 01
04 | FL | ORANGE COUNTY * | 1201790375D | 13-JUL-1999 | 99-04-4036A | 02
04 | FL | ORANGE COUNTY * | 1201790375D | 22-OCT-1999 | 99-04-3756A | 01
04 | FL | ORANGE COUNTY * | 1201790375D | 28-JUL-1999 | 99-04-2830A | 02
04 | FL | ORANGE COUNTY * | 1201790375D | 07-JUL-1999 | 99-04-2164A | 01
04 | FL | ORANGE COUNTY * | 1201790375D | 06-JUL-1999 | 99-04-2072A | 01
04 | FL | ORANGE COUNTY * | 1201790400C | 07-DEC-1999 | 00-04-0464A | 02
04 | FL | ORANGE COUNTY * | 1201790400C | 17-AUG-1999 | 99-04-4468A | 02
04 | FL | ORANGE COUNTY * | 1201790400C | 29-SEP-1999 | 99-04-4340A | 01
04 | FL | ORANGE COUNTY * | 1201790400C | 17-AUG-1999 | 99-04-3620A | 02
04 | FL | ORANGE COUNTY * | 1201790575B | 16-NOV-1999 | 00-04-0362A | 01
04 | FL | ORLANDO, CITY OF | 1201860005D | 28-DEC-1999 | 00-04-0724A | 01
04 | FL | ORLANDO, CITY OF | 1201860020D | 28-OCT-1999 | 99-04-5444A | 01
04 | FL | ORLANDO, CITY OF | 1201860020D | 04-AUG-1999 | 99-04-4060A | 02
04 | FL | OSCEOLA COUNTY * | 1201890020C | 30-DEC-1999 | 99-04-5452A | 01
04 | FL | OSCEOLA COUNTY * | 1201890030B | 11-AUG-1999 | 99-04-3066A | 01
04 | FL | OSCEOLA COUNTY * | 1201890045C | 05-OCT-1999 | 99-04-5652A | 02
04 | FL | OSCEOLA COUNTY * | 1201890045C | 12-OCT-1999 | 99-04-4744A | 01
04 | FL | OSCEOLA COUNTY * | 1201890045C | 17-SEP-1999 | 99-04-3526A | 01
04 | FL | OSCEOLA COUNTY * | 1201890110B | 14-DEC-1999 | 99-04-5442A | 01
04 | FL | OSCEOLA COUNTY * | 1201890120B | 23-NOV-1999 | 00-04-0104A | 02
04 | FL | OSCEOLA COUNTY * | 1201890135C | 18-NOV-1999 | 99-04-5554A | 01
04 | FL | OSCEOLA COUNTY * | 1201890135C | 06-OCT-1999 | 99-04-2332A | 01
04 | FL | OSCEOLA COUNTY * | 1201890140B | 16-NOV-1999 | 00-04-0106A | 02
04 | FL | OSCEOLA COUNTY * | 1201890140B | 23-SEP-1999 | 99-04-4922A | 02
04 | FL | OSCEOLA COUNTY * | 1201890140B | 08-JUL-1999 | 99-04-3920A | 02
04 | FL | OSCEOLA COUNTY * | 1201890140B | 07-JUL-1999 | 99-04-3922A | 02
04 | FL | OSCEOLA COUNTY * | 1201890140B | 30-JUL-1999 | 99-04-3924A | 02
04 | FL | OSCEOLA COUNTY * | 1201890205B | 28-DEC-1999 | 00-04-0412A | 02
04 | FL | OSCEOLA COUNTY * | 1201890205B | 28-DEC-1999 | 00-04-0414A | 02
04 | FL | OSCEOLA COUNTY * | 1201890205B | 07-DEC-1999 | 00-04-0416A | 02
04 | FL | OSCEOLA COUNTY * | 1201890205B | 28-DEC-1999 | 00-04-0418A | 02
04 | FL | OVIEDO, CITY OF | 12117C0165E | 27-AUG-1999 | 99-04-3664A | 17
04 | FL | OVIEDO, CITY OF | 12117C0170E | 22-DEC-1999 | 99-04-5688A | 01
04 | FL | PALM BAY, CITY OF | 12009C0540F | 12-AUG-1999 | 99-04-3874A | 02
04 | FL | PALM BAY, CITY OF | 12009C0585E | 03-DEC-1999 | 99-04-5960A | 01
04 | FL | PALM BEACH COUNTY * | 1201920100B | 27-JUL-1999 | 99-04-4232A | 02
04 | FL | PALM BEACH COUNTY * | 1201920150A | 28-JUL-1999 | 99-04-1152A | 01
04 | FL | PALM BEACH COUNTY * | 1201920190B | 09-DEC-1999 | 99-04-6298A | 02
04 | FL | PALM BEACH COUNTY * | 1201920200A | 07-DEC-1999 | 00-04-0502A | 01
04 | FL | PALM BEACH COUNTY * | 1201920240B | 30-NOV-1999 | 99-04-4974A | 01
04 | FL | PALMETTO, CITY OF | 1201590003C | 14-JUL-1999 | 99-04-4164A | 01
04 | FL | PANAMA CITY, CITY OF | 1200120005D | 28-DEC-1999 | 00-04-1206X | 02
04 | FL | PANAMA CITY, CITY OF | 1200120005D | 28-SEP-1999 | 99-04-4560A | 02
04 | FL | PASCO COUNTY * | 1202300125C | 10-SEP-1999 | 99-04-5142A | 02
04 | FL | PASCO COUNTY * | 1202300185D | 28-DEC-1999 | 00-04-0554A | 02
04 | FL | PASCO COUNTY * | 1202300185D | 20-JUL-1999 | 99-04-4062A | 02
04 | FL | PASCO COUNTY * | 1202300185D | 28-JUL-1999 | 99-04-3784A | 02
04 | FL | PASCO COUNTY * | 1202300195D | 09-JUL-1999 | 99-04-4098A | 02
04 | FL | PASCO COUNTY * | 1202300195D | 20-JUL-1999 | 99-04-4126A | 02
04 | FL | PASCO COUNTY * | 1202300195D | 12-AUG-1999 | 99-04-3972A | 01
04 | FL | PASCO COUNTY * | 1202300195D | 01-SEP-1999 | 99-04-3832A | 02
04 | FL | PASCO COUNTY * | 1202300205D | 17-AUG-1999 | 99-04-4532A | 02
04 | FL | PASCO COUNTY * | 1202300215D | 26-AUG-1999 | 99-04-4694A | 02
04 | FL | PASCO COUNTY * | 1202300215D | 12-AUG-1999 | 99-04-3688A | 02
04 | FL | PASCO COUNTY * | 1202300250E | 18-AUG-1999 | 99-04-4772A | 02
04 | FL | PASCO COUNTY * | 1202300335C | 23-NOV-1999 | 99-04-6084A | 02
04 | FL | PASCO COUNTY * | 1202300335C | 31-AUG-1999 | 99-04-4038A | 02
04 | FL | PASCO COUNTY * | 1202300360D | 14-DEC-1999 | 99-04-6320A | 02
04 | FL | PASCO COUNTY * | 1202300360D | 09-DEC-1999 | 99-04-6322A | 02
04 | FL | PASCO COUNTY * | 1202300360D | 05-NOV-1999 | 99-04-6060A | 01
04 | FL | PASCO COUNTY * | 1202300360D | 02-NOV-1999 | 99-04-5736A | 01
04 | FL | PASCO COUNTY * | 1202300360D | 04-NOV-1999 | 99-04-5768A | 02
04 | FL | PASCO COUNTY * | 1202300360D | 13-OCT-1999 | 99-04-5366A | 02
04 | FL | PASCO COUNTY * | 1202300360D | 23-SEP-1999 | 99-04-4886A | 01
04 | FL | PASCO COUNTY * | 1202300360D | 26-AUG-1999 | 99-04-4708A | 02
04 | FL | PASCO COUNTY * | 1202300360D | 21-JUL-1999 | 99-04-3884A | 02
04 | FL | PASCO COUNTY * | 1202300362D | 28-SEP-1999 | 99-04-5134A | 02
04 | FL | PASCO COUNTY * | 1202300410E | 21-DEC-1999 | 00-04-0984A | 01
04 | FL | PASCO COUNTY * | 1202300410E | 20-DEC-1999 | 00-04-0530A | 01
04 | FL | PASCO COUNTY * | 1202300410E | 30-DEC-1999 | 00-04-0154A | 01
04 | FL | PASCO COUNTY * | 1202300425E | 16-DEC-1999 | 00-04-0226A | 01
04 | FL | PASCO COUNTY * | 1202300425E | 22-OCT-1999 | 00-04-0050A | 01
04 | FL | PASCO COUNTY * | 1202300425E | 26-OCT-1999 | 99-04-5696A | 02
04 | FL | PASCO COUNTY * | 1202300425E | 03-DEC-1999 | 99-04-4770A | 01
04 | FL | PASCO COUNTY * | 1202300425E | 08-OCT-1999 | 99-04-4576A | 01
04 | FL | PASCO COUNTY * | 1202300450E | 24-AUG-1999 | 99-04-3068A | 01
04 | FL | PASCO COUNTY * | 1202300450E | 01-OCT-1999 | 99-04-3762A | 01
04 | FL | PASCO COUNTY * | 1202300450E | 10-SEP-1999 | 99-04-2320A | 01
04 | FL | PASCO COUNTY * | 1202300450E | 02-JUL-1999 | 99-04-640A | 01
04 | FL | PEMBROKE PINES, CITY OF | 12011C0290F | 09-DEC-1999 | 00-04-0634A | 01
04 | FL | PEMBROKE PINES, CITY OF | 12011C0290F | 30-NOV-1999 | 99-04-5970A | 01
04 | FL | PEMBROKE PINES, CITY OF | 12011C0290F | 28-SEP-1999 | 99-04-5324A | 01
04 | FL | PEMBROKE PINES, CITY OF | 12011C0290F | 10-SEP-1999 | 99-04-4844A | 01
04 | FL | PEMBROKE PINES, CITY OF | 12011C0290F | 12-AUG-1999 | 99-04-4462A | 01
04 | FL | PEMBROKE PINES, CITY OF | 12011C0290F | 13-AUG-1999 | 99-04-2750A | 01
04 | FL | PEMBROKE PINES, CITY OF | 12011C0295F | 02-SEP-1999 | 99-04-4796A | 01
04 | FL | PEMBROKE PINES, CITY OF | 12011C0295F | 28-SEP-1999 | 99-04-4712A | 01
04 | FL | PEMBROKE PINES, CITY OF | 12011C0295F | 21-OCT-1999 | 99-04-4688A | 02
04 | FL | PEMBROKE PINES, CITY OF | 12011C0295F | 13-AUG-1999 | 99-04-4408A | 01
04 | FL | PEMBROKE PINES, CITY OF | 12011C0295F | 10-SEP-1999 | 99-04-2324A | 01
04 | FL | PINELLAS COUNTY * | 1251390039C | 16-NOV-1999 | 99-04-4914A | 01
04 | FL | PINELLAS COUNTY * | 1251390077C | 21-JUL-1999 | 99-04-4254A | 01
04 | FL | PINELLAS COUNTY * | 1251390079C | 05-AUG-1999 | 99-04-4450A | 02
04 | FL | PINELLAS COUNTY * | 1251390079C | 06-AUG-1999 | 99-04-3868A | 01
04 | FL | PINELLAS COUNTY * | 1251390086C | 24-AUG-1999 | 99-04-4652A | 02
04 | FL | PINELLAS PARK, CITY OF | 1202510005E | 07-JUL-1999 | 99-04-3996A | 02
04 | FL | PLANTATION, CITY OF | 12011C0215F | 28-DEC-1999 | 00-04-0668X | 01
04 | FL | POLK COUNTY* | 1202610100B | 15-JUL-1999 | 99-04-2664A | 02
04 | FL | POLK COUNTY* | 1202610125B | 27-OCT-1999 | 99-04-1990A | 01
04 | FL | POLK COUNTY* | 1202610345B | 05-OCT-1999 | 99-04-5666A | 02
04 | FL | POLK COUNTY* | 1202610345B | 28-JUL-1999 | 99-04-4600A | 02
04 | FL | POLK COUNTY* | 1202610350B | 15-DEC-1999 | 99-04-5236A | 02
04 | FL | POLK COUNTY* | 1202610375D | 23-NOV-1999 | 99-04-5700A | 02
04 | FL | POLK COUNTY* | 1202610425B | 02-DEC-1999 | 00-04-0314A | 02
04 | FL | POLK COUNTY* | 1202610475D | 07-OCT-1999 | 99-04-4806A | 02
04 | FL | POLK COUNTY* | 1202610475D | 09-JUL-1999 | 99-04-2956A | 02
04 | FL | POLK COUNTY* | 1202610500D | 02-JUL-1999 | 99-04-2560A | 01
04 | FL | POLK COUNTY* | 1202610525B | 28-DEC-1999 | 00-04-0792A | 02
04 | FL | POLK COUNTY* | 1202610725B | 18-NOV-1999 | 99-04-6118A | 02
04 | FL | POLK COUNTY* | 1202610775B | 03-DEC-1999 | 00-04-0406A | 02
04 | FL | PUTNAM COUNTY * | 1202720090A | 23-SEP-1999 | 99-04-4944A | 02
04 | FL | ROCKLEDGE, CITY OF | 12009C0350E | 14-OCT-1999 | 99-04-5540A | 02
04 | FL | ROCKLEDGE, CITY OF | 12009C0355E | 02-SEP-1999 | 99-04-3976A | 02
04 | FL | SARASOTA COUNTY * | 1251440134E | 27-JUL-1999 | 99-04-4396A | 02
04 | FL | SARASOTA COUNTY * | 1251440160D | 14-OCT-1999 | 99-04-3886A | 01
04 | FL | SARASOTA COUNTY * | 1251440163E | 19-AUG-1999 | 99-04-4368A | 02
04 | FL | SARASOTA COUNTY * | 1251440207E | 08-JUL-1999 | 99-04-033P | 06
04 | FL | SARASOTA COUNTY * | 1251440332E | 01-JUL-1999 | 99-04-3408A | 02
04 | FL | SEMINOLE COUNTY* | 12117C0020E | 18-AUG-1999 | 99-04-4176A | 02
04 | FL | SEMINOLE COUNTY* | 12117C0040E | 23-NOV-1999 | 00-04-0078A | 02
04 | FL | SEMINOLE COUNTY* | 12117C0110E | 03-SEP-1999 | 99-04-4116A | 02
04 | FL | SEMINOLE COUNTY* | 12117C0110E | 18-NOV-1999 | 99-04-4122A | 02
04 | FL | SEMINOLE COUNTY* | 12117C0130E | 28-DEC-1999 | 00-04-0682A | 02
04 | FL | SEMINOLE COUNTY* | 12117C0145E | 21-OCT-1999 | 99-04-5820A | 02
04 | FL | SEMINOLE COUNTY* | 12117C0145E | 29-SEP-1999 | 99-04-5664A | 02
04 | FL | SEMINOLE COUNTY* | 12117C0145E | 21-OCT-1999 | 99-04-5674A | 02
04 | FL | SEMINOLE COUNTY* | 12117C0145E | 18-NOV-1999 | 99-04-4202A | 01
04 | FL | SEMINOLE COUNTY* | 12117C0145E | 03-SEP-1999 | 99-04-4962A | 02
04 | FL | ST. CLOUD, CITY OF | 1201910005D | 20-JUL-1999 | 99-04-4242A | 01
04 | FL | ST. JOHNS COUNTY * | 1251470075D | 30-JUL-1999 | 99-04-4058A | 02
04 | FL | ST. JOHNS COUNTY * | 1251470085D | 26-AUG-1999 | 99-04-3230A | 01
04 | FL | ST. JOHNS COUNTY * | 1251470090D | 04-AUG-1999 | 99-04-5166A | 01
04 | FL | ST. JOHNS COUNTY * | 1251470090D | 18-NOV-1999 | 99-04-2970A | 02
04 | FL | ST. PETERSBURG, CITY OF | 1251480007B | 24-SEP-1999 | 99-04-5364A | 02
04 | FL | STUART, CITY OF | 1201650005D | 21-JUL-1999 | 99-04-3186A | 02
04 | FL | SUMTER COUNTY * | 1202960075B | 05-OCT-1999 | 99-04-1286P | 05
04 | FL | SUNRISE, CITY OF | 12011C0205F | 08-SEP-1999 | 99-04-4324A | 02
04 | FL | SUNRISE, CITY OF | 12011C0205F | 06-AUG-1999 | 99-04-3060A | 01
04 | FL | TALLAHASSEE, CITY OF | 12073C0115D | 28-OCT-1999 | 99-04-5758A | 01
04 | FL | TALLAHASSEE, CITY OF | 12073C0115D | 28-OCT-1999 | 99-04-5756A | 01
04 | FL | TALLAHASSEE, CITY OF | 12073C0115D | 28-OCT-1999 | 99-04-5788A | 01
04 | FL | TALLAHASSEE, CITY OF | 12073C0115D | 19-OCT-1999 | 99-04-5300A | 01
04 | FL | TALLAHASSEE, CITY OF | 12073C0115D | 28-SEP-1999 | 99-04-4950A | 01
04 | FL | TALLAHASSEE, CITY OF | 12073C0115D | 28-SEP-1999 | 99-04-4948A | 01
04 | FL | TALLAHASSEE, CITY OF | 12073C0136D | 12-NOV-1999 | 99-04-5164A | 02
04 | FL | TAMARAC, CITY OF | 12011C0185F | 28-SEP-1999 | 99-04-5470A | 01
04 | FL | TAMARAC, CITY OF | 12011C0185F | 24-AUG-1999 | 99-04-4714A | 01
04 | FL | TAMARAC, CITY OF | 12011C0185F | 09-JUL-1999 | 99-04-3820A | 01
04 | FL | TAMPA, CITY OF | 1201140031C | 28-OCT-1999 | 99-04-5846A | 02
04 | FL | TARPON SPRINGS, CITY OF | 1202590001B | 12-AUG-1999 | 99-04-4214A | 02
04 | FL | TARPON SPRINGS, CITY OF | 1202590006B | 02-DEC-1999 | 99-04-6072A | 02
04 | FL | TARPON SPRINGS, CITY OF | 1202590006B | 28-OCT-1999 | 99-04-4710A | 02
04 | FL | TAVARES, CITY OF | 1201380001B | 10-SEP-1999 | 99-04-4356A | 02
04 | FL | TAVARES, CITY OF | 1201380002B | 08-JUL-1999 | 99-04-3896A | 02
04 | FL | TAYLOR COUNTY* | 1203020195B | 03-AUG-1999 | 99-04-3212A | 02
04 | FL | TAYLOR COUNTY* | 1203020195B | 03-AUG-1999 | 99-04-3212A | 02
04 | FL | VOLUSIA COUNTY* | 1251550017F | 27-AUG-1999 | 99-04-2028A | 02
04 | FL | VOLUSIA COUNTY* | 1251550152E | 21-JUL-1999 | 99-04-3706A | 02
04 | FL | VOLUSIA COUNTY* | 1251550408E | 16-DEC-1999 | 99-04-5440A | 01
04 | FL | VOLUSIA COUNTY* | 1251550408E | 24-AUG-1999 | 99-04-4174A | 01
04 | FL | VOLUSIA COUNTY* | 1251550408E | 13-JUL-1999 | 99-04-3026A | 01
04 | FL | VOLUSIA COUNTY* | 1251550605E | 14-DEC-1999 | 00-04-0468A | 02
04 | FL | WALTON COUNTY * | 1203170355D | 02-SEP-1999 | 99-04-4256A | 02
04 | FL | WINDERMERE, TOWN OF | 1203810001B | 19-OCT-1999 | 99-04-5284A | 02
04 | FL | WINTER GARDEN, CITY OF | 1201870005B | 16-SEP-1999 | 99-04-5060A | 02
04 | FL | WINTER SPRINGS, CITY OF | 12117C0135E | 30-DEC-1999 | 00-04-0978A | 17
04 | FL | WINTER SPRINGS, CITY OF | 12117C0135E | 28-JUL-1999 | 99-04-3864A | 01
04 | FL | ZEPHYRHILLS, CITY OF | 1202350005C | 03-NOV-1999 | 99-04-4650A | 02
04 | GA | ATHENS-CLARKE COUNTY | 1300400030C | 24-NOV-1999 | 99-04-6068A | 02
04 | GA | ATLANTA, CITY OF | 13121C0229E | 16-DEC-1999 | 00-04-0058A | 02
04 | GA | ATLANTA, CITY OF | 13121C0229E | 21-OCT-1999 | 99-04-6168A | 02
04 | GA | ATLANTA, CITY OF | 13121C0229E | 13-OCT-1999 | 99-04-5210A | 02
04 | GA | ATLANTA, CITY OF | 13121C0229E | 03-AUG-1999 | 99-04-3432A | 02
04 | GA | ATLANTA, CITY OF | 13121C0231E | 16-NOV-1999 | 00-04-0190A | 02
04 | GA | ATLANTA, CITY OF | 13121C0233E | 19-OCT-1999 | 99-04-5274A | 02
04 | GA | ATLANTA, CITY OF | 13121C0233E | 25-AUG-1999 | 99-04-4888A | 02
04 | GA | ATLANTA, CITY OF | 13121C0233E | 03-NOV-1999 | 99-04-3910A | 02
04 | GA | ATLANTA, CITY OF | 13121C0233E | 02-JUL-1999 | 99-04-3912A | 02
04 | GA | ATLANTA, CITY OF | 13121C0241E | 03-SEP-1999 | 99-04-2456A | 02
04 | GA | ATLANTA, CITY OF | 13121C0261E | 26-OCT-1999 | 99-04-5486A | 02
04 | GA | AUGUSTA, CITY OF | 1301580001D | 16-DEC-1999 | 99-04-4980A | 02
04 | GA | BALDWIN COUNTY* | 1300050050B | 14-OCT-1999 | 99-04-5212A | 02
04 | GA | BALDWIN COUNTY* | 1300050075B | 03-AUG-1999 | 99-04-4288A | 02
04 | GA | BLACKSHEAR, CITY OF | 13229C0165C | 09-NOV-1999 | 99-04-5148A | 02
04 | GA | BREMEN, CITY OF | 130335A | 30-SEP-1999 | 99-04-4114A | 02
04 | GA | CAMDEN COUNTY* | 13039C0360C | 28-OCT-1999 | 99-04-6212A | 02
04 | GA | CAMDEN COUNTY* | 13039C0380D | 27-JUL-1999 | 99-04-4068A | 02
04 | GA | CHAMBLEE, CITY OF | 1300660001B | 26-OCT-1999 | 99-04-5762A | 02
04 | GA | CHATHAM COUNTY* | 1300300075C | 28-JUL-1999 | 99-04-4236A | 02
04 | GA | CHATHAM COUNTY* | 1300300075C | 15-OCT-1999 | 99-04-4238A | 01
04 | GA | CHEROKEE COUNTY* | 13057C0308C | 16-NOV-1999 | 98-04-353P | 05
04 | GA | CLAYTON COUNTY* | 1300410015D | 23-SEP-1999 | 99-04-5168A | 02
04 | GA | COBB COUNTY* | 13067C0015F | 12-NOV-1999 | 99-04-5872A | 02
04 | GA | COBB COUNTY* | 13067C0015F | 25-AUG-1999 | 99-04-4102A | 02
04 | GA | COBB COUNTY* | 13067C0030F | 28-DEC-1999 | 00-04-0196A | 02
04 | GA | COBB COUNTY* | 13067C0030F | 08-DEC-1999 | 99-04-6336A | 02
04 | GA | COBB COUNTY* | 13067C0030F | 09-DEC-1999 | 99-04-6170A | 02
04 | GA | COBB COUNTY* | 13067C0030F | 27-OCT-1999 | 99-04-5226A | 02
04 | GA | COBB COUNTY* | 13067C0035F | 07-DEC-1999 | 99-04-6202A | 02
04 | GA | COBB COUNTY* | 13067C0035F | 22-SEP-1999 | 99-04-5120A | 02
04 | GA | COBB COUNTY* | 13067C0035F | 05-OCT-1999 | 99-04-4908A | 02
04 | GA | COBB COUNTY* | 13067C0035F | 26-AUG-1999 | 99-04-4848A | 02
04 | GA | COBB COUNTY* | 13067C0035F | 05-OCT-1999 | 99-04-4260A | 02
04 | GA | COBB COUNTY* | 13067C0035F | 14-JUL-1999 | 99-04-4124A | 02
04 | GA | COBB COUNTY* | 13067C0035F | 26-OCT-1999 | 99-04-4052A | 02
04 | GA | COBB COUNTY* | 13067C0040F | 18-NOV-1999 | 00-04-0046A | 02
04 | GA | COBB COUNTY* | 13067C0050F | 16-NOV-1999 | 00-04-0192A | 02
04 | GA | COBB COUNTY* | 13067C0050F | 14-JUL-1999 | 99-04-4028A | 02
04 | GA | COBB COUNTY* | 13067C0050F | 23-JUL-1999 | 99-04-3786A | 17
04 | GA | COBB COUNTY* | 13067C0050F | 30-JUL-1999 | 99-04-2828A | 02
04 | GA | COBB COUNTY* | 13067C0055F | 07-OCT-1999 | 99-04-4504A | 02
04 | GA | COBB COUNTY* | 13067C0055F | 07-JUL-1999 | 99-04-2992A | 02
04 | GA | COBB COUNTY* | 13067C0065F | 16-DEC-1999 | 99-04-4100A | 02
04 | GA | COBB COUNTY* | 13067C0065F | 31-AUG-1999 | 99-04-3970A | 02
04 | GA | COBB COUNTY* | 13067C0070F | 22-JUL-1999 | 99-04-3814A | 02
04 | GA | COBB COUNTY* | 13067C0070F | 20-JUL-1999 | 99-04-2968A | 02
04 | GA | COBB COUNTY* | 13067C0070F | 09-NOV-1999 | 00-04-0158A | 02
04 | GA | COLUMBIA COUNTY* | 1300590080C | 05-OCT-1999 | 99-04-4216A | 01
04 | GA | COLUMBUS, CITY OF | 1351580045D | 28-SEP-1999 | 99-04-3828A | 02
04 | GA | DECATUR COUNTY* | 1304510175C | 12-AUG-1999 | 99-04-2404A | 02
04 | GA | DECATUR, CITY OF | 1351590001B | 28-OCT-1999 | 99-04-6206A | 02
04 | GA | DEKALB COUNTY * | 1300650002F | 14-DEC-1999 | 99-04-5910A | 02
04 | GA | DEKALB COUNTY * | 1300650003E | 28-SEP-1999 | 99-04-5390A | 02
04 | GA | DEKALB COUNTY * | 1300650003E | 30-JUL-1999 | 99-04-3806A | 02
04 | GA | DEKALB COUNTY * | 1300650004E | 21-JUL-1999 | 99-04-4112A | 02
04 | GA | DEKALB COUNTY * | 1300650005G | 01-JUL-1999 | 99-04-2872A | 02
04 | GA | DEKALB COUNTY * | 1300650006D | 24-NOV-1999 | 99-04-5126A | 02
04 | GA | DEKALB COUNTY * | 1300650006D | 22-OCT-1999 | 99-04-4246A | 02
04 | GA | DEKALB COUNTY * | 1300650007C | 20-AUG-1999 | 99-04-2532A | 02
04 | GA | DEKALB COUNTY * | 1300650010C | 09-NOV-1999 | 99-04-4956A | 02
04 | GA | DEKALB COUNTY * | 1300650010C | 29-SEP-1999 | 99-04-3700A | 02
04 | GA | DEKALB COUNTY * | 1300650010C | 28-JUL-1999 | 99-04-3004A | 02
04 | GA | DEKALB COUNTY * | 1300650013F | 27-AUG-1999 | 99-04-3368A | 02
04 | GA | DULUTH, CITY OF | 1300980003C | 20-JUL-1999 | 99-04-3738A | 02
04 | GA | EAST POINT, CITY OF | 13121C0353E | 01-JUL-1999 | 99-04-3774A | 02
04 | GA | EFFINGHAM COUNTY * | 1300760155C | 13-OCT-1999 | 99-04-4458A | 02
04 | GA | FANNIN COUNTY | 1302490043B | 08-OCT-1999 | 99-04-5852A | 02
04 | GA | FAYETTE COUNTY * | 13113C0085D | 23-NOV-1999 | 00-04-0370A | 02
04 | GA | FLOYD COUNTY* | 1300790160A | 29-SEP-1999 | 99-04-2258A | 01
04 | GA | FORSYTH COUNTY * | 13117C0125C | 27-JUL-1999 | 99-04-2492A | 02
04 | GA | FULTON COUNTY * | 13121C0066E | 04-NOV-1999 | 99-04-6260A | 02
04 | GA | FULTON COUNTY * | 13121C0066E | 05-NOV-1999 | 99-04-3592A | 02
04 | GA | FULTON COUNTY * | 13121C0067E | 23-NOV-1999 | 99-04-6162A | 02
04 | GA | FULTON COUNTY * | 13121C0115E | 27-JUL-1999 | 99-04-4166A | 02
04 | GA | FULTON COUNTY * | 13121C0163E | 12-OCT-1999 | 99-04-5552A | 02
04 | GA | FULTON COUNTY * | 13121C0163E | 28-SEP-1999 | 99-04-4704A | 02
04 | GA | FULTON COUNTY * | 13121C0327E | 20-JUL-1999 | 99-04-4074A | 02
04 | GA | FULTON COUNTY * | 13121C0329E | 07-DEC-1999 | 99-04-087P | 05
04 | GA | FULTON COUNTY * | 13121C0478E | 18-NOV-1999 | 99-04-6086A | 02
04 | GA | GWINNETT COUNTY * | 1303220095C | 29-DEC-1999 | 99-04-3988P | 05
04 | GA | GWINNETT COUNTY * | 1303220160E | 08-DEC-1999 | 99-04-5344A | 02
04 | GA | GWINNETT COUNTY * | 1303220160E | 27-OCT-1999 | 99-04-4412A | 02
04 | GA | GWINNETT COUNTY * | 1303220160E | 14-JUL-1999 | 99-04-4134A | 02
04 | GA | GWINNETT COUNTY * | 1303220160E | 22-SEP-1999 | 99-04-3214A | 02
04 | GA | GWINNETT COUNTY * | 1303220165B | 12-NOV-1999 | 99-04-2294A | 01
04 | GA | GWINNETT COUNTY * | 1303220190C | 30-NOV-1999 | 00-04-0254A | 01
04 | GA | GWINNETT COUNTY * | 1303220190C | 14-DEC-1999 | 00-04-0112A | 02
04 | GA | GWINNETT COUNTY * | 1303220195C | 10-SEP-1999 | 99-04-5398A | 02
04 | GA | GWINNETT COUNTY * | 1303220205C | 26-OCT-1999 | 99-04-4958A | 02
04 | GA | GWINNETT COUNTY * | 1303220205C | 28-OCT-1999 | 99-04-3934A | 02
04 | GA | GWINNETT COUNTY * | 1303220205C | 28-SEP-1999 | 99-04-2972A | 01
04 | GA | GWINNETT COUNTY * | 1303220220C | 30-SEP-1999 | 99-04-3038A | 02
04 | GA | GWINNETT COUNTY * | 1303220280C | 16-SEP-1999 | 99-04-4622A | 02
04 | GA | GWINNETT COUNTY * | 1303220280C | 06-JUL-1999 | 99-04-3218A | 02
04 | GA | GWINNETT COUNTY * | 1303220315C | 21-DEC-1999 | 00-04-0302A | 02
04 | GA | HARRIS COUNTY* | 1303380150A | 30-DEC-1999 | 99-04-6116A | 02
04 | GA | HARRIS COUNTY* | 1303380150A | 27-JUL-1999 | 99-04-4346A | 02
04 | GA | HARRIS COUNTY* | 1303380150A | 20-JUL-1999 | 99-04-3870A | 02
04 | GA | HARRIS COUNTY* | 1303380150A | 13-JUL-1999 | 99-04-2954A | 02
04 | GA | HARRIS COUNTY* | 1303380175A | 24-NOV-1999 | 99-04-5406A | 02
04 | GA | HARRIS COUNTY* | 1303380175A | 30-SEP-1999 | 99-04-4954A | 02
04 | GA | HARRIS COUNTY* | 1303380175A | 18-AUG-1999 | 99-04-1310A | 02
04 | GA | HENRY COUNTY * | 1304680060B | 09-JUL-1999 | 99-04-434A | 02
04 | GA | KENNESAW, CITY OF | 13067C0030F | 28-DEC-1999 | 99-04-6164A | 02
04 | GA | KINGSTON, CITY OF | 13015C0060F | 30-DEC-1999 | 99-04-5886A | 02
04 | GA | LAKE CITY, CITY OF | 130044B | 29-OCT-1999 | 99-04-101P | 05
04 | GA | LAWRENCEVILLE, CITY OF | 1300990003B | 01-JUL-1999 | 99-04-3100A | 02
04 | GA | LIBERTY COUNTY * | 1301230190A | 12-AUG-1999 | 99-04-5064A | 02
04 | GA | LILBURN, CITY OF | 1301000001B | 12-NOV-1999 | 99-04-5890A | 02
04 | GA | LYERLY, TOWN OF | 130294A | 21-JUL-1999 | 99-04-3950A | 02
04 | GA | MACON, CITY OF | 1300110043D | 13-AUG-1999 | 99-04-4262A | 02
04 | GA | MARIETTA, CITY OF | 13067C0050F | 31-AUG-1999 | 99-04-5122A | 02
04 | GA | MARIETTA, CITY OF | 13067C0035F | 19-OCT-1999 | 99-04-4904A | 02
04 | GA | MARIETTA, CITY OF | 13067C0035F | 10-SEP-1999 | 99-04-3862A | 02
04 | GA | MARIETTA, CITY OF | 13067C0050F | 06-AUG-1999 | 99-04-4606A | 02
04 | GA | MARIETTA, CITY OF | 13067C0050F | 27-JUL-1999 | 99-04-4348A | 02
04 | GA | MARIETTA, CITY OF | 13067C0050F | 27-JUL-1999 | 99-04-3534A | 02
04 | GA | MARIETTA, CITY OF | 13067C0050F | 02-SEP-1999 | 99-04-3342A | 02
04 | GA | MONROE COUNTY* | 1301380025C | 01-OCT-1999 | 99-04-4130A | 02
04 | GA | MOUNTAIN PARK, CITY OF | 13121C0033E | 31-AUG-1999 | 99-04-4902A | 02
04 | GA | PAULDING COUNTY * | 1301470025A | 09-NOV-1999 | 00-04-0148V | 19
04 | GA | PAULDING COUNTY * | 13223C0253B | 01-DEC-1999 | 99-04-5230A | 02
04 | GA | PEACHTREE CITY, CITY OF | 13113C0060D | 23-SEP-1999 | 99-04-4500A | 02
04 | GA | PEACHTREE CITY, CITY OF | 13113C0080D | 30-JUL-1999 | 99-04-3998A | 17
04 | GA | POOLER, TOWN OF | 1300300075C | 28-JUL-1999 | 99-04-4376A | 02
04 | GA | POWDER SPRINGS, CITY OF | 13067C0065F | 19-OCT-1999 | 99-04-5642A | 02
04 | GA | POWDER SPRINGS, CITY OF | 13067C0065F | 20-JUL-1999 | 99-04-3256A | 02
04 | GA | RICHMOND COUNTY* | 1301580020E | 09-NOV-1999 | 99-04-299P | 06
04 | GA | RICHMOND COUNTY* | 1301580020E | 07-OCT-1999 | 99-04-5408A | 02
04 | GA | RICHMOND COUNTY* | 1301580070E | 23-JUL-1999 | 99-04-4616A | 02
04 | GA | ROSWELL, CITY OF | 13121C0042E | 07-OCT-1999 | 99-04-4782A | 01
04 | GA | ROSWELL, CITY OF | 13121C0061E | 30-JUL-1999 | 99-04-4150A | 02
04 | GA | ROSWELL, CITY OF | 13121C0061E | 07-JUL-1999 | 99-04-3386A | 02
04 | GA | SMYRNA, CITY OF | 13067C0070F | 02-NOV-1999 | 99-04-5094A | 02
04 | GA | SMYRNA, CITY OF | 13067C0075F | 09-NOV-1999 | 99-04-5876A | 02
04 | GA | SUWANEE, CITY OF | 1303280002A | 02-SEP-1999 | 99-04-4960A | 02
04 | GA | SUWANEE, CITY OF | 1303280002A | 28-SEP-1999 | 99-04-4582A | 01
04 | GA | THOMASTON, CITY OF | 13293C0065B | 16-DEC-1999 | 00-04-0036A | 02
04 | GA | TIFTON, CITY OF | 13277C0130D | 06-AUG-1999 | 99-04-4212A | 02
04 | GA | TOWNS COUNTY* | 13281C0035C | 21-JUL-1999 | 99-04-4302A | 02
04 | GA | TOWNS COUNTY* | 13281C0055C | 02-DEC-1999 | 99-04-6076A | 02
04 | GA | TOWNS COUNTY* | 13281C0065C | 21-JUL-1999 | 99-04-4300A | 02
04 | GA | TROUPE COUNTY * | 1304050100A | 22-OCT-1999 | 99-04-5306A | 02
04 | GA | UNION COUNTY* | 1302540025C | 29-DEC-1999 | 99-04-6092A | 02
04 | GA | UNION COUNTY* | 1302540100C | 22-OCT-1999 | 99-04-4678A | 02
04 | GA | WAYCROSS, CITY OF | 1301860003B | 09-JUL-1999 | 99-04-3364A | 01
04 | KY | BOWLING GREEN, CITY OF | 21227C0115D | 22-OCT-1999 | 99-04-5216A | 02
04 | KY | BOYLE COUNTY* | 2103220050B | 07-DEC-1999 | 99-04-4762A | 02
04 | KY | BRECKINRIDGE COUNTY | 2100250007B | 12-OCT-1999 | 99-04-5776A | 02
04 | KY | CAMPBELL COUNTY * | 2100340105B | 24-NOV-1999 | 99-04-1800A | 02
04 | KY | CARTER COUNTY * | 2100500120B | 27-AUG-1999 | 99-04-3132A | 02
04 | KY | COVINGTON, CITY OF | 2101290005D | 10-SEP-1999 | 99-04-3314A | 02
04 | KY | DAVIESS COUNTY * | 21059C0255C | 28-DEC-1999 | 00-04-0186A | 02
04 | KY | FLOYD COUNTY * | 2100690050C | 23-SEP-1999 | 99-04-5224A | 02
04 | KY | FRANKLIN COUNTY * | 2102800070B | 11-AUG-1999 | 99-04-4620A | 02
04 | KY | JEFFERSON COUNTY* | 21111C0020D | 17-SEP-1999 | 99-04-5534A | 02
04 | KY | JEFFERSON COUNTY* | 21111C0020D | 27-JUL-1999 | 99-04-2914A | 02
04 | KY | JEFFERSON COUNTY* | 21111C0020D | 10-NOV-1999 | 99-04-163P | 06
04 | KY | JEFFERSON COUNTY* | 21111C0040D | 12-NOV-1999 | 99-04-846A | 01
04 | KY | JEFFERSON COUNTY* | 21111C0085D | 22-DEC-1999 | 00-04-0630A | 02
04 | KY | JEFFERSON COUNTY* | 21111C0085D | 21-OCT-1999 | 99-04-5632A | 02
04 | KY | JEFFERSON COUNTY* | 21111C0095D | 23-NOV-1999 | 99-04-6140A | 02
04 | KY | JEFFERSON COUNTY* | 21111C0095D | 09-NOV-1999 | 99-04-5880A | 02
04 | KY | JEFFERSON COUNTY* | 21111C0095D | 24-SEP-1999 | 99-04-5686A | 02
04 | KY | JEFFERSON COUNTY* | 21111C0095D | 21-JUL-1999 | 99-04-4390A | 02
04 | KY | JEFFERSON COUNTY* | 21111C0105D | 14-OCT-1999 | 99-04-5824A | 02
04 | KY | JEFFERSON COUNTY* | 21111C0105D | 10-NOV-1999 | 99-04-5248A | 02
04 | KY | JEFFERSON COUNTY* | 21111C0105D | 28-JUL-1999 | 99-04-4474A | 02
04 | KY | JEFFERSON COUNTY* | 21111C0115D | 23-NOV-1999 | 99-04-5990A | 02
04 | KY | JEFFERSON COUNTY* | 21111C0115D | 17-NOV-1999 | 99-04-6138A | 02
04 | KY | JEFFERSON COUNTY* | 21111C0115D | 29-JUL-1999 | 99-04-4692A | 02
04 | KY | JEFFERSON COUNTY* | 21111C0165D | 28-DEC-1999 | 00-04-0498A | 02
04 | KY | JEFFERSON COUNTY* | 21111C0165D | 02-SEP-1999 | 99-04-4906A | 02
04 | KY | JEFFERSON COUNTY* | 21111C0165D | 04-AUG-1999 | 99-04-4362A | 02
04 | KY | JEFFERSON COUNTY* | 21111C0165D | 16-JUL-1999 | 99-04-3104A | 02
04 | KY | JEFFERSON COUNTY* | 21111C0170D | 12-OCT-1999 | 99-04-5636A | 02
04 | KY | JEFFERSON COUNTY* | 21111C0170D | 06-OCT-1999 | 99-04-5654A | 02
04 | KY | JEFFERSON COUNTY* | 21111C0170D | 06-OCT-1999 | 99-04-5362A | 02
04 | KY | JEFFERSON COUNTY* | 21111C0170D | 24-SEP-1999 | 99-04-5312A | 02
04 | KY | JEFFERSON COUNTY* | 21111C0170D | 17-SEP-1999 | 99-04-5276A | 02
04 | KY | JEFFERSON COUNTY* | 21111C0170D | 22-SEP-1999 | 99-04-5296A | 02
04 | KY | JEFFERSON COUNTY* | 21111C0170D | 23-JUL-1999 | 99-04-4380A | 17
04 | KY | JEFFERSON COUNTY* | 21111C0170D | 22-SEP-1999 | 99-04-3932A | 01
04 | KY | JEFFERSON COUNTY* | 21111C0170D | 19-AUG-1999 | 99-04-4578A | 02
04 | KY | JEFFERSON COUNTY* | 21111C0190D | 09-JUL-1999 | 99-04-4014A | 02
04 | KY | JEFFERSON COUNTY* | 21111C0190D | 01-SEP-1999 | 99-04-3948A | 02
04 | KY | JEFFERSON COUNTY* | 21111C0195D | 26-OCT-1999 | 99-04-4896A | 02
04 | KY | JEFFERSON COUNTY* | 21111C0230D | 21-JUL-1999 | 99-04-3660A | 02
04 | KY | KENTON COUNTY * | 2101280038B | 04-NOV-1999 | 00-04-0338A | 02
04 | KY | LEXINGTON-FAYETTE URBAN COUNTY GOVERNMENT | 2100670010C | 20-AUG-1999 | 99-04-4718A | 02
04 | KY | LEXINGTON-FAYETTE URBAN COUNTY GOVERNMENT | 2100670060C | 27-OCT-1999 | 99-04-6172A | 01
04 | KY | LEXINGTON-FAYETTE URBAN COUNTY GOVERNMENT | 2100670060C | 27-OCT-1999 | 99-04-5530A | 02
04 | KY | LEXINGTON-FAYETTE URBAN COUNTY GOVERNMENT | 2100670070C | 05-OCT-1999 | 99-04-5522A | 02
04 | KY | LEXINGTON-FAYETTE URBAN COUNTY GOVERNMENT | 2100670070C | 28-JUL-1999 | 99-04-4528A | 02
04 | KY | LEXINGTON-FAYETTE URBAN COUNTY GOVERNMENT | 2100670070C | 27-AUG-1999 | 99-04-3990A | 02
04 | KY | LEXINGTON-FAYETTE URBAN COUNTY GOVERNMENT | 2100670090C | 15-DEC-1999 | 99-04-4918A | 02
04 | KY | LEXINGTON-FAYETTE URBAN COUNTY GOVERNMENT | 2100670090C | 10-NOV-1999 | 99-04-4738A | 01
04 | KY | LEXINGTON-FAYETTE URBAN COUNTY GOVERNMENT | 2100670090C | 17-AUG-1999 | 99-04-4492A | 02
04 | KY | LEXINGTON-FAYETTE URBAN COUNTY GOVERNMENT | 2100670090C | 25-AUG-1999 | 99-04-3842A | 02
04 | KY | LOUISVILLE, CITY OF | 21111C0090D | 30-NOV-1999 | 00-04-0198A | 02
04 | KY | LOUISVILLE, CITY OF | 21111C0090D | 16-JUL-1999 | 99-04-3846A | 02
04 | KY | LOUISVILLE, CITY OF | 21111C0160D | 28-SEP-1999 | 99-04-4002A | 02
04 | KY | LOUISVILLE, CITY OF | 21111C0160D | 13-JUL-1999 | 99-04-3692A | 02
04 | KY | MARSHALL COUNTY * | 2102520025B | 31-AUG-1999 | 99-04-4808A | 02
04 | KY | MIDDLESBORO, CITY OF | 2151900005B | 12-NOV-1999 | 99-04-4814A | 02
04 | KY | MURRAY, CITY OF | 2100330005B | 15-JUL-1999 | 99-04-3170A | 02
04 | KY | NELSON COUNTY * | 2101770165B | 14-JUL-1999 | 99-04-4248A | 02
04 | KY | NICHOLASVILLE, CITY OF | 2101260005B | 27-JUL-1999 | 99-04-3264A | 02
04 | KY | OWENSBORO, CITY OF | 21059C0120C | 02-NOV-1999 | 99-04-6004A | 01
04 | KY | OWENSBORO, CITY OF | 21059C0260C | 30-SEP-1999 | 99-04-5692A | 02
04 | KY | OWENSBORO, CITY OF | 21059C0280C | 10-DEC-1999 | 99-04-5958A | 01
04 | KY | PADUCAH, CITY OF | 2101520006D | 21-JUL-1999 | 99-04-3788A | 02
04 | KY | SHEPHERDSVILLE, CITY OF | 2100280005D | 01-DEC-1999 | 99-04-5694A | 02
04 | KY | SHEPHERDSVILLE, CITY OF | 2100280005D | 29-SEP-1999 | 99-04-4546A | 01
04 | KY | SHIVELY, CITY OF | 21111C0135D | 14-OCT-1999 | 99-04-5918A | 02
04 | KY | WILMOR, CITY OF | 2103110001A | 16-SEP-1999 | 99-04-4392A | 02
04 | MS | ALCORN COUNTY * | 2802670025B | 10-SEP-1999 | 99-04-3302A | 01
04 | MS | BRANDON, CITY OF | 2801430003B | 20-JUL-1999 | 99-04-4372A | 02
04 | MS | CLARKSDALE, CITY OF | 2800390005B | 31-AUG-1999 | 99-04-2936P | 06
04 | MS | COAHOMA COUNTY * | 2800380250C | 31-AUG-1999 | 99-04-2936P | 06
04 | MS | DESOTO COUNTY * | 28033C0010D | 31-AUG-1999 | 99-04-4698A | 01
04 | MS | DESOTO COUNTY * | 28033C0040E | 30-DEC-1999 | 99-04-5450A | 01
04 | MS | FORREST COUNTY * | 28035C0010C | 10-DEC-1999 | 00-04-0274A | 02
04 | MS | GAUTIER, CITY OF | 2803320005E | 16-SEP-1999 | 99-04-5068A | 02
04 | MS | HATTIESBURG, CITY OF | 28035C0040C | 26-OCT-1999 | 99-04-5508A | 02
04 | MS | HATTIESBURG, CITY OF | 28035C0080C | 19-OCT-1999 | 99-04-5488A | 02
04 | MS | HATTIESBURG, CITY OF | 28035C0080C | 27-AUG-1999 | 99-04-4042A | 02
04 | MS | HINDS COUNTY* | 2800700250D | 07-DEC-1999 | 00-04-0540A | 02
04 | MS | HINDS COUNTY* | 2800700250D | 16-JUL-1999 | 99-04-1766A | 01
04 | MS | HORN LAKE, CITY OF | 28033C0040E | 21-DEC-1999 | 00-04-0352A | 01
04 | MS | HORN LAKE, CITY OF | 28033C0040E | 17-SEP-1999 | 99-04-5176A | 02
04 | MS | HORN LAKE, CITY OF | 28033C0040E | 27-JUL-1999 | 99-04-1384A | 01
04 | MS | JACKSON COUNTY* | 2852560050D | 28-DEC-1999 | 00-04-0266A | 02
04 | MS | JACKSON, CITY OF | 2800720015F | 26-AUG-1999 | 99-04-3090A | 02
04 | MS | LAUDERDALE COUNTY * | 28075C0095D | 30-SEP-1999 | 99-04-129P | 05
04 | MS | LEE COUNTY * | 2802270105A | 10-AUG-1999 | 99-04-5024A | 02
04 | MS | LEE COUNTY * | 2802270105A | 10-SEP-1999 | 99-04-486A | 02
04 | MS | LEE COUNTY * | 2802270115A | 05-OCT-1999 | 99-04-5684A | 02
04 | MS | LEE COUNTY * | 28081C0025D | 30-SEP-1999 | 99-04-5650A | 02
04 | MS | LEE COUNTY * | 28081C0025D | 21-OCT-1999 | 00-04-0144V | 19
04 | MS | LOWNDES COUNTY * | 28087C0065J | 20-AUG-1999 | 99-04-3960A | 01
04 | MS | LOWNDES COUNTY * | 28087C0105J | 30-JUL-1999 | 99-04-3944A | 01
04 | MS | LOWNDES COUNTY * | 28087C0105J | 19-AUG-1999 | 99-04-3536A | 17
04 | MS | LOWNDES COUNTY * | 28087C0150J | 07-SEP-1999 | 99-04-3946A | 01
04 | MS | MADISON COUNTY * | 28089C0150D | 09-JUL-1999 | 99-04-2150A | 01
04 | MS | MADISON, CITY OF | 28089C0320D | 28-DEC-1999 | 99-04-4314A | 02
04 | MS | MERIDIAN, CITY OF | 28075C0160D | 30-SEP-1999 | 99-04-129P | 05
04 | MS | PEARL RIVER VALLEY WATER SUPPLY DISTRICT | 2803380065B | 01-SEP-1999 | 99-04-2768A | 02
04 | MS | PEARL RIVER VALLEY WATER SUPPLY DISTRICT | 2803380070B | 28-DEC-1999 | 00-04-0510A | 02
04 | MS | PEARL, CITY OF | 2801450005C | 12-NOV-1999 | 99-04-4834A | 02
04 | MS | RANKIN COUNTY * | 2801420070C | 09-DEC-1999 | 99-04-5454A | 01
04 | MS | RIDGELAND, CITY OF | 28089C0320D | 15-OCT-1999 | 99-04-4016A | 02
04 | MS | SHERMAN, TOWN OF | 2802960005C | 19-AUG-1999 | 99-04-201P | 06
04 | MS | SOUTHHAVEN, CITY OF | 28033C0030E | 29-OCT-1999 | 99-04-1922A | 01
04 | MS | SOUTHHAVEN, CITY OF | 28033C0035E | 17-SEP-1999 | 99-04-4628A | 01
04 | MS | SOUTHHAVEN, CITY OF | 28033C0040E | 14-DEC-1999 | 00-04-0856X | 01
04 | MS | SOUTHHAVEN, CITY OF | 28033C0040E | 24-AUG-1999 | 99-04-4514A | 01
04 | MS | TATE COUNTY * | 2802350200B | 05-AUG-1999 | 99-04-2720A | 02
04 | MS | TUPELO, CITY OF | 28081C0135D | 21-OCT-1999 | 00-04-0146V | 19
04 | MS | WARREN COUNTY* | 2801980050B | 18-AUG-1999 | 99-04-2762A | 02
04 | MS | WASHINGTON COUNTY* | 2801770135B | 08-JUL-1999 | 99-04-1100A | 01
04 | MS | WASHINGTON COUNTY* | 2801770145B | 30-JUL-1999 | 99-04-4152A | 01
04 | NC | ASHEVILLE, CITY OF | 37021C0193C | 16-AUG-1999 | 99-04-169P | 05
04 | NC | ATLANTIC BEACH, TOWN OF | 3700440001D | 17-SEP-1999 | 99-04-4982A | 18
04 | NC | ATLANTIC BEACH, TOWN OF | 3700440002E | 20-AUG-1999 | 99-04-4334A | 18
04 | NC | BAKERSVILLE, TOWN OF | 37121C0076C | 22-NOV-1999 | 99-04-057P | 05
04 | NC | BANNER ELK, TOWN OF | 3700110003B | 30-DEC-1999 | 99-04-293P | 05
04 | NC | BREVARD, CITY OF | 37175C0201C | 25-AUG-1999 | 98-04-1298A | 01
04 | NC | BRUNSWICK COUNTY* | 3702950125C | 10-SEP-1999 | 99-04-4026A | 02
04 | NC | BRUNSWICK COUNTY* | 3702950130C | 18-NOV-1999 | 99-04-6228A | 02
04 | NC | BRUNSWICK COUNTY* | 3702950215C | 02-SEP-1999 | 99-04-2838A | 02
04 | NC | BRUNSWICK COUNTY* | 3702950300C | 28-JUL-1999 | 99-04-3308A | 02
04 | NC | BRUNSWICK COUNTY* | 3702950310E | 16-NOV-1999 | 00-04-0116A | 02
04 | NC | BRUNSWICK COUNTY* | 3702950360E | 31-AUG-1999 | 99-04-4666A | 02
04 | NC | BRUNSWICK COUNTY* | 3702950360E | 24-AUG-1999 | 99-04-4178A | 02
04 | NC | BUNCOMBE COUNTY * | 37021C0160C | 31-AUG-1999 | 99-04-4614A | 02
04 | NC | BUNCOMBE COUNTY * | 37021C0270C | 02-JUL-1999 | 99-04-2590A | 02
04 | NC | BUNCOMBE COUNTY * | 37021C0282C | 17-SEP-1999 | 99-04-3964A | 02
04 | NC | BURLINGTON, CITY OF | 37001C0101E | 17-DEC-1999 | 00-04-0892X | 02
04 | NC | BURLINGTON, CITY OF | 37001C0101E | 19-NOV-1999 | 99-04-5186A | 02
04 | NC | BURLINGTON, CITY OF | 37001C0103E | 03-SEP-1999 | 99-04-4724A | 02
04 | NC | CALDWELL COUNTY * | 37027C0050D | 21-OCT-1999 | 99-04-6180A | 02
04 | NC | CALDWELL COUNTY * | 37027C0060D | 30-JUL-1999 | 99-04-3464A | 02
04 | NC | CARRBORO, TOWN OF | 3702750005C | 16-JUL-1999 | 99-04-3804A | 02
04 | NC | CARTERET COUNTY * | 3700430440C | 30-SEP-1999 | 99-04-5570A | 02
04 | NC | CARTERET COUNTY * | 3700430667D | 13-JUL-1999 | 99-04-3994A | 18
04 | NC | CARY, TOWN OF | 37183C0482F | 24-AUG-1999 | 99-04-4828A | 01
04 | NC | CATAWBA COUNTY * | 3700500040C | 05-OCT-1999 | 99-04-5146A | 02
04 | NC | CATAWBA COUNTY * | 3700500040C | 02-NOV-1999 | 99-04-4210A | 02
04 | NC | CATAWBA COUNTY * | 3700500075C | 09-NOV-1999 | 99-04-5862A | 02
04 | NC | CATAWBA COUNTY * | 3700500075C | 01-OCT-1999 | 99-04-4686A | 02
04 | NC | CATAWBA COUNTY * | 3700500200C | 28-SEP-1999 | 99-04-5222A | 02
04 | NC | CATAWBA COUNTY * | 3700500200C | 03-SEP-1999 | 99-04-4734A | 02
04 | NC | CATAWBA COUNTY * | 3700500200C | 05-AUG-1999 | 99-04-4398A | 02
04 | NC | CATAWBA COUNTY * | 3700500200C | 17-SEP-1999 | 99-04-4142A | 02
04 | NC | CATAWBA COUNTY * | 3700500200C | 10-SEP-1999 | 99-04-4008A | 02
04 | NC | CATAWBA COUNTY * | 3700500325B | 30-DEC-1999 | 00-04-0656A | 02
04 | NC | CATAWBA COUNTY * | 3700500325B | 30-NOV-1999 | 00-04-0100A | 02
04 | NC | CATAWBA COUNTY * | 3700500325B | 22-JUL-1999 | 99-04-4110A | 02
04 | NC | CATAWBA COUNTY * | 3700500350C | 23-NOV-1999 | 00-04-0396A | 02
04 | NC | CATAWBA COUNTY * | 3700500350C | 09-DEC-1999 | 99-04-6258A | 02
04 | NC | CATAWBA COUNTY * | 3700500350C | 23-NOV-1999 | 99-04-6078A | 02
04 | NC | CATAWBA COUNTY * | 3700500350C | 16-NOV-1999 | 99-04-5906A | 02
04 | NC | CATAWBA COUNTY * | 3700500350C | 28-OCT-1999 | 99-04-5778A | 02
04 | NC | CATAWBA COUNTY * | 3700500350C | 17-DEC-1999 | 99-04-5472A | 02
04 | NC | CATAWBA COUNTY * | 3700500350C | 16-DEC-1999 | 99-04-5160A | 02
04 | NC | CATAWBA COUNTY * | 3700500350C | 30-NOV-1999 | 99-04-5072A | 02
04 | NC | CATAWBA COUNTY * | 3700500350C | 23-SEP-1999 | 99-04-4952A | 02
04 | NC | CATAWBA COUNTY * | 3700500350C | 02-SEP-1999 | 99-04-4936A | 02
04 | NC | CATAWBA COUNTY * | 3700500350C | 10-SEP-1999 | 99-04-4856A | 02
04 | NC | CATAWBA COUNTY * | 3700500350C | 05-NOV-1999 | 99-04-4756A | 02
04 | NC | CATAWBA COUNTY * | 3700500350C | 14-JUL-1999 | 99-04-4308A | 02
04 | NC | CATAWBA COUNTY * | 3700500350C | 21-JUL-1999 | 99-04-3724A | 02
04 | NC | CATAWBA COUNTY * | 3700500350C | 12-AUG-1999 | 99-04-3412A | 02
04 | NC | CHAPEL HILL, TOWN OF | 3701800002E | 23-NOV-1999 | 99-04-6314A | 02
04 | NC | CHARLOTTE, CITY OF | 3701590014B | 07-JUL-1999 | 99-04-3992A | 17
04 | NC | CHARLOTTE, CITY OF | 3701590024B | 22-SEP-1999 | 99-04-3834A | 01
04 | NC | CLEVELAND COUNTY* | 3703020175B | 06-AUG-1999 | 99-04-4436A | 02
04 | NC | CONCORD, CITY OF | 37025C0082D | 30-SEP-1999 | 99-04-5672A | 02
04 | NC | CONCORD, CITY OF | 37025C0110D | 14-OCT-1999 | 99-04-6082A | 01
04 | NC | CRAVEN COUNTY* | 3700720305B | 21-JUL-1999 | 99-04-3794A | 02
04 | NC | CRAVEN COUNTY* | 3700720330B | 04-NOV-1999 | 99-04-3674A | 02
04 | NC | CRAVEN COUNTY* | 3700720340B | 28-DEC-1999 | 00-04-0474A | 02
04 | NC | CUMBERLAND COUNTY * | 3700760190B | 09-DEC-1999 | 99-04-6108A | 02
04 | NC | DARE COUNTY* | 3753480220C | 30-NOV-1999 | 99-04-5496A | 02
04 | NC | DARE COUNTY* | 3753480820D | 20-JUL-1999 | 99-04-4066A | 02
04 | NC | DAVIDSON COUNTY * | 3703070090B | 07-DEC-1999 | 00-04-0296A | 02
04 | NC | DAVIDSON COUNTY * | 3703070150B | 15-OCT-1999 | 99-04-5232A | 02
04 | NC | DAVIDSON COUNTY * | 3703070150B | 05-OCT-1999 | 99-04-5140A | 02
04 | NC | DAVIDSON COUNTY * | 3703070150B | 10-SEP-1999 | 99-04-5014A | 02
04 | NC | DAVIDSON COUNTY * | 3703070150B | 02-DEC-1999 | 99-04-4942A | 02
04 | NC | DAVIDSON COUNTY * | 3703070150B | 31-AUG-1999 | 99-04-4608A | 02
04 | NC | DAVIDSON COUNTY * | 3703070150B | 25-AUG-1999 | 99-04-4544A | 02
04 | NC | DAVIDSON COUNTY * | 3703070150B | 21-JUL-1999 | 99-04-4304A | 02
04 | NC | DAVIDSON COUNTY * | 3703070150B | 09-JUL-1999 | 99-04-2252A | 02
04 | NC | DAVIDSON COUNTY * | 3703070175B | 14-DEC-1999 | 99-04-5002A | 02
04 | NC | DUPLIN COUNTY * | 3700830175B | 30-JUL-1999 | 99-04-4568A | 02
04 | NC | DUPLIN COUNTY * | 3700830200B | 07-DEC-1999 | 99-04-6240A | 02
04 | NC | DUPLIN COUNTY * | 3700830200B | 19-AUG-1999 | 99-04-4872A | 02
04 | NC | DURHAM COUNTY * | 37063C0076G | 18-NOV-1999 | 00-04-0128A | 02
04 | NC | DURHAM COUNTY * | 37063C0165G | 17-DEC-1999 | 00-04-0320A | 02
04 | NC | DURHAM, CITY OF | 37063C0059G | 02-SEP-1999 | 99-04-4296A | 02
04 | NC | DURHAM, CITY OF | 37063C0159G | 04-NOV-1999 | 99-04-6284A | 02
04 | NC | DURHAM, CITY OF | 37063C0167G | 14-DEC-1999 | 00-04-0962A | 02
04 | NC | ELON COLLEGE, TOWN OF | 37001C0082E | 24-NOV-1999 | 99-04-4990A | 02
04 | NC | EMERALD ISLE, TOWN OF | 3700470002D | 16-DEC-1999 | 99-04-5848A | 02
04 | NC | FAIRMONT, TOWN OF | 37155C0275D | 26-AUG-1999 | 99-04-4024A | 02
04 | NC | FAYETTEVILLE, CITY OF | 3700770007D | 14-OCT-1999 | 99-04-5922A | 02
04 | NC | FORSYTH COUNTY * | 37067C0187H | 29-SEP-1999 | 99-04-5662A | 02
04 | NC | FORSYTH COUNTY * | 37067C0188H | 18-AUG-1999 | 99-04-4432A | 02
04 | NC | GARNER, TOWN OF | 37183C0544E | 17-DEC-1999 | 99-04-3792A | 02
04 | NC | GASTONIA, CITY OF | 3701000020D | 15-SEP-1999 | 99-04-5112A | 02
04 | NC | GATES COUNTY * | 3701030150B | 20-AUG-1999 | 99-04-4386A | 02
04 | NC | GRAHAM, CITY OF | 37001C0129E | 06-JUL-1999 | 99-04-3582A | 02
04 | NC | GRANVILLE COUNTY* | 37077C0050C | 17-SEP-1999 | 99-04-3610A | 02
04 | NC | GREENSBORO, CITY OF | 3753510009C | 04-AUG-1999 | 99-04-4120A | 02
04 | NC | GUILFORD COUNTY * | 3701110205B | 19-OCT-1999 | 99-04-5000A | 02
04 | NC | HAVELOCK, CITY OF | 3702650008B | 01-SEP-1999 | 99-04-5106A | 02
04 | NC | HENDERSONVILLE, CITY OF | 3701280004B | 31-AUG-1999 | 99-04-4596A | 01
04 | NC | HERTFORD COUNTY | 3701300002A | 21-JUL-1999 | 99-04-3702A | 02
04 | NC | HERTFORD COUNTY | 3701300002A | 30-JUL-1999 | 99-04-3652A | 02
04 | NC | HICKORY, CITY OF | 3700540005B | 16-DEC-1999 | 00-04-0122A | 02
04 | NC | HICKORY, CITY OF | 3700540005B | 23-SEP-1999 | 99-04-5340A | 02
04 | NC | HICKORY, CITY OF | 3700540010C | 30-SEP-1999 | 99-04-5670A | 02
04 | NC | HICKORY, CITY OF | 3700540010C | 07-OCT-1999 | 99-04-5572A | 02
04 | NC | HICKORY, CITY OF | 3700540010C | 28-JUL-1999 | 99-04-4510A | 02
04 | NC | HICKORY, CITY OF | 3700540010C | 25-AUG-1999 | 99-04-3908A | 17
04 | NC | HICKORY, CITY OF | 3700540015B | 10-SEP-1999 | 99-04-4292A | 02
04 | NC | HIGH POINT, CITY OF | 3701130007C | 29-DEC-1999 | 00-04-0194A | 02
04 | NC | HIGH POINT, CITY OF | 3701130007C | 20-JUL-1999 | 99-04-3176A | 02
04 | NC | INDIAN BEACH, TOWN OF | 3704330001B | 09-NOV-1999 | 99-04-4440A | 18
04 | NC | KINSTON, CITY OF | 3701450010C | 25-AUG-1999 | 99-04-4054A | 02
04 | NC | LENOIR, CITY OF | 37027C0076D | 12-AUG-1999 | 99-04-4508A | 02
04 | NC | LENOIR, CITY OF | 37027C0079D | 01-OCT-1999 | 99-04-4742A | 01
04 | NC | LONG BEACH, TOWN OF | 3753540002D | 09-NOV-1999 | 99-04-5878A | 02
04 | NC | LUMBERTON, CITY OF | 37155C0179D | 21-OCT-1999 | 99-04-6030A | 01
04 | NC | LUMBERTON, CITY OF | 37155C0179D | 02-DEC-1999 | 99-04-6112A | 02
04 | NC | LUMBERTON, CITY OF | 37155C0179D | 14-OCT-1999 | 99-04-4280A | 02
04 | NC | MEBANE, TOWN OF | 37001C0132E | 02-SEP-1999 | 99-04-4632A | 02
04 | NC | MECKLENBURG COUNTY * | 3701580015C | 28-OCT-1999 | 99-04-6182A | 02
04 | NC | MECKLENBURG COUNTY * | 3701580015C | 08-JUL-1999 | 99-04-3942A | 02
04 | NC | MECKLENBURG COUNTY * | 3701580015C | 28-JUL-1999 | 99-04-3790A | 02
04 | NC | MECKLENBURG COUNTY * | 3701580015C | 16-JUL-1999 | 99-04-3046A | 02
04 | NC | MECKLENBURG COUNTY * | 3701580015C | 19-OCT-1999 | 99-04-2926A | 02
04 | NC | MECKLENBURG COUNTY * | 3701580030C | 10-AUG-1999 | 99-04-4482A | 02
04 | NC | MECKLENBURG COUNTY * | 3701580170C | 30-JUL-1999 | 99-04-4602A | 02
04 | NC | MECKLENBURG COUNTY * | 3701580190B | 17-SEP-1999 | 99-04-524A | 01
04 | NC | MITCHELL COUNTY * | 37121C0076C | 22-NOV-1999 | 99-04-057P | 05
04 | NC | MONROE, CITY OF | 37179C0090C | 02-NOV-1999 | 99-04-3928A | 01
04 | NC | MONTGOMERY COUNTY | 3703360055B | 31-AUG-1999 | 99-04-4618A | 02
04 | NC | MONTGOMERY COUNTY | 3703360025B | 30-DEC-1999 | 00-04-0638A | 02
04 | NC | MONTGOMERY COUNTY | 3703360025B | 14-DEC-1999 | 00-04-0546A | 02
04 | NC | MONTGOMERY COUNTY | 3703360025B | 28-DEC-1999 | 00-04-0472A | 02
04 | NC | MONTGOMERY COUNTY | 3703360025B | 30-DEC-1999 | 00-04-0310A | 02
04 | NC | MONTGOMERY COUNTY | 3703360025B | 30-NOV-1999 | 00-04-0224A | 02
04 | NC | MONTGOMERY COUNTY | 3703360025B | 16-NOV-1999 | 00-04-0178A | 02
04 | NC | MONTGOMERY COUNTY | 3703360025B | 23-NOV-1999 | 99-04-6222A | 02
04 | NC | MONTGOMERY COUNTY | 3703360025B | 16-NOV-1999 | 99-04-6192A | 02
04 | NC | MONTGOMERY COUNTY | 3703360025B | 23-NOV-1999 | 99-04-6200A | 02
04 | NC | MONTGOMERY COUNTY | 3703360025B | 23-NOV-1999 | 99-04-6132A | 02
04 | NC | MONTGOMERY COUNTY | 3703360025B | 28-OCT-1999 | 99-04-5850A | 02
04 | NC | MONTGOMERY COUNTY | 3703360025B | 14-OCT-1999 | 99-04-5826A | 02
04 | NC | MONTGOMERY COUNTY | 3703360025B | 23-NOV-1999 | 99-04-5682A | 02
04 | NC | MONTGOMERY COUNTY | 3703360025B | 30-SEP-1999 | 99-04-5640A | 02
04 | NC | MONTGOMERY COUNTY | 3703360025B | 30-SEP-1999 | 99-04-5588A | 02
04 | NC | MONTGOMERY COUNTY | 3703360025B | 30-SEP-1999 | 99-04-5562A | 02
04 | NC | MONTGOMERY COUNTY | 3703360025B | 29-SEP-1999 | 99-04-5502A | 02
04 | NC | MONTGOMERY COUNTY | 3703360025B | 17-SEP-1999 | 99-04-5520A | 02
04 | NC | MONTGOMERY COUNTY | 3703360025B | 17-AUG-1999 | 99-04-5466A | 02
04 | NC | MONTGOMERY COUNTY | 3703360025B | 09-NOV-1999 | 99-04-5288A | 02
04 | NC | MONTGOMERY COUNTY | 3703360025B | 27-OCT-1999 | 99-04-5172A | 02
04 | NC | MONTGOMERY COUNTY | 3703360025B | 23-SEP-1999 | 99-04-5150A | 02
04 | NC | MONTGOMERY COUNTY | 3703360025B | 23-SEP-1999 | 99-04-5154A | 02
04 | NC | MONTGOMERY COUNTY | 3703360025B | 23-SEP-1999 | 99-04-5156A | 02
04 | NC | MONTGOMERY COUNTY | 3703360025B | 16-SEP-1999 | 99-04-5114A | 02
04 | NC | MONTGOMERY COUNTY | 3703360025B | 16-SEP-1999 | 99-04-5070A | 02
04 | NC | MONTGOMERY COUNTY | 3703360025B | 27-AUG-1999 | 99-04-5048A | 02
04 | NC | MONTGOMERY COUNTY | 3703360025B | 10-SEP-1999 | 99-04-4970A | 02
04 | NC | MONTGOMERY COUNTY | 3703360025B | 10-SEP-1999 | 99-04-4934A | 02
04 | NC | MONTGOMERY COUNTY | 3703360025B | 09-JUL-1999 | 99-04-4070A | 02
04 | NC | MONTGOMERY COUNTY | 3703360025B | 20-JUL-1999 | 99-04-4132A | 02
04 | NC | MONTGOMERY COUNTY | 3703360025B | 20-JUL-1999 | 99-04-4048A | 02
04 | NC | MONTGOMERY COUNTY | 3703360025B | 04-AUG-1999 | 99-04-3184A | 02
04 | NC | MONTGOMERY COUNTY | 3703360025B | 11-AUG-1999 | 99-04-2778A | 02
04 | NC | MONTGOMERY COUNTY | 3703360065B | 02-DEC-1999 | 99-04-6294A | 02
04 | NC | MONTGOMERY COUNTY | 3703360065B | 28-DEC-1999 | 99-04-6334A | 02
04 | NC | MONTGOMERY COUNTY | 3703360065B | 23-NOV-1999 | 99-04-6090A | 02
04 | NC | MONTGOMERY COUNTY | 3703360065B | 18-NOV-1999 | 99-04-6088A | 02
04 | NC | MONTGOMERY COUNTY | 3703360065B | 28-OCT-1999 | 99-04-5780A | 02
04 | NC | MONTGOMERY COUNTY | 3703360065B | 23-SEP-1999 | 99-04-5200A | 02
04 | NC | MONTGOMERY COUNTY | 3703360065B | 23-SEP-1999 | 99-04-5098A | 02
04 | NC | MONTGOMERY COUNTY | 3703360065B | 30-JUL-1999 | 99-04-4996A | 02
04 | NC | MONTGOMERY COUNTY | 3703360065B | 10-SEP-1999 | 99-04-4938A | 02
04 | NC | MONTGOMERY COUNTY | 3703360065B | 26-AUG-1999 | 99-04-4842A | 02
04 | NC | MONTGOMERY COUNTY | 3703360065B | 08-JUL-1999 | 99-04-3982A | 02
04 | NC | MORGANTON,CITY OF | 3700350004B | 02-SEP-1999 | 99-04-4876A | 02
04 | NC | MORGANTON,CITY OF | 3700350005B | 09-DEC-1999 | 99-04-4032A | 02
04 | NC | MORGANTON,CITY OF | 3700350009B | 06-AUG-1999 | 99-04-3138A | 01
04 | NC | MORRISVILLE, TOWN OF | 37183C0291E | 28-DEC-1999 | 00-04-0852X | 01
04 | NC | MORRISVILLE, TOWN OF | 37183C0291E | 08-OCT-1999 | 99-04-5964A | 01
04 | NC | MOUNT HOLLY, CITY OF | 3701020005B | 27-OCT-1999 | 99-04-5194A | 02
04 | NC | NEW HANOVER COUNTY* | 3701680040D | 28-SEP-1999 | 99-04-4882A | 01
04 | NC | NEW HANOVER COUNTY* | 3701680045E | 28-DEC-1999 | 00-04-0150A | 02
04 | NC | NEW HANOVER COUNTY* | 3701680090E | 01-SEP-1999 | 99-04-4626A | 02
04 | NC | NEW HANOVER COUNTY* | 3701680105D | 26-AUG-1999 | 99-04-4820A | 02
04 | NC | ONSLOW COUNTY* | 3703400225C | 28-DEC-1999 | 99-04-4746A | 02
04 | NC | ONSLOW COUNTY* | 3703400300C | 21-OCT-1999 | 99-04-5704A | 02
04 | NC | ONSLOW COUNTY* | 3703400300C | 19-OCT-1999 | 99-04-5564A | 02
04 | NC | ONSLOW COUNTY* | 3703400300C | 03-SEP-1999 | 99-04-4496A | 02
04 | NC | ONSLOW COUNTY* | 3703400305C | 22-JUL-1999 | 99-04-4388A | 02
04 | NC | ONSLOW COUNTY* | 3703400360C | 03-DEC-1999 | 00-04-0184A | 02
04 | NC | ONSLOW COUNTY* | 3703400366D | 12-NOV-1999 | 99-04-5278A | 02
04 | NC | ONSLOW COUNTY* | 3703400367D | 02-SEP-1999 | 99-04-4824A | 02
04 | NC | ONSLOW COUNTY* | 3703400380C | 09-JUL-1999 | 99-04-4264A | 02
04 | NC | PENDER COUNTY* | 3703440394B | 21-OCT-1999 | 99-04-6154A | 02
04 | NC | PENDER COUNTY* | 3703440529D | 20-JUL-1999 | 99-04-4360A | 02
04 | NC | PERQUIMANS COUNTY | 3703150105B | 28-DEC-1999 | 99-04-5822A | 02
04 | NC | PITT COUNTY * | 3703720145B | 08-DEC-1999 | 00-04-0854X | 02
04 | NC | PITT COUNTY * | 3703720145B | 03-SEP-1999 | 99-04-4548A | 02
04 | NC | PITT COUNTY * | 3703720220C | 28-DEC-1999 | 00-04-0544A | 02
04 | NC | PITT COUNTY * | 3703720250C | 23-SEP-1999 | 99-04-5518A | 02
04 | NC | PITT COUNTY * | 3703720250C | 10-SEP-1999 | 99-04-4826A | 02
04 | NC | PLYMOUTH, TOWN OF | 3702490003C | 14-JUL-1999 | 99-04-2978A | 02
04 | NC | POLK COUNTY* | 3701940003B | 17-SEP-1999 | 99-04-3658A | 02
04 | NC | RALEIGH, CITY OF | 37183C0110E | 23-JUL-1999 | 99-04-4354A | 01
04 | NC | RALEIGH, CITY OF | 37183C0337F | 19-NOV-1999 | 99-04-4736A | 02
04 | NC | RALEIGH, CITY OF | 37183C0352E | 10-DEC-1999 | 99-04-4188A | 01
04 | NC | RALEIGH, CITY OF | 37183C0352E | 21-SEP-1999 | 99-04-4924A | 01
04 | NC | RALEIGH, CITY OF | 37183C0353E | 01-SEP-1999 | 99-04-4550A | 02
04 | NC | RALEIGH, CITY OF | 37183C0555E | 10-SEP-1999 | 99-04-4466A | 02
04 | NC | RANDOLPH COUNTY * | 3701950150B | 30-JUL-1999 | 99-04-4868A | 02
04 | NC | RIVER BEND, TOWN OF | 3704320002B | 28-SEP-1999 | 99-04-5484A | 02
04 | NC | ROBESON COUNTY * | 37155C0250D | 19-NOV-1999 | 99-04-4414A | 01
04 | NC | ROCKY MOUNT, CITY OF | 3700920004C | 30-NOV-1999 | 99-04-5948A | 01
04 | NC | ROCKY MOUNT, CITY OF | 3700920005C | 24-NOV-1999 | 99-04-6238A | 02
04 | NC | ROWAN COUNTY * | 3703510150B | 04-AUG-1999 | 99-04-3772A | 02
04 | NC | STANLY COUNTY * | 3703610100B | 04-NOV-1999 | 00-04-0098A | 02
04 | NC | STANLY COUNTY * | 3703610100B | 08-SEP-1999 | 99-04-3904A | 02
04 | NC | STANLY COUNTY * | 3703610100B | 29-JUL-1999 | 99-04-2634A | 02
04 | NC | SWAIN COUNTY* | 3702270138C | 02-DEC-1999 | 00-04-0384A | 17
04 | NC | TRENT WOODS, TOWNSHIPOF | 3704340001B | 10-SEP-1999 | 99-04-6046V | 19
04 | NC | WASHINGTON COUNTY* | 3702470040C | 14-OCT-1999 | 99-04-3604A | 02
04 | NC | WASHINGTON, CITY OF | 3700170005C | 30-NOV-1999 | 99-04-6114A | 02
04 | NC | WATAUGA COUNTY * | 37189C0167F | 04-AUG-1999 | 99-04-3966A | 02
04 | NC | WELDON, TOWN OF | 3701190005B | 08-DEC-1999 | 00-04-0368A | 02
04 | NC | WILKESBORO, TOWN OF | 3702590005E | 10-AUG-1999 | 99-04-5308A | 19
04 | NC | WILMINGTON, CITY OF | 3701710010B | 30-DEC-1999 | 00-04-0628A | 02
04 | NC | WILMINGTON, CITY OF | 3701710010B | 02-SEP-1999 | 99-04-4912A | 02
04 | NC | WINSTON-SALEM, CITY OF | 37067C0139H | 12-AUG-1999 | 99-04-4400A | 02
04 | NC | WINSTON-SALEM, CITY OF | 37067C0252H | 30-NOV-1999 | 00-04-0378A | 02
04 | NC | WINSTON-SALEM, CITY OF | 37067C0252H | 30-SEP-1999 | 99-04-5294A | 02
04 | NC | WINSTON-SALEM, CITY OF | 37067C0259H | 19-OCT-1999 | 99-04-5118A | 02
04 | NC | YAUPON BEACH, TOWN OF | 3700300002D | 26-AUG-1999 | 99-04-4658A | 02
04 | SC | ANDERSON COUNTY * | 4500130215B | 08-SEP-1999 | 99-04-079P | 05
04 | SC | BEAUFORT COUNTY* | 4500250065D | 19-AUG-1999 | 99-04-4452A | 02
04 | SC | BEAUFORT COUNTY* | 4500250065D | 09-JUL-1999 | 99-04-2866A | 02
04 | SC | BEAUFORT COUNTY* | 4500250100D | 12-AUG-1999 | 99-04-3978A | 02
04 | SC | BERKELEY COUNTY * | 4500290290C | 12-AUG-1999 | 99-04-4306A | 02
04 | SC | CHARLESTON COUNTY* | 4554130225G | 07-DEC-1999 | 00-04-0054A | 02
04 | SC | CHARLESTON, CITY OF | 4554120010D | 12-NOV-1999 | 99-04-5260A | 02
04 | SC | CLARENDON COUNTY * | 4500510225B | 08-DEC-1999 | 00-04-0090A | 02
04 | SC | COLUMBIA, CITY OF | 45079C0176G | 02-DEC-1999 | 99-04-4972A | 01
04 | SC | CONWAY, TOWN OF | 45051CIND0 | 24-AUG-1999 | 99-04-6042V | 19
04 | SC | FAIRFIELD COUNTY * | 4500750065B | 18-AUG-1999 | 99-04-3306A | 02
04 | SC | FAIRFIELD COUNTY * | 4500750135B | 23-SEP-1999 | 99-04-4128A | 02
04 | SC | GEORGETOWN COUNTY * | 4500850240D | 14-JUL-1999 | 99-04-3456A | 02
04 | SC | GEORGETOWN COUNTY * | 4500850455E | 17-SEP-1999 | 99-04-5568A | 02
04 | SC | GREENVILLE COUNTY * | 4500890275A | 09-NOV-1999 | 99-04-5838A | 02
04 | SC | GREENWOOD COUNTY* | 4500940063B | 09-JUL-1999 | 99-04-3902A | 02
04 | SC | HORRY COUNTY * | 45051C0260F | 01-SEP-1999 | 99-04-1742A | 02
04 | SC | HORRY COUNTY * | 45051C0367F | 24-AUG-1999 | 99-04-4730A | 02
04 | SC | HORRY COUNTY * | 45051C0583H | 12-NOV-1999 | 99-04-5304A | 02
04 | SC | LEXINGTON COUNTY * | 45063C0100F | 21-OCT-1999 | 99-04-5884A | 02
04 | SC | LEXINGTON COUNTY * | 45063C0141F | 06-AUG-1999 | 99-04-4748A | 02
04 | SC | LEXINGTON COUNTY * | 45063C0375F | 16-DEC-1999 | 00-04-0060A | 02
04 | SC | MYRTLE BEACH, CITY OF | 45051CIND0 | 24-AUG-1999 | 99-04-6040V | 19
04 | SC | NEWBERRY COUNTY* | 4502240225B | 30-DEC-1999 | 99-04-5782A | 02
04 | SC | NEWBERRY COUNTY* | 4502240225B | 28-SEP-1999 | 99-04-5256A | 02
04 | SC | NEWBERRY, CITY OF | 4501530002B | 29-DEC-1999 | 00-04-001P | 05
04 | SC | ORANGEBURG COUNTY * | 4501600280B | 05-OCT-1999 | 99-04-3236A | 02
04 | SC | QUINBY, TOWN OF | 450082B | 28-JUL-1999 | 99-04-3222A | 02
04 | SC | RICHLAND COUNTY* | 45079C0025G | 24-SEP-1999 | 99-04-5658A | 02
04 | SC | RICHLAND COUNTY* | 45079C0025G | 23-SEP-1999 | 99-04-5428A | 02
04 | SC | RICHLAND COUNTY* | 45079C0025G | 10-SEP-1999 | 99-04-5056A | 02
04 | SC | RICHLAND COUNTY* | 45079C0025G | 24-AUG-1999 | 99-04-3438A | 02
04 | SC | RICHLAND COUNTY* | 45079C0025G | 09-JUL-1999 | 99-04-2732A | 02
04 | SC | RICHLAND COUNTY* | 45079C0025G | 22-JUL-1999 | 99-04-2702A | 02
04 | SC | RICHLAND COUNTY* | 45079C0040H | 30-JUL-1999 | 99-04-139P | 05
04 | SC | RICHLAND COUNTY* | 45079C0105G | 15-SEP-1999 | 99-04-121P | 05
04 | SC | RICHLAND COUNTY* | 45079C0105G | 15-SEP-1999 | 99-04-061P | 05
04 | SC | SUMTER COUNTY * | 4501820025B | 24-AUG-1999 | 99-04-5320V | 19
04 | SC | YORK COUNTY * | 4501930025B | 13-DEC-1999 | 99-04-5282A | 02
04 | SC | YORK COUNTY * | 4501930025B | 16-DEC-1999 | 99-04-4890A | 02
04 | SC | YORK COUNTY * | 4501930050B | 17-SEP-1999 | 99-04-5532A | 02
04 | SC | YORK COUNTY * | 4501930050B | 16-JUL-1999 | 99-04-3750A | 02
04 | SC | YORK COUNTY * | 4501930125C | 21-OCT-1999 | 99-04-4726A | 02
04 | SC | YORK COUNTY * | 4501930125C | 01-SEP-1999 | 99-04-065P | 05
04 | TN | BENTON COUNTY | 4702180025B | 12-NOV-1999 | 99-04-5352A | 02
04 | TN | BENTON COUNTY | 4702180025B | 14-JUL-1999 | 99-04-3398A | 02
04 | TN | BLOUNT COUNTY * | 4703560025B | 03-AUG-1999 | 99-04-4020A | 02
04 | TN | BLOUNT COUNTY * | 4703560050B | 22-DEC-1999 | 00-04-0844A | 02
04 | TN | BRADLEY COUNTY * | 4703570060B | 09-DEC-1999 | 00-04-0476A | 02
04 | TN | BRADLEY COUNTY * | 4703570060B | 21-SEP-1999 | 99-04-4366A | 01
04 | TN | BRENTWOOD, CITY OF | 4702050005C | 02-SEP-1999 | 99-04-4442A | 02
04 | TN | BRISTOL, CITY OF | 4701820003B | 07-SEP-1999 | 99-04-2194A | 02
04 | TN | CHATTANOOGA, CITY OF | 4700720011C | 22-JUL-1999 | 99-04-2660A | 02
04 | TN | CHATTANOOGA, CITY OF | 4700720029E | 16-DEC-1999 | 99-04-5716A | 02
04 | TN | CHATTANOOGA, CITY OF | 4700720029E | 25-AUG-1999 | 99-04-4804A | 02
04 | TN | CHEATHAM COUNTY * | 4700260025B | 07-DEC-1999 | 00-04-0968V | 19
04 | TN | CLARKSVILLE, CITY OF | 4701370006C | 07-JUL-1999 | 99-04-496A | 02
04 | TN | CLARKSVILLE, CITY OF | 4701370010C | 30-DEC-1999 | 99-04-5480A | 02
04 | TN | CLARKSVILLE, CITY OF | 4701370013C | 22-SEP-1999 | 99-04-4218A | 02
04 | TN | COLLIERVILLE, CITY OF | 47157C0240E | 17-NOV-1999 | 99-04-4192A | 01
04 | TN | COLLIERVILLE, CITY OF | 47157C0240E | 06-AUG-1999 | 99-04-3064A | 01
04 | TN | COLLIERVILLE, CITY OF | 47157C0240E | 15-SEP-1999 | 99-04-105P | 05
04 | TN | COLLIERVILLE, CITY OF | 47157C0245E | 19-AUG-1999 | 99-04-2382A | 01
04 | TN | COLUMBIA, CITY OF | 4754230005D | 12-NOV-1999 | 99-04-6136A | 02
04 | TN | COLUMBIA, CITY OF | 4754230007D | 29-DEC-1999 | 00-04-0706A | 02
04 | TN | COVINGTON, CITY OF | 47167C0065E | 17-DEC-1999 | 99-04-5742A | 02
04 | TN | COVINGTON, CITY OF | 47167C0065E | 17-DEC-1999 | 99-04-5584A | 01
04 | TN | DECATUR COUNTY | 4700410004B | 18-NOV-1999 | 00-04-0160A | 02
04 | TN | EAST RIDGE, CITY OF | 4754240010D | 14-OCT-1999 | 99-04-5402A | 02
04 | TN | EAST RIDGE, CITY OF | 4754240010D | 14-JUL-1999 | 99-04-3676A | 02
04 | TN | EAST RIDGE, CITY OF | 4754240010D | 02-SEP-1999 | 99-04-2402P | 05
04 | TN | FARRAGUT, TOWN OF | 4703870015A | 21-DEC-1999 | 99-04-5940A | 01
04 | TN | FARRAGUT, TOWN OF | 4703870015A | 15-JUL-1999 | 99-04-2056A | 01
04 | TN | FAYETTEVILLE, CITY OF | 4701050001B | 21-DEC-1999 | 00-04-0974V | 19
04 | TN | GERMANTOWN, CITY OF | 47157C0230E | 14-JUL-1999 | 99-04-4430A | 02
04 | TN | GERMANTOWN, CITY OF | 47157C0230E | 18-AUG-1999 | 99-04-4252A | 02
04 | TN | GERMANTOWN, CITY OF | 47157C0235E | 30-DEC-1999 | 00-04-0830A | 17
04 | TN | GERMANTOWN, CITY OF | 47157C0235E | 30-JUL-1999 | 99-04-4222A | 01
04 | TN | GERMANTOWN, CITY OF | 47157C0235E | 10-NOV-1999 | 99-04-229P | 05
04 | TN | HAMILTON COUNTY * | 4700710135D | 12-NOV-1999 | 00-04-0504A | 02
04 | TN | HAWKINS COUNTY* | 4700850065B | 28-DEC-1999 | 00-04-0652A | 02
04 | TN | HENDERSON COUNTY * | 47077C0075C | 18-NOV-1999 | 99-04-3274A | 02
04 | TN | HENDERSONVILLE, CITY OF | 4701860008C | 02-DEC-1999 | 00-04-0612A | 02
04 | TN | KNOX COUNTY * | 4754330080B | 16-DEC-1999 | 00-04-0176A | 02
04 | TN | KNOX COUNTY * | 4754330115B | 21-OCT-1999 | 99-04-6214A | 02
04 | TN | KNOX COUNTY * | 4754330120B | 04-AUG-1999 | 99-04-4448A | 02
04 | TN | KNOX COUNTY * | 4754330175B | 01-DEC-1999 | 99-04-5202A | 17
04 | TN | LAVERGNE, CITY OF | 47149C0014E | 17-AUG-1999 | 99-04-5052A | 01
04 | TN | LAVERGNE, CITY OF | 47149C0014F | 16-NOV-1999 | 00-04-0360A | 01
04 | TN | LEWISBURG, CITY OF | 47117C0133C | 21-DEC-1999 | 99-04-5410A | 02
04 | TN | MANCHESTER, CITY OF | 4700350003B | 12-OCT-1999 | 99-04-5836A | 02
04 | TN | MARION COUNTY * | 4701140200B | 28-DEC-1999 | 00-04-0594A | 02
04 | TN | MEMPHIS, CITY OF | 47157C0185E | 17-DEC-1999 | 99-04-6292A | 02
04 | TN | MEMPHIS, CITY OF | 47157C0225E | 23-SEP-1999 | 99-04-3562A | 02
04 | TN | MEMPHIS, CITY OF | 47157C0230E | 23-NOV-1999 | 00-04-0374A | 02
04 | TN | MONTGOMERY COUNTY * | 4701360050B | 26-AUG-1999 | 99-04-4138A | 02
04 | TN | MONTGOMERY COUNTY * | 4701360095B | 25-AUG-1999 | 99-04-3594A | 02
04 | TN | MURFREESBORO, CITY OF | 47149C0137E | 09-NOV-1999 | 00-04-0972V | 19
04 | TN | MURFREESBORO, CITY OF | 47149C0145E | 04-NOV-1999 | 00-04-0084A | 02
04 | TN | MURFREESBORO, CITY OF | 47149C0145E | 09-NOV-1999 | 99-04-5620A | 02
04 | TN | MURFREESBORO, CITY OF | 47149C0145E | 03-AUG-1999 | 99-04-4278A | 02
04 | TN | MURFREESBORO, CITY OF | 47149C0260E | 10-SEP-1999 | 99-04-3618A | 01
04 | TN | MURFREESBORO, CITY OF | 47149C0260E | 15-OCT-1999 | 98-04-1738A | 01
04 | TN | MURFREESBORO, CITY OF | 47149C0260F | 16-NOV-1999 | 99-04-4760A | 01
04 | TN | NASHVILLE, CITY OF & DAVIDSON COUNTY | 4700400112C | 05-OCT-1999 | 99-04-5138A | 02
04 | TN | NASHVILLE, CITY OF & DAVIDSON COUNTY | 4700400177B | 22-DEC-1999 | 00-04-0686A | 01
04 | TN | NASHVILLE, CITY OF & DAVIDSON COUNTY | 4700400177B | 22-DEC-1999 | 00-04-0688A | 01
04 | TN | NASHVILLE, CITY OF & DAVIDSON COUNTY | 4700400177B | 28-DEC-1999 | 00-04-0620A | 01
04 | TN | NASHVILLE, CITY OF & DAVIDSON COUNTY | 4700400177B | 28-DEC-1999 | 00-04-0606A | 01
04 | TN | NASHVILLE, CITY OF & DAVIDSON COUNTY | 4700400177B | 21-DEC-1999 | 00-04-0250A | 01
04 | TN | NASHVILLE, CITY OF & DAVIDSON COUNTY | 4700400177B | 12-NOV-1999 | 99-04-5982A | 01
04 | TN | NASHVILLE, CITY OF & DAVIDSON COUNTY | 4700400177B | 23-SEP-1999 | 99-04-4536A | 01
04 | TN | NASHVILLE, CITY OF & DAVIDSON COUNTY | 4700400192C | 30-NOV-1999 | 99-04-5984A | 01
04 | TN | NASHVILLE, CITY OF & DAVIDSON COUNTY | 4700400192C | 17-NOV-1999 | 99-04-5376A | 01
04 | TN | NASHVILLE, CITY OF & DAVIDSON COUNTY | 4700400192C | 05-AUG-1999 | 99-04-4320A | 01
04 | TN | NASHVILLE, CITY OF & DAVIDSON COUNTY | 4700400234B | 15-DEC-1999 | 99-04-4534A | 01
04 | TN | OAK RIDGE, CITY OF | 4754410015E | 23-SEP-1999 | 99-04-5346A | 02
04 | TN | OAK RIDGE, CITY OF | 4754410015E | 22-DEC-1999 | 99-04-4722A | 01
04 | TN | PEGRAM, TOWNSHIP OF | 47021C0215C | 07-DEC-1999 | 00-04-0976V | 19
04 | TN | RUTHERFORD COUNTY * | 47149C0010E | 09-NOV-1999 | 00-04-0970V | 19
04 | TN | RUTHERFORD COUNTY * | 47149C0137E | 23-SEP-1999 | 99-04-5514A | 02
04 | TN | RUTHERFORD COUNTY * | 47149C0137E | 30-JUL-1999 | 99-04-3894A | 02
04 | TN | RUTHERFORD COUNTY * | 47149C0161F | 09-NOV-1999 | 99-04-5720A | 02
04 | TN | RUTHERFORD COUNTY * | 47149C0286E | 05-NOV-1999 | 99-04-4646A | 02
04 | TN | SELMER, CITY OF | 4701320005C | 07-DEC-1999 | 99-04-5028A | 02
04 | TN | SHELBY COUNTY * | 47157C0095E | 16-SEP-1999 | 99-04-4998A | 02
04 | TN | SHELBY COUNTY * | 47157C0145E | 04-NOV-1999 | 99-04-6236A | 02
04 | TN | SHELBY COUNTY * | 47157C0185E | 05-NOV-1999 | 99-04-5184A | 02
04 | TN | SHELBY COUNTY * | 47157C0185E | 10-SEP-1999 | 99-04-5008A | 02
04 | TN | SHELBY COUNTY * | 47157C0185E | 01-DEC-1999 | 99-04-4870A | 01
04 | TN | SHELBY COUNTY * | 47157C0185E | 02-SEP-1999 | 99-04-095P | 05
04 | TN | SHELBY COUNTY * | 47157C0240E | 10-SEP-1999 | 99-04-5286A | 01
04 | TN | SHELBY COUNTY * | 47157C0240E | 10-SEP-1999 | 99-04-4910A | 02
04 | TN | SHELBY COUNTY * | 47157C0290E | 07-DEC-1999 | 00-04-0204A | 02
04 | TN | SHELBYVILLE, CITY OF | 4700080028C | 15-SEP-1999 | 99-04-3182A | 01
04 | TN | SMYRNA, TOWN OF | 47149C0106E | 29-SEP-1999 | 99-04-5772A | 02
04 | TN | SOMERVILLE, TOWN OF | 4700510005B | 10-SEP-1999 | 99-04-3578A | 01
04 | TN | SUMNER COUNTY* | 4703490095B | 06-AUG-1999 | 99-04-4312A | 02
04 | TN | SUMNER COUNTY* | 4703490120B | 17-DEC-1999 | 00-04-0626A | 02
04 | TN | TRENTON, CITY OF | 4700620002B | 22-SEP-1999 | 99-04-4494A | 02
04 | TN | UNION CITY, CITY OF | 4701420010B | 07-DEC-1999 | 00-04-0462A | 02
04 | TN | WAVERLY, CITY OF | 4700950005B | 12-NOV-1999 | 99-04-6104A | 02
05 | IL | ADAMS COUNTY* | 1700010160C | 28-JUL-1999 | 99-05-4416A | 02
05 | IL | ADDISON, VILLAGE OF | 1701980004C | 15-DEC-1999 | 99-05-6930A | 02
05 | IL | ADDISON, VILLAGE OF | 1701980004C | 17-NOV-1999 | 99-05-6888A | 02
05 | IL | ADDISON, VILLAGE OF | 1701980004C | 10-NOV-1999 | 99-05-5390A | 02
05 | IL | ALGONQUIN, VILLAGE OF | 1704740001B | 18-AUG-1999 | 99-05-5114A | 02
05 | IL | ANTIOCH, VILLAGE OF | 17097C0027F | 01-SEP-1999 | 99-05-3818A | 02
05 | IL | AURORA, CITY OF | 1703200015D | 22-SEP-1999 | 99-05-6324A | 02
05 | IL | AURORA, CITY OF | 17197C0030E | 23-JUL-1999 | 99-05-5040A | 01
05 | IL | AURORA, CITY OF | 17197C0030E | 04-AUG-1999 | 99-05-4874A | 01
05 | IL | AURORA, CITY OF | 17197C0030E | 01-SEP-1999 | 99-05-3900A | 01
05 | IL | BARTONVILLE, VILLAGE OF | 1705340005C | 30-JUL-1999 | 99-05-5118A | 02
05 | IL | BATAVIA, CITY OF | 1703210002B | 27-OCT-1999 | 99-05-5812A | 02
05 | IL | BATAVIA, CITY OF | 1703210004B | 23-JUL-1999 | 99-05-5266A | 02
05 | IL | BEACH PARK, VILLAGE OF | 17097C0087F | 23-JUL-1999 | 99-05-4686A | 02
05 | IL | BEECHER, VILLAGE OF | 17197C0507E | 18-OCT-1999 | 99-05-037P | 06
05 | IL | BELLWOOD, VILLAGE OF | 1700610001B | 30-DEC-1999 | 00-05-0228A | 02
05 | IL | BLOOMINGTON, CITY OF | 1704900005C | 15-DEC-1999 | 99-05-7036A | 02
05 | IL | BLOOMINGTON, CITY OF | 1704900005C | 05-NOV-1999 | 99-05-6812A | 02
05 | IL | BLOOMINGTON, CITY OF | 1704900005C | 17-SEP-1999 | 99-05-6010A | 01
05 | IL | BLOOMINGTON, CITY OF | 1704900005C | 27-AUG-1999 | 99-05-5328A | 02
05 | IL | BLOOMINGTON, CITY OF | 1704900010C | 22-OCT-1999 | 99-05-6582A | 17
05 | IL | BLOOMINGTON, CITY OF | 1704900010C | 12-NOV-1999 | 99-05-5508A | 17
05 | IL | BUFFALO GROVE, VILLAGE OF | 17097C0261F | 30-DEC-1999 | 00-05-0186A | 02
05 | IL | BUFFALO GROVE, VILLAGE OF | 17097C0261F | 05-NOV-1999 | 99-05-6034A | 02
05 | IL | BUFFALO GROVE, VILLAGE OF | 17097C0261F | 29-OCT-1999 | 99-05-5614A | 02
05 | IL | BUFFALO GROVE, VILLAGE OF | 17097C0261F | 04-AUG-1999 | 99-05-5070A | 02
05 | IL | BUFFALO GROVE, VILLAGE OF | 17097C0262F | 04-AUG-1999 | 99-05-5060A | 17
05 | IL | BUFFALO GROVE, VILLAGE OF | 17097C0262F | 22-JUL-1999 | 99-05-087P | 05
05 | IL | CAHOKIA, VILLAGE OF | 1706200005C | 11-AUG-1999 | 99-05-5164A | 02
05 | IL | CARLOCK, VILLAGE OF | 170491B | 17-DEC-1999 | 99-05-6738A | 02
05 | IL | CARMI, CITY OF | 1706810005B | 03-DEC-1999 | 00-05-0188A | 02
05 | IL | CARMI, CITY OF | 1706810005B | 08-DEC-1999 | 99-05-7400A | 02
05 | IL | CARMI, CITY OF | 1706810005B | 27-AUG-1999 | 99-05-6128A | 02
05 | IL | CARMI, CITY OF | 1706810005B | 01-SEP-1999 | 99-05-6178A | 02
05 | IL | CARMI, CITY OF | 1706810005B | 27-AUG-1999 | 99-05-5828A | 02
05 | IL | CARMI, CITY OF | 1706810005B | 07-JUL-1999 | 99-05-4512A | 02
05 | IL | CARMI, CITY OF | 1706810005B | 28-JUL-1999 | 99-05-4364A | 02
05 | IL | CAROL STREAM, VILLAGE OF | 1702020005C | 03-NOV-1999 | 99-05-6358A | 01
05 | IL | CAROL STREAM, VILLAGE OF | 1702020005C | 23-JUL-1999 | 99-05-5168A | 01
05 | IL | CAROL STREAM, VILLAGE OF | 1702020005C | 04-AUG-1999 | 99-05-115P | 05
05 | IL | CHAMPAIGN COUNTY * | 1708940100B | 27-OCT-1999 | 99-05-6090A | 02
05 | IL | CHAMPAIGN COUNTY * | 1708940150B | 03-SEP-1999 | 99-05-5602A | 02
05 | IL | CHAMPAIGN COUNTY * | 1708940275B | 10-SEP-1999 | 99-05-5820A | 02
05 | IL | CHAMPAIGN COUNTY * | 1708940275B | 13-AUG-1999 | 99-05-4478A | 02
05 | IL | CHATHAM, VILLAGE OF | 1706010250C | 29-OCT-1999 | 99-05-4594A | 01
05 | IL | CHICAGO RIDGE, VILLAGE OF | 1700760001B | 11-AUG-1999 | 99-05-5530A | 02
05 | IL | CLINTON COUNTY* | 170044B | 22-SEP-1999 | 99-05-3530A | 02
05 | IL | COOK COUNTY * | 1700540040B | 17-SEP-1999 | 99-05-6114A | 02
05 | IL | COOK COUNTY * | 1700540165B | 30-JUL-1999 | 99-05-5102A | 02
05 | IL | COOK COUNTY * | 1700540190B | 23-JUL-1999 | 99-05-4892A | 02
05 | IL | COOK COUNTY * | 1700540215B | 02-NOV-1999 | 98-05-025P | 06
05 | IL | COOK COUNTY * | 1700540235C | 10-SEP-1999 | 99-05-5398A | 01
05 | IL | COOK COUNTY * | 1701330001C | 21-JUL-1999 | 99-05-3920A | 01
05 | IL | CRAWFORD COUNTY* | 1709390125B | 22-DEC-1999 | 99-05-5668A | 02
05 | IL | CRESTWOOD, VILLAGE OF | 1700800001E | 28-JUL-1999 | 99-05-5606A | 02
05 | IL | DARIEN, CITY OF | 1701970060B | 08-DEC-1999 | 00-05-0982X | 01
05 | IL | DARIEN, CITY OF | 1701970060B | 17-NOV-1999 | 99-05-4854A | 01
05 | IL | DARIEN, CITY OF | 1707500002A | 17-NOV-1999 | 99-05-6588A | 02
05 | IL | DECATUR, CITY OF | 1704290005C | 29-DEC-1999 | 00-05-1124A | 02
05 | IL | DECATUR, CITY OF | 1704290005C | 11-AUG-1999 | 99-05-3768A | 02
05 | IL | DECATUR, CITY OF | 1704290015C | 15-DEC-1999 | 00-05-0226A | 17
05 | IL | DEERFIELD, VILLAGE OF | 17097C0286F | 10-DEC-1999 | 99-05-6306A | 02
05 | IL | DEERFIELD, VILLAGE OF | 17097C0288F | 24-SEP-1999 | 99-05-5992A | 02
05 | IL | DES PLAINES, CITY OF | 1700810005C | 03-SEP-1999 | 99-05-5720A | 02
05 | IL | DES PLAINES, CITY OF | 1700810005C | 14-JUL-1999 | 99-05-5016A | 02
05 | IL | DEWITT COUNTY * | 17039C0025D | 02-DEC-1999 | 99-05-5818A | 02
05 | IL | DIXON, CITY OF | 17103C0018E | 09-JUL-1999 | 99-05-4110A | 02
05 | IL | DIXON, CITY OF | 17103C0018E | 17-SEP-1999 | 99-05-119P | 06
05 | IL | DOUGLAS COUNTY* | 1701940100B | 14-JUL-1999 | 99-05-4708A | 02
05 | IL | DOWNERS GROVE, VILLAGE OF | 1702040004B | 12-NOV-1999 | 99-05-6360A | 02
05 | IL | DOWNERS GROVE, VILLAGE OF | 1702040004B | 16-JUL-1999 | 99-05-3132A | 02
05 | IL | DOWNERS GROVE, VILLAGE OF | 1702040006C | 29-SEP-1999 | 99-05-6340A | 02
05 | IL | DOWNERS GROVE, VILLAGE OF | 1702040008B | 03-DEC-1999 | 99-05-6444A | 02
05 | IL | DUPAGE COUNTY* | 1701970010C | 18-AUG-1999 | 99-05-5484A | 02
05 | IL | DUPAGE COUNTY* | 1701970025B | 27-AUG-1999 | 99-05-4482A | 02
05 | IL | DUPAGE COUNTY* | 1701970025B | 04-AUG-1999 | 99-05-115P | 05
05 | IL | DUPAGE COUNTY* | 1701970030D | 06-AUG-1999 | 99-05-2830A | 02
05 | IL | DUPAGE COUNTY* | 1701970040B | 03-DEC-1999 | 99-05-5748A | 17
05 | IL | DUPAGE COUNTY* | 1701970040B | 15-OCT-1999 | 99-05-4266A | 01
05 | IL | DUPAGE COUNTY* | 1701970050B | 02-JUL-1999 | 99-05-4712A | 01
05 | IL | ELGIN, CITY OF | 1700870003C | 03-SEP-1999 | 99-05-161P | 05
05 | IL | FLOSSMOOR, VILLAGE OF | 1700910001D | 23-JUL-1999 | 99-05-5646A | 02
05 | IL | FOX LAKE, VILLAGE OF | 17097C0015F | 20-OCT-1999 | 99-05-6500A | 02
05 | IL | FOX LAKE, VILLAGE OF | 17097C0015F | 03-DEC-1999 | 99-05-6336A | 02
05 | IL | FOX LAKE, VILLAGE OF | 17097C0015F | 27-AUG-1999 | 99-05-5740A | 02
05 | IL | FOX LAKE, VILLAGE OF | 17097C0015F | 15-OCT-1999 | 99-05-4406A | 02
05 | IL | FOX LAKE, VILLAGE OF | 17097C0020F | 08-DEC-1999 | 00-05-0356A | 02
05 | IL | FOX LAKE, VILLAGE OF | 17097C0020F | 09-JUL-1999 | 99-05-4960A | 02
05 | IL | FOX LAKE, VILLAGE OF | 17097C0020F | 09-JUL-1999 | 99-05-4958A | 02
05 | IL | FOX LAKE, VILLAGE OF | 17097C0020F | 28-JUL-1999 | 99-05-3628A | 02
05 | IL | FRANKLIN COUNTY* | 1708990005B | 01-SEP-1999 | 99-05-5354A | 02
05 | IL | GLEN ELLYN, VILLAGE OF | 1702070005C | 30-NOV-1999 | 99-05-187P | 05
05 | IL | GLENVIEW, VILLAGE OF | 1700960005C | 03-NOV-1999 | 99-05-5414A | 17
05 | IL | GLENVIEW, VILLAGE OF | 1700960008C | 21-SEP-1999 | 99-05-6840A | 17
05 | IL | GLENVIEW, VILLAGE OF | 1700960008C | 11-AUG-1999 | 99-05-4760A | 02
05 | IL | GRAYSLAKE, VILLAGE OF | 17097C0131F | 25-AUG-1999 | 99-05-6298A | 02
05 | IL | GRAYSLAKE, VILLAGE OF | 17097C0132F | 18-AUG-1999 | 99-05-5116A | 02
05 | IL | GRUNDY COUNTY * | 1702560040C | 24-SEP-1999 | 99-05-6326A | 01
05 | IL | GURNEE, VILLAGE OF | 17097C0063F | 18-AUG-1999 | 99-05-063P | 05
05 | IL | GURNEE, VILLAGE OF | 17097C0157F | 15-DEC-1999 | 00-05-0490A | 02
05 | IL | GURNEE, VILLAGE OF | 17097C0157F | 30-JUL-1999 | 99-05-4036A | 02
05 | IL | HAINESVILLE, VILLAGE OF | 17097C0127F | 30-SEP-1999 | 99-05-251P | 05
05 | IL | HAMILTON, CITY OF | 1702710005B | 21-JUL-1999 | 99-05-5276A | 02
05 | IL | HAMPSHIRE, VILLAGE OF | 1703270002C | 27-JUL-1999 | 99-05-103P | 05
05 | IL | HAWTHORN WOODS, VILLAGE OF | 17097C0231F | 13-OCT-1999 | 99-05-5342A | 02
05 | IL | HIGHLAND PARK, CITY OF | 17097C0279F | 03-SEP-1999 | 99-05-5378A | 02
05 | IL | HINSDALE, VILLAGE OF | 1701050002B | 13-OCT-1999 | 99-05-5656A | 02
05 | IL | HINSDALE, VILLAGE OF | 1701050002B | 15-DEC-1999 | 99-05-5574A | 02
05 | IL | HOFFMAN ESTATES, VILLAGE OF | 1701070007C | 01-OCT-1999 | 99-05-5830A | 02
05 | IL | HOFFMAN ESTATES, VILLAGE OF | 1701070007C | 16-JUL-1999 | 99-05-4830A | 02
05 | IL | HOFFMAN ESTATES, VILLAGE OF | 1701070007C | 02-JUL-1999 | 99-05-4812A | 02
05 | IL | HOFFMAN ESTATES, VILLAGE OF | 1701070008B | 12-NOV-1999 | 99-05-6918A | 02
05 | IL | HOLIDAY HILLS, VILLAGE OF | 1709360001B | 10-DEC-1999 | 00-05-0230A | 02
05 | IL | HOLIDAY HILLS, VILLAGE OF | 1709360001B | 22-SEP-1999 | 99-05-5752A | 02
05 | IL | HOMEWOOD, VILLAGE OF | 170109C | 29-DEC-1999 | 00-05-0164A | 02
05 | IL | HOMEWOOD, VILLAGE OF | 170109C | 30-JUL-1999 | 99-05-4598A | 02
05 | IL | HOMEWOOD, VILLAGE OF | 170109C | 09-JUL-1999 | 99-05-3368A | 02
05 | IL | HUNTLEY, VILLAGE OF | 1704800002C | 18-AUG-1999 | 99-05-5036A | 01
05 | IL | HUNTLEY, VILLAGE OF | 1704800004C | 13-OCT-1999 | 99-05-5966A | 02
05 | IL | HUNTLEY, VILLAGE OF | 1704800004C | 06-OCT-1999 | 99-05-5968A | 01
05 | IL | HUNTLEY, VILLAGE OF | 1704800004C | 08-OCT-1999 | 99-05-4900A | 01
05 | IL | ISLAND LAKE, VILLAGE OF | 1703700001B | 15-OCT-1999 | 99-05-5754A | 02
05 | IL | ISLAND LAKE, VILLAGE OF | 1703700001B | 20-OCT-1999 | 99-05-5718A | 02
05 | IL | JACKSONVILLE, CITY OF | 1705160010C | 14-JUL-1999 | 99-05-4212A | 17
05 | IL | JEFFERSON COUNTY | 170305A | 05-NOV-1999 | 99-05-6376A | 02
05 | IL | JOHNSBURG, VILLAGE OF | 1704860001B | 29-DEC-1999 | 00-05-0206A | 02
05 | IL | JOLIET, CITY OF | 17197C0130E | 17-DEC-1999 | 99-05-5400A | 02
05 | IL | JOLIET, CITY OF | 17197C0135E | 12-AUG-1999 | 99-05-5138A | 01
05 | IL | JOLIET, CITY OF | 17197C0141E | 24-SEP-1999 | 99-05-5808A | 02
05 | IL | JOLIET, CITY OF | 17197C0141E | 08-SEP-1999 | 99-05-3568A | 01
05 | IL | KANE COUNTY * | 1708960044B | 23-AUG-1999 | 99-05-5416A | 02
05 | IL | KANE COUNTY * | 1708960044B | 23-JUL-1999 | 99-05-3640A | 02
05 | IL | KANE COUNTY * | 1708960061B | 30-DEC-1999 | 00-05-1134A | 02
05 | IL | KANE COUNTY * | 1708960061B | 10-DEC-1999 | 00-05-0130A | 02
05 | IL | KANE COUNTY * | 1708960102B | 03-SEP-1999 | 99-05-5362A | 02
05 | IL | KANE COUNTY * | 1708960106B | 28-JUL-1999 | 99-05-4360A | 02
05 | IL | KANKAKEE COUNTY * | 1703360190C | 08-DEC-1999 | 00-05-0100A | 02
05 | IL | KANKAKEE COUNTY * | 1703360190C | 30-DEC-1999 | 99-05-7372A | 02
05 | IL | KANKAKEE COUNTY * | 1703360190C | 29-SEP-1999 | 99-05-4798A | 02
05 | IL | KENDALL COUNTY * | 1703410090C | 15-SEP-1999 | 99-05-5594A | 01
05 | IL | LA SALLE COUNTY * | 1704000003B | 03-DEC-1999 | 99-05-7392A | 02
05 | IL | LA SALLE COUNTY * | 1704000003B | 12-NOV-1999 | 99-05-6678A | 02
05 | IL | LAKE COUNTY * | 17097C0005F | 22-JUL-1999 | 99-05-087P | 05
05 | IL | LAKE COUNTY * | 17097C0010F | 25-AUG-1999 | 99-05-5758A | 02
05 | IL | LAKE COUNTY * | 17097C0015F | 01-DEC-1999 | 99-05-2964A | 02
05 | IL | LAKE COUNTY * | 17097C0019F | 29-OCT-1999 | 99-05-6144A | 02
05 | IL | LAKE COUNTY * | 17097C0019F | 30-JUL-1999 | 99-05-5338A | 02
05 | IL | LAKE COUNTY * | 17097C0019F | 04-AUG-1999 | 99-05-4904A | 02
05 | IL | LAKE COUNTY * | 17097C0063F | 18-AUG-1999 | 99-05-063P | 05
05 | IL | LAKE COUNTY * | 17097C0110G | 29-DEC-1999 | 00-05-0080A | 02
05 | IL | LAKE COUNTY * | 17097C0110G | 19-NOV-1999 | 99-05-7118A | 02
05 | IL | LAKE COUNTY * | 17097C0116F | 18-AUG-1999 | 99-05-4758A | 02
05 | IL | LAKE COUNTY * | 17097C0126F | 30-DEC-1999 | 00-05-1116A | 02
05 | IL | LAKE COUNTY * | 17097C0126F | 10-DEC-1999 | 99-05-6044A | 02
05 | IL | LAKE COUNTY * | 17097C0141F | 19-NOV-1999 | 99-05-3648A | 01
05 | IL | LAKE COUNTY * | 17097C0155F | 15-DEC-1999 | 00-05-0676A | 02
05 | IL | LAKE COUNTY * | 17097C0205F | 06-AUG-1999 | 99-05-2238A | 02
05 | IL | LAKE COUNTY * | 17097C0206F | 08-SEP-1999 | 99-05-5364A | 02
05 | IL | LAKE COUNTY * | 17097C0206F | 24-SEP-1999 | 99-05-6946A | 02
05 | IL | LAKE FOREST, CITY OF | 17097C0169F | 27-AUG-1999 | 99-05-5882A | 02
05 | IL | LAKE FOREST, CITY OF | 17097C0276F | 10-NOV-1999 | 99-05-6200A | 17
05 | IL | LAKE FOREST, CITY OF | 17097C0276F | 07-JUL-1999 | 99-05-4756A | 02
05 | IL | LAKE FOREST, CITY OF | 17097C0277F | 01-DEC-1999 | 99-05-5532A | 02
05 | IL | LAKE-IN-THE-HILLS, VILLAGE OF | 1704810002E | 29-SEP-1999 | 99-05-6942A | 01
05 | IL | LAKE-IN-THE-HILLS, VILLAGE OF | 1704810002E | 01-SEP-1999 | 99-05-4696A | 01
05 | IL | LAKEWOOD, VILLAGE OF | 170805B | 20-OCT-1999 | 99-05-6402A | 02
05 | IL | LAWRENCE COUNTY * | 1704090050B | 29-SEP-1999 | 99-05-5920A | 02
05 | IL | LIBERTYVILLE, VILLAGE OF | 17097C0164F | 30-SEP-1999 | 99-05-7070A | 02
05 | IL | LINDENHURST, VILLAGE OF | 17097C0041F | 09-JUL-1999 | 99-05-3618A | 02
05 | IL | LINDENHURST, VILLAGE OF | 17097C0042F | 23-AUG-1999 | 99-05-193P | 06
05 | IL | LIVINGSTON COUNTY* | 1709290001A | 19-NOV-1999 | 99-05-4682A | 02
05 | IL | LOCKPORT, CITY OF | 17197C0156E | 22-DEC-1999 | 00-05-0836A | 02
05 | IL | LOMBARD, VILLAGE OF | 1702120005B | 03-SEP-1999 | 99-05-6148A | 02
05 | IL | LYNWOOD, VILLAGE OF | 1701190005C | 03-NOV-1999 | 99-05-6304A | 01
05 | IL | LYNWOOD, VILLAGE OF | 1701190005C | 24-SEP-1999 | 99-05-5746A | 01
05 | IL | LYNWOOD, VILLAGE OF | 1701190005C | 23-JUL-1999 | 99-05-4868A | 01
05 | IL | MADISON COUNTY * | 1704360085B | 17-DEC-1999 | 00-05-0182A | 02
05 | IL | MADISON COUNTY * | 1704360085B | 08-OCT-1999 | 99-05-5924A | 02
05 | IL | MADISON COUNTY * | 1704360110B | 28-DEC-1999 | 99-05-149P | 05
05 | IL | MASON COUNTY * | 170466C | 23-JUL-1999 | 99-05-5406A | 02
05 | IL | MASSAC COUNTY * | 1704670100B | 20-OCT-1999 | 99-05-5540A | 01
05 | IL | MCHENRY COUNTY* | 1707320095B | 03-NOV-1999 | 99-05-6694A | 02
05 | IL | MCHENRY COUNTY* | 1707320115B | 05-NOV-1999 | 99-05-6274A | 02
05 | IL | MCHENRY COUNTY* | 1707320240B | 21-DEC-1999 | 99-05-7154A | 02
05 | IL | MCHENRY COUNTY* | 1707320240B | 02-JUL-1999 | 99-05-3456A | 01
05 | IL | MCHENRY COUNTY* | 1707320355B | 22-OCT-1999 | 99-05-3214A | 02
05 | IL | MCLEAN COUNTY * | 1709310125B | 10-NOV-1999 | 99-05-4422A | 02
05 | IL | METROPOLIS, CITY OF | 1704670100B | 29-OCT-1999 | 99-05-5544A | 01
05 | IL | METROPOLIS, CITY OF | 1704670100B | 29-OCT-1999 | 99-05-5542A | 01
05 | IL | MIDLOTHIAN, VILLAGE OF | 1701270001C | 03-AUG-1999 | 99-05-185P | 05
05 | IL | MOLINE, CITY OF | 1705910010B | 19-NOV-1999 | 99-05-4672A | 01
05 | IL | MONTGOMERY, VILLAGE OF | 1703280005B | 29-SEP-1999 | 99-05-5744A | 02
05 | IL | MONTICELLO, CITY OF | 1705500001C | 17-SEP-1999 | 99-05-6686A | 02
05 | IL | MORRIS, CITY OF | 1702630005C | 08-SEP-1999 | 99-05-5822A | 01
05 | IL | MORRIS, CITY OF | 1702630005C | 10-SEP-1999 | 99-05-5374A | 02
05 | IL | NEW LENOX, VILLAGE OF | 17197C0190E | 09-AUG-1999 | 99-05-075P | 05
05 | IL | NEW LENOX, VILLAGE OF | 17197C0305E | 01-DEC-1999 | 99-05-6636A | 02
05 | IL | NEW LENOX, VILLAGE OF | 17197C0305E | 23-JUL-1999 | 99-05-5394A | 01
05 | IL | NILES, VILLAGE OF | 1701300005B | 05-NOV-1999 | 99-05-6564A | 01
05 | IL | NORMAL, TOWN OF | 1705020005B | 15-DEC-1999 | 99-05-6448A | 02
05 | IL | NORMAL, TOWN OF | 1705020005B | 28-JUL-1999 | 99-05-5318A | 17
05 | IL | NORMAL, TOWN OF | 1705020005B | 06-AUG-1999 | 99-05-5316A | 17
05 | IL | NORTHBROOK, VILLAGE OF | 1701320002E | 27-OCT-1999 | 99-05-5984A | 02
05 | IL | NORTHBROOK, VILLAGE OF | 1701320007E | 27-OCT-1999 | 99-05-6948A | 01
05 | IL | NORTHBROOK, VILLAGE OF | 1701320007E | 24-NOV-1999 | 99-05-6212A | 02
05 | IL | NORTHBROOK, VILLAGE OF | 1701320007E | 18-AUG-1999 | 99-05-5946A | 02
05 | IL | NORTHBROOK, VILLAGE OF | 1701320007E | 04-AUG-1999 | 99-05-5294A | 02
05 | IL | NORTHFIELD, VILLAGE OF | 1701330001C | 11-AUG-1999 | 99-05-4616A | 02
05 | IL | OAK FOREST, CITY OF | 1701360005C | 12-NOV-1999 | 99-05-4894A | 02
05 | IL | OAK FOREST, CITY OF | 1701360005C | 30-JUL-1999 | 99-05-3866A | 02
05 | IL | OAK LAWN, VILLAGE OF | 1701370001C | 20-OCT-1999 | 99-05-7206A | 02
05 | IL | OAK LAWN, VILLAGE OF | 1701370002C | 06-OCT-1999 | 99-05-5938A | 02
05 | IL | OAK LAWN, VILLAGE OF | 1701370004C | 08-OCT-1999 | 99-05-5736A | 02
05 | IL | OFALLON, CITY OF | 1706160020B | 29-OCT-1999 | 99-05-181P | 05
05 | IL | ORLAND PARK, VILLAGE OF | 1701400001D | 22-OCT-1999 | 99-05-5430A | 02
05 | IL | ORLAND PARK, VILLAGE OF | 1701400005D | 02-NOV-1999 | 98-05-025P | 06
05 | IL | PALATINE, VILLAGE OF | 1751700005B | 16-JUL-1999 | 99-05-3418A | 02
05 | IL | PALATINE, VILLAGE OF | 1751700005B | 26-SEP-1999 | 99-05-031P | 05
05 | IL | PALOS HEIGHTS, CITY OF | 1701420002C | 17-SEP-1999 | 99-05-5852A | 02
05 | IL | PALOS HEIGHTS, CITY OF | 1701420002C | 30-DEC-1999 | 99-05-5136A | 17
05 | IL | PALOS HILLS, CITY OF | 1701430001C | 13-OCT-1999 | 99-05-6656A | 02
05 | IL | PALOS HILLS, CITY OF | 1701430003C | 17-SEP-1999 | 99-05-5922A | 17
05 | IL | PALOS HILLS, CITY OF | 1701430003C | 17-SEP-1999 | 99-05-5810A | 02
05 | IL | PALOS HILLS, CITY OF | 1701430003C | 27-AUG-1999 | 99-05-5494A | 17
05 | IL | PEORIA COUNTY * | 1705330050B | 06-OCT-1999 | 99-05-5620A | 02
05 | IL | PEORIA, CITY OF | 1705360015B | 15-SEP-1999 | 99-05-5522A | 17
05 | IL | PROSPECT HEIGHTS, CITY OF | 1709190005C | 22-DEC-1999 | 99-05-5534A | 01
05 | IL | RIVERWOODS, VILLAGE OF | 17097C0267F | 15-OCT-1999 | 99-05-5848A | 02
05 | IL | ROCHELLE, CITY OF | 1705320001B | 12-NOV-1999 | 99-05-7330A | 02
05 | IL | ROMEOVILLE, VILLAGE OF | 17197C0045F | 23-SEP-1999 | 99-05-6898V | 19
05 | IL | ROMEOVILLE, VILLAGE OF | 17197C0061E | 06-OCT-1999 | 99-05-4502A | 01
05 | IL | ROMEOVILLE, VILLAGE OF | 17197C0065E | 28-JUL-1999 | 99-05-4954A | 02
05 | IL | ROSELLE, VILLAGE OF | 1702160002B | 15-OCT-1999 | 99-05-5586A | 02
05 | IL | ROSELLE, VILLAGE OF | 1702160002B | 10-SEP-1999 | 99-05-4658A | 01
05 | IL | ROUND LAKE BEACH, VILLAGE OF | 17097C0126F | 20-AUG-1999 | 99-05-5298A | 02
05 | IL | SANGAMON COUNTY * | 1709120125C | 29-DEC-1999 | 00-05-0674A | 02
05 | IL | SANGAMON COUNTY * | 1709120130C | 15-SEP-1999 | 99-05-4350A | 02
05 | IL | SANGAMON COUNTY * | 1709120250C | 01-OCT-1999 | 99-05-5974A | 01
05 | IL | SCHAUMBURG, VILLAGE OF | 1700540060B | 29-DEC-1999 | 99-05-319P | 05
05 | IL | SCHAUMBURG, VILLAGE OF | 1701580010D | 02-DEC-1999 | 99-05-5598A | 02
05 | IL | SCHAUMBURG, VILLAGE OF | 1701580010D | 17-SEP-1999 | 97-05-049P | 06
05 | IL | SHOREWOOD,VILLAGE OF | 17197C0139E | 12-AUG-1999 | 99-05-201P | 05
05 | IL | SLEEPY HOLLOW, VILLAGE OF | 1703310001B | 15-DEC-1999 | 99-05-7176A | 02
05 | IL | SOUTH BARRINGTON, VILLAGE OF | 1701610004C | 16-AUG-1999 | 98-05-335P | 05
05 | IL | ST. CLAIR COUNTY * | 1706160020B | 29-OCT-1999 | 99-05-181P | 05
05 | IL | ST. CLAIR COUNTY * | 1706160065A | 10-SEP-1999 | 99-05-5208A | 02
05 | IL | ST. CLAIR COUNTY * | 1706160070B | 29-SEP-1999 | 99-05-4382A | 02
05 | IL | ST. CLAIR COUNTY * | 1706160070B | 22-NOV-1999 | 99-05-4092A | 02
05 | IL | ST. CLAIR COUNTY * | 1706160070B | 22-NOV-1999 | 99-05-2688A | 02
05 | IL | ST. MARIE, VILLAGE OF | 1708200001B | 29-DEC-1999 | 00-05-0606A | 02
05 | IL | SWANSEA, VILLAGE OF | 1706370001B | 10-SEP-1999 | 99-05-4846A | 02
05 | IL | TOLUCA, CITY OF | 170460B | 24-NOV-1999 | 99-05-4828A | 02
05 | IL | VERMILION COUNTY | 1709350005B | 22-DEC-1999 | 99-05-4312A | 02
05 | IL | VERMILION COUNTY | 1709350005B | 29-OCT-1999 | 99-05-1308A | 02
05 | IL | WASHINGTON, CITY OF | 1706550005C | 03-SEP-1999 | 99-05-5572A | 02
05 | IL | WATSEKA, CITY OF | 17075C0120D | 29-OCT-1999 | 99-05-5524A | 02
05 | IL | WAUCONDA, VILLAGE OF | 17097C0119F | 30-DEC-1999 | 99-05-6510A | 02
05 | IL | WAUCONDA, VILLAGE OF | 17097C0119F | 20-OCT-1999 | 99-05-5886A | 02
05 | IL | WHITE COUNTY * | 1709060100B | 12-NOV-1999 | 99-05-6940A | 02
05 | IL | WILL COUNTY * | 17197C0010E | 23-SEP-1999 | 99-05-6944V | 19
05 | IL | WILL COUNTY * | 17197C0030E | 03-NOV-1999 | 99-05-6408A | 02
05 | IL | WILL COUNTY * | 17197C0090E | 01-DEC-1999 | 99-05-6716A | 02
05 | IL | WILL COUNTY * | 17197C0095E | 25-AUG-1999 | 99-05-3838A | 02
05 | IL | WILL COUNTY * | 17197C0135E | 10-SEP-1999 | 99-05-5714A | 02
05 | IL | WILL COUNTY * | 17197C0135F | 12-NOV-1999 | 00-05-0302A | 02
05 | IL | WILL COUNTY * | 17197C0139E | 08-OCT-1999 | 99-05-4772A | 02
05 | IL | WILL COUNTY * | 17197C0218E | 27-OCT-1999 | 99-05-6198A | 02
05 | IL | WILL COUNTY * | 17197C0218E | 05-NOV-1999 | 99-05-3106A | 01
05 | IL | WILL COUNTY * | 17197C0350E | 30-DEC-1999 | 99-05-7012A | 01
05 | IL | WILL COUNTY * | 17197C0379E | 15-SEP-1999 | 99-05-5018A | 02
05 | IL | WILL COUNTY * | 17197C0385E | 08-DEC-1999 | 00-05-0834X | 02
05 | IL | WILL COUNTY * | 17197C0385E | 03-NOV-1999 | 99-05-6310A | 02
05 | IL | WILL COUNTY * | 17197C0385E | 29-OCT-1999 | 99-05-6208A | 02
05 | IL | WILL COUNTY * | 17197C0385E | 13-OCT-1999 | 99-05-5512A | 02
05 | IL | WILL COUNTY * | 17197C0385E | 16-JUL-1999 | 99-05-5292A | 02
05 | IL | WILL COUNTY * | 17197C0420E | 20-OCT-1999 | 99-05-5926A | 02
05 | IL | WILL COUNTY * | 17197C0420E | 04-AUG-1999 | 99-05-3798A | 17
05 | IL | WILL COUNTY * | 17197C0580E | 30-DEC-1999 | 00-05-0842A | 02
05 | IL | WILLOW SPRINGS, CITY OF | 1700540170B | 15-JUL-1999 | 99-05-5672A | 01
05 | IL | WINNEBAGO COUNTY * | 1707200050B | 17-NOV-1999 | 99-05-6860A | 02
05 | IL | WINNETKA, VILLAGE OF | 1701760003B | 01-SEP-1999 | 99-05-5020A | 02
05 | IN | ALLEN COUNTY * | 18003C0065D | 29-SEP-1999 | 99-05-4342A | 02
05 | IN | ALLEN COUNTY * | 18003C0165E | 28-JUL-1999 | 99-05-6080A | 02
05 | IN | ALLEN COUNTY * | 18003C0170D | 24-NOV-1999 | 00-05-0070A | 02
05 | IN | ALLEN COUNTY * | 18003C0170D | 11-AUG-1999 | 99-05-5324A | 02
05 | IN | ALLEN COUNTY * | 18003C0265D | 08-DEC-1999 | 00-05-0112A | 17
05 | IN | ALLEN COUNTY * | 18003C0265D | 23-JUL-1999 | 99-05-2328A | 02
05 | IN | ALLEN COUNTY * | 18003C0265D | 29-JUL-1999 | 99-05-1822A | 02
05 | IN | ALLEN COUNTY * | 18003C0285E | 20-OCT-1999 | 99-05-7310A | 02
05 | IN | ALLEN COUNTY * | 18003C0285E | 09-JUL-1999 | 99-05-4630A | 01
05 | IN | ALLEN COUNTY * | 18003C0325D | 29-SEP-1999 | 99-05-6578A | 02
05 | IN | ANDERSON, CITY OF | 1801500004C | 24-NOV-1999 | 99-05-191P | 05
05 | IN | AUBURN, CITY OF | 1800460005C | 08-SEP-1999 | 99-05-5864A | 02
05 | IN | BARTHOLOMEW COUNTY * | 1800060025B | 08-OCT-1999 | 99-05-6348A | 02
05 | IN | BARTHOLOMEW COUNTY * | 1800060100B | 14-JUL-1999 | 99-05-4334A | 02
05 | IN | BARTHOLOMEW COUNTY * | 1800060125B | 06-OCT-1999 | 99-05-4982A | 01
05 | IN | BEECH GROVE, CITY OF—USE CID 180159 | 1801590075D | 15-OCT-1999 | 99-05-6950A | 02
05 | IN | BEECH GROVE, CITY OF—USE CID 180159 | 1801590075D | 03-NOV-1999 | 99-05-7076A | 02
05 | IN | BROWN COUNTY* | 1851740065B | 28-JUL-1999 | 99-05-3272A | 02
05 | IN | CARMEL, CITY OF | 1800810001C | 30-JUL-1999 | 99-05-4720A | 02
05 | IN | CARMEL, CITY OF | 1800810009C | 22-OCT-1999 | 99-05-6596A | 02
05 | IN | CARMEL, CITY OF | 1800810013C | 20-OCT-1999 | 99-05-6602A | 01
05 | IN | CARMEL, CITY OF | 1800810013C | 07-JUL-1999 | 99-05-5056A | 01
05 | IN | CARMEL, CITY OF | 1800810013C | 03-SEP-1999 | 99-05-4716A | 01
05 | IN | CLARK COUNTY * | 1804260075B | 01-DEC-1999 | 00-05-0058A | 02
05 | IN | CLARK COUNTY * | 1804260125C | 10-DEC-1999 | 99-05-6764A | 02
05 | IN | CLARK COUNTY * | 1804260125C | 24-SEP-1999 | 99-05-6112A | 02
05 | IN | CLARK COUNTY * | 1804260125C | 20-OCT-1999 | 99-05-6108A | 02
05 | IN | CLARK COUNTY * | 1804260175C | 16-DEC-1999 | 99-05-6286A | 01
05 | IN | CLARK COUNTY * | 1804260175C | 15-DEC-1999 | 99-05-6070A | 01
05 | IN | CLARK COUNTY * | 1804260175C | 18-AUG-1999 | 99-05-5546A | 01
05 | IN | CLARK COUNTY * | 1804260175C | 13-AUG-1999 | 99-05-4912A | 17
05 | IN | CLARK COUNTY * | 1804260175C | 24-SEP-1999 | 99-05-3044A | 01
05 | IN | CLINTON, CITY OF | 1802599999A | 11-AUG-1999 | 99-05-4822A | 02
05 | IN | COLUMBUS, CITY OF | 1800070005D | 10-SEP-1999 | 99-05-5976A | 01
05 | IN | COLUMBUS, CITY OF | 1800070020D | 16-NOV-1999 | 99-05-5244A | 17
05 | IN | COLUMBUS, CITY OF | 1800070020D | 14-JUL-1999 | 99-05-4718A | 02
05 | IN | COLUMBUS, CITY OF | 1800070020D | 30-JUL-1999 | 99-05-3872A | 17
05 | IN | COLUMBUS, CITY OF | 1800070030D | 11-AUG-1999 | 99-05-5352A | 02
05 | IN | CORYDON, TOWN OF | 1800860005B | 01-OCT-1999 | 99-05-6142A | 02
05 | IN | DECATUR, CITY OF | 1800010005C | 10-SEP-1999 | 99-05-5956A | 02
05 | IN | DELAWARE COUNTY* | 1800510150B | 13-OCT-1999 | 99-05-5262A | 02
05 | IN | ELKHART COUNTY * | 1800560005A | 03-DEC-1999 | 99-05-6772A | 02
05 | IN | ELKHART COUNTY * | 1800560005A | 01-SEP-1999 | 99-05-4418A | 02
05 | IN | ELKHART COUNTY * | 1800560010B | 23-JUL-1999 | 99-05-4704A | 02
05 | IN | ELKHART COUNTY * | 1800560010B | 26-SEP-1999 | 98-05-331P | 05
05 | IN | ELKHART COUNTY * | 1800560020B | 22-SEP-1999 | 99-05-5962A | 02
05 | IN | ELKHART, CITY OF | 1800570010C | 20-AUG-1999 | 99-05-3802A | 02
05 | IN | ELLETSVILLE, TOWN OF | 180170C | 28-JUL-1999 | 99-05-2346A | 02
05 | IN | EVANSVILLE, CITY OF | 1802570005B | 13-AUG-1999 | 99-05-6036A | 01
05 | IN | EVANSVILLE, CITY OF | 1802570006B | 15-OCT-1999 | 99-05-6236A | 02
05 | IN | EVANSVILLE, CITY OF | 1802570006B | 27-AUG-1999 | 99-05-5694A | 02
05 | IN | EVANSVILLE, CITY OF | 1802570008B | 03-NOV-1999 | 00-05-0174A | 02
05 | IN | EVANSVILLE, CITY OF | 1802570008B | 18-AUG-1999 | 99-05-4516A | 02
05 | IN | FLOYD COUNTY * | 1804320025B | 01-DEC-1999 | 99-05-7216A | 17
05 | IN | FORT WAYNE, CITY OF | 18003C0260E | 29-DEC-1999 | 99-05-265P | 05
05 | IN | FORT WAYNE, CITY OF | 18003C0260E | 18-AUG-1999 | 99-05-5682A | 02
05 | IN | FORT WAYNE, CITY OF | 18003C0260E | 14-JUL-1999 | 99-05-3800A | 02
05 | IN | FORT WAYNE, CITY OF | 18003C0270E | 22-DEC-1999 | 00-05-0866A | 02
05 | IN | FORT WAYNE, CITY OF | 18003C0270E | 22-OCT-1999 | 99-05-7232A | 02
05 | IN | FORT WAYNE, CITY OF | 18003C0290D | 24-NOV-1999 | 00-05-0282A | 01
05 | IN | FORT WAYNE, CITY OF | 18003C0290D | 06-OCT-1999 | 99-05-6370A | 02
05 | IN | FOUNTAIN COUNTY | 1800640002A | 08-SEP-1999 | 99-05-5290A | 02
05 | IN | FOUNTAIN COUNTY | 1800640002A | 03-SEP-1999 | 99-05-4848A | 02
05 | IN | FRANKLIN, CITY OF | 1801140002B | 02-JUL-1999 | 99-05-3346A | 02
05 | IN | FRANKLIN, CITY OF | 1801140002B | 15-OCT-1999 | 99-05-2952A | 01
05 | IN | GIBSON COUNTY * | 1804340005A | 15-SEP-1999 | 98-05-5876A | 02
05 | IN | GRANT COUNTY* | 1804350075B | 01-OCT-1999 | 99-05-6574A | 02
05 | IN | GREENFIELD, CITY OF | 1800840001C | 30-SEP-1999 | 99-05-083P | 05
05 | IN | GREENFIELD, CITY OF | 1800840002C | 21-JUL-1999 | 99-05-3604A | 01
05 | IN | GREENSBURG, CITY OF | 1800430001B | 20-OCT-1999 | 99-05-6334A | 02
05 | IN | GREENWOOD, CITY OF | 1801150002B | 29-DEC-1999 | 00-05-0418A | 02
05 | IN | GREENWOOD, CITY OF | 1801150004B | 15-OCT-1999 | 99-05-3876A | 02
05 | IN | GREENWOOD, CITY OF | 1801150004B | 04-AUG-1999 | 99-05-2788A | 01
05 | IN | HAMMOND, CITY OF | 1801340008B | 02-JUL-1999 | 99-05-3790A | 02
05 | IN | HANCOCK COUNTY * | 1804190050B | 29-SEP-1999 | 99-05-5912A | 02
05 | IN | HANCOCK COUNTY * | 1804190100B | 30-DEC-1999 | 99-05-6204A | 02
05 | IN | HENDRICKS COUNTY * | 1804150050B | 01-OCT-1999 | 99-05-6872A | 02
05 | IN | HENDRICKS COUNTY * | 1804150050B | 23-JUL-1999 | 99-05-3656A | 17
05 | IN | HENDRICKS COUNTY * | 1804150100B | 14-JUL-1999 | 99-05-4632A | 01
05 | IN | HENDRICKS COUNTY * | 1804150100B | 27-OCT-1999 | 99-05-4430A | 17
05 | IN | HIGHLAND, TOWN OF | 1851760001C | 27-OCT-1999 | 99-05-7106A | 01
05 | IN | HIGHLAND, TOWN OF | 1851760001C | 27-DEC-1999 | 99-05-325P | 05
05 | IN | HOBART, CITY OF | 1801360005B | 12-NOV-1999 | 99-05-5502A | 17
05 | IN | HOWARD COUNTY * | 1804140027B | 06-OCT-1999 | 99-05-6642A | 02
05 | IN | HUNTINGBURG, CITY OF | 1803620005B | 29-DEC-1999 | 00-05-0268A | 02
05 | IN | HUNTINGTON COUNTY * | 1804380100C | 20-OCT-1999 | 99-05-6838A | 02
05 | IN | INDIANAPOLIS, CITY OF | 1801590005D | 18-AUG-1999 | 99-05-4372A | 02
05 | IN | INDIANAPOLIS, CITY OF | 1801590010D | 03-NOV-1999 | 00-05-0132A | 02
05 | IN | INDIANAPOLIS, CITY OF | 1801590010D | 17-DEC-1999 | 99-05-6760A | 02
05 | IN | INDIANAPOLIS, CITY OF | 1801590010D | 08-DEC-1999 | 99-05-6106A | 17
05 | IN | INDIANAPOLIS, CITY OF | 1801590015D | 01-SEP-1999 | 99-05-6778A | 01
05 | IN | INDIANAPOLIS, CITY OF | 1801590015D | 15-DEC-1999 | 99-05-6238A | 02
05 | IN | INDIANAPOLIS, CITY OF | 1801590015D | 13-AUG-1999 | 99-05-5098A | 02
05 | IN | INDIANAPOLIS, CITY OF | 1801590025D | 10-NOV-1999 | 99-05-6254A | 02
05 | IN | INDIANAPOLIS, CITY OF | 1801590025D | 15-SEP-1999 | 99-05-6152A | 02
05 | IN | INDIANAPOLIS, CITY OF | 1801590025D | 23-JUL-1999 | 99-05-4876A | 02
05 | IN | INDIANAPOLIS, CITY OF | 1801590030D | 08-DEC-1999 | 99-05-6234A | 02
05 | IN | INDIANAPOLIS, CITY OF | 1801590030D | 15-OCT-1999 | 99-05-5692A | 02
05 | IN | INDIANAPOLIS, CITY OF | 1801590035D | 10-NOV-1999 | 00-05-0204A | 02
05 | IN | INDIANAPOLIS, CITY OF | 1801590035D | 01-DEC-1999 | 99-05-7230A | 02
05 | IN | INDIANAPOLIS, CITY OF | 1801590035D | 30-DEC-1999 | 99-05-6154A | 01
05 | IN | INDIANAPOLIS, CITY OF | 1801590035D | 04-AUG-1999 | 99-05-3278A | 02
05 | IN | INDIANAPOLIS, CITY OF | 1801590040D | 27-OCT-1999 | 99-05-6984A | 01
05 | IN | INDIANAPOLIS, CITY OF | 1801590040D | 01-OCT-1999 | 99-05-6908A | 02
05 | IN | INDIANAPOLIS, CITY OF | 1801590045D | 10-DEC-1999 | 00-05-0572A | 02
05 | IN | INDIANAPOLIS, CITY OF | 1801590045D | 22-OCT-1999 | 99-05-7388A | 02
05 | IN | INDIANAPOLIS, CITY OF | 1801590045D | 01-OCT-1999 | 99-05-6834A | 02
05 | IN | INDIANAPOLIS, CITY OF | 1801590045D | 13-AUG-1999 | 99-05-5344A | 02
05 | IN | INDIANAPOLIS, CITY OF | 1801590055D | 08-OCT-1999 | 99-05-6502A | 02
05 | IN | INDIANAPOLIS, CITY OF | 1801590075D | 10-SEP-1999 | 99-05-6666A | 02
05 | IN | INDIANAPOLIS, CITY OF | 1801590075D | 23-JUL-1999 | 99-05-3722A | 02
05 | IN | INDIANAPOLIS, CITY OF | 1801590090D | 10-DEC-1999 | 00-05-0734A | 01
05 | IN | INDIANAPOLIS, CITY OF | 1801590090D | 22-DEC-1999 | 00-05-0096A | 01
05 | IN | INDIANAPOLIS, CITY OF | 1801590090D | 09-JUL-1999 | 99-05-4546A | 01
05 | IN | INDIANAPOLIS, CITY OF | 1801590090D | 29-OCT-1999 | 99-05-4238A | 01
05 | IN | INDIANAPOLIS, CITY OF | 1801590095D | 30-SEP-1999 | 99-05-7064A | 01
05 | IN | INDIANAPOLIS, CITY OF | 1801590095D | 01-OCT-1999 | 99-05-6932A | 02
05 | IN | INDIANAPOLIS, CITY OF | 1801590095D | 06-AUG-1999 | 99-05-5626A | 02
05 | IN | INDIANAPOLIS, CITY OF | 1801590095D | 07-JUL-1999 | 99-05-3912A | 02
05 | IN | JEFFERSONVILLE, CITY OF | 1800270005D | 17-SEP-1999 | 99-05-6570A | 02
05 | IN | JENNINGS COUNTY * | 1801080003B | 17-DEC-1999 | 00-05-0336A | 02
05 | IN | JENNINGS COUNTY * | 1801080003B | 13-OCT-1999 | 99-05-6680A | 02
05 | IN | JENNINGS COUNTY * | 1801080004B | 04-AUG-1999 | 99-05-3582A | 02
05 | IN | JOHNSON COUNTY * | 1801110050C | 13-AUG-1999 | 99-05-3482A | 02
05 | IN | KOSCIUSKO COUNTY* | 18085C0035C | 01-OCT-1999 | 99-05-5680A | 02
05 | IN | KOSCIUSKO COUNTY* | 18085C0067C | 11-AUG-1999 | 99-05-5172A | 02
05 | IN | KOSCIUSKO COUNTY* | 18085C0080C | 20-OCT-1999 | 99-05-6800A | 02
05 | IN | KOSCIUSKO COUNTY* | 18085C0080C | 13-OCT-1999 | 99-05-6412A | 02
05 | IN | KOSCIUSKO COUNTY* | 18085C0080C | 15-SEP-1999 | 99-05-6224A | 02
05 | IN | KOSCIUSKO COUNTY* | 18085C0080C | 29-SEP-1999 | 99-05-5996A | 02
05 | IN | KOSCIUSKO COUNTY* | 18085C0100C | 01-OCT-1999 | 99-05-6410A | 02
05 | IN | KOSCIUSKO COUNTY* | 18085C0100C | 13-OCT-1999 | 99-05-5650A | 02
05 | IN | KOSCIUSKO COUNTY* | 18085C0125C | 15-DEC-1999 | 99-05-7264A | 02
05 | IN | KOSCIUSKO COUNTY* | 18085C0125C | 24-SEP-1999 | 99-05-6282A | 02
05 | IN | KOSCIUSKO COUNTY* | 18085C0125C | 29-DEC-1999 | 99-05-5712A | 01
05 | IN | LA PORTE COUNTY* | 1801440125C | 13-OCT-1999 | 99-05-4158A | 02
05 | IN | LAGRANGE COUNTY | 1801250001B | 13-OCT-1999 | 99-05-6826A | 02
05 | IN | LAGRANGE COUNTY | 1801250004B | 05-NOV-1999 | 00-05-0156A | 02
05 | IN | LAGRANGE COUNTY | 1801250004B | 27-OCT-1999 | 99-05-7344A | 02
05 | IN | LAGRANGE COUNTY | 1801250004B | 22-OCT-1999 | 99-05-7300A | 02
05 | IN | LAGRANGE COUNTY | 1801250004B | 22-OCT-1999 | 99-05-7296A | 02
05 | IN | LAGRANGE COUNTY | 1801250004B | 22-OCT-1999 | 99-05-6794A | 02
05 | IN | LAGRANGE COUNTY | 1801250004B | 10-SEP-1999 | 99-05-6428A | 02
05 | IN | LAGRANGE COUNTY | 1801250004B | 01-SEP-1999 | 99-05-6356A | 02
05 | IN | LAGRANGE COUNTY | 1801250004B | 15-SEP-1999 | 99-05-5084A | 02
05 | IN | LAGRANGE COUNTY | 1801250004B | 14-JUL-1999 | 99-05-2824A | 02
05 | IN | LAKE COUNTY * | 1801260200B | 15-OCT-1999 | 99-05-7052A | 02
05 | IN | LAWRENCE, CITY OF—USE CID 180159 | 1801590020D | 01-DEC-1999 | 99-05-6644A | 01
05 | IN | LAWRENCE, CITY OF—USE CID 180159 | 1801590020D | 03-SEP-1999 | 99-05-6232A | 02
05 | IN | LEBANON, CITY OF | 1800130001D | 15-DEC-1999 | 00-05-0446A | 01
05 | IN | LEBANON, CITY OF | 1800130001D | 27-AUG-1999 | 99-05-6184A | 02
05 | IN | LEBANON, CITY OF | 1800130001D | 11-AUG-1999 | 99-05-5644A | 02
05 | IN | LIBERTY, TOWNSHIP OF | 1804880001A | 12-NOV-1999 | 99-05-4646A | 02
05 | IN | LIBERTY, TOWNSHIP OF | 1804880001A | 13-AUG-1999 | 99-05-3860A | 02
05 | IN | LIBERTY, TOWNSHIP OF | 1804880002A | 18-AUG-1999 | 99-05-4648A | 02
05 | IN | LONG BEACH, TOWN OF | 185177A | 01-DEC-1999 | 00-05-0390A | 02
05 | IN | MADISON COUNTY * | 1804420007B | 12-NOV-1999 | 00-05-0416A | 02
05 | IN | MARSHALL COUNTY * | 1804430125B | 23-JUL-1999 | 99-05-4404A | 02
05 | IN | MICHIGAN CITY, CITY OF | 1801470015B | 05-NOV-1999 | 99-05-7236A | 02
05 | IN | MORGAN COUNTY * | 1801760100B | 24-NOV-1999 | 99-05-5960A | 02
05 | IN | MUNCIE, CITY OF | 1800530002C | 16-SEP-1999 | 99-05-5944A | 02
05 | IN | NASHVILLE, TOWN OF | 1800180001D | 18-AUG-1999 | 99-05-4722A | 02
05 | IN | NEW ALBANY, CITY OF | 1800620005C | 01-DEC-1999 | 00-05-0244A | 02
05 | IN | NEW ALBANY, CITY OF | 1800620005C | 01-OCT-1999 | 99-05-6600A | 02
05 | IN | NEW ALBANY, CITY OF | 1800620005C | 30-JUL-1999 | 99-05-4588A | 17
05 | IN | NEW ALBANY, CITY OF | 1800620010C | 27-OCT-1999 | 99-05-6900A | 02
05 | IN | NEW CASTLE, CITY OF | 18065C0175C | 30-OCT-1999 | 99-05-133P | 06
05 | IN | NEW HAVEN, CITY OF | 18003C0295D | 15-OCT-1999 | 99-05-7024A | 02
05 | IN | NOBLE COUNTY * | 1801830075B | 01-SEP-1999 | 99-05-6048A | 02
05 | IN | NOBLE COUNTY * | 1801830075B | 27-AUG-1999 | 99-05-6056A | 02
05 | IN | NOBLE COUNTY * | 1801830075B | 23-JUL-1999 | 99-05-4896A | 02
05 | IN | NOBLESVILLE, CITY OF | 1800820015E | 22-OCT-1999 | 99-05-6480A | 02
05 | IN | NOBLESVILLE, CITY OF | 1800820025E | 28-JUL-1999 | 99-05-5162A | 02
05 | IN | NORTH WEBSTER, TOWN OF | 18085C0045C | 15-OCT-1999 | 99-05-7238A | 02
05 | IN | OHIO COUNTY* | 180406B | 24-NOV-1999 | 00-05-0102A | 02
05 | IN | PLAINFIELD, TOWN OF | 1800890001B | 03-NOV-1999 | 99-05-7240A | 02
05 | IN | PORTER COUNTY * | 1804250060B | 24-SEP-1999 | 99-05-6188A | 02
05 | IN | PORTER COUNTY * | 1804250060B | 27-AUG-1999 | 99-05-5890A | 02
05 | IN | PORTER COUNTY * | 1804250060B | 11-AUG-1999 | 99-05-2836A | 02
05 | IN | PORTER COUNTY * | 1804250060B | 21-JUL-1999 | 99-05-2834A | 02
05 | IN | PORTER COUNTY * | 1804250125B | 11-AUG-1999 | 99-05-5072A | 02
05 | IN | POSEY COUNTY* | 180209B | 20-AUG-1999 | 99-05-4356A | 02
05 | IN | ROME CITY, TOWN OF | 1803850001B | 28-JUL-1999 | 99-05-5150A | 02
05 | IN | SEYMOUR, CITY OF | 1800990004C | 15-DEC-1999 | 00-05-0558A | 02
05 | IN | SEYMOUR, CITY OF | 1800990004C | 12-NOV-1999 | 00-05-0144A | 02
05 | IN | SEYMOUR, CITY OF | 1800990004C | 01-OCT-1999 | 99-05-7002A | 02
05 | IN | SEYMOUR, CITY OF | 1800990004C | 29-OCT-1999 | 99-05-6584A | 02
05 | IN | SEYMOUR, CITY OF | 1800990004C | 17-SEP-1999 | 99-05-6468A | 02
05 | IN | SEYMOUR, CITY OF | 1800990004C | 20-SEP-1999 | 99-05-6174A | 02
05 | IN | SEYMOUR, CITY OF | 1800990004C | 18-AUG-1999 | 99-05-5710A | 02
05 | IN | SEYMOUR, CITY OF | 1800990004C | 29-NOV-1999 | 99-05-085P | 05
05 | IN | SPENCER COUNTY * | 1802370125A | 12-NOV-1999 | 99-05-6240A | 02
05 | IN | STEUBEN COUNTY* | 1802430025B | 10-DEC-1999 | 00-05-0992X | 02
05 | IN | STEUBEN COUNTY* | 1802430025B | 10-NOV-1999 | 99-05-7308A | 02
05 | IN | STEUBEN COUNTY* | 1802430025B | 20-OCT-1999 | 99-05-7042A | 02
05 | IN | STEUBEN COUNTY* | 1802430025B | 15-OCT-1999 | 99-05-6222A | 02
05 | IN | STEUBEN COUNTY* | 1802430025B | 07-JUL-1999 | 99-05-5230A | 02
05 | IN | STEUBEN COUNTY* | 1802430050B | 23-JUL-1999 | 99-05-5086A | 02
05 | IN | STEUBEN COUNTY* | 1802430075B | 29-DEC-1999 | 00-05-0514A | 02
05 | IN | STEUBEN COUNTY* | 1802430100B | 10-SEP-1999 | 99-05-6586A | 02
05 | IN | STEUBEN COUNTY* | 1802430100B | 06-AUG-1999 | 99-05-5658A | 02
05 | IN | STEUBEN COUNTY* | 1802430100B | 04-AUG-1999 | 99-05-5434A | 02
05 | IN | SYRACUSE, TOWN OF | 18085C0035C | 12-NOV-1999 | 99-05-6688A | 02
05 | IN | TELL CITY, CITY OF | 180197B | 30-JUL-1999 | 99-05-5470A | 02
05 | IN | TIPPECANOE COUNTY * | 1804280050B | 03-DEC-1999 | 00-05-0782X | 02
05 | IN | TIPPECANOE COUNTY * | 1804280050B | 03-DEC-1999 | 00-05-0062A | 02
05 | IN | TIPPECANOE COUNTY * | 1804280050B | 13-AUG-1999 | 99-05-4532A | 02
05 | IN | TIPPECANOE COUNTY * | 1804280060B | 28-JUL-1999 | 99-05-4398A | 02
05 | IN | TIPPECANOE COUNTY * | 1804280080B | 29-DEC-1999 | 00-05-0432A | 02
05 | IN | TIPTON, CITY OF | 1802550001C | 29-OCT-1999 | 99-05-5846A | 02
05 | IN | VANDERBURGH COUNTY * | 1802560025C | 30-DEC-1999 | 00-05-1060A | 01
05 | IN | VANDERBURGH COUNTY * | 1802560025C | 03-DEC-1999 | 00-05-0476A | 02
05 | IN | VANDERBURGH COUNTY * | 1802560025C | 03-DEC-1999 | 00-05-0478A | 02
05 | IN | VANDERBURGH COUNTY * | 1802560025C | 03-DEC-1999 | 00-05-0480A | 02
05 | IN | VANDERBURGH COUNTY * | 1802560025C | 27-OCT-1999 | 00-05-0064A | 02
05 | IN | VANDERBURGH COUNTY * | 1802560025C | 08-SEP-1999 | 99-05-6452A | 02
05 | IN | VANDERBURGH COUNTY * | 1802560025C | 15-OCT-1999 | 99-05-6172A | 02
05 | IN | VANDERBURGH COUNTY * | 1802560025C | 15-SEP-1999 | 99-05-6166A | 02
05 | IN | VANDERBURGH COUNTY * | 1802560025C | 03-SEP-1999 | 99-05-5690A | 01
05 | IN | VANDERBURGH COUNTY * | 1802560025C | 22-OCT-1999 | 99-05-5536A | 01
05 | IN | VANDERBURGH COUNTY * | 1802560025C | 04-AUG-1999 | 99-05-5278A | 01
05 | IN | VANDERBURGH COUNTY * | 1802560025C | 02-JUL-1999 | 99-05-4246A | 02
05 | IN | VANDERBURGH COUNTY * | 1802560050B | 10-DEC-1999 | 00-05-0968A | 01
05 | IN | VANDERBURGH COUNTY * | 1802560050B | 27-OCT-1999 | 99-05-7046A | 02
05 | IN | VANDERBURGH COUNTY * | 1802560075C | 20-OCT-1999 | 99-05-7000A | 02
05 | IN | VANDERBURGH COUNTY * | 1802560075C | 03-NOV-1999 | 99-05-6798A | 02
05 | IN | VANDERBURGH COUNTY * | 1802560075C | 20-AUG-1999 | 99-05-5688A | 02
05 | IN | VANDERBURGH COUNTY * | 1802560075C | 06-AUG-1999 | 99-05-4008A | 02
05 | IN | VANDERBURGH COUNTY * | 1802560100B | 15-DEC-1999 | 00-05-0706A | 01
05 | IN | VANDERBURGH COUNTY * | 1802560100B | 10-DEC-1999 | 00-05-0462A | 02
05 | IN | VANDERBURGH COUNTY * | 1802560100B | 01-DEC-1999 | 00-05-0464A | 02
05 | IN | VANDERBURGH COUNTY * | 1802560100B | 12-NOV-1999 | 99-05-6780A | 02
05 | IN | VANDERBURGH COUNTY * | 1802560100B | 29-DEC-1999 | 99-05-6300A | 01
05 | IN | VANDERBURGH COUNTY * | 1802560100B | 27-AUG-1999 | 99-05-5686A | 02
05 | IN | VANDERBURGH COUNTY * | 1802560100B | 01-SEP-1999 | 99-05-5184A | 02
05 | IN | VIGO COUNTY * | 1802630120B | 29-SEP-1999 | 99-05-5762A | 02
05 | IN | WARRICK COUNTY * | 1804180125B | 20-AUG-1999 | 99-05-6004A | 02
05 | IN | WARRICK COUNTY * | 1804180175B | 09-JUL-1999 | 99-05-4838A | 02
05 | IN | WARSAW, CITY OF | 18085C0078C | 03-NOV-1999 | 00-05-0184A | 02
05 | IN | WARSAW, CITY OF | 18085C0086C | 10-DEC-1999 | 00-05-0288A | 02
05 | IN | WARSAW, CITY OF | 18085C0086C | 20-OCT-1999 | 99-05-7282A | 02
05 | IN | WELLS COUNTY * | 1802880125C | 01-DEC-1999 | 00-05-0352A | 02
05 | IN | WESTFIELD, TOWN OF | 1800830011C | 19-OCT-1999 | 00-05-0088A | 01
05 | IN | WESTFIELD, TOWN OF | 1800830011C | 20-OCT-1999 | 00-05-0086A | 01
05 | IN | WESTFIELD, TOWN OF | 1800830011C | 19-OCT-1999 | 00-05-0084A | 01
05 | IN | WESTFIELD, TOWN OF | 1800830011C | 19-OCT-1999 | 00-05-0082A | 01
05 | IN | WESTFIELD, TOWN OF | 1800830011C | 13-AUG-1999 | 99-05-4770A | 01
05 | IN | WHITE COUNTY * | 1804470002C | 20-AUG-1999 | 99-05-5472A | 02
05 | IN | WHITE COUNTY * | 1804470005C | 29-SEP-1999 | 99-05-5312A | 02
05 | IN | WHITLEY COUNTY* | 1802980001B | 08-DEC-1999 | 99-05-6724A | 02
05 | IN | WHITLEY COUNTY* | 1802980001B | 24-SEP-1999 | 99-05-6190A | 02
05 | IN | WHITLEY COUNTY* | 1802980001B | 07-SEP-1999 | 99-05-5590A | 02
05 | IN | WHITLEY COUNTY* | 1802980002B | 22-OCT-1999 | 99-05-7318A | 02
05 | MI | ANN ARBOR, CITY OF | 2602130009C | 08-SEP-1999 | 99-05-6302A | 02
05 | MI | ARENAC, TOWNSHIP OF | 260251B | 08-DEC-1999 | 99-05-5950A | 01
05 | MI | ARGENTINE, TOWNSHIP OF | 2603920010A | 20-AUG-1999 | 99-05-5346A | 02
05 | MI | AUGRES, TOWNSHIP OF | 2600130010B | 28-JUL-1999 | 99-05-2204A | 02
05 | MI | BALDWIN, TOWNSHIP OF | 2600990016D | 29-DEC-1999 | 00-05-0760A | 02
05 | MI | BANGOR, TOWNSHIP OF | 26017C0140D | 27-OCT-1999 | 99-05-6568A | 02
05 | MI | BANGOR, TOWNSHIP OF | 26017C0140D | 09-JUL-1999 | 99-05-4308A | 02
05 | MI | BAY DE NOC, TOWNSHIP OF | 26041C0835C | 27-OCT-1999 | 99-05-6522A | 02
05 | MI | BAY MILLS, TOWNSHIP OF | 2603740025B | 27-OCT-1999 | 99-05-7148A | 02
05 | MI | BAY MILLS, TOWNSHIP OF | 2603740050B | 22-OCT-1999 | 99-05-7298A | 02
05 | MI | BAY MILLS, TOWNSHIP OF | 2603740050B | 15-OCT-1999 | 99-05-7022A | 02
05 | MI | BAY MILLS, TOWNSHIP OF | 2603740050B | 13-OCT-1999 | 99-05-6876A | 02
05 | MI | BEDFORD, TOWNSHIP OF | 2601420009B | 14-JUL-1999 | 99-05-3688A | 02
05 | MI | BEDFORD, TOWNSHIP OF | 2601420009B | 14-JUL-1999 | 99-05-4888A | 02
05 | MI | BEDFORD, TOWNSHIP OF | 2601420009B | 28-JUL-1999 | 99-05-2376A | 02
05 | MI | BEDFORD, TOWNSHIP OF | 2601420012B | 21-JUL-1999 | 99-05-3958A | 02
05 | MI | BIG RAPIDS, CITY OF | 260136B | 01-OCT-1999 | 99-05-4804A | 02
05 | MI | BIG RAPIDS, TOWNSHIP OF | 260135B | 15-DEC-1999 | 00-05-0984X | 02
05 | MI | BIG RAPIDS, TOWNSHIP OF | 2601359999 | 29-SEP-1999 | 99-05-5032A | 02
05 | MI | BLOOMFIELD, TOWNSHIP OF | 2601690004C | 27-JUL-1999 | 99-05-5628A | 02
05 | MI | BRAMPTON, TOWNSHIP OF | 26041C0415C | 17-SEP-1999 | 99-05-6608A | 02
05 | MI | BROOMFIELD, TOWNSHIP OF | 26073C0280C | 15-OCT-1999 | 99-05-3188A | 02
05 | MI | BROWNSTOWN, CHARTERED TOWNSHIP OF | 2602180010B | 05-NOV-1999 | 99-05-7242A | 02
05 | MI | BROWNSTOWN, CHARTERED TOWNSHIP OF | 2602180010B | 27-JUL-1999 | 99-05-3600A | 01
05 | MI | BUCHANAN, TOWNSHIP OF | 2605550005A | 01-DEC-1999 | 99-05-6052A | 02
05 | MI | BUENA VISTA, TOWNSHIP OF | 26145C0085D | 24-NOV-1999 | 99-05-6912A | 02
05 | MI | BUENA VISTA, TOWNSHIP OF | 26145C0085D | 16-JUL-1999 | 99-05-3684A | 02
05 | MI | CANNON, TOWNSHIP OF | 2607340025A | 13-OCT-1999 | 99-05-6890A | 02
05 | MI | CANNON, TOWNSHIP OF | 2607340025A | 10-NOV-1999 | 99-05-5256A | 02
05 | MI | CANNON, TOWNSHIP OF | 2607340025A | 30-DEC-1999 | 99-05-2968A | 02
05 | MI | CARP LAKE, TOWNSHIP OF | 2605480002B | 03-NOV-1999 | 00-05-0046A | 02
05 | MI | CASCADE CHARTER, TOWNSHIP OF | 2608140025A | 22-OCT-1999 | 99-05-4624A | 02
05 | MI | CASEVILLE, TOWNSHIP OF | 2602570002A | 10-NOV-1999 | 99-05-7286A | 02
05 | MI | CASEVILLE, TOWNSHIP OF | 2602570002A | 15-SEP-1999 | 99-05-5226A | 02
05 | MI | CASTLETON, TOWNSHIP OF | 2606410010B | 24-NOV-1999 | 99-05-6934A | 02
05 | MI | CEDARVILLE, TOWNSHIP OF | 2606590030C | 04-AUG-1999 | 99-05-5550A | 02
05 | MI | CHERRY GROVE, TOWNSHIP OF | 26165C0451C | 27-OCT-1999 | 99-05-7244A | 02
05 | MI | CHESTERFIELD, TOWNSHIP OF | 2601200010B | 13-OCT-1999 | 99-05-5970A | 02
05 | MI | CHESTERFIELD, TOWNSHIP OF | 2601200010B | 05-OCT-1999 | 99-05-147P | 05
05 | MI | CLARK, TOWNSHIP OF | 2607590025B | 13-AUG-1999 | 99-05-5504A | 02
05 | MI | CLARK, TOWNSHIP OF | 2607590050B | 10-SEP-1999 | 99-05-6654A | 02
05 | MI | CLARK, TOWNSHIP OF | 2607590050B | 15-OCT-1999 | 99-05-6426A | 02
05 | MI | CLAY, TOWNSHIP OF | 2601940003B | 27-AUG-1999 | 99-05-6182A | 02
05 | MI | CLAY, TOWNSHIP OF | 2601940003B | 20-OCT-1999 | 99-05-5880A | 02
05 | MI | CLAY, TOWNSHIP OF | 2601940003B | 01-OCT-1999 | 99-05-5372A | 02
05 | MI | CLAY, TOWNSHIP OF | 2601940003B | 28-JUL-1999 | 99-05-1542A | 02
05 | MI | CLEVELAND, TOWNSHIP OF | 260302A | 22-OCT-1999 | 99-05-7142A | 02
05 | MI | CLINTON, TOWNSHIP OF | 2601210005E | 03-SEP-1999 | 99-05-5554A | 02
05 | MI | CLINTON, TOWNSHIP OF | 2601210005E | 06-AUG-1999 | 99-05-5092A | 01
05 | MI | CLINTON, TOWNSHIP OF | 2601210005E | 02-SEP-1999 | 99-05-3252A | 01
05 | MI | CLINTON, TOWNSHIP OF | 2601210010E | 18-AUG-1999 | 99-05-5432A | 02
05 | MI | CLINTON, TOWNSHIP OF | 2601210010E | 16-JUL-1999 | 99-05-4204A | 02
05 | MI | CLINTON, TOWNSHIP OF | 2601210010E | 21-JUL-1999 | 99-05-3550A | 02
05 | MI | COLOMA, TOWNSHIP OF | 2600340005B | 26-AUG-1999 | 99-05-4972A | 02
05 | MI | COMMERCE, TOWNSHIP OF | 2604730015B | 08-SEP-1999 | 99-05-6134A | 02
05 | MI | CORUNNA, CITY OF | 2606020001A | 17-NOV-1999 | 99-05-6194A | 02
05 | MI | CORUNNA, CITY OF | 2606020001A | 18-AUG-1999 | 99-05-3474A | 02
05 | MI | COTTRELLVILLE, TOWNSHIP OF | 2601960005B | 23-JUL-1999 | 99-05-4174A | 02
05 | MI | CROTON, TOWNSHIP OF | 2604680025A | 28-JUL-1999 | 99-05-4836A | 02
05 | MI | DEARBORN HEIGHTS, CITY OF | 2602210006B | 15-JUL-1999 | 99-05-2390A | 02
05 | MI | DEARBORN HEIGHTS, CITY OF | 2602210007C | 03-DEC-1999 | 00-05-0116A | 02
05 | MI | DEERFIELD, TOWNSHIP OF | 26073C0305C | 11-AUG-1999 | 99-05-4602A | 02
05 | MI | DELTA, CHARTER TOWNSHIP OF | 2600660005D | 01-OCT-1999 | 99-05-7026A | 02
05 | MI | DELTA, CHARTER TOWNSHIP OF | 2600660005D | 29-SEP-1999 | 99-05-6796A | 02
05 | MI | EAST GRAND RAPIDS, CITY OF | 2601050001B | 29-DEC-1999 | 00-05-0656A | 02
05 | MI | EAST LANSING, CITY OF | 2600890005B | 27-OCT-1999 | 99-05-3430A | 01
05 | MI | EATON RAPIDS, TOWNSHIP OF | 2603910005A | 15-SEP-1999 | 99-05-5652A | 02
05 | MI | ERIE, TOWNSHIP OF | 2601450010C | 17-SEP-1999 | 99-05-6192A | 02
05 | MI | ESCANABA, TOWNSHIP OF | 26041C0605C | 09-DEC-1999 | 00-05-0994A | 02
05 | MI | FABIUS, TOWNSHIP OF | 2607810025A | 27-OCT-1999 | 99-05-7350A | 02
05 | MI | FABIUS, TOWNSHIP OF | 2607810025A | 27-OCT-1999 | 99-05-7144A | 02
05 | MI | FABIUS, TOWNSHIP OF | 2607810025A | 13-OCT-1999 | 99-05-5994A | 02
05 | MI | FABIUS, TOWNSHIP OF | 2607810025A | 18-AUG-1999 | 99-05-5856A | 02
05 | MI | FABIUS, TOWNSHIP OF | 2607810025A | 21-JUL-1999 | 99-05-4824A | 02
05 | MI | FARMINGTON HILLS, CITY OF | 2601720001C | 08-DEC-1999 | 00-05-0584A | 02
05 | MI | FARMINGTON HILLS, CITY OF | 2601720001C | 09-NOV-1999 | 00-05-0574V | 19
05 | MI | FARMINGTON HILLS, CITY OF | 2601720007C | 15-DEC-1999 | 00-05-0628A | 02
05 | MI | FARMINGTON HILLS, CITY OF | 2601720010B | 22-JUL-1999 | 99-05-2416A | 02
05 | MI | FARMINGTON HILLS, CITY OF | 2601720010C | 24-NOV-1999 | 99-05-7130A | 02
05 | MI | FARMINGTON HILLS, CITY OF | 2601720010C | 15-DEC-1999 | 99-05-3104A | 01
05 | MI | FARMINGTON HILLS, CITY OF | 2601720015B | 11-AUG-1999 | 99-05-4436A | 02
05 | MI | FARMINGTON HILLS, CITY OF | 2601720020B | 14-JUL-1999 | 99-05-5388A | 01
05 | MI | FARMINGTON HILLS, CITY OF | 2601720020B | 09-JUL-1999 | 99-05-2586A | 02
05 | MI | FENTON, TOWNSHIP OF | 2603940008B | 13-OCT-1999 | 99-05-4998A | 02
05 | MI | FENTON, TOWNSHIP OF | 2603940011B | 29-OCT-1999 | 99-05-5764A | 02
05 | MI | FERRYSBURG, CITY OF | 2601840001B | 15-DEC-1999 | 00-05-0554A | 02
05 | MI | FERRYSBURG, CITY OF | 2601840001B | 27-OCT-1999 | 99-05-7054A | 02
05 | MI | FLAT ROCK, CITY OF | 2602240003B | 12-NOV-1999 | 00-05-0172A | 02
05 | MI | FLAT ROCK, CITY OF | 2602240003B | 29-DEC-1999 | 99-05-6474A | 02
05 | MI | FLAT ROCK, CITY OF | 2602240003B | 15-OCT-1999 | 99-05-4508A | 01
05 | MI | FRANKENLUST, TOWNSHIP OF | 26017C0200D | 06-AUG-1999 | 99-05-3996A | 02
05 | MI | FRASER, CITY OF | 2601220001B | 17-DEC-1999 | 99-05-5988A | 01
05 | MI | FRASER, CITY OF | 2601220001B | 14-JUL-1999 | 99-05-3858A | 02
05 | MI | FRASER, TOWNSHIP OF | 26017C0065D | 01-DEC-1999 | 99-05-6000A | 02
05 | MI | FRASER, TOWNSHIP OF | 26017C0110D | 15-OCT-1999 | 99-05-2628A | 02
05 | MI | GARDEN, TOWNSHIP OF | 26041C0715C | 07-SEP-1999 | 99-05-4562A | 02
05 | MI | GRAND HAVEN, TOWNSHIP OF | 2602700005B | 27-OCT-1999 | 00-05-0034A | 02
05 | MI | GRAND HAVEN, TOWNSHIP OF | 2602700005B | 12-NOV-1999 | 99-05-7066A | 02
05 | MI | GRAND HAVEN, TOWNSHIP OF | 2602700005B | 29-SEP-1999 | 99-05-6536A | 02
05 | MI | GREEN OAK, TOWNSHIP OF | 2604400015B | 22-OCT-1999 | 99-05-5236A | 02
05 | MI | GREEN OAK, TOWNSHIP OF | 2604400020B | 29-DEC-1999 | 00-05-0802A | 02
05 | MI | GREEN OAK, TOWNSHIP OF | 2604400020B | 10-NOV-1999 | 00-05-0440A | 02
05 | MI | GREEN OAK, TOWNSHIP OF | 2604400020B | 10-SEP-1999 | 99-05-6526A | 02
05 | MI | GREENBUSH, TOWNSHIP OF | 2600010004C | 19-NOV-1999 | 99-05-6804A | 02
05 | MI | GREENBUSH, TOWNSHIP OF | 2600010004C | 16-JUL-1999 | 99-05-3518A | 02
05 | MI | GREENBUSH, TOWNSHIP OF | 2600010007C | 08-DEC-1999 | 99-05-7164A | 02
05 | MI | GREENBUSH, TOWNSHIP OF | 2600010007C | 08-SEP-1999 | 99-05-6544A | 02
05 | MI | GREENBUSH, TOWNSHIP OF | 2600010007C | 10-SEP-1999 | 99-05-5798A | 02
05 | MI | GREENBUSH, TOWNSHIP OF | 2600010007C | 25-AUG-1999 | 99-05-4442A | 02
05 | MI | GREENBUSH, TOWNSHIP OF | 2600010007C | 14-JUL-1999 | 99-05-4208A | 02
05 | MI | GROSSE ILE, TOWNSHIP OF | 2602270005B | 27-AUG-1999 | 99-05-6060A | 02
05 | MI | GROSSE ILE, TOWNSHIP OF | 2602270005B | 27-AUG-1999 | 99-05-5030A | 02
05 | MI | HAMBURG, TOWNSHIP OF | 2601180005C | 15-DEC-1999 | 99-05-4806A | 02
05 | MI | HAMBURG, TOWNSHIP OF | 2601180010C | 24-SEP-1999 | 99-05-6288A | 02
05 | MI | HAMPTON, TOWNSHIP OF | 26017C0180D | 03-NOV-1999 | 00-05-0262A | 02
05 | MI | HAMPTON, TOWNSHIP OF | 26017C0185D | 06-AUG-1999 | 99-05-4964A | 01
05 | MI | HAMPTON, TOWNSHIP OF | 26017C0185D | 27-AUG-1999 | 99-05-2762A | 01
05 | MI | HAMPTON, TOWNSHIP OF | 26017C0190D | 15-DEC-1999 | 99-05-5026A | 02
05 | MI | HAMPTON, TOWNSHIP OF | 26017C0190D | 25-AUG-1999 | 99-05-4132A | 01
05 | MI | HARRISON, TOWNSHIP OF | 2601230005C | 03-DEC-1999 | 00-05-0774X | 02
05 | MI | HARRISON, TOWNSHIP OF | 2601230005C | 29-DEC-1999 | 00-05-0788A | 02
05 | MI | HARRISON, TOWNSHIP OF | 2601230005C | 22-OCT-1999 | 99-05-7268A | 02
05 | MI | HARRISON, TOWNSHIP OF | 2601230005C | 17-SEP-1999 | 99-05-6692A | 02
05 | MI | HARRISON, TOWNSHIP OF | 2601230005C | 22-OCT-1999 | 99-05-6554A | 02
05 | MI | HARRISON, TOWNSHIP OF | 2601230005C | 08-SEP-1999 | 99-05-6538A | 02
05 | MI | HARRISON, TOWNSHIP OF | 2601230005C | 10-SEP-1999 | 99-05-6506A | 02
05 | MI | HARRISON, TOWNSHIP OF | 2601230005C | 10-SEP-1999 | 99-05-6138A | 02
05 | MI | HARRISON, TOWNSHIP OF | 2601230005C | 01-SEP-1999 | 99-05-5766A | 02
05 | MI | HARRISON, TOWNSHIP OF | 2601230005C | 29-SEP-1999 | 99-05-5802A | 02
05 | MI | HARRISON, TOWNSHIP OF | 2601230005C | 15-OCT-1999 | 99-05-5420A | 02
05 | MI | HARRISON, TOWNSHIP OF | 2601230005C | 11-AUG-1999 | 99-05-5264A | 02
05 | MI | HARRISON, TOWNSHIP OF | 2601230005C | 16-JUL-1999 | 99-05-5014A | 02
05 | MI | HARRISON, TOWNSHIP OF | 2601230005C | 24-NOV-1999 | 99-05-4066A | 02
05 | MI | HARRISON, TOWNSHIP OF | 2601230010C | 05-NOV-1999 | 00-05-0406A | 02
05 | MI | HARRISON, TOWNSHIP OF | 2601230010C | 01-DEC-1999 | 00-05-0238A | 02
05 | MI | HARRISON, TOWNSHIP OF | 2601230010C | 27-AUG-1999 | 99-05-6140A | 02
05 | MI | HASTINGS, TOWNSHIP OF | 2606480003B | 27-OCT-1999 | 99-05-5696A | 01
05 | MI | HAYNES, TOWNSHIP OF | 260274A | 27-AUG-1999 | 99-05-6028A | 02
05 | MI | HAYNES, TOWNSHIP OF | 260274A | 29-OCT-1999 | 99-05-5978A | 02
05 | MI | HIGHLAND, TOWNSHIP OF | 2606500020A | 28-JUL-1999 | 99-05-5074A | 02
05 | MI | HOLLY, TOWNSHIP OF | 2604740001B | 10-SEP-1999 | 99-05-4976A | 02
05 | MI | HOWELL, CITY OF | 260441A | 29-SEP-1999 | 99-05-5160A | 02
05 | MI | INDEPENDENCE, TOWNSHIP OF | 2604750006B | 13-AUG-1999 | 99-05-3438A | 02
05 | MI | INDEPENDENCE, TOWNSHIP OF | 2604750007B | 20-AUG-1999 | 99-05-5548A | 02
05 | MI | INDEPENDENCE, TOWNSHIP OF | 2604750008B | 03-SEP-1999 | 99-05-5380A | 02
05 | MI | IRONWOOD, TOWNSHIP OF | 2604030002B | 23-JUL-1999 | 99-05-5376A | 02
05 | MI | IRONWOOD, TOWNSHIP OF | 2604030002B | 23-JUL-1999 | 99-05-4474A | 02
05 | MI | JAMES, TOWNSHIP OF | 26145C0130D | 20-OCT-1999 | 99-05-6830A | 02
05 | MI | JAMES, TOWNSHIP OF | 26145C0130D | 18-AUG-1999 | 99-05-5804A | 02
05 | MI | JAMES, TOWNSHIP OF | 26145C0130D | 21-JUL-1999 | 99-05-5252A | 02
05 | MI | JOHNSTOWN, TOWNSHIP OF | 260355A | 28-JUL-1999 | 99-05-4614A | 02
05 | MI | JOHNSTOWN, TOWNSHIP OF | 260355A | 18-AUG-1999 | 99-05-3472A | 02
05 | MI | KAWKAWLIN, TOWNSHIP OF | 26017C0110D | 18-AUG-1999 | 99-05-5942A | 02
05 | MI | KEEGO HARBOR, CITY OF | 2601730001B | 16-JUL-1999 | 99-05-3832A | 02
05 | MI | KIMBALL, TOWNSHIP OF | 260594A | 29-JUL-1999 | 99-05-5862A | 02
05 | MI | LAKE ODESSA, VILLAGE OF | 260419A | 22-DEC-1999 | 00-05-0778X | 02
05 | MI | LAKE ODESSA, VILLAGE OF | 260419A | 08-SEP-1999 | 99-05-6042A | 02
05 | MI | LAKE ORION, VILLAGE OF | 2605880001A | 13-OCT-1999 | 99-05-6926A | 02
05 | MI | LAKE, TOWNSHIP OF | 260030A | 29-OCT-1999 | 99-05-7222A | 02
05 | MI | LEELANAU, TOWNSHIP OF | 260114B | 22-OCT-1999 | 99-05-7262A | 02
05 | MI | LEELANAU, TOWNSHIP OF | 260114B | 10-SEP-1999 | 99-05-6660A | 02
05 | MI | LEELANAU, TOWNSHIP OF | 260114B | 08-SEP-1999 | 99-05-6260A | 02
05 | MI | LEELANAU, TOWNSHIP OF | 260114B | 24-SEP-1999 | 99-05-5556A | 02
05 | MI | LINCOLN, TOWNSHIP OF | 2600370001B | 29-SEP-1999 | 99-05-5560A | 02
05 | MI | LIVONIA, CITY OF | 2602330002B | 03-SEP-1999 | 99-05-4862A | 02
05 | MI | LIVONIA, CITY OF | 2602330003B | 02-JUL-1999 | 99-05-4752A | 02
05 | MI | LONG LAKE, TOWNSHIP OF | 2607820025A | 01-DEC-1999 | 00-05-0136A | 02
05 | MI | LONG LAKE, TOWNSHIP OF | 2607820025A | 29-SEP-1999 | 99-05-6472A | 02
05 | MI | LONG LAKE, TOWNSHIP OF | 2607820025A | 24-SEP-1999 | 99-05-6146A | 02
05 | MI | MACOMB, TOWNSHIP OF | 2604450010B | 29-DEC-1999 | 99-05-6728A | 01
05 | MI | MACOMB, TOWNSHIP OF | 2604450010B | 10-SEP-1999 | 99-05-6530A | 02
05 | MI | MACOMB, TOWNSHIP OF | 2604450010B | 10-DEC-1999 | 99-05-6540A | 01
05 | MI | MACOMB, TOWNSHIP OF | 2604450010B | 29-SEP-1999 | 99-05-4330A | 01
05 | MI | MACOMB, TOWNSHIP OF | 2604450010B | 16-JUL-1999 | 99-05-143P | 05
05 | MI | MACOMB, TOWNSHIP OF | 2604450010B | 03-SEP-1999 | 99-05-2316P | 05
05 | MI | MACOMB, TOWNSHIP OF | 2604450010B | 16-JUL-1999 | 99-05-2044P | 05
05 | MI | MACOMB, TOWNSHIP OF | 2604450020B | 28-DEC-1999 | 99-05-253P | 05
05 | MI | MACOMB, TOWNSHIP OF | 2604450020B | 12-NOV-1999 | 99-05-5600A | 02
05 | MI | MAPLE GROVE, TOWNSHIP OF | 2606440001B | 23-JUL-1999 | 99-05-4604A | 02
05 | MI | MASONVILLE, TOWNSHIP OF | 26041C0429C | 12-NOV-1999 | 00-05-0052A | 02
05 | MI | MASONVILLE, TOWNSHIP OF | 26041C0439C | 05-NOV-1999 | 00-05-0250A | 02
05 | MI | MENDON, TOWNSHIP OF | 2605130015B | 15-DEC-1999 | 99-05-7062A | 01
05 | MI | MERIDIAN, CHARTER TOWNSHIP OF | 2600930001A | 01-DEC-1999 | 99-05-7068A | 02
05 | MI | MERIDIAN, CHARTER TOWNSHIP OF | 2600930001A | 20-OCT-1999 | 99-05-6808A | 02
05 | MI | MERIDIAN, CHARTER TOWNSHIP OF | 2600930001A | 28-JUL-1999 | 99-05-5964A | 01
05 | MI | MERIDIAN, CHARTER TOWNSHIP OF | 2600930001A | 29-SEP-1999 | 99-05-5850A | 02
05 | MI | MERIDIAN, CHARTER TOWNSHIP OF | 2600930001A | 21-JUL-1999 | 99-05-5734A | 02
05 | MI | MERIDIAN, CHARTER TOWNSHIP OF | 2600930001A | 03-SEP-1999 | 99-05-5698A | 02
05 | MI | MERIDIAN, CHARTER TOWNSHIP OF | 2600930001A | 21-JUL-1999 | 99-05-5334A | 02
05 | MI | MERIDIAN, CHARTER TOWNSHIP OF | 2600930001A | 23-JUL-1999 | 99-05-4300A | 02
05 | MI | MERIDIAN, CHARTER TOWNSHIP OF | 2600930002A | 13-AUG-1999 | 99-05-4270A | 02
05 | MI | MIDLAND, CITY OF | 2601400007D | 15-OCT-1999 | 99-05-7060A | 02
05 | MI | MIDLAND, CITY OF | 2601400007D | 10-SEP-1999 | 99-05-6246A | 02
05 | MI | MIDLAND, CITY OF | 2601400007D | 19-NOV-1999 | 99-05-5482A | 02
05 | MI | MIDLAND, CITY OF | 2601400007D | 23-JUL-1999 | 99-05-4786A | 02
05 | MI | MIDLAND, CITY OF | 2601400008D | 03-DEC-1999 | 99-05-7370A | 02
05 | MI | MIDLAND, CITY OF | 2601400008D | 20-OCT-1999 | 99-05-6022A | 02
05 | MI | NILES, TOWNSHIP OF | 260041B | 29-DEC-1999 | 00-05-1246X | 02
05 | MI | NILES, TOWNSHIP OF | 260041B | 03-DEC-1999 | 99-05-5868A | 02
05 | MI | NORTHVILLE, CITY OF | 2602350001A | 07-DEC-1999 | 00-05-0986V | 19
05 | MI | NORTON SHORES, CITY OF | 2601650001A | 29-SEP-1999 | 99-05-5866A | 02
05 | MI | NOTTAWA, TOWNSHIP OF | 26073C0175C | 01-OCT-1999 | 99-05-4792A | 02
05 | MI | NOVI, CITY OF | 2601750006C | 10-SEP-1999 | 99-05-4650A | 02
05 | MI | NOVI, CITY OF | 2601750008C | 27-OCT-1999 | 99-05-7320A | 02
05 | MI | NOVI, CITY OF | 2601750009C | 04-AUG-1999 | 99-05-5382A | 02
05 | MI | OWOSSO, CITY OF | 2605960002A | 12-NOV-1999 | 99-05-7096A | 02
05 | MI | PARK, TOWNSHIP OF | 2601850001B | 17-SEP-1999 | 99-05-6604A | 02
05 | MI | PONTIAC, CITY OF | 2601770010B | 23-JUL-1999 | 99-05-4480A | 02
05 | MI | PORTAGE, CITY OF | 2605770005A | 28-JUL-1999 | 99-05-4544A | 02
05 | MI | REDFORD, TOWNSHIP OF | 2602380005B | 20-OCT-1999 | 99-05-7348A | 02
05 | MI | SAGINAW, TOWNSHIP OF | 26145C0070D | 27-AUG-1999 | 99-05-5506A | 02
05 | MI | SAGINAW, TOWNSHIP OF | 26145C0130D | 15-DEC-1999 | 99-05-5842A | 02
05 | MI | SAGINAW, TOWNSHIP OF | 26145C0130D | 28-JUL-1999 | 99-05-5010A | 02
05 | MI | SELMA, TOWNSHIP OF | 26165C0336C | 04-AUG-1999 | 99-05-4734A | 02
05 | MI | SELMA, TOWNSHIP OF | 26165C0338C | 29-OCT-1999 | 99-05-7006A | 02
05 | MI | SHELBY, TOWNSHIP OF | 2601260010B | 29-SEP-1999 | 99-05-6802A | 02
05 | MI | SHERMAN, TOWNSHIP OF | 26073C0175C | 10-NOV-1999 | 00-05-0294A | 02
05 | MI | SILVER CREEK, TOWNSHIP OF | 260369B | 24-SEP-1999 | 99-05-4352A | 02
05 | MI | ST. CLAIR SHORES, CITY OF | 2601270005B | 29-DEC-1999 | 00-05-0894A | 02
05 | MI | ST. CLAIR SHORES, CITY OF | 2601270005B | 17-DEC-1999 | 00-05-0784X | 02
05 | MI | ST. CLAIR SHORES, CITY OF | 2601270005B | 10-NOV-1999 | 00-05-0438A | 02
05 | MI | ST. CLAIR SHORES, CITY OF | 2601270005B | 12-NOV-1999 | 00-05-0420A | 02
05 | MI | ST. CLAIR SHORES, CITY OF | 2601270005B | 05-NOV-1999 | 00-05-0266A | 02
05 | MI | ST. CLAIR SHORES, CITY OF | 2601270005B | 22-OCT-1999 | 99-05-7218A | 02
05 | MI | ST. CLAIR SHORES, CITY OF | 2601270005B | 20-OCT-1999 | 99-05-7040A | 02
05 | MI | ST. CLAIR SHORES, CITY OF | 2601270005B | 29-OCT-1999 | 99-05-7038A | 02
05 | MI | ST. CLAIR SHORES, CITY OF | 2601270005B | 20-OCT-1999 | 99-05-6904A | 02
05 | MI | ST. CLAIR SHORES, CITY OF | 2601270005B | 24-SEP-1999 | 99-05-6810A | 02
05 | MI | ST. CLAIR SHORES, CITY OF | 2601270005B | 15-SEP-1999 | 99-05-6746A | 02
05 | MI | ST. CLAIR SHORES, CITY OF | 2601270005B | 27-OCT-1999 | 99-05-6560A | 02
05 | MI | ST. CLAIR SHORES, CITY OF | 2601270005B | 01-OCT-1999 | 99-05-6590A | 02
05 | MI | ST. CLAIR SHORES, CITY OF | 2601270005B | 13-OCT-1999 | 99-05-6440A | 02
05 | MI | ST. CLAIR SHORES, CITY OF | 2601270005B | 05-NOV-1999 | 99-05-6454A | 02
05 | MI | ST. CLAIR SHORES, CITY OF | 2601270005B | 25-AUG-1999 | 99-05-5564A | 02
05 | MI | ST. CLAIR SHORES, CITY OF | 2601270005B | 04-AUG-1999 | 99-05-5528A | 02
05 | MI | ST. CLAIR SHORES, CITY OF | 2601270005B | 06-AUG-1999 | 99-05-5224A | 02
05 | MI | ST. CLAIR SHORES, CITY OF | 2601270005B | 20-AUG-1999 | 99-05-5096A | 02
05 | MI | ST. CLAIR SHORES, CITY OF | 2601270005B | 30-JUL-1999 | 99-05-4814A | 02
05 | MI | ST. CLAIR SHORES, CITY OF | 2601270005B | 09-JUL-1999 | 99-05-4728A | 02
05 | MI | ST. CLAIR SHORES, CITY OF | 2601270005B | 23-JUL-1999 | 99-05-4660A | 02
05 | MI | ST. LOUIS, CITY OF | 2600850001B | 20-AUG-1999 | 99-05-3840A | 02
05 | MI | STERLING HEIGHTS, CITY OF | 2601280010E | 03-NOV-1999 | 99-05-5774A | 02
05 | MI | STERLING HEIGHTS, CITY OF | 2601280010E | 29-OCT-1999 | 99-05-5562A | 02
05 | MI | STERLING HEIGHTS, CITY OF | 2601280015F | 12-NOV-1999 | 99-05-7146A | 02
05 | MI | STERLING HEIGHTS, CITY OF | 2601280015F | 08-SEP-1999 | 99-05-5282A | 02
05 | MI | STERLING HEIGHTS, CITY OF | 2601280015F | 16-JUL-1999 | 99-05-3284A | 02
05 | MI | STERLING HEIGHTS, CITY OF | 2601280015F | 03-SEP-1999 | 99-05-2828A | 01
05 | MI | STERLING HEIGHTS, CITY OF | 2601280015F | 14-JUL-1999 | 99-05-2618A | 02
05 | MI | STERLING HEIGHTS, CITY OF | 2601280020E | 22-DEC-1999 | 00-05-0614A | 02
05 | MI | STERLING HEIGHTS, CITY OF | 2601280020E | 05-NOV-1999 | 99-05-7220A | 02
05 | MI | STEVENSVILLE, VILLAGE OF | 260557 | 25-AUG-1999 | 99-05-4936A | 02
05 | MI | SUMPTER, TOWNSHIP OF | 2602430010C | 13-AUG-1999 | 99-05-6002A | 02
05 | MI | SUPERIOR, TOWNSHIP OF | 2603800002B | 15-OCT-1999 | 99-05-7058A | 02
05 | MI | SWAN CREEK, TOWNSHIP OF | 26145C0125D | 30-JUL-1999 | 99-05-5100A | 02
05 | MI | TALLMADGE, TOWNSHIP OF | 2604940010B | 17-DEC-1999 | 99-05-6920A | 02
05 | MI | TAWAS CITY, CITY OF | 2601020001C | 21-JUL-1999 | 99-05-4410A | 02
05 | MI | TAYLOR, CITY OF | 2607280003A | 01-OCT-1999 | 99-05-6788A | 17
05 | MI | TAYLOR, CITY OF | 2607280003A | 20-JUL-1999 | 99-05-5418A | 02
05 | MI | THOMAS, TOWNSHIP OF | 26145C0065D | 17-DEC-1999 | 99-05-6490A | 02
05 | MI | THOMAS, TOWNSHIP OF | 26145C0070D | 08-SEP-1999 | 99-05-5836A | 02
05 | MI | THOMAS, TOWNSHIP OF | 26145C0070D | 21-JUL-1999 | 99-05-5134A | 02
05 | MI | THOMAS, TOWNSHIP OF | 26145C0125D | 29-OCT-1999 | 99-05-6388A | 02
05 | MI | THOMAS, TOWNSHIP OF | 26145C0130D | 10-SEP-1999 | 99-05-5250A | 02
05 | MI | TRAVERSE CITY, CITY OF | 2600820003B | 21-JUL-1999 | 99-05-4852A | 02
05 | MI | TROY, CITY OF | 2601800002D | 24-SEP-1999 | 99-05-5240A | 02
05 | MI | TROY, CITY OF | 2601800003E | 24-NOV-1999 | 99-05-7382A | 02
05 | MI | TROY, CITY OF | 2601800003E | 13-OCT-1999 | 99-05-6672A | 02
05 | MI | TROY, CITY OF | 2601800004E | 15-DEC-1999 | 00-05-0552A | 02
05 | MI | TROY, CITY OF | 2601800004E | 10-SEP-1999 | 99-05-6550A | 02
05 | MI | TROY, CITY OF | 2601800004E | 29-JUL-1999 | 99-05-6018A | 02
05 | MI | TROY, CITY OF | 2601800006E | 22-OCT-1999 | 99-05-4802A | 17
05 | MI | TROY, CITY OF | 2601800006E | 09-JUL-1999 | 99-05-4344A | 02
05 | MI | UNION, TOWNSHIP OF | 2608050025A | 02-JUL-1999 | 99-05-2818A | 02
05 | MI | VICTOR, TOWNSHIP OF | 2607200010B | 03-SEP-1999 | 99-05-5584A | 02
05 | MI | WATERFORD, CHARTER TOWNSHIP OF | 2602840010B | 08-DEC-1999 | 99-05-6244A | 02
05 | MI | WATERFORD, CHARTER TOWNSHIP OF | 2602840020B | 01-OCT-1999 | 99-05-6914A | 02
05 | MI | WATERFORD, CHARTER TOWNSHIP OF | 2602840020B | 01-OCT-1999 | 99-05-6632A | 02
05 | MI | WEST BLOOMFIELD, TOWNSHIP OF | 2601820012B | 10-SEP-1999 | 99-05-6272A | 02
05 | MI | WHITEHALL, CITY OF | 2601660005B | 24-SEP-1999 | 99-05-3824A | 01
05 | MI | WHITEWATER, TOWNSHIP OF | 2607940025A | 22-OCT-1999 | 99-05-7234A | 02
05 | MI | WHITEWATER, TOWNSHIP OF | 2607940025A | 03-SEP-1999 | 99-05-5288A | 02
05 | MI | WILLIAMSTON, CITY OF | 2600940001B | 08-SEP-1999 | 99-05-4172A | 17
05 | MI | WILLIAMSTOWN, TOWNSHIP OF | 2600950010A | 06-AUG-1999 | 99-05-3178A | 02
05 | MI | WOLVERINE LAKE, VILLAGE OF | 260480A | 20-AUG-1999 | 99-05-5356A | 02
05 | MI | WOLVERINE LAKE, VILLAGE OF | 260480A | 27-OCT-1999 | 99-05-4586A | 02
05 | MI | WOODHAVEN, CITY OF | 2607300005A | 15-DEC-1999 | 99-05-030P | 05
05 | MI | ZILWAUKEE, CITY OF | 26145C0085D | 10-DEC-1999 | 00-05-0108A | 02
05 | MI | ZILWAUKEE, CITY OF | 26145C0085D | 12-NOV-1999 | 99-05-6748A | 01
05 | MI | ZILWAUKEE, CITY OF | 26145C0085D | 21-JUL-1999 | 99-05-4946A | 02
05 | MI | ZILWAUKEE, CITY OF | 26145C0085D | 11-AUG-1999 | 99-05-4006A | 01
05 | MN | AITKIN COUNTY * | 2706280120C | 24-NOV-1999 | 99-05-7328A | 02
05 | MN | AITKIN COUNTY * | 2706280215C | 08-OCT-1999 | 99-05-5724A | 02
05 | MN | AITKIN COUNTY * | 2706280400C | 27-AUG-1999 | 99-05-5888A | 02
05 | MN | AITKIN COUNTY * | 2706280475B | 30-JUL-1999 | 99-05-3736A | 02
05 | MN | ANDOVER, CITY OF | 2706890015B | 03-DEC-1999 | 99-05-4974A | 02
05 | MN | ANOKA COUNTY * | 2700050025A | 15-OCT-1999 | 99-05-6446A | 02
05 | MN | ANOKA COUNTY * | 2700050050A | 22-DEC-1999 | 00-05-0800A | 02
05 | MN | ANOKA COUNTY * | 2700050050A | 06-OCT-1999 | 99-05-6312A | 02
05 | MN | ARDEN HILLS, CITY OF | 2703750002B | 22-DEC-1999 | 99-05-4878A | 02
05 | MN | AUSTIN, CITY OF | 2752280004B | 11-AUG-1999 | 99-05-4198A | 02
05 | MN | BENTON COUNTY * | 2700190050B | 24-NOV-1999 | 99-05-4528A | 02
05 | MN | BENTON COUNTY * | 2700190100C | 04-AUG-1999 | 99-05-5106A | 17
05 | MN | BLAINE, CITY OF | 2700070005C | 30-DEC-1999 | 00-05-1028A | 02
05 | MN | BLAINE, CITY OF | 2700070005C | 30-DEC-1999 | 00-05-0998A | 02
05 | MN | BLAINE, CITY OF | 2700070005C | 22-DEC-1999 | 00-05-0510A | 02
05 | MN | BLAINE, CITY OF | 2700070005C | 03-NOV-1999 | 00-05-0134A | 02
05 | MN | BLAINE, CITY OF | 2700070005C | 03-NOV-1999 | 99-05-7322A | 02
05 | MN | BLAINE, CITY OF | 2700070005C | 03-NOV-1999 | 99-05-7324A | 02
05 | MN | BLAINE, CITY OF | 2700070005C | 03-NOV-1999 | 99-05-7326A | 02
05 | MN | BLAINE, CITY OF | 2700070005C | 17-DEC-1999 | 99-05-6598A | 02
05 | MN | BLAINE, CITY OF | 2700070005C | 05-NOV-1999 | 99-05-3138A | 02
05 | MN | BLAINE, CITY OF | 2700070010C | 03-NOV-1999 | 99-05-5832A | 01
05 | MN | BLAINE, CITY OF | 2700070010C | 11-AUG-1999 | 99-05-5260A | 01
05 | MN | BLOOMINGTON, CITY OF | 2752300001B | 29-SEP-1999 | 99-05-5178A | 01
05 | MN | BLUE EARTH COUNTY * | 2752310025E | 22-JUL-1999 | 99-05-5634V | 19
05 | MN | BROOKLYN CENTER, CITY OF | 2701510003B | 22-DEC-1999 | 00-05-0472A | 02
05 | MN | BROOKLYN PARK, CITY OF | 2701520003D | 21-JUL-1999 | 99-05-4690A | 02
05 | MN | BURNSVILLE, CITY OF | 2701020002B | 29-OCT-1999 | 99-05-6848A | 02
05 | MN | CENTERVILLE, CITY OF | 2700080001C | 17-DEC-1999 | 99-05-6652A | 02
05 | MN | CENTERVILLE, CITY OF | 2700080001C | 10-SEP-1999 | 99-05-5742A | 02
05 | MN | CHANHASSEN, CITY OF | 2700510005B | 16-JUL-1999 | 99-05-4288A | 02
05 | MN | CHISAGO COUNTY * | 2706820150C | 14-JUL-1999 | 99-05-4684A | 02
05 | MN | CHISAGO COUNTY * | 2706820175C | 11-AUG-1999 | 99-05-5108A | 02
05 | MN | CIRCLE PINES, CITY OF | 2700090005A | 28-SEP-1999 | 99-05-4484A | 01
05 | MN | COOK, CITY OF | 2704200001A | 04-AUG-1999 | 98-05-295P | 05
05 | MN | COON RAPIDS,CITY OF | 2700110002A | 29-DEC-1999 | 00-05-0386A | 02
05 | MN | COON RAPIDS,CITY OF | 2700110002A | 10-NOV-1999 | 99-05-6994A | 01
05 | MN | COON RAPIDS,CITY OF | 2700110002A | 12-NOV-1999 | 99-05-6634A | 02
05 | MN | COON RAPIDS,CITY OF | 2700110002A | 15-JUL-1999 | 97-05-379P | 05
05 | MN | CROSSLAKE, CITY OF | 270095B | 27-OCT-1999 | 99-05-6880A | 02
05 | MN | CROSSLAKE, CITY OF | 270095B | 24-NOV-1999 | 99-05-5898A | 02
05 | MN | CROSSLAKE, CITY OF | 270095B | 17-SEP-1999 | 99-05-5514A | 02
05 | MN | CROSSLAKE, CITY OF | 270095B | 28-JUL-1999 | 99-05-4424A | 02
05 | MN | CROW WING COUNTY * | 2700910275B | 24-NOV-1999 | 00-05-0212A | 02
05 | MN | CROW WING COUNTY * | 2700910275B | 22-OCT-1999 | 99-05-7364A | 02
05 | MN | DAKOTA COUNTY * | 2701010150B | 11-AUG-1999 | 99-05-4346A | 02
05 | MN | DAKOTA COUNTY * | 2701010175B | 12-NOV-1999 | 99-05-6878A | 02
05 | MN | DAKOTA COUNTY * | 2701010200B | 16-JUL-1999 | 99-05-2768A | 02
05 | MN | DAKOTA COUNTY * | 2701010275B | 01-SEP-1999 | 99-05-4552A | 02
05 | MN | DODGE COUNTY * | 2705480125B | 02-JUL-1999 | 99-05-3128A | 02
05 | MN | EAST BETHEL, CITY OF | 2700120010A | 15-DEC-1999 | 00-05-0598A | 02
05 | MN | EAST GRAND FORKS, CITY OF | 2752360005C | 29-OCT-1999 | 99-05-6210A | 02
05 | MN | EDEN PRAIRIE, CITY OF | 2701590005C | 07-JUL-1999 | 99-05-4636A | 02
05 | MN | EDEN PRAIRIE, CITY OF | 2701590010C | 01-DEC-1999 | 99-05-6836A | 02
05 | MN | EDEN PRAIRIE, CITY OF | 2701590010C | 28-JUL-1999 | 99-05-4820A | 02
05 | MN | EDINA, CITY OF | 2701600001B | 09-JUL-1999 | 99-05-4302A | 02
05 | MN | EDINA, CITY OF | 2701600004B | 02-JUL-1999 | 99-05-4570A | 02
05 | MN | FREEBORN COUNTY * | 2701340185B | 17-NOV-1999 | 00-05-0054A | 02
05 | MN | GOODHUE COUNTY * | 2701400125A | 22-DEC-1999 | 00-05-0880A | 02
05 | MN | GOODHUE COUNTY * | 2701400125A | 01-SEP-1999 | 99-05-6330A | 02
05 | MN | GOODVIEW, CITY OF | 2705280005B | 22-OCT-1999 | 99-05-5520A | 02
05 | MN | GREENFIELD, CITY OF | 2706730010C | 10-DEC-1999 | 99-05-5518A | 02
05 | MN | GREENFIELD, CITY OF | 2706730010C | 30-JUL-1999 | 99-05-2998A | 01
05 | MN | HAM LAKE, CITY OF | 2706740005B | 22-DEC-1999 | 00-05-0662A | 02
05 | MN | HAM LAKE, CITY OF | 2706740005B | 08-DEC-1999 | 99-05-6168A | 02
05 | MN | HAM LAKE, CITY OF | 2706740005B | 03-SEP-1999 | 99-05-5918A | 02
05 | MN | HAM LAKE, CITY OF | 2706740005B | 12-NOV-1999 | 99-05-5002A | 02
05 | MN | HUGO, CITY OF | 2705040010C | 03-DEC-1999 | 99-05-6670A | 02
05 | MN | ISANTI COUNTY * | 2701970025B | 18-AUG-1999 | 99-05-5348A | 02
05 | MN | ISANTI COUNTY * | 2701970035B | 03-DEC-1999 | 00-05-0348A | 02
05 | MN | ISANTI COUNTY * | 2701970035B | 19-NOV-1999 | 99-05-6072A | 02
05 | MN | ISANTI COUNTY * | 2701970060B | 08-DEC-1999 | 00-05-0780X | 02
05 | MN | ISANTI COUNTY * | 2701970060B | 22-DEC-1999 | 00-05-0138A | 02
05 | MN | ISANTI COUNTY * | 2701970060B | 03-SEP-1999 | 99-05-5940A | 02
05 | MN | ISANTI COUNTY * | 2701970090A | 16-JUL-1999 | 99-05-4626A | 02
05 | MN | ITASCA COUNTY * | 2702000775A | 08-DEC-1999 | 99-05-7120A | 02
05 | MN | KANABEC COUNTY * | 2702140250A | 26-OCT-1999 | 99-05-7122A | 02
05 | MN | KOOCHICHING COUNTY * | 2702330006B | 29-DEC-1999 | 00-05-0978A | 02
05 | MN | KOOCHICHING COUNTY * | 2702330006B | 19-NOV-1999 | 00-05-0448A | 02
05 | MN | KOOCHICHING COUNTY * | 2702330011B | 27-OCT-1999 | 99-05-6720A | 02
05 | MN | LE SUEUR COUNTY * | 27079C0020D | 22-JUL-1999 | 99-05-5630V | 19
05 | MN | LE SUEUR COUNTY * | 27079C0230D | 16-OCT-1999 | 99-05-231P | 05
05 | MN | LINO LAKES, CITY OF | 2700150010B | 06-OCT-1999 | 99-05-6504A | 02
05 | MN | LITTLE CANADA, CITY OF | 2703770002A | 03-DEC-1999 | 00-05-0048A | 02
05 | MN | LITTLE CANADA, CITY OF | 2703770002A | 16-JUL-1999 | 99-05-3898A | 02
05 | MN | MAPLE GROVE, CITY OF | 2701690001B | 08-DEC-1999 | 99-05-4840A | 02
05 | MN | MAPLE GROVE, CITY OF | 2701690003B | 19-NOV-1999 | 99-05-6268A | 02
05 | MN | MEDINA, CITY OF | 2701710002B | 01-DEC-1999 | 00-05-0644A | 02
05 | MN | MEEKER COUNTY * | 2702800008B | 02-JUL-1999 | 99-05-3558A | 02
05 | MN | MILACA, CITY OF | 2702890002B | 27-AUG-1999 | 99-05-3168A | 01
05 | MN | MINNETONKA, CITY OF | 2701730003C | 03-SEP-1999 | 99-05-5488A | 02
05 | MN | MINNETONKA, CITY OF | 2701730003C | 05-NOV-1999 | 99-05-3596A | 02
05 | MN | MINNETONKA, CITY OF | 2701730003C | 05-NOV-1999 | 99-05-3124A | 02
05 | MN | MINNETRISTA, CITY OF | 270175B | 08-OCT-1999 | 99-05-6038A | 02
05 | MN | MOORHEAD, CITY OF | 2752440010D | 24-SEP-1999 | 99-05-6832A | 02
05 | MN | MORRISON COUNTY * | 2706170290B | 20-OCT-1999 | 99-05-6228A | 02
05 | MN | NEWPORT, CITY OF | 2705100001B | 01-SEP-1999 | 99-05-5248A | 02
05 | MN | PINE COUNTY * | 2707040340B | 22-DEC-1999 | 00-05-0564A | 02
05 | MN | POLK COUNTY * | 2705030175B | 27-AUG-1999 | 99-05-5314A | 02
05 | MN | PRIOR LAKE, CITY OF | 2704320002C | 16-JUL-1999 | 99-05-4700A | 01
05 | MN | PRIOR LAKE, CITY OF | 2704320002C | 22-SEP-1999 | 99-05-4120A | 01
05 | MN | PRIOR LAKE, CITY OF | 2704320003C | 27-OCT-1999 | 99-05-6910A | 02
05 | MN | RICE COUNTY * | 2706460025C | 05-NOV-1999 | 99-05-6820A | 02
05 | MN | RICE COUNTY * | 2706460025C | 25-AUG-1999 | 99-05-5660A | 02
05 | MN | RICE COUNTY * | 2706460025C | 07-SEP-1999 | 99-05-5360A | 02
05 | MN | RICE COUNTY * | 2706460025C | 14-JUL-1999 | 99-05-5196A | 02
05 | MN | RICE COUNTY * | 2706460025C | 02-JUL-1999 | 99-05-4550A | 02
05 | MN | ROBBINSDALE, CITY OF | 2701810001B | 20-AUG-1999 | 99-05-4736A | 02
05 | MN | ROCHESTER, CITY OF | 27109C0144E | 12-NOV-1999 | 99-05-7044A | 01
05 | MN | ROCHESTER, CITY OF | 27109C0161E | 14-JUL-1999 | 99-05-5156A | 02
05 | MN | ROCHESTER, CITY OF | 27109C0301E | 15-OCT-1999 | 99-05-5756A | 01
05 | MN | SCOTT COUNTY* | 2704280100C | 15-DEC-1999 | 00-05-0424A | 02
05 | MN | SHERBURNE COUNTY * | 2704350050C | 12-NOV-1999 | 99-05-7192A | 02
05 | MN | SHERBURNE COUNTY * | 2704350050C | 22-SEP-1999 | 99-05-5958A | 02
05 | MN | SHERBURNE COUNTY * | 2704350050C | 27-AUG-1999 | 99-05-5154A | 02
05 | MN | SHERBURNE COUNTY * | 2704350065C | 04-AUG-1999 | 99-05-3740A | 02
05 | MN | ST. FRANCIS, CITY OF | 2700170010B | 03-DEC-1999 | 99-05-7198A | 02
05 | MN | ST. LOUIS COUNTY * | 2704160200C | 01-OCT-1999 | 99-05-5580A | 02
05 | MN | ST. LOUIS COUNTY * | 2704160575C | 02-JUL-1999 | 99-05-2966A | 02
05 | MN | ST. LOUIS COUNTY * | 2704161395C | 12-NOV-1999 | 99-05-3244A | 02
05 | MN | ST. LOUIS COUNTY * | 2704161475C | 15-DEC-1999 | 99-05-6482A | 02
05 | MN | ST. LOUIS PARK, CITY OF | 2701840005B | 19-NOV-1999 | 99-05-6936A | 02
05 | MN | STEARNS COUNTY* | 2705460025A | 30-DEC-1999 | 00-05-1004A | 01
05 | MN | STEARNS COUNTY* | 2705460270B | 10-SEP-1999 | 99-05-5424A | 02
05 | MN | STEARNS COUNTY* | 2705460270B | 22-SEP-1999 | 99-05-5368A | 02
05 | MN | WADENA COUNTY* | 2706370400B | 03-DEC-1999 | 99-05-7334A | 02
05 | MN | WASECA COUNTY * | 270647B | 01-OCT-1999 | 99-05-6610A | 02
05 | MN | WASHINGTON COUNTY * | 2704990025B | 15-DEC-1999 | 00-05-0404A | 02
05 | MN | WASHINGTON COUNTY * | 2704990025B | 05-NOV-1999 | 00-05-0200A | 02
05 | MN | WASHINGTON COUNTY * | 2704990025B | 15-OCT-1999 | 99-05-6928A | 02
05 | MN | WASHINGTON COUNTY * | 2704990025B | 03-SEP-1999 | 99-05-6404A | 02
05 | MN | WASHINGTON COUNTY * | 2704990025B | 16-JUL-1999 | 99-05-4476A | 02
05 | MN | WASHINGTON COUNTY * | 2704990125B | 15-OCT-1999 | 99-05-5728A | 02
05 | MN | WATERVILLE, CITY OF | 27079C0427D | 03-DEC-1999 | 00-05-0368A | 02
05 | MN | WATERVILLE, CITY OF | 27079C0427D | 22-JUL-1999 | 99-05-5632V | 19
05 | MN | WHITE BEAR,TOWNSHIP OF | 2706880005B | 03-NOV-1999 | 00-05-0118A | 02
05 | MN | WHITE BEAR,TOWNSHIP OF | 2706880005B | 01-DEC-1999 | 99-05-6854A | 02
05 | MN | WHITE BEAR,TOWNSHIP OF | 2706880005B | 05-NOV-1999 | 99-05-6576A | 02
05 | MN | WHITE BEAR,TOWNSHIP OF | 2706880005B | 13-OCT-1999 | 99-05-6520A | 02
05 | MN | WHITE BEAR,TOWNSHIP OF | 2706880005B | 08-OCT-1999 | 99-05-6470A | 02
05 | MN | WHITE BEAR,TOWNSHIP OF | 2706880005B | 06-OCT-1999 | 99-05-4182A | 02
05 | MN | WHITE BEAR,TOWNSHIP OF | 2706880010B | 20-OCT-1999 | 99-05-2842A | 02
05 | MN | WINDOM, CITY OF | 2700900001C | 28-JUL-1999 | 99-05-2816A | 17
05 | MN | WINONA COUNTY * | 2705250086C | 03-DEC-1999 | 99-05-7270A | 02
05 | MN | WINONA COUNTY * | 2705250086C | 08-DEC-1999 | 99-05-7272A | 02
05 | MN | WRIGHT COUNTY * | 2705340009B | 29-DEC-1999 | 00-05-0684A | 02
05 | MN | WRIGHT COUNTY * | 2705340033B | 29-OCT-1999 | 99-05-6702A | 02
05 | MN | WRIGHT COUNTY * | 2705340033B | 18-AUG-1999 | 99-05-5500A | 02
05 | OH | ADAMS COUNTY * | 3900010008A | 15-OCT-1999 | 99-05-3362A | 02
05 | OH | AKRON, CITY OF | 3905230020B | 07-JUL-1999 | 99-05-029P | 05
05 | OH | ARCANUM, VILLAGE OF | 3906840001B | 20-OCT-1999 | 99-05-6158A | 02
05 | OH | ASHLAND COUNTY | 3907590005B | 24-SEP-1999 | 99-05-5708A | 02
05 | OH | AUGLAIZE COUNTY * | 39011C0080C | 24-SEP-1999 | 99-05-6814A | 02
05 | OH | AUGLAIZE COUNTY * | 39011C0090C | 05-NOV-1999 | 99-05-7292A | 02
05 | OH | AVON LAKE, CITY OF | 3906020002B | 19-NOV-1999 | 99-05-5624A | 02
05 | OH | AVON LAKE, CITY OF | 3906020002B | 19-NOV-1999 | 99-05-878A | 02
05 | OH | BALTIMORE, VILLAGE OF | 3901590001B | 10-NOV-1999 | 00-05-0350A | 02
05 | OH | BEXLEY, CITY OF | 39049C0255G | 10-DEC-1999 | 99-05-6074A | 01
05 | OH | BRUNSWICK, CITY OF | 3903800001B | 28-JUL-1999 | 99-05-2096A | 02
05 | OH | BUTLER COUNTY * | 3900370040C | 06-JUL-1999 | 99-05-4968A | 02
05 | OH | BUTLER COUNTY * | 3900370060B | 15-OCT-1999 | 99-05-6292A | 02
05 | OH | BUTLER COUNTY * | 3900370070C | 15-SEP-1999 | 99-05-5986A | 02
05 | OH | BUTLER COUNTY * | 3900370070C | 29-SEP-1999 | 99-05-5908A | 02
05 | OH | CANAL FULTON, VILLAGE OF | 3905110001B | 08-DEC-1999 | 99-05-6478A | 01
05 | OH | CARROLL COUNTY * | 3907630075B | 10-DEC-1999 | 99-05-7082A | 02
05 | OH | CINCINNATI, CITY OF | 3902100027B | 08-SEP-1999 | 99-05-4670A | 02
05 | OH | CLARK COUNTY* | 3907320180A | 23-JUL-1999 | 99-05-4590A | 02
05 | OH | CLARK COUNTY* | 3907320200A | 06-OCT-1999 | 99-05-5408A | 02
05 | OH | COLUMBUS, CITY OF | 39049C0158G | 13-OCT-1999 | 99-05-6338A | 01
05 | OH | COLUMBUS, CITY OF | 39049C0227G | 20-OCT-1999 | 99-05-7288A | 02
05 | OH | COLUMBUS, CITY OF | 39049C0229G | 27-OCT-1999 | 99-05-6150A | 02
05 | OH | COLUMBUS, CITY OF | 39049C0270G | 24-SEP-1999 | 99-05-4338A | 02
05 | OH | COLUMBUS, CITY OF | 39049C0290G | 06-AUG-1999 | 99-05-5858A | 01
05 | OH | COLUMBUS, CITY OF | 39049C0290G | 16-JUL-1999 | 99-05-3968A | 01
05 | OH | CUYAHOGA FALLS, CITY OF | 3905260005B | 12-AUG-1999 | 99-05-6424A | 02
05 | OH | DARKE COUNTY * | 3901370130C | 14-JUL-1999 | 99-05-3176A | 02
05 | OH | DAYTON, CITY OF | 3904090010C | 10-NOV-1999 | 99-05-6548A | 01
05 | OH | DELAWARE COUNTY * | 39041C0165J | 23-JUL-1999 | 99-05-4668A | 01
05 | OH | DELAWARE COUNTY * | 39041C0216J | 24-SEP-1999 | 99-05-6392A | 01
05 | OH | DELAWARE, CITY OF | 39041C0105J | 01-SEP-1999 | 99-05-4744A | 01
05 | OH | DUBLIN, CITY OF | 39041C0195J | 05-NOV-1999 | 99-05-5270A | 01
05 | OH | DUBLIN, CITY OF | 39049C0018H | 29-SEP-1999 | 99-05-3100A | 01
05 | OH | DUBLIN, CITY OF | 39049C0019G | 04-AUG-1999 | 99-05-1506A | 02
05 | OH | DUBLIN, CITY OF | 39049C0106G | 11-AUG-1999 | 99-05-4966A | 02
05 | OH | DUBLIN, CITY OF | 39049C0107G | 24-NOV-1999 | 99-05-4774A | 01
05 | OH | ELYRIA, CITY OF | 3903500010B | 30-JUL-1999 | 98-05-5360A | 02
05 | OH | FAIRFIELD COUNTY * | 3901580020D | 27-OCT-1999 | 99-05-7090A | 02
05 | OH | FAIRFIELD COUNTY * | 3901580055D | 25-AUG-1999 | 99-05-5870A | 02
05 | OH | FAIRFIELD, CITY OF | 3900380005B | 21-JUL-1999 | 99-05-3638A | 02
05 | OH | FINDLAY, CITY | 3902440004B | 23-JUL-1999 | 99-05-5228A | 02
05 | OH | FINDLAY, CITY | 3902440004B | 28-JUL-1999 | 99-05-5090A | 02
05 | OH | FINDLAY, CITY | 3902440005C | 08-DEC-1999 | 00-05-0060A | 02
05 | OH | FINDLAY, CITY | 3902440005C | 01-SEP-1999 | 99-05-6284A | 02
05 | OH | FINDLAY, CITY | 3902440005C | 27-AUG-1999 | 99-05-5768A | 02
05 | OH | FINDLAY, CITY | 3902440005C | 02-JUL-1999 | 99-05-4534A | 02
05 | OH | FINDLAY, CITY | 3902440009B | 13-AUG-1999 | 99-05-4610A | 01
05 | OH | FINDLAY, CITY | 3907670080B | 19-NOV-1999 | 99-05-7124A | 01
05 | OH | FINDLAY, CITY | 3907670080B | 03-NOV-1999 | 99-05-5952A | 01
05 | OH | FINDLAY, CITY | 3907670080B | 12-AUG-1999 | 99-05-4226A | 01
05 | OH | FORT JENNINGS, VILLAGE OF | 390468B | 16-DEC-1999 | 00-05-0770X | 02
05 | OH | FORT JENNINGS, VILLAGE OF | 390468B | 22-SEP-1999 | 99-05-5144A | 02
05 | OH | FORT JENNINGS, VILLAGE OF | 390468B | 22-SEP-1999 | 99-05-5082A | 02
05 | OH | FORT JENNINGS, VILLAGE OF | 390468B | 22-SEP-1999 | 99-05-5080A | 02
05 | OH | FRANKLIN COUNTY* | 39049C0277G | 12-NOV-1999 | 99-05-6980A | 02
05 | OH | FREDERICKSBURG, VILLAGE OF | 39169C0275C | 12-NOV-1999 | 99-05-2974A | 02
05 | OH | GAHANNA, CITY OF | 39049C0186G | 06-AUG-1999 | 99-05-5796A | 02
05 | OH | GAHANNA, CITY OF | 39049C0188G | 10-AUG-1999 | 99-05-163P | 05
05 | OH | GROVE CITY, CITY OF | 39049C0238G | 26-OCT-1999 | 99-05-183P | 05
05 | OH | GUERNSEY COUNTY * | 39059C0206C | 04-AUG-1999 | 99-05-5148A | 02
05 | OH | HAMILTON COUNTY * | 3902040040C | 08-DEC-1999 | 99-05-6206A | 02
05 | OH | HAMILTON COUNTY * | 3902040060B | 14-JUL-1999 | 99-05-4674A | 02
05 | OH | HARRISON, CITY OF | 3902200005C | 24-SEP-1999 | 99-05-6884A | 02
05 | OH | HIGHLAND HEIGHTS, CITY OF | 3901100001D | 08-SEP-1999 | 98-05-281P | 05
05 | OH | HILLIARD, CITY OF | 39049C0116G | 28-DEC-1999 | 00-05-1142X | 01
05 | OH | HILLIARD, CITY OF | 39049C0116G | 08-DEC-1999 | 99-05-7156A | 01
05 | OH | HILLIARD, CITY OF | 39049C0116G | 03-NOV-1999 | 99-05-6380A | 01
05 | OH | JEFFERSON COUNTY * | 3902940140C | 19-NOV-1999 | 99-05-724A | 01
05 | OH | KETTERING, CITY OF | 3904120010B | 08-SEP-1999 | 99-05-4920A | 02
05 | OH | KETTERING, CITY OF | 3904120020B | 08-SEP-1999 | 99-05-6398A | 02
05 | OH | KNOX COUNTY * | 3903060120C | 24-NOV-1999 | 99-05-5932A | 02
05 | OH | LAKE COUNTY * | 3907710014C | 29-DEC-1999 | 99-05-7102A | 02
05 | OH | LANCASTER, CITY OF | 3901610003D | 15-OCT-1999 | 99-05-6278A | 02
05 | OH | LANCASTER, CITY OF | 3901610003D | 10-SEP-1999 | 99-05-5906A | 02
05 | OH | LANCASTER, CITY OF | 3901610003D | 23-JUL-1999 | 99-05-5242A | 02
05 | OH | LICKING COUNTY * | 3903280125B | 19-OCT-1999 | 99-05-095P | 05
05 | OH | LOGAN COUNTY * | 3907720025C | 29-OCT-1999 | 99-05-6696A | 02
05 | OH | LORAIN COUNTY* | 3903460150B | 18-AUG-1999 | 99-05-5384A | 02
05 | OH | LORAIN COUNTY* | 3903460150B | 18-AUG-1999 | 99-05-4858A | 02
05 | OH | LUCAS COUNTY* | 3903590015B | 01-DEC-1999 | 00-05-0768X | 01
05 | OH | LUCAS COUNTY* | 3903590015B | 01-OCT-1999 | 99-05-6868A | 02
05 | OH | LUCAS COUNTY* | 3903590015B | 13-OCT-1999 | 99-05-6870A | 02
05 | OH | LUCAS COUNTY* | 3903590015B | 29-OCT-1999 | 99-05-6552A | 01
05 | OH | LUCAS COUNTY* | 3903590050B | 27-OCT-1999 | 99-05-6378A | 02
05 | OH | LUCAS COUNTY* | 3903590050B | 29-SEP-1999 | 99-05-6842A | 02
05 | OH | LUCAS COUNTY* | 3903590065B | 29-SEP-1999 | 99-05-6488A | 02
05 | OH | MAUMEE, CITY OF | 3903600005B | 24-NOV-1999 | 99-05-4810A | 02
05 | OH | MEDINA COUNTY * | 3903780005B | 10-SEP-1999 | 99-05-215P | 06
05 | OH | MEDINA COUNTY * | 3903780005B | 13-AUG-1999 | 99-05-4180A | 02
05 | OH | MERCER COUNTY * | 3903920100B | 10-DEC-1999 | 00-05-0686A | 02
05 | OH | MERCER COUNTY * | 3903920100B | 08-DEC-1999 | 00-05-0044A | 02
05 | OH | MERCER COUNTY * | 3903920100B | 20-OCT-1999 | 99-05-7276A | 02
05 | OH | MERCER COUNTY * | 3903920100B | 22-OCT-1999 | 99-05-7278A | 02
05 | OH | MERCER COUNTY * | 3903920100B | 29-DEC-1999 | 99-05-6992A | 02
05 | OH | MERCER COUNTY * | 3903920100B | 10-NOV-1999 | 99-05-6698A | 02
05 | OH | MERCER COUNTY * | 3903920100B | 08-SEP-1999 | 99-05-6546A | 02
05 | OH | MERCER COUNTY * | 3903920100B | 29-DEC-1999 | 99-05-6462A | 01
05 | OH | MERCER COUNTY * | 3903920100B | 10-SEP-1999 | 99-05-6124A | 02
05 | OH | MERCER COUNTY * | 3903920100B | 24-SEP-1999 | 99-05-6066A | 02
05 | OH | MERCER COUNTY * | 3903920100B | 16-JUL-1999 | 99-05-3396A | 02
05 | OH | MIAMI COUNTY * | 3903980075C | 22-DEC-1999 | 00-05-1006A | 02
05 | OH | MIAMI COUNTY * | 3903980090B | 24-SEP-1999 | 99-05-6556A | 02
05 | OH | MIAMI COUNTY * | 3903980090B | 22-SEP-1999 | 99-05-4164A | 02
05 | OH | MIAMI COUNTY * | 3903980090B | 20-AUG-1999 | 99-05-4108A | 02
05 | OH | MIAMI COUNTY * | 3903980110C | 04-AUG-1999 | 99-05-4652A | 02
05 | OH | MIAMISBURG, CITY OF | 3904130005C | 01-OCT-1999 | 99-05-3586A | 02
05 | OH | MONTGOMERY COUNTY * | 3907750035C | 09-JUL-1999 | 99-05-3216A | 17
05 | OH | MONTGOMERY COUNTY * | 3907750035C | 30-JUL-1999 | 99-05-3224A | 01
05 | OH | MONTGOMERY COUNTY * | 3907750040C | 16-DEC-1999 | 00-05-0916A | 02
05 | OH | MONTGOMERY COUNTY * | 3907750040C | 15-OCT-1999 | 99-05-5174A | 02
05 | OH | MONTGOMERY COUNTY * | 3907750040C | 09-DEC-1999 | 99-05-097P | 05
05 | OH | NEW KNOXVILLE, VILLAGE OF | 39011C0095C | 20-OCT-1999 | 99-05-5770A | 02
05 | OH | NEW RICHMOND, VILLAGE OF | 3900710005C | 04-AUG-1999 | 99-05-5088A | 02
05 | OH | NEWARK,CITY OF | 3903350015E | 01-DEC-1999 | 99-05-6016A | 02
05 | OH | NEWARK,CITY OF | 3903350015E | 19-OCT-1999 | 99-05-095P | 05
05 | OH | NORTH CANTON, CITY OF | 3905210003B | 03-DEC-1999 | 00-05-0786X | 02
05 | OH | NORTH CANTON, CITY OF | 3905210003B | 20-AUG-1999 | 99-05-5436A | 02
05 | OH | OLMSTED FALLS, CITY OF | 3906720001B | 03-DEC-1999 | 00-05-0040A | 02
05 | OH | OLMSTED FALLS, CITY OF | 3906720001B | 15-OCT-1999 | 99-05-5012A | 02
05 | OH | OTTAWA COUNTY * | 3904320050B | 27-AUG-1999 | 99-05-5592A | 02
05 | OH | OTTAWA COUNTY * | 3904320200B | 09-JUL-1999 | 99-05-4094A | 01
05 | OH | PORTAGE COUNTY* | 390453C | 18-AUG-1999 | 99-05-5914A | 02
05 | OH | PORTAGE COUNTY* | 390453C | 18-AUG-1999 | 99-05-3910A | 02
05 | OH | PREBLE COUNTY * | 3904600015B | 09-NOV-1999 | 00-05-0166A | 02
05 | OH | PUTNAM COUNTY * | 3904650040B | 08-DEC-1999 | 99-05-6612A | 02
05 | OH | PUTNAM COUNTY * | 3904650100B | 15-DEC-1999 | 00-05-0540A | 02
05 | OH | PUTNAM COUNTY * | 3904650100B | 03-DEC-1999 | 00-05-0542A | 02
05 | OH | PUTNAM COUNTY * | 3904650100B | 08-OCT-1999 | 99-05-5366A | 02
05 | OH | REYNOLDSBURG, CITY OF | 39049C0283G | 30-DEC-1999 | 00-05-0376A | 02
05 | OH | RICHLAND COUNTY* | 3904760060B | 27-AUG-1999 | 99-05-2930A | 01
05 | OH | ROCKY RIVER, CITY OF | 3953720003B | 29-OCT-1999 | 99-05-5930A | 02
05 | OH | ROSS COUNTY * | 3904800125B | 24-SEP-1999 | 99-05-4216A | 17
05 | OH | RUSSIA, VILLAGE OF | 3908800001A | 29-OCT-1999 | 99-05-5340A | 02
05 | OH | SANDUSKY COUNTY * | 3904860100B | 13-AUG-1999 | 99-05-3292A | 02
05 | OH | SANDUSKY COUNTY * | 3904860115B | 22-DEC-1999 | 00-05-0410A | 02
05 | OH | SANDUSKY COUNTY * | 3904860200B | 10-SEP-1999 | 99-05-6566A | 02
05 | OH | SANDUSKY COUNTY * | 3904860250B | 22-SEP-1999 | 99-05-5234A | 02
05 | OH | SENECA COUNTY * | 3907790025B | 16-JUL-1999 | 99-05-3814A | 02
05 | OH | SENECA COUNTY * | 3907790085B | 15-JUL-1999 | 99-05-5860A | 02
05 | OH | SENECA COUNTY * | 3907790085B | 05-NOV-1999 | 99-05-5176A | 02
05 | OH | SENECA COUNTY * | 3907790085B | 09-JUL-1999 | 99-05-3844A | 02
05 | OH | SHADYSIDE, VILLAGE OF | 3900310005D | 13-OCT-1999 | 99-05-6098A | 02
05 | OH | SHELBY COUNTY * | 3905030070C | 14-JUL-1999 | 99-05-5308A | 02
05 | OH | SHELBY COUNTY * | 3905030060C | 13-AUG-1999 | 99-05-4764A | 01
05 | OH | SOLON, CITY OF | 3901300001B | 22-JUL-1999 | 99-05-5636V | 19
05 | OH | ST. MARYS, CITY OF | 39011C0080C | 09-JUL-1999 | 99-05-5024A | 02
05 | OH | STARK COUNTY* | 3907800036B | 15-OCT-1999 | 99-05-6648A | 02
05 | OH | STARK COUNTY* | 3907800110B | 15-OCT-1999 | 99-05-4526A | 02
05 | OH | STOW, CITY OF | 3905320005B | 01-DEC-1999 | 99-05-7016A | 02
05 | OH | TOLEDO, CITY OF | 3953730005A | 15-OCT-1999 | 99-05-6456A | 02
05 | OH | TOLEDO, CITY OF | 3953730005A | 29-OCT-1999 | 99-05-6250A | 02
05 | OH | TOLEDO, CITY OF | 3953730005A | 08-OCT-1999 | 99-05-6248A | 02
05 | OH | TOLEDO, CITY OF | 3953730005A | 02-JUL-1999 | 99-05-4408A | 02
05 | OH | TOLEDO, CITY OF | 3953730005A | 05-NOV-1999 | 99-05-4386A | 02
05 | OH | TOLEDO, CITY OF | 3953730010A | 17-DEC-1999 | 99-05-6722A | 02
05 | OH | TOLEDO, CITY OF | 3953730020A | 11-AUG-1999 | 99-05-5146A | 02
05 | OH | TROY, CITY OF | 3904020005B | 10-SEP-1999 | 99-05-5982A | 02
05 | OH | TWINSBURG, CITY OF | 3905340002C | 10-NOV-1999 | 99-05-3354A | 02
05 | OH | UNION COUNTY * | 3908080050B | 02-JUL-1999 | 99-05-4510A | 02
05 | OH | UNION COUNTY * | 3908080150B | 12-NOV-1999 | 99-05-6542A | 02
05 | OH | WALBRIDGE, VILLAGE OF | 3906350001A | 22-DEC-1999 | 99-05-3102A | 01
05 | OH | WAYNE COUNTY * | 39169C0025C | 29-SEP-1999 | 99-05-5438A | 02
05 | OH | WAYNE COUNTY * | 39169C0060C | 13-OCT-1999 | 99-05-5558A | 02
05 | OH | WAYNE COUNTY * | 39169C0075D | 01-SEP-1999 | 99-05-4768A | 01
05 | OH | WHITEHALL, CITY OF | 39049C0260G | 20-OCT-1999 | 99-05-7226A | 02
05 | OH | WILLIAMS COUNTY* | 3907850050B | 04-AUG-1999 | 99-05-5732A | 02
05 | OH | WOOD COUNTY * | 3908090105B | 15-DEC-1999 | 99-05-6708A | 02
05 | OH | YOUNGSTOWN, CITY OF | 3903730002B | 15-OCT-1999 | 99-05-6758A | 02
05 | WI | ADAMS COUNTY * | 55001C0450C | 08-DEC-1999 | 99-05-6978A | 02
05 | WI | ANTIGO, CITY OF | 555541A | 11-AUG-1999 | 99-05-4622A | 02
05 | WI | BARRON COUNTY * | 5505680185C | 24-NOV-1999 | 00-05-0298A | 02
05 | WI | BAYFIELD COUNTY * | 5505390025B | 27-OCT-1999 | 99-05-5120A | 02
05 | WI | BAYFIELD COUNTY * | 5505390026B | 04-AUG-1999 | 99-05-2436A | 02
05 | WI | BIRCHWOOD, VILLAGE OF | 550574B | 10-NOV-1999 | 99-05-3852A | 02
05 | WI | BROOKFIELD, CITY OF | 5504780005B | 16-NOV-1999 | 00-05-0576A | 02
05 | WI | BROWN COUNTY * | 5500200150B | 27-OCT-1999 | 99-05-5422A | 01
05 | WI | BURNETT COUNTY * | 5500320200B | 22-DEC-1999 | 00-05-0872A | 02
05 | WI | BURNETT COUNTY * | 5500320200B | 15-OCT-1999 | 99-05-5350A | 02
05 | WI | CECIL, VILLAGE OF | 550416B | 06-OCT-1999 | 99-05-5462A | 02
05 | WI | CHIPPEWA COUNTY * | 5555490125B | 27-AUG-1999 | 99-05-4924A | 02
05 | WI | CHIPPEWA COUNTY * | 5555490125B | 15-SEP-1999 | 99-05-3850A | 02
05 | WI | CHIPPEWA COUNTY * | 5555490250C | 26-AUG-1999 | 99-05-6668A | 02
05 | WI | CHIPPEWA COUNTY * | 5555490250C | 30-JUL-1999 | 99-05-5268A | 02
05 | WI | CHIPPEWA COUNTY * | 5555490275C | 17-NOV-1999 | 99-05-5496A | 02
05 | WI | CLARK COUNTY * | 5500480030B | 13-OCT-1999 | 99-05-5450A | 02
05 | WI | COLUMBIA COUNTY * | 5505810050C | 10-NOV-1999 | 99-05-4518A | 02
05 | WI | COLUMBIA COUNTY * | 5505810075C | 04-AUG-1999 | 99-05-5412A | 02
05 | WI | COLUMBIA COUNTY * | 5505810150C | 09-JUL-1999 | 99-05-4548A | 02
05 | WI | COLUMBIA COUNTY * | 5505810200C | 15-DEC-1999 | 00-05-0520A | 02
05 | WI | COLUMBIA COUNTY * | 5505810200C | 29-DEC-1999 | 99-05-7254A | 02
05 | WI | CUDAHY, CITY OF | 5502720001B | 20-AUG-1999 | 98-05-225A | 01
05 | WI | DANE COUNTY* | 5500770375A | 11-AUG-1999 | 99-05-5928A | 02
05 | WI | DOOR COUNTY * | 5501090150A | 09-JUL-1999 | 99-05-4872A | 02
05 | WI | DOUSMAN, VILLAGE OF | 5504800001C | 06-JUL-1999 | 98-05-6080A | 01
05 | WI | DOYLESTOWN, VILLAGE OF | 550059B | 21-JUL-1999 | 99-05-5126A | 02
05 | WI | EAU CLAIRE COUNTY * | 5555520400B | 08-JUL-1999 | 99-05-4380A | 02
05 | WI | EAU CLAIRE, CITY OF | 5501280005D | 10-DEC-1999 | 00-05-0340A | 02
05 | WI | FOND DU LAC COUNTY * | 5501310060B | 12-NOV-1999 | 99-05-5894A | 02
05 | WI | FOND DU LAC COUNTY * | 5501310070C | 11-AUG-1999 | 99-05-4462A | 01
05 | WI | FOND DU LAC COUNTY * | 5501310165B | 19-NOV-1999 | 99-05-6594A | 02
05 | WI | FOND DU LAC, CITY OF | 5501360005D | 15-DEC-1999 | 00-05-0382A | 02
05 | WI | FOND DU LAC, CITY OF | 5501360005D | 12-NOV-1999 | 99-05-6664A | 02
05 | WI | FOND DU LAC, CITY OF | 5501360005D | 10-SEP-1999 | 99-05-6396A | 02
05 | WI | FOND DU LAC, CITY OF | 5501360005D | 19-NOV-1999 | 99-05-6368A | 02
05 | WI | FOND DU LAC, CITY OF | 5501360005D | 04-AUG-1999 | 99-05-5180A | 02
05 | WI | FOND DU LAC, CITY OF | 5501360005D | 09-JUL-1999 | 99-05-3322A | 01
05 | WI | FOREST COUNTY * | 5506030006A | 03-DEC-1999 | 99-05-7032A | 02
05 | WI | FORT ATKINSON, CITY OF | 5555540002B | 10-DEC-1999 | 00-05-0708A | 02
05 | WI | GREEN BAY, CITY OF | 5500220010E | 27-OCT-1999 | 99-05-5210A | 02
05 | WI | GREENDALE, VILLAGE OF | 5502760001B | 22-OCT-1999 | 99-05-6216A | 02
05 | WI | HIXTON, VILLAGE OF | 5501870001B | 03-DEC-1999 | 99-05-5726A | 02
05 | WI | HOWARD, VILLAGE OF | 5500230005B | 21-JUL-1999 | 99-05-1262A | 01
05 | WI | IRON COUNTY* | 5501820006B | 17-DEC-1999 | 99-05-5566A | 02
05 | WI | IRON COUNTY* | 5501820008B | 06-OCT-1999 | 99-05-5570A | 02
05 | WI | IRON COUNTY* | 5501820008B | 24-SEP-1999 | 99-05-5568A | 02
05 | WI | JACKSON COUNTY * | 5505830225B | 30-DEC-1999 | 99-05-5204A | 02
05 | WI | JANESVILLE, CITY OF | 5555600005B | 22-DEC-1999 | 99-05-6528A | 02
05 | WI | JANESVILLE, CITY OF | 5555600010B | 01-DEC-1999 | 99-05-2868A | 02
05 | WI | JEFFERSON COUNTY * | 5501910075B | 17-NOV-1999 | 99-05-6230A | 17
05 | WI | KENOSHA COUNTY * | 5505230005B | 19-NOV-1999 | 99-05-6534A | 02
05 | WI | KEWASKUM, VILLAGE OF | 5504740001C | 01-DEC-1999 | 99-05-6046A | 02
05 | WI | LA CROSSE COUNTY * | 5502170120A | 28-JUL-1999 | 99-05-4710A | 02
05 | WI | LA CROSSE COUNTY * | 5502170120A | 08-DEC-1999 | 99-05-3789A | 01
05 | WI | LA CROSSE, CITY OF | 5555620008B | 22-SEP-1999 | 99-05-5904A | 02
05 | WI | LA CROSSE, CITY OF | 5555620008B | 11-AUG-1999 | 99-05-4844A | 02
05 | WI | LA CROSSE, CITY OF | 5555620008B | 09-JUL-1999 | 99-05-4842A | 02
05 | WI | LAC LA BELLE, VILLAGE OF | 5505650001B | 17-SEP-1999 | 98-05-375P | 06
05 | WI | LUCK, VILLAGE OF | 550335B | 19-NOV-1999 | 99-05-6076A | 02
05 | WI | MANITOWOC, CITY OF | 550240B | 10-NOV-1999 | 99-05-5410A | 02
05 | WI | MARATHON COUNTY * | 5502450225B | 10-SEP-1999 | 99-05-6322A | 02
05 | WI | MARATHON COUNTY * | 5502450375B | 03-SEP-1999 | 99-05-5272A | 02
05 | WI | MARATHON COUNTY * | 5502450525B | 22-OCT-1999 | 99-05-4950A | 02
05 | WI | MARINETTE COUNTY * | 5502590625B | 05-NOV-1999 | 99-05-6014A | 02
05 | WI | MARINETTE COUNTY * | 5502590625B | 01-SEP-1999 | 99-05-5948A | 02
05 | WI | MARINETTE COUNTY * | 5502590725B | 03-DEC-1999 | 99-05-5458A | 02
05 | WI | MARINETTE COUNTY * | 5502590755B | 29-OCT-1999 | 99-05-6438A | 02
05 | WI | MARINETTE COUNTY * | 5502590765B | 08-SEP-1999 | 99-05-5608A | 02
05 | WI | MARINETTE, CITY OF | 5502610001B | 16-JUL-1999 | 99-05-4486A | 02
05 | WI | MENASHA, CITY OF | 5505100005C | 30-DEC-1999 | 00-05-0066A | 02
05 | WI | MENASHA, CITY OF | 5505100005C | 01-SEP-1999 | 99-05-4994A | 02
05 | WI | MENASHA, CITY OF | 5505100005C | 09-JUL-1999 | 99-05-5022A | 02
05 | WI | MEQUON, CITY OF | 55089C0079D | 17-NOV-1999 | 99-05-6460A | 02
05 | WI | MEQUON, CITY OF | 55089C0085D | 03-SEP-1999 | 99-05-5300A | 02
05 | WI | MEQUON, CITY OF | 55089C0085D | 01-SEP-1999 | 99-05-5304A | 02
05 | WI | MILWAUKEE, CITY OF | 5502780025B | 01-DEC-1999 | 98-05-3794P | 05
05 | WI | MONONA, CITY OF | 5500880001B | 30-JUL-1999 | 99-05-1246A | 01
05 | WI | MONROE COUNTY * | 5505710130B | 04-AUG-1999 | 99-05-4020A | 02
05 | WI | MUSKEGO, CITY OF | 5504860001B | 29-OCT-1999 | 99-05-5622A | 02
05 | WI | NEENAH, CITY OF | 5505090001B | 07-DEC-1999 | 98-05-6100P | 05
05 | WI | NEW HOLSTEIN, CITY OF | 5500390001B | 03-NOV-1999 | 99-05-6196A | 01
05 | WI | OAK CREEK, CITY OF | 5502790002B | 10-NOV-1999 | 99-05-6782A | 02
05 | WI | OAK CREEK, CITY OF | 5502790002B | 11-AUG-1999 | 99-05-482A | 01
05 | WI | OCONTO COUNTY * | 5502940085A | 30-JUL-1999 | 99-05-4310A | 02
05 | WI | OCONTO COUNTY * | 5502940290A | 03-AUG-1999 | 99-05-131P | 05
05 | WI | OCONTO COUNTY * | 5502940365A | 28-JUL-1999 | 99-05-5188A | 02
05 | WI | OCONTO, CITY OF | 5502970001B | 03-AUG-1999 | 99-05-131P | 05
05 | WI | ONEIDA COUNTY * | 55085C0150B | 20-OCT-1999 | 99-05-5814A | 02
05 | WI | ONEIDA COUNTY * | 55085C0200B | 13-OCT-1999 | 99-05-5198A | 02
05 | WI | OSHKOSH, CITY OF | 5505110010D | 29-OCT-1999 | 99-05-6058A | 02
05 | WI | OUTAGAMIE COUNTY * | 5503020084C | 29-OCT-1999 | 99-05-6012A | 02
05 | WI | OUTAGAMIE COUNTY * | 5503020084C | 02-JUL-1999 | 99-05-5110A | 02
05 | WI | OUTAGAMIE COUNTY * | 5503020150B | 14-JUL-1999 | 99-05-4914A | 02
05 | WI | OZAUKEE COUNTY * | 55089C0010D | 07-DEC-1999 | 00-05-0988V | 19
05 | WI | OZAUKEE COUNTY * | 55089C0056D | 29-DEC-1999 | 99-05-4426A | 01
05 | WI | OZAUKEE COUNTY * | 55089C0065D | 08-JUL-1999 | 99-05-3786A | 02
05 | WI | PORTAGE COUNTY * | 5505720150C | 08-DEC-1999 | 99-05-7074A | 02
05 | WI | PORTAGE COUNTY * | 5505720150C | 06-OCT-1999 | 99-05-6218A | 02
05 | WI | PRAIRIE DU CHIEN, CITY OF | 555573A | 01-DEC-1999 | 00-05-0396A | 02
05 | WI | RACINE COUNTY * | 5503470010B | 25-AUG-1999 | 99-05-5286A | 02
05 | WI | RACINE COUNTY * | 5503470010B | 09-JUL-1999 | 99-05-4098A | 02
05 | WI | RACINE COUNTY * | 5503470040B | 29-DEC-1999 | 99-05-6766A | 02
05 | WI | RUSK COUNTY* | 5506020245B | 29-DEC-1999 | 00-05-0604A | 02
05 | WI | SAUK COUNTY * | 5503910195B | 29-DEC-1999 | 99-05-4584A | 17
05 | WI | SAUK COUNTY * | 5503910210B | 30-DEC-1999 | 99-05-5274A | 02
05 | WI | SAUK COUNTY * | 5503910215B | 22-DEC-1999 | 99-05-6342A | 02
05 | WI | SAUKVILLE, VILLAGE OF | 55089C0055D | 07-DEC-1999 | 00-05-0990V | 19
05 | WI | SAUKVILLE, VILLAGE OF | 55089C0056D | 11-AUG-1999 | 99-05-4638A | 02
05 | WI | SAUKVILLE, VILLAGE OF | 55089C0056D | 06-AUG-1999 | 99-05-4500A | 02
05 | WI | SAWYER COUNTY * | 5505910045B | 10-DEC-1999 | 99-05-6372A | 02
05 | WI | SAWYER COUNTY * | 5505910050B | 03-NOV-1999 | 99-05-6420A | 02
05 | WI | SAWYER COUNTY * | 5505910050B | 14-JUL-1999 | 99-05-3756A | 02
05 | WI | SAWYER COUNTY * | 5505910100B | 15-OCT-1999 | 99-05-5124A | 02
05 | WI | SAWYER COUNTY * | 5505910100B | 08-JUL-1999 | 99-05-3504A | 02
05 | WI | SAWYER COUNTY * | 5505910100B | 08-JUL-1999 | 99-05-3296A | 02
05 | WI | SAWYER COUNTY * | 5505910125B | 13-AUG-1999 | 99-05-3762A | 02
05 | WI | SHAWANO COUNTY * | 5504120150B | 01-DEC-1999 | 99-05-7210A | 02
05 | WI | SHAWANO COUNTY * | 5504120150B | 10-DEC-1999 | 99-05-6732A | 02
05 | WI | SHAWANO COUNTY * | 5504120150B | 28-JUL-1999 | 99-05-4780A | 02
05 | WI | SHAWANO COUNTY * | 5504120150B | 17-SEP-1999 | 99-05-916A | 02
05 | WI | SHEBOYGAN COUNTY * | 5504240090A | 24-NOV-1999 | 99-05-6494A | 02
05 | WI | SHEBOYGAN COUNTY * | 5504240090A | 06-OCT-1999 | 99-05-5182A | 02
05 | WI | SHEBOYGAN, CITY OF | 5504300004D | 12-NOV-1999 | 99-05-6684A | 02
05 | WI | SHIOCTON, VILLAGE OF | 5503090001B | 27-OCT-1999 | 99-05-6176A | 02
05 | WI | SILVER LAKE, VILLAGE OF | 5502100005B | 04-AUG-1999 | 99-05-4916A | 02
05 | WI | SOLDIERS GROVE, VILLAGE OF | 5500740001C | 30-DEC-1999 | 99-05-6318A | 01
05 | WI | ST. CROIX COUNTY * | 555578B | 06-AUG-1999 | 99-05-5750A | 02
05 | WI | STURGEON BAY, CITY OF | 5501110005B | 10-DEC-1999 | 99-05-7088A | 02
05 | WI | STURGEON BAY, CITY OF | 5501110005B | 27-AUG-1999 | 99-05-5218C | 01
05 | WI | WALPACA COUNTY* | 5504920115A | 06-OCT-1999 | 99-05-6062A | 02
05 | WI | WALWORTH COUNTY * | 5504620135B | 05-NOV-1999 | 99-05-5200A | 02
05 | WI | WASHBURN COUNTY* | 5506060025B | 29-SEP-1999 | 99-05-6706A | 02
05 | WI | WASHBURN COUNTY* | 5506060075B | 02-JUL-1999 | 99-05-5004A | 02
05 | WI | WASHBURN COUNTY* | 5506060150B | 27-OCT-1999 | 99-05-6518A | 02
05 | WI | WASHBURN COUNTY* | 5506060200B | 17-NOV-1999 | 99-05-5980A | 02
05 | WI | WASHBURN COUNTY* | 5506060200B | 28-JUL-1999 | 99-05-4676A | 02
05 | WI | WASHINGTON COUNTY * | 5504710010B | 08-DEC-1999 | 99-05-6450A | 02
05 | WI | WASHINGTON COUNTY * | 5504710020B | 01-OCT-1999 | 99-05-6718A | 02
05 | WI | WASHINGTON COUNTY * | 5504710045B | 08-DEC-1999 | 99-05-7188A | 01
05 | WI | WAUKESHA COUNTY* | 5504760020B | 24-NOV-1999 | 99-05-6768A | 02
05 | WI | WAUKESHA COUNTY* | 5504760020B | 20-OCT-1999 | 99-05-5578A | 17
05 | WI | WAUKESHA COUNTY* | 5504760030B | 23-JUL-1999 | 99-05-5192A | 02
05 | WI | WAUKESHA COUNTY* | 5504760065B | 10-NOV-1999 | 99-05-5576A | 02
05 | WI | WAUPUN, CITY OF | 5501080001E | 03-NOV-1999 | 99-05-6988A | 02
05 | WI | WAUPUN, CITY OF | 5501080001E | 29-OCT-1999 | 99-05-5190A | 02
05 | WI | WAUWATOSA, CITY OF | 5502840005B | 30-DEC-1999 | 00-05-0394A | 02
05 | WI | WAUWATOSA, CITY OF | 5502840005B | 08-DEC-1999 | 99-05-6120A | 02
05 | WI | WINNEBAGO COUNTY * | 5505370025C | 23-JUL-1999 | 99-05-5130A | 02
05 | WI | WINNEBAGO COUNTY * | 5505370050C | 12-NOV-1999 | 99-05-7190A | 02
05 | WI | WINNEBAGO COUNTY * | 5505370100C | 22-DEC-1999 | 99-05-5896A | 02
05 | WI | WINNEBAGO COUNTY * | 5505370100C | 01-SEP-1999 | 99-05-5492A | 02
05 | WI | WISCONSIN RAPIDS, CITY OF | 55141C0315E | 24-NOV-1999 | 99-05-5604A | 02
06 | AR | BENTON COUNTY | 05007C0065E | 01-SEP-1999 | 99-06-1807A | 02
06 | AR | BENTONVILLE, CITY OF | 05007C0045E | 09-AUG-1999 | 99-06-1654A | 02
06 | AR | BRYANT, CITY OF | 0503080001C | 30-SEP-1999 | 99-06-1947A | 02
06 | AR | BRYANT, CITY OF | 0503080001C | 26-OCT-1999 | 99-06-2083A | 02
06 | AR | CABOT, CITY OF | 0503090005C | 09-DEC-1999 | 00-06-087A | 01
06 | AR | CLEBURNE COUNTY | 0504240125C | 15-OCT-1999 | 99-06-1895A | 02
06 | AR | CONWAY, CITY OF | 05045C0135F | 22-NOV-1999 | 00-06-112A | 02
06 | AR | CONWAY, CITY OF | 05045C0140E | 05-AUG-1999 | 99-06-1506A | 01
06 | AR | CONWAY, CITY OF | 05045C0140E | 02-SEP-1999 | 99-06-1817A | 02
06 | AR | DARDANELLE, CITY OF | 0502330005D | 19-OCT-1999 | 99-06-1950A | 01
06 | AR | DE QUEEN, CITY OF | 050204B | 17-DEC-1999 | 99-06-2022A | 02
06 | AR | ELKINS, CITY OF | 05143C0115D | 30-DEC-1999 | 00-06-230A | 02
06 | AR | ELKINS, CITY OF | 05143C0115D | 25-OCT-1999 | 99-06-1982A | 02
06 | AR | FAULKNER COUNTY | 05045C0185F | 15-DEC-1999 | 00-06-267A | 02
06 | AR | FAULKNER COUNTY | 05045C0145F | 22-JUL-1999 | 99-06-1570A | 02
06 | AR | FAULKNER COUNTY | 05045C0135F | 15-OCT-1999 | 99-06-1707A | 02
06 | AR | FAYETTEVILLE, CITY OF | 05143C0083D | 22-JUL-1999 | 99-06-1948V | 19
06 | AR | FAYETTEVILLE, CITY OF | 05143C0084D | 22-JUL-1999 | 99-06-1948V | 19
06 | AR | FORT SMITH, CITY OF | 0550130010D | 22-NOV-1999 | 00-06-122A | 02
06 | AR | FORT SMITH, CITY OF | 0550130010D | 10-SEP-1999 | 99-06-1835A | 02
06 | AR | GARLAND COUNTY | 05051C0050C | 27-DEC-1999 | 00-06-315A | 02
06 | AR | GARLAND COUNTY | 05051C0152C | 15-JUL-1999 | 99-06-1475A | 02
06 | AR | GARLAND COUNTY | 05051C0050C | 23-AUG-1999 | 99-06-1724A | 02
06 | AR | HELENA, CITY OF | 0501680005B | 22-NOV-1999 | 99-06-1918A | 02
06 | AR | INDEPENDENCE COUNTY | 0500900300B | 19-OCT-1999 | 99-06-1906A | 01
06 | AR | JACKSONVILLE, CITY OF | 0501800010E | 01-JUL-1999 | 99-06-1453A | 02
06 | AR | JACKSONVILLE, CITY OF | 0501800010E | 27-JUL-1999 | 99-06-1491A | 02
06 | AR | JACKSONVILLE, CITY OF | 0501800010E | 12-OCT-1999 | 99-06-1842A | 01
06 | AR | JACKSONVILLE, CITY OF | 0501800005E | 29-NOV-1999 | 99-06-1865A | 01
06 | AR | JACKSONVILLE, CITY OF | 0501800010E | 19-OCT-1999 | 99-06-2036A | 02
06 | AR | JEFFERSON COUNTY | 0504400095B | 26-OCT-1999 | 00-06-004A | 02
06 | AR | JONESBORO, CITY OF | 05031C0132C | 10-SEP-1999 | 98-06-1349P | 05
06 | AR | LITTLE ROCK, CITY OF | 0501810002E | 30-DEC-1999 | 00-06-038A | 01
06 | AR | LITTLE ROCK, CITY OF | 0501810003E | 09-DEC-1999 | 00-06-228A | 02
06 | AR | LITTLE ROCK, CITY OF | 0501810006E | 13-AUG-1999 | 99-06-1613A | 01
06 | AR | LITTLE ROCK, CITY OF | 0501810002E | 30-SEP-1999 | 99-06-1693P | 05
06 | AR | LITTLE ROCK, CITY OF | 0501810006E | 22-OCT-1999 | 99-06-2079A | 02
06 | AR | LONOKE COUNTY | 0504480015B | 03-NOV-1999 | 00-06-125A | 01
06 | AR | LONOKE COUNTY | 0504480015B | 27-AUG-1999 | 99-06-1648A | 01
06 | AR | NORTH LITTLE ROCK, CITY OF | 0501820003D | 13-AUG-1999 | 99-06-1317P | 05
06 | AR | OUACHITA COUNTY | 0501610050C | 08-NOV-1999 | 00-06-067A | 02
06 | AR | PERRY COUNTY | 05105C0150B | 25-OCT-1999 | 00-06-033A | 02
06 | AR | PERRY COUNTY | 05105C0150B | 29-NOV-1999 | 00-06-158A | 02
06 | AR | PULASKI COUNTY | 0501790440C | 05-AUG-1999 | 99-06-1489A | 02
06 | AR | RANDOLPH COUNTY | 0504600003B | 23-AUG-1999 | 99-06-1523A | 02
06 | AR | SEBASTIAN COUNTY | 050462C | 02-JUL-1999 | 99-06-1439A | 02
06 | AR | SHERWOOD, CITY OF | 0502350001E | 07-JUL-1999 | 99-06-1477A | 02
06 | AR | SHERWOOD, CITY OF | 0502350002E | 19-OCT-1999 | 99-06-1717A | 02
06 | AR | SPRINGDALE, CITY OF | 05143C0017C | 22-JUL-1999 | 99-06-989A | 01
06 | AR | STUTTGART, CITY OF | 0500020005C | 25-OCT-1999 | 00-06-006A | 02
06 | AR | STUTTGART, CITY OF | 0500020005C | 06-JUL-1999 | 99-06-1472A | 02
06 | AR | VAN BUREN, CITY OF | 05033C0170G | 24-AUG-1999 | 99-06-1657V | 19
06 | AR | WASHINGTON COUNTY | 05143C0050C | 16-AUG-1999 | 99-06-1434A | 02
06 | AR | WASHINGTON COUNTY | 05143C0170C | 22-OCT-1999 | 99-06-1968A | 02
06 | AR | WEST FORK, CITY OF | 05143C0170C | 02-SEP-1999 | 99-06-1818A | 02
06 | AR | WOODRUFF COUNTY | 050468A | 29-OCT-1999 | 99-06-1858A | 02
06 | LA | ALEXANDRIA, CITY OF | 2201460015F | 08-DEC-1999 | 00-06-260A | 02
06 | LA | ALEXANDRIA, CITY OF | 2201460015F | 15-JUL-1999 | 99-06-1476A | 02
06 | LA | ALEXANDRIA, CITY OF | 2201460015F | 05-AUG-1999 | 99-06-1642A | 02
06 | LA | ALEXANDRIA, CITY OF | 2201460015F | 23-SEP-1999 | 99-06-1930A | 02
06 | LA | ALEXANDRIA, CITY OF | 2201460015F | 30-SEP-1999 | 99-06-1965A | 02
06 | LA | ALEXANDRIA, CITY OF | 2201460015F | 22-OCT-1999 | 99-06-2071A | 02
06 | LA | ALLEN PARISH | 2200090225B | 28-OCT-1999 | 00-06-028A | 02
06 | LA | ALLEN PARISH | 2200090225B | 10-SEP-1999 | 99-06-1732A | 02
06 | LA | ASCENSION PARISH | 2200130035C | 12-NOV-1999 | 00-06-095A | 02
06 | LA | ASCENSION PARISH | 2200130130D | 12-JUL-1999 | 99-06-1027A | 01
06 | LA | ASCENSION PARISH | 2200130030C | 13-AUG-1999 | 99-06-1319A | 02
06 | LA | ASCENSION PARISH | 2200130045C | 28-JUL-1999 | 99-06-1485A | 02
06 | LA | ASCENSION PARISH | 2200130025B | 24-SEP-1999 | 99-06-1540A | 02
06 | LA | ASCENSION PARISH | 2200130040B | 19-AUG-1999 | 99-06-1589A | 02
06 | LA | ASCENSION PARISH | 2200130040B | 07-SEP-1999 | 99-06-1832A | 02
06 | LA | ASCENSION PARISH | 2200130040B | 22-SEP-1999 | 99-06-1926A | 02
06 | LA | ASCENSION PARISH | 2200130025B | 30-SEP-1999 | 99-06-1962A | 02
06 | LA | ASSUMPTION PARISH | 2200170125C | 22-OCT-1999 | 99-06-2072A | 02
06 | LA | AVOYELLES PARISH | 2200190075B | 22-DEC-1999 | 00-06-151A | 02
06 | LA | AVOYELLES PARISH | 2200190075B | 30-DEC-1999 | 00-06-388A | 02
06 | LA | AVOYELLES PARISH | 2200190150B | 19-AUG-1999 | 99-06-1726A | 02
06 | LA | AVOYELLES PARISH | 2200190075B | 13-SEP-1999 | 99-06-1852A | 02
06 | LA | AVOYELLES PARISH | 2200190075B | 09-DEC-1999 | 99-06-1887A | 02
06 | LA | BOSSIER CITY, CITY OF | 2200330030C | 26-OCT-1999 | 00-06-010A | 02
06 | LA | BOSSIER CITY, CITY OF | 2200330030C | 12-NOV-1999 | 00-06-085A | 02
06 | LA | BOSSIER CITY, CITY OF | 2200330030C | 01-DEC-1999 | 00-06-259A | 02
06 | LA | BOSSIER CITY, CITY OF | 2200330030C | 21-DEC-1999 | 00-06-294A | 02
06 | LA | BOSSIER CITY, CITY OF | 2200330005C | 09-JUL-1999 | 99-06-1361A | 02
06 | LA | BOSSIER CITY, CITY OF | 2200330005C | 11-AUG-1999 | 99-06-1683A | 02
06 | LA | BOSSIER CITY, CITY OF | 2200330005C | 25-AUG-1999 | 99-06-1776A | 02
06 | LA | BOSSIER CITY, CITY OF | 2200330030C | 08-SEP-1999 | 99-06-1856A | 02
06 | LA | BOSSIER PARISH | 2200310285B | 28-OCT-1999 | 00-06-014A | 02
06 | LA | BOSSIER PARISH | 2200310285B | 08-DEC-1999 | 00-06-194A | 02
06 | LA | BOSSIER PARISH | 2200310285B | 08-DEC-1999 | 00-06-201A | 02
06 | LA | BOSSIER PARISH | 2200310285B | 01-JUL-1999 | 99-06-1424A | 02
06 | LA | BOSSIER PARISH | 2200310305B | 07-JUL-1999 | 99-06-1474A | 02
06 | LA | BOSSIER PARISH | 2200310390B | 22-JUL-1999 | 99-06-1527A | 02
06 | LA | BOSSIER PARISH | 2200310315B | 11-AUG-1999 | 99-06-1689A | 02
06 | LA | BOSSIER PARISH | 2200310285B | 16-AUG-1999 | 99-06-1709A | 02
06 | LA | BOSSIER PARISH | 2200310285B | 01-SEP-1999 | 99-06-1809A | 02
06 | LA | BOSSIER PARISH | 2200310390B | 01-SEP-1999 | 99-06-1816A | 02
06 | LA | BOSSIER PARISH | 2200310390B | 15-SEP-1999 | 99-06-1869A | 02
06 | LA | BOSSIER PARISH | 2200310315B | 17-DEC-1999 | 99-06-1997A | 02
06 | LA | BOSSIER PARISH | 2200310390B | 22-OCT-1999 | 99-06-2069A | 02
06 | LA | BROUSSARD, TOWN OF | 22055C0070G | 13-OCT-1999 | 99-06-2042A | 02
06 | LA | CALCASIEU PARISH | 2200370350C | 13-DEC-1999 | 00-06-241A | 02
06 | LA | CALCASIEU PARISH | 2200370250D | 19-JUL-1999 | 99-06-1517A | 02
06 | LA | CALCASIEU PARISH | 2200370125C | 29-JUL-1999 | 99-06-1603A | 02
06 | LA | CLAIBORNE PARISH | 2203620090B | 27-JUL-1999 | 99-06-1584A | 02
06 | LA | DUSON, TOWN OF | 22055C0040H | 08-SEP-1999 | 99-06-1562A | 02
06 | LA | EAST BATON ROUGE PARISH | 2200580110D | 12-NOV-1999 | 00-06-091A | 02
06 | LA | EAST BATON ROUGE PARISH | 2200580115D | 06-DEC-1999 | 00-06-199A | 02
06 | LA | EAST BATON ROUGE PARISH | 2200580110D | 23-AUG-1999 | 99-06-1368A | 01
06 | LA | EAST BATON ROUGE PARISH | 2200580100D | 15-JUL-1999 | 99-06-1505A | 02
06 | LA | EAST BATON ROUGE PARISH | 2200580115D | 24-AUG-1999 | 99-06-1564A | 02
06 | LA | EAST BATON ROUGE PARISH | 2200580110D | 16-NOV-1999 | 99-06-1692A | 02
06 | LA | EAST BATON ROUGE PARISH | 2200580095D | 30-SEP-1999 | 99-06-1841A | 02
06 | LA | EAST BATON ROUGE PARISH | 2200580100D | 08-NOV-1999 | 99-06-1850A | 01
06 | LA | EAST BATON ROUGE PARISH | 2200580110D | 29-NOV-1999 | 99-06-2081A | 02
06 | LA | EVANGELINE PARISH | 2200640006B | 01-JUL-1999 | 99-06-1340A | 02
06 | LA | EVANGELINE PARISH | 2200640002B | 01-SEP-1999 | 99-06-1438A | 02
06 | LA | EVANGELINE PARISH | 2200640007C | 17-SEP-1999 | 99-06-1883A | 02
06 | LA | GRANT PARISH | 2200760085C | 22-NOV-1999 | 00-06-262A | 01
06 | LA | GRANT PARISH | 2200760095C | 05-OCT-1999 | 99-06-1798A | 02
06 | LA | GREENWOOD, TOWN OF | 2202920001A | 28-OCT-1999 | 00-06-015A | 02
06 | LA | GREENWOOD, TOWN OF | 2202920001A | 22-JUL-1999 | 99-06-1528A | 02
06 | LA | HAMMOND, CITY OF | 2202080001D | 22-JUL-1999 | 99-06-1543V | 19
06 | LA | HAMMOND, CITY OF | 2202080002D | 22-JUL-1999 | 99-06-1543V | 19
06 | LA | HARAHAN, CITY OF | 22051C0040E | 05-AUG-1999 | 99-06-1515A | 02
06 | LA | IBERIA PARISH | 2200780250C | 20-DEC-1999 | 00-06-290A | 02
06 | LA | JEFFERSON PARISH | 22051C0135E | 22-NOV-1999 | 00-06-062A | 02
06 | LA | JEFFERSON PARISH | 22051C0145E | 15-DEC-1999 | 00-06-118A | 02
06 | LA | LAFAYETTE PARISH | 22055C0040H | 12-NOV-1999 | 00-06-083A | 02
06 | LA | LAFAYETTE PARISH | 22055C0065G | 12-NOV-1999 | 00-06-093A | 02
06 | LA | LAFAYETTE PARISH | 22055C0060G | 29-NOV-1999 | 00-06-165A | 02
06 | LA | LAFAYETTE PARISH | 22055C0065G | 01-DEC-1999 | 00-06-171A | 02
06 | LA | LAFAYETTE PARISH | 22055C0080G | 10-AUG-1999 | 99-06-1414A | 02
06 | LA | LAFAYETTE PARISH | 22055C0065G | 16-AUG-1999 | 99-06-1447A | 01
06 | LA | LAFAYETTE PARISH | 22055C0025G | 16-AUG-1999 | 99-06-1736A | 02
06 | LA | LAFAYETTE PARISH | 22055C0025G | 01-SEP-1999 | 99-06-1806A | 01
06 | LA | LAFAYETTE PARISH | 22055C0010G | 01-SEP-1999 | 99-06-1820A | 02
06 | LA | LAFAYETTE PARISH | 22055C0080G | 17-SEP-1999 | 99-06-1901A | 02
06 | LA | LAFAYETTE PARISH | 22055C0040H | 22-SEP-1999 | 99-06-1903A | 02
06 | LA | LAFAYETTE, CITY OF | 22055C0045G | 03-NOV-1999 | 00-06-042A | 02
06 | LA | LAFAYETTE, CITY OF | 22055C0025G | 30-SEP-1999 | 99-06-1823A | 02
06 | LA | LAFAYETTE, CITY OF | 22055C0045G | 22-SEP-1999 | 99-06-1928A | 02
06 | LA | LAFAYETTE, CITY OF | 22055C0065G | 05-OCT-1999 | 99-06-1952A | 02
06 | LA | LAFAYETTE, CITY OF | 22055C0045G | 30-SEP-1999 | 99-06-1959A | 02
06 | LA | LAFAYETTE, CITY OF | 22055C0060G | 08-DEC-1999 | 99-06-1995A | 02
06 | LA | LAFAYETTE, CITY OF | 22055C0065G | 13-OCT-1999 | 99-06-2013A | 02
06 | LA | LAFAYETTE, CITY OF | 22055C0025G | 26-OCT-1999 | 99-06-2039A | 02
06 | LA | LAKE CHARLES, CITY OF | 2200400005E | 09-JUL-1999 | 99-06-1425A | 02
06 | LA | LIVINGSTON PARISH | 2201130100B | 08-NOV-1999 | 00-06-074A | 02
06 | LA | LIVINGSTON PARISH | 2201130025B | 29-NOV-1999 | 00-06-256A | 01
06 | LA | LIVINGSTON PARISH | 2201130100B | 25-OCT-1999 | 99-06-1101A | 02
06 | LA | LIVINGSTON PARISH | 2201130100B | 19-JUL-1999 | 99-06-1436A | 02
06 | LA | LIVINGSTON PARISH | 2201130025B | 16-AUG-1999 | 99-06-1507A | 02
06 | LA | LIVINGSTON PARISH | 2201130025B | 15-NOV-1999 | 99-06-1635A | 01
06 | LA | LIVINGSTON PARISH | 2201130100B | 10-SEP-1999 | 99-06-1748A | 02
06 | LA | LIVINGSTON PARISH | 2201130025B | 22-SEP-1999 | 99-06-1794A | 02
06 | LA | LIVINGSTON PARISH | 2201130025B | 01-SEP-1999 | 99-06-1802A | 02
06 | LA | LIVINGSTON PARISH | 2201130025B | 07-SEP-1999 | 99-06-1836A | 02
06 | LA | LIVINGSTON PARISH | 2201130100B | 30-DEC-1999 | 99-06-1851A | 02
06 | LA | LIVINGSTON PARISH | 2201130100B | 30-SEP-1999 | 99-06-1949A | 02
06 | LA | LIVINGSTON PARISH | 2201130025B | 22-NOV-1999 | 99-06-2023A | 02
06 | LA | LIVINGSTON PARISH | 2201130025B | 03-NOV-1999 | 99-06-2054A | 02
06 | LA | MINDEN, CITY OF | 2202370005D | 22-OCT-1999 | 99-06-1915A | 01
06 | LA | MORSE, VILLAGE OF | 2200070001B | 26-OCT-1999 | 00-06-005A | 02
06 | LA | MORSE, VILLAGE OF | 2200070001B | 22-NOV-1999 | 00-06-041A | 02
06 | LA | NATCHITOCHES PARISH | 2201290235C | 08-NOV-1999 | 00-06-046A | 02
06 | LA | NATCHITOCHES PARISH | 2201290255C | 09-AUG-1999 | 99-06-1664A | 02
06 | LA | NATCHITOCHES PARISH | 2201290265C | 22-DEC-1999 | 99-06-2010A | 02
06 | LA | OUACHITA PARISH | 22073C0045E | 04-NOV-1999 | 00-06-054A | 02
06 | LA | OUACHITA PARISH | 22073C0050E | 08-OCT-1999 | 99-06-1996A | 01
06 | LA | PINEVILLE, CITY OF | 2201510005B | 10-SEP-1999 | 99-06-1593A | 02
06 | LA | RAPIDES PARISH | 2201450140D | 09-JUL-1999 | 99-06-1494A | 02
06 | LA | RAPIDES PARISH | 2201450175B | 01-SEP-1999 | 99-06-1712A | 02
06 | LA | SABINE PARISH | 22085C0205C | 20-DEC-1999 | 00-06-284A | 01
06 | LA | SCOTT, CITY OF | 22055C0040H | 30-JUL-1999 | 99-06-1518A | 02
06 | LA | SCOTT, CITY OF | 22055C0040H | 14-JUL-1999 | 99-06-1552A | 02
06 | LA | SCOTT, CITY OF | 22055C0040H | 22-JUL-1999 | 99-06-1571A | 02
06 | LA | SCOTT, CITY OF | 22055C0040H | 08-OCT-1999 | 99-06-2004A | 02
06 | LA | SCOTT, CITY OF | 22055C0045G | 08-OCT-1999 | 99-06-2004A | 02
06 | LA | SHREVEPORT, CITY OF | 2200360028E | 12-NOV-1999 | 00-06-092A | 02
06 | LA | SHREVEPORT, CITY OF | 2200360028E | 12-NOV-1999 | 00-06-097A | 02
06 | LA | SHREVEPORT, CITY OF | 2200360034E | 22-NOV-1999 | 00-06-103A | 02
06 | LA | SHREVEPORT, CITY OF | 2200360030E | 13-DEC-1999 | 00-06-227A | 02
06 | LA | SHREVEPORT, CITY OF | 2200360034E | 13-DEC-1999 | 00-06-231A | 02
06 | LA | SHREVEPORT, CITY OF | 2200360028E | 30-DEC-1999 | 00-06-327A | 02
06 | LA | SHREVEPORT, CITY OF | 2200360029E | 12-JUL-1999 | 99-06-1508A | 02
06 | LA | SHREVEPORT, CITY OF | 2200360034E | 12-JUL-1999 | 99-06-1520A | 02
06 | LA | SHREVEPORT, CITY OF | 2200360029E | 26-JUL-1999 | 99-06-1522A | 01
06 | LA | SHREVEPORT, CITY OF | 2200360028E | 18-AUG-1999 | 99-06-1731A | 02
06 | LA | SHREVEPORT, CITY OF | 2200360013D | 23-AUG-1999 | 99-06-1738A | 02
06 | LA | SHREVEPORT, CITY OF | 2200360028E | 25-AUG-1999 | 99-06-1782A | 02
06 | LA | SHREVEPORT, CITY OF | 2200360028E | 08-OCT-1999 | 99-06-1845A | 02
06 | LA | SHREVEPORT, CITY OF | 2200360028E | 13-SEP-1999 | 99-06-1864A | 02
06 | LA | SHREVEPORT, CITY OF | 2200360013D | 15-SEP-1999 | 99-06-1875A | 02
06 | LA | SHREVEPORT, CITY OF | 2200360033E | 19-OCT-1999 | 99-06-1886A | 02
06 | LA | SHREVEPORT, CITY OF | 2200360033E | 22-OCT-1999 | 99-06-1937A | 02
06 | LA | SHREVEPORT, CITY OF | 2200360034E | 22-NOV-1999 | 99-06-2009A | 02
06 | LA | SHREVEPORT, CITY OF | 2200360029E | 13-OCT-1999 | 99-06-2040A | 02
06 | LA | SHREVEPORT, CITY OF | 2200360028E | 13-OCT-1999 | 99-06-2041A | 02
06 | LA | SLIDELL, CITY OF | 2202040005C | 28-OCT-1999 | 00-06-013A | 02
06 | LA | SLIDELL, CITY OF | 2202040010C | 23-SEP-1999 | 99-06-1898P | 06
06 | LA | ST. LANDRY PARISH | 2201650125C | 20-DEC-1999 | 00-06-285A | 02
06 | LA | ST. LANDRY PARISH | 2201650400C | 27-AUG-1999 | 99-06-1669A | 02
06 | LA | ST. MARTIN PARISH | 2201780150B | 15-JUL-1999 | 99-06-1390A | 02
06 | LA | ST. MARTIN PARISH | 2201780175B | 11-AUG-1999 | 99-06-1513A | 02
06 | LA | ST. TAMMANY PARISH | 2252050150C | 08-DEC-1999 | 00-06-206A | 02
06 | LA | ST. TAMMANY PARISH | 2252050420E | 23-SEP-1999 | 99-06-1898P | 06
06 | LA | ST. TAMMANY PARISH | 2252050210C | 22-NOV-1999 | 99-06-2080A | 01
06 | LA | SULPHUR, CITY OF | 2200410001B | 30-JUL-1999 | 99-06-1085A | 02
06 | LA | SULPHUR, CITY OF | 2200410001C | 05-AUG-1999 | 99-06-1784A | 02
06 | LA | TANGIPAHOA PARISH | 2202060165D | 04-NOV-1999 | 00-06-059A | 02
06 | LA | TANGIPAHOA PARISH | 2202060165D | 29-NOV-1999 | 00-06-160A | 01
06 | LA | TANGIPAHOA PARISH | 2202060205D | 01-JUL-1999 | 99-06-1426A | 02
06 | LA | TANGIPAHOA PARISH | 2202060245D | 30-SEP-1999 | 99-06-1684A | 02
06 | LA | TANGIPAHOA PARISH | 2202060225D | 13-AUG-1999 | 99-06-1686A | 02
06 | LA | TANGIPAHOA PARISH | 2202060165D | 23-SEP-1999 | 99-06-1919A | 02
06 | LA | UNION PARISH | 2203590150C | 10-DEC-1999 | 00-06-008A | 02
06 | LA | UNION PARISH | 2203590105C | 23-NOV-1999 | 98-06-088V | 19
06 | LA | UNION PARISH | 2203590250C | 23-NOV-1999 | 98-06-088V | 19
06 | LA | VERNON PARISH | 2202280006B | 13-DEC-1999 | 00-06-247A | 02
06 | LA | VILLE PLATTE, TOWN OF | 2200700001C | 22-JUL-1999 | 99-06-1549A | 02
06 | LA | WALKER, TOWN OF | 2201210001A | 15-SEP-1999 | 99-06-1729A | 02
06 | LA | WEBSTER PARISH | 2203570175C | 26-JUL-1999 | 99-06-1252A | 02
06 | LA | WEBSTER PARISH | 2203570150C | 22-NOV-1999 | 99-06-1778A | 01
06 | LA | WEBSTER PARISH | 2203570200C | 22-NOV-1999 | 99-06-1778A | 01
06 | LA | WEST CARROLL PARISH | 220243B | 28-OCT-1999 | 00-06-026A | 02
06 | LA | WEST CARROLL PARISH | 220243B | 29-JUL-1999 | 99-06-1605A | 02
06 | LA | WINN PARISH | 2203690070B | 27-JUL-1999 | 99-06-1326A | 02
06 | LA | WINN PARISH | 2203690105B | 02-SEP-1999 | 99-06-1581A | 02
06 | LA | ZACHARY, CITY OF | 2200580035D | 09-JUL-1999 | 99-06-1292A | 01
06 | NM | ALBUQUERQUE, CITY OF | 35001C0128D | 29-SEP-1999 | 99-06-1803P | 05
06 | NM | ALBUQUERQUE, CITY OF | 35001C0129D | 29-SEP-1999 | 99-06-1803P | 05
06 | NM | ALBUQUERQUE, CITY OF | 35001C0136D | 29-SEP-1999 | 99-06-1803P | 05
06 | NM | ALBUQUERQUE, CITY OF | 35001C0137D | 29-SEP-1999 | 99-06-1803P | 05
06 | NM | ALBUQUERQUE, CITY OF | 35001C0357D | 19-OCT-1999 | 99-06-2051A | 02
06 | NM | ALBUQUERQUE, CITY OF | 35001C0336D | 27-SEP-1999 | 99-06-815P | 06
06 | NM | BERNALILLO COUNTY | 35001C0287D | 03-NOV-1999 | 00-06-039A | 02
06 | NM | BERNALILLO COUNTY | 35001C0343D | 06-DEC-1999 | 00-06-181A | 02
06 | NM | BERNALILLO COUNTY | 35001C0333D | 05-AUG-1999 | 99-06-1649A | 02
06 | NM | BERNALILLO, TOWN OF | 35043C0908C | 05-AUG-1999 | 99-06-1470A | 02
06 | NM | BERNALILLO, TOWN OF | 35043C0908C | 13-AUG-1999 | 99-06-1486A | 02
06 | NM | BERNALILLO, TOWN OF | 35043C0902C | 14-DEC-1999 | 99-06-575P | 05
06 | NM | BERNALILLO, TOWN OF | 35043C0904C | 14-DEC-1999 | 99-06-575P | 05
06 | NM | BERNALILLO, TOWN OF | 35043C0906C | 14-DEC-1999 | 99-06-575P | 05
06 | NM | BERNALILLO, TOWN OF | 35043C0908C | 14-DEC-1999 | 99-06-575P | 05
06 | NM | CLOVIS, CITY OF | 3500100037C | 24-AUG-1999 | 99-06-1656V | 19
06 | NM | CLOVIS, CITY OF | 3500100039C | 19-OCT-1999 | 99-06-2065A | 02
06 | NM | DONA ANA COUNTY | 35013C0925E | 29-NOV-1999 | 99-06-1961A | 01
06 | NM | LAS CRUCES, CITY OF | 35013C0613E | 04-NOV-1999 | 00-06-053A | 02
06 | NM | LAS CRUCES, CITY OF | 35013C0631E | 14-DEC-1999 | 00-06-304A | 02
06 | NM | LAS CRUCES, CITY OF | 35013C0632F | 14-JUL-1999 | 99-06-1530A | 02
06 | NM | LOS ALAMOS COUNTY | 3500350001B | 28-JUL-1999 | 99-06-1538A | 02
06 | NM | PORTALES, CITY OF | 3500540001C | 16-AUG-1999 | 99-06-1716A | 02
06 | NM | RIO RANCHO, CITY OF | 35043C0902C | 14-DEC-1999 | 99-06-575P | 05
06 | NM | RIO RANCHO, CITY OF | 35043C0904C | 14-DEC-1999 | 99-06-575P | 05
06 | NM | RIO RANCHO, CITY OF | 35043C0906C | 14-DEC-1999 | 99-06-575P | 05
06 | NM | RIO RANCHO, CITY OF | 35043C0908C | 14-DEC-1999 | 99-06-575P | 05
06 | NM | SANDOVAL COUNTY | 35043C0902C | 14-DEC-1999 | 99-06-575P | 05
06 | NM | SANDOVAL COUNTY | 35043C0904C | 14-DEC-1999 | 99-06-575P | 05
06 | NM | SANDOVAL COUNTY | 35043C0906C | 14-DEC-1999 | 99-06-575P | 05
06 | NM | SANDOVAL COUNTY | 35043C0908C | 14-DEC-1999 | 99-06-575P | 05
06 | NM | SANDOVAL COUNTY | 35043C0908C | 29-NOV-1999 | 99-06-787P | 05
06 | NM | SANTA FE, CITY OF | 3500700008B | 22-JUL-1999 | 99-06-1556A | 02
06 | NM | SILVER CITY, TOWN OF | 3500220002C | 30-SEP-1999 | 99-06-1948A | 01
06 | NM | SILVER CITY, TOWN OF | 3500220002B | 23-AUG-1999 | 99-06-792A | 01
06 | NM | VALENCIA COUNTY | 3500860185C | 22-OCT-1999 | 99-06-2061A | 02
06 | OK | BARTLESVILLE, CITY OF | 4002200009C | 13-OCT-1999 | 99-06-2030A | 02
06 | OK | BIXBY, TOWN OF | 40143C0610H | 08-DEC-1999 | 00-06-220A | 02
06 | OK | BIXBY, TOWN OF | 40143C0610H | 13-DEC-1999 | 00-06-225A | 02
06 | OK | BIXBY, TOWN OF | 40143C0610H | 10-DEC-1999 | 00-06-237A | 02
06 | OK | BIXBY, TOWN OF | 40143C0610H | 02-NOV-1999 | 99-06-1754V | 19
06 | OK | BIXBY, TOWN OF | 40143C0630H | 02-NOV-1999 | 99-06-1754V | 19
06 | OK | BIXBY, TOWN OF | 40143C0640H | 02-NOV-1999 | 99-06-1754V | 19
06 | OK | BROKEN ARROW, CITY OF | 40143C0540H | 08-DEC-1999 | 00-06-050A | 01
06 | OK | BROKEN ARROW, CITY OF | 40143C0540H | 15-DEC-1999 | 00-06-174A | 02
06 | OK | BROKEN ARROW, CITY OF | 4002360001D | 08-SEP-1999 | 99-06-1348P | 05
06 | OK | BROKEN ARROW, CITY OF | 4002360004D | 08-SEP-1999 | 99-06-1348P | 05
06 | OK | BROKEN ARROW, CITY OF | 4002360005D | 08-SEP-1999 | 99-06-1348P | 05
06 | OK | BROKEN ARROW, CITY OF | 4002360007D | 08-SEP-1999 | 99-06-1348P | 05
06 | OK | BROKEN ARROW, CITY OF | 4002360007D | 02-JUL-1999 | 99-06-1521A | 02
06 | OK | BROKEN ARROW, CITY OF | 40143C0562H | 28-SEP-1999 | 99-06-1524P | 05
06 | OK | BROKEN ARROW, CITY OF | 40143C0530H | 02-NOV-1999 | 99-06-1754V | 19
06 | OK | BROKEN ARROW, CITY OF | 40143C0534H | 02-NOV-1999 | 99-06-1754V | 19
06 | OK | BROKEN ARROW, CITY OF | 40143C0540H | 02-NOV-1999 | 99-06-1754V | 19
06 | OK | BROKEN ARROW, CITY OF | 40143C0541H | 02-NOV-1999 | 99-06-1754V | 19
06 | OK | BROKEN ARROW, CITY OF | 40143C0543H | 02-NOV-1999 | 99-06-1754V | 19
06 | OK | BROKEN ARROW, CITY OF | 40143C0544H | 02-NOV-1999 | 99-06-1754V | 19
06 | OK | BROKEN ARROW, CITY OF | 40143C0562H | 02-NOV-1999 | 99-06-1754V | 19
06 | OK | BROKEN ARROW, CITY OF | 40143C0631H | 02-NOV-1999 | 99-06-1754V | 19
06 | OK | BROKEN ARROW, CITY OF | 4002360004D | 17-SEP-1999 | 99-06-1760A | 01
06 | OK | CHICKASHA, CITY OF | 4002340002D | 05-AUG-1999 | 99-06-1534A | 02
06 | OK | CREEK COUNTY | 4004900008B | 13-OCT-1999 | 99-06-2026A | 02
06 | OK | DEL CITY, CITY OF | 4002330002D | 12-JUL-1999 | 99-06-1242A | 02
06 | OK | DEL CITY, CITY OF | 4002330002D | 15-JUL-1999 | 99-06-1533A | 02
06 | OK | DEL CITY, CITY OF | 4002330002D | 16-AUG-1999 | 99-06-1703A | 02
06 | OK | DELAWARE COUNTY | 4005020025C | 21-DEC-1999 | 00-06-299A | 02
06 | OK | DELAWARE COUNTY | 4005020075C | 22-SEP-1999 | 99-06-1391A | 02
06 | OK | DELAWARE COUNTY | 4005020050C | 16-AUG-1999 | 99-06-1704A | 02
06 | OK | DELAWARE COUNTY | 4005020025C | 22-SEP-1999 | 99-06-1916A | 02
06 | OK | DUNCAN, CITY OF | 40137C0085D | 28-OCT-1999 | 00-06-027A | 02
06 | OK | DUNCAN, CITY OF | 40137C0085D | 29-DEC-1999 | 00-06-278P | 05
06 | OK | DUNCAN, CITY OF | 40137C0095D | 29-DEC-1999 | 00-06-278P | 05
06 | OK | EDMOND, CITY OF | 4002520020B | 26-AUG-1999 | 99-06-1785A | 02
06 | OK | ENID, CITY OF | 40047C0115C | 04-NOV-1999 | 00-06-064A | 02
06 | OK | ENID, CITY OF | 40047C0115C | 28-JUL-1999 | 99-06-1600A | 02
06 | OK | ENID, CITY OF | 40047C0160C | 13-AUG-1999 | 99-06-1697A | 02
06 | OK | GARVIN COUNTY | 4004720050A | 28-JUL-1999 | 99-06-1595A | 02
06 | OK | GLENPOOL, TOWN OF | 40143C0582H | 02-NOV-1999 | 99-06-1754V | 19
06 | OK | GLENPOOL, TOWN OF | 40143C0584H | 02-NOV-1999 | 99-06-1754V | 19
06 | OK | GROVE, TOWN OF | 4003850004C | 06-DEC-1999 | 00-06-169A | 02
06 | OK | HARRAH, CITY OF | 4001400004C | 22-NOV-1999 | 00-06-123A | 02
06 | OK | HASKELL, TOWN OF | 40104C0025D | 05-AUG-1999 | 99-06-1592A | 02
06 | OK | HUGHES COUNTY | 4004670002B | 19-OCT-1999 | 00-06-029A | 02
06 | OK | HUGHES COUNTY | 4004670002B | 23-SEP-1999 | 99-06-1762A | 02
06 | OK | JENKS, CITY OF | 4002090002B | 07-JUL-1999 | 99-06-1482A | 02
06 | OK | JENKS, CITY OF | 40143C0494H | 02-NOV-1999 | 99-06-1754V | 19
06 | OK | JENKS, CITY OF | 40143C0513H | 02-NOV-1999 | 99-06-1754V | 19
06 | OK | JENKS, CITY OF | 40143C0582H | 02-NOV-1999 | 99-06-1754V | 19
06 | OK | JENKS, CITY OF | 40143C0605H | 02-NOV-1999 | 99-06-1754V | 19
06 | OK | LAWTON, CITY OF | 40031C0252C | 08-NOV-1999 | 00-06-063A | 02
06 | OK | LAWTON, CITY OF | 40031C0252C | 02-SEP-1999 | 99-06-1821A | 02
06 | OK | MAYES COUNTY | 4004580110C | 15-SEP-1999 | 99-06-1812A | 01
06 | OK | MAYES COUNTY | 4004580100C | 17-SEP-1999 | 99-06-1893A | 02
06 | OK | MIDWEST CITY, CITY OF | 4004050010E | 01-DEC-1999 | 00-06-152A | 02
06 | OK | MIDWEST CITY, CITY OF | 4004050015E | 08-DEC-1999 | 00-06-189A | 02
06 | OK | MIDWEST CITY, CITY OF | 4004050010E | 22-OCT-1999 | 99-06-2050A | 02
06 | OK | MOORE, CITY OF | 40027C0037F | 27-OCT-1999 | 00-06-022A | 02
06 | OK | MOORE, CITY OF | 40027C0039F | 24-SEP-1999 | 99-06-1399P | 05
06 | OK | MOORE, CITY OF | 40027C0037F | 01-JUL-1999 | 99-06-1430A | 02
06 | OK | MOORE, CITY OF | 40027C0037F | 08-SEP-1999 | 99-06-1728A | 02
06 | OK | MOORE, CITY OF | 40027C0037F | 02-SEP-1999 | 99-06-1825A | 02
06 | OK | MUSKOGEE COUNTY | 40101C0250D | 30-DEC-1999 | 00-06-086A | 02
06 | OK | MUSTANG, CITY OF | 4004090005A | 17-DEC-1999 | 00-06-291A | 02
06 | OK | MUSTANG, CITY OF | 4004090005A | 01-JUL-1999 | 99-06-1431A | 02
06 | OK | MUSTANG, CITY OF | 4004090005A | 19-JUL-1999 | 99-06-1532A | 02
06 | OK | MUSTANG, CITY OF | 4004090005A | 28-JUL-1999 | 99-06-1577A | 02
06 | OK | MUSTANG, CITY OF | 4004090005A | 15-SEP-1999 | 99-06-1881A | 02
06 | OK | NORMAN,CITY OF | 40027C0115F | 09-AUG-1999 | 99-06-1661A | 02
06 | OK | NORMAN,CITY OF | 40027C0095G | 23-AUG-1999 | 99-06-1749A | 02
06 | OK | NORMAN,CITY OF | 40027C0095G | 05-OCT-1999 | 99-06-1834A | 02
06 | OK | NORMAN,CITY OF | 40027C0090F | 19-OCT-1999 | 99-06-1860A | 02
06 | OK | NORMAN,CITY OF | 40027C0080F | 17-SEP-1999 | 99-06-1889A | 02
06 | OK | NORTH ENID, TOWN OF | 40047C0115C | 22-SEP-1999 | 99-06-1622A | 02
06 | OK | OKLAHOMA CITY, CITY OF | 4053780170F | 28-OCT-1999 | 00-06-020A | 02
06 | OK | OKLAHOMA CITY, CITY OF | 4053780195C | 28-OCT-1999 | 00-06-021A | 02
06 | OK | OKLAHOMA CITY, CITY OF | 4053780195C | 02-NOV-1999 | 00-06-045A | 02
06 | OK | OKLAHOMA CITY, CITY OF | 4053780130D | 04-NOV-1999 | 00-06-060A | 02
06 | OK | OKLAHOMA CITY, CITY OF | 4053780190F | 22-NOV-1999 | 00-06-098A | 02
06 | OK | OKLAHOMA CITY, CITY OF | 4053780160D | 08-DEC-1999 | 00-06-207A | 02
06 | OK | OKLAHOMA CITY, CITY OF | 4053780195C | 22-JUL-1999 | 99-06-1215A | 02
06 | OK | OKLAHOMA CITY, CITY OF | 4053780195C | 22-JUL-1999 | 99-06-1249A | 02
06 | OK | OKLAHOMA CITY, CITY OF | 4053780195C | 06-JUL-1999 | 99-06-1339A | 02
06 | OK | OKLAHOMA CITY, CITY OF | 4053780170F | 01-JUL-1999 | 99-06-1420A | 02
06 | OK | OKLAHOMA CITY, CITY OF | 4053780175F | 01-JUL-1999 | 99-06-1429A | 02
06 | OK | OKLAHOMA CITY, CITY OF | 4053780195C | 01-JUL-1999 | 99-06-1432A | 02
06 | OK | OKLAHOMA CITY, CITY OF | 4053780265D | 27-JUL-1999 | 99-06-1578A | 02
06 | OK | OKLAHOMA CITY, CITY OF | 4053780205D | 29-JUL-1999 | 99-06-1602A | 02
06 | OK | OKLAHOMA CITY, CITY OF | 4053780195C | 03-AUG-1999 | 99-06-1604A | 02
06 | OK | OKLAHOMA CITY, CITY OF | 4053780195C | 30-JUL-1999 | 99-06-1606A | 02
06 | OK | OKLAHOMA CITY, CITY OF | 4053780195C | 03-AUG-1999 | 99-06-1608A | 02
06 | OK | OKLAHOMA CITY, CITY OF | 4053780160D | 03-AUG-1999 | 99-06-1610A | 02
06 | OK | OKLAHOMA CITY, CITY OF | 4053780080C | 29-JUL-1999 | 99-06-1618A | 02
06 | OK | OKLAHOMA CITY, CITY OF | 4053780160D | 27-JUL-1999 | 99-06-1621A | 02
06 | OK | OKLAHOMA CITY, CITY OF | 4053780175F | 05-AUG-1999 | 99-06-1634A | 02
06 | OK | OKLAHOMA CITY, CITY OF | 4053780225F | 06-AUG-1999 | 99-06-1660A | 02
06 | OK | OKLAHOMA CITY, CITY OF | 4053780110C | 13-AUG-1999 | 99-06-1685A | 02
06 | OK | OKLAHOMA CITY, CITY OF | 4053780275C | 08-SEP-1999 | 99-06-1847A | 02
06 | OK | OKLAHOMA CITY, CITY OF | 4053780160D | 15-SEP-1999 | 99-06-1854A | 02
06 | OK | OKLAHOMA CITY, CITY OF | 4053780170F | 15-SEP-1999 | 99-06-1877A | 02
06 | OK | OKLAHOMA CITY, CITY OF | 4053780175F | 30-SEP-1999 | 99-06-1964A | 02
06 | OK | OKLAHOMA CITY, CITY OF | 4053780225F | 30-SEP-1999 | 99-06-1966A | 02
06 | OK | OKLAHOMA CITY, CITY OF | 4053780195C | 07-OCT-1999 | 99-06-1989A | 02
06 | OK | OKLAHOMA CITY, CITY OF | 4053780195C | 07-OCT-1999 | 99-06-1994A | 02
06 | OK | OKLAHOMA CITY, CITY OF | 4053780160D | 13-OCT-1999 | 99-06-2027A | 02
06 | OK | OKMULGEE COUNTY | 4004920120B | 23-SEP-1999 | 99-06-1931A | 02
06 | OK | OWASSO, CITY OF | 40143C0238H | 02-NOV-1999 | 99-06-1754V | 19
06 | OK | OWASSO, CITY OF | 40143C0239H | 02-NOV-1999 | 99-06-1754V | 19
06 | OK | PAWNEE, CITY OF | 4001630001C | 14-DEC-1999 | 00-06-261A | 02
06 | OK | PAWNEE, CITY OF | 4001630001C | 28-JUL-1999 | 99-06-1445A | 02
06 | OK | PITTSBURG COUNTY | 4004940004A | 20-SEP-1999 | 99-06-1713A | 02
06 | OK | POCOLA, TOWN OF | 4004320010A | 06-DEC-1999 | 00-06-170A | 02
06 | OK | PONCA CITY, CITY OF | 4000800005C | 05-AUG-1999 | 99-06-1484A | 02
06 | OK | ROGERS COUNTY | 4053790100B | 29-NOV-1999 | 00-06-144A | 02
06 | OK | ROGERS COUNTY | 4053790025B | 15-DEC-1999 | 00-06-270A | 02
06 | OK | ROGERS COUNTY | 4053790130C | 23-AUG-1999 | 99-06-1744A | 02
06 | OK | ROGERS COUNTY | 4053790105C | 02-SEP-1999 | 99-06-1811A | 02
06 | OK | ROGERS COUNTY | 4053790150B | 07-SEP-1999 | 99-06-1843A | 02
06 | OK | ROGERS COUNTY | 4053790105C | 05-OCT-1999 | 99-06-1969A | 02
06 | OK | SAND SPRINGS, CITY OF | 4002110004C | 12-JUL-1999 | 99-06-1483A | 02
06 | OK | SAND SPRINGS, CITY OF | 40143C0339H | 02-NOV-1999 | 99-06-1754V | 19
06 | OK | SAPULPA, CITY OF | 4000530005B | 03-SEP-1999 | 99-06-1416P | 06
06 | OK | SEMINOLE, CITY OF | 40133C0107C | 18-AUG-1999 | 99-06-1503A | 02
06 | OK | SHAWNEE, CITY OF | 40125C0102D | 08-DEC-1999 | 00-06-178A | 02
06 | OK | SHAWNEE, CITY OF | 40125C0101D | 13-DEC-1999 | 00-06-245A | 02
06 | OK | SHAWNEE, CITY OF | 40125C0125D | 02-JUL-1999 | 99-06-1407A | 02
06 | OK | SHAWNEE, CITY OF | 40125C0125D | 03-AUG-1999 | 99-06-1619A | 02
06 | OK | SHAWNEE, CITY OF | 40125C0101D | 07-OCT-1999 | 99-06-1977A | 02
06 | OK | SHAWNEE, CITY OF | 40125C0101D | 07-OCT-1999 | 99-06-1999A | 02
06 | OK | STILLWATER, CITY OF | 4053800005D | 28-OCT-1999 | 00-06-019A | 02
06 | OK | STILLWATER, CITY OF | 4053800004E | 06-DEC-1999 | 00-06-187A | 02
06 | OK | STILLWATER, CITY OF | 4053800001D | 06-DEC-1999 | 00-06-195A | 02
06 | OK | STILLWATER, CITY OF | 4053800004E | 22-JUL-1999 | 99-06-1357A | 02
06 | OK | STILLWATER, CITY OF | 4053800005D | 20-SEP-1999 | 99-06-1892A | 02
06 | OK | TULSA COUNTY | 40143C0114H | 15-DEC-1999 | 00-06-271A | 02
06 | OK | TULSA COUNTY | 40143C0204H | 02-NOV-1999 | 99-06-1754V | 19
06 | OK | TULSA COUNTY | 40143C0211H | 02-NOV-1999 | 99-06-1754V | 19
06 | OK | TULSA COUNTY | 40143C0320H | 02-NOV-1999 | 99-06-1754V | 19
06 | OK | TULSA COUNTY | 40143C0455H | 02-NOV-1999 | 99-06-1754V | 19
06 | OK | TULSA COUNTY | 40143C0494H | 02-NOV-1999 | 99-06-1754V | 19
06 | OK | TULSA COUNTY | 40143C0630H | 02-NOV-1999 | 99-06-1754V | 19
06 | OK | TULSA COUNTY | 40143C0632H | 02-NOV-1999 | 99-06-1754V | 19
06 | OK | TULSA COUNTY | 40143C0315H | 22-SEP-1999 | 99-06-1927A | 02
06 | OK | TULSA, CITY OF | 40143C0510H | 08-NOV-1999 | 00-06-056A | 02
06 | OK | TULSA, CITY OF | 40143C0530H | 13-DEC-1999 | 00-06-238A | 02
06 | OK | TULSA, CITY OF | 40143C0530H | 13-DEC-1999 | 00-06-239A | 02
06 | OK | TULSA, CITY OF | 4053810095E | 08-SEP-1999 | 99-06-1348P | 05
06 | OK | TULSA, CITY OF | 4053810060F | 23-AUG-1999 | 99-06-1735A | 02
06 | OK | TULSA, CITY OF | 40143C0370H | 02-NOV-1999 | 99-06-1754V | 19
06 | OK | TULSA, CITY OF | 40143C0390H | 02-NOV-1999 | 99-06-1754V | 19
06 | OK | TULSA, CITY OF | 40143C0505H | 02-NOV-1999 | 99-06-1754V | 19
06 | OK | TULSA, CITY OF | 40143C0510H | 02-NOV-1999 | 99-06-1754V | 19
06 | OK | TULSA, CITY OF | 40143C0512H | 02-NOV-1999 | 99-06-1754V | 19
06 | OK | TULSA, CITY OF | 40143C0520H | 02-NOV-1999 | 99-06-1754V | 19
06 | OK | TULSA, CITY OF | 40143C0530H | 02-NOV-1999 | 99-06-1754V | 19
06 | OK | TULSA, CITY OF | 40143C0540H | 02-NOV-1999 | 99-06-1754V | 19
06 | OK | TULSA, CITY OF | 40143C0530H | 05-OCT-1999 | 99-06-1970A | 02
06 | OK | TULSA, CITY OF | 40143C0505H | 13-OCT-1999 | 99-06-2025A | 02
06 | OK | TULSA, CITY OF | 40143C0530H | 22-OCT-1999 | 99-06-2070A | 02
06 | OK | TULSA, CITY OF | 4053810085G | 16-SEP-1999 | 99-06-879P | 05
06 | OK | TULSA, CITY OF | 4053810090F | 16-SEP-1999 | 99-06-879P | 05
06 | OK | VINITA, CITY OF | 4000500003C | 23-AUG-1999 | 99-06-1761A | 02
06 | OK | WAGONER COUNTY | 4002150012B | 22-NOV-1999 | 00-06-117A | 02
06 | OK | WAGONER COUNTY | 4002150027B | 08-DEC-1999 | 99-06-1638A | 02
06 | OK | WAGONER COUNTY | 4002150031B | 08-SEP-1999 | 99-06-1849A | 02
06 | OK | WARR ACRES, CITY OF | 4004490001A | 06-DEC-1999 | 00-06-182A | 02
06 | OK | YUKON, CITY OF | 4000280010B | 08-DEC-1999 | 00-06-202A | 02
06 | OK | YUKON, CITY OF | 4000280005B | 01-JUL-1999 | 99-06-1433A | 02
06 | TX | ABILENE, CITY OF | 4854500020D | 22-JUL-1999 | 99-06-1374A | 01
06 | TX | ABILENE, CITY OF | 4854500035D | 25-AUG-1999 | 99-06-1774A | 02
06 | TX | ABILENE, CITY OF | 4854500020D | 08-OCT-1999 | 99-06-1985A | 02
06 | TX | ALICE, CITY OF | 4803940005C | 16-NOV-1999 | 00-06-109A | 01
06 | TX | ALLEN, CITY OF | 48085C0430G | 10-NOV-1999 | 00-06-016P | 06
06 | TX | ALLEN, CITY OF | 48085C0435G | 17-AUG-1999 | 99-06-1135P | 06
06 | TX | ALLEN, CITY OF | 48085C0435G | 02-NOV-1999 | 99-06-1455P | 05
06 | TX | ALLEN, CITY OF | 48085C0435G | 23-NOV-1999 | 99-06-666P | 05
06 | TX | ARLINGTON, CITY OF | 48439C0576H | 04-NOV-1999 | 00-06-047A | 01
06 | TX | ARLINGTON, CITY OF | 48439C0463H | 03-DEC-1999 | 00-06-257P | 05
06 | TX | ARLINGTON, CITY OF | 48439C0437H | 01-JUL-1999 | 99-06-1452A | 02
06 | TX | ARLINGTON, CITY OF | 48439C0443H | 30-DEC-1999 | 99-06-1457A | 01
06 | TX | ARLINGTON, CITY OF | 48439C0336H | 27-JUL-1999 | 99-06-1480A | 02
06 | TX | ARLINGTON, CITY OF | 48439C0463H | 09-AUG-1999 | 99-06-1594A | 01
06 | TX | ARLINGTON, CITY OF | 48439C0464H | 09-AUG-1999 | 99-06-1594A | 01
06 | TX | ARLINGTON, CITY OF | 48439C0576H | 11-AUG-1999 | 99-06-1646A | 01
06 | TX | ARLINGTON, CITY OF | 48439C0463H | 25-OCT-1999 | 99-06-1705P | 05
06 | TX | ARLINGTON, CITY OF | 48439C0437H | 23-AUG-1999 | 99-06-1730A | 02
06 | TX | ARLINGTON, CITY OF | 48439C0464H | 15-SEP-1999 | 99-06-1876A | 01
06 | TX | ARLINGTON, CITY OF | 48439C0441H | 15-SEP-1999 | 99-06-1885A | 02
06 | TX | ARLINGTON, CITY OF | 48439C0463H | 08-DEC-1999 | 99-06-1951A | 02
06 | TX | ARLINGTON, CITY OF | 48439C0440H | 20-SEP-1999 | 99-06-658P | 05
06 | TX | ARLINGTON, CITY OF | 48439C0444H | 03-NOV-1999 | 99-06-890P | 05
06 | TX | AUSTIN, CITY OF | 48453C0205E | 08-DEC-1999 | 00-06-080A | 02
06 | TX | AUSTIN, CITY OF | 48453C0205E | 06-DEC-1999 | 00-06-185A | 02
06 | TX | AUSTIN, CITY OF | 48453C0160E | 03-AUG-1999 | 99-06-1629A | 02
06 | TX | AUSTIN, CITY OF | 48453C0205E | 05-AUG-1999 | 99-06-1641A | 02
06 | TX | AUSTIN, CITY OF | 48453C0170F | 30-SEP-1999 | 99-06-1720P | 06
06 | TX | AUSTIN, CITY OF | 48453C0195E | 05-OCT-1999 | 99-06-1764A | 02
06 | TX | AUSTIN, CITY OF | 48453C0205E | 19-OCT-1999 | 99-06-2067A | 02
06 | TX | BANDERA COUNTY | 4800200265A | 22-NOV-1999 | 00-06-111A | 02
06 | TX | BANDERA COUNTY | 4800200135B | 27-JUL-1999 | 99-06-764P | 05
06 | TX | BANDERA, CITY OF | 4800210001D | 27-JUL-1999 | 99-06-764P | 05
06 | TX | BASTROP COUNTY | 48021C0200C | 29-OCT-1999 | 00-06-001A | 02
06 | TX | BASTROP COUNTY | 48021C0075C | 19-OCT-1999 | 99-06-1942A | 01
06 | TX | BEXAR COUNTY | 48029C0240E | 08-DEC-1999 | 00-06-234A | 02
06 | TX | BEXAR COUNTY | 48029C0240E | 12-JUL-1999 | 99-06-1351A | 02
06 | TX | BEXAR COUNTY | 48029C0313E | 05-AUG-1999 | 99-06-1650A | 02
06 | TX | BEXAR COUNTY | 48029C0145E | 24-AUG-1999 | 99-06-1741A | 02
06 | TX | BEXAR COUNTY | 48029C0130E | 12-OCT-1999 | 99-06-1789P | 05
06 | TX | BEXAR COUNTY | 48029C0140E | 12-OCT-1999 | 99-06-1789P | 05
06 | TX | BEXAR COUNTY | 48029C0590E | 26-AUG-1999 | 99-06-1791A | 02
06 | TX | BEXAR COUNTY | 48029C0252E | 09-AUG-1999 | 99-06-292P | 05
06 | TX | BEXAR COUNTY | 48029C0254E | 09-AUG-1999 | 99-06-292P | 05
06 | TX | BEXAR COUNTY | 48029C0258E | 09-AUG-1999 | 99-06-292P | 05
06 | TX | BEXAR COUNTY | 48029C0262E | 09-AUG-1999 | 99-06-292P | 05
06 | TX | BEXAR COUNTY | 48029C0266E | 09-AUG-1999 | 99-06-292P | 05
06 | TX | BEXAR COUNTY | 48029C0268E | 09-AUG-1999 | 99-06-292P | 05
06 | TX | BEXAR COUNTY | 48029C0269E | 09-AUG-1999 | 99-06-292P | 05
06 | TX | BEXAR COUNTY | 48029C0314E | 15-DEC-1999 | 99-06-653A | 02
06 | TX | BRAZORIA COUNTY | 48039C0010I | 30-SEP-1999 | 99-06-1751V | 19
06 | TX | BRAZORIA COUNTY | 48039C0030I | 30-SEP-1999 | 99-06-1751V | 19
06 | TX | BRAZORIA COUNTY | 48039C0010I | 30-DEC-1999 | 99-06-1980A | 01
06 | TX | BRAZORIA COUNTY | 48039C0030I | 30-DEC-1999 | 99-06-1980A | 01
06 | TX | BRAZORIA COUNTY | 48039C0010I | 05-OCT-1999 | 99-06-2063A | 01
06 | TX | BROWN COUNTY | 4807170004B | 19-OCT-1999 | 99-06-1861A | 02
06 | TX | BRYAN, CITY OF | 48041C0142C | 04-NOV-1999 | 00-06-048A | 02
06 | TX | BRYAN, CITY OF | 48041C0141C | 23-AUG-1999 | 99-06-1446A | 02
06 | TX | BRYAN, CITY OF | 48041C0133C | 28-JUL-1999 | 99-06-1526P | 06
06 | TX | BRYAN, CITY OF | 48041C0134C | 28-JUL-1999 | 99-06-1526P | 06
06 | TX | BURLESON, CITY OF | 48251C0029H | 06-JUL-1999 | 99-06-1260A | 02
06 | TX | BURLESON, CITY OF | 48251C0029H | 26-JUL-1999 | 99-06-1565A | 02
06 | TX | CALDWELL COUNTY | 4800940350C | 22-JUL-1999 | 99-06-1545V | 19
06 | TX | CAMERON COUNTY | 4801010275C | 26-JUL-1999 | 99-06-1294P | 05
06 | TX | CAMERON COUNTY | 4801010350B | 02-JUL-1999 | 99-06-1461P | 05
06 | TX | CARRIZO SPRINGS, CITY OF | 480199B | 28-OCT-1999 | 00-06-011A | 02
06 | TX | CARROLLTON, CITY OF | 4801670005G | 15-DEC-1999 | 00-06-277A | 02
06 | TX | CARROLLTON, CITY OF | 4801670015F | 01-SEP-1999 | 99-06-1481A | 02
06 | TX | CARROLLTON, CITY OF | 4801670005G | 24-SEP-1999 | 99-06-1844A | 01
06 | TX | CASTLE HILLS, CITY OF | 48029C0252E | 09-AUG-1999 | 99-06-292P | 05
06 | TX | CASTLE HILLS, CITY OF | 48029C0254E | 09-AUG-1999 | 99-06-292P | 05
06 | TX | CASTLE HILLS, CITY OF | 48029C0258E | 09-AUG-1999 | 99-06-292P | 05
06 | TX | CASTLE HILLS, CITY OF | 48029C0262E | 09-AUG-1999 | 99-06-292P | 05
06 | TX | CASTLE HILLS, CITY OF | 48029C0266E | 09-AUG-1999 | 99-06-292P | 05
06 | TX | CASTLE HILLS, CITY OF | 48029C0268E | 09-AUG-1999 | 99-06-292P | 05
06 | TX | CASTLE HILLS, CITY OF | 48029C0269E | 09-AUG-1999 | 99-06-292P | 05
06 | TX | CEDAR PARK, CITY OF | 48491C0214C | 12-OCT-1999 | 99-06-877P | 05
06 | TX | CEDAR PARK, CITY OF | 48491C0218C | 12-OCT-1999 | 99-06-877P | 05
06 | TX | CEDAR PARK, CITY OF | 48491C0325D | 12-OCT-1999 | 99-06-877P | 05
06 | TX | CHINA GROVE, CITY OF | 48029C0490E | 30-DEC-1999 | 99-06-1127A | 02
06 | TX | CLEBURNE, CITY OF | 48251C0114F | 01-JUL-1999 | 99-06-1441A | 02
06 | TX | COLLEGE STATION, CITY OF | 48041C0205C | 08-OCT-1999 | 99-06-1336P | 05
06 | TX | COLLEGE STATION, CITY OF | 48041C0144C | 14-OCT-1999 | 99-06-1626P | 06
06 | TX | COLLEGE STATION, CITY OF | 48041C0205C | 25-OCT-1999 | 99-06-1960P | 06
06 | TX | COMAL COUNTY | 4854630075D | 05-AUG-1999 | 98-06-448P | 06
06 | TX | COOKE COUNTY | 4807650008B | 20-SEP-1999 | 99-06-1896A | 02
06 | TX | COPPELL, CITY OF | 4801700010E | 06-JUL-1999 | 99-06-831P | 05
06 | TX | CORINTH, TOWN OF | 48121C0393E | 29-DEC-1999 | 00-06-030P | 06
06 | TX | CORINTH, TOWN OF | 48121C0393E | 22-DEC-1999 | 99-06-1769A | 02
06 | TX | CROWLEY, CITY OF | 48439C0530H | 19-OCT-1999 | 99-06-2064A | 01
06 | TX | CROWLEY, CITY OF | 48439C0530H | 20-JUL-1999 | 99-06-649P | 05
06 | TX | DALLAS COUNTY | 4801650045B | 08-DEC-1999 | 00-06-073A | 02
06 | TX | DALLAS, CITY OF | 4801710140D | 10-DEC-1999 | 00-06-177A | 02
06 | TX | DALLAS, CITY OF | 4801710055C | 08-DEC-1999 | 00-06-188A | 02
06 | TX | DALLAS, CITY OF | 4801710185D | 22-DEC-1999 | 00-06-332A | 02
06 | TX | DALLAS, CITY OF | 4801710010D | 10-AUG-1999 | 98-06-1555P | 05
06 | TX | DALLAS, CITY OF | 4801710185D | 20-DEC-1999 | 99-06-1010P | 05
06 | TX | DALLAS, CITY OF | 4801710205D | 01-NOV-1999 | 99-06-1011P | 05
06 | TX | DALLAS, CITY OF | 4801710085D | 01-JUL-1999 | 99-06-1164A | 01
06 | TX | DALLAS, CITY OF | 4801710145D | 16-AUG-1999 | 99-06-1355A | 02
06 | TX | DALLAS, CITY OF | 4801710060D | 02-JUL-1999 | 99-06-1365A | 02
06 | TX | DALLAS, CITY OF | 4801710025C | 17-SEP-1999 | 99-06-1382P | 05
06 | TX | DALLAS, CITY OF | 4801710030D | 17-SEP-1999 | 99-06-1382P | 05
06 | TX | DALLAS, CITY OF | 4801710085D | 01-JUL-1999 | 99-06-1388A | 01
06 | TX | DALLAS, CITY OF | 4801710085D | 09-JUL-1999 | 99-06-1396A | 01
06 | TX | DALLAS, CITY OF | 4801710090D | 09-JUL-1999 | 99-06-1397A | 02
06 | TX | DALLAS, CITY OF | 4801710215C | 01-JUL-1999 | 99-06-1421A | 01
06 | TX | DALLAS, CITY OF | 4801710060D | 15-DEC-1999 | 99-06-1448P | 05
06 | TX | DALLAS, CITY OF | 4801710095C | 06-JUL-1999 | 99-06-1467A | 02
06 | TX | DALLAS, CITY OF | 4801710140D | 23-AUG-1999 | 99-06-1561A | 02
06 | TX | DALLAS, CITY OF | 4801710030D | 30-JUL-1999 | 99-06-1563A | 01
06 | TX | DALLAS, CITY OF | 4801710065C | 22-SEP-1999 | 99-06-1566A | 02
06 | TX | DALLAS, CITY OF | 4801710085D | 10-AUG-1999 | 99-06-1599A | 01
06 | TX | DALLAS, CITY OF | 4801710085D | 25-AUG-1999 | 99-06-1601A | 01
06 | TX | DALLAS, CITY OF | 4801710140D | 02-SEP-1999 | 99-06-1810A | 02
06 | TX | DALLAS, CITY OF | 4801710055C | 09-DEC-1999 | 99-06-1880A | 02
06 | TX | DALLAS, CITY OF | 4801710010D | 06-OCT-1999 | 99-06-1913P | 05
06 | TX | DALLAS, CITY OF | 4801710030D | 06-OCT-1999 | 99-06-1913P | 05
06 | TX | DALLAS, CITY OF | 4801710100D | 07-OCT-1999 | 99-06-1991A | 02
06 | TX | DALLAS, CITY OF | 4801710100D | 19-OCT-1999 | 99-06-2018A | 02
06 | TX | DALLAS, CITY OF | 4801710170D | 02-DEC-1999 | 99-06-2037P | 05
06 | TX | DALLAS, CITY OF | 4801710085D | 01-SEP-1999 | 99-06-947A | 01
06 | TX | DALWORTHINGTON GARDENS, TOWN OF | 48439C0442H | 15-DEC-1999 | 00-06-266A | 02
06 | TX | DEER PARK, CITY OF | 48201C0930J | 22-JUL-1999 | 99-06-1451A | 02
06 | TX | DENTON, CITY OF | 48121C0240F | 12-JUL-1999 | 99-06-1359A | 01
06 | TX | DENTON, CITY OF | 48121C0387E | 05-NOV-1999 | 99-06-1537P | 06
06 | TX | DENTON, CITY OF | 48121C0360E | 15-SEP-1999 | 99-06-1870A | 02
06 | TX | DOUBLE OAK, TOWN OF | 48121C0540E | 27-JUL-1999 | 99-06-640P | 05
06 | TX | EL PASO, CITY OF | 4802140021D | 19-JUL-1999 | 99-06-1400A | 02
06 | TX | EL PASO, CITY OF | 4802140026D | 12-OCT-1999 | 99-06-1597A | 01
06 | TX | EL PASO, CITY OF | 4802140044B | 15-SEP-1999 | 99-06-1678A | 01
06 | TX | EL PASO, CITY OF | 4802140036B | 27-OCT-1999 | 99-06-2074A | 01
06 | TX | EL PASO, CITY OF | 4802140043B | 30-AUG-1999 | 99-06-793P | 05
06 | TX | ELLIS COUNTY | 48139C0300D | 09-DEC-1999 | 00-06-214A | 02
06 | TX | EULESS, CITY OF | 48439C0330H | 22-DEC-1999 | 00-06-100P | 05
06 | TX | FARMERS BRANCH, CITY OF | 4801740005C | 01-SEP-1999 | 99-06-1670P | 05
06 | TX | FIRST COLONY L.I.D. | 48157C0255J | 30-SEP-1999 | 99-06-1743P | 06
06 | TX | FLOWER MOUND, TOWN OF | 48121C0545E | 29-NOV-1999 | 00-06-032P | 05
06 | TX | FLOWER MOUND, TOWN OF | 48121C0545E | 29-NOV-1999 | 00-06-164A | 02
06 | TX | FLOWER MOUND, TOWN OF | 48121C0545E | 05-OCT-1999 | 99-06-1488A | 01
06 | TX | FLOWER MOUND, TOWN OF | 48121C0520E | 15-JUL-1999 | 99-06-1551A | 02
06 | TX | FLOWER MOUND, TOWN OF | 48121C0545E | 16-AUG-1999 | 99-06-1706A | 02
06 | TX | FLOWER MOUND, TOWN OF | 48121C0545E | 19-OCT-1999 | 99-06-2046A | 02
06 | TX | FLOWER MOUND, TOWN OF | 48121C0540E | 27-JUL-1999 | 99-06-640P | 05
06 | TX | FORT BEND COUNTY | 48157C0245J | 05-NOV-1999 | 99-06-1722P | 05
06 | TX | FORT BEND COUNTY L.I.D. #2 | 48157C0255J | 09-AUG-1999 | 99-06-1640A | 01
06 | TX | FORT BEND COUNTY L.I.D. #2 | 48157C0255J | 08-OCT-1999 | 99-06-1917A | 01
06 | TX | FORT WORTH, CITY OF | 48439C0169H | 16-NOV-1999 | 00-06-012A | 01
06 | TX | FORT WORTH, CITY OF | 48439C0330H | 22-DEC-1999 | 00-06-100P | 05
06 | TX | FORT WORTH, CITY OF | 48439C0170H | 09-DEC-1999 | 00-06-215A | 02
06 | TX | FORT WORTH, CITY OF | 48439C0405H | 02-SEP-1999 | 99-06-1671A | 02
06 | TX | FORT WORTH, CITY OF | 48439C0382H | 17-SEP-1999 | 99-06-1805A | 02
06 | TX | FORT WORTH, CITY OF | 48439C0395H | 13-OCT-1999 | 99-06-2035A | 02
06 | TX | FORT WORTH, CITY OF | 48439C0440H | 20-SEP-1999 | 99-06-658P | 05
06 | TX | FRIENDSWOOD, CITY OF | 4854680005E | 29-OCT-1999 | 00-06-077A | 02
06 | TX | FRIENDSWOOD, CITY OF | 4854680005E | 24-SEP-1999 | 99-06-1853A | 02
06 | TX | FRISCO, CITY OF | 48085C0265G | 31-AUG-1999 | 99-06-1289P | 06
06 | TX | FRISCO, CITY OF | 48085C0405G | 13-JUL-1999 | 99-06-817P | 05
06 | TX | GARLAND, CITY OF | 4854710015D | 08-NOV-1999 | 00-06-072A | 02
06 | TX | GARLAND, CITY OF | 4854710015D | 22-NOV-1999 | 00-06-116A | 02
06 | TX | GARLAND, CITY OF | 4854710030E | 01-DEC-1999 | 00-06-146A | 02
06 | TX | GARLAND, CITY OF | 4854710020D | 01-DEC-1999 | 00-06-147A | 02
06 | TX | GARLAND, CITY OF | 4854710030E | 01-DEC-1999 | 00-06-148A | 02
06 | TX | GARLAND, CITY OF | 4854710020D | 01-DEC-1999 | 00-06-149A | 02
06 | TX | GARLAND, CITY OF | 4854710005E | 08-DEC-1999 | 00-06-193A | 02
06 | TX | GARLAND, CITY OF | 4854710020D | 15-DEC-1999 | 00-06-268A | 02
06 | TX | GARLAND, CITY OF | 4854710015D | 15-DEC-1999 | 00-06-269A | 02
06 | TX | GARLAND, CITY OF | 4854710015D | 15-SEP-1999 | 99-06-1276P | 05
06 | TX | GARLAND, CITY OF | 4854710020D | 01-JUL-1999 | 99-06-1422A | 02
06 | TX | GARLAND, CITY OF | 4854710030E | 02-JUL-1999 | 99-06-1464A | 02
06 | TX | GARLAND, CITY OF | 4854710030E | 02-JUL-1999 | 99-06-1468A | 02
06 | TX | GARLAND, CITY OF | 4854710010D | 12-OCT-1999 | 99-06-1499P | 05
06 | TX | GARLAND, CITY OF | 4854710030E | 03-AUG-1999 | 99-06-1639A | 02
06 | TX | GARLAND, CITY OF | 4854710030E | 05-AUG-1999 | 99-06-1644A | 02
06 | TX | GARLAND, CITY OF | 4854710015D | 25-AUG-1999 | 99-06-1772A | 02
06 | TX | GARLAND, CITY OF | 4854710020D | 25-AUG-1999 | 99-06-1781A | 02
06 | TX | GARLAND, CITY OF | 4854710015D | 13-OCT-1999 | 99-06-2029A | 02
06 | TX | GILLESPIE COUNTY | 4806960007B | 03-NOV-1999 | 00-06-031A | 02
06 | TX | GILLESPIE COUNTY | 4806960010B | 03-NOV-1999 | 00-06-034A | 02
06 | TX | GILLESPIE COUNTY | 4806960007B | 30-SEP-1999 | 99-06-1325A | 02
06 | TX | GILLESPIE COUNTY | 4806960003B | 15-SEP-1999 | 99-06-1344A | 02
06 | TX | GILLESPIE COUNTY | 4806960011B | 15-SEP-1999 | 99-06-1490A | 02
06 | TX | GILLESPIE COUNTY | 4806960006B | 22-NOV-1999 | 99-06-2056A | 01
06 | TX | GRAND PRAIRIE, CITY OF | 4854720035G | 15-SEP-1999 | 99-06-1866A | 01
06 | TX | GRAND PRAIRIE, CITY OF | 4854720010F | 22-SEP-1999 | 99-06-1907A | 02
06 | TX | GRAND PRAIRIE, CITY OF | 4854720035G | 15-NOV-1999 | 99-06-2034A | 01
06 | TX | GRAPEVINE, CITY OF | 48439C0215H | 06-DEC-1999 | 00-06-166A | 02
06 | TX | GRAPEVINE, CITY OF | 48439C0205H | 13-OCT-1999 | 99-06-2020A | 02
06 | TX | GRAYSON COUNTY | 48181C0207E | 11-AUG-1999 | 99-06-1688A | 02
06 | TX | GREENVILLE, CITY OF | 48231C0180F | 12-OCT-1999 | 99-06-2001P | 06
06 | TX | GREENVILLE, CITY OF | 48231C0190F | 12-OCT-1999 | 99-06-2001P | 06
06 | TX | HARKER HEIGHTS, CITY OF | 4800290001B | 28-JUL-1999 | 99-06-892A | 01
06 | TX | HARRIS COUNTY | 48201C0310J | 08-DEC-1999 | 00-06-078A | 02
06 | TX | HARRIS COUNTY | 48201C0220J | 15-DEC-1999 | 00-06-242A | 01
06 | TX | HARRIS COUNTY | 48201C0410J | 15-DEC-1999 | 00-06-242A | 01
06 | TX | HARRIS COUNTY | 48201C0515J | 20-DEC-1999 | 00-06-297A | 02
06 | TX | HARRIS COUNTY | 48201C0235J | 29-SEP-1999 | 98-06-1991P | 05
06 | TX | HARRIS COUNTY | 48201C0245J | 29-SEP-1999 | 98-06-1991P | 05
06 | TX | HARRIS COUNTY | 48201C0595J | 15-DEC-1999 | 99-06-1105P | 05
06 | TX | HARRIS COUNTY | 48201C0615J | 15-DEC-1999 | 99-06-1105P | 05
06 | TX | HARRIS COUNTY | 48201C0440J | 01-JUL-1999 | 99-06-1440A | 02
06 | TX | HARRIS COUNTY | 48201C0315J | 09-AUG-1999 | 99-06-1665A | 02
06 | TX | HARRIS COUNTY | 48201C0265J | 12-NOV-1999 | 99-06-1833P | 06
06 | TX | HARRIS COUNTY | 48201C0320J | 06-AUG-1999 | 99-06-423A | 01
06 | TX | HAYS COUNTY | 48209C0227E | 13-OCT-1999 | 99-06-2032A | 02
06 | TX | HENDERSON COUNTY | 48213C0045D | 12-NOV-1999 | 00-06-088A | 02
06 | TX | HENDERSON COUNTY | 48213C0225C | 01-SEP-1999 | 99-06-1822A | 02
06 | TX | HIDALGO COUNTY | 4803340425C | 20-DEC-1999 | 00-06-172A | 01
06 | TX | HIDALGO COUNTY | 4803340350B | 19-JUL-1999 | 99-06-1386A | 02
06 | TX | HIGHLAND PARK, TOWN OF | 4801780005B | 24-AUG-1999 | 99-06-705P | 05
06 | TX | HIGHLAND VILLAGE, VILLAGE OF | 48121C0527E | 20-SEP-1999 | 99-06-1201P | 06
06 | TX | HIGHLAND VILLAGE, VILLAGE OF | 48121C0529E | 20-SEP-1999 | 99-06-1201P | 06
06 | TX | HIGHLAND VILLAGE, VILLAGE OF | 48121C0533F | 13-AUG-1999 | 99-06-1695A | 02
06 | TX | HIGHLAND VILLAGE, VILLAGE OF | 48121C0533F | 15-SEP-1999 | 99-06-1863A | 02
06 | TX | HOOD COUNTY | 4803560130C | 24-SEP-1999 | 99-06-1462A | 02
06 | TX | HOOD COUNTY | 4803560110C | 11-AUG-1999 | 99-06-1680A | 02
06 | TX | HOOD COUNTY | 4803560065B | 02-NOV-1999 | 99-06-1975P | 06
06 | TX | HOUSTON, CITY OF | 48201C0640J | 01-DEC-1999 | 00-06-173A | 02
06 | TX | HOUSTON, CITY OF | 48201C0670J | 19-OCT-1999 | 99-06-1929A | 02
06 | TX | HUNT COUNTY | 48231C0180F | 12-OCT-1999 | 99-06-2001P | 06
06 | TX | HUNT COUNTY | 48231C0190F | 12-OCT-1999 | 99-06-2001P | 06
06 | TX | HURST, CITY OF | 48439C0195H | 15-JUL-1999 | 99-06-1345P | 05
06 | TX | HURST, CITY OF | 48439C0306H | 06-AUG-1999 | 99-06-1666A | 02
06 | TX | HURST, CITY OF | 48439C0306H | 07-OCT-1999 | 99-06-1993A | 02
06 | TX | IRVING, CITY OF | 4801800045D | 09-JUL-1999 | 99-06-1376A | 01
06 | TX | IRVING, CITY OF | 4801800035C | 01-SEP-1999 | 99-06-1808A | 02
06 | TX | JOHNSON COUNTY | 48251C0041H | 15-DEC-1999 | 00-06-233A | 02
06 | TX | JOHNSON COUNTY | 48251C0050H | 23-AUG-1999 | 99-06-1721A | 02
06 | TX | JOSHUA, CITY OF | 48251C0039G | 05-AUG-1999 | 99-06-1645A | 02
06 | TX | JOSHUA, CITY OF | 48251C0039G | 18-AUG-1999 | 99-06-1725A | 02
06 | TX | KELLER, CITY OF | 48439C0170H | 30-AUG-1999 | 99-06-1262P | 05
06 | TX | KELLER, CITY OF | 48439C0190H | 06-JUL-1999 | 99-06-372P | 05
06 | TX | KENDALL COUNTY | 4804170175B | 15-SEP-1999 | 99-06-1380P | 05
06 | TX | KENDALL COUNTY | 4804170250B | 15-SEP-1999 | 99-06-1380P | 05
06 | TX | KENNEDALE, CITY OF | 48439C0439H | 15-SEP-1999 | 99-06-1963A | 01
06 | TX | KERR COUNTY | 4804190175B | 19-OCT-1999 | 99-06-1837A | 02
06 | TX | KERRVILLE, CITY OF | 4804200005D | 22-OCT-1999 | 99-06-2028A | 02
06 | TX | KILLEEN, CITY OF | 4800310002B | 13-AUG-1999 | 99-06-1702A | 02
06 | TX | LAKE DALLAS, CITY OF | 48121C0394E | 08-DEC-1999 | 00-06-192A | 02
06 | TX | LAKEWAY, CITY OF | 48453C0330E | 01-JUL-1999 | 99-06-1458A | 02
06 | TX | LANCASTER, CITY OF | 4801820015C | 07-SEP-1999 | 98-06-1876P | 05
06 | TX | LAREDO, CITY OF | 4806510005B | 01-SEP-1999 | 99-06-1800A | 02
06 | TX | LAREDO, CITY OF | 4810590730B | 03-NOV-1999 | 99-06-2000P | 06
06 | TX | LEAGUE CITY, CITY OF | 4854880011D | 01-NOV-1999 | 99-06-1753V | 19
06 | TX | LEANDER, CITY OF | 48491C0214C | 12-OCT-1999 | 99-06-877P | 05
06 | TX | LEANDER, CITY OF | 48491C0218C | 12-OCT-1999 | 99-06-877P | 05
06 | TX | LEWISVILLE, CITY OF | 48121C0533F | 15-DEC-1999 | 00-06-258A | 02
06 | TX | LEWISVILLE, CITY OF | 48121C0533F | 02-SEP-1999 | 99-06-1815A | 02
06 | TX | LEWISVILLE, CITY OF | 48121C0545E | 22-JUL-1999 | 99-06-811P | 05
06 | TX | LEWISVILLE, CITY OF | 48121C0685E | 06-JUL-1999 | 99-06-831P | 05
06 | TX | LONGVIEW, CITY OF | 4802640015E | 22-DEC-1999 | 00-06-213A | 01
06 | TX | LONGVIEW, CITY OF | 4802640015E | 22-DEC-1999 | 00-06-309A | 02
06 | TX | LONGVIEW, CITY OF | 4802640010D | 18-OCT-1999 | 99-06-357P | 05
06 | TX | LUBBOCK COUNTY | 4809150004A | 05-AUG-1999 | 99-06-1651A | 02
06 | TX | LUBBOCK, CITY OF | 4804520045C | 22-NOV-1999 | 00-06-081A | 02
06 | TX | LUBBOCK, CITY OF | 4804520045C | 06-DEC-1999 | 00-06-154A | 01
06 | TX | LUBBOCK, CITY OF | 4804520045C | 13-DEC-1999 | 00-06-208A | 02
06 | TX | LUBBOCK, CITY OF | 4804520045C | 30-DEC-1999 | 00-06-389A | 01
06 | TX | LUBBOCK, CITY OF | 4804520045C | 30-DEC-1999 | 00-06-390A | 01
06 | TX | LUBBOCK, CITY OF | 4804520045C | 01-JUL-1999 | 99-06-1427A | 02
06 | TX | LUBBOCK, CITY OF | 4804520045C | 09-JUL-1999 | 99-06-1495A | 02
06 | TX | LUBBOCK, CITY OF | 4804520045C | 13-AUG-1999 | 99-06-1687A | 01
06 | TX | LUBBOCK, CITY OF | 4809150007A | 13-AUG-1999 | 99-06-1687A | 01
06 | TX | LUBBOCK, CITY OF | 4804520030B | 13-OCT-1999 | 99-06-2011A | 02
06 | TX | LUBBOCK, CITY OF | 4804520025C | 19-OCT-1999 | 99-06-2052A | 02
06 | TX | MANSFIELD, CITY OF | 48439C0580H | 22-DEC-1999 | 00-06-191A | 01
06 | TX | MANSFIELD, CITY OF | 48439C0580H | 09-DEC-1999 | 00-06-223A | 02
06 | TX | MANSFIELD, CITY OF | 48439C0557H | 22-DEC-1999 | 00-06-306A | 02
06 | TX | MARBLE FALLS, CITY OF | 48053C0312C | 22-OCT-1999 | 99-06-1795A | 02
06 | TX | MCKINNEY, CITY OF | 48085C0295G | 10-AUG-1999 | 99-06-1567A | 02
06 | TX | MCLENNAN COUNTY | 4804560050B | 22-NOV-1999 | 99-06-2060A | 01
06 | TX | MEDINA COUNTY | 4804720100B | 06-AUG-1999 | 99-06-1428A | 02
06 | TX | MESQUITE, CITY OF | 4854900005H | 15-SEP-1999 | 99-06-1747A | 02
06 | TX | MIDLAND COUNTY | 48329C0068E | 07-DEC-1999 | 99-06-1617P | 06
06 | TX | MIDLAND COUNTY | 48329C0100E | 07-DEC-1999 | 99-06-1617P | 06
06 | TX | MIDLAND COUNTY | 48329C0200E | 07-DEC-1999 | 99-06-1617P | 06
06 | TX | MIDLAND COUNTY | 48329C0203E | 07-DEC-1999 | 99-06-1617P | 06
06 | TX | MIDLAND COUNTY | 48329C0109C | 22-DEC-1999 | 99-06-1981A | 02
06 | TX | MIDLAND, CITY OF | 48329C0101D | 08-NOV-1999 | 00-06-076A | 02
06 | TX | MIDLAND, CITY OF | 48329C0088E | 08-DEC-1999 | 00-06-130A | 02
06 | TX | MIDLAND, CITY OF | 48329C0087E | 09-DEC-1999 | 00-06-217A | 02
06 | TX | MIDLAND, CITY OF | 48329C0088E | 09-DEC-1999 | 00-06-218A | 02
06 | TX | MIDLAND, CITY OF | 48329C0039C | 23-AUG-1999 | 99-06-1554A | 02
06 | TX | MIDLAND, CITY OF | 48329C0068E | 07-DEC-1999 | 99-06-1617P | 05
06 | TX | MIDLAND, CITY OF | 48329C0069E | 07-DEC-1999 | 99-06-1617P | 05
06 | TX | MIDLAND, CITY OF | 48329C0087E | 07-DEC-1999 | 99-06-1617P | 05
06 | TX | MIDLAND, CITY OF | 48329C0088E | 07-DEC-1999 | 99-06-1617P | 05
06 | TX | MIDLAND, CITY OF | 48329C0100E | 07-DEC-1999 | 99-06-1617P | 05
06 | TX | MIDLAND, CITY OF | 48329C0200E | 07-DEC-1999 | 99-06-1617P | 05
06 | TX | MIDLAND, CITY OF | 48329C0101D | 10-AUG-1999 | 99-06-1672A | 02
06 | TX | MIDLAND, CITY OF | 48329C0019D | 23-SEP-1999 | 99-06-1908A | 01
06 | TX | MIDLAND, CITY OF | 48329C0082C | 28-OCT-1999 | 99-06-1936A | 01
06 | TX | MISSOURI CITY, CITY OF | 48157C0255J | 30-SEP-1999 | 99-06-1743P | 06
06 | TX | MISSOURI CITY, CITY OF | 48157C0260J | 22-OCT-1999 | 99-06-1773A | 02
06 | TX | MONTGOMERY COUNTY | 48339C0195F | 29-NOV-1999 | 00-06-037A | 01
06 | TX | MONTGOMERY COUNTY | 48339C0215F | 20-DEC-1999 | 00-06-084A | 01
06 | TX | MONTGOMERY COUNTY | 48339C0210F | 08-DEC-1999 | 00-06-197A | 02
06 | TX | MONTGOMERY COUNTY | 48339C0530F | 15-DEC-1999 | 00-06-255A | 01
06 | TX | MONTGOMERY COUNTY | 48339C0539G | 18-OCT-1999 | 98-06-085V | 19
06 | TX | MONTGOMERY COUNTY | 48339C0510F | 01-JUL-1999 | 99-06-1224A | 01
06 | TX | MONTGOMERY COUNTY | 48339C0215F | 06-AUG-1999 | 99-06-1454A | 02
06 | TX | MONTGOMERY COUNTY | 48339C0560F | 29-OCT-1999 | 99-06-1466A | 02
06 | TX | MONTGOMERY COUNTY | 48339C0510F | 27-JUL-1999 | 99-06-1588A | 02
06 | TX | MONTGOMERY COUNTY | 48339C0520F | 29-NOV-1999 | 99-06-1655A | 02
06 | TX | MONTGOMERY COUNTY | 48339C0540F | 09-AUG-1999 | 99-06-1662A | 02
06 | TX | MONTGOMERY COUNTY | 48339C0195F | 16-AUG-1999 | 99-06-1677A | 01
06 | TX | MONTGOMERY COUNTY | 48339C0195F | 16-AUG-1999 | 99-06-1679A | 01
06 | TX | MONTGOMERY COUNTY | 48339C0205F | 13-SEP-1999 | 99-06-1715A | 02
06 | TX | MONTGOMERY COUNTY | 48339C0529F | 30-SEP-1999 | 99-06-1734A | 01
06 | TX | MONTGOMERY COUNTY | 48339C0510F | 22-SEP-1999 | 99-06-1848A | 01
06 | TX | MONTGOMERY COUNTY | 48339C0485F | 29-NOV-1999 | 99-06-1894P | 05
06 | TX | MONTGOMERY COUNTY | 48339C0210F | 22-OCT-1999 | 99-06-1921A | 02
06 | TX | MONTGOMERY COUNTY | 48339C0210F | 28-OCT-1999 | 99-06-1972A | 02
06 | TX | MONTGOMERY COUNTY | 48339C0370F | 13-OCT-1999 | 99-06-2007A | 02
06 | TX | MONTGOMERY COUNTY | 48339C0539G | 18-OCT-1999 | 99-06-2090V | 19
06 | TX | NACOGDOCHES, CITY OF | 4804970005B | 05-AUG-1999 | 99-06-1643A | 02
06 | TX | NORTH RICHLAND HILLS, CITY OF | 48439C0189H | 06-JUL-1999 | 99-06-895A | 02
06 | TX | ODESSA, CITY OF | 48135C0170D | 26-OCT-1999 | 00-06-003A | 02
06 | TX | ODESSA, CITY OF | 48135C0170D | 28-JUL-1999 | 99-06-1504A | 02
06 | TX | ODESSA, CITY OF | 48329C0100C | 25-AUG-1999 | 99-06-1615A | 02
06 | TX | ODESSA, CITY OF | 48135C0170D | 11-AUG-1999 | 99-06-1690A | 02
06 | TX | ODESSA, CITY OF | 48135C0170D | 23-AUG-1999 | 99-06-1742A | 02
06 | TX | ODESSA, CITY OF | 48135C0170D | 22-OCT-1999 | 99-06-1780A | 02
06 | TX | ODESSA, CITY OF | 48135C0140D | 01-SEP-1999 | 99-06-1799A | 02
06 | TX | ODESSA, CITY OF | 48135C0175D | 01-SEP-1999 | 99-06-1799A | 02
06 | TX | ODESSA, CITY OF | 48135C0135D | 15-SEP-1999 | 99-06-1872A | 02
06 | TX | ODESSA, CITY OF | 48135C0135D | 15-NOV-1999 | 99-06-1933A | 02
06 | TX | PARKER COUNTY | 4805200150C | 30-JUL-1999 | 99-06-179P | 05
06 | TX | PASADENA, CITY OF | 48201C0920J | 25-AUG-1999 | 99-06-1775A | 02
06 | TX | PLANO, CITY OF | 48085C0440G | 03-DEC-1999 | 00-06-024P | 06
06 | TX | PLANO, CITY OF | 48085C0440G | 30-DEC-1999 | 00-06-090A | 02
06 | TX | PLANO, CITY OF | 48085C0445G | 09-DEC-1999 | 00-06-222A | 02
06 | TX | PLANO, CITY OF | 48085C0420G | 10-AUG-1999 | 98-06-1555P | 05
06 | TX | PLANO, CITY OF | 48085C0420G | 07-SEP-1999 | 98-06-1835P | 05
06 | TX | PLANO, CITY OF | 48085C0420G | 01-JUL-1999 | 99-06-1161A | 02
06 | TX | PLANO, CITY OF | 48085C0440G | 13-AUG-1999 | 99-06-1178A | 02
06 | TX | PLANO, CITY OF | 48085C0445G | 19-JUL-1999 | 99-06-1559A | 02
06 | TX | PLANO, CITY OF | 48085C0445G | 22-JUL-1999 | 99-06-1568A | 02
06 | TX | PLANO, CITY OF | 48085C0445G | 29-JUL-1999 | 99-06-1611A | 02
06 | TX | PLANO, CITY OF | 48085C0420G | 01-SEP-1999 | 99-06-1614A | 02
06 | TX | PLANO, CITY OF | 48085C0420G | 10-SEP-1999 | 99-06-1827A | 02
06 | TX | PLANO, CITY OF | 48085C0410G | 30-DEC-1999 | 99-06-1862A | 02
06 | TX | PLANO, CITY OF | 48085C0445G | 23-SEP-1999 | 99-06-1925A | 02
06 | TX | PLEASANT VALLEY, CITY OF | 4806610001B | 25-OCT-1999 | 99-06-2006A | 02
06 | TX | PRINCETON, CITY OF | 48085C0325G | 10-SEP-1999 | 99-06-1828A | 02
06 | TX | PRINCETON, CITY OF | 48085C0325G | 12-NOV-1999 | 99-06-1988A | 02
06 | TX | PRINCETON, CITY OF | 48085C0350G | 12-NOV-1999 | 99-06-1988A | 02
06 | TX | RANDALL COUNTY | 4805320050B | 13-AUG-1999 | 99-06-1682A | 02
06 | TX | RICHARDSON, CITY OF | 4801840010C | 26-AUG-1999 | 99-06-1745A | 02
06 | TX | RICHARDSON, CITY OF | 4801840015C | 27-AUG-1999 | 99-06-1788A | 02
06 | TX | RICHARDSON, CITY OF | 4801840015C | 22-NOV-1999 | 99-06-2044A | 02
06 | TX | ROCKWALL, CITY OF | 4805470005C | 13-SEP-1999 | 99-06-1838A | 02
06 | TX | ROCKWALL, CITY OF | 4805470005C | 22-NOV-1999 | 99-06-1857A | 02
06 | TX | SAN ANGELO, CITY OF | 4806230035D | 14-JUL-1999 | 99-06-1512A | 02
06 | TX | SAN ANGELO, CITY OF | 4806230035D | 01-SEP-1999 | 99-06-1801A | 02
06 | TX | SAN ANTONIO, CITY OF | 48029C0278E | 19-OCT-1999 | 99-06-1223A | 02
06 | TX | SAN ANTONIO, CITY OF | 48029C0291E | 26-JUL-1999 | 99-06-1582A | 02
06 | TX | SAN ANTONIO, CITY OF | 48029C0291E | 24-AUG-1999 | 99-06-1831A | 01
06 | TX | SAN ANTONIO, CITY OF | 48029C0257E | 13-SEP-1999 | 99-06-1839A | 02
06 | TX | SAN ANTONIO, CITY OF | 48029C0279E | 09-DEC-1999 | 99-06-2012A | 02
06 | TX | SAN ANTONIO, CITY OF | 48029C0140E | 13-OCT-1999 | 99-06-2016A | 02
06 | TX | SAN ANTONIO, CITY OF | 48029C0279E | 15-DEC-1999 | 99-06-2043A | 02
06 | TX | SAN ANTONIO, CITY OF | 48029C0252E | 09-AUG-1999 | 99-06-292P | 05
06 | TX | SAN ANTONIO, CITY OF | 48029C0254E | 09-AUG-1999 | 99-06-292P | 05
06 | TX | SAN ANTONIO, CITY OF | 48029C0258E | 09-AUG-1999 | 99-06-292P | 05
06 | TX | SAN ANTONIO, CITY OF | 48029C0262E | 09-AUG-1999 | 99-06-292P | 05
06 | TX | SAN ANTONIO, CITY OF | 48029C0266E | 09-AUG-1999 | 99-06-292P | 05
06 | TX | SAN ANTONIO, CITY OF | 48029C0268E | 09-AUG-1999 | 99-06-292P | 05
06 | TX | SAN ANTONIO, CITY OF | 48029C0269E | 09-AUG-1999 | 99-06-292P | 05
06 | TX | SAN ANTONIO, CITY OF | 48029C0256E | 19-OCT-1999 | 99-06-557P | 05
06 | TX | SAN BENITO, CITY OF | 4801130005B | 23-AUG-1999 | 99-06-1739A | 02
06 | TX | SAN PATRICIO COUNTY | 4855060225C | 03-AUG-1999 | 99-06-1628A | 01
06 | TX | SHADY SHORES, CITY OF | 48121C0394E | 15-SEP-1999 | 99-06-1616A | 02
06 | TX | SHAVANO PARK, TOWN OF | 48029C0252E | 09-AUG-1999 | 99-06-292P | 05
06 | TX | SHAVANO PARK, TOWN OF | 48029C0254E | 09-AUG-1999 | 99-06-292P | 05
06 | TX | SHAVANO PARK, TOWN OF | 48029C0258E | 09-AUG-1999 | 99-06-292P | 05
06 | TX | SHAVANO PARK, TOWN OF | 48029C0262E | 09-AUG-1999 | 99-06-292P | 05
06 | TX | SHAVANO PARK, TOWN OF | 48029C0266E | 09-AUG-1999 | 99-06-292P | 05
06 | TX | SHAVANO PARK, TOWN OF | 48029C0268E | 09-AUG-1999 | 99-06-292P | 05
06 | TX | SHAVANO PARK, TOWN OF | 48029C0269E | 09-AUG-1999 | 99-06-292P | 05
06 | TX | SHERMAN, CITY OF | 48181C0145E | 29-OCT-1999 | 99-06-1974A | 02
06 | TX | SMITH COUNTY | 4811850250B | 03-NOV-1999 | 00-06-058A | 02
06 | TX | SMITH COUNTY | 4811850250B | 15-DEC-1999 | 00-06-115A | 02
06 | TX | SMITH COUNTY | 4811850250B | 27-DEC-1999 | 00-06-347A | 02
06 | TX | SMITH COUNTY | 4811850250B | 15-SEP-1999 | 99-06-1766A | 02
06 | TX | SOUTH PADRE ISLAND, TOWN OF | 4801150001D | 12-OCT-1999 | 99-06-1796P | 05
06 | TX | SPRINGTOWN, CITY OF | 4805210005B | 12-JUL-1999 | 99-06-1347A | 01
06 | TX | TARRANT COUNTY | 48439C0140H | 03-NOV-1999 | 00-06-044A | 02
06 | TX | TAYLOR COUNTY | 4810140009B | 11-AUG-1999 | 99-06-1681A | 02
06 | TX | TOOL, CITY OF | 48213C0040D | 26-JUL-1999 | 99-06-1553A | 02
06 | TX | TYLER COUNTY | 4810340011B | 30-SEP-1999 | 99-06-1967A | 02
06 | TX | TYLER, CITY OF | 4805710015B | 11-AUG-1999 | 99-06-1558A | 01
06 | TX | TYLER, CITY OF | 4805710014B | 16-AUG-1999 | 99-06-1733A | 02
06 | TX | VICTORIA, CITY OF | 4806380005G | 22-JUL-1999 | 99-06-1544V | 19
06 | TX | VICTORIA, CITY OF | 4806380005G | 05-AUG-1999 | 99-06-657A | 02
06 | TX | WALKER COUNTY | 4810420007B | 15-DEC-1999 | 00-06-243A | 02
06 | TX | WATAUGA, TOWN OF | 48439C0188H | 05-OCT-1999 | 99-06-1973A | 02
06 | TX | WHITE SETTLEMENT, CITY OF | 48439C0265H | 13-OCT-1999 | 99-06-1569A | 02
06 | TX | WHITNEY, TOWN OF | 4808650001A | 22-DEC-1999 | 00-06-049A | 02
06 | TX | WYLIE, CITY OF | 48085C0470G | 22-DEC-1999 | 99-06-1674A | 01
07 | IA | AMES, CITY OF | 1902540004B | 28-SEP-1999 | 98-07-055P | 05
07 | IA | AMES, CITY OF | 1909070065B | 28-SEP-1999 | 98-07-055P | 05
07 | IA | BLACK HAWK COUNTY | 1905350045B | 01-SEP-1999 | 99-07-827A | 02
07 | IA | BUCHANAN COUNTY | 1908480025C | 22-JUL-1999 | 99-07-727V | 19
07 | IA | BUCHANAN COUNTY | 1908480100C | 22-JUL-1999 | 99-07-727V | 19
07 | IA | BUCHANAN COUNTY | 1908480200C | 22-JUL-1999 | 99-07-727V | 19
07 | IA | CAMANCHE, CITY OF | 1900860005B | 22-SEP-1999 | 99-07-875A | 02
07 | IA | CARROLL, CITY OF | 1900410005A | 05-AUG-1999 | 99-07-683A | 01
07 | IA | CEDAR COUNTY | 190050B | 02-SEP-1999 | 99-07-842A | 02
07 | IA | CEDAR FALLS, CITY OF | 1900170006B | 30-DEC-1999 | 00-07-133A | 02
07 | IA | CEDAR RAPIDS, CITY OF | 1901870010B | 11-AUG-1999 | 99-07-698A | 02
07 | IA | CLEAR LAKE, CITY OF | 1900590001B | 30-DEC-1999 | 00-07-043A | 02
07 | IA | CLEAR LAKE, CITY OF | 1900590003B | 30-DEC-1999 | 00-07-043A | 02
07 | IA | CLEAR LAKE, CITY OF | 1900590003B | 22-NOV-1999 | 00-07-047A | 02
07 | IA | CLEAR LAKE, CITY OF | 1900590003B | 06-DEC-1999 | 00-07-074A | 02
07 | IA | CLEAR LAKE, CITY OF | 1900590003B | 07-JUL-1999 | 99-07-704A | 02
07 | IA | CLERMONT, CITY OF | 190374A | 08-DEC-1999 | 00-07-070A | 02
07 | IA | CLINTON, CITY OF | 1900880015C | 15-DEC-1999 | 99-07-347A | 01
07 | IA | CLIVE, CITY OF | 1904880005C | 15-DEC-1999 | 00-07-087A | 02
07 | IA | CLIVE, CITY OF | 1904880005C | 30-DEC-1999 | 00-07-109A | 02
07 | IA | CLIVE, CITY OF | 1904880005C | 03-AUG-1999 | 99-07-763A | 02
07 | IA | COUNCIL BLUFFS, CITY OF | 1902350010B | 01-SEP-1999 | 99-07-682A | 01
07 | IA | COUNCIL BLUFFS, CITY OF | 1902350010B | 23-SEP-1999 | 99-07-904A | 02
07 | IA | CRESCENT, CITY OF | 1907230001A | 26-AUG-1999 | 99-07-815A | 02
07 | IA | DAVENPORT, CITY OF | 1902420005B | 22-SEP-1999 | 99-07-848A | 02
07 | IA | DYERSVILLE, CITY OF | 1901200001D | 16-NOV-1999 | 99-07-831A | 17
07 | IA | FAYETTE COUNTY | 1908660003B | 25-OCT-1999 | 99-07-914A | 02
07 | IA | FREDERICKSBURG, CITY OF | 190066B | 22-JUL-1999 | 99-07-732A | 02
07 | IA | HUDSON, CITY OF | 1900220005B | 19-JUL-1999 | 99-07-666A | 02
07 | IA | HUMBOLDT, CITY OF | 1901550005B | 08-NOV-1999 | 00-07-018A | 02
07 | IA | HUMBOLDT, CITY OF | 1901550005B | 17-AUG-1999 | 99-07-794A | 02
07 | IA | MITCHELL COUNTY | 1908920003A | 28-SEP-1999 | 99-07-854A | 02
07 | IA | MUSCATINE COUNTY | 1908360250B | 22-DEC-1999 | 00-07-107A | 02
07 | IA | NORTHWOOD, CITY OF | 190302B | 30-DEC-1999 | 00-07-080A | 02
07 | IA | PALO, CITY OF | 1904420001A | 15-DEC-1999 | 00-07-086A | 02
07 | IA | POTTAWATTAMIE COUNTY | 1902320226B | 01-DEC-1999 | 00-07-054A | 02
07 | IA | ROCK VALLEY, CITY OF | 190253B | 06-DEC-1999 | 00-07-002A | 02
07 | IA | SCOTT COUNTY | 1902390050B | 22-DEC-1999 | 00-07-100A | 02
07 | IA | SHELLSBURG, CITY OF | 1903190001A | 09-AUG-1999 | 99-07-117A | 01
07 | IA | SPENCER, CITY OF | 1900710005B | 28-JUL-1999 | 99-07-746A | 02
07 | IA | WALCOTT, CITY OF | 190675 | 03-NOV-1999 | 00-07-017A | 01
07 | IA | WALCOTT, CITY OF | 190675 | 29-NOV-1999 | 00-07-102A | 01
07 | IA | WATERLOO, CITY OF | 1900250015E | 23-AUG-1999 | 99-07-802A | 02
07 | IA | WAVERLY, CITY OF | 19017C0054C | 13-AUG-1999 | 99-07-777A | 02
07 | IA | WAVERLY, CITY OF | 19017C0054C | 22-OCT-1999 | 99-07-949A | 02
07 | IA | WEST LIBERTY, CITY OF | 1902150001B | 27-JUL-1999 | 99-07-773A | 02
07 | KS | ANDOVER, CITY OF | 2000370230B | 20-DEC-1999 | 00-07-061A | 01
07 | KS | BASEHOR, CITY OF | 200187B | 29-JUL-1999 | 99-07-748A | 02
07 | KS | BURRTON, CITY OF | 2005850100B | 09-AUG-1999 | 99-07-755A | 02
07 | KS | BURRTON, CITY OF | 2005850100B | 26-OCT-1999 | 99-07-957A | 02
07 | KS | BUTLER COUNTY | 2000370240B | 08-DEC-1999 | 00-07-035A | 01
07 | KS | BUTLER COUNTY | 2000370170B | 05-AUG-1999 | 99-07-681A | 02
07 | KS | CHEROKEE COUNTY | 2000440075B | 15-SEP-1999 | 99-07-833A | 02
07 | KS | COFFEYVILLE, CITY OF | 200232A | 30-JUL-1999 | 99-07-694A | 02
07 | KS | DERBY, CITY OF | 2003230001C | 07-JUL-1999 | 99-07-690A | 02
07 | KS | DERBY, CITY OF | 2003230002C | 07-OCT-1999 | 99-07-912A | 02
07 | KS | DERBY, CITY OF | 2003230001C | 13-OCT-1999 | 99-07-930A | 01
07 | KS | DERBY, CITY OF | 2003230002C | 13-OCT-1999 | 99-07-930A | 01
07 | KS | FRANKLIN COUNTY | 2005650075B | 06-DEC-1999 | 00-07-066A | 02
07 | KS | HALSTEAD, CITY OF | 2001310001D | 22-DEC-1999 | 00-07-062A | 17
07 | KS | HAYSVILLE, CITY OF | 2003240001C | 23-AUG-1999 | 99-07-847A | 02
07 | KS | MCPHERSON COUNTY | 2002140200B | 22-JUL-1999 | 99-07-723A | 02
07 | KS | MCPHERSON COUNTY | 2002140025B | 16-AUG-1999 | 99-07-790A | 02
07 | KS | MCPHERSON COUNTY | 2002140275B | 25-OCT-1999 | 99-07-918A | 02
07 | KS | MCPHERSON, CITY OF | 2002170010D | 22-NOV-1999 | 00-07-041A | 01
07 | KS | MCPHERSON, CITY OF | 2002170015D | 08-OCT-1999 | 99-07-717A | 02
07 | KS | MIAMI COUNTY | 200220A | 15-DEC-1999 | 00-07-094A | 02
07 | KS | MIAMI COUNTY | 200220A | 27-JUL-1999 | 99-07-729A | 02
07 | KS | NEWTON, CITY OF | 2001330005C | 15-JUL-1999 | 99-07-673A | 02
07 | KS | NEWTON, CITY OF | 2001330005C | 03-AUG-1999 | 99-07-761A | 02
07 | KS | NEWTON, CITY OF | 2001330005C | 01-SEP-1999 | 99-07-828A | 02
07 | KS | NICKERSON, CITY OF | 20155C0090D | 12-NOV-1999 | 00-07-029A | 02
07 | KS | OLATHE, CITY OF | 20091C0056D | 18-AUG-1999 | 99-07-408P | 05
07 | KS | OLATHE, CITY OF | 20091C0057D | 18-AUG-1999 | 99-07-408P | 05
07 | KS | OVERLAND PARK, CITY OF | 20091C0079E | 16-AUG-1999 | 99-07-428P | 05
07 | KS | OVERLAND PARK, CITY OF | 20092C0077D | 12-OCT-1999 | 99-07-740P | 05
07 | KS | PRATT, CITY OF | 2002780020D | 30-DEC-1999 | 00-07-050A | 02
07 | KS | SALINA, CITY OF | 2003190005B | 28-OCT-1999 | 00-07-006A | 02
07 | KS | SALINA, CITY OF | 2003190015B | 04-NOV-1999 | 00-07-020A | 02
07 | KS | SALINA, CITY OF | 2003190015B | 12-NOV-1999 | 00-07-034A | 02
07 | KS | SALINA, CITY OF | 2003190015B | 08-DEC-1999 | 00-07-039A | 01
07 | KS | SALINA, CITY OF | 2003160060B | 29-NOV-1999 | 00-07-058A | 02
07 | KS | SALINA, CITY OF | 2003190015B | 01-DEC-1999 | 00-07-069A | 02
07 | KS | SALINA, CITY OF | 2003190005B | 15-DEC-1999 | 00-07-089A | 02
07 | KS | SALINA, CITY OF | 2003190015B | 15-DEC-1999 | 00-07-090A | 02
07 | KS | SALINA, CITY OF | 2003190015B | 22-SEP-1999 | 99-07-669A | 02
07 | KS | SALINA, CITY OF | 2003190015B | 28-JUL-1999 | 99-07-745A | 02
07 | KS | SALINA, CITY OF | 2003190015B | 29-JUL-1999 | 99-07-751A | 02
07 | KS | SALINA, CITY OF | 2003190015B | 05-AUG-1999 | 99-07-756A | 02
07 | KS | SALINA, CITY OF | 2003160060B | 10-AUG-1999 | 99-07-775A | 02
07 | KS | SALINA, CITY OF | 2003190015B | 13-AUG-1999 | 99-07-778A | 02
07 | KS | SALINA, CITY OF | 2003190015B | 13-AUG-1999 | 99-07-783A | 02
07 | KS | SALINA, CITY OF | 2003190015B | 13-AUG-1999 | 99-07-785A | 02
07 | KS | SALINA, CITY OF | 2003190015B | 23-AUG-1999 | 99-07-799A | 02
07 | KS | SALINA, CITY OF | 2003190015B | 25-AUG-1999 | 99-07-811A | 02
07 | KS | SALINA, CITY OF | 2003190015B | 01-SEP-1999 | 99-07-830A | 02
07 | KS | SALINA, CITY OF | 2003190015B | 13-SEP-1999 | 99-07-838A | 02
07 | KS | SALINA, CITY OF | 2003190015B | 07-SEP-1999 | 99-07-863A | 02
07 | KS | SALINA, CITY OF | 2003190015B | 30-SEP-1999 | 99-07-868A | 01
07 | KS | SALINA, CITY OF | 2003160060B | 17-SEP-1999 | 99-07-878A | 02
07 | KS | SALINA, CITY OF | 2003190015B | 15-SEP-1999 | 99-07-885A | 02
07 | KS | SALINA, CITY OF | 2003190015B | 19-OCT-1999 | 99-07-943A | 02
07 | KS | SALINA, CITY OF | 2003190015B | 19-OCT-1999 | 99-07-947A | 02
07 | KS | SALINA, CITY OF | 2003160060B | 19-OCT-1999 | 99-07-948A | 02
07 | KS | SALINA, CITY OF | 2003190015B | 22-OCT-1999 | 99-07-953A | 02
07 | KS | SALINA, CITY OF | 2003190015B | 25-OCT-1999 | 99-07-962A | 02
07 | KS | SALINE COUNTY | 2003160090B | 04-NOV-1999 | 00-07-012A | 02
07 | KS | SALINE COUNTY | 2003160060B | 01-DEC-1999 | 00-07-023A | 01
07 | KS | SALINE COUNTY | 2003160125B | 12-NOV-1999 | 00-07-030A | 02
07 | KS | SALINE COUNTY | 2003160060B | 03-AUG-1999 | 99-07-677A | 02
07 | KS | SALINE COUNTY | 2003160025B | 19-AUG-1999 | 99-07-789A | 02
07 | KS | SALINE COUNTY | 2003160025B | 13-SEP-1999 | 99-07-858A | 02
07 | KS | SALINE COUNTY | 2003160065B | 30-SEP-1999 | 99-07-921A | 02
07 | KS | SALINE COUNTY | 2003160025B | 26-OCT-1999 | 99-07-939A | 02
07 | KS | SEDGWICK COUNTY | 2003210300A | 08-DEC-1999 | 00-07-085A | 02
07 | KS | SEDGWICK COUNTY | 2003210225A | 11-AUG-1999 | 99-07-525A | 01
07 | KS | SEDGWICK COUNTY | 2003210225A | 12-JUL-1999 | 99-07-701A | 02
07 | KS | SEDGWICK COUNTY | 2003210300A | 12-JUL-1999 | 99-07-702A | 02
07 | KS | SEDGWICK COUNTY | 2003210150A | 12-JUL-1999 | 99-07-710A | 02
07 | KS | SEDGWICK COUNTY | 2003210150A | 19-OCT-1999 | 99-07-864A | 01
07 | KS | SEDGWICK COUNTY | 2003210300A | 22-OCT-1999 | 99-07-952A | 02
07 | KS | SHAWNEE COUNTY | 2003310025C | 06-JUL-1999 | 99-07-583A | 02
07 | KS | SHAWNEE COUNTY | 2003310065C | 02-JUL-1999 | 99-07-598A | 02
07 | KS | TOPEKA, CITY OF | 2051870011C | 30-SEP-1999 | 99-07-880A | 02
07 | KS | WICHITA, CITY OF | 2003280035B | 28-OCT-1999 | 00-07-010A | 02
07 | KS | WICHITA, CITY OF | 2003280015B | 12-NOV-1999 | 00-07-028A | 02
07 | KS | WICHITA, CITY OF | 2003280005B | 22-NOV-1999 | 00-07-044A | 02
07 | KS | WICHITA, CITY OF | 2003280020B | 29-NOV-1999 | 00-07-059A | 02
07 | KS | WICHITA, CITY OF | 2003280020B | 08-DEC-1999 | 00-07-083A | 02
07 | KS | WICHITA, CITY OF | 2003280030B | 12-JUL-1999 | 99-07-711A | 02
07 | KS | WICHITA, CITY OF | 2003280005B | 19-JUL-1999 | 99-07-715A | 02
07 | KS | WICHITA, CITY OF | 2003280015B | 30-JUL-1999 | 99-07-752A | 01
07 | KS | WICHITA, CITY OF | 2003280020B | 27-JUL-1999 | 99-07-788A | 02
07 | KS | WICHITA, CITY OF | 2003280035B | 25-AUG-1999 | 99-07-808A | 02
07 | KS | WICHITA, CITY OF | 2003280035B | 01-SEP-1999 | 99-07-824A | 02
07 | KS | WICHITA, CITY OF | 2003280005B | 01-SEP-1999 | 99-07-825A | 02
07 | KS | WICHITA, CITY OF | 2003280035B | 02-SEP-1999 | 99-07-840A | 02
07 | KS | WICHITA, CITY OF | 2003280035B | 15-SEP-1999 | 99-07-861A | 02
07 | KS | WICHITA, CITY OF | 2003280020B | 15-SEP-1999 | 99-07-870A | 02
07 | KS | WICHITA, CITY OF | 2003280035B | 15-SEP-1999 | 99-07-874A | 02
07 | KS | WICHITA, CITY OF | 2003280005B | 17-SEP-1999 | 99-07-882A | 02
07 | KS | WICHITA, CITY OF | 2003280025B | 17-SEP-1999 | 99-07-884A | 02
07 | KS | WICHITA, CITY OF | 2003280035B | 23-SEP-1999 | 99-07-897A | 02
07 | KS | WICHITA, CITY OF | 2003280035B | 23-SEP-1999 | 99-07-905A | 02
07 | KS | WICHITA, CITY OF | 2003280035B | 28-SEP-1999 | 99-07-907A | 02
07 | KS | WICHITA, CITY OF | 2003280015B | 07-OCT-1999 | 99-07-922A | 02
07 | MO | BLUE SPRINGS, CITY OF | 2904920137B | 30-SEP-1999 | 99-07-394A | 02
07 | MO | BOONE COUNTY | 2900340108B | 08-NOV-1999 | 00-07-022A | 02
07 | MO | BUCKNER, CITY OF | 2901700001B | 08-OCT-1999 | 99-07-923A | 02
07 | MO | CAMDEN COUNTY | 2907890001B | 13-OCT-1999 | 99-07-843A | 02
07 | MO | CAMDEN COUNTY | 2907890006A | 15-NOV-1999 | 99-07-934A | 02
07 | MO | CAMDEN COUNTY | 2907890005B | 04-NOV-1999 | 99-07-950A | 02
07 | MO | CAPE GIRARDEAU COUNTY | 2907900130B | 12-JUL-1999 | 99-07-703A | 02
07 | MO | CAPE GIRARDEAU, CITY OF | 2904580007B | 28-JUL-1999 | 99-07-736A | 02
07 | MO | CAPE GIRARDEAU, CITY OF | 2904580006B | 17-AUG-1999 | 99-07-779A | 01
07 | MO | CASS COUNTY | 2907830050C | 06-JUL-1999 | 99-07-689A | 02
07 | MO | CASS COUNTY | 2907830025C | 24-SEP-1999 | 99-07-820A | 02
07 | MO | CHESTERFIELD, CITY OF | 29189C0120H | 24-NOV-1999 | 99-07-656P | 05
07 | MO | CHESTERFIELD, CITY OF | 29189C0138H | 24-NOV-1999 | 99-07-656P | 05
07 | MO | CHESTERFIELD, CITY OF | 29189C0140H | 24-NOV-1999 | 99-07-656P | 05
07 | MO | CHRISTIAN COUNTY | 2908470003A | 19-OCT-1999 | 99-07-944A | 02
07 | MO | CLAY COUNTY | 2900860050B | 19-OCT-1999 | 99-07-945A | 02
07 | MO | COLE COUNTY | 2901070080B | 29-NOV-1999 | 00-07-038A | 02
07 | MO | COLUMBIA, CITY OF | 2900360005C | 15-DEC-1999 | 00-07-001A | 02
07 | MO | COTTLEVILLE, CITY OF | 29183C0244E | 08-SEP-1999 | 99-07-814A | 01
07 | MO | CRAWFORD COUNTY | 2907950003B | 24-AUG-1999 | 99-07-576A | 02
07 | MO | CRAWFORD COUNTY | 2907950006B | 05-OCT-1999 | 99-07-894A | 02
07 | MO | CREVE COEUR, CITY OF | 29189C0166H | 13-DEC-1999 | 00-07-139A | 02
07 | MO | CREVE COEUR, CITY OF | 29189C0164H | 06-JUL-1999 | 99-07-676A | 02
07 | MO | CRYSTAL CITY,CITY OF | 2901890005C | 28-SEP-1999 | 99-07-169P | 05
07 | MO | DARDENNE PRAIRIE, TOWN OF | 29183C0430E | 15-DEC-1999 | 00-07-091A | 01
07 | MO | DES PERES, CITY OF | 29189C0281H | 07-JUL-1999 | 99-07-538A | 02
07 | MO | DES PERES, CITY OF | 29189C0279H | 27-AUG-1999 | 99-07-818A | 02
07 | MO | EXCELSIOR SPRINGS, CITY OF | 2900900002B | 30-JUL-1999 | 99-07-758A | 02
07 | MO | FENTON, CITY OF | 29189C0289H | 07-JUL-1999 | 99-07-575A | 01
07 | MO | FERGUSON, CITY OF | 29189C0181H | 15-NOV-1999 | 99-07-941A | 01
07 | MO | FLORISSANT, CITY OF | 29189C0062H | 30-DEC-1999 | 00-07-073A | 02
07 | MO | FLORISSANT, CITY OF | 29189C0062H | 14-JUL-1999 | 99-07-728A | 02
07 | MO | GASCONADE COUNTY | 2908010125B | 13-OCT-1999 | 99-07-862A | 02
07 | MO | GREEN PARK, CITY OF | 29189C0315H | 23-AUG-1999 | 99-07-851A | 01
07 | MO | GREENE COUNTY | 2907820070B | 16-NOV-1999 | 00-07-014A | 02
07 | MO | GREENE COUNTY | 2907820125B | 27-JUL-1999 | 99-07-741A | 02
07 | MO | JACKSON, CITY OF | 2952650001C | 07-JUL-1999 | 99-07-693A | 02
07 | MO | JASPER COUNTY | 2908070200B | 16-NOV-1999 | 00-07-008A | 02
07 | MO | JEFFERSON COUNTY | 2908080020B | 12-NOV-1999 | 00-07-040A | 02
07 | MO | JEFFERSON COUNTY | 290808IND0 | 09-DEC-1999 | 99-07-642P | 06
07 | MO | JEFFERSON COUNTY | 2908080080C | 09-JUL-1999 | 99-07-699A | 02
07 | MO | JEFFERSON COUNTY | 2908080090D | 13-AUG-1999 | 99-07-707A | 02
07 | MO | JEFFERSON COUNTY | 2908080080C | 14-JUL-1999 | 99-07-716A | 02
07 | MO | JEFFERSON COUNTY | 2908080085C | 07-OCT-1999 | 99-07-821A | 01
07 | MO | JEFFERSON COUNTY | 2908080120C | 23-SEP-1999 | 99-07-849A | 02
07 | MO | JEFFERSON COUNTY | 2908080080C | 07-SEP-1999 | 99-07-871A | 02
07 | MO | JEFFERSON COUNTY | 2908080090D | 07-SEP-1999 | 99-07-871A | 02
07 | MO | JEFFERSON COUNTY | 2908080105C | 22-SEP-1999 | 99-07-898A | 02
07 | MO | KANSAS CITY, CITY OF | 2901730115C | 08-SEP-1999 | 99-07-551P | 05
07 | MO | KIRKWOOD, CITY OF | 29189C0283H | 01-SEP-1999 | 99-07-691A | 02
07 | MO | KIRKWOOD, CITY OF | 29189C0284H | 23-AUG-1999 | 99-07-776A | 01
07 | MO | LADUE,CITY OF | 29189C0188H | 26-JUL-1999 | 99-07-738A | 02
07 | MO | LAKE ST. LOUIS, CITY OF | 29183C0220E | 09-JUL-1999 | 99-07-705A | 02
07 | MO | LAKE ST. LOUIS, CITY OF | 29183C0220E | 05-AUG-1999 | 99-07-759A | 02
07 | MO | LAKE WINNEBAGO, CITY OF | 2908770001A | 09-JUL-1999 | 99-07-709A | 01
07 | MO | LAKE WINNEBAGO, CITY OF | 2908770001A | 13-SEP-1999 | 99-07-856A | 02
07 | MO | LAMAR, CITY OF | 2900250001C | 03-AUG-1999 | 99-07-762A | 02
07 | MO | MANCHESTER, CITY OF | 29189C0259H | 12-NOV-1999 | 99-07-865A | 01
07 | MO | MARYLAND HEIGHTS, CITY OF | 29189C0158H | 20-SEP-1999 | 99-07-363P | 05
07 | MO | MILLER COUNTY | 2902260200A | 11-AUG-1999 | 99-07-784A | 02
07 | MO | MORGAN COUNTY | 2902440150A | 30-SEP-1999 | 99-07-908A | 02
07 | MO | NODAWAY COUNTY | 2908210120B | 22-SEP-1999 | 99-07-886A | 02
07 | MO | O'FALLON, CITY OF | 29183C0235E | 28-OCT-1999 | 00-07-005A | 01
07 | MO | O'FALLON, CITY OF | 29183C0230E | 08-SEP-1999 | 99-07-899A | 02
07 | MO | O'FALLON, CITY OF | 29183C0237E | 01-DEC-1999 | 99-07-902A | 01
07 | MO | O'FALLON, CITY OF | 29183C0240E | 01-DEC-1999 | 99-07-902A | 01
07 | MO | O'FALLON, CITY OF | 29183C0239E | 19-OCT-1999 | 99-07-940A | 02
07 | MO | PEVELY, CITY OF | 290677A | 15-DEC-1999 | 00-07-092A | 02
07 | MO | PLATTE COUNTY | 2904750125A | 30-JUL-1999 | 99-07-647A | 01
07 | MO | PLATTE COUNTY | 2904750165A | 17-AUG-1999 | 99-07-793A | 02
07 | MO | PLATTE COUNTY | 2904750075A | 15-SEP-1999 | 99-07-837A | 02
07 | MO | PLEASANT VALLEY, CITY OF | 2901000001A | 22-SEP-1999 | 99-07-800A | 02
07 | MO | POPLAR BLUFF, CITY OF | 2900470004C | 30-DEC-1999 | 00-07-112A | 02
07 | MO | POPLAR BLUFF, CITY OF | 2900470002C | 27-DEC-1999 | 99-07-946P | 05
07 | MO | POPLAR BLUFF, CITY OF | 2900470004C | 27-DEC-1999 | 99-07-946P | 05
07 | MO | RALLS COUNTY | 2903020002B | 12-NOV-1999 | 99-07-959A | 02
07 | MO | RIPLEY COUNTY | 2908300125A | 16-AUG-1999 | 99-07-524A | 02
07 | MO | ST. ANN, CITY OF | 29189C0157H | 03-AUG-1999 | 99-07-760A | 02
07 | MO | ST. CHARLES COUNTY | 29183C0451E | 05-AUG-1999 | 99-07-764A | 02
07 | MO | ST. CHARLES, CITY OF | 29183C0286E | 22-NOV-1999 | 00-07-048A | 02
07 | MO | ST. CHARLES, CITY OF | 29183C0260E | 06-DEC-1999 | 00-07-068A | 01
07 | MO | ST. CHARLES, CITY OF | 29183C0286E | 20-DEC-1999 | 00-07-098A | 02
07 | MO | ST. CHARLES, CITY OF | 29183C0260E | 21-DEC-1999 | 00-07-124A | 01
07 | MO | ST. CHARLES, CITY OF | 29183C0280E | 22-DEC-1999 | 00-07-135A | 01
07 | MO | ST. CHARLES, CITY OF | 29183C0286E | 29-JUL-1999 | 99-07-750A | 02
07 | MO | ST. CHARLES, CITY OF | 29183C0286E | 22-NOV-1999 | 99-07-960A | 02
07 | MO | ST. LOUIS COUNTY | 29189C0415H | 20-DEC-1999 | 00-07-103A | 02
07 | MO | ST. LOUIS COUNTY | 29189C0320H | 30-DEC-1999 | 00-07-119A | 02
07 | MO | ST. LOUIS COUNTY | 29189C0069H | 15-JUL-1999 | 99-07-272A | 02
07 | MO | ST. LOUIS COUNTY | 29189C0069H | 03-AUG-1999 | 99-07-521A | 02
07 | MO | ST. LOUIS COUNTY | 29189C0267H | 30-JUL-1999 | 99-07-661A | 01
07 | MO | ST. LOUIS COUNTY | 29189C0315H | 09-JUL-1999 | 99-07-692A | 01
07 | MO | ST. LOUIS COUNTY | 29189C0267H | 30-JUL-1999 | 99-07-772A | 01
07 | MO | ST. LOUIS COUNTY | 29189C0405H | 25-AUG-1999 | 99-07-810A | 02
07 | MO | ST. LOUIS COUNTY | 29189C0410H | 01-SEP-1999 | 99-07-822A | 01
07 | MO | ST. LOUIS COUNTY | 29189C0278H | 01-SEP-1999 | 99-07-823A | 01
07 | MO | ST. LOUIS COUNTY | 29189C0267H | 23-SEP-1999 | 99-07-887A | 17
07 | MO | ST. LOUIS COUNTY | 29189C0316H | 17-SEP-1999 | 99-07-891A | 02
07 | MO | ST. LOUIS COUNTY | 29189C0182H | 28-SEP-1999 | 99-07-906A | 01
07 | MO | ST. PETERS, CITY OF | 29183C0244E | 22-NOV-1999 | 00-07-042A | 02
07 | MO | ST. PETERS, CITY OF | 29183C0264E | 08-DEC-1999 | 00-07-064A | 02
07 | MO | ST. PETERS, CITY OF | 29183C0264E | 15-DEC-1999 | 00-07-096A | 02
07 | MO | ST. PETERS, CITY OF | 29183C0242E | 02-JUL-1999 | 99-07-599A | 01
07 | MO | ST. PETERS, CITY OF | 29183C0242E | 18-AUG-1999 | 99-07-612A | 01
07 | MO | ST. PETERS, CITY OF | 29183C0242E | 06-JUL-1999 | 99-07-685A | 02
07 | MO | ST. PETERS, CITY OF | 29183C0264E | 06-JUL-1999 | 99-07-688A | 02
07 | MO | ST. PETERS, CITY OF | 29183C0242E | 13-AUG-1999 | 99-07-713A | 02
07 | MO | ST. PETERS, CITY OF | 29183C0264E | 22-JUL-1999 | 99-07-719A | 02
07 | MO | ST. PETERS, CITY OF | 29183C0263E | 22-JUL-1999 | 99-07-734A | 02
07 | MO | ST. PETERS, CITY OF | 29183C0242E | 15-JUL-1999 | 99-07-767A | 01
07 | MO | ST. PETERS, CITY OF | 29183C0262E | 22-OCT-1999 | 99-07-797A | 01
07 | MO | ST. PETERS, CITY OF | 29183C0242E | 25-AUG-1999 | 99-07-812A | 02
07 | MO | ST. PETERS, CITY OF | 29183C0242E | 10-SEP-1999 | 99-07-841A | 01
07 | MO | ST. PETERS, CITY OF | 29183C0244E | 13-OCT-1999 | 99-07-935A | 02
07 | MO | ST. PETERS, CITY OF | 29183C0242E | 19-OCT-1999 | 99-07-942A | 02
07 | MO | STEELE, CITY OF | 2902790005B | 20-DEC-1999 | 00-07-053P | 05
07 | MO | SUNSET HILLS, CITY OF | 29189C0293H | 29-NOV-1999 | 99-07-872A | 02
07 | MO | TROY, CITY OF | 2906410002A | 09-JUL-1999 | 99-07-253P | 05
07 | MO | UNIVERSITY CITY, CITY OF | 29189C0187H | 26-AUG-1999 | 99-07-817A | 02
07 | MO | WARREN COUNTY | 2904430075C | 08-NOV-1999 | 00-07-015A | 02
07 | MO | WARREN COUNTY | 2904430125B | 01-DEC-1999 | 00-07-060A | 02
07 | MO | WARREN COUNTY | 2904430075C | 04-AUG-1999 | 99-07-801P | 06
07 | MO | WARREN COUNTY | 2904430075C | 12-NOV-1999 | 99-07-916A | 02
07 | NE | AURORA, CITY OF | 3101050005C | 29-OCT-1999 | 99-07-938A | 01
07 | NE | BELLEVUE, CITY OF | 31153C0070F | 15-DEC-1999 | 00-07-093A | 01
07 | NE | BELLEVUE, CITY OF | 31153C0065F | 09-JUL-1999 | 99-07-700A | 02
07 | NE | BELLEVUE, CITY OF | 31153C0070F | 27-JUL-1999 | 99-07-721A | 01
07 | NE | BUFFALO COUNTY | 3104190015B | 10-DEC-1999 | 00-07-076A | 02
07 | NE | BURT COUNTY | 3104200005A | 05-AUG-1999 | 99-07-774A | 02
07 | NE | COLFAX COUNTY | 3104260005B | 30-JUL-1999 | 99-07-735A | 02
07 | NE | COLUMBUS, CITY OF | 3152720005D | 25-OCT-1999 | 99-07-553P | 06
07 | NE | CRETE, CITY OF | 3101860003C | 29-NOV-1999 | 00-07-049A | 02
07 | NE | CUMING COUNTY | 3104270004B | 15-JUL-1999 | 99-07-679A | 02
07 | NE | CUMING COUNTY | 3104270004B | 13-AUG-1999 | 99-07-782A | 02
07 | NE | CUMING COUNTY | 3104270004B | 30-SEP-1999 | 99-07-909A | 02
07 | NE | DEWITT, VILLAGE OF | 3101870005A | 06-DEC-1999 | 00-07-057A | 01
07 | NE | DODGE COUNTY | 3100680150B | 22-OCT-1999 | 00-07-007A | 02
07 | NE | FREMONT, CITY OF | 3100690002C | 29-JUL-1999 | 99-07-749A | 01
07 | NE | GAGE COUNTY | 3100880001B | 15-SEP-1999 | 99-07-845A | 02
07 | NE | GOTHENBURG, CITY OF | 3100620005B | 08-NOV-1999 | 00-07-027A | 02
07 | NE | GRAND ISLAND, CITY OF | 3101030050C | 29-OCT-1999 | 00-07-004A | 02
07 | NE | GRAND ISLAND, CITY OF | 3101030015B | 29-OCT-1999 | 00-07-011A | 02
07 | NE | GRAND ISLAND, CITY OF | 3101030015B | 29-OCT-1999 | 00-07-013A | 02
07 | NE | GRAND ISLAND, CITY OF | 3101030015B | 08-NOV-1999 | 00-07-025A | 02
07 | NE | GRAND ISLAND, CITY OF | 3101030015B | 29-NOV-1999 | 00-07-063A | 02
07 | NE | GRAND ISLAND, CITY OF | 3101030015B | 15-DEC-1999 | 00-07-088A | 02
07 | NE | GRAND ISLAND, CITY OF | 3101030010B | 21-DEC-1999 | 00-07-104A | 02
07 | NE | GRAND ISLAND, CITY OF | 3101030015B | 26-JUL-1999 | 99-07-737A | 02
07 | NE | GRAND ISLAND, CITY OF | 3101030005B | 14-JUL-1999 | 99-07-739A | 02
07 | NE | GRAND ISLAND, CITY OF | 3101030020B | 26-JUL-1999 | 99-07-747A | 02
07 | NE | GRAND ISLAND, CITY OF | 3101030010B | 05-AUG-1999 | 99-07-766A | 02
07 | NE | GRAND ISLAND, CITY OF | 3101030010B | 18-AUG-1999 | 99-07-791A | 02
07 | NE | GRAND ISLAND, CITY OF | 3101030010B | 18-AUG-1999 | 99-07-792A | 02
07 | NE | GRAND ISLAND, CITY OF | 3101030020B | 23-AUG-1999 | 99-07-804A | 02
07 | NE | GRAND ISLAND, CITY OF | 3101030020B | 26-AUG-1999 | 99-07-813A | 02
07 | NE | GRAND ISLAND, CITY OF | 3101030020B | 27-AUG-1999 | 99-07-819A | 02
07 | NE | GRAND ISLAND, CITY OF | 3101030015B | 02-SEP-1999 | 99-07-836A | 02
07 | NE | GRAND ISLAND, CITY OF | 3101030010B | 17-SEP-1999 | 99-07-877A | 02
07 | NE | GRAND ISLAND, CITY OF | 3101030020B | 13-SEP-1999 | 99-07-883A | 02
07 | NE | GRAND ISLAND, CITY OF | 3101030020B | 22-SEP-1999 | 99-07-893A | 02
07 | NE | GRAND ISLAND, CITY OF | 3101030015B | 30-SEP-1999 | 99-07-901A | 02
07 | NE | GRAND ISLAND, CITY OF | 3101030020B | 30-SEP-1999 | 99-07-903A | 02
07 | NE | GRAND ISLAND, CITY OF | 3101030010B | 08-OCT-1999 | 99-07-924A | 02
07 | NE | GRAND ISLAND, CITY OF | 3101030010B | 08-OCT-1999 | 99-07-926A | 02
07 | NE | GRAND ISLAND, CITY OF | 3101030015B | 13-OCT-1999 | 99-07-928A | 02
07 | NE | HALL COUNTY | 3101000100C | 15-SEP-1999 | 99-07-754P | 06
07 | NE | HALL COUNTY | 3101000100C | 08-SEP-1999 | 99-07-765A | 02
07 | NE | HALL COUNTY | 3101000025C | 13-AUG-1999 | 99-07-781A | 02
07 | NE | HALL COUNTY | 3101000100C | 15-SEP-1999 | 99-07-873A | 02
07 | NE | HAMILTON COUNTY | 3104410075A | 15-JUL-1999 | 99-07-718A | 02
07 | NE | HAMILTON COUNTY | 3104410050A | 15-SEP-1999 | 99-07-860A | 01
07 | NE | HAMILTON COUNTY | 3104410025A | 15-SEP-1999 | 99-07-869A | 02
07 | NE | HARTINGTON, CITY OF | 3103760005A | 27-JUL-1999 | 99-07-720A | 02
07 | NE | LINCOLN, CITY OF | 3152730025D | 22-NOV-1999 | 00-07-046A | 02
07 | NE | LINCOLN, CITY OF | 3152730025D | 18-AUG-1999 | 99-07-809A | 01
07 | NE | LINCOLN, CITY OF | 3152730025D | 13-SEP-1999 | 99-07-846A | 02
07 | NE | LINCOLN, CITY OF | 3152730025D | 24-SEP-1999 | 99-07-919A | 01
07 | NE | MERRICK COUNTY | 3104570150A | 22-NOV-1999 | 00-07-055A | 02
07 | NE | MERRICK COUNTY | 3104570150A | 14-JUL-1999 | 99-07-696A | 02
07 | NE | NEMAHA COUNTY | 3104600075A | 28-JUL-1999 | 99-07-617A | 02
07 | NE | NORFOLK, CITY OF | 3101470020C | 13-AUG-1999 | 99-07-744A | 02
07 | NE | OMAHA, CITY OF | 3152740045G | 15-DEC-1999 | 00-07-036A | 01
07 | NE | OMAHA, CITY OF | 3152740045G | 29-NOV-1999 | 00-07-045A | 02
07 | NE | OMAHA, CITY OF | 3152740045G | 01-DEC-1999 | 00-07-105A | 02
07 | NE | OMAHA, CITY OF | 3152740040F | 23-JUL-1999 | 99-07-405P | 05
07 | NE | OMAHA, CITY OF | 3152740045G | 23-JUL-1999 | 99-07-405P | 05
07 | NE | OMAHA, CITY OF | 3152740050F | 30-SEP-1999 | 99-07-915A | 02
07 | NE | OMAHA, CITY OF | 3152740025F | 22-OCT-1999 | 99-07-955A | 02
07 | NE | PAPILLION, CITY OF | 31153C0045F | 14-JUL-1999 | 99-07-772P | 05
07 | NE | PAPILLION, CITY OF | 31153C0065F | 14-JUL-1999 | 99-07-772P | 05
07 | NE | PLATTE COUNTY | 3104670009C | 17-AUG-1999 | 99-07-803A | 02
07 | NE | SARPY COUNTY | 31153C0135F | 03-NOV-1999 | 00-07-019A | 02
07 | NE | SARPY COUNTY | 31153C0045F | 14-JUL-1999 | 99-07-772P | 05
07 | NE | SARPY COUNTY | 31153C0065F | 14-JUL-1999 | 99-07-772P | 05
07 | NE | SCHUYLER, CITY OF | 3100460005B | 13-OCT-1999 | 99-07-895A | 02
07 | NE | SCHUYLER, CITY OF | 3100460005B | 13-OCT-1999 | 99-07-937A | 02
07 | NE | STUART, VILLAGE OF | 310400B | 14-JUL-1999 | 99-07-695A | 01
07 | NE | WASHINGTON COUNTY | 3104830100B | 15-SEP-1999 | 99-07-852A | 02
07 | NE | YORK, CITY OF | 3102370010B | 01-SEP-1999 | 99-07-826A | 02
08 | CO | ADAMS COUNTY | 08001C0010G | 05-AUG-1999 | 99-08-109P | 06
08 | CO | ARAPAHOE COUNTY | 08005C0480J | 15-JUL-1999 | 98-08-452P | 05
08 | CO | ARAPAHOE COUNTY | 08005C0345J | 12-OCT-1999 | 99-08-192P | 05
08 | CO | ARAPAHOE COUNTY | 08005C0480J | 26-AUG-1999 | 99-08-193P | 05
08 | CO | ARAPAHOE COUNTY | 08005C0485J | 12-OCT-1999 | 99-08-218P | 05
08 | CO | ARAPAHOE COUNTY | 08005C0505J | 19-OCT-1999 | 99-08-397P | 06
08 | CO | ARAPAHOE COUNTY | 08005C0480J | 29-OCT-1999 | 99-08-421A | 01
08 | CO | ARAPAHOE COUNTY | 08005C0485J | 29-OCT-1999 | 99-08-421A | 01
08 | CO | BOULDER COUNTY | 08013C0288F | 05-OCT-1999 | 99-08-260P | 05
08 | CO | BOULDER COUNTY | 08013C0289F | 05-OCT-1999 | 99-08-260P | 05
08 | CO | BOULDER, CITY OF | 08013C0415F | 15-DEC-1999 | 00-08-017A | 02
08 | CO | BOULDER, CITY OF | 08013C0395F | 09-NOV-1999 | 98-08-169P | 05
08 | CO | BOULDER, CITY OF | 08013C0395F | 01-JUL-1999 | 99-08-258P | 06
08 | CO | BOULDER, CITY OF | 08013C0395F | 15-JUL-1999 | 99-08-268A | 02
08 | CO | BOULDER, CITY OF | 08013C0395F | 12-OCT-1999 | 99-08-343P | 05
08 | CO | BOULDER, CITY OF | 08013C0395F | 22-JUL-1999 | 99-08-347A | 02
08 | CO | CASTLE ROCK, TOWN OF | 0800500170C | 03-DEC-1999 | 99-08-304P | 06
08 | CO | CASTLE ROCK, TOWN OF | 0800500188C | 03-DEC-1999 | 99-08-304P | 06
08 | CO | CHAFFEE COUNTY | 0802690210B | 13-OCT-1999 | 99-08-437A | 02
08 | CO | CHERRY HILLS VILLAGE, CITY OF | 08005C0170J | 27-JUL-1999 | 99-08-330A | 01
08 | CO | COLORADO SPRINGS, CITY OF | 08041C0761F | 14-DEC-1999 | 98-08-372P | 06
08 | CO | COLORADO SPRINGS, CITY OF | 08041C0503F | 01-JUL-1999 | 99-08-074P | 05
08 | CO | COLUMBINE VALLEY, TOWN OF | 08005C0345J | 12-OCT-1999 | 99-08-192P | 05
08 | CO | DENVER, CITY AND COUNTY OF | 0800460008C | 22-DEC-1999 | 98-08-440P | 06
08 | CO | DENVER, CITY AND COUNTY OF | 0800460018C | 24-SEP-1999 | 99-08-388A | 02
08 | CO | DENVER, CITY AND COUNTY OF | 0800460012F | 22-OCT-1999 | 99-08-446A | 02
08 | CO | DOUGLAS COUNTY | 0800490070E | 12-OCT-1999 | 99-08-218P | 05
08 | CO | DOUGLAS COUNTY | 0800490170C | 03-DEC-1999 | 99-08-304P | 06
08 | CO | DOUGLAS COUNTY | 0800490188C | 03-DEC-1999 | 99-08-304P | 06
08 | CO | EAGLE COUNTY | 0800510240C | 11-AUG-1999 | 99-08-300A | 02
08 | CO | EATON, TOWN OF | 0801800001C | 08-DEC-1999 | 00-08-046A | 02
08 | CO | EL PASO COUNTY | 08041C0490F | 20-DEC-1999 | 00-08-030A | 02
08 | CO | EL PASO COUNTY | 08041C0575F | 07-JUL-1999 | 99-08-322A | 02
08 | CO | EL PASO COUNTY | 08041C0276F | 05-OCT-1999 | 99-08-415A | 17
08 | CO | ESTES PARK,TOWN OF | 0801930002B | 17-SEP-1999 | 99-08-379A | 02
08 | CO | ESTES PARK,TOWN OF | 0801930001B | 18-AUG-1999 | 99-08-384A | 02
08 | CO | FORT COLLINS, CITY OF | 0801020004C | 22-DEC-1999 | 99-08-307P | 05
08 | CO | FORT COLLINS, CITY OF | 0801020012C | 22-DEC-1999 | 99-08-307P | 05
08 | CO | FORT COLLINS, CITY OF | 0801020016C | 22-DEC-1999 | 99-08-307P | 05
08 | CO | FREMONT COUNTY | 0800670275B | 22-OCT-1999 | 99-08-443A | 02
08 | CO | FREMONT COUNTY | 0800670325B | 13-DEC-1999 | 99-08-451A | 02
08 | CO | GILPIN COUNTY | 080075B | 02-SEP-1999 | 99-08-339A | 02
08 | CO | GILPIN COUNTY | 080075B | 08-SEP-1999 | 99-08-394A | 02
08 | CO | GUNNISON COUNTY | 0800780775B | 30-JUL-1999 | 99-08-338A | 02
08 | CO | GUNNISON COUNTY | 0800780755B | 13-SEP-1999 | 99-08-406A | 02
08 | CO | GUNNISON COUNTY | 0800780800B | 12-NOV-1999 | 99-08-440A | 02
08 | CO | GYPSUM, TOWN OF | 0802950001C | 05-OCT-1999 | 99-08-434P | 05
08 | CO | JEFFERSON COUNTY | 0800870380C | 22-NOV-1999 | 00-08-018A | 02
08 | CO | JEFFERSON COUNTY | 0800870170B | 15-DEC-1999 | 00-08-053A | 02
08 | CO | JEFFERSON COUNTY | 0800870165B | 22-DEC-1999 | 99-08-365P | 05
08 | CO | LARIMER COUNTY | 0801010179E | 22-DEC-1999 | 99-08-307P | 05
08 | CO | LARIMER COUNTY | 0801010193E | 22-DEC-1999 | 99-08-307P | 05
08 | CO | LOGAN COUNTY | 0801100335B | 15-DEC-1999 | 00-08-052A | 01
08 | CO | LOGAN COUNTY | 0801100335B | 12-JUL-1999 | 99-08-299A | 02
08 | CO | LONGMONT, CITY OF | 08013C0288F | 05-OCT-1999 | 99-08-260P | 05
08 | CO | LONGMONT, CITY OF | 08013C0289F | 05-OCT-1999 | 99-08-260P | 05
08 | CO | MONTEZUMA COUNTY | 0802850225B | 15-SEP-1999 | 99-08-407A | 02
08 | CO | MORGAN COUNTY | 0801290175C | 03-NOV-1999 | 99-08-423A | 02
08 | CO | SEVERANCE, TOWN OF | 0803170001A | 03-NOV-1999 | 99-08-427A | 01
08 | CO | TELLURIDE, TOWN OF | 08113C0287D | 24-AUG-1999 | 99-08-372A | 01
08 | CO | THORNTON, CITY OF | 08001C0030G | 06-DEC-1999 | 00-08-011P | 06
08 | CO | THORNTON, CITY OF | 08001C0036G | 06-DEC-1999 | 00-08-011P | 06
08 | CO | WALDEN, TOWN OF | 080086B | 28-OCT-1999 | 00-08-003A | 02
08 | CO | WESTMINSTER, CITY OF | 08001C0010G | 05-AUG-1999 | 99-08-109P | 06
08 | CO | WESTMINSTER, CITY OF | 0800080007D | 16-AUG-1999 | 99-08-284P | 05
08 | MT | FLATHEAD COUNTY | 3000232290C | 22-NOV-1999 | 00-08-021A | 02
08 | MT | FLATHEAD COUNTY | 3000232290C | 30-SEP-1999 | 99-08-398A | 02
08 | MT | GALLATIN COUNTY | 3000270315B | 17-AUG-1999 | 99-08-316A | 02
08 | MT | GALLATIN COUNTY | 3000270305B | 07-JUL-1999 | 99-08-323A | 02
08 | MT | MISSOULA COUNTY | 30063C1215D | 27-AUG-1999 | 99-08-362A | 02
08 | MT | MISSOULA COUNTY | 30063C1465D | 06-AUG-1999 | 99-08-368A | 02
08 | MT | MISSOULA COUNTY | 30063C1480D | 01-SEP-1999 | 99-08-370A | 02
08 | MT | MISSOULA COUNTY | 30063C1460D | 10-SEP-1999 | 99-08-380A | 02
08 | MT | MISSOULA, CITY OF | 30063C1480D | 07-OCT-1999 | 99-08-432A | 02
08 | MT | PARK COUNTY | 3001600016B | 17-SEP-1999 | 99-08-320A | 02
08 | MT | PARK COUNTY | 3001600016B | 22-OCT-1999 | 99-08-381A | 02
08 | MT | RAVALLI COUNTY | 30081C0035C | 30-SEP-1999 | 99-08-290A | 02
08 | MT | RAVALLI COUNTY | 30081C0035C | 24-AUG-1999 | 99-08-302A | 02
08 | MT | RAVALLI COUNTY | 30081C0035C | 01-SEP-1999 | 99-08-389A | 02
08 | MT | RAVALLI COUNTY | 30081C0035C | 07-SEP-1999 | 99-08-402A | 02
08 | MT | RICHLAND COUNTY | 3001650525B | 05-AUG-1999 | 99-08-361A | 02
08 | MT | SANDERS COUNTY | 3000720023B | 22-OCT-1999 | 99-08-310A | 02
08 | MT | SIDNEY, CITY OF | 3000650005B | 25-AUG-1999 | 99-08-350A | 01
08 | MT | TETON COUNTY | 3001680400B | 15-NOV-1999 | 00-08-007A | 02
08 | MT | THREE FORKS, TOWN OF | 3000290001B | 29-NOV-1999 | 00-08-025A | 02
08 | MT | WHITEFISH, CITY OF | 3000231090C | 25-OCT-1999 | 00-08-009A | 02
08 | ND | BISMARCK, CITY OF | 3801490015A | 15-JUL-1999 | 99-08-329A | 02
08 | ND | BISMARCK, CITY OF | 3801490025A | 19-OCT-1999 | 99-08-413A | 01
08 | ND | BRANDENBURG, TOWNSHIP OF | 3806220001B | 27-JUL-1999 | 99-08-341A | 02
08 | ND | CENTER,TOWNSHIP OF | 3806480005B | 29-JUL-1999 | 99-08-355A | 02
08 | ND | DICKINSON, CITY OF | 3801170005D | 22-DEC-1999 | 00-08-061A | 02
08 | ND | HAZEN, CITY OF | 3800670005D | 15-DEC-1999 | 00-08-050A | 02
08 | ND | MANDAN, CITY OF | 3800720020D | 26-JUL-1999 | 99-08-336A | 01
08 | ND | MAPLETON, TOWNSHIP OF | 3802620001B | 10-SEP-1999 | 99-08-385A | 01
08 | ND | PARK RIVER, CITY OF | 3801390002B | 15-DEC-1999 | 99-08-448A | 17
08 | ND | PLEASANT, TOWNSHIP OF | 3802630025A | 26-JUL-1999 | 99-08-353A | 02
08 | ND | STANLEY, TOWNSHIP OF | 3802580005B | 20-SEP-1999 | 99-08-403A | 02
08 | ND | WALSH COUNTY | 3801350008B | 15-JUL-1999 | 99-08-175A | 02
08 | SD | BOX ELDER, CITY OF | 4600890002B | 13-SEP-1999 | 99-08-405A | 01
08 | SD | BROWN COUNTY | 46013C0265C | 26-OCT-1999 | 99-08-246A | 01
08 | SD | CLARK, CITY OF | 460013B | 29-JUL-1999 | 99-08-308A | 02
08 | SD | CUSTER COUNTY | 4600180225B | 24-SEP-1999 | 99-08-417A | 02
08 | SD | LAKE COUNTY | 4602760150B | 13-OCT-1999 | 00-08-010A | 02
08 | SD | LEAD, CITY OF | 4600940125B | 26-OCT-1999 | 99-08-442A | 02
08 | SD | LINCOLN COUNTY | 4602770001B | 13-AUG-1999 | 99-08-375A | 02
08 | SD | LINCOLN COUNTY | 4602770001B | 29-OCT-1999 | 99-08-449A | 02
08 | SD | PHILIP, CITY OF | 460033B | 22-JUL-1999 | 99-08-335A | 02
08 | SD | RAPID CITY, CITY OF | 4654200008F | 13-DEC-1999 | 00-08-036A | 01
08 | SD | SIOUX FALLS, CITY OF | 4600570110B | 09-AUG-1999 | 99-08-328A | 01
08 | SD | SIOUX FALLS, CITY OF | 4600600015C | 15-NOV-1999 | 99-08-414A | 01
08 | SD | SPEARFISH, CITY OF | 4600460001D | 15-JUL-1999 | 99-08-271A | 01
08 | SD | SPEARFISH, CITY OF | 4600460005D | 25-OCT-1999 | 99-08-360A | 02
08 | SD | SPEARFISH, CITY OF | 4600460001D | 03-AUG-1999 | 99-08-383A | 01
08 | SD | WATERTOWN, CITY OF | 4600160010B | 26-AUG-1999 | 99-08-358A | 02
08 | SD | WATERTOWN, CITY OF | 4600160010B | 03-NOV-1999 | 99-08-429A | 02
08 | SD | YANKTON COUNTY | 4600880006C | 13-DEC-1999 | 99-08-282A | 02
08 | UT | DAVIS COUNTY | 4900380070B | 26-OCT-1999 | 98-08-447P | 05
08 | UT | GARFIELD COUNTY | 4900650450B | 01-SEP-1999 | 99-08-354A | 02
08 | UT | GARFIELD COUNTY | 4900650450B | 01-SEP-1999 | 99-08-400A | 02
08 | UT | KAYSVILLE, CITY OF | 4900460001B | 26-OCT-1999 | 98-08-447P | 05
08 | UT | KAYSVILLE, CITY OF | 4900460002B | 26-OCT-1999 | 98-08-447P | 05
08 | UT | MORGAN COUNTY | 4900920085B | 24-SEP-1999 | 99-08-420A | 02
08 | UT | RICHMOND, CITY OF | 4900270005A | 06-AUG-1999 | 99-08-313A | 02
08 | UT | SALT LAKE CITY, CITY OF | 4901050031A | 29-NOV-1999 | 99-08-447A | 02
08 | UT | SALT LAKE COUNTY | 4901020431C | 19-JUL-1999 | 98-08-220P | 05
08 | UT | SALT LAKE COUNTY | 4901020450B | 19-JUL-1999 | 98-08-220P | 05
08 | UT | SALT LAKE COUNTY | 4901020425B | 09-JUL-1999 | 99-08-276A | 02
08 | UT | SANDY CITY, CITY OF | 4901060012C | 08-DEC-1999 | 00-08-002A | 02
08 | UT | SOUTH JORDAN, CITY OF | 4901070006C | 19-JUL-1999 | 98-08-220P | 05
08 | UT | TOQUERVILLE, CITY OF | 4901800005A | 09-DEC-1999 | 99-08-357A | 02
08 | UT | UINTAH COUNTY | 4901470010C | 24-AUG-1999 | 99-08-255A | 02
08 | UT | WASATCH COUNTY | 490164D | 24-AUG-1999 | 99-08-392A | 02
08 | UT | WASHINGTON,CITY OF | 4901820015C | 26-JUL-1999 | 99-08-345A | 02
08 | UT | WELLSVILLE, CITY OF | 4900310001B | 03-AUG-1999 | 99-08-364A | 02
08 | UT | WEST JORDAN, CITY OF | 4901080005D | 19-JUL-1999 | 98-08-220P | 05
08 | UT | WEST JORDAN, CITY OF | 4901080006D | 19-JUL-1999 | 98-08-220P | 05
08 | UT | WEST JORDAN, CITY OF | 4901080008D | 19-JUL-1999 | 98-08-220P | 05
08 | UT | WEST JORDAN, CITY OF | 4901080005D | 22-DEC-1999 | 99-08-116P | 06
08 | UT | WEST JORDAN, CITY OF | 4901080006D | 24-SEP-1999 | 99-08-418A | 02
08 | WY | CHEYENNE, CITY OF | 5600300005E | 10-AUG-1999 | 99-08-348A | 02
08 | WY | GREEN RIVER, TOWN OF | 5600500005B | 22-SEP-1999 | 99-08-411A | 01
08 | WY | LARAMIE COUNTY | 5600290515E | 17-DEC-1999 | 00-08-034A | 02
08 | WY | PARK COUNTY | 5600850022B | 22-JUL-1999 | 99-08-342A | 02
08 | WY | ROCK SPRINGS, CITY OF | 5600510005E | 19-OCT-1999 | 99-08-439A | 02
08 | WY | UINTA COUNTY | 5600530150B | 03-NOV-1999 | 99-08-311A | 02
08 | WY | UINTA COUNTY | 5600530475B | 25-OCT-1999 | 99-08-390A | 02
09 | AZ | APACHE JUNCTION, CITY OF | 0400770125D | 29-NOV-1999 | 99-09-1029A | 01
09 | AZ | CAMP VERDE, TOWN OF | 0401311085E | 24-SEP-1999 | 99-09-1218A | 02
09 | AZ | CLIFTON, TOWN OF | 0400350001B | 23-AUG-1999 | 99-09-361P | 05
09 | AZ | CLIFTON, TOWN OF | 0400350002B | 23-AUG-1999 | 99-09-361P | 05
09 | AZ | GILA COUNTY | 0400280280B | 27-SEP-1999 | 99-09-1148A | 02
09 | AZ | GILBERT, TOWN OF | 04013C2660E | 22-SEP-1999 | 99-09-1163A | 01
09 | AZ | GILBERT, TOWN OF | 04013C2690F | 28-SEP-1999 | 99-09-509P | 05
09 | AZ | GILBERT, TOWN OF | 04013C2695F | 28-SEP-1999 | 99-09-509P | 05
09 | AZ | GLENDALE, CITY OF | 04013C1640D | 26-OCT-1999 | 00-09-006A | 01
09 | AZ | GLENDALE, CITY OF | 04013C1640D | 20-DEC-1999 | 00-09-183A | 01
09 | AZ | GLENDALE, CITY OF | 04013C1640D | 11-AUG-1999 | 99-09-1042A | 01
09 | AZ | GOODYEAR, CITY OF | 04013C2080G | 22-SEP-1999 | 99-09-1180A | 01
09 | AZ | GOODYEAR, CITY OF | 04013C2080G | 14-JUL-1999 | 99-09-940A | 01
09 | AZ | MARANA, TOWN OF | 04019C0980K | 16-NOV-1999 | 00-09-047A | 02
09 | AZ | MARANA, TOWN OF | 04019C1605K | 31-AUG-1999 | 98-09-353P | 05
09 | AZ | MARICOPA COUNTY | 04013C0395F | 16-AUG-1999 | 99-09-1019A | 02
09 | AZ | MARICOPA COUNTY | 04013C2695F | 28-OCT-1999 | 99-09-1296P | 05
09 | AZ | MARICOPA COUNTY | 04013C2715E | 28-OCT-1999 | 99-09-1296P | 05
09 | AZ | MARICOPA COUNTY | 04013C3080F | 28-OCT-1999 | 99-09-1296P | 05
09 | AZ | MARICOPA COUNTY | 04013C2695F | 28-SEP-1999 | 99-09-509P | 05
09 | AZ | MARICOPA COUNTY | 04013C2715F | 28-SEP-1999 | 99-09-509P | 05
09 | AZ | MARICOPA COUNTY | 04013C3080F | 28-SEP-1999 | 99-09-509P | 05
09 | AZ | MARICOPA COUNTY | 04013C0815G | 13-JUL-1999 | 99-09-765A | 01
09 | AZ | MESA, CITY OF | 04013C2185E | 22-SEP-1999 | 99-09-1034A | 02
09 | AZ | MESA, CITY OF | 04013C2195E | 03-AUG-1999 | 99-09-1050A | 02
09 | AZ | MESA, CITY OF | 04013C2215F | 01-SEP-1999 | 99-09-1132A | 02
09 | AZ | MESA, CITY OF | 04013C2195E | 08-DEC-1999 | 99-09-1219A | 01
09 | AZ | MESA, CITY OF | 04013C2695F | 28-SEP-1999 | 99-09-509P | 05
09 | AZ | MESA, CITY OF | 04013C2195E | 15-JUL-1999 | 99-09-945A | 02
09 | AZ | MOHAVE COUNTY | 0400583110B | 14-JUL-1999 | 99-09-980A | 02
09 | AZ | NAVAJO COUNTY | 0400662467C | 10-DEC-1999 | 00-09-129A | 02
09 | AZ | ORO VALLEY, TOWN OF | 04019C1020K | 14-JUL-1999 | 99-09-783P | 06
09 | AZ | ORO VALLEY, TOWN OF | 04019C1020K | 13-AUG-1999 | 99-09-822P | 06
09 | AZ | ORO VALLEY, TOWN OF | 04019C1040K | 13-AUG-1999 | 99-09-822P | 06
09 | AZ | ORO VALLEY, TOWN OF | 04019C1020K | 09-JUL-1999 | 99-09-870A | 01
09 | AZ | PEORIA, CITY OF | 04013C1630F | 06-JUL-1999 | 99-09-522P | 05
09 | AZ | PHOENIX, CITY OF | 04013C1655H | 08-NOV-1999 | 00-09-028A | 02
09 | AZ | PHOENIX, CITY OF | 04013C1655H | 08-NOV-1999 | 00-09-030A | 02
09 | AZ | PHOENIX, CITY OF | 04013C1655H | 10-NOV-1999 | 00-09-040A | 02
09 | AZ | PHOENIX, CITY OF | 04013C1655H | 29-NOV-1999 | 00-09-105A | 02
09 | AZ | PHOENIX, CITY OF | 04013C1195D | 22-JUL-1999 | 99-09-1044A | 01
09 | AZ | PHOENIX, CITY OF | 04013C1215H | 22-JUL-1999 | 99-09-1044A | 01
09 | AZ | PHOENIX, CITY OF | 04013C1195D | 26-JUL-1999 | 99-09-1045A | 01
09 | AZ | PHOENIX, CITY OF | 04013C1215H | 26-JUL-1999 | 99-09-1045A | 01
09 | AZ | PHOENIX, CITY OF | 04013C1655H | 11-AUG-1999 | 99-09-1083A | 02
09 | AZ | PHOENIX, CITY OF | 04013C2610D | 15-SEP-1999 | 99-09-1085A | 01
09 | AZ | PHOENIX, CITY OF | 04013C1665G | 07-OCT-1999 | 99-09-1169A | 02
09 | AZ | PHOENIX, CITY OF | 04013C1195D | 12-OCT-1999 | 99-09-1176A | 01
09 | AZ | PHOENIX, CITY OF | 04013C1215H | 12-OCT-1999 | 99-09-1176A | 01
09 | AZ | PHOENIX, CITY OF | 04013C1210F | 30-DEC-1999 | 99-09-1266A | 01
09 | AZ | PIMA COUNTY | 04019C1605K | 01-DEC-1999 | 00-09-023A | 02
09 | AZ | PIMA COUNTY | 04019C1605K | 31-AUG-1999 | 98-09-353P | 05
09 | AZ | PIMA COUNTY | 04019C3905K | 01-OCT-1999 | 98-09-442P | 05
09 | AZ | PIMA COUNTY | 04019C1645K | 27-JUL-1999 | 99-09-1001A | 02
09 | AZ | PIMA COUNTY | 04019C1615K | 02-SEP-1999 | 99-09-1138A | 02
09 | AZ | PIMA COUNTY | 04019C1645K | 07-SEP-1999 | 99-09-1157A | 02
09 | AZ | PIMA COUNTY | 04019C1610K | 05-OCT-1999 | 99-09-1225A | 02
09 | AZ | PIMA COUNTY | 04019C1645K | 05-OCT-1999 | 99-09-1235A | 02
09 | AZ | PIMA COUNTY | 04019C1655K | 19-AUG-1999 | 99-09-690A | 02
09 | AZ | PIMA COUNTY | 04019C1020K | 14-JUL-1999 | 99-09-783P | 06
09 | AZ | PIMA COUNTY | 04019C1015K | 15-JUL-1999 | 99-09-847A | 02
09 | AZ | QUEEN CREEK, TOWN OF | 04013C2695F | 28-OCT-1999 | 99-09-1296P | 05
09 | AZ | QUEEN CREEK, TOWN OF | 04013C2715E | 28-OCT-1999 | 99-09-1296P | 05
09 | AZ | QUEEN CREEK, TOWN OF | 04013C3080F | 28-OCT-1999 | 99-09-1296P | 05
09 | AZ | QUEEN CREEK, TOWN OF | 04013C2695F | 28-SEP-1999 | 99-09-509P | 05
09 | AZ | QUEEN CREEK, TOWN OF | 04013C2715F | 28-SEP-1999 | 99-09-509P | 05
09 | AZ | QUEEN CREEK, TOWN OF | 04013C3080F | 28-SEP-1999 | 99-09-509P | 05
09 | AZ | SAHUARITA, TOWN OF | 04019C3415K | 01-OCT-1999 | 98-09-442P | 05
09 | AZ | SAHUARITA, TOWN OF | 04019C3905K | 01-OCT-1999 | 98-09-442P | 05
09 | AZ | SANTA CRUZ COUNTY | 0400900145A | 21-SEP-1999 | 98-09-010P | 05
09 | AZ | SCOTTSDALE, CITY OF | 04013C0820E | 19-JUL-1999 | 99-09-1018A | 01
09 | AZ | SCOTTSDALE, CITY OF | 04013C1695F | 13-OCT-1999 | 99-09-1253A | 02
09 | AZ | TEMPE, CITY OF | 04013C2165F | 12-OCT-1999 | 99-09-1229A | 02
09 | AZ | TUCSON, CITY OF | 04019C2253K | 22-OCT-1999 | 00-09-014A | 02
09 | AZ | TUCSON, CITY OF | 04019C2253K | 19-OCT-1999 | 00-09-018A | 02
09 | AZ | TUCSON, CITY OF | 04019C2253K | 10-NOV-1999 | 00-09-039A | 02
09 | AZ | TUCSON, CITY OF | 04019C1639K | 15-NOV-1999 | 00-09-053A | 02
09 | AZ | TUCSON, CITY OF | 04019C2256K | 30-JUL-1999 | 99-09-1011A | 17
09 | AZ | TUCSON, CITY OF | 04019C2232K | 24-AUG-1999 | 99-09-1112A | 02
09 | AZ | TUCSON, CITY OF | 04019C2232K | 13-SEP-1999 | 99-09-1160A | 02
09 | AZ | TUCSON, CITY OF | 04019C2232K | 24-SEP-1999 | 99-09-1185A | 02
09 | AZ | TUCSON, CITY OF | 04019C2232K | 28-SEP-1999 | 99-09-1221A | 02
09 | AZ | TUCSON, CITY OF | 04019C1670K | 05-OCT-1999 | 99-09-1227A | 02
09 | AZ | TUCSON, CITY OF | 04019C2251K | 19-OCT-1999 | 99-09-1264A | 02
09 | AZ | TUCSON, CITY OF | 04019C1619K | 05-OCT-1999 | 99-09-1277A | 02
09 | AZ | TUCSON, CITY OF | 04019C2251K | 08-DEC-1999 | 99-09-1285A | 02
09 | AZ | TUCSON, CITY OF | 04019C2258K | 02-SEP-1999 | 99-09-314P | 05
09 | AZ | TUCSON, CITY OF | 04019C2252K | 10-SEP-1999 | 99-09-700P | 05
09 | AZ | TUCSON, CITY OF | 04019C2256K | 10-SEP-1999 | 99-09-700P | 05
09 | AZ | TUCSON, CITY OF | 04019C2227K | 13-AUG-1999 | 99-09-733A | 02
09 | AZ | TUCSON, CITY OF | 04019C1644K | 02-AUG-1999 | 99-09-894A | 02
09 | AZ | TUCSON, CITY OF | 04019C2232K | 17-AUG-1999 | 99-09-946A | 02
09 | AZ | TUCSON, CITY OF | 04019C1639K | 13-AUG-1999 | 99-09-952A | 02
09 | AZ | TUCSON, CITY OF | 04019C2227K | 19-JUL-1999 | 99-09-991A | 02
09 | AZ | WICKENBURG, TOWN OF | 04013C0235E | 08-DEC-1999 | 00-09-035A | 02
09 | CA | ALAMEDA COUNTY | 0600010095B | 09-AUG-1999 | 99-09-766A | 02
09 | CA | ANAHEIM, CITY OF | 06059C0021F | 22-DEC-1999 | 00-09-081P | 05
09 | CA | ANDERSON, CITY OF | 0603590001C | 22-OCT-1999 | 99-09-1098A | 01
09 | CA | APPLE VALLEY, CITY OF | 06071C5845F | 15-SEP-1999 | 99-09-1105A | 01
09 | CA | BAKERSFIELD, CITY OF | 0600751000B | 05-OCT-1999 | 99-09-1120P | 06
09 | CA | BAKERSFIELD, CITY OF | 0600751015B | 05-OCT-1999 | 99-09-1120P | 06
09 | CA | BAKERSFIELD, CITY OF | 0600770022B | 05-OCT-1999 | 99-09-1120P | 06
09 | CA | BELMONT, CITY OF | 0650160005B | 15-JUL-1999 | 99-09-247P | 06
09 | CA | BENICIA, CITY OF | 0603680002C | 24-SEP-1999 | 99-09-1209A | 02
09 | CA | BRENTWOOD, CITY OF | 0600250355B | 29-NOV-1999 | 00-09-058A | 01
09 | CA | BRENTWOOD, CITY OF | 0600250365B | 10-SEP-1999 | 99-09-990A | 02
09 | CA | BUTTE COUNTY | 06007C0985C | 29-NOV-1999 | 00-09-100A | 02
09 | CA | BUTTE COUNTY | 06007C0505C | 10-AUG-1999 | 99-09-1069A | 02
09 | CA | BUTTE COUNTY | 06007C0485C | 15-SEP-1999 | 99-09-965A | 02
09 | CA | CALABASAS, CITY OF | 0650430613B | 02-SEP-1999 | 99-09-334P | 05
09 | CA | CALAVERAS COUNTY | 0606330133B | 20-DEC-1999 | 00-09-041A | 02
09 | CA | CALIFORNIA CITY, CITY OF | 0604400068C | 26-OCT-1999 | 99-09-1293A | 02
09 | CA | CALISTOGA, CITY OF | 0602060005B | 08-SEP-1999 | 99-09-1147A | 02
09 | CA | CAMARILLO, CITY OF | 0650200006B | 22-NOV-1999 | 99-09-1122A | 01
09 | CA | CANYON LAKE, CITY OF | 0602452090C | 17-SEP-1999 | 99-09-1139A | 01
09 | CA | CARSON, CITY OF | 0601070005A | 08-SEP-1999 | 99-09-903A | 02
09 | CA | CARSON, CITY OF | 0601070005A | 09-JUL-1999 | 99-09-910A | 02
09 | CA | CHICO, CITY OF | 06007C0505C | 09-DEC-1999 | 00-09-013A | 02
09 | CA | CHULA VISTA, CITY OF | 06073C1917F | 15-NOV-1999 | 00-09-043A | 02
09 | CA | CITRUS HEIGHTS, CITY OF | 0602620095E | 25-OCT-1999 | 00-09-022A | 02
09 | CA | CITRUS HEIGHTS, CITY OF | 0602620090E | 16-NOV-1999 | 00-09-026A | 02
09 | CA | CITRUS HEIGHTS, CITY OF | 0602620085E | 10-DEC-1999 | 00-09-107A | 01
09 | CA | CITRUS HEIGHTS, CITY OF | 0602620085E | 13-DEC-1999 | 00-09-161A | 02
09 | CA | CITRUS HEIGHTS, CITY OF | 0602620085E | 22-OCT-1999 | 99-09-1267A | 02
09 | CA | COLUSA COUNTY | 060022D | 29-NOV-1999 | 00-09-101A | 02
09 | CA | CONTRA COSTA COUNTY | 0600250435C | 15-DEC-1999 | 00-09-173A | 17
09 | CA | CONTRA COSTA COUNTY | 0600250230B | 07-SEP-1999 | 99-09-1146A | 02
09 | CA | CONTRA COSTA COUNTY | 0600250435C | 15-SEP-1999 | 99-09-1174A | 02
09 | CA | CONTRA COSTA COUNTY | 0600250350B | 25-OCT-1999 | 99-09-1282A | 02
09 | CA | CORONA, CITY OF | 0602500005F | 05-AUG-1999 | 99-09-435P | 05
09 | CA | CORONADO, CITY OF | 06073C2132F | 09-DEC-1999 | 99-09-662P | 06
09 | CA | COSTA MESA, CITY OF | 06059C0037F | 29-NOV-1999 | 00-09-082A | 02
09 | CA | DAVIS, CITY OF | 0604230575C | 08-DEC-1999 | 00-09-086A | 01
09 | CA | DAVIS, CITY OF | 0604230575C | 02-SEP-1999 | 99-09-1137A | 01
09 | CA | DAVIS, CITY OF | 0604230560C | 23-SEP-1999 | 99-09-1251A | 01
09 | CA | DAVIS, CITY OF | 0604230575C | 17-AUG-1999 | 99-09-985A | 01
09 | CA | DINUBA, CITY OF | 0650660280B | 08-DEC-1999 | 00-09-116A | 01
09 | CA | DINUBA, CITY OF | 0604030001B | 09-AUG-1999 | 99-09-1061A | 01
09 | CA | DINUBA, CITY OF | 0604030001B | 03-NOV-1999 | 99-09-1257A | 01
09 | CA | EL DORADO COUNTY | 0600400450B | 22-SEP-1999 | 99-09-1206A | 02
09 | CA | ESCONDIDO, CITY OF | 06073C1081F | 03-NOV-1999 | 99-09-1279A | 02
09 | CA | ESCONDIDO, CITY OF | 06073C1083F | 22-JUL-1999 | 99-09-927A | 02
09 | CA | EUREKA, CITY OF | 0600620005C | 22-JUL-1999 | 99-09-652A | 02
09 | CA | FAIRFIELD, CITY OF | 0603700002C | 15-NOV-1999 | 99-09-1273A | 02
09 | CA | FREMONT, CITY OF | 0650280045C | 13-AUG-1999 | 99-09-1094A | 01
09 | CA | FREMONT, CITY OF | 0650280046C | 13-AUG-1999 | 99-09-1094A | 01
09 | CA | FRESNO COUNTY | 0650290920B | 25-OCT-1999 | 00-09-011A | 02
09 | CA | FRESNO COUNTY | 0650290895C | 17-SEP-1999 | 99-09-1121A | 02
09 | CA | FRESNO COUNTY | 0650290915B | 22-NOV-1999 | 99-09-1269A | 02
09 | CA | FRESNO COUNTY | 0650291400B | 13-SEP-1999 | 99-09-879A | 02
09 | CA | FRESNO, CITY OF | 0650290590C | 29-OCT-1999 | 00-09-015A | 01
09 | CA | FRESNO, CITY OF | 0650290590C | 26-AUG-1999 | 99-09-1110A | 01
09 | CA | FRESNO, CITY OF | 0600480035D | 25-OCT-1999 | 99-09-1280A | 02
09 | CA | GLENN COUNTY | 0600570400C | 05-OCT-1999 | 99-09-1099A | 01
09 | CA | HEMET, CITY OF | 0602530005D | 17-DEC-1999 | 00-09-163A | 01
09 | CA | HEMET, CITY OF | 0602530005D | 01-SEP-1999 | 99-09-1156A | 01
09 | CA | HEMET, CITY OF | 0602530005D | 01-SEP-1999 | 99-09-1178A | 01
09 | CA | HUMBOLDT COUNTY | 0600600785C | 15-JUL-1999 | 99-09-823A | 02
09 | CA | HUMBOLDT COUNTY | 0600601725B | 09-JUL-1999 | 99-09-915A | 02
09 | CA | INDIAN WELLS, CITY OF | 0602540005D | 24-AUG-1999 | 99-09-465P | 05
09 | CA | IRVINE, CITY OF | 06059C0049G | 01-SEP-1999 | 99-09-1006A | 02
09 | CA | IRVINE, CITY OF | 06059C0049G | 18-AUG-1999 | 99-09-1014P | 06
09 | CA | IRVINE, CITY OF | 06059C0057E | 18-AUG-1999 | 99-09-1014P | 06
09 | CA | IRVINE, CITY OF | 06059C0030E | 29-DEC-1999 | 99-09-1031P | 05
09 | CA | IRVINE, CITY OF | 06059C0031E | 29-DEC-1999 | 99-09-1031P | 05
09 | CA | IRVINE, CITY OF | 06059C0039E | 29-DEC-1999 | 99-09-1031P | 05
09 | CA | IRVINE, CITY OF | 06059C0040E | 29-DEC-1999 | 99-09-1031P | 05
09 | CA | IRVINE, CITY OF | 06059C0056E | 02-AUG-1999 | 99-09-1066A | 02
09 | CA | IRVINE, CITY OF | 06059C0039E | 13-SEP-1999 | 99-09-382P | 05
09 | CA | KERN COUNTY | 0600751275B | 15-JUL-1999 | 99-09-1008A | 01
09 | CA | LA QUINTA, CITY OF | 0607090005B | 17-DEC-1999 | 99-09-1073A | 01
09 | CA | LA QUINTA, CITY OF | 0607090005B | 09-AUG-1999 | 99-09-494A | 01
09 | CA | LAGUNA BEACH, CITY OF | 06059C0069E | 09-JUL-1999 | 99-09-651A | 02
09 | CA | LAGUNA HILLS, CITY OF | 06059C0064E | 08-DEC-1999 | 00-09-102A | 02
09 | CA | LAKE FOREST, CITY OF | 06059C0049G | 18-AUG-1999 | 99-09-1014P | 06
09 | CA | LAKEWOOD, CITY OF | 0601300005A | 07-JUL-1999 | 99-09-977A | 02
09 | CA | LAKEWOOD, CITY OF | 0601300005A | 07-JUL-1999 | 99-09-986A | 02
09 | CA | LIVERMORE, CITY OF | 0600080005B | 15-SEP-1999 | 99-09-1165A | 02
09 | CA | LODI, CITY OF | 0603000001E | 22-SEP-1999 | 99-09-1188A | 02
09 | CA | LONG BEACH, CITY OF | 0601360025C | 06-AUG-1999 | 99-09-1007A | 01
09 | CA | LONG BEACH, CITY OF | 0601360015C | 02-AUG-1999 | 99-09-1038A | 02
09 | CA | LONG BEACH, CITY OF | 0601360015C | 23-AUG-1999 | 99-09-1106A | 02
09 | CA | LONG BEACH, CITY OF | 0601360015C | 07-OCT-1999 | 99-09-1238A | 02
09 | CA | LONG BEACH, CITY OF | 0601360025C | 17-AUG-1999 | 99-09-996A | 01
09 | CA | LOS ANGELES COUNTY | 0650430395B | 11-AUG-1999 | 99-09-752A | 02
09 | CA | LOS ANGELES COUNTY | 0650430757B | 15-JUL-1999 | 99-09-892A | 02
09 | CA | LOS ANGELES, CITY OF | 0601370056C | 08-DEC-1999 | 00-09-020A | 02
09 | CA | LOS ANGELES, CITY OF | 0601370071C | 22-NOV-1999 | 00-09-034A | 02
09 | CA | LOS ANGELES, CITY OF | 0601370071C | 02-AUG-1999 | 99-09-1039A | 02
09 | CA | MARIN COUNTY | 0601730250A | 22-DEC-1999 | 00-09-181A | 02
09 | CA | MARIN COUNTY | 0601730216A | 01-DEC-1999 | 99-09-1292A | 02
09 | CA | MENDOCINO COUNTY | 0601830794B | 12-JUL-1999 | 99-09-795A | 02
09 | CA | MENLO PARK, CITY OF | 0603210007D | 16-AUG-1999 | 99-09-1037A | 02
09 | CA | MENLO PARK, CITY OF | 0603210008D | 07-JUL-1999 | 99-09-968A | 02
09 | CA | MENLO PARK, CITY OF | 0603210007D | 22-JUL-1999 | 99-09-993A | 02
09 | CA | MENLO PARK, CITY OF | 0603210008D | 27-JUL-1999 | 99-09-997A | 02
09 | CA | MERCED, CITY OF | 06047C0440E | 30-DEC-1999 | 00-09-008A | 01
09 | CA | MILPITAS, CITY OF | 0603440003G | 02-NOV-1999 | 99-09-1200P | 05
09 | CA | MILPITAS, CITY OF | 0603440003G | 28-SEP-1999 | 99-09-1212A | 01
09 | CA | MODESTO, CITY OF | 0603870015C | 15-DEC-1999 | 99-09-740P | 05
09 | CA | MODESTO, CITY OF | 0603870020C | 15-DEC-1999 | 99-09-740P | 05
09 | CA | MONTEREY COUNTY | 0601950215D | 27-JUL-1999 | 99-09-963A | 02
09 | CA | MORRO BAY, CITY OF | 0603070005C | 22-NOV-1999 | 00-09-072A | 02
09 | CA | MORRO BAY, CITY OF | 0603070005C | 27-AUG-1999 | 99-09-912A | 02
09 | CA | MURRIETA, CITY OF | 0607512730A | 29-OCT-1999 | 00-09-007A | 01
09 | CA | MURRIETA, CITY OF | 0607512745A | 15-DEC-1999 | 00-09-157A | 01
09 | CA | MURRIETA, CITY OF | 0607512740A | 19-OCT-1999 | 99-09-1070P | 05
09 | CA | MURRIETA, CITY OF | 0607512740A | 22-JUL-1999 | 99-09-792A | 01
09 | CA | MURRIETA, CITY OF | 0607512730A | 07-JUL-1999 | 99-09-876A | 01
09 | CA | NAPA, CITY OF | 0602070005C | 08-DEC-1999 | 00-09-134A | 02
09 | CA | NAPA, CITY OF | 0602070005C | 15-DEC-1999 | 00-09-174A | 02
09 | CA | NAPA, CITY OF | 0602070005C | 19-AUG-1999 | 99-09-1058A | 01
09 | CA | NAPA, CITY OF | 0602070010C | 24-AUG-1999 | 99-09-1107A | 02
09 | CA | NAPA, CITY OF | 0602070005C | 01-SEP-1999 | 99-09-1134A | 02
09 | CA | NAPA, CITY OF | 0602070005C | 10-SEP-1999 | 99-09-1145A | 02
09 | CA | NAPA, CITY OF | 0602070005C | 04-NOV-1999 | 99-09-1155A | 02
09 | CA | NAPA, CITY OF | 0602070005C | 15-SEP-1999 | 99-09-1167A | 02
09 | CA | NAPA, CITY OF | 0602070010C | 15-JUL-1999 | 99-09-961A | 02
09 | CA | NATIONAL CITY, CITY OF | 06073C1912F | 08-NOV-1999 | 99-09-1205A | 02
09 | CA | NORCO, CITY OF | 0602560003B | 05-AUG-1999 | 99-09-435P | 05
09 | CA | NOVATO, CITY OF | 0601780004C | 29-OCT-1999 | 99-09-1216A | 02
09 | CA | OCEANSIDE, CITY OF | 06073C0468F | 24-NOV-1999 | 00-09-019P | 06
09 | CA | OCEANSIDE, CITY OF | 06073C0734F | 24-NOV-1999 | 00-09-019P | 06
09 | CA | OCEANSIDE, CITY OF | 06073C0751F | 24-NOV-1999 | 00-09-019P | 06
09 | CA | OCEANSIDE, CITY OF | 06073C0752F | 24-NOV-1999 | 00-09-019P | 06
09 | CA | OCEANSIDE, CITY OF | 06073C0753F | 24-NOV-1999 | 00-09-019P | 06
09 | CA | OCEANSIDE, CITY OF | 06073C0754F | 24-NOV-1999 | 00-09-019P | 06
09 | CA | OCEANSIDE, CITY OF | 06073C0756F | 24-NOV-1999 | 00-09-019P | 06
09 | CA | OCEANSIDE, CITY OF | 06073C0464F | 28-JUL-1999 | 99-09-1048A | 02
09 | CA | OCEANSIDE, CITY OF | 06073C0752F | 26-AUG-1999 | 99-09-845A | 01
09 | CA | OCEANSIDE, CITY OF | 06073C0752F | 12-JUL-1999 | 99-09-955A | 01
09 | CA | ORANGE COUNTY | 06059C0031E | 29-DEC-1999 | 99-09-1031P | 06
09 | CA | ORANGE COUNTY | 06059C0040E | 29-DEC-1999 | 99-09-1031P | 06
09 | CA | ORANGE COUNTY | 06059C0070E | 09-AUG-1999 | 99-09-798A | 02
09 | CA | PALM SPRINGS, CITY OF | 0602570006D | 08-JUL-1999 | 98-09-737V | 19
09 | CA | PALM SPRINGS, CITY OF | 0602570009D | 08-JUL-1999 | 98-09-737V | 19
09 | CA | PALM SPRINGS, CITY OF | 0602570006D | 03-NOV-1999 | 99-09-1201A | 01
09 | CA | PALO ALTO, CITY OF | 0603480002E | 12-JUL-1999 | 99-09-1010A | 02
09 | CA | PALO ALTO, CITY OF | 0603480003D | 29-JUL-1999 | 99-09-1046A | 02
09 | CA | PALO ALTO, CITY OF | 0603480002E | 22-SEP-1999 | 99-09-1101A | 02
09 | CA | PALO ALTO, CITY OF | 0603480003E | 17-SEP-1999 | 99-09-1173A | 02
09 | CA | PALO ALTO, CITY OF | 0603480003E | 07-JUL-1999 | 99-09-905A | 02
09 | CA | PALO ALTO, CITY OF | 0603480003D | 03-AUG-1999 | 99-09-994A | 02
09 | CA | PARAMOUNT, CITY OF | 0650490002C | 27-AUG-1999 | 99-09-988A | 02
09 | CA | PERRIS, CITY OF | 0602580010D | 26-AUG-1999 | 99-09-1118A | 01
09 | CA | PERRIS, CITY OF | 0602580010D | 27-OCT-1999 | 99-09-1250A | 01
09 | CA | PERRIS, CITY OF | 0602580010D | 26-JUL-1999 | 99-09-875A | 01
09 | CA | PITTSBURG,CITY OF | 0600330001D | 10-SEP-1999 | 99-09-1104A | 02
09 | CA | PLACER COUNTY | 06061C0477F | 16-NOV-1999 | 00-09-064A | 02
09 | CA | PLACER COUNTY | 06061C0477F | 22-NOV-1999 | 00-09-076A | 02
09 | CA | PLEASANTON, CITY OF | 0600120001E | 15-SEP-1999 | 99-09-1170A | 02
09 | CA | PLEASANTON, CITY OF | 0600120002D | 03-NOV-1999 | 99-09-1189A | 01
09 | CA | PLEASANTON, CITY OF | 0600120001E | 02-JUL-1999 | 99-09-974A | 02
09 | CA | PLEASANTON, CITY OF | 0600120003D | 02-JUL-1999 | 99-09-974A | 02
09 | CA | PLUMAS COUNTY | 060244B | 17-AUG-1999 | 99-09-1089A | 02
09 | CA | PLUMAS COUNTY | 060244B | 09-JUL-1999 | 99-09-851A | 02
09 | CA | POWAY, CITY OF | 06073C1358F | 16-AUG-1999 | 99-09-1072A | 02
09 | CA | POWAY, CITY OF | 06073C1358F | 16-AUG-1999 | 99-09-1093A | 02
09 | CA | POWAY, CITY OF | 06073C1358F | 13-OCT-1999 | 99-09-1131A | 02
09 | CA | RANCHO CUCAMONGA, CITY OF | 06071C7890F | 08-DEC-1999 | 00-09-119A | 02
09 | CA | RANCHO CUCAMONGA, CITY OF | 06071C7890F | 13-DEC-1999 | 00-09-155A | 02
09 | CA | RANCHO CUCAMONGA, CITY OF | 06071C7890F | 09-DEC-1999 | 99-09-1194A | 02
09 | CA | RED BLUFF, CITY OF | 0650530001F | 01-SEP-1999 | 99-09-1133A | 02
09 | CA | RED BLUFF, CITY OF | 0650530001F | 24-SEP-1999 | 99-09-1214A | 02
09 | CA | REDDING, CITY OF | 0603600030D | 15-JUL-1999 | 99-09-983A | 02
09 | CA | REDLANDS, CITY OF | 06071C8717F | 13-DEC-1999 | 99-09-1054A | 01
09 | CA | RIVERSIDE COUNTY | 0602450685B | 15-NOV-1999 | 99-09-1005A | 01
09 | CA | RIVERSIDE COUNTY | 0602450705A | 06-OCT-1999 | 99-09-1096P | 05
09 | CA | RIVERSIDE COUNTY | 0602452710C | 10-DEC-1999 | 99-09-1256P | 06
09 | CA | RIVERSIDE COUNTY | 0602451490C | 08-DEC-1999 | 99-09-1260A | 02
09 | CA | RIVERSIDE COUNTY | 0602452265B | 24-AUG-1999 | 99-09-465P | 05
09 | CA | RIVERSIDE, CITY OF | 0602600030B | 02-SEP-1999 | 99-09-1136A | 02
09 | CA | ROSEVILLE, CITY OF | 06061C0478F | 19-AUG-1999 | 99-09-933A | 02
09 | CA | SACRAMENTO COUNTY | 0602620090E | 30-DEC-1999 | 00-09-159A | 02
09 | CA | SACRAMENTO COUNTY | 0602620345C | 22-DEC-1999 | 00-09-160A | 02
09 | CA | SACRAMENTO COUNTY | 0602620070D | 24-NOV-1999 | 98-09-553P | 05
09 | CA | SACRAMENTO COUNTY | 0602620090E | 24-NOV-1999 | 98-09-553P | 05
09 | CA | SACRAMENTO COUNTY | 0602620090E | 17-SEP-1999 | 99-09-1179A | 02
09 | CA | SACRAMENTO COUNTY | 0602620330D | 30-DEC-1999 | 99-09-1268A | 01
09 | CA | SACRAMENTO COUNTY | 0602620250C | 12-OCT-1999 | 99-09-464P | 05
09 | CA | SACRAMENTO COUNTY | 0602620335D | 12-OCT-1999 | 99-09-464P | 05
09 | CA | SACRAMENTO COUNTY | 0602620340D | 12-OCT-1999 | 99-09-464P | 05
09 | CA | SACRAMENTO COUNTY | 0602620345C | 12-OCT-1999 | 99-09-464P | 05
09 | CA | SACRAMENTO COUNTY | 0602620375C | 12-OCT-1999 | 99-09-464P | 05
09 | CA | SACRAMENTO COUNTY | 0602620475E | 12-OCT-1999 | 99-09-464P | 05
09 | CA | SACRAMENTO COUNTY | 0602620085E | 06-AUG-1999 | 99-09-603A | 02
09 | CA | SACRAMENTO COUNTY | 0602620185F | 02-JUL-1999 | 99-09-962A | 02
09 | CA | SACRAMENTO, CITY OF | 0602660005F | 15-NOV-1999 | 00-09-062A | 02
09 | CA | SACRAMENTO, CITY OF | 0602660015F | 15-NOV-1999 | 00-09-062A | 02
09 | CA | SACRAMENTO, CITY OF | 0602660020F | 15-NOV-1999 | 00-09-062A | 02
09 | CA | SACRAMENTO, CITY OF | 0602660005F | 24-NOV-1999 | 98-09-553P | 05
09 | CA | SACRAMENTO, CITY OF | 0602660030F | 06-AUG-1999 | 99-09-1030A | 02
09 | CA | SACRAMENTO, CITY OF | 0602660005F | 22-SEP-1999 | 99-09-1207A | 02
09 | CA | SACRAMENTO, CITY OF | 0602660005F | 21-DEC-1999 | 99-09-890A | 01
09 | CA | SALINAS, CITY OF | 0602020003D | 28-DEC-1999 | 00-09-037P | 06
09 | CA | SALINAS, CITY OF | 0602020005D | 11-AUG-1999 | 99-09-1091A | 02
09 | CA | SAN BERNARDINO COUNTY | 06071C8615F | 22-SEP-1999 | 99-09-1193A | 02
09 | CA | SAN BERNARDINO COUNTY | 06071C7155F | 01-OCT-1999 | 99-09-1241A | 02
09 | CA | SAN BERNARDINO COUNTY | 06071C8717F | 12-JUL-1999 | 99-09-810A | 02
09 | CA | SAN BERNARDINO COUNTY | 06071C3915F | 27-JUL-1999 | 99-09-878A | 02
09 | CA | SAN BERNARDINO COUNTY | 06071C4526F | 27-JUL-1999 | 99-09-878A | 02
09 | CA | SAN BERNARDINO, CITY OF | 06071C7930F | 15-NOV-1999 | 99-09-1291A | 02
09 | CA | SAN BUENAVENTURA, CITY OF | 0604190010C | 26-JUL-1999 | 98-09-383P | 05
09 | CA | SAN CARLOS, CITY OF | 0603270001C | 29-NOV-1999 | 00-09-038A | 02
09 | CA | SAN CARLOS, CITY OF | 0603270001C | 13-DEC-1999 | 00-09-162A | 02
09 | CA | SAN CARLOS, CITY OF | 0603270001C | 10-AUG-1999 | 99-09-1043A | 02
09 | CA | SAN CARLOS, CITY OF | 0603270001C | 12-NOV-1999 | 99-09-1161A | 01
09 | CA | SAN DIEGO COUNTY | 06073C1735F | 22-NOV-1999 | 00-09-074A | 02
09 | CA | SAN DIEGO COUNTY | 06073C1652F | 08-DEC-1999 | 00-09-125A | 02
09 | CA | SAN DIEGO COUNTY | 06073C1679F | 07-JUL-1999 | 98-09-1071P | 06
09 | CA | SAN DIEGO COUNTY | 06073C0487F | 07-OCT-1999 | 99-09-1249A | 02
09 | CA | SAN DIEGO COUNTY | 06073C1917F | 13-OCT-1999 | 99-09-1261A | 02
09 | CA | SAN DIEGO, CITY OF | 06073C1878F | 08-DEC-1999 | 00-09-077A | 02
09 | CA | SAN DIEGO, CITY OF | 06073C2154F | 27-DEC-1999 | 00-09-186A | 02
09 | CA | SAN DIEGO, CITY OF | 06073C1594F | 06-AUG-1999 | 99-09-1068A | 02
09 | CA | SAN DIEGO, CITY OF | 06073C1903F | 23-AUG-1999 | 99-09-1086A | 01
09 | CA | SAN DIEGO, CITY OF | 06073C1908F | 22-NOV-1999 | 99-09-1090A | 02
09 | CA | SAN DIEGO, CITY OF | 06073C1594F | 16-AUG-1999 | 99-09-1100A | 02
09 | CA | SAN DIEGO, CITY OF | 06073C1594F | 20-SEP-1999 | 99-09-1192A | 02
09 | CA | SAN DIEGO, CITY OF | 06073C1344F | 22-NOV-1999 | 99-09-1220A | 02
09 | CA | SAN DIEGO, CITY OF | 06073C1363F | 08-SEP-1999 | 99-09-975A | 02
09 | CA | SAN JACINTO, CITY OF | 0650560005D | 19-OCT-1999 | 99-09-1232A | 01
09 | CA | SAN JOSE, CITY OF | 0603490020F | 25-OCT-1999 | 00-09-017A | 02
09 | CA | SAN JOSE, CITY OF | 0603490037D | 19-OCT-1999 | 99-09-1263A | 02
09 | CA | SAN LEANDRO, CITY OF | 0600130003B | 29-OCT-1999 | 99-09-1144A | 01
09 | CA | SAN LUIS OBISPO, CITY OF | 0603100005C | 30-SEP-1999 | 99-09-989A | 01
09 | CA | SAN MARCOS, CITY OF | 06073C0793F | 17-SEP-1999 | 99-09-1115A | 01
09 | CA | SAN RAFAEL, CITY OF | 0650580015B | 08-DEC-1999 | 00-09-092A | 02
09 | CA | SAN RAFAEL, CITY OF | 0650580015B | 22-JUL-1999 | 99-09-867A | 01
09 | CA | SANTA BARBARA COUNTY | 0603310556C | 06-DEC-1999 | 99-09-1025A | 01
09 | CA | SANTA BARBARA COUNTY | 0603310740D | 18-AUG-1999 | 99-09-767A | 17
09 | CA | SANTA BARBARA COUNTY | 0603310709C | 14-JUL-1999 | 99-09-884A | 02
09 | CA | SANTA BARBARA, CITY OF | 0603350004D | 09-AUG-1999 | 99-09-1067A | 02
09 | CA | SANTA BARBARA, CITY OF | 0603350005D | 15-SEP-1999 | 99-09-600P | 06
09 | CA | SANTA CLARA COUNTY | 0603370645E | 08-DEC-1999 | 00-09-111A | 02
09 | CA | SANTA CLARA COUNTY | 0603370255E | 08-DEC-1999 | 99-09-1065A | 02
09 | CA | SANTA CLARA, CITY OF | 0603500001D | 22-OCT-1999 | 00-09-003A | 02
09 | CA | SANTA CLARA, CITY OF | 0603500005D | 08-NOV-1999 | 00-09-029A | 02
09 | CA | SANTA CLARA, CITY OF | 0603500005D | 15-NOV-1999 | 00-09-042A | 02
09 | CA | SANTA CLARA, CITY OF | 0603500005D | 15-JUL-1999 | 99-09-978A | 02
09 | CA | SANTA CRUZ, CITY OF | 0603550004C | 09-DEC-1999 | 00-09-005A | 02
09 | CA | SANTA PAULA, CITY OF | 0604200003D | 22-NOV-1999 | 00-09-024A | 02
09 | CA | SANTEE, CITY OF | 06073C1653F | 19-AUG-1999 | 99-09-757A | 02
09 | CA | SHASTA COUNTY | 0603580405B | 10-SEP-1999 | 99-09-1024A | 02
09 | CA | SHASTA LAKE, CITY OF | 0607580005A | 09-AUG-1999 | 99-09-1062A | 02
09 | CA | SIERRA COUNTY | 06091C0215A | 30-NOV-1999 | 99-09-835P | 06
09 | CA | SIMI VALLEY, CITY OF | 0604210008B | 15-NOV-1999 | 00-09-046A | 02
09 | CA | SIMI VALLEY, CITY OF | 0604210009B | 17-DEC-1999 | 00-09-114A | 02
09 | CA | SIMI VALLEY, CITY OF | 0604210002B | 30-JUL-1999 | 99-09-1000A | 01
09 | CA | SIMI VALLEY, CITY OF | 0604210004B | 30-JUL-1999 | 99-09-1000A | 01
09 | CA | SIMI VALLEY, CITY OF | 0604210008B | 26-JUL-1999 | 99-09-1022A | 02
09 | CA | SIMI VALLEY, CITY OF | 0604210002B | 15-SEP-1999 | 99-09-1080A | 02
09 | CA | SIMI VALLEY, CITY OF | 0604210002B | 12-NOV-1999 | 99-09-1199A | 01
09 | CA | SIMI VALLEY, CITY OF | 0604210004B | 12-NOV-1999 | 99-09-1199A | 01
09 | CA | SIMI VALLEY, CITY OF | 0604210004B | 07-JUL-1999 | 99-09-931A | 02
09 | CA | SIMI VALLEY, CITY OF | 0604210008B | 07-JUL-1999 | 99-09-931A | 02
09 | CA | SOLANO COUNTY | 0606310406B | 13-AUG-1999 | 99-09-1102A | 02
09 | CA | SONOMA COUNTY | 0603750785C | 21-DEC-1999 | 00-09-189A | 02
09 | CA | SONOMA COUNTY | 0603750515B | 21-DEC-1999 | 99-09-1149A | 02
09 | CA | SOUTH LAKE TAHOE, CITY OF | 0650600010B | 12-JUL-1999 | 99-09-726A | 02
09 | CA | SOUTH SAN FRANCISCO, CITY OF | 0650620001B | 19-OCT-1999 | 99-09-1262A | 01
09 | CA | SOUTH SAN FRANCISCO, CITY OF | 0650620007B | 19-OCT-1999 | 99-09-1262A | 01
09 | CA | STANISLAUS COUNTY | 0603840290A | 15-DEC-1999 | 99-09-740P | 05
09 | CA | STANISLAUS COUNTY | 0603840295A | 15-DEC-1999 | 99-09-740P | 05
09 | CA | STANISLAUS COUNTY | 0603840480A | 15-DEC-1999 | 99-09-740P | 05
09 | CA | STANISLAUS COUNTY | 0603840485A | 15-DEC-1999 | 99-09-740P | 05
09 | CA | STANISLAUS COUNTY | 0603840505A | 15-DEC-1999 | 99-09-740P | 05
09 | CA | STANISLAUS COUNTY | 0603840510A | 15-DEC-1999 | 99-09-740P | 05
09 | CA | SUISUN CITY, CITY OF | 0603720001B | 16-NOV-1999 | 00-09-056A | 02
09 | CA | SUNNYVALE, CITY OF | 0603520001D | 17-AUG-1999 | 99-09-1092A | 02
09 | CA | TEHAMA COUNTY | 0650640475B | 03-NOV-1999 | 00-09-012A | 02
09 | CA | TEMECULA, CITY OF | 0607420005B | 22-NOV-1999 | 99-09-1222A | 02
09 | CA | THOUSAND OAKS, CITY OF | 0604220020A | 28-SEP-1999 | 99-09-1223A | 02
09 | CA | THOUSAND OAKS, CITY OF | 0604220015B | 30-JUL-1999 | 99-09-953A | 02
09 | CA | TUSTIN, CITY OF | 06059C0030E | 29-DEC-1999 | 99-09-1031P | 05
09 | CA | TUSTIN, CITY OF | 06059C0039E | 29-DEC-1999 | 99-09-1031P | 05
09 | CA | TUSTIN, CITY OF | 06059C0038F | 13-SEP-1999 | 99-09-382P | 05
09 | CA | TUSTIN, CITY OF | 06059C0039E | 13-SEP-1999 | 99-09-382P | 05
09 | CA | TWENTYNINE PALMS, CITY OF | 06071C8935F | 20-DEC-1999 | 00-09-176A | 02
09 | CA | TWENTYNINE PALMS, CITY OF | 06071C8190F | 08-DEC-1999 | 99-09-1259A | 02
09 | CA | UNION CITY, CITY OF | 0600140010B | 03-NOV-1999 | 00-09-016A | 01
09 | CA | UNION CITY, CITY OF | 0600140010B | 10-AUG-1999 | 99-09-1021A | 01
09 | CA | UNION CITY, CITY OF | 0600140010B | 23-AUG-1999 | 99-09-1095A | 01
09 | CA | UNION CITY, CITY OF | 0600140010B | 08-OCT-1999 | 99-09-1247A | 01
09 | CA | VALLEJO, CITY OF | 0603740010C | 22-OCT-1999 | 99-09-1271A | 02
09 | CA | VENTURA COUNTY | 0604130745B | 26-JUL-1999 | 98-09-383P | 05
09 | CA | VENTURA COUNTY | 0604130645B | 01-SEP-1999 | 99-09-964A | 01
09 | CA | VISALIA, CITY OF | 0604090010C | 22-NOV-1999 | 00-09-079A | 02
09 | CA | VISALIA, CITY OF | 0604090010C | 08-DEC-1999 | 00-09-133A | 02
09 | CA | VISALIA, CITY OF | 0604090005D | 13-SEP-1999 | 99-09-1142A | 01
09 | CA | WALNUT CREEK, CITY OF | 0650700003C | 22-DEC-1999 | 00-09-175A | 02
09 | CA | WALNUT CREEK, CITY OF | 0650700001C | 10-SEP-1999 | 99-09-1143A | 02
09 | CA | WALNUT CREEK, CITY OF | 0650700001C | 07-SEP-1999 | 99-09-1158A | 02
09 | CA | WALNUT CREEK, CITY OF | 0650700001C | 08-OCT-1999 | 99-09-1231A | 02
09 | CA | WOODLAND, CITY OF | 0604230450E | 21-SEP-1999 | 99-09-1079P | 08
09 | CA | YOLO COUNTY | 0604230555C | 15-JUL-1999 | 99-09-1013A | 01
09 | CA | YOLO COUNTY | 0604230560C | 15-SEP-1999 | 99-09-1164A | 01
09 | CA | YOLO COUNTY | 0604230565C | 24-SEP-1999 | 99-09-1187A | 02
09 | CA | YOLO COUNTY | 0604230575C | 22-OCT-1999 | 99-09-1276A | 02
09 | CA | YUBA COUNTY | 0604270225B | 22-OCT-1999 | 00-09-002A | 02
09 | CA | YUBA COUNTY | 0604270360B | 27-JUL-1999 | 99-09-995A | 02
09 | CA | YUCCA VALLEY, TOWN OF | 06071C8120F | 18-AUG-1999 | 99-09-873P | 06
09 | HI | HAWAII COUNTY | 1551660890C | 17-SEP-1999 | 99-09-1183A | 02
09 | HI | HAWAII COUNTY | 1551660890C | 22-OCT-1999 | 99-09-1202A | 02
09 | HI | HONOLULU COUNTY | 1500010044B | 22-OCT-1999 | 99-09-692A | 02
09 | HI | KAUAI COUNTY | 1500020130D | 15-DEC-1999 | 00-09-067A | 02
09 | NV | CLARK COUNTY | 32003C2553D | 27-DEC-1999 | 00-09-179A | 01
09 | NV | CLARK COUNTY | 32003C2554D | 27-DEC-1999 | 00-09-179A | 01
09 | NV | CLARK COUNTY | 32003C2590D | 27-DEC-1999 | 99-09-1211P | 06
09 | NV | CLARK COUNTY | 32003C2554D | 28-SEP-1999 | 99-09-814A | 02
09 | NV | CLARK COUNTY | 32003C2569D | 02-JUL-1999 | 99-09-841A | 01
09 | NV | CLARK COUNTY | 32003C1735D | 17-SEP-1999 | 99-09-936P | 05
09 | NV | CLARK COUNTY | 32003C1755D | 17-SEP-1999 | 99-09-936P | 05
09 | NV | CLARK COUNTY | 32003C1790D | 17-SEP-1999 | 99-09-936P | 05
09 | NV | CLARK COUNTY | 32003C2178D | 17-SEP-1999 | 99-09-936P | 05
09 | NV | CLARK COUNTY | 32003C2180D | 17-SEP-1999 | 99-09-936P | 05
09 | NV | CLARK COUNTY | 32003C2200D | 17-SEP-1999 | 99-09-936P | 05
09 | NV | CLARK COUNTY | 32003C2535D | 14-JUL-1999 | 99-09-944A | 02
09 | NV | CLARK COUNTY | 32003C2562D | 29-JUL-1999 | 99-09-969A | 02
09 | NV | DOUGLAS COUNTY | 32005C0030F | 09-NOV-1999 | 99-09-1297V | 19
09 | NV | DOUGLAS COUNTY | 32005C0040F | 09-NOV-1999 | 99-09-1297V | 19
09 | NV | DOUGLAS COUNTY | 32005C0210F | 09-NOV-1999 | 99-09-1297V | 19
09 | NV | DOUGLAS COUNTY | 32005C0235F | 09-NOV-1999 | 99-09-1297V | 19
09 | NV | DOUGLAS COUNTY | 32005C0255F | 09-NOV-1999 | 99-09-1297V | 19
09 | NV | DOUGLAS COUNTY | 32005C0267F | 09-NOV-1999 | 99-09-1297V | 19
09 | NV | DOUGLAS COUNTY | 32005C0268F | 09-NOV-1999 | 99-09-1297V | 19
09 | NV | DOUGLAS COUNTY | 32005C0030F | 15-NOV-1999 | 99-09-1304V | 19
09 | NV | DOUGLAS COUNTY | 32005C0040F | 15-NOV-1999 | 99-09-1304V | 19
09 | NV | DOUGLAS COUNTY | 32005C0210F | 15-NOV-1999 | 99-09-1304V | 19
09 | NV | DOUGLAS COUNTY | 32005C0235F | 15-NOV-1999 | 99-09-1304V | 19
09 | NV | DOUGLAS COUNTY | 32005C0255F | 15-NOV-1999 | 99-09-1304V | 19
09 | NV | DOUGLAS COUNTY | 32005C0267F | 15-NOV-1999 | 99-09-1304V | 19
09 | NV | DOUGLAS COUNTY | 32005C0268F | 15-NOV-1999 | 99-09-1304V | 19
09 | NV | FALLON, CITY OF | 3200020001A | 13-DEC-1999 | 00-09-166A | 02
09 | NV | HENDERSON, CITY OF | 32003C2590D | 28-DEC-1999 | 99-09-1041P | 06
09 | NV | HENDERSON, CITY OF | 32003C2930D | 28-DEC-1999 | 99-09-1041P | 06
09 | NV | HENDERSON, CITY OF | 32003C2595D | 12-JUL-1999 | 99-09-627A | 01
09 | NV | HENDERSON, CITY OF | 32003C2595D | 02-JUL-1999 | 99-09-907A | 01
09 | NV | HENDERSON, CITY OF | 32003C2595D | 23-JUL-1999 | 99-09-908P | 06
09 | NV | HENDERSON, CITY OF | 32003C2590D | 15-JUL-1999 | 99-09-960A | 02
09 | NV | HENDERSON, CITY OF | 32003C2590D | 22-OCT-1999 | 99-09-998A | 01
09 | NV | LAS VEGAS, CITY OF | 32003C1745D | 02-NOV-1999 | 99-09-025P | 05
09 | NV | LAS VEGAS, CITY OF | 32003C1765D | 02-NOV-1999 | 99-09-025P | 05
09 | NV | LAS VEGAS, CITY OF | 32003C2155D | 02-NOV-1999 | 99-09-025P | 05
09 | NV | LAS VEGAS, CITY OF | 32003C1735D | 17-SEP-1999 | 99-09-936P | 06
09 | NV | LAS VEGAS, CITY OF | 32003C1755D | 17-SEP-1999 | 99-09-936P | 06
09 | NV | LAS VEGAS, CITY OF | 32003C1770D | 17-SEP-1999 | 99-09-936P | 06
09 | NV | LAS VEGAS, CITY OF | 32003C2180D | 17-SEP-1999 | 99-09-936P | 06
09 | NV | LAS VEGAS, CITY OF | 32003C2187D | 17-SEP-1999 | 99-09-936P | 06
09 | NV | LAS VEGAS, CITY OF | 32003C2200D | 17-SEP-1999 | 99-09-936P | 06
09 | NV | NORTH LAS VEGAS, CITY OF | 32003C1769D | 30-NOV-1999 | 00-09-144P | 06
09 | NV | NORTH LAS VEGAS, CITY OF | 32003C2160D | 02-DEC-1999 | 99-09-1190P | 06
09 | NV | NORTH LAS VEGAS, CITY OF | 32003C1770D | 01-JUL-1999 | 99-09-861A | 01
09 | NV | NORTH LAS VEGAS, CITY OF | 32003C1755D | 17-SEP-1999 | 99-09-936P | 06
09 | NV | NORTH LAS VEGAS, CITY OF | 32003C1760D | 17-SEP-1999 | 99-09-936P | 06
09 | NV | NORTH LAS VEGAS, CITY OF | 32003C1765D | 17-SEP-1999 | 99-09-936P | 06
09 | NV | NORTH LAS VEGAS, CITY OF | 32003C1770D | 17-SEP-1999 | 99-09-936P | 06
09 | NV | NORTH LAS VEGAS, CITY OF | 32003C1790D | 17-SEP-1999 | 99-09-936P | 06
09 | NV | NORTH LAS VEGAS, CITY OF | 32003C2176D | 17-SEP-1999 | 99-09-936P | 06
09 | NV | NORTH LAS VEGAS, CITY OF | 32003C2178D | 17-SEP-1999 | 99-09-936P | 06
09 | NV | NORTH LAS VEGAS, CITY OF | 32003C2180D | 17-SEP-1999 | 99-09-936P | 06
09 | NV | RENO, CITY OF | 32031C3156E | 24-NOV-1999 | 00-09-078A | 02
09 | NV | RENO, CITY OF | 32031C3176E | 08-DEC-1999 | 00-09-120A | 01
09 | NV | RENO, CITY OF | 32031C3176E | 24-AUG-1999 | 99-09-1117A | 01
09 | NV | RENO, CITY OF | 32031C3176E | 15-JUL-1999 | 99-09-954A | 01
10 | AK | ANCHORAGE, MUNICIPALITY OF | 0200050230B | 06-DEC-1999 | 00-10-030A | 02
10 | AK | ANCHORAGE, MUNICIPALITY OF | 0200050230B | 06-DEC-1999 | 00-10-054A | 02
10 | AK | HOMER, CITY OF | 0201070004A | 25-AUG-1999 | 99-10-205P | 05
10 | ID | ADA COUNTY | 16001C0258G | 08-DEC-1999 | 00-10-062A | 01
10 | ID | ADA COUNTY | 1600010155C | 26-OCT-1999 | 99-10-481P | 05
10 | ID | ADA COUNTY | 1600010254C | 01-SEP-1999 | 99-10-525A | 02
10 | ID | ADA COUNTY | 1600010315C | 13-AUG-1999 | 99-10-527A | 02
10 | ID | ADA COUNTY | 16001C0254G | 24-SEP-1999 | 99-10-577A | 02
10 | ID | ADA COUNTY | 16001C0254G | 24-SEP-1999 | 99-10-591A | 02
10 | ID | ADA COUNTY | 16001C0152G | 12-NOV-1999 | 99-10-619V | 19
10 | ID | ADA COUNTY | 16001C0167G | 12-NOV-1999 | 99-10-619V | 19
10 | ID | ADA COUNTY | 16001C0186G | 12-NOV-1999 | 99-10-619V | 19
10 | ID | ADA COUNTY | 16001C0254G | 12-NOV-1999 | 99-10-619V | 19
10 | ID | ADA COUNTY | 16001C0258G | 12-NOV-1999 | 99-10-619V | 19
10 | ID | ADA COUNTY | 16001C0283G | 12-NOV-1999 | 99-10-619V | 19
10 | ID | ADA COUNTY | 16001C0315G | 12-NOV-1999 | 99-10-619V | 19
10 | ID | ADA COUNTY | 16001C0152G | 15-NOV-1999 | 99-10-623V | 19
10 | ID | ADA COUNTY | 16001C0167G | 15-NOV-1999 | 99-10-623V | 19
10 | ID | ADA COUNTY | 16001C0169G | 15-NOV-1999 | 99-10-623V | 19
10 | ID | ADA COUNTY | 16001C0186G | 15-NOV-1999 | 99-10-623V | 19
10 | ID | ADA COUNTY | 16001C0254G | 15-NOV-1999 | 99-10-623V | 19
10 | ID | ADA COUNTY | 16001C0258G | 15-NOV-1999 | 99-10-623V | 19
10 | ID | ADA COUNTY | 16001C0283G | 15-NOV-1999 | 99-10-623V | 19
10 | ID | ADA COUNTY | 16001C0315G | 15-NOV-1999 | 99-10-623V | 19
10 | ID | BINGHAM COUNTY | 1600180435C | 15-JUL-1999 | 99-10-475A | 02
10 | ID | BINGHAM COUNTY | 1600180260B | 19-OCT-1999 | 99-10-618A | 02
10 | ID | BLACKFOOT, CITY OF | 1600190002C | 12-JUL-1999 | 99-10-473A | 02
10 | ID | BLAINE COUNTY | 1651670461B | 08-NOV-1999 | 99-10-470A | 02
10 | ID | BOISE, CITY OF | 1600020014C | 10-SEP-1999 | 99-10-560A | 02
10 | ID | BOISE, CITY OF | 16001C0169G | 12-NOV-1999 | 99-10-619V | 19
10 | ID | BOISE, CITY OF | 16001C0277G | 12-NOV-1999 | 99-10-619V | 19
10 | ID | BOISE, CITY OF | 16001C0281G | 12-NOV-1999 | 99-10-619V | 19
10 | ID | BOISE, CITY OF | 16001C0283G | 12-NOV-1999 | 99-10-619V | 19
10 | ID | BOISE, CITY OF | 16001C0284G | 12-NOV-1999 | 99-10-619V | 19
10 | ID | BOISE, CITY OF | 16001C0169G | 15-NOV-1999 | 99-10-623V | 19
10 | ID | BOISE, CITY OF | 16001C0277G | 15-NOV-1999 | 99-10-623V | 19
10 | ID | BOISE, CITY OF | 16001C0281G | 15-NOV-1999 | 99-10-623V | 19
10 | ID | BOISE, CITY OF | 16001C0283G | 15-NOV-1999 | 99-10-623V | 19
10 | ID | BOISE, CITY OF | 16001C0284G | 15-NOV-1999 | 99-10-623V | 19
10 | ID | BONNER COUNTY | 1602060325B | 08-NOV-1999 | 00-10-013A | 02
10 | ID | BONNER COUNTY | 1602060400C | 09-DEC-1999 | 00-10-028A | 02
10 | ID | BONNER COUNTY | 1602060300C | 09-DEC-1999 | 00-10-067A | 02
10 | ID | BONNER COUNTY | 1602060050B | 10-AUG-1999 | 99-10-519A | 02
10 | ID | BONNER COUNTY | 1602060300C | 05-OCT-1999 | 99-10-594A | 02
10 | ID | BONNER COUNTY | 1602060360C | 29-OCT-1999 | 99-10-599A | 02
10 | ID | CASSIA COUNTY | 1600410100B | 22-DEC-1999 | 00-10-049A | 02
10 | ID | EAGLE, CITY OF | 1600030001C | 26-OCT-1999 | 99-10-481P | 05
10 | ID | EAGLE, CITY OF | 1600010165C | 02-AUG-1999 | 99-10-506A | 01
10 | ID | EAGLE, CITY OF | 16001C0153G | 12-NOV-1999 | 99-10-619V | 19
10 | ID | EAGLE, CITY OF | 16001C0161G | 12-NOV-1999 | 99-10-619V | 19
10 | ID | EAGLE, CITY OF | 16001C0153G | 15-NOV-1999 | 99-10-623V | 19
10 | ID | EAGLE, CITY OF | 16001C0161G | 15-NOV-1999 | 99-10-623V | 19
10 | ID | FREMONT COUNTY | 1600610225B | 22-NOV-1999 | 00-10-021A | 02
10 | ID | GARDEN CITY, CITY OF | 1600040002E | 24-AUG-1999 | 99-10-539A | 02
10 | ID | GARDEN CITY, CITY OF | 16001C0169G | 27-OCT-1999 | 99-10-603A | 02
10 | ID | GARDEN CITY, CITY OF | 16001C0169G | 27-OCT-1999 | 99-10-606A | 02
10 | ID | GARDEN CITY, CITY OF | 16001C0166G | 12-NOV-1999 | 99-10-619V | 19
10 | ID | GARDEN CITY, CITY OF | 16001C0167G | 12-NOV-1999 | 99-10-619V | 19
10 | ID | GARDEN CITY, CITY OF | 16001C0169G | 12-NOV-1999 | 99-10-619V | 19
10 | ID | GARDEN CITY, CITY OF | 16001C0166G | 15-NOV-1999 | 99-10-623V | 19
10 | ID | GARDEN CITY, CITY OF | 16001C0167G | 15-NOV-1999 | 99-10-623V | 19
10 | ID | GARDEN CITY, CITY OF | 16001C0169G | 15-NOV-1999 | 99-10-623V | 19
10 | ID | JEFFERSON COUNTY | 16051C0400B | 03-AUG-1999 | 99-10-505A | 02
10 | ID | JEFFERSON COUNTY | 16051C0125B | 25-AUG-1999 | 99-10-514A | 02
10 | ID | KOOTENAI COUNTY | 1600760155C | 02-AUG-1999 | 99-10-529A | 02
10 | ID | KOOTENAI COUNTY | 1600760170D | 17-SEP-1999 | 99-10-573A | 02
10 | ID | KOOTENAI COUNTY | 1600760170D | 19-OCT-1999 | 99-10-616A | 02
10 | ID | MERIDIAN, CITY OF | 16001C0232G | 08-DEC-1999 | 99-10-614A | 02
10 | ID | MERIDIAN, CITY OF | 16001C0143G | 12-NOV-1999 | 99-10-619V | 19
10 | ID | MERIDIAN, CITY OF | 16001C0144G | 12-NOV-1999 | 99-10-619V | 19
10 | ID | MERIDIAN, CITY OF | 16001C0231G | 12-NOV-1999 | 99-10-619V | 19
10 | ID | MERIDIAN, CITY OF | 16001C0232G | 12-NOV-1999 | 99-10-619V | 19
10 | ID | MERIDIAN, CITY OF | 16001C0143G | 15-NOV-1999 | 99-10-623V | 19
10 | ID | MERIDIAN, CITY OF | 16001C0144G | 15-NOV-1999 | 99-10-623V | 19
10 | ID | MERIDIAN, CITY OF | 16001C0231G | 15-NOV-1999 | 99-10-623V | 19
10 | ID | MERIDIAN, CITY OF | 16001C0232G | 15-NOV-1999 | 99-10-623V | 19
10 | ID | MERIDIAN, CITY OF | 16001C0232G | 15-NOV-1999 | 99-10-623V | 19
10 | ID | MIDDLETON, CITY OF | 1600370001E | 19-OCT-1999 | 00-10-002A | 01
10 | ID | MIDDLETON, CITY OF | 1600370001E | 17-SEP-1999 | 99-10-538A | 01
10 | ID | SPIRIT LAKE, CITY OF | 1600840001A | 22-JUL-1999 | 99-10-486A | 02
10 | ID | VALLEY COUNTY | 1602200175A | 08-NOV-1999 | 00-10-014A | 02
10 | ID | VALLEY COUNTY | 1602200325A | 12-NOV-1999 | 00-10-018A | 02
10 | ID | WASHINGTON COUNTY | 1602210200B | 22-JUL-1999 | 99-10-468A | 02
10 | ID | WEISER,CITY OF | 1601240005B | 06-AUG-1999 | 99-10-377A | 02
10 | OR | ALBANY, CITY OF | 4101370001F | 08-JUL-1999 | 98-10-264V | 19
10 | OR | ALBANY, CITY OF | 4101370002F | 08-JUL-1999 | 98-10-264V | 19
10 | OR | ALBANY, CITY OF | 4101370003F | 08-JUL-1999 | 98-10-264V | 19
10 | OR | ALBANY, CITY OF | 4101370004F | 08-JUL-1999 | 98-10-264V | 19
10 | OR | ALBANY, CITY OF | 4101370004F | 14-JUL-1999 | 99-10-247A | 01
10 | OR | ALBANY, CITY OF | 4101370002F | 15-JUL-1999 | 99-10-488A | 02
10 | OR | ALBANY, CITY OF | 4101370001F | 15-JUL-1999 | 99-10-489A | 02
10 | OR | ALBANY, CITY OF | 4101370003F | 15-JUL-1999 | 99-10-490A | 02
10 | OR | ALBANY, CITY OF | 4101370001F | 15-JUL-1999 | 99-10-491A | 02
10 | OR | ALBANY, CITY OF | 4101370001F | 15-JUL-1999 | 99-10-492A | 02
10 | OR | ALBANY, CITY OF | 4101370001F | 19-AUG-1999 | 99-10-530A | 02
10 | OR | BENTON COUNTY | 4100080050C | 09-DEC-1999 | 99-10-593A | 02
10 | OR | CLACKAMAS COUNTY | 4155880020A | 22-JUL-1999 | 99-10-454A | 02
10 | OR | CLACKAMAS COUNTY | 4155880145A | 13-SEP-1999 | 99-10-572A | 02
10 | OR | COLUMBIA COUNTY | 41009C0463C | 13-SEP-1999 | 99-10-548A | 02
10 | OR | COOS BAY, CITY OF | 4100440006B | 06-DEC-1999 | 00-10-043A | 02
10 | OR | COOS BAY, CITY OF | 4100440008B | 30-JUL-1999 | 99-10-503A | 02
10 | OR | CORVALLIS, CITY OF | 4100090005E | 22-JUL-1999 | 99-10-445A | 02
10 | OR | CORVALLIS, CITY OF | 4100090002E | 08-OCT-1999 | 99-10-605A | 02
10 | OR | CRESWELL, CITY OF | 41039C1661F | 29-NOV-1999 | 00-10-031A | 02
10 | OR | CRESWELL, CITY OF | 41039C1661F | 06-DEC-1999 | 00-10-051A | 02
10 | OR | CRESWELL, CITY OF | 41039C1661F | 08-DEC-1999 | 00-10-057A | 02
10 | OR | DEPOE BAY, CITY OF | 4102830001B | 02-AUG-1999 | 99-10-533A | 02
10 | OR | DESCHUTES COUNTY | 41017C0460D | 03-AUG-1999 | 99-10-463A | 02
10 | OR | DESCHUTES COUNTY | 41017C0465D | 14-DEC-1999 | 99-10-621P | 06
10 | OR | DESCHUTES COUNTY | 41017C0655C | 14-DEC-1999 | 99-10-621P | 06
10 | OR | DESCHUTES COUNTY | 41017C0675C | 14-DEC-1999 | 99-10-621P | 06
10 | OR | DOUGLAS COUNTY | 4100590930A | 30-DEC-1999 | 00-10-044A | 02
10 | OR | DOUGLAS COUNTY | 4100590930A | 27-JUL-1999 | 99-10-462A | 02
10 | OR | DOUGLAS COUNTY | 4100590395A | 02-AUG-1999 | 99-10-512A | 02
10 | OR | DOUGLAS COUNTY | 4100591140B | 16-NOV-1999 | 99-10-612A | 02
10 | OR | ELGIN, CITY OF | 4102180005B | 26-JUL-1999 | 99-10-408A | 02
10 | OR | ELGIN, CITY OF | 4102180005B | 08-OCT-1999 | 99-10-600A | 02
10 | OR | ELGIN, CITY OF | 4102180005B | 04-NOV-1999 | 99-10-611A | 02
10 | OR | EUGENE, CITY OF | 41039C1136F | 10-NOV-1999 | 00-10-019A | 02
10 | OR | EUGENE, CITY OF | 41039C1106F | 08-DEC-1999 | 00-10-061A | 01
10 | OR | EUGENE, CITY OF | 41039C1107F | 30-DEC-1999 | 00-10-076A | 02
10 | OR | EUGENE, CITY OF | 41039C1107F | 12-JUL-1999 | 99-10-158A | 01
10 | OR | EUGENE, CITY OF | 41039C1106F | 08-SEP-1999 | 99-10-562A | 02
10 | OR | EUGENE, CITY OF | 41039C1107F | 08-SEP-1999 | 99-10-562A | 02
10 | OR | EUGENE, CITY OF | 41039C1129F | 30-SEP-1999 | 99-10-578A | 02
10 | OR | EUGENE, CITY OF | 41039C1106F | 13-OCT-1999 | 99-10-608A | 02
10 | OR | FAIRVIEW, CITY OF | 4101800001D | 10-AUG-1999 | 99-10-502A | 01
10 | OR | GLENDALE, CITY OF | 4100630005C | 23-AUG-1999 | 99-10-479A | 02
10 | OR | GRANTS PASS, CITY OF | 4101080003C | 15-DEC-1999 | 00-10-056A | 02
10 | OR | JACKSON COUNTY | 4155890314B | 22-OCT-1999 | 00-10-003A | 02
10 | OR | JOSEPHINE COUNTY | 4155900241C | 10-SEP-1999 | 99-10-532A | 02
10 | OR | KEIZER, CITY OF | 4102880005B | 19-OCT-1999 | 99-10-586A | 02
10 | OR | LANE COUNTY | 41039C1107F | 30-DEC-1999 | 00-10-052A | 02
10 | OR | LANE COUNTY | 41039C2087F | 15-DEC-1999 | 00-10-070A | 02
10 | OR | LANE COUNTY | 41039C0450F | 22-JUL-1999 | 99-10-285A | 02
10 | OR | LANE COUNTY | 41039C1107F | 14-JUL-1999 | 99-10-448A | 02
10 | OR | LANE COUNTY | 41039C1128F | 30-JUL-1999 | 99-10-500A | 02
10 | OR | LANE COUNTY | 41039C0790F | 01-SEP-1999 | 99-10-547A | 02
10 | OR | LANE COUNTY | 41039C1107F | 07-SEP-1999 | 99-10-563A | 02
10 | OR | LANE COUNTY | 41039C0619F | 27-OCT-1999 | 99-10-569A | 02
10 | OR | LANE COUNTY | 41039C1107F | 27-OCT-1999 | 99-10-569A | 02
10 | OR | LANE COUNTY | 41039C1107F | 30-SEP-1999 | 99-10-592A | 02
10 | OR | LANE COUNTY | 41039C0945F | 25-OCT-1999 | 99-10-615A | 02
10 | OR | LINCOLN CITY, CITY OF | 4101300001C | 06-AUG-1999 | 99-10-457A | 02
10 | OR | LINCOLN CITY, CITY OF | 4101300001C | 07-SEP-1999 | 99-10-528A | 02
10 | OR | LINCOLN CITY, CITY OF | 4101300001C | 16-AUG-1999 | 99-10-537A | 02
10 | OR | LINN COUNTY | 4101360190B | 14-JUL-1999 | 99-10-465A | 02
10 | OR | MARION COUNTY | 4101540175D | 05-NOV-1999 | 00-10-038A | 02
10 | OR | MARION COUNTY | 4101540175D | 09-NOV-1999 | 99-10-389P | 05
10 | OR | MCMINNVILLE, CITY OF | 4102490303C | 10-DEC-1999 | 00-10-071A | 02
10 | OR | MULTNOMAH COUNTY | 4101790215B | 08-SEP-1999 | 99-10-561A | 02
10 | OR | NORTH BEND, CITY OF | 4100420155B | 29-NOV-1999 | 99-10-582A | 02
10 | OR | POLK COUNTY | 41053C0225C | 06-DEC-1999 | 00-10-046A | 02
10 | OR | PORTLAND, CITY OF | 4101830020D | 08-SEP-1999 | 99-10-545A | 02
10 | OR | ROSEBURG, CITY OF | 4100670005E | 29-OCT-1999 | 00-10-011A | 02
10 | OR | ROSEBURG, CITY OF | 4100670005E | 13-SEP-1999 | 99-10-565A | 02
10 | OR | SALEM, CITY OF | 4101670004E | 28-OCT-1999 | 99-10-580A | 02
10 | OR | SCAPPOOSE, CITY OF | 41009C0444C | 10-SEP-1999 | 99-10-496A | 02
10 | OR | SHERIDAN, CITY OF | 4102570002C | 09-JUL-1999 | 99-10-428A | 01
10 | OR | SHERIDAN, CITY OF | 4102570001C | 13-AUG-1999 | 99-10-526A | 02
10 | OR | SPRINGFIELD, CITY OF | 41039C1134F | 12-JUL-1999 | 99-10-353A | 01
10 | OR | STANFIELD, CITY OF | 4102130001C | 15-SEP-1999 | 99-10-571A | 02
10 | OR | TILLAMOOK COUNTY | 4101960170B | 26-AUG-1999 | 99-10-471A | 02
10 | OR | WASHINGTON COUNTY | 4102380200B | 26-OCT-1999 | 00-10-006A | 02
10 | OR | WASHINGTON COUNTY | 4102380502C | 26-JUL-1999 | 99-10-484A | 02
10 | WA | ABERDEEN, CITY OF | 5300580004B | 02-NOV-1999 | 99-10-598P | 06
10 | WA | BENTON COUNTY | 5302370440B | 29-OCT-1999 | 00-10-010A | 02
10 | WA | BENTON COUNTY | 5302370636D | 08-NOV-1999 | 00-10-016A | 02
10 | WA | BENTON COUNTY | 5302370440B | 29-OCT-1999 | 99-10-541A | 02
10 | WA | BRIER, CITY OF | 53061C1317E | 09-NOV-1999 | 99-10-166V | 19
10 | WA | BRIER, CITY OF | 5302760005A | 06-AUG-1999 | 99-10-510A | 02
10 | WA | BRIER, CITY OF | 53061C1317E | 15-NOV-1999 | 99-10-622V | 19
10 | WA | BURIEN, CITY OF | 53033C0953F | 01-JUL-1999 | 99-10-358A | 02
10 | WA | CHEHALIS, CITY OF | 5301040001B | 06-DEC-1999 | 00-10-033A | 02
10 | WA | CHELAN COUNTY | 5300150600A | 03-AUG-1999 | 99-10-474A | 02
10 | WA | CLARK COUNTY | 5300240340C | 06-DEC-1999 | 00-10-041A | 02
10 | WA | CLARK COUNTY | 5300240187B | 22-NOV-1999 | 99-10-509A | 01
10 | WA | CLARK COUNTY | 5300240189B | 22-NOV-1999 | 99-10-509A | 01
10 | WA | CLARK COUNTY | 5300240191B | 22-NOV-1999 | 99-10-509A | 01
10 | WA | CLARK COUNTY | 5300240193B | 22-NOV-1999 | 99-10-509A | 01
10 | WA | CLARK COUNTY | 5300240340C | 11-AUG-1999 | 99-10-511A | 02
10 | WA | CLARK COUNTY | 5300240340C | 07-SEP-1999 | 99-10-564A | 02
10 | WA | EDMONDS, CITY OF | 53061C1315E | 09-NOV-1999 | 99-10-166V | 19
10 | WA | EDMONDS, CITY OF | 53061C1315E | 15-NOV-1999 | 99-10-622V | 19
10 | WA | FERNDALE, TOWN OF | 5302010005B | 10-SEP-1999 | 99-10-552A | 01
10 | WA | FERNDALE, TOWN OF | 5302010005B | 22-NOV-1999 | 99-10-601A | 01
10 | WA | GOLD BAR, TOWN OF | 53061C1427E | 09-NOV-1999 | 99-10-166V | 19
10 | WA | GOLD BAR, TOWN OF | 53061C1427E | 15-NOV-1999 | 99-10-622V | 19
10 | WA | GRAYS HARBOR COUNTY | 5300570400B | 30-JUL-1999 | 99-10-504A | 02
10 | WA | KING COUNTY | 53033C0687F | 15-DEC-1999 | 00-10-039A | 02
10 | WA | KING COUNTY | 53033C1235F | 13-DEC-1999 | 99-10-568A | 02
10 | WA | KING COUNTY | 53033C0925F | 29-NOV-1999 | 99-10-581A | 02
10 | WA | KITSAP COUNTY | 5300920310B | 22-NOV-1999 | 00-10-024A | 02
10 | WA | KITSAP COUNTY | 5300920380B | 06-DEC-1999 | 00-10-047A | 02
10 | WA | KITSAP COUNTY | 5300920310B | 15-JUL-1999 | 99-10-469A | 02
10 | WA | KITSAP COUNTY | 5300920105B | 26-AUG-1999 | 99-10-485A | 02
10 | WA | KITSAP COUNTY | 5300920205B | 23-AUG-1999 | 99-10-536A | 02
10 | WA | KITTITAS COUNTY | 5300950241B | 11-AUG-1999 | 99-10-397A | 02
10 | WA | KITTITAS COUNTY | 5300950241B | 11-AUG-1999 | 99-10-404A | 02
10 | WA | LAKE STEVENS, CITY OF | 53061C0743E | 09-NOV-1999 | 99-10-166V | 19
10 | WA | LAKE STEVENS, CITY OF | 53061C0743E | 15-NOV-1999 | 99-10-622V | 19
10 | WA | LEWIS COUNTY | 5301020243B | 22-JUL-1999 | 99-10-483A | 02
10 | WA | MASON COUNTY | 5301150185C | 10-AUG-1999 | 99-10-515A | 02
10 | WA | MONROE, CITY OF | 53061C1357E | 09-NOV-1999 | 99-10-166V | 19
10 | WA | MONROE, CITY OF | 53061C1376E | 09-NOV-1999 | 99-10-166V | 19
10 | WA | MONROE, CITY OF | 53061C1357E | 15-NOV-1999 | 99-10-622V | 19
10 | WA | MONROE, CITY OF | 53061C1376E | 15-NOV-1999 | 99-10-622V | 19
10 | WA | MORTON, CITY OF | 5301050001C | 12-JUL-1999 | 99-10-453A | 02
10 | WA | MOUNTLAKE TERRACE, CITY OF | 53061C1320E | 09-NOV-1999 | 99-10-166V | 19
10 | WA | MOUNTLAKE TERRACE, CITY OF | 53061C1320E | 15-NOV-1999 | 99-10-622V | 19
10 | WA | OLYMPIA, CITY OF | 5301910007B | 07-OCT-1999 | 99-10-596A | 02
10 | WA | PEND OREILLE COUNTY | 530131B | 27-JUL-1999 | 99-10-493A | 02
10 | WA | PIERCE COUNTY | 5301381150C | 01-SEP-1999 | 99-10-385A | 02
10 | WA | PIERCE COUNTY | 5301380213C | 29-OCT-1999 | 99-10-535A | 01
10 | WA | RAYMOND, CITY OF | 5301290005B | 10-AUG-1999 | 99-10-522A | 02
10 | WA | SAN JUAN COUNTY | 5301490003B | 22-OCT-1999 | 00-10-005A | 02
10 | WA | SAN JUAN COUNTY | 5301490003B | 09-DEC-1999 | 99-10-607A | 02
10 | WA | SKAGIT COUNTY | 5301510260C | 08-NOV-1999 | 00-10-015A | 02
10 | WA | SKAGIT COUNTY | 5301510250C | 22-NOV-1999 | 00-10-026A | 02
10 | WA | SKAGIT COUNTY | 5301510225C | 09-DEC-1999 | 00-10-069A | 02
10 | WA | SKAGIT COUNTY | 5301510285C | 10-AUG-1999 | 99-10-405A | 02
10 | WA | SKAGIT COUNTY | 5301510250C | 28-JUL-1999 | 99-10-459A | 02
10 | WA | SKAGIT COUNTY | 5301510235D | 30-JUL-1999 | 99-10-501A | 02
10 | WA | SKAGIT COUNTY | 5301510250C | 24-AUG-1999 | 99-10-540A | 02
10 | WA | SKAGIT COUNTY | 5301510235D | 10-SEP-1999 | 99-10-557A | 02
10 | WA | SKAMANIA COUNTY | 5301600400B | 17-SEP-1999 | 99-10-553A | 02
10 | WA | SNOHOMISH COUNTY | 53061C0120E | 09-NOV-1999 | 99-10-166V | 19
10 | WA | SNOHOMISH COUNTY | 53061C0165E | 09-NOV-1999 | 99-10-166V | 19
10 | WA | SNOHOMISH COUNTY | 53061C0390E | 09-NOV-1999 | 99-10-166V | 19
10 | WA | SNOHOMISH COUNTY | 53061C0420E | 09-NOV-1999 | 99-10-166V | 19
10 | WA | SNOHOMISH COUNTY | 53061C0735E | 09-NOV-1999 | 99-10-166V | 19
10 | WA | SNOHOMISH COUNTY | 53061C0739E | 09-NOV-1999 | 99-10-166V | 19
10 | WA | SNOHOMISH COUNTY | 53061C0745E | 09-NOV-1999 | 99-10-166V | 19
10 | WA | SNOHOMISH COUNTY | 53061C0755E | 09-NOV-1999 | 99-10-166V | 19
10 | WA | SNOHOMISH COUNTY | 53061C0760E | 09-NOV-1999 | 99-10-166V | 19
10 | WA | SNOHOMISH COUNTY | 53061C1055E | 09-NOV-1999 | 99-10-166V | 19
10 | WA | SNOHOMISH COUNTY | 53061C1060E | 09-NOV-1999 | 99-10-166V | 19
10 | WA | SNOHOMISH COUNTY | 53061C1100E | 09-NOV-1999 | 99-10-166V | 19
10 | WA | SNOHOMISH COUNTY | 53061C1114E | 09-NOV-1999 | 99-10-166V | 19
10 | WA | SNOHOMISH COUNTY | 53061C1309E | 09-NOV-1999 | 99-10-166V | 19
10 | WA | SNOHOMISH COUNTY | 53061C1310E | 09-NOV-1999 | 99-10-166V | 19
10 | WA | SNOHOMISH COUNTY | 53061C1315E | 09-NOV-1999 | 99-10-166V | 19
10 | WA | SNOHOMISH COUNTY | 53061C1317E | 09-NOV-1999 | 99-10-166V | 19
10 | WA | SNOHOMISH COUNTY | 53061C1345E | 09-NOV-1999 | 99-10-166V | 19
10 | WA | SNOHOMISH COUNTY | 53061C1377E | 09-NOV-1999 | 99-10-166V | 19
10 | WA | SNOHOMISH COUNTY | 53061C1385E | 09-NOV-1999 | 99-10-166V | 19
10 | WA | SNOHOMISH COUNTY | 53061C1405E | 09-NOV-1999 | 99-10-166V | 19
10 | WA | SNOHOMISH COUNTY | 53061C1435E | 09-NOV-1999 | 99-10-166V | 19
10 | WA | SNOHOMISH COUNTY | 5355340510B | 19-AUG-1999 | 99-10-370A | 01
10 | WA | SNOHOMISH COUNTY | 5355340510B | 12-JUL-1999 | 99-10-382A | 02
10 | WA | SNOHOMISH COUNTY | 5355340205B | 10-AUG-1999 | 99-10-497A | 02
10 | WA | SNOHOMISH COUNTY | 5355340467C | 27-AUG-1999 | 99-10-499A | 02
10 | WA | SNOHOMISH COUNTY | 53061C0120E | 07-NOV-1999 | 99-10-622V | 19
10 | WA | SNOHOMISH COUNTY | 53061C0165E | 07-NOV-1999 | 99-10-622V | 19
10 | WA | SNOHOMISH COUNTY | 53061C0390E | 07-NOV-1999 | 99-10-622V | 19
10 | WA | SNOHOMISH COUNTY | 53061C0420E | 07-NOV-1999 | 99-10-622V | 19
10 | WA | SNOHOMISH COUNTY | 53061C0735E | 07-NOV-1999 | 99-10-622V | 19
10 | WA | SNOHOMISH COUNTY | 53061C0739E | 07-NOV-1999 | 99-10-622V | 19
10 | WA | SNOHOMISH COUNTY | 53061C0745E | 07-NOV-1999 | 99-10-622V | 19
10 | WA | SNOHOMISH COUNTY | 53061C0755E | 07-NOV-1999 | 99-10-622V | 19
10 | WA | SNOHOMISH COUNTY | 53061C0760E | 07-NOV-1999 | 99-10-622V | 19
10 | WA | SNOHOMISH COUNTY | 53061C1055E | 07-NOV-1999 | 99-10-622V | 19
10 | WA | SNOHOMISH COUNTY | 53061C1060E | 07-NOV-1999 | 99-10-622V | 19
10 | WA | SNOHOMISH COUNTY | 53061C1100E | 07-NOV-1999 | 99-10-622V | 19
10 | WA | SNOHOMISH COUNTY | 53061C1114E | 07-NOV-1999 | 99-10-622V | 19
10 | WA | SNOHOMISH COUNTY | 53061C1309E | 07-NOV-1999 | 99-10-622V | 19
10 | WA | SNOHOMISH COUNTY | 53061C1310E | 07-NOV-1999 | 99-10-622V | 19
10 | WA | SNOHOMISH COUNTY | 53061C1315E | 07-NOV-1999 | 99-10-622V | 19
10 | WA | SNOHOMISH COUNTY | 53061C1317E | 07-NOV-1999 | 99-10-622V | 19
10 | WA | SNOHOMISH COUNTY | 53061C1345E | 07-NOV-1999 | 99-10-622V | 19
10 | WA | SNOHOMISH COUNTY | 53061C1377E | 07-NOV-1999 | 99-10-622V | 19
10 | WA | SNOHOMISH COUNTY | 53061C1385E | 07-NOV-1999 | 99-10-622V | 19
10 | WA | SNOHOMISH COUNTY | 53061C1405E | 07-NOV-1999 | 99-10-622V | 19
10 | WA | SNOHOMISH COUNTY | 53061C1435E | 07-NOV-1999 | 99-10-622V | 19
10 | WA | SPOKANE COUNTY | 5301740277B | 22-NOV-1999 | 00-10-029A | 02
10 | WA | SPOKANE COUNTY | 5301740401C | 01-DEC-1999 | 00-10-045A | 02
10 | WA | SPOKANE COUNTY | 5301740025B | 22-JUL-1999 | 99-10-300A | 02
10 | WA | SPOKANE COUNTY | 5301740277B | 13-SEP-1999 | 99-10-327P | 05
10 | WA | SPOKANE COUNTY | 5301740310C | 14-JUL-1999 | 99-10-472P | 06
10 | WA | SPOKANE COUNTY | 5301740225B | 24-SEP-1999 | 99-10-551A | 02
10 | WA | SPOKANE COUNTY | 5301740225B | 08-OCT-1999 | 99-10-602A | 02
10 | WA | STANWOOD, CITY OF | 53061C0351E | 09-NOV-1999 | 99-10-166V | 19
10 | WA | STANWOOD, CITY OF | 53061C0351E | 15-NOV-1999 | 99-10-622V | 19
10 | WA | SULTAN, TOWN OF | 53061C1402E | 09-NOV-1999 | 99-10-166V | 19
10 | WA | SULTAN, TOWN OF | 53061C1406E | 09-NOV-1999 | 99-10-166V | 19
10 | WA | SULTAN, TOWN OF | 5301730001B | 15-JUL-1999 | 99-10-476A | 01
10 | WA | SULTAN, TOWN OF | 53061C1402E | 15-NOV-1999 | 99-10-622V | 19
10 | WA | SULTAN, TOWN OF | 53061C1406E | 15-NOV-1999 | 99-10-622V | 19
10 | WA | THURSTON COUNTY | 5301880350C | 15-NOV-1999 | 00-10-036A | 02
10 | WA | THURSTON COUNTY | 5301880475C | 01-JUL-1999 | 99-10-312A | 02
10 | WA | THURSTON COUNTY | 5301880180C | 08-SEP-1999 | 99-10-534A | 02
10 | WA | VANCOUVER, CITY OF | 5300240410B | 16-DEC-1999 | 98-10-460P | 06
10 | WA | WHATCOM COUNTY | 530198B | 15-DEC-1999 | 00-10-035P | 06
10 | WA | WHATCOM COUNTY | 530198B | 24-SEP-1999 | 99-10-401A | 02
10 | WA | WHATCOM COUNTY | 530198B | 22-JUL-1999 | 99-10-478A | 02
10 | WA | WHITMAN COUNTY | 5302050685B | 10-NOV-1999 | 00-10-020A | 02

Region | State | Community | Panel | Panel date
01 | CONNECTICUT | MILFORD, CITY OF | 0900820005E | 07-SEP-1999
01 | CONNECTICUT | RIDGEFIELD, TOWN OF | 0900130001C | 23-AUG-1999
01 | CONNECTICUT | RIDGEFIELD, TOWN OF | 0900130002C | 23-AUG-1999
01 | CONNECTICUT | RIDGEFIELD, TOWN OF | 0900130003C | 23-AUG-1999
01 | CONNECTICUT | RIDGEFIELD, TOWN OF | 0900130004C | 23-AUG-1999
01 | CONNECTICUT | RIDGEFIELD, TOWN OF | 0900130005C | 23-AUG-1999
01 | CONNECTICUT | RIDGEFIELD, TOWN OF | 0900130006C | 23-AUG-1999
01 | CONNECTICUT | RIDGEFIELD, TOWN OF | 0900130007C | 23-AUG-1999
01 | CONNECTICUT | RIDGEFIELD, TOWN OF | 0900130008C | 23-AUG-1999
01 | CONNECTICUT | RIDGEFIELD, TOWN OF | 0900130009C | 23-AUG-1999
01 | CONNECTICUT | RIDGEFIELD, TOWN OF | 900130000 | 23-AUG-1999
01 | CONNECTICUT | VERNON, TOWN OF | 0901310005C | 09-AUG-1999
01 | MAINE | RANGELEY, TOWN OF | 2303520000 | 08-SEP-1999
01 | MAINE | RANGELEY, TOWN OF | 2303520001B | 08-SEP-1999
01 | MAINE | RANGELEY, TOWN OF | 2303520002B | 08-SEP-1999
01 | MAINE | RANGELEY, TOWN OF | 2303520004B | 08-SEP-1999
01 | MAINE | RANGELEY, TOWN OF | 2303520005B | 08-SEP-1999
01 | MAINE | RANGELEY, TOWN OF | 2303520010B | 08-SEP-1999
01 | MASSACHUSETTS | BOURNE, TOWN OF | 2552100000 | 09-AUG-1999
01 | MASSACHUSETTS | BOURNE, TOWN OF | 2552100001E | 09-AUG-1999
01 | MASSACHUSETTS | BOURNE, TOWN OF | 2552100002E | 09-AUG-1999
01 | MASSACHUSETTS | BOURNE, TOWN OF | 2552100003E | 09-AUG-1999
01 | MASSACHUSETTS | BOURNE, TOWN OF | 2552100004E | 09-AUG-1999
01 | MASSACHUSETTS | BOURNE, TOWN OF | 2552100005E | 09-AUG-1999
01 | MASSACHUSETTS | BOURNE, TOWN OF | 2552100007F | 09-AUG-1999
01 | MASSACHUSETTS | BOURNE, TOWN OF | 2552100008F | 09-AUG-1999
01 | MASSACHUSETTS | BOURNE, TOWN OF | 2552100010F | 09-AUG-1999
01 | MASSACHUSETTS | BOURNE, TOWN OF | 2552100011F | 09-AUG-1999
01 | MASSACHUSETTS | BOURNE, TOWN OF | 2552100013E | 09-AUG-1999
01 | MASSACHUSETTS | BOURNE, TOWN OF | 2552100014F | 09-AUG-1999
01 | MASSACHUSETTS | BOXBOROUGH, TOWN OF | 2501840000 | 08-SEP-1999
01 | MASSACHUSETTS | BOXBOROUGH, TOWN OF | 2501840001C | 08-SEP-1999
01 | MASSACHUSETTS | BOXBOROUGH, TOWN OF | 2501840002C | 08-SEP-1999
01 | MASSACHUSETTS | BOXBOROUGH, TOWN OF | 2501840003C | 08-SEP-1999
01 | MASSACHUSETTS | BOXBOROUGH, TOWN OF | 2501840004C | 08-SEP-1999
01 | MASSACHUSETTS | BRIDGEWATER, TOWN OF | 2502600000 | 08-SEP-1999
01 | MASSACHUSETTS | BRIDGEWATER, TOWN OF | 2502600002C | 08-SEP-1999
01 | MASSACHUSETTS | BRIDGEWATER, TOWN OF | 2502600005C | 08-SEP-1999
01 | MASSACHUSETTS | BRIDGEWATER, TOWN OF | 2502600010C | 08-SEP-1999
01 | MASSACHUSETTS | BRIDGEWATER, TOWN OF | 2502600015C | 08-SEP-1999
01 | NEW HAMPSHIRE | CONCORD, CITY OF | 3301100000 | 23-AUG-1999
01 | NEW HAMPSHIRE | CONCORD, CITY OF | 3301100005B | 23-AUG-1999
01 | NEW HAMPSHIRE | CONCORD, CITY OF | 3301100010B | 23-AUG-1999
01 | NEW HAMPSHIRE | CONCORD, CITY OF | 3301100015B | 23-AUG-1999
01 | NEW HAMPSHIRE | CONCORD, CITY OF | 3301100020B | 23-AUG-1999
01 | NEW HAMPSHIRE | CONCORD, CITY OF | 3301100025B | 23-AUG-1999
01 | NEW HAMPSHIRE | CONCORD, CITY OF | 3301100030B | 23-AUG-1999
01 | RHODE ISLAND | NORTH PROVIDENCE, TOWN OF | 4400200000 | 06-DEC-1999
01 | RHODE ISLAND | NORTH PROVIDENCE, TOWN OF | 4400200001C | 06-DEC-1999
01 | RHODE ISLAND | NORTH PROVIDENCE, TOWN OF | 4400200002C** | 06-DEC-1999
01 | RHODE ISLAND | NORTH PROVIDENCE, TOWN OF | 4400200003C | 06-DEC-1999
01 | VERMONT | BELLOWS FALLS, VILLAGE OF | 5001250001C** | 20-DEC-1999
01 | VERMONT | NEWBURY, TOWN OF | 5002370000 | 21-JUL-1999
01 | VERMONT | NEWBURY, TOWN OF | 5002370005C | 21-JUL-1999
01 | VERMONT | NEWBURY, TOWN OF | 5002370010C | 21-JUL-1999
01 | VERMONT | NEWBURY, TOWN OF | 5002370015C | 21-JUL-1999
01 | VERMONT | NEWBURY, TOWN OF | 5002370020C | 21-JUL-1999
01 | VERMONT | NEWBURY, TOWN OF | 5002370025C | 21-JUL-1999
01 | VERMONT | NEWBURY, TOWN OF | 5002370030C | 21-JUL-1999
01 | VERMONT | ROCKINGHAM, TOWN OF | 5001350000 | 20-DEC-1999
01 | VERMONT | ROCKINGHAM, TOWN OF | 5001350005C** | 20-DEC-1999
01 | VERMONT | ROCKINGHAM, TOWN OF | 5001350010C** | 20-DEC-1999
01 | VERMONT | ROCKINGHAM, TOWN OF | 5001350015C** | 20-DEC-1999
01 | VERMONT | ROCKINGHAM, TOWN OF | 5001350020C** | 20-DEC-1999
01 | VERMONT | ROYALTON, TOWN OF | 5001530000 | 20-OCT-1999
01 | VERMONT | ROYALTON, TOWN OF | 5001530001D | 20-OCT-1999
01 | VERMONT | ROYALTON, TOWN OF | 5001530002D | 20-OCT-1999
01 | VERMONT | ROYALTON, TOWN OF | 5001530004D | 20-OCT-1999
01 | VERMONT | ROYALTON, TOWN OF | 5001530005D | 20-OCT-1999
01 | VERMONT | ROYALTON, TOWN OF | 5001530006D** | 20-OCT-1999
01 | VERMONT | ROYALTON, TOWN OF | 5001530008D** | 20-OCT-1999
01 | VERMONT | SPRINGFIELD, TOWN OF | 5001540000 | 20-DEC-1999
01 | VERMONT | SPRINGFIELD, TOWN OF | 5001540015C** | 20-DEC-1999
01 | VERMONT | SPRINGFIELD, TOWN OF | 5001540017C** | 20-DEC-1999
01 | VERMONT | SPRINGFIELD, TOWN OF | 5001540025C** | 20-DEC-1999
01 | VERMONT | THETFORD, TOWN OF | 5000750000 | 20-DEC-1999
01 | VERMONT | THETFORD, TOWN OF | 5000750010C** | 20-DEC-1999
01 | VERMONT | THETFORD, TOWN OF | 5000750015C** | 20-DEC-1999
01 | VERMONT | THETFORD, TOWN OF | 5000750020C** | 20-DEC-1999
02 | NEW JERSEY | ABSECON, CITY OF | 3400010000 | 23-AUG-1999
02 | NEW JERSEY | ABSECON, CITY OF | 3400010001C | 23-AUG-1999
02 | NEW JERSEY | ABSECON, CITY OF | 3400010002C | 23-AUG-1999
02 | NEW JERSEY | ABSECON, CITY OF | 3400010003C | 23-AUG-1999
02 | NEW JERSEY | LAVALLETTE, BOROUGH OF | 3403790001E | 22-NOV-1999
02 | NEW JERSEY | MOUNT LAUREL, TOWNSHIP OF | 3401070000 | 22-SEP-1999
02 | NEW JERSEY | MOUNT LAUREL, TOWNSHIP OF | 3401070005E | 22-SEP-1999
02 | NEW JERSEY | MOUNT LAUREL, TOWNSHIP OF | 3401070010E | 22-SEP-1999
02 | NEW JERSEY | MOUNT LAUREL, TOWNSHIP OF | 3401070015E | 22-SEP-1999
02 | NEW YORK | BUFFALO, CITY OF | 3602300000 | 23-AUG-1999
02 | NEW YORK | BUFFALO, CITY OF | 3602300010C | 23-AUG-1999
02 | NEW YORK | BUFFALO, CITY OF | 3602300015C** | 23-AUG-1999
02 | NEW YORK | BUFFALO, CITY OF | 3602300020C | 23-AUG-1999
02 | NEW YORK | CHAUMONT, VILLAGE OF | 3603290001D | 08-SEP-1999
02 | NEW YORK | DEER PARK, TOWN OF | 3606120000 | 20-OCT-1999
02 | NEW YORK | DEER PARK, TOWN OF | 3606120016D | 20-OCT-1999
02 | NEW YORK | DEER PARK, TOWN OF | 3606120017D | 20-OCT-1999
02 | NEW YORK | ILION, VILLAGE OF | 3603080001C | 08-SEP-1999
02 | NEW YORK | LAGRANGE, TOWN OF | 3610110000 | 08-SEP-1999
02 | NEW YORK | LAGRANGE, TOWN OF | 3610110005D | 08-SEP-1999
02 | NEW YORK | LAGRANGE, TOWN OF | 3610110010D | 08-SEP-1999
02 | NEW YORK | LAGRANGE, TOWN OF | 3610110015D | 08-SEP-1999
02 | NEW YORK | MOHAWK, VILLAGE OF | 3603140001C | 08-SEP-1999
02 | NEW YORK | OSWEGO, CITY OF | 3606560000 | 22-NOV-1999
02 | NEW YORK | OSWEGO, CITY OF | 3606560001D | 22-NOV-1999
02 | NEW YORK | OSWEGO, CITY OF | 3606560002D | 22-NOV-1999
02 | NEW YORK | OSWEGO, CITY OF | 3606560003D | 22-NOV-1999
02 | NEW YORK | OSWEGO, CITY OF | 3606560004D | 22-NOV-1999
02 | NEW YORK | OSWEGO, TOWN OF | 3606570000 | 20-OCT-1999
02 | NEW YORK | OSWEGO, TOWN OF | 3606570005E | 20-OCT-1999
02 | NEW YORK | OSWEGO, TOWN OF | 3606570010E | 20-OCT-1999
02 | NEW YORK | POUGHKEEPSIE, TOWN OF | 3611420000 | 08-SEP-1999
02 | NEW YORK | POUGHKEEPSIE, TOWN OF | 3611420001C | 08-SEP-1999
02 | NEW YORK | POUGHKEEPSIE, TOWN OF | 3611420002C | 08-SEP-1999
02 | NEW YORK | POUGHKEEPSIE, TOWN OF | 3611420003C | 08-SEP-1999
02 | NEW YORK | POUGHKEEPSIE, TOWN OF | 3611420004C | 08-SEP-1999
02 | NEW YORK | POUGHKEEPSIE, TOWN OF | 3611420005C | 08-SEP-1999
02 | NEW YORK | POUGHKEEPSIE, TOWN OF | 3611420006C | 08-SEP-1999
02 | NEW YORK | POUGHKEEPSIE, TOWN OF | 3611420007C | 08-SEP-1999
02 | NEW YORK | POUGHKEEPSIE, TOWN OF | 3611420008C | 08-SEP-1999
02 | NEW YORK | POUGHKEEPSIE, TOWN OF | 3611420009C | 08-SEP-1999
02 | NEW YORK | VERONA, TOWN OF | 3605610000 | 20-OCT-1999
02 | NEW YORK | VERONA, TOWN OF | 3605610014C | 20-OCT-1999
02 | NEW YORK | VERONA, TOWN OF | 3605610027C | 20-OCT-1999
02 | NEW YORK | VIENNA, TOWN OF | 3605620000 | 20-OCT-1999
02 | NEW YORK | VIENNA, TOWN OF | 3605620025C | 20-OCT-1999
02 | NEW YORK | VIENNA, TOWN OF | 3605620030C | 20-OCT-1999
02 | NEW YORK | WAPPINGER, TOWN OF | 3613870000 | 22-SEP-1999
02 | NEW YORK | WAPPINGER, TOWN OF | 3613870001B | 22-SEP-1999
02 | NEW YORK | WAPPINGER, TOWN OF | 3613870002B** | 22-SEP-1999
02 | NEW YORK | WAPPINGER, TOWN OF | 3613870003B | 22-SEP-1999
02 | NEW YORK | WAPPINGER, TOWN OF | 3613870004B** | 22-SEP-1999
02 | NEW YORK | WAPPINGER, TOWN OF | 3613870005B** | 22-SEP-1999
02 | NEW YORK | WAPPINGER, TOWN OF | 3613870006B** | 22-SEP-1999
02 | NEW YORK | WAPPINGER, TOWN OF | 3613870007B** | 22-SEP-1999
02 | NEW YORK | WAPPINGERS FALLS, VILLAGE OF | 3602230001C | 22-SEP-1999
03 | PENNSYLVANIA | BRIDGEPORT, BOROUGH OF | 42094800000 | 09-AUG-1999
03 | PENNSYLVANIA | BRIDGEPORT, BOROUGH OF | 4209480351F | 09-AUG-1999
03 | PENNSYLVANIA | BRIDGEPORT, BOROUGH OF | 4209480352F | 09-AUG-1999
03 | PENNSYLVANIA | CHANCEFORD, TOWNSHIP OF | 4222170000 | 22-SEP-1999
03 | PENNSYLVANIA | CHANCEFORD, TOWNSHIP OF | 4222170001B | 22-SEP-1999
03 | PENNSYLVANIA | CHANCEFORD, TOWNSHIP OF | 4222170002B | 22-SEP-1999
03 | PENNSYLVANIA | CHANCEFORD, TOWNSHIP OF | 4222170003B | 22-SEP-1999
03 | PENNSYLVANIA | CHANCEFORD, TOWNSHIP OF | 4222170004B | 22-SEP-1999
03 | PENNSYLVANIA | CHANCEFORD, TOWNSHIP OF | 4222170005B | 22-SEP-1999
03 | PENNSYLVANIA | CHANCEFORD, TOWNSHIP OF | 4222170006B | 22-SEP-1999
03 | PENNSYLVANIA | CHANCEFORD, TOWNSHIP OF | 4222170007B | 22-SEP-1999
03 | PENNSYLVANIA | CHANCEFORD, TOWNSHIP OF | 4222170008B | 22-SEP-1999
03 | PENNSYLVANIA | CHANCEFORD, TOWNSHIP OF | 4222170009B | 22-SEP-1999
03 | PENNSYLVANIA | CHANCEFORD, TOWNSHIP OF | 4222170010B | 22-SEP-1999
03 | PENNSYLVANIA | CHANCEFORD, TOWNSHIP OF | 4222170011B | 22-SEP-1999
03 | PENNSYLVANIA | CHANCEFORD, TOWNSHIP OF | 4222170012B | 22-SEP-1999
03 | PENNSYLVANIA | CHANCEFORD, TOWNSHIP OF | 4222170013B | 22-SEP-1999
03 | PENNSYLVANIA | COLUMBIA, BOROUGH OF | 4205430001C | 22-SEP-1999
03 | PENNSYLVANIA | CONSHOHOCKEN, BOROUGH OF | 4209490000 | 09-AUG-1999
03 | PENNSYLVANIA | CONSHOHOCKEN, BOROUGH OF | 4209490354F | 09-AUG-1999
03 | PENNSYLVANIA | HELLAM, TOWNSHIP OF | 4209270000 | 22-SEP-1999
03 | PENNSYLVANIA | HELLAM, TOWNSHIP OF | 4209270001D | 22-SEP-1999
03 | PENNSYLVANIA | HELLAM, TOWNSHIP OF | 4209270002D | 22-SEP-1999
03 | PENNSYLVANIA | HELLAM, TOWNSHIP OF | 4209270003D | 22-SEP-1999
03 | PENNSYLVANIA | HELLAM, TOWNSHIP OF | 4209270004D | 22-SEP-1999
03 | PENNSYLVANIA | HELLAM, TOWNSHIP OF | 4209270005D | 22-SEP-1999
03 | PENNSYLVANIA | HELLAM, TOWNSHIP OF | 4209270006D | 22-SEP-1999
03 | PENNSYLVANIA | HELLAM, TOWNSHIP OF | 4209270007D | 22-SEP-1999
03 | PENNSYLVANIA | LOWER MERION, TOWNSHIP OF | 4207010000 | 09-AUG-1999
03 | PENNSYLVANIA | LOWER MERION, TOWNSHIP OF | 4207010354F | 09-AUG-1999
03 | PENNSYLVANIA | LOWER WINDSOR, TOWNSHIP OF | 4211870000 | 22-SEP-1999
03 | PENNSYLVANIA | LOWER WINDSOR, TOWNSHIP OF | 4211870001C | 22-SEP-1999
03 | PENNSYLVANIA | LOWER WINDSOR, TOWNSHIP OF | 4211870002C | 22-SEP-1999
03 | PENNSYLVANIA | LOWER WINDSOR, TOWNSHIP OF | 4211870003C | 22-SEP-1999
03 | PENNSYLVANIA | LOWER WINDSOR, TOWNSHIP OF | 4211870004C | 22-SEP-1999
03 | PENNSYLVANIA | LOWER WINDSOR, TOWNSHIP OF | 4211870005C | 22-SEP-1999
03 | PENNSYLVANIA | LOWER WINDSOR, TOWNSHIP OF | 4211870006C | 22-SEP-1999
03 | PENNSYLVANIA | LOWER WINDSOR, TOWNSHIP OF | 4211870007C | 22-SEP-1999
03 | PENNSYLVANIA | LOWER WINDSOR, TOWNSHIP OF | 4211870008C | 22-SEP-1999
03 | PENNSYLVANIA | LOWER WINDSOR, TOWNSHIP OF | 4211870009C | 22-SEP-1999
03 | PENNSYLVANIA | MANOR, TOWNSHIP OF | 4205570000 | 22-SEP-1999
03 | PENNSYLVANIA | MANOR, TOWNSHIP OF | 4205570001C | 22-SEP-1999
03 | PENNSYLVANIA | MANOR, TOWNSHIP OF | 4205570002C | 22-SEP-1999
03 | PENNSYLVANIA | MANOR, TOWNSHIP OF | 4205570003C | 22-SEP-1999
03 | PENNSYLVANIA | MANOR, TOWNSHIP OF | 4205570004C | 22-SEP-1999
03 | PENNSYLVANIA | MANOR, TOWNSHIP OF | 4205570005C | 22-SEP-1999
03 | PENNSYLVANIA | MANOR, TOWNSHIP OF | 4205570006C | 22-SEP-1999
03 | PENNSYLVANIA | MANOR, TOWNSHIP OF | 4205570007C | 22-SEP-1999
03 | PENNSYLVANIA | MANOR, TOWNSHIP OF | 4205570008C | 22-SEP-1999
03 | PENNSYLVANIA | MANOR, TOWNSHIP OF | 4205570009C | 22-SEP-1999
03 | PENNSYLVANIA | MANOR, TOWNSHIP OF | 4205570010C | 22-SEP-1999
03 | PENNSYLVANIA | MANOR, TOWNSHIP OF | 4205570011C | 22-SEP-1999
03 | PENNSYLVANIA | MANOR, TOWNSHIP OF | 4205570012C | 22-SEP-1999
03 | PENNSYLVANIA | MANOR, TOWNSHIP OF | 4205570013C | 22-SEP-1999
03 | PENNSYLVANIA | NORRISTOWN, BOROUGH OF | 4253860000 | 09-AUG-1999
03 | PENNSYLVANIA | NORRISTOWN, BOROUGH OF | 4253860351F | 09-AUG-1999
03 | PENNSYLVANIA | NORRISTOWN, BOROUGH OF | 4253860352F | 09-AUG-1999
03 | PENNSYLVANIA | PLYMOUTH, TOWNSHIP OF | 4209550000 | 09-AUG-1999
03 | PENNSYLVANIA | PLYMOUTH, TOWNSHIP OF | 4209550352F | 09-AUG-1999
03 | PENNSYLVANIA | PLYMOUTH, TOWNSHIP OF | 4209550354F | 09-AUG-1999
03 | PENNSYLVANIA | SMITHFIELD, TOWNSHIP OF | 4218960000 | 06-DEC-1999
03 | PENNSYLVANIA | SMITHFIELD, TOWNSHIP OF | 4218960001B | 06-DEC-1999
03 | PENNSYLVANIA | SMITHFIELD, TOWNSHIP OF | 4218960002B | 06-DEC-1999
03 | PENNSYLVANIA | SMITHFIELD, TOWNSHIP OF | 4218960004B | 06-DEC-1999
03 | PENNSYLVANIA | SMITHFIELD, TOWNSHIP OF | 4218960005B | 06-DEC-1999
03 | PENNSYLVANIA | SMITHFIELD, TOWNSHIP OF | 4218960006B | 06-DEC-1999
03 | PENNSYLVANIA | SMITHFIELD, TOWNSHIP OF | 4218960007B | 06-DEC-1999
03 | PENNSYLVANIA | SMITHFIELD, TOWNSHIP OF | 4218960008B | 06-DEC-1999
03 | PENNSYLVANIA | TUNKHANNOCK, BOROUGH OF | 4209170001C | 23-AUG-1999
03 | PENNSYLVANIA | TUNKHANNOCK, TOWNSHIP OF | 4222060000 | 23-AUG-1999
03 | PENNSYLVANIA | TUNKHANNOCK, TOWNSHIP OF | 4222060004C | 23-AUG-1999
03 | PENNSYLVANIA | TUNKHANNOCK, TOWNSHIP OF | 4222060005C | 23-AUG-1999
03 | PENNSYLVANIA | UPPER MERION, TOWNSHIP OF | 4209570000 | 09-AUG-1999
03 | PENNSYLVANIA | UPPER MERION, TOWNSHIP OF | 4209570332F | 09-AUG-1999
03 | PENNSYLVANIA | UPPER MERION, TOWNSHIP OF | 4209570334F | 09-AUG-1999
03 | PENNSYLVANIA | UPPER MERION, TOWNSHIP OF | 4209570351F | 09-AUG-1999
03 | PENNSYLVANIA | UPPER MERION, TOWNSHIP OF | 4209570352F | 09-AUG-1999
03 | PENNSYLVANIA | UPPER MERION, TOWNSHIP OF | 4209570353F | 09-AUG-1999
03 | PENNSYLVANIA | UPPER MERION, TOWNSHIP OF | 4209570354F | 09-AUG-1999
03 | PENNSYLVANIA | WEST CONSHOHOCKEN, BOROUGH OF | 4207100000 | 09-AUG-1999
03 | PENNSYLVANIA | WEST CONSHOHOCKEN, BOROUGH OF | 4207100354F | 09-AUG-1999
03 | PENNSYLVANIA | WEST HEMPFIELD, TOWNSHIP OF | 4217890000 | 22-SEP-1999
03 | PENNSYLVANIA | WEST HEMPFIELD, TOWNSHIP OF | 4217890001D | 22-SEP-1999
03 | PENNSYLVANIA | WEST HEMPFIELD, TOWNSHIP OF | 4217890002D | 22-SEP-1999
03 | PENNSYLVANIA | WEST HEMPFIELD, TOWNSHIP OF | 4217890003D | 22-SEP-1999
03 | PENNSYLVANIA | WEST HEMPFIELD, TOWNSHIP OF | 4217890005D | 22-SEP-1999
03 | PENNSYLVANIA | WEST HEMPFIELD, TOWNSHIP OF | 4217890006D | 22-SEP-1999
03 | PENNSYLVANIA | WEST HEMPFIELD, TOWNSHIP OF | 4217890007D | 22-SEP-1999
03 | PENNSYLVANIA | WEST NORRITON, TOWNSHIP OF | 4207110000 | 09-AUG-1999
03 | PENNSYLVANIA | WEST NORRITON, TOWNSHIP OF | 4207110332F | 09-AUG-1999
03 | PENNSYLVANIA | WEST NORRITON, TOWNSHIP OF | 4207110351F | 09-AUG-1999
03 | PENNSYLVANIA | WRIGHTSVILLE, BOROUGH OF | 4209430001C | 22-SEP-1999
03 | VIRGINIA | LURAY, TOWN OF | 5101100002C | 23-AUG-1999
03 | VIRGINIA | ROCKY MOUNT, TOWN OF | 5102910005B | 08-NOV-1999
03 | WEST VIRGINIA | MINERAL COUNTY * | 5401290000 | 20-OCT-1999
03 | WEST VIRGINIA | MINERAL COUNTY * | 5401290105C | 20-OCT-1999
03 | WEST VIRGINIA | MINERAL COUNTY * | 5401290110C | 20-OCT-1999
04 | GEORGIA | BIBB COUNTY* | 130011IND0 | 22-SEP-1999
04 | GEORGIA | COWETA COUNTY * | 1302980000 | 08-SEP-1999
04 | GEORGIA | COWETA COUNTY * | 1302980140B | 08-SEP-1999
04 | GEORGIA | COWETA COUNTY * | 1302980230B | 08-SEP-1999
04 | GEORGIA | COWETA COUNTY * | 1302980240B | 08-SEP-1999
04 | GEORGIA | COWETA COUNTY * | 1302980250B | 08-SEP-1999
04 | GEORGIA | DALLAS, CITY OF | 13223C0000 | 08-NOV-1999
04 | GEORGIA | DALLAS, CITY OF | 13223C0136B | 08-NOV-1999
04 | GEORGIA | DALLAS, CITY OF | 13223C0137B | 08-NOV-1999
04 | GEORGIA | DALLAS, CITY OF | 13223C0139B | 08-NOV-1999
04 | GEORGIA | DALLAS, CITY OF | 13223C0141B | 08-NOV-1999
04 | GEORGIA | DALLAS, CITY OF | 13223C0143B | 08-NOV-1999
04 | GEORGIA | GILMER COUNTY* | 13123C0000 | 23-AUG-1999
04 | GEORGIA | GILMER COUNTY* | 13123C0060C | 23-AUG-1999
04 | GEORGIA | GILMER COUNTY* | 13123C0070C | 23-AUG-1999
04 | GEORGIA | GILMER COUNTY* | 13123C0075C | 23-AUG-1999
04 | GEORGIA | HIRAM, CITY OF | 13223C0000 | 08-NOV-1999
04 | GEORGIA | HIRAM, CITY OF | 13223C0141B | 08-NOV-1999
04 | GEORGIA | HIRAM, CITY OF | 13223C0142B | 08-NOV-1999
04 | GEORGIA | HIRAM, CITY OF | 13223C0143B | 08-NOV-1999
04 | GEORGIA | HIRAM, CITY OF | 13223C0144B | 08-NOV-1999
04 | GEORGIA | HIRAM, CITY OF | 13223C0163B | 08-NOV-1999
04 | GEORGIA | HIRAM, CITY OF | 13223C0227B | 08-NOV-1999
04 | GEORGIA | HIRAM, CITY OF | 13223C0229B | 08-NOV-1999
04 | GEORGIA | HIRAM, CITY OF | 13223C0231B | 08-NOV-1999
04 | GEORGIA | HIRAM, CITY OF | 13223C0232B | 08-NOV-1999
04 | GEORGIA | HIRAM, CITY OF | 13223C0233B | 08-NOV-1999
04 | GEORGIA | LOWNDES COUNTY | 1304690000 | 08-NOV-1999
04 | GEORGIA | LOWNDES COUNTY | 1304690085C | 08-NOV-1999
04 | GEORGIA | MACON, CITY OF | 1300110000 | 22-SEP-1999
04 | GEORGIA | MACON, CITY OF | 1300110041E | 22-SEP-1999
04 | GEORGIA | MACON, CITY OF | 1300110042E | 22-SEP-1999
04 | GEORGIA | MACON, CITY OF | 1300110043E | 22-SEP-1999
04 | GEORGIA | PAULDING COUNTY * | 13223C0000 | 08-NOV-1999
04 | GEORGIA | PAULDING COUNTY * | 13223C0025B** | 08-NOV-1999
04 | GEORGIA | PAULDING COUNTY * | 13223C0033B | 08-NOV-1999
04 | GEORGIA | PAULDING COUNTY * | 13223C0034B | 08-NOV-1999
04 | GEORGIA | PAULDING COUNTY * | 13223C0037B | 08-NOV-1999
04 | GEORGIA | PAULDING COUNTY * | 13223C0039B | 08-NOV-1999
04 | GEORGIA | PAULDING COUNTY * | 13223C0041B | 08-NOV-1999
04 | GEORGIA | PAULDING COUNTY * | 13223C0042B | 08-NOV-1999
04 | GEORGIA | PAULDING COUNTY * | 13223C0043B | 08-NOV-1999
04 | GEORGIA | PAULDING COUNTY * | 13223C0044B | 08-NOV-1999
04 | GEORGIA | PAULDING COUNTY * | 13223C0110B** | 08-NOV-1999
04 | GEORGIA | PAULDING COUNTY * | 13223C0117B | 08-NOV-1999
04 | GEORGIA | PAULDING COUNTY * | 13223C0118B | 08-NOV-1999
04 | GEORGIA | PAULDING COUNTY * | 13223C0119B | 08-NOV-1999
04 | GEORGIA | PAULDING COUNTY * | 13223C0126B | 08-NOV-1999
04 | GEORGIA | PAULDING COUNTY * | 13223C0127B | 08-NOV-1999
04 | GEORGIA | PAULDING COUNTY * | 13223C0128B | 08-NOV-1999
04 | GEORGIA | PAULDING COUNTY * | 13223C0129B | 08-NOV-1999
04 | GEORGIA | PAULDING COUNTY * | 13223C0131B | 08-NOV-1999
04 | GEORGIA | PAULDING COUNTY * | 13223C0132B | 08-NOV-1999
04 | GEORGIA | PAULDING COUNTY * | 13223C0134B | 08-NOV-1999
04 | GEORGIA | PAULDING COUNTY * | 13223C0136B | 08-NOV-1999
04 | GEORGIA | PAULDING COUNTY * | 13223C0137B | 08-NOV-1999
04 | GEORGIA | PAULDING COUNTY * | 13223C0138B | 08-NOV-1999
04 | GEORGIA | PAULDING COUNTY * | 13223C0139B | 08-NOV-1999
04 | GEORGIA | PAULDING COUNTY * | 13223C0142B | 08-NOV-1999
04 | GEORGIA | PAULDING COUNTY * | 13223C0143B | 08-NOV-1999
04 | GEORGIA | PAULDING COUNTY * | 13223C0144B | 08-NOV-1999
04 | GEORGIA | PAULDING COUNTY * | 13223C0151B | 08-NOV-1999
04 | GEORGIA | PAULDING COUNTY * | 13223C0153B | 08-NOV-1999
04 | GEORGIA | PAULDING COUNTY * | 13223C0161B | 08-NOV-1999
04 | GEORGIA | PAULDING COUNTY * | 13223C0163B | 08-NOV-1999
04 | GEORGIA | PAULDING COUNTY * | 13223C0181B | 08-NOV-1999
04 | GEORGIA | PAULDING COUNTY * | 13223C0182B | 08-NOV-1999
04 | GEORGIA | PAULDING COUNTY * | 13223C0183B | 08-NOV-1999
04 | GEORGIA | PAULDING COUNTY * | 13223C0184B | 08-NOV-1999
04 | KENTUCKY | OWEN COUNTY* | 210186 01*** | 01-JUL-1999
04 | KENTUCKY | OWEN COUNTY* | 210186 02*** | 01-JUL-1999
04 | KENTUCKY | OWEN COUNTY* | 210186 03*** | 01-JUL-1999
04 | KENTUCKY | OWEN COUNTY* | 210186 04*** | 01-JUL-1999
04 | KENTUCKY | OWEN COUNTY* | 210186 05*** | 01-JUL-1999
04 | KENTUCKY | OWEN COUNTY* | 210186 06*** | 01-JUL-1999
04 | MISSISSIPPI | BALDWYN, CITY OF | 28081C0000 | 20-OCT-1999
04 | MISSISSIPPI | BALDWYN, CITY OF | 28081C0025D | 20-OCT-1999
04 | MISSISSIPPI | BALDWYN, CITY OF | 28081C0050D | 20-OCT-1999
04 | MISSISSIPPI | BALDWYN, CITY OF | 28081C0085D | 20-OCT-1999
04 | MISSISSIPPI | BALDWYN, CITY OF | 28081C0125D | 20-OCT-1999
04 | MISSISSIPPI | GUNTOWN, TOWN OF | 28081C0000 | 20-OCT-1999
04 | MISSISSIPPI | GUNTOWN, TOWN OF | 28081C0085D | 20-OCT-1999
04 | MISSISSIPPI | GUNTOWN, TOWN OF | 28081C0095D | 20-OCT-1999
04 | MISSISSIPPI | HOLMES COUNTY * | 2802110000 | 22-SEP-1999
04 | MISSISSIPPI | HOLMES COUNTY * | 2802110095D | 22-SEP-1999
04 | MISSISSIPPI | HOLMES COUNTY * | 2802110100D | 22-SEP-1999
04 | MISSISSIPPI | LEE COUNTY * | 28081C0000 | 20-OCT-1999
04 | MISSISSIPPI | LEE COUNTY * | 28081C0025D | 20-OCT-1999
04 | MISSISSIPPI | LEE COUNTY * | 28081C0050D | 20-OCT-1999
04 | MISSISSIPPI | LEE COUNTY * | 28081C0075D | 20-OCT-1999
04 | MISSISSIPPI | LEE COUNTY * | 28081C0085D | 20-OCT-1999
04 | MISSISSIPPI | LEE COUNTY * | 28081C0095D | 20-OCT-1999
04 | MISSISSIPPI | LEE COUNTY * | 28081C0100D | 20-OCT-1999
04 | MISSISSIPPI | LEE COUNTY * | 28081C0125D | 20-OCT-1999
04 | MISSISSIPPI | LEE COUNTY * | 28081C0127D | 20-OCT-1999
04 | MISSISSIPPI | LEE COUNTY * | 28081C0129D | 20-OCT-1999
04 | MISSISSIPPI | LEE COUNTY * | 28081C0135D | 20-OCT-1999
04 | MISSISSIPPI | LEE COUNTY * | 28081C0137D | 20-OCT-1999
04 | MISSISSIPPI | LEE COUNTY * | 28081C0139D | 20-OCT-1999
04 | MISSISSIPPI | LEE COUNTY * | 28081C0141D | 20-OCT-1999
04 | MISSISSIPPI | LEE COUNTY * | 28081C0142D | 20-OCT-1999
04 | MISSISSIPPI | LEE COUNTY * | 28081C0143D | 20-OCT-1999
04 | MISSISSIPPI | LEE COUNTY * | 28081C0154D | 20-OCT-1999
04 | MISSISSIPPI | LEE COUNTY * | 28081C0155D | 20-OCT-1999
04 | MISSISSIPPI | LEE COUNTY * | 28081C0160D | 20-OCT-1999
04 | MISSISSIPPI | LEE COUNTY * | 28081C0161D | 20-OCT-1999
04 | MISSISSIPPI | LEE COUNTY * | 28081C0162D | 20-OCT-1999
04 | MISSISSIPPI | LEE COUNTY * | 28081C0166D | 20-OCT-1999
04 | MISSISSIPPI | LEE COUNTY * | 28081C0167D | 20-OCT-1999
04 | MISSISSIPPI | LEE COUNTY * | 28081C0169D | 20-OCT-1999
04 | MISSISSIPPI | LEE COUNTY * | 28081C0200D | 20-OCT-1999
04 | MISSISSIPPI | LEE COUNTY * | 28081C0205D | 20-OCT-1999
04 | MISSISSIPPI | LEE COUNTY * | 28081C0207D | 20-OCT-1999
04 | MISSISSIPPI | LEE COUNTY * | 28081C0209D | 20-OCT-1999
04 | MISSISSIPPI | LEE COUNTY * | 28081C0210D | 20-OCT-1999
04 | MISSISSIPPI | LEE COUNTY * | 28081C0215D | 20-OCT-1999
04 | MISSISSIPPI | LEE COUNTY * | 28081C0220D | 20-OCT-1999
04 | MISSISSIPPI | LEE COUNTY * | 28081C0228D | 20-OCT-1999
04 | MISSISSIPPI | LEE COUNTY * | 28081C0229D | 20-OCT-1999
04 | MISSISSIPPI | LEE COUNTY * | 28081C0231D | 20-OCT-1999
04 | MISSISSIPPI | LEE COUNTY * | 28081C0232D | 20-OCT-1999
04 | MISSISSIPPI | LEE COUNTY * | 28081C0233D | 20-OCT-1999
04 | MISSISSIPPI | LEE COUNTY * | 28081C0234D | 20-OCT-1999
04 | MISSISSIPPI | LEE COUNTY * | 28081C0240D | 20-OCT-1999
04 | MISSISSIPPI | LEE COUNTY * | 28081C0245D | 20-OCT-1999
04 | MISSISSIPPI | LEE COUNTY * | 28081C0275D | 20-OCT-1999
04 | MISSISSIPPI | LEE COUNTY * | 28081C0300D | 20-OCT-1999
04 | MISSISSIPPI | LEE COUNTY * | 28081C0305D | 20-OCT-1999
04 | MISSISSIPPI | LEE COUNTY * | 28081C0310D | 20-OCT-1999
04 | MISSISSIPPI | NETTLETON, TOWN OF | 28081C0000 | 20-OCT-1999
04 | MISSISSIPPI | NETTLETON, TOWN OF | 28081C0310D | 20-OCT-1999
04 | MISSISSIPPI | NETTLETON, TOWN OF | 28081C0350D | 20-OCT-1999
04 | MISSISSIPPI | PLANTERSVILLE, VILLAGE OF | 28081C0000 | 20-OCT-1999
04 | MISSISSIPPI | PLANTERSVILLE, VILLAGE OF | 28081C0231D | 20-OCT-1999
04 | MISSISSIPPI | PLANTERSVILLE, VILLAGE OF | 28081C0233D | 20-OCT-1999
04 | MISSISSIPPI | SALTILLO, TOWN OF | 28081C0000 | 20-OCT-1999
04 | MISSISSIPPI | SALTILLO, TOWN OF | 28081C0095D | 20-OCT-1999
04 | MISSISSIPPI | SALTILLO, TOWN OF | 28081C0100D | 20-OCT-1999
04 | MISSISSIPPI | SALTILLO, TOWN OF | 28081C0155D | 20-OCT-1999
04 | MISSISSIPPI | SALTILLO, TOWN OF | 28081C0160D | 20-OCT-1999
04 | MISSISSIPPI | SHANNON, TOWN OF | 28081C0000 | 20-OCT-1999
04 | MISSISSIPPI | SHANNON, TOWN OF | 28081C0240D | 20-OCT-1999
04 | MISSISSIPPI | SHANNON, TOWN OF | 28081C0305D | 20-OCT-1999
04 | MISSISSIPPI | SHANNON, TOWN OF | 28081C0310D | 20-OCT-1999
04 | MISSISSIPPI | TUPELO, CITY OF | 28081C0000 | 20-OCT-1999
04 | MISSISSIPPI | TUPELO, CITY OF | 28081C0135D | 20-OCT-1999
04 | MISSISSIPPI | TUPELO, CITY OF | 28081C0141D | 20-OCT-1999
04 | MISSISSIPPI | TUPELO, CITY OF | 28081C0142D | 20-OCT-1999
04 | MISSISSIPPI | TUPELO, CITY OF | 28081C0143D | 20-OCT-1999
04 | MISSISSIPPI | TUPELO, CITY OF | 28081C0144D | 20-OCT-1999
04 | MISSISSIPPI | TUPELO, CITY OF | 28081C0154D | 20-OCT-1999
04 | MISSISSIPPI | TUPELO, CITY OF | 28081C0155D | 20-OCT-1999
04 | MISSISSIPPI | TUPELO, CITY OF | 28081C0161D | 20-OCT-1999
04 | MISSISSIPPI | TUPELO, CITY OF | 28081C0162D | 20-OCT-1999
04 | MISSISSIPPI | TUPELO, CITY OF | 28081C0163D | 20-OCT-1999
04 | MISSISSIPPI | TUPELO, CITY OF | 28081C0164D | 20-OCT-1999
04 | MISSISSIPPI | TUPELO, CITY OF | 28081C0166D | 20-OCT-1999
04 | MISSISSIPPI | TUPELO, CITY OF | 28081C0167D | 20-OCT-1999
04 | MISSISSIPPI | TUPELO, CITY OF | 28081C0168D | 20-OCT-1999
04 | MISSISSIPPI | TUPELO, CITY OF | 28081C0169D | 20-OCT-1999
04 | MISSISSIPPI | TUPELO, CITY OF | 28081C0207D | 20-OCT-1999
04 | MISSISSIPPI | TUPELO, CITY OF | 28081C0209D | 20-OCT-1999
04 | MISSISSIPPI | TUPELO, CITY OF | 28081C0210D | 20-OCT-1999
04 | MISSISSIPPI | TUPELO, CITY OF | 28081C0226D | 20-OCT-1999
04 | MISSISSIPPI | TUPELO, CITY OF | 28081C0227D | 20-OCT-1999
04 | MISSISSIPPI | TUPELO, CITY OF | 28081C0228D | 20-OCT-1999
04 | MISSISSIPPI | TUPELO, CITY OF | 28081C0229D | 20-OCT-1999
04 | MISSISSIPPI | TUPELO, CITY OF | 28081C0231D | 20-OCT-1999
04 | MISSISSIPPI | TUPELO, CITY OF | 28081C0232D | 20-OCT-1999
04 | MISSISSIPPI | TUPELO, CITY OF | 28081C0233D | 20-OCT-1999
04 | MISSISSIPPI | VERONA,TOWN OF | 28081C0000 | 20-OCT-1999
04 | MISSISSIPPI | VERONA,TOWN OF | 28081C0228D | 20-OCT-1999
04 | MISSISSIPPI | VERONA,TOWN OF | 28081C0229D | 20-OCT-1999
04 | MISSISSIPPI | VERONA,TOWN OF | 28081C0240D | 20-OCT-1999
04 | NORTH CAROLINA | ASHE COUNTY * | 37009C0000 | 20-OCT-1999
04 | NORTH CAROLINA | ASHE COUNTY * | 37009C0132F | 20-OCT-1999
04 | NORTH CAROLINA | ASHE COUNTY * | 37009C0153F | 20-OCT-1999
04 | NORTH CAROLINA | HERTFORD COUNTY * | 3703770001A** | 01-NOV-1999
04 | NORTH CAROLINA | HERTFORD COUNTY * | 3703770002A** | 01-NOV-1999
04 | NORTH CAROLINA | HERTFORD COUNTY * | 3703770003A** | 01-NOV-1999
04 | NORTH CAROLINA | HERTFORD COUNTY * | 3703770005A** | 01-NOV-1999
04 | NORTH CAROLINA | HERTFORD COUNTY * | 3703770006A** | 01-NOV-1999
04 | NORTH CAROLINA | LEGGETT, TOWN OF | 3703170005B |
04 | NORTH CAROLINA | TRENT WOODS, TOWNSHIP OF | 3704340000 | 08-SEP-1999
04 | NORTH CAROLINA | TRENT WOODS, TOWNSHIP OF | 3704340001B | 08-SEP-1999
04 | NORTH CAROLINA | TRENT WOODS, TOWNSHIP OF | 3704340002B | 08-SEP-1999
04 | NORTH CAROLINA | WILKES COUNTY * | 3702560175D | 09-AUG-1999
04 | NORTH CAROLINA | WILKES COUNTY * | 370256C0000 | 09-AUG-1999
04 | NORTH CAROLINA | WILKESBORO, TOWN OF | 3702590005E | 09-AUG-1999
04 | SOUTH CAROLINA | ATLANTIC BEACH, TOWN OF | 45051C0000 | 23-AUG-1999
04 | SOUTH CAROLINA | ATLANTIC BEACH, TOWN OF | 45051C0586H | 23-AUG-1999
04 | SOUTH CAROLINA | ATLANTIC BEACH, TOWN OF | 45051C0587H | 23-AUG-1999
04 | SOUTH CAROLINA | AYNOR, TOWN OF | 45051C0000 | 23-AUG-1999
04 | SOUTH CAROLINA | AYNOR, TOWN OF | 45051C0175H | 23-AUG-1999
04 | SOUTH CAROLINA | AYNOR, TOWN OF | 45051C0325H | 23-AUG-1999
04 | SOUTH CAROLINA | BRIARCLIFF ACRES, TOWN OF | 45051C0000 | 23-AUG-1999
04 | SOUTH CAROLINA | BRIARCLIFF ACRES, TOWN OF | 45051C0567H | 23-AUG-1999
04 | SOUTH CAROLINA | BRIARCLIFF ACRES, TOWN OF | 45051C0587H | 23-AUG-1999
04 | SOUTH CAROLINA | CONWAY, TOWN OF | 45051C0000 | 23-AUG-1999
04 | SOUTH CAROLINA | CONWAY, TOWN OF | 45051C0502H | 23-AUG-1999
04 | SOUTH CAROLINA | CONWAY, TOWN OF | 45051C0503H | 23-AUG-1999
04 | SOUTH CAROLINA | CONWAY, TOWN OF | 45051C0504H | 23-AUG-1999
04 | SOUTH CAROLINA | CONWAY, TOWN OF | 45051C0506H | 23-AUG-1999
04 | SOUTH CAROLINA | CONWAY, TOWN OF | 45051C0508H | 23-AUG-1999
04 | SOUTH CAROLINA | CONWAY, TOWN OF | 45051C0512H | 23-AUG-1999
04 | SOUTH CAROLINA | CONWAY, TOWN OF | 45051C0516H | 23-AUG-1999
04 | SOUTH CAROLINA | HOLLYWOOD, TOWN OF | 4500370000 | 20-DEC-1999
04 | SOUTH CAROLINA | HOLLYWOOD, TOWN OF | 4500370005C | 20-DEC-1999
04 | SOUTH CAROLINA | HORRY COUNTY * | 45051C0000 | 23-AUG-1999
04 | SOUTH CAROLINA | HORRY COUNTY * | 45051C0025H | 23-AUG-1999
04 | SOUTH CAROLINA | HORRY COUNTY * | 45051C0050H | 23-AUG-1999
04 | SOUTH CAROLINA | HORRY COUNTY * | 45051C0075H | 23-AUG-1999
04 | SOUTH CAROLINA | HORRY COUNTY * | 45051C0100H | 23-AUG-1999
04 | SOUTH CAROLINA | HORRY COUNTY * | 45051C0150H | 23-AUG-1999
04 | SOUTH CAROLINA | HORRY COUNTY * | 45051C0175H | 23-AUG-1999
04 | SOUTH CAROLINA | HORRY COUNTY * | 45051C0200H | 23-AUG-1999
04 | SOUTH CAROLINA | HORRY COUNTY * | 45051C0225H | 23-AUG-1999
04 | SOUTH CAROLINA | HORRY COUNTY * | 45051C0250H | 23-AUG-1999
04 | SOUTH CAROLINA | HORRY COUNTY * | 45051C0275H | 23-AUG-1999
04 | SOUTH CAROLINA | HORRY COUNTY * | 45051C0300H | 23-AUG-1999
04 | SOUTH CAROLINA | HORRY COUNTY * | 45051C0325H | 23-AUG-1999
04 | SOUTH CAROLINA | HORRY COUNTY * | 45051C0340H | 23-AUG-1999
04 | SOUTH CAROLINA | HORRY COUNTY * | 45051C0345H | 23-AUG-1999
04 | SOUTH CAROLINA | HORRY COUNTY * | 45051C0350H | 23-AUG-1999
04 | SOUTH CAROLINA | HORRY COUNTY * | 45051C0355H | 23-AUG-1999
04 | SOUTH CAROLINA | HORRY COUNTY * | 45051C0360H | 23-AUG-1999
04 | SOUTH CAROLINA | HORRY COUNTY * | 45051C0365H | 23-AUG-1999
04 | SOUTH CAROLINA | HORRY COUNTY * | 45051C0370H | 23-AUG-1999
04 | SOUTH CAROLINA | HORRY COUNTY * | 45051C0380H | 23-AUG-1999
04 | SOUTH CAROLINA | HORRY COUNTY * | 45051C0385H | 23-AUG-1999
04 | SOUTH CAROLINA | HORRY COUNTY * | 45051C0390H | 23-AUG-1999
04 | SOUTH CAROLINA | HORRY COUNTY * | 45051C0395H | 23-AUG-1999
04 | SOUTH CAROLINA | HORRY COUNTY * | 45051C0405H | 23-AUG-1999
04 | SOUTH CAROLINA | HORRY COUNTY * | 45051C0410H | 23-AUG-1999
04 | SOUTH CAROLINA | HORRY COUNTY * | 45051C0415H | 23-AUG-1999
04 | SOUTH CAROLINA | HORRY COUNTY * | 45051C0420H | 23-AUG-1999
04 | SOUTH CAROLINA | HORRY COUNTY * | 45051C0438H | 23-AUG-1999
04 | SOUTH CAROLINA | HORRY COUNTY * | 45051C0439H | 23-AUG-1999
04 | SOUTH CAROLINA | HORRY COUNTY * | 45051C0475H | 23-AUG-1999
04 | SOUTH CAROLINA | HORRY COUNTY * | 45051C0500H | 23-AUG-1999
04 | SOUTH CAROLINA | HORRY COUNTY * | 45051C0501H | 23-AUG-1999
04 | SOUTH CAROLINA | HORRY COUNTY * | 45051C0502H | 23-AUG-1999
04 | SOUTH CAROLINA | HORRY COUNTY * | 45051C0503H | 23-AUG-1999
04 | SOUTH CAROLINA | HORRY COUNTY * | 45051C0504H | 23-AUG-1999
04 | SOUTH CAROLINA | HORRY COUNTY * | 45051C0506H | 23-AUG-1999
04 | SOUTH CAROLINA | HORRY COUNTY * | 45051C0507H | 23-AUG-1999
04 | SOUTH CAROLINA | HORRY COUNTY * | 45051C0508H | 23-AUG-1999
04 | SOUTH CAROLINA | HORRY COUNTY * | 45051C0509H | 23-AUG-1999
04 | SOUTH CAROLINA | HORRY COUNTY * | 45051C0511H | 23-AUG-1999
04 | SOUTH CAROLINA | HORRY COUNTY * | 45051C0512H | 23-AUG-1999
04 | SOUTH CAROLINA | HORRY COUNTY * | 45051C0513H | 23-AUG-1999
04 | SOUTH CAROLINA | HORRY COUNTY * | 45051C0514H | 23-AUG-1999
04 | SOUTH CAROLINA | HORRY COUNTY * | 45051C0516H | 23-AUG-1999
04 | SOUTH CAROLINA | HORRY COUNTY * | 45051C0517H | 23-AUG-1999
04 | SOUTH CAROLINA | HORRY COUNTY * | 45051C0518H | 23-AUG-1999
04 | SOUTH CAROLINA | HORRY COUNTY * | 45051C0519H | 23-AUG-1999
04 | SOUTH CAROLINA | HORRY COUNTY * | 45051C0530H | 23-AUG-1999
04 | SOUTH CAROLINA | HORRY COUNTY * | 45051C0535H | 23-AUG-1999
04 | SOUTH CAROLINA | HORRY COUNTY * | 45051C0540H | 23-AUG-1999
04 | SOUTH CAROLINA | HORRY COUNTY * | 45051C0545H | 23-AUG-1999
04 | SOUTH CAROLINA | HORRY COUNTY * | 45051C0555H | 23-AUG-1999
04 | SOUTH CAROLINA | HORRY COUNTY * | 45051C0560H | 23-AUG-1999
04 | SOUTH CAROLINA | HORRY COUNTY * | 45051C0561H | 23-AUG-1999
04 | SOUTH CAROLINA | HORRY COUNTY * | 45051C0563H | 23-AUG-1999
04 | SOUTH CAROLINA | HORRY COUNTY * | 45051C0564H | 23-AUG-1999
04 | SOUTH CAROLINA | HORRY COUNTY * | 45051C0566H | 23-AUG-1999
04 | SOUTH CAROLINA | HORRY COUNTY * | 45051C0567H | 23-AUG-1999
04 | SOUTH CAROLINA | HORRY COUNTY * | 45051C0568H | 23-AUG-1999
04 | SOUTH CAROLINA | HORRY COUNTY * | 45051C0569H | 23-AUG-1999
04 | SOUTH CAROLINA | HORRY COUNTY * | 45051C0578H | 23-AUG-1999
04 | SOUTH CAROLINA | HORRY COUNTY * | 45051C0579H | 23-AUG-1999
04 | SOUTH CAROLINA | HORRY COUNTY * | 45051C0580H | 23-AUG-1999
04 | SOUTH CAROLINA | HORRY COUNTY * | 45051C0581H | 23-AUG-1999
04 | SOUTH CAROLINA | HORRY COUNTY * | 45051C0582H | 23-AUG-1999
04 | SOUTH CAROLINA | HORRY COUNTY * | 45051C0583H | 23-AUG-1999
04 | SOUTH CAROLINA | HORRY COUNTY * | 45051C0584H | 23-AUG-1999
04 | SOUTH CAROLINA | HORRY COUNTY * | 45051C0586H | 23-AUG-1999
04 | SOUTH CAROLINA | HORRY COUNTY * | 45051C0587H | 23-AUG-1999
04 | SOUTH CAROLINA | HORRY COUNTY * | 45051C0591H | 23-AUG-1999
04 | SOUTH CAROLINA | HORRY COUNTY * | 45051C0601H | 23-AUG-1999
04 | SOUTH CAROLINA | HORRY COUNTY * | 45051C0602H | 23-AUG-1999
04 | SOUTH CAROLINA | HORRY COUNTY * | 45051C0603H | 23-AUG-1999
04 | SOUTH CAROLINA | HORRY COUNTY * | 45051C0604H | 23-AUG-1999
04 | SOUTH CAROLINA | HORRY COUNTY * | 45051C0606H | 23-AUG-1999
04 | SOUTH CAROLINA | HORRY COUNTY * | 45051C0630H | 23-AUG-1999
04 | SOUTH CAROLINA | HORRY COUNTY * | 45051C0635H | 23-AUG-1999
04 | SOUTH CAROLINA | HORRY COUNTY * | 45051C0645H | 23-AUG-1999
04 | SOUTH CAROLINA | HORRY COUNTY * | 45051C0652H | 23-AUG-1999
04 | SOUTH CAROLINA | HORRY COUNTY * | 45051C0655H | 23-AUG-1999
04 | SOUTH CAROLINA | HORRY COUNTY * | 45051C0660H | 23-AUG-1999
04 | SOUTH CAROLINA | HORRY COUNTY * | 45051C0665H | 23-AUG-1999
04 | SOUTH CAROLINA | HORRY COUNTY * | 45051C0670H | 23-AUG-1999
04 | SOUTH CAROLINA | HORRY COUNTY * | 45051C0679H | 23-AUG-1999
04 | SOUTH CAROLINA | HORRY COUNTY * | 45051C0680H | 23-AUG-1999
04 | SOUTH CAROLINA | HORRY COUNTY * | 45051C0681H | 23-AUG-1999
04 | SOUTH CAROLINA | HORRY COUNTY * | 45051C0682H | 23-AUG-1999
04 | SOUTH CAROLINA | HORRY COUNTY * | 45051C0683H | 23-AUG-1999
04 | SOUTH CAROLINA | HORRY COUNTY * | 45051C0684H | 23-AUG-1999
04 | SOUTH CAROLINA | HORRY COUNTY * | 45051C0691H | 23-AUG-1999
04 | SOUTH CAROLINA | HORRY COUNTY * | 45051C0694H | 23-AUG-1999
04 | SOUTH CAROLINA | HORRY COUNTY * | 45051C0694H | 23-AUG-1999
04 | SOUTH CAROLINA | HORRY COUNTY * | 45051C0694H | 23-AUG-1999
04 | SOUTH CAROLINA | HORRY COUNTY * | 45051C0696H | 23-AUG-1999
04 | SOUTH CAROLINA | HORRY COUNTY * | 45051C0697H | 23-AUG-1999
04 | SOUTH CAROLINA | HORRY COUNTY * | 45051C0698H | 23-AUG-1999
04 | SOUTH CAROLINA | HORRY COUNTY * | 45051C0701H | 23-AUG-1999
04 | SOUTH CAROLINA | HORRY COUNTY * | 45051C0702H | 23-AUG-1999
04 | SOUTH CAROLINA | HORRY COUNTY * | 45051C0703H | 23-AUG-1999
04 | SOUTH CAROLINA | HORRY COUNTY * | 45051C0706H | 23-AUG-1999
04 | SOUTH CAROLINA | HORRY COUNTY * | 45051C0730H | 23-AUG-1999
04 | SOUTH CAROLINA | HORRY COUNTY * | 45051C0731H | 23-AUG-1999
04 | SOUTH CAROLINA | HORRY COUNTY * | 45051C0732H | 23-AUG-1999
04 | SOUTH CAROLINA | HORRY COUNTY * | 45051C0734H | 23-AUG-1999
04 | SOUTH CAROLINA | HORRY COUNTY * | 45051C0751H | 23-AUG-1999
04 | SOUTH CAROLINA | HORRY COUNTY * | 45051C0752H | 23-AUG-1999
04 | SOUTH CAROLINA | HORRY COUNTY * | 45051C0753H | 23-AUG-1999
04 | SOUTH CAROLINA | LORIS, TOWN OF | 45051C0000 | 23-AUG-1999
04 | SOUTH CAROLINA | LORIS, TOWN OF | 45051C0225H | 23-AUG-1999
04 | SOUTH CAROLINA | LORIS, TOWN OF | 45051C0250H | 23-AUG-1999
04 | SOUTH CAROLINA | MYRTLE BEACH, CITY OF | 45051C0000 | 23-AUG-1999
04 | SOUTH CAROLINA | MYRTLE BEACH, CITY OF | 45051C0564H | 23-AUG-1999
04 | SOUTH CAROLINA | MYRTLE BEACH, CITY OF | 45051C0568H | 23-AUG-1999
04 | SOUTH CAROLINA | MYRTLE BEACH, CITY OF | 45051C0679H | 23-AUG-1999
04 | SOUTH CAROLINA | MYRTLE BEACH, CITY OF | 45051C0683H | 23-AUG-1999
04 | SOUTH CAROLINA | MYRTLE BEACH, CITY OF | 45051C0684H | 23-AUG-1999
04 | SOUTH CAROLINA | MYRTLE BEACH, CITY OF | 45051C0694H | 23-AUG-1999
04 | SOUTH CAROLINA | MYRTLE BEACH, CITY OF | 45051C0696H | 23-AUG-1999
04 | SOUTH CAROLINA | MYRTLE BEACH, CITY OF | 45051C0697H | 23-AUG-1999
04 | SOUTH CAROLINA | MYRTLE BEACH, CITY OF | 45051C0698H | 23-AUG-1999
04 | SOUTH CAROLINA | MYRTLE BEACH, CITY OF | 45051C0701H | 23-AUG-1999
04 | SOUTH CAROLINA | MYRTLE BEACH, CITY OF | 45051C0702H | 23-AUG-1999
04 | SOUTH CAROLINA | MYRTLE BEACH, CITY OF | 45051C0703H | 23-AUG-1999
04 | SOUTH CAROLINA | MYRTLE BEACH, CITY OF | 45051C0706H | 23-AUG-1999
04 | SOUTH CAROLINA | NORTH MYRTLE BEACH, TOWN OF | 45051C0000 | 23-AUG-1999
04 | SOUTH CAROLINA | NORTH MYRTLE BEACH, TOWN OF | 45051C0578H | 23-AUG-1999
04 | SOUTH CAROLINA | NORTH MYRTLE BEACH, TOWN OF | 45051C0579H | 23-AUG-1999
04 | SOUTH CAROLINA | NORTH MYRTLE BEACH, TOWN OF | 45051C0581H | 23-AUG-1999
04 | SOUTH CAROLINA | NORTH MYRTLE BEACH, TOWN OF | 45051C0582H | 23-AUG-1999
04 | SOUTH CAROLINA | NORTH MYRTLE BEACH, TOWN OF | 45051C0583H | 23-AUG-1999
04 | SOUTH CAROLINA | NORTH MYRTLE BEACH, TOWN OF | 45051C0584H | 23-AUG-1999
04 | SOUTH CAROLINA | NORTH MYRTLE BEACH, TOWN OF | 45051C0585H | 23-AUG-1999
04 | SOUTH CAROLINA | NORTH MYRTLE BEACH, TOWN OF | 45051C0586H | 23-AUG-1999
04 | SOUTH CAROLINA | NORTH MYRTLE BEACH, TOWN OF | 45051C0587H | 23-AUG-1999
04 | SOUTH CAROLINA | NORTH MYRTLE BEACH, TOWN OF | 45051C0591H | 23-AUG-1999
04 | SOUTH CAROLINA | NORTH MYRTLE BEACH, TOWN OF | 45051C0601H | 23-AUG-1999
04 | SOUTH CAROLINA | NORTH MYRTLE BEACH, TOWN OF | 45051C0603H | 23-AUG-1999
04 | SOUTH CAROLINA | RAVENEL, TOWN OF | 4500430005C | 20-DEC-1999
04 | SOUTH CAROLINA | SUMTER COUNTY * | 4501820000 | 23-AUG-1999
04 | SOUTH CAROLINA | SUMTER COUNTY * | 4501820090B | 23-AUG-1999
04 | SOUTH CAROLINA | SURFSIDE BEACH, TOWN OF | 45051C0000 | 23-AUG-1999
04 | SOUTH CAROLINA | SURFSIDE BEACH, TOWN OF | 45051C0694H | 23-AUG-1999
04 | SOUTH CAROLINA | SURFSIDE BEACH, TOWN OF | 45051C0751H | 23-AUG-1999
04 | SOUTH CAROLINA | SURFSIDE BEACH, TOWN OF | 45051C0752H | 23-AUG-1999
04 | SOUTH CAROLINA | SURFSIDE BEACH, TOWN OF | 45051C0753H | 23-AUG-1999
04 | TENNESSEE | ASHLANDCITY, TOWN OF | 47021C0000 | 06-DEC-1999
04 | TENNESSEE | ASHLANDCITY, TOWN OF | 47021C0140C | 06-DEC-1999
04 | TENNESSEE | ASHLANDCITY, TOWN OF | 47021C0145C | 06-DEC-1999
04 | TENNESSEE | ASHLANDCITY, TOWN OF | 47021C0205C | 06-DEC-1999
04 | TENNESSEE | ASHLANDCITY, TOWN OF | 47021C0209C | 06-DEC-1999
04 | TENNESSEE | ASHLANDCITY, TOWN OF | 47021C0210C | 06-DEC-1999
04 | TENNESSEE | ASHLANDCITY, TOWN OF | 47021C0226C | 06-DEC-1999
04 | TENNESSEE | ASHLANDCITY, TOWN OF | 47021C0228C | 06-DEC-1999
04 | TENNESSEE | CHEATHAM COUNTY * | 47021C0000 | 06-DEC-1999
04 | TENNESSEE | CHEATHAM COUNTY * | 47021C0025C** | 06-DEC-1999
04 | TENNESSEE | CHEATHAM COUNTY * | 47021C0050C** | 06-DEC-1999
04 | TENNESSEE | CHEATHAM COUNTY * | 47021C0075C | 06-DEC-1999
04 | TENNESSEE | CHEATHAM COUNTY * | 47021C0085C** | 06-DEC-1999
04 | TENNESSEE | CHEATHAM COUNTY * | 47021C0105C** | 06-DEC-1999
04 | TENNESSEE | CHEATHAM COUNTY * | 47021C0110C | 06-DEC-1999
04 | TENNESSEE | CHEATHAM COUNTY * | 47021C0120C | 06-DEC-1999
04 | TENNESSEE | CHEATHAM COUNTY * | 47021C0130C | 06-DEC-1999
04 | TENNESSEE | CHEATHAM COUNTY * | 47021C0135C | 06-DEC-1999
04 | TENNESSEE | CHEATHAM COUNTY * | 47021C0140C | 06-DEC-1999
04 | TENNESSEE | CHEATHAM COUNTY * | 47021C0145C** | 06-DEC-1999
04 | TENNESSEE | CHEATHAM COUNTY * | 47021C0155C | 06-DEC-1999
04 | TENNESSEE | CHEATHAM COUNTY * | 47021C0175C** | 06-DEC-1999
04 | TENNESSEE | CHEATHAM COUNTY * | 47021C0185C** | 06-DEC-1999
04 | TENNESSEE | CHEATHAM COUNTY * | 47021C0195C** | 06-DEC-1999
04 | TENNESSEE | CHEATHAM COUNTY * | 47021C0205C** | 06-DEC-1999
04 | TENNESSEE | CHEATHAM COUNTY * | 47021C0208C | 06-DEC-1999
04 | TENNESSEE | CHEATHAM COUNTY * | 47021C0209C | 06-DEC-1999
04 | TENNESSEE | CHEATHAM COUNTY * | 47021C0210C | 06-DEC-1999
04 | TENNESSEE | CHEATHAM COUNTY * | 47021C0215C** | 06-DEC-1999
04 | TENNESSEE | CHEATHAM COUNTY * | 47021C0216C | 06-DEC-1999
04 | TENNESSEE | CHEATHAM COUNTY * | 47021C0217C | 06-DEC-1999
04 | TENNESSEE | CHEATHAM COUNTY * | 47021C0220C** | 06-DEC-1999
04 | TENNESSEE | CHEATHAM COUNTY * | 47021C0226C** | 06-DEC-1999
04 | TENNESSEE | CHEATHAM COUNTY * | 47021C0228C | 06-DEC-1999
04 | TENNESSEE | CHEATHAM COUNTY * | 47021C0236C | 06-DEC-1999
04 | TENNESSEE | CHEATHAM COUNTY * | 47021C0238C | 06-DEC-1999
04 | TENNESSEE | CHEATHAM COUNTY * | 47021C0260C** | 06-DEC-1999
04 | TENNESSEE | CHEATHAM COUNTY * | 47021C0280C** | 06-DEC-1999
04 | TENNESSEE | CHEATHAM COUNTY * | 47021C0285C** | 06-DEC-1999
04 | TENNESSEE | CHEATHAM COUNTY * | 47021C0290C** | 06-DEC-1999
04 | TENNESSEE | FAYETTEVILLE, CITY OF | 47103C0000 | 20-DEC-1999
04 | TENNESSEE | FAYETTEVILLE, CITY OF | 47103C0161C | 20-DEC-1999
04 | TENNESSEE | FAYETTEVILLE, CITY OF | 47103C0162C | 20-DEC-1999
04 | TENNESSEE | FAYETTEVILLE, CITY OF | 47103C0163C | 20-DEC-1999
04 | TENNESSEE | FAYETTEVILLE, CITY OF | 47103C0164C | 20-DEC-1999
04 | TENNESSEE | FAYETTEVILLE, CITY OF | 47103C0166C | 20-DEC-1999
04 | TENNESSEE | FAYETTEVILLE, CITY OF | 47103C0167C | 20-DEC-1999
04 | TENNESSEE | FAYETTEVILLE, CITY OF | 47103C0168C | 20-DEC-1999
04 | TENNESSEE | FAYETTEVILLE, CITY OF | 47103C0169C | 20-DEC-1999
04 | TENNESSEE | FAYETTEVILLE, CITY OF | 47103C0277C | 20-DEC-1999
04 | TENNESSEE | FAYETTEVILLE, CITY OF | 47103C0281C | 20-DEC-1999
04 | TENNESSEE | GORDONSVILLE, TOWN OF | 4703950000 | 07-JUL-1999
04 | TENNESSEE | GORDONSVILLE, TOWN OF | 4703950001A | 07-JUL-1999
04 | TENNESSEE | GORDONSVILLE, TOWN OF | 4703950002A | 07-JUL-1999
04 | TENNESSEE | KINGSTON SPRINGS, CITY OF | 47021C0000 | 06-DEC-1999
04 | TENNESSEE | KINGSTON SPRINGS, CITY OF | 47021C0260C | 06-DEC-1999
04 | TENNESSEE | KINGSTON SPRINGS, CITY OF | 47021C0280C | 06-DEC-1999
04 | TENNESSEE | LA VERGNE, CITY OF | 47149C0000 | 08-NOV-1999
04 | TENNESSEE | LA VERGNE, CITY OF | 47149C0014F** | 08-NOV-1999
04 | TENNESSEE | LINCOLN COUNTY* | 47103C0000 | 20-DEC-1999
04 | TENNESSEE | LINCOLN COUNTY* | 47103C0050C** | 20-DEC-1999
04 | TENNESSEE | LINCOLN COUNTY* | 47103C0075C** | 20-DEC-1999
04 | TENNESSEE | LINCOLN COUNTY* | 47103C0100C** | 20-DEC-1999
04 | TENNESSEE | LINCOLN COUNTY* | 47103C0125C** | 20-DEC-1999
04 | TENNESSEE | LINCOLN COUNTY* | 47103C0150C** | 20-DEC-1999
04 | TENNESSEE | LINCOLN COUNTY* | 47103C0161C | 20-DEC-1999
04 | TENNESSEE | LINCOLN COUNTY* | 47103C0162C | 20-DEC-1999
04 | TENNESSEE | LINCOLN COUNTY* | 47103C0163C | 20-DEC-1999
04 | TENNESSEE | LINCOLN COUNTY* | 47103C0164C | 20-DEC-1999
04 | TENNESSEE | LINCOLN COUNTY* | 47103C0166C | 20-DEC-1999
04 | TENNESSEE | LINCOLN COUNTY* | 47103C0167C** | 20-DEC-1999
04 | TENNESSEE | LINCOLN COUNTY* | 47103C0168C | 20-DEC-1999
04 | TENNESSEE | LINCOLN COUNTY* | 47103C0169C | 20-DEC-1999
04 | TENNESSEE | LINCOLN COUNTY* | 47103C0175C** | 20-DEC-1999
04 | TENNESSEE | LINCOLN COUNTY* | 47103C0200C** | 20-DEC-1999
04 | TENNESSEE | LINCOLN COUNTY* | 47103C0225C** | 20-DEC-1999
04 | TENNESSEE | LINCOLN COUNTY* | 47103C0250C** | 20-DEC-1999
04 | TENNESSEE | LINCOLN COUNTY* | 47103C0275C** | 20-DEC-1999
04 | TENNESSEE | LINCOLN COUNTY* | 47103C0277C | 20-DEC-1999
04 | TENNESSEE | LINCOLN COUNTY* | 47103C0281C | 20-DEC-1999
04 | TENNESSEE | LINCOLN COUNTY* | 47103C0300C** | 20-DEC-1999
04 | TENNESSEE | LINCOLN COUNTY* | 47103C0325C** | 20-DEC-1999
04 | TENNESSEE | LINCOLN COUNTY* | 47103C0350C** | 20-DEC-1999
04 | TENNESSEE | LINCOLN COUNTY* | 47103C0425C** | 20-DEC-1999
04 | TENNESSEE | LINCOLN COUNTY* | 47103C0450C** | 20-DEC-1999
04 | TENNESSEE | MURFREESBORO, CITY OF | 47149C0000 | 08-NOV-1999
04 | TENNESSEE | MURFREESBORO, CITY OF | 47149C0141F | 08-NOV-1999
04 | TENNESSEE | MURFREESBORO, CITY OF | 47149C0143F | 08-NOV-1999
04 | TENNESSEE | MURFREESBORO, CITY OF | 47149C0144F | 08-NOV-1999
04 | TENNESSEE | MURFREESBORO, CITY OF | 47149C0161F | 08-NOV-1999
04 | TENNESSEE | MURFREESBORO, CITY OF | 47149C0163F | 08-NOV-1999
04 | TENNESSEE | MURFREESBORO, CITY OF | 47149C0255F | 08-NOV-1999
04 | TENNESSEE | MURFREESBORO, CITY OF | 47149C0257F | 08-NOV-1999
04 | TENNESSEE | MURFREESBORO, CITY OF | 47149C0259F | 08-NOV-1999
04 | TENNESSEE | MURFREESBORO, CITY OF | 47149C0260F | 08-NOV-1999
04 | TENNESSEE | MURFREESBORO, CITY OF | 47149C0276F | 08-NOV-1999
04 | TENNESSEE | PEGRAM, TOWNSHIP OF | 47021C0000 | 06-DEC-1999
04 | TENNESSEE | PEGRAM, TOWNSHIP OF | 47021C0215C | 06-DEC-1999
04 | TENNESSEE | PEGRAM, TOWNSHIP OF | 47021C0220C | 06-DEC-1999
04 | TENNESSEE | PEGRAM, TOWNSHIP OF | 47021C0280C | 06-DEC-1999
04 | TENNESSEE | PEGRAM, TOWNSHIP OF | 47021C0285C | 06-DEC-1999
04 | TENNESSEE | PETERSBURG, CITY OF | 47103C0000 | 20-DEC-1999
04 | TENNESSEE | PETERSBURG, CITY OF | 47103C0050C | 20-DEC-1999
04 | TENNESSEE | RUTHERFORD COUNTY * | 47149C0000 | 08-NOV-1999
04 | TENNESSEE | RUTHERFORD COUNTY * | 47149C0141F | 08-NOV-1999
04 | TENNESSEE | RUTHERFORD COUNTY * | 47149C0143F | 08-NOV-1999
04 | TENNESSEE | RUTHERFORD COUNTY * | 47149C0144F | 08-NOV-1999
04 | TENNESSEE | RUTHERFORD COUNTY * | 47149C0161F | 08-NOV-1999
04 | TENNESSEE | RUTHERFORD COUNTY * | 47149C0163F | 08-NOV-1999
04 | TENNESSEE | RUTHERFORD COUNTY * | 47149C0255F | 08-NOV-1999
04 | TENNESSEE | RUTHERFORD COUNTY * | 47149C0259F | 08-NOV-1999
04 | TENNESSEE | RUTHERFORD COUNTY * | 47149C0260F | 08-NOV-1999
04 | TENNESSEE | RUTHERFORD COUNTY * | 47149C0276F | 08-NOV-1999
04 | TENNESSEE | SMITH COUNTY * | 4702830000 | 07-JUL-1999
04 | TENNESSEE | SMITH COUNTY * | 4702830069C | 07-JUL-1999
04 | TENNESSEE | SMITH COUNTY * | 4702830088C | 07-JUL-1999
04 | TENNESSEE | SMITH COUNTY * | 4702830100C** | 07-JUL-1999
04 | TENNESSEE | SMITH COUNTY * | 4702830107C | 07-JUL-1999
04 | TENNESSEE | SMITH COUNTY * | 4702830125C** | 07-JUL-1999
05 | ILLINOIS | ROMEOVILLE, VILLAGE OF | 17197C0000 | 22-SEP-1999
05 | ILLINOIS | ROMEOVILLE, VILLAGE OF | 17197C0045F | 22-SEP-1999
05 | ILLINOIS | ROMEOVILLE, VILLAGE OF | 17197C0065F | 22-SEP-1999
05 | ILLINOIS | WILL COUNTY * | 17197C0000 | 22-SEP-1999
05 | ILLINOIS | WILL COUNTY * | 17197C0033F | 22-SEP-1999
05 | ILLINOIS | WILL COUNTY * | 17197C0045F | 22-SEP-1999
05 | ILLINOIS | WILL COUNTY * | 17197C0065F | 22-SEP-1999
05 | ILLINOIS | WILL COUNTY * | 17197C0135F | 22-SEP-1999
05 | MICHIGAN | FARMINGTON HILLS, CITY OF | 2601720000 | 08-NOV-1999
05 | MICHIGAN | FARMINGTON HILLS, CITY OF | 2601720001C | 08-NOV-1999
05 | MICHIGAN | FARMINGTON HILLS, CITY OF | 2601720002C | 08-NOV-1999
05 | MICHIGAN | FARMINGTON HILLS, CITY OF | 2601720003C | 08-NOV-1999
05 | MICHIGAN | FARMINGTON HILLS, CITY OF | 2601720004C | 08-NOV-1999
05 | MICHIGAN | FARMINGTON HILLS, CITY OF | 2601720005C | 08-NOV-1999
05 | MICHIGAN | FARMINGTON HILLS, CITY OF | 2601720006C | 08-NOV-1999
05 | MICHIGAN | FARMINGTON HILLS, CITY OF | 2601720007C | 08-NOV-1999
05 | MICHIGAN | FARMINGTON HILLS, CITY OF | 2601720008C | 08-NOV-1999
05 | MICHIGAN | FARMINGTON HILLS, CITY OF | 2601720009C | 08-NOV-1999
05 | MICHIGAN | FARMINGTON HILLS, CITY OF | 2601720010C | 08-NOV-1999
05 | MICHIGAN | FARMINGTON HILLS, CITY OF | 2601720011C | 08-NOV-1999
05 | MICHIGAN | FARMINGTON HILLS, CITY OF | 2601720012C | 08-NOV-1999
05 | MICHIGAN | HAY, TOWNSHIP OF | 2609840001A | 22-SEP-1999
05 | MICHIGAN | NASHVILLE, CITY OF | 2609020001A | 06-DEC-1999
05 | MICHIGAN | NORTHVILLE, CITY OF | 2602350001B | 06-DEC-1999
05 | MICHIGAN | OWOSSO, TOWNSHIP OF | 2608090000 | 20-OCT-1999
05 | MICHIGAN | OWOSSO, TOWNSHIP OF | 2608090005A | 20-OCT-1999
05 | MICHIGAN | OWOSSO, TOWNSHIP OF | 2608090010A | 20-OCT-1999
05 | MINNESOTA | BLUE EARTH COUNTY * | 2752310000 | 21-JUL-1999
05 | MINNESOTA | BLUE EARTH COUNTY * | 2752310025E | 21-JUL-1999
05 | MINNESOTA | BLUE EARTH COUNTY * | 2752310040E | 21-JUL-1999
05 | MINNESOTA | BLUE EARTH COUNTY * | 2752310050E | 21-JUL-1999
05 | MINNESOTA | CLEVELAND, CITY OF | 27079C0000 | 21-JUL-1999
05 | MINNESOTA | CLEVELAND, CITY OF | 27079C0255D | 21-JUL-1999
05 | MINNESOTA | COURTLAND, CITY OF | 27103C0000 | 21-JUL-1999
05 | MINNESOTA | COURTLAND, CITY OF | 27103C0265G | 21-JUL-1999
05 | MINNESOTA | ELYSIAN, CITY OF | 27079C0000 | 21-JUL-1999
05 | MINNESOTA | ELYSIAN, CITY OF | 27079C0425D** | 21-JUL-1999
05 | MINNESOTA | HEIDELBERG, CITY OF | 27079C0000 | 21-JUL-1999
05 | MINNESOTA | HEIDELBERG, CITY OF | 27079C0075D** | 21-JUL-1999
05 | MINNESOTA | HEIDELBERG, CITY OF | 27079C0088D** | 21-JUL-1999
05 | MINNESOTA | HEIDELBERG, CITY OF | 27079C0175D | 21-JUL-1999
05 | MINNESOTA | HEIDELBERG, CITY OF | 27079C0200D | 21-JUL-1999
05 | MINNESOTA | KASOTA, CITY OF | 27079C0236D | 21-JUL-1999
05 | MINNESOTA | KASOTA, CITY OF | 27079C0237D | 21-JUL-1999
05 | MINNESOTA | KASOTA, CITY OF | 27079CIND0 | 21-JUL-1999
05 | MINNESOTA | KILKENNY, CITY OF | 27079C0000 | 21-JUL-1999
05 | MINNESOTA | KILKENNY, CITY OF | 27079C0325D | 21-JUL-1999
05 | MINNESOTA | LAFAYETTE, CITY OF | 27103C0000 | 21-JUL-1999
05 | MINNESOTA | LE CENTER, CITY OF | 27079C0000 | 21-JUL-1999
05 | MINNESOTA | LE CENTER, CITY OF | 27079C0175D** | 21-JUL-1999
05 | MINNESOTA | LE SUEUR COUNTY * | 27079C0000 | 21-JUL-1999
05 | MINNESOTA | LE SUEUR COUNTY * | 27079C0020D | 21-JUL-1999
05 | MINNESOTA | LE SUEUR COUNTY * | 27079C0040D** | 21-JUL-1999
05 | MINNESOTA | LE SUEUR COUNTY * | 27079C0045D** | 21-JUL-1999
05 | MINNESOTA | LE SUEUR COUNTY * | 27079C0075D** | 21-JUL-1999
05 | MINNESOTA | LE SUEUR, CITY OF | 27079C0000 | 21-JUL-1999
05 | MINNESOTA | LE SUEUR, CITY OF | 27079C0020D | 21-JUL-1999
05 | MINNESOTA | LE SUEUR, CITY OF | 27079C0110D | 21-JUL-1999
05 | MINNESOTA | LE SUEUR, CITY OF | 27079C0120D | 21-JUL-1999
05 | MINNESOTA | MONTGOMERY, CITY OF | 27079C0200 | 21-JUL-1999
05 | MINNESOTA | MONTOGOMERY, CITY OF | 27079C0000 | 21-JUL-1999
05 | MINNESOTA | NEW PRAGUE, CITY OF | 27079C0000 | 21-JUL-1999
05 | MINNESOTA | NEW PRAGUE, CITY OF | 27079C0087D | 21-JUL-1999
05 | MINNESOTA | NEW PRAGUE, CITY OF | 27079C0088D** | 21-JUL-1999
05 | MINNESOTA | NEW PRAGUE, CITY OF | 27079C0089D** | 21-JUL-1999
05 | MINNESOTA | NEW PRAGUE, CITY OF | 27079C0091D | 21-JUL-1999
05 | MINNESOTA | NEW PRAGUE, CITY OF | 27079C0093D | 21-JUL-1999
05 | MINNESOTA | NICOLLET COUNTY * | 27103C0000 | 21-JUL-1999
05 | MINNESOTA | NICOLLET COUNTY * | 27103C0010G | 21-JUL-1999
05 | MINNESOTA | NICOLLET COUNTY * | 27103C0030G | 21-JUL-1999
05 | MINNESOTA | NICOLLET COUNTY * | 27103C0035G** | 21-JUL-1999
05 | MINNESOTA | NICOLLET COUNTY * | 27103C0040G | 21-JUL-1999
05 | MINNESOTA | NICOLLET COUNTY * | 27103C0045G | 21-JUL-1999
05 | MINNESOTA | NICOLLET COUNTY * | 27103C0065G | 21-JUL-1999
05 | MINNESOTA | NICOLLET COUNTY * | 27103C0070G | 21-JUL-1999
05 | MINNESOTA | NICOLLET COUNTY * | 27103C0180G | 21-JUL-1999
05 | MINNESOTA | NICOLLET COUNTY * | 27103C0185G | 21-JUL-1999
05 | MINNESOTA | NICOLLET COUNTY * | 27103C0190G | 21-JUL-1999
05 | MINNESOTA | NICOLLET COUNTY * | 27103C0195G | 21-JUL-1999
05 | MINNESOTA | NICOLLET COUNTY * | 27103C0205G | 21-JUL-1999
05 | MINNESOTA | NICOLLET COUNTY * | 27103C0210G | 21-JUL-1999
05 | MINNESOTA | NICOLLET COUNTY * | 27103C0230G | 21-JUL-1999
05 | MINNESOTA | NICOLLET COUNTY * | 27103C0235G | 21-JUL-1999
05 | MINNESOTA | NICOLLET COUNTY * | 27103C0240G | 21-JUL-1999
05 | MINNESOTA | NICOLLET COUNTY * | 27103C0245G | 21-JUL-1999
05 | MINNESOTA | NICOLLET COUNTY * | 27103C0265G | 21-JUL-1999
05 | MINNESOTA | NICOLLET COUNTY * | 27103C0320G | 21-JUL-1999
05 | MINNESOTA | NICOLLET COUNTY * | 27103C0325G** | 21-JUL-1999
05 | MINNESOTA | NICOLLET COUNTY * | 27103C0330G | 21-JUL-1999
05 | MINNESOTA | NICOLLET COUNTY * | 27103C0340G | 21-JUL-1999
05 | MINNESOTA | NICOLLET COUNTY * | 27103C0355G | 21-JUL-1999
05 | MINNESOTA | NICOLLET COUNTY * | 27103C0360G | 21-JUL-1999
05 | MINNESOTA | NICOLLET COUNTY * | 27103C0380G | 21-JUL-1999
05 | MINNESOTA | NICOLLET COUNTY * | 27103C0385G | 21-JUL-1999
05 | MINNESOTA | NICOLLET COUNTY * | 27103C0395G | 21-JUL-1999
05 | MINNESOTA | NICOLLET COUNTY * | 27103C0405G | 21-JUL-1999
05 | MINNESOTA | NICOLLET COUNTY * | 27103C0410G | 21-JUL-1999
05 | MINNESOTA | NICOLLET COUNTY * | 27103C0415G | 21-JUL-1999
05 | MINNESOTA | NICOLLET COUNTY * | 27103C0416G | 21-JUL-1999
05 | MINNESOTA | NICOLLET COUNTY * | 27103C0417G | 21-JUL-1999
05 | MINNESOTA | NICOLLET COUNTY * | 27103C0420G | 21-JUL-1999
05 | MINNESOTA | NICOLLET, CITY OF | 27103C0000 | 21-JUL-1999
05 | MINNESOTA | NORTH MANKATO, CITY OF | 27103C0000 | 21-JUL-1999
05 | MINNESOTA | NORTH MANKATO, CITY OF | 27103C0410G | 21-JUL-1999
05 | MINNESOTA | NORTH MANKATO, CITY OF | 27103C0415G | 21-JUL-1999
05 | MINNESOTA | NORTH MANKATO, CITY OF | 27103C0416G | 21-JUL-1999
05 | MINNESOTA | NORTH MANKATO, CITY OF | 27103C0417G | 21-JUL-1999
05 | MINNESOTA | SAUK RAPIDS, CITY OF | 2700230000 | 20-DEC-1999
05 | MINNESOTA | SAUK RAPIDS, CITY OF | 2700230001D** | 20-DEC-1999
05 | MINNESOTA | SAUK RAPIDS, CITY OF | 2700230002D** | 20-DEC-1999
05 | MINNESOTA | ST. PETER, CITY OF | 27103C0000 | 21-JUL-1999
05 | MINNESOTA | ST. PETER, CITY OF | 27103C0330G | 21-JUL-1999
05 | MINNESOTA | ST. PETER, CITY OF | 27103C0340G | 21-JUL-1999
05 | MINNESOTA | WATERVILLE, CITY OF | 27079C0000 | 21-JUL-1999
05 | MINNESOTA | WATERVILLE, CITY OF | 27079C0427D** | 21-JUL-1999
05 | MINNESOTA | WATERVILLE, CITY OF | 27079C0429D** | 21-JUL-1999
05 | MINNESOTA | WATERVILLE, CITY OF | 27079C0431D** | 21-JUL-1999
05 | MINNESOTA | WATERVILLE, CITY OF | 27079C0433D | 21-JUL-1999
05 | OHIO | ASHVILLE, VILLAGE OF | 39129C0000 | 30-SEP-1999
05 | OHIO | ASHVILLE, VILLAGE OF | 39129C0180H | 30-SEP-1999
05 | OHIO | BAY VILLAGE, CITY OF | 3900930000 | 06-DEC-1999
05 | OHIO | BAY VILLAGE, CITY OF | 3900930002C | 06-DEC-1999
05 | OHIO | CIRCLEVILLE, CITY OF | 39129C0000 | 30-SEP-1999
05 | OHIO | CIRCLEVILLE, CITY OF | 39129C0200H** | 30-SEP-1999
05 | OHIO | CIRCLEVILLE, CITY OF | 39129C0302H | 30-SEP-1999
05 | OHIO | CIRCLEVILLE, CITY OF | 39129C0306H | 30-SEP-1999
05 | OHIO | CIRCLEVILLE, CITY OF | 39129C0307H | 30-SEP-1999
05 | OHIO | CIRCLEVILLE, CITY OF | 39129C0308H | 30-SEP-1999
05 | OHIO | CIRCLEVILLE, CITY OF | 39129C0309H | 30-SEP-1999
05 | OHIO | CIRCLEVILLE, CITY OF | 39129C0325H | 30-SEP-1999
05 | OHIO | COMMERCIAL POINT, VILLAGE OF | 39129C0000 | 30-SEP-1999
05 | OHIO | COMMERCIAL POINT, VILLAGE OF | 39129C0050H | 30-SEP-1999
05 | OHIO | DARBYVILLE, VILLAGE OF | 39129C0000 | 30-SEP-1999
05 | OHIO | DARBYVILLE, VILLAGE OF | 39129C0155H** | 30-SEP-1999
05 | OHIO | HARRISBURG, VILLAGE OF | 39129C0000 | 30-SEP-1999
05 | OHIO | HARRISBURG, VILLAGE OF | 39129C0025H** | 30-SEP-1999
05 | OHIO | NEW HOLLAND, VILLAGE OF | 39129C0000 | 30-SEP-1999
05 | OHIO | NEW HOLLAND, VILLAGE OF | 39129C0250H** | 30-SEP-1999
05 | OHIO | NEW HOLLAND, VILLAGE OF | 39129C0275H | 30-SEP-1999
05 | OHIO | ORIENT, VILLAGE OF | 39129C0000 | 30-SEP-1999
05 | OHIO | ORIENT, VILLAGE OF | 39129C0025H** | 30-SEP-1999
05 | OHIO | PICKAWAY COUNTY * | 39129C0000 | 30-SEP-1999
05 | OHIO | PICKAWAY COUNTY * | 39129C0025H** | 30-SEP-1999
05 | OHIO | PICKAWAY COUNTY * | 39129C0050H | 30-SEP-1999
05 | OHIO | PICKAWAY COUNTY * | 39129C0075H | 30-SEP-1999
05 | OHIO | PICKAWAY COUNTY * | 39129C0087H | 30-SEP-1999
05 | OHIO | PICKAWAY COUNTY * | 39129C0125H** | 30-SEP-1999
05 | OHIO | PICKAWAY COUNTY * | 39129C0150H** | 30-SEP-1999
05 | OHIO | PICKAWAY COUNTY * | 39129C0155H** | 30-SEP-1999
05 | OHIO | PICKAWAY COUNTY * | 39129C0175H | 30-SEP-1999
05 | OHIO | PICKAWAY COUNTY * | 39129C0180H | 30-SEP-1999
05 | OHIO | PICKAWAY COUNTY * | 39129C0200H** | 30-SEP-1999
05 | OHIO | PICKAWAY COUNTY * | 39129C0225H** | 30-SEP-1999
05 | OHIO | PICKAWAY COUNTY * | 39129C0250H** | 30-SEP-1999
05 | OHIO | PICKAWAY COUNTY * | 39129C0275H | 30-SEP-1999
05 | OHIO | PICKAWAY COUNTY * | 39129C0300H** | 30-SEP-1999
05 | OHIO | PICKAWAY COUNTY * | 39129C0302H | 30-SEP-1999
05 | OHIO | PICKAWAY COUNTY * | 39129C0306H | 30-SEP-1999
05 | OHIO | PICKAWAY COUNTY * | 39129C0307H | 30-SEP-1999
05 | OHIO | PICKAWAY COUNTY * | 39129C0308H | 30-SEP-1999
05 | OHIO | PICKAWAY COUNTY * | 39129C0309H | 30-SEP-1999
05 | OHIO | PICKAWAY COUNTY * | 39129C0325H | 30-SEP-1999
05 | OHIO | PICKAWAY COUNTY * | 39129C0350H** | 30-SEP-1999
05 | OHIO | PICKAWAY COUNTY * | 39129C0375H** | 30-SEP-1999
05 | OHIO | PICKAWAY COUNTY * | 39129C0400H** | 30-SEP-1999
05 | OHIO | PICKAWAY COUNTY * | 39129C0425H** | 30-SEP-1999
05 | OHIO | PICKAWAY COUNTY * | 39129C0450H** | 30-SEP-1999
05 | OHIO | SOLON, CITY OF | 3901300000** | 21-JUL-1999
05 | OHIO | SOLON, CITY OF | 3901300007C** | 21-JUL-1999
05 | OHIO | SOUTH BLOOMFIELD, VILLAGE OF | 39129C0000 | 30-SEP-1999
05 | OHIO | SOUTH BLOOMFIELD, VILLAGE OF | 39129C0175H | 30-SEP-1999
05 | OHIO | SOUTH BLOOMFIELD, VILLAGE OF | 39129C0180H | 30-SEP-1999
05 | OHIO | TARLTON, VILLAGE OF | 39129C0000 | 30-SEP-1999
05 | OHIO | TARLTON, VILLAGE OF | 39129C0350H** | 30-SEP-1999
05 | OHIO | WILLIAMSPORT, VILLAGE OF | 39129C0000 | 30-SEP-1999
05 | OHIO | WILLIAMSPORT, VILLAGE OF | 39129C0275H | 30-SEP-1999
05 | OHIO | WILLIAMSPORT, VILLAGE OF | 39129C0300H** | 30-SEP-1999
05 | WISCONSIN | BLUE RIVER, VILLAGE OF | 5501470001B | 09-AUG-1999
05 | WISCONSIN | GRANT COUNTY * | 5555570000 | 20-DEC-1999
05 | WISCONSIN | GRANT COUNTY * | 5555570025C | 20-DEC-1999
05 | WISCONSIN | GRANT COUNTY * | 5555570050C | 20-DEC-1999
05 | WISCONSIN | GRANT COUNTY * | 5555570075C** | 20-DEC-1999
05 | WISCONSIN | GRANT COUNTY * | 5555570150C | 20-DEC-1999
05 | WISCONSIN | GRANT COUNTY * | 5555570175C** | 20-DEC-1999
05 | WISCONSIN | MUSCODA, VILLAGE OF | 5501530001B | 08-SEP-1999
05 | WISCONSIN | OZAUKEE COUNTY * | 55089C0000 | 06-DEC-1999
05 | WISCONSIN | OZAUKEE COUNTY * | 55089C0050E | 06-DEC-1999
05 | WISCONSIN | OZAUKEE COUNTY * | 55089C0056E** | 06-DEC-1999
05 | WISCONSIN | PORT WASHINGTON, CITY OF | 55089C0000 | 06-DEC-1999
05 | WISCONSIN | PORT WASHINGTON, CITY OF | 55089C0050E | 06-DEC-1999
05 | WISCONSIN | PORT WASHINGTON, CITY OF | 55089C0056E | 06-DEC-1999
05 | WISCONSIN | SAUKVILLE, VILLAGE OF | 55089C0000 | 06-DEC-1999
05 | WISCONSIN | SAUKVILLE, VILLAGE OF | 55089C0056E** | 06-DEC-1999
06 | AR | ALMA, CITY OF | 05033CIND0 ** | 23-AUG-1999
06 | AR | CHESTER, TOWN OF | 05033CIND0 ** | 23-AUG-1999
06 | AR | CRAWFORD COUNTY * | 05033C0170G | 23-AUG-1999
06 | AR | CRAWFORD COUNTY * | 05033CIND0 ** | 23-AUG-1999
06 | AR | CRITTENDEN COUNTY | 0504290025C | 23-AUG-1999
06 | AR | CRITTENDEN COUNTY | 0504290100C | 23-AUG-1999
06 | AR | CRITTENDEN COUNTY | 050429IND0 ** | 23-AUG-1999
06 | AR | DYER, TOWN OF | 05033CIND0 ** | 23-AUG-1999
06 | AR | EARLE, CITY OF | 0500540005D | 23-AUG-1999
06 | AR | ELKINS, CITY OF | 05143CIND0 ** | 21-JUL-1999
06 | AR | ELM SPRINGS, TOWN OF | 05143CIND0 ** | 21-JUL-1999
06 | AR | FARMINGTON, CITY OF | 05143C0090D | 21-JUL-1999
06 | AR | FARMINGTON, CITY OF | 05143C0095D | 21-JUL-1999
06 | AR | FARMINGTON, CITY OF | 05143CIND0 ** | 21-JUL-1999
06 | AR | FAYETTEVILLE, CITY OF | 05143C0082D | 21-JUL-1999
06 | AR | FAYETTEVILLE, CITY OF | 05143C0084D | 21-JUL-1999
06 | AR | FAYETTEVILLE, CITY OF | 05143C0085D | 21-JUL-1999
06 | AR | FAYETTEVILLE, CITY OF | 05143C0092D | 21-JUL-1999
06 | AR | FAYETTEVILLE, CITY OF | 05143C0094D | 21-JUL-1999
06 | AR | FAYETTEVILLE, CITY OF | 05143C0095D | 21-JUL-1999
06 | AR | FAYETTEVILLE, CITY OF | 05143C0101E | 21-JUL-1999
06 | AR | FAYETTEVILLE, CITY OF | 05143CIND0 ** | 21-JUL-1999
06 | AR | GOSHEN, TOWN OF | 05143CIND0 ** | 21-JUL-1999
06 | AR | GREENLAND, CITY OF | 05143C0094D | 21-JUL-1999
06 | AR | GREENLAND, CITY OF | 05143CIND0 ** | 21-JUL-1999
06 | AR | HOLLY GROVE, CITY OF | 0501570001C | 21-JUL-1999
06 | AR | JOHNSON, CITY OF | 05143C0082D | 21-JUL-1999
06 | AR | JOHNSON, CITY OF | 05143CIND0 ** | 21-JUL-1999
06 | AR | KIBLER, CITY OF | 05033CIND0 ** | 23-AUG-1999
06 | AR | LINCOLN, CITY OF | 05143CIND0 ** | 21-JUL-1999
06 | AR | MONROE COUNTY | 050154 C | 21-JUL-1999
06 | AR | MOUNTAINBURG, CITY OF | 05033CIND0 ** | 23-AUG-1999
06 | AR | MULBERRY, CITY OF | 05033CIND0 ** | 23-AUG-1999
06 | AR | PRAIIE GROVE, CITY OF | 05143CIND0 ** | 21-JUL-1999
06 | AR | RUDY, TOWN OF | 05033CIND0 ** | 23-AUG-1999
06 | AR | SPRINGDALE, CITY OF | 05143C0082D | 21-JUL-1999
06 | AR | SPRINGDALE, CITY OF | 05143C0085D | 21-JUL-1999
06 | AR | SPRINGDALE, CITY OF | 05143C0101E | 21-JUL-1999
06 | AR | TONTITOWN, TOWN OF | 05143CIND0 ** | 21-JUL-1999
06 | AR | VAN BUREN, CITY OF | 05033C0170G | 23-AUG-1999
06 | AR | VAN BUREN, CITY OF | 05033CIND0 ** | 23-AUG-1999
06 | AR | WASHINGTON COUNTY | 05143C0079D | 21-JUL-1999
06 | AR | WASHINGTON COUNTY | 05143C0080D** | 21-JUL-1999
06 | AR | WASHINGTON COUNTY | 05143C0082D | 21-JUL-1999
06 | AR | WASHINGTON COUNTY | 05143C0083D | 21-JUL-1999
06 | AR | WASHINGTON COUNTY | 05143C0084D | 21-JUL-1999
06 | AR | WASHINGTON COUNTY | 05143C0085D** | 21-JUL-1999
06 | AR | WASHINGTON COUNTY | 05143C0087D | 21-JUL-1999
06 | AR | WASHINGTON COUNTY | 05143C0090D** | 21-JUL-1999
06 | AR | WASHINGTON COUNTY | 05143C0091D | 21-JUL-1999
06 | AR | WASHINGTON COUNTY | 05143C0092D | 21-JUL-1999
06 | AR | WASHINGTON COUNTY | 05143C0094D | 21-JUL-1999
06 | AR | WASHINGTON COUNTY | 05143C0095D** | 21-JUL-1999
06 | AR | WASHINGTON COUNTY | 05143C0101E | 21-JUL-1999
06 | AR | WASHINGTON COUNTY | 05143C0103D | 21-JUL-1999
06 | AR | WASHINGTON COUNTY | 05143CIND0 ** | 21-JUL-1999
06 | AR | WEST FORK, CITY OF | 05143CIND0 ** | 21-JUL-1999
06 | AR | WINSLOW, CITY OF | 05143CIND0 ** | 21-JUL-1999
06 | LA | BALL, TOWN OF | 2203730005D | 22-NOV-1999
06 | LA | FARMERVILLE, TOWN OF | 2203250005C | 22-NOV-1999
06 | LA | HAMMOND, CITY OF | 2202080001D | 21-JUL-1999
06 | LA | HAMMOND, CITY OF | 2202080002D | 21-JUL-1999
06 | LA | HAMMOND, CITY OF | 2202080003C | 21-JUL-1999
06 | LA | HAMMOND, CITY OF | 2202080004C** | 21-JUL-1999
06 | LA | HAMMOND, CITY OF | 2202080006C | 21-JUL-1999
06 | LA | HAMMOND, CITY OF | 220208IND0 ** | 21-JUL-1999
06 | LA | LINCOLN PARISH* | 2203660002C | 22-NOV-1999
06 | LA | LINCOLN PARISH* | 220366IND0 ** | 22-NOV-1999
06 | LA | PONCHATOULA, TOWN OF | 2202110005D | 21-JUL-1999
06 | LA | UNION PARISH* | 2203590025C | 22-NOV-1999
06 | LA | UNION PARISH* | 2203590050C | 22-NOV-1999
06 | LA | UNION PARISH* | 2203590075C** | 22-NOV-1999
06 | LA | UNION PARISH* | 2203590100C** | 22-NOV-1999
06 | LA | UNION PARISH* | 2203590125C | 22-NOV-1999
06 | LA | UNION PARISH* | 2203590150C | 22-NOV-1999
06 | LA | UNION PARISH* | 2203590175C | 22-NOV-1999
06 | LA | UNION PARISH* | 2203590200C** | 22-NOV-1999
06 | LA | UNION PARISH* | 2203590225C | 22-NOV-1999
06 | LA | UNION PARISH* | 2203590250C | 22-NOV-1999
06 | LA | UNION PARISH* | 2203590275C | 22-NOV-1999
06 | LA | UNION PARISH* | 2203590300C** | 22-NOV-1999
06 | LA | UNION PARISH* | 220359IND0 ** | 22-NOV-1999
06 | NM | CLOVIS, CITY OF | 3500100033C | 23-AUG-1999
06 | NM | CLOVIS, CITY OF | 3500100036C | 23-AUG-1999
06 | NM | CLOVIS, CITY OF | 3500100037C | 23-AUG-1999
06 | NM | CLOVIS, CITY OF | 3500100038C | 23-AUG-1999
06 | NM | CLOVIS, CITY OF | 3500100039C | 23-AUG-1999
06 | NM | CLOVIS, CITY OF | 3500100041C | 23-AUG-1999
06 | NM | CLOVIS, CITY OF | 3500100043C | 23-AUG-1999
06 | NM | CLOVIS, CITY OF | 3500100044C | 23-AUG-1999
06 | NM | CLOVIS, CITY OF | 350010IND0 ** | 23-AUG-1999
06 | OK | BIXBY, TOWN OF | 40143C0520H | 22-SEP-1999
06 | OK | BIXBY, TOWN OF | 40143C0540H | 22-SEP-1999
06 | OK | BIXBY, TOWN OF | 40143C0603H | 22-SEP-1999
06 | OK | BIXBY, TOWN OF | 40143C0605H | 22-SEP-1999
06 | OK | BIXBY, TOWN OF | 40143C0610H | 22-SEP-1999
06 | OK | BIXBY, TOWN OF | 40143C0620H | 22-SEP-1999
06 | OK | BIXBY, TOWN OF | 40143C0630H | 22-SEP-1999
06 | OK | BIXBY, TOWN OF | 40143C0635H | 22-SEP-1999
06 | OK | BIXBY, TOWN OF | 40143C0640H | 22-SEP-1999
06 | OK | BIXBY, TOWN OF | 40143C0645H | 22-SEP-1999
06 | OK | BIXBY, TOWN OF | 40143C0680H | 22-SEP-1999
06 | OK | BIXBY, TOWN OF | 40143C0685H | 22-SEP-1999
06 | OK | BIXBY, TOWN OF | 40143C0705H | 22-SEP-1999
06 | OK | BIXBY, TOWN OF | 40143CIND0 ** | 22-SEP-1999
06 | OK | BROKEN ARROW, CITY OF | 40143C0530H | 22-SEP-1999
06 | OK | BROKEN ARROW, CITY OF | 40143C0534H | 22-SEP-1999
06 | OK | BROKEN ARROW, CITY OF | 40143C0535H | 22-SEP-1999
06 | OK | BROKEN ARROW, CITY OF | 40143C0540H | 22-SEP-1999
06 | OK | BROKEN ARROW, CITY OF | 40143C0541H | 22-SEP-1999
06 | OK | BROKEN ARROW, CITY OF | 40143C0542H | 22-SEP-1999
06 | OK | BROKEN ARROW, CITY OF | 40143C0543H | 22-SEP-1999
06 | OK | BROKEN ARROW, CITY OF | 40143C0544H | 22-SEP-1999
06 | OK | BROKEN ARROW, CITY OF | 40143C0554H | 22-SEP-1999
06 | OK | BROKEN ARROW, CITY OF | 40143C0558H | 22-SEP-1999
06 | OK | BROKEN ARROW, CITY OF | 40143C0561H | 22-SEP-1999
06 | OK | BROKEN ARROW, CITY OF | 40143C0562H | 22-SEP-1999
06 | OK | BROKEN ARROW, CITY OF | 40143C0564H | 22-SEP-1999
06 | OK | BROKEN ARROW, CITY OF | 40143C0566H | 22-SEP-1999
06 | OK | BROKEN ARROW, CITY OF | 40143C0568H | 22-SEP-1999
06 | OK | BROKEN ARROW, CITY OF | 40143C0630H | 22-SEP-1999
06 | OK | BROKEN ARROW, CITY OF | 40143C0631H | 22-SEP-1999
06 | OK | BROKEN ARROW, CITY OF | 40143C0632H | 22-SEP-1999
06 | OK | BROKEN ARROW, CITY OF | 40143C0635H | 22-SEP-1999
06 | OK | BROKEN ARROW, CITY OF | 40143C0640H | 22-SEP-1999
06 | OK | BROKEN ARROW, CITY OF | 40143C0645H | 22-SEP-1999
06 | OK | BROKEN ARROW, CITY OF | 40143CIND0 ** | 22-SEP-1999
06 | OK | COLLINSVILLE, CITY OF | 40143C0095H | 22-SEP-1999
06 | OK | COLLINSVILLE, CITY OF | 40143C0113H | 22-SEP-1999
06 | OK | COLLINSVILLE, CITY OF | 40143C0114H | 22-SEP-1999
06 | OK | COLLINSVILLE, CITY OF | 40143C0115H | 22-SEP-1999
06 | OK | COLLINSVILLE, CITY OF | 40143C0116H | 22-SEP-1999
06 | OK | COLLINSVILLE, CITY OF | 40143C0118H | 22-SEP-1999
06 | OK | COLLINSVILLE, CITY OF | 40143C0210H | 22-SEP-1999
06 | OK | COLLINSVILLE, CITY OF | 40143C0226H | 22-SEP-1999
06 | OK | COLLINSVILLE, CITY OF | 40143C0227H | 22-SEP-1999
06 | OK | COLLINSVILLE, CITY OF | 40143C0228H | 22-SEP-1999
06 | OK | COLLINSVILLE, CITY OF | 40143C0229H | 22-SEP-1999
06 | OK | COLLINSVILLE, CITY OF | 40143C0231H | 22-SEP-1999
06 | OK | COLLINSVILLE, CITY OF | 40143C0233H | 22-SEP-1999
06 | OK | COLLINSVILLE, CITY OF | 40143CIND0 ** | 22-SEP-1999
06 | OK | GLENPOOL, TOWN OF | 40143C0582H | 22-SEP-1999
06 | OK | GLENPOOL, TOWN OF | 40143C0584H | 22-SEP-1999
06 | OK | GLENPOOL, TOWN OF | 40143C0595H | 22-SEP-1999
06 | OK | GLENPOOL, TOWN OF | 40143C0601H | 22-SEP-1999
06 | OK | GLENPOOL, TOWN OF | 40143C0603H | 22-SEP-1999
06 | OK | GLENPOOL, TOWN OF | 40143C0605H | 22-SEP-1999
06 | OK | GLENPOOL, TOWN OF | 40143C0660H | 22-SEP-1999
06 | OK | GLENPOOL, TOWN OF | 40143C0680H | 22-SEP-1999
06 | OK | GLENPOOL, TOWN OF | 40143CIND0 ** | 22-SEP-1999
06 | OK | JENKS, CITY OF | 40143C0492H | 22-SEP-1999
06 | OK | JENKS, CITY OF | 40143C0494H | 22-SEP-1999
06 | OK | JENKS, CITY OF | 40143C0511H | 22-SEP-1999
06 | OK | JENKS, CITY OF | 40143C0512H | 22-SEP-1999
06 | OK | JENKS, CITY OF | 40143C0513H | 22-SEP-1999
06 | OK | JENKS, CITY OF | 40143C0514H | 22-SEP-1999
06 | OK | JENKS, CITY OF | 40143C0582H | 22-SEP-1999
06 | OK | JENKS, CITY OF | 40143C0601H | 22-SEP-1999
06 | OK | JENKS, CITY OF | 40143C0603H | 22-SEP-1999
06 | OK | JENKS, CITY OF | 40143C0605H | 22-SEP-1999
06 | OK | JENKS, CITY OF | 40143C0610H | 22-SEP-1999
06 | OK | JENKS, CITY OF | 40143CIND0 ** | 22-SEP-1999
06 | OK | KAY COUNTY* | 40143C0477H | 22-SEP-1999
06 | OK | LIBERTY, TOWN OF | 40143C0660H | 22-SEP-1999
06 | OK | LIBERTY, TOWN OF | 40143C0680H | 22-SEP-1999
06 | OK | LIBERTY, TOWN OF | 40143C0685H | 22-SEP-1999
06 | OK | LIBERTY, TOWN OF | 40143CIND0 ** | 22-SEP-1999
06 | OK | LINCOLN COUNTY* | 4004570165B | 06-DEC-1999
06 | OK | LINCOLN COUNTY* | 4004570175B ** | 06-DEC-1999
06 | OK | LINCOLN COUNTY* | 400457IND0 ** | 06-DEC-1999
06 | OK | LOTSEE, VILLAGE OF | 40143C0315H | 22-SEP-1999
06 | OK | LOTSEE, VILLAGE OF | 40143CIND0 ** | 22-SEP-1999
06 | OK | NEWCASTLE, TOWN OF | 4001030003F | 22-NOV-1999
06 | OK | NEWCASTLE, TOWN OF | 4001030005E | 22-NOV-1999
06 | OK | NEWCASTLE, TOWN OF | 4001030006E | 22-NOV-1999
06 | OK | NEWCASTLE, TOWN OF | 4001030007F | 22-NOV-1999
06 | OK | NEWCASTLE, TOWN OF | 4001030009E | 22-NOV-1999
06 | OK | NEWCASTLE, TOWN OF | 400103IND0 ** | 22-NOV-1999
06 | OK | OWASSO, CITY OF | 40143C0210H | 22-SEP-1999
06 | OK | OWASSO, CITY OF | 40143C0220H | 22-SEP-1999
06 | OK | OWASSO, CITY OF | 40143C0228H | 22-SEP-1999
06 | OK | OWASSO, CITY OF | 40143C0229H | 22-SEP-1999
06 | OK | OWASSO, CITY OF | 40143C0233H | 22-SEP-1999
06 | OK | OWASSO, CITY OF | 40143C0236H | 22-SEP-1999
06 | OK | OWASSO, CITY OF | 40143C0237H | 22-SEP-1999
06 | OK | OWASSO, CITY OF | 40143C0238H | 22-SEP-1999
06 | OK | OWASSO, CITY OF | 40143C0239H | 22-SEP-1999
06 | OK | OWASSO, CITY OF | 40143C0245H | 22-SEP-1999
06 | OK | OWASSO, CITY OF | 40143C0360H | 22-SEP-1999
06 | OK | OWASSO, CITY OF | 40143C0380H | 22-SEP-1999
06 | OK | OWASSO, CITY OF | 40143CIND0 ** | 22-SEP-1999
06 | OK | SAND SPRINGS, CITY OF | 40143C0190H | 22-SEP-1999
06 | OK | SAND SPRINGS, CITY OF | 40143C0295H | 22-SEP-1999
06 | OK | SAND SPRINGS, CITY OF | 40143C0305H | 22-SEP-1999
06 | OK | SAND SPRINGS, CITY OF | 40143C0310H | 22-SEP-1999
06 | OK | SAND SPRINGS, CITY OF | 40143C0315H | 22-SEP-1999
06 | OK | SAND SPRINGS, CITY OF | 40143C0320H | 22-SEP-1999
06 | OK | SAND SPRINGS, CITY OF | 40143C0330H | 22-SEP-1999
06 | OK | SAND SPRINGS, CITY OF | 40143C0336H | 22-SEP-1999
06 | OK | SAND SPRINGS, CITY OF | 40143C0337H | 22-SEP-1999
06 | OK | SAND SPRINGS, CITY OF | 40143C0338H | 22-SEP-1999
06 | OK | SAND SPRINGS, CITY OF | 40143C0339H | 22-SEP-1999
06 | OK | SAND SPRINGS, CITY OF | 40143C0455H | 22-SEP-1999
06 | OK | SAND SPRINGS, CITY OF | 40143C0457H | 22-SEP-1999
06 | OK | SAND SPRINGS, CITY OF | 40143C0459H | 22-SEP-1999
06 | OK | SAND SPRINGS, CITY OF | 40143C0460H | 22-SEP-1999
06 | OK | SAND SPRINGS, CITY OF | 40143C0476H | 22-SEP-1999
06 | OK | SAND SPRINGS, CITY OF | 40143C0477H | 22-SEP-1999
06 | OK | SAND SPRINGS, CITY OF | 40143CIND0 ** | 22-SEP-1999
06 | OK | SKIATOOK, TOWN OF | 40143C0070H | 22-SEP-1999
06 | OK | SKIATOOK, TOWN OF | 40143C0090H | 22-SEP-1999
06 | OK | SKIATOOK, TOWN OF | 40143C0095H | 22-SEP-1999
06 | OK | SKIATOOK, TOWN OF | 40143C0180H | 22-SEP-1999
06 | OK | SKIATOOK, TOWN OF | 40143C0182H | 22-SEP-1999
06 | OK | SKIATOOK, TOWN OF | 40143C0184H | 22-SEP-1999
06 | OK | SKIATOOK, TOWN OF | 40143C0190H | 22-SEP-1999
06 | OK | SKIATOOK, TOWN OF | 40143C0201H | 22-SEP-1999
06 | OK | SKIATOOK, TOWN OF | 40143C0202H | 22-SEP-1999
06 | OK | SKIATOOK, TOWN OF | 40143C0203H | 22-SEP-1999
06 | OK | SKIATOOK, TOWN OF | 40143C0204H | 22-SEP-1999
06 | OK | SKIATOOK, TOWN OF | 40143C0210H | 22-SEP-1999
06 | OK | SKIATOOK, TOWN OF | 40143CIND0 ** | 22-SEP-1999
06 | OK | SPERRY, TOWN OF | 40143C0211H | 22-SEP-1999
06 | OK | SPERRY, TOWN OF | 40143C0212H | 22-SEP-1999
06 | OK | SPERRY, TOWN OF | 40143C0213H | 22-SEP-1999
06 | OK | SPERRY, TOWN OF | 40143CIND0 ** | 22-SEP-1999
06 | OK | TULSA COUNTY * | 40143C0070H | 22-SEP-1999
06 | OK | TULSA COUNTY * | 40143C0090H | 22-SEP-1999
06 | OK | TULSA COUNTY * | 40143C0095H | 22-SEP-1999
06 | OK | TULSA COUNTY * | 40143C0113H | 22-SEP-1999
06 | OK | TULSA COUNTY * | 40143C0114H | 22-SEP-1999
06 | OK | TULSA COUNTY * | 40143C0115H | 22-SEP-1999
06 | OK | TULSA COUNTY * | 40143C0116H | 22-SEP-1999
06 | OK | TULSA COUNTY * | 40143C0118H | 22-SEP-1999
06 | OK | TULSA COUNTY * | 40143C0180H | 22-SEP-1999
06 | OK | TULSA COUNTY * | 40143C0182H | 22-SEP-1999
06 | OK | TULSA COUNTY * | 40143C0184H | 22-SEP-1999
06 | OK | TULSA COUNTY * | 40143C0190H | 22-SEP-1999
06 | OK | TULSA COUNTY * | 40143C0195H | 22-SEP-1999
06 | OK | TULSA COUNTY * | 40143C0201H | 22-SEP-1999
06 | OK | TULSA COUNTY * | 40143C0202H | 22-SEP-1999
06 | OK | TULSA COUNTY * | 40143C0203H | 22-SEP-1999
06 | OK | TULSA COUNTY * | 40143C0204H | 22-SEP-1999
06 | OK | TULSA COUNTY * | 40143C0210H | 22-SEP-1999
06 | OK | TULSA COUNTY * | 40143C0211H | 22-SEP-1999
06 | OK | TULSA COUNTY * | 40143C0212H | 22-SEP-1999
06 | OK | TULSA COUNTY * | 40143C0213H | 22-SEP-1999
06 | OK | TULSA COUNTY * | 40143C0214H | 22-SEP-1999
06 | OK | TULSA COUNTY * | 40143C0220H | 22-SEP-1999
06 | OK | TULSA COUNTY * | 40143C0226H | 22-SEP-1999
06 | OK | TULSA COUNTY * | 40143C0227H | 22-SEP-1999
06 | OK | TULSA COUNTY * | 40143C0228H | 22-SEP-1999
06 | OK | TULSA COUNTY * | 40143C0229H | 22-SEP-1999
06 | OK | TULSA COUNTY * | 40143C0231H | 22-SEP-1999
06 | OK | TULSA COUNTY * | 40143C0233H | 22-SEP-1999
06 | OK | TULSA COUNTY * | 40143C0236H | 22-SEP-1999
06 | OK | TULSA COUNTY * | 40143C0237H | 22-SEP-1999
06 | OK | TULSA COUNTY * | 40143C0238H | 22-SEP-1999
06 | OK | TULSA COUNTY * | 40143C0239H | 22-SEP-1999
06 | OK | TULSA COUNTY * | 40143C0245H | 22-SEP-1999
06 | OK | TULSA COUNTY * | 40143C0295H | 22-SEP-1999
06 | OK | TULSA COUNTY * | 40143C0305H | 22-SEP-1999
06 | OK | TULSA COUNTY * | 40143C0310H | 22-SEP-1999
06 | OK | TULSA COUNTY * | 40143C0315H | 22-SEP-1999
06 | OK | TULSA COUNTY * | 40143C0320H | 22-SEP-1999
06 | OK | TULSA COUNTY * | 40143C0330H | 22-SEP-1999
06 | OK | TULSA COUNTY * | 40143C0335H | 22-SEP-1999
06 | OK | TULSA COUNTY * | 40143C0336H | 22-SEP-1999
06 | OK | TULSA COUNTY * | 40143C0337H | 22-SEP-1999
06 | OK | TULSA COUNTY * | 40143C0338H | 22-SEP-1999
06 | OK | TULSA COUNTY * | 40143C0339H | 22-SEP-1999
06 | OK | TULSA COUNTY * | 40143C0345H | 22-SEP-1999
06 | OK | TULSA COUNTY * | 40143C0355H | 22-SEP-1999
06 | OK | TULSA COUNTY * | 40143C0360H | 22-SEP-1999
06 | OK | TULSA COUNTY * | 40143C0365H | 22-SEP-1999
06 | OK | TULSA COUNTY * | 40143C0370H | 22-SEP-1999
06 | OK | TULSA COUNTY * | 40143C0380H | 22-SEP-1999
06 | OK | TULSA COUNTY * | 40143C0390H | 22-SEP-1999
06 | OK | TULSA COUNTY * | 40143C0395H | 22-SEP-1999
06 | OK | TULSA COUNTY * | 40143C0435H | 22-SEP-1999
06 | OK | TULSA COUNTY * | 40143C0455H | 22-SEP-1999
06 | OK | TULSA COUNTY * | 40143C0457H | 22-SEP-1999
06 | OK | TULSA COUNTY * | 40143C0459H | 22-SEP-1999
06 | OK | TULSA COUNTY * | 40143C0460H | 22-SEP-1999
06 | OK | TULSA COUNTY * | 40143C0476H | 22-SEP-1999
06 | OK | TULSA COUNTY * | 40143C0477H | 22-SEP-1999
06 | OK | TULSA COUNTY * | 40143C0485H | 22-SEP-1999
06 | OK | TULSA COUNTY * | 40143C0492H | 22-SEP-1999
06 | OK | TULSA COUNTY * | 40143C0494H | 22-SEP-1999
06 | OK | TULSA COUNTY * | 40143C0505H | 22-SEP-1999
06 | OK | TULSA COUNTY * | 40143C0510H | 22-SEP-1999
06 | OK | TULSA COUNTY * | 40143C0511H | 22-SEP-1999
06 | OK | TULSA COUNTY * | 40143C0512H | 22-SEP-1999
06 | OK | TULSA COUNTY * | 40143C0513H | 22-SEP-1999
06 | OK | TULSA COUNTY * | 40143C0514H | 22-SEP-1999
06 | OK | TULSA COUNTY * | 40143C0520H | 22-SEP-1999
06 | OK | TULSA COUNTY * | 40143C0530H | 22-SEP-1999
06 | OK | TULSA COUNTY * | 40143C0534H | 22-SEP-1999
06 | OK | TULSA COUNTY * | 40143C0535H | 22-SEP-1999
06 | OK | TULSA COUNTY * | 40143C0540H | 22-SEP-1999
06 | OK | TULSA COUNTY * | 40143C0541H | 22-SEP-1999
06 | OK | TULSA COUNTY * | 40143C0542H | 22-SEP-1999
06 | OK | TULSA COUNTY * | 40143C0543H | 22-SEP-1999
06 | OK | TULSA COUNTY * | 40143C0544H | 22-SEP-1999
06 | OK | TULSA COUNTY * | 40143C0553H | 22-SEP-1999
06 | OK | TULSA COUNTY * | 40143C0554H | 22-SEP-1999
06 | OK | TULSA COUNTY * | 40143C0558H | 22-SEP-1999
06 | OK | TULSA COUNTY * | 40143C0561H | 22-SEP-1999
06 | OK | TULSA COUNTY * | 40143C0562H | 22-SEP-1999
06 | OK | TULSA COUNTY * | 40143C0564H | 22-SEP-1999
06 | OK | TULSA COUNTY * | 40143C0566H | 22-SEP-1999
06 | OK | TULSA COUNTY * | 40143C0568H | 22-SEP-1999
06 | OK | TULSA COUNTY * | 40143C0582H | 22-SEP-1999
06 | OK | TULSA COUNTY * | 40143C0584H | 22-SEP-1999
06 | OK | TULSA COUNTY * | 40143C0595H | 22-SEP-1999
06 | OK | TULSA COUNTY * | 40143C0601H | 22-SEP-1999
06 | OK | TULSA COUNTY * | 40143C0603H | 22-SEP-1999
06 | OK | TULSA COUNTY * | 40143C0605H | 22-SEP-1999
06 | OK | TULSA COUNTY * | 40143C0610H | 22-SEP-1999
06 | OK | TULSA COUNTY * | 40143C0620H | 22-SEP-1999
06 | OK | TULSA COUNTY * | 40143C0630H | 22-SEP-1999
06 | OK | TULSA COUNTY * | 40143C0631H | 22-SEP-1999
06 | OK | TULSA COUNTY * | 40143C0632H | 22-SEP-1999
06 | OK | TULSA COUNTY * | 40143C0635H | 22-SEP-1999
06 | OK | TULSA COUNTY * | 40143C0640H | 22-SEP-1999
06 | OK | TULSA COUNTY * | 40143C0645H | 22-SEP-1999
06 | OK | TULSA COUNTY * | 40143C0660H | 22-SEP-1999
06 | OK | TULSA COUNTY * | 40143C0680H | 22-SEP-1999
06 | OK | TULSA COUNTY * | 40143C0685H | 22-SEP-1999
06 | OK | TULSA COUNTY * | 40143C0705H | 22-SEP-1999
06 | OK | TULSA COUNTY * | 40143CIND0 ** | 22-SEP-1999
06 | OK | TULSA, CITY OF | 40143C0204H | 22-SEP-1999
06 | OK | TULSA, CITY OF | 40143C0210H | 22-SEP-1999
06 | OK | TULSA, CITY OF | 40143C0220H | 22-SEP-1999
06 | OK | TULSA, CITY OF | 40143C0330H | 22-SEP-1999
06 | OK | TULSA, CITY OF | 40143C0335H | 22-SEP-1999
06 | OK | TULSA, CITY OF | 40143C0337H | 22-SEP-1999
06 | OK | TULSA, CITY OF | 40143C0339H | 22-SEP-1999
06 | OK | TULSA, CITY OF | 40143C0345H | 22-SEP-1999
06 | OK | TULSA, CITY OF | 40143C0355H | 22-SEP-1999
06 | OK | TULSA, CITY OF | 40143C0360H | 22-SEP-1999
06 | OK | TULSA, CITY OF | 40143C0365H | 22-SEP-1999
06 | OK | TULSA, CITY OF | 40143C0370H | 22-SEP-1999
06 | OK | TULSA, CITY OF | 40143C0380H | 22-SEP-1999
06 | OK | TULSA, CITY OF | 40143C0390H | 22-SEP-1999
06 | OK | TULSA, CITY OF | 40143C0395H | 22-SEP-1999
06 | OK | TULSA, CITY OF | 40143C0485H | 22-SEP-1999
06 | OK | TULSA, CITY OF | 40143C0492H | 22-SEP-1999
06 | OK | TULSA, CITY OF | 40143C0505H | 22-SEP-1999
06 | OK | TULSA, CITY OF | 40143C0510H | 22-SEP-1999
06 | OK | TULSA, CITY OF | 40143C0511H | 22-SEP-1999
06 | OK | TULSA, CITY OF | 40143C0512H | 22-SEP-1999
06 | OK | TULSA, CITY OF | 40143C0520H | 22-SEP-1999
06 | OK | TULSA, CITY OF | 40143C0530H | 22-SEP-1999
06 | OK | TULSA, CITY OF | 40143C0534H | 22-SEP-1999
06 | OK | TULSA, CITY OF | 40143C0535H | 22-SEP-1999
06 | OK | TULSA, CITY OF | 40143C0540H | 22-SEP-1999
06 | OK | TULSA, CITY OF | 40143C0605H | 22-SEP-1999
06 | OK | TULSA, CITY OF | 40143C0610H | 22-SEP-1999
06 | OK | TULSA, CITY OF | 40143CIND0 ** | 22-SEP-1999
06 | TX | ALVIN, CITY OF | 48039C0045J** | 22-SEP-1999
06 | TX | ALVIN, CITY OF | 48039C0045J | 22-SEP-1999
06 | TX | ALVIN, CITY OF | 48039C0065J | 22-SEP-1999
06 | TX | ALVIN, CITY OF | 48039C0135I | 22-SEP-1999
06 | TX | ALVIN, CITY OF | 48039C0175I | 22-SEP-1999
06 | TX | ALVIN, CITY OF | 48039CIND0 ** | 22-SEP-1999
06 | TX | ANGLETON, CITY OF | 48039CIND0 ** | 22-SEP-1999
06 | TX | BAILEYS PRAIRIE, VILLAGE OF | 48039CIND0 ** | 22-SEP-1999
06 | TX | BONNEY, TOWN OF | 48039CIND0 ** | 22-SEP-1999
06 | TX | BRAZORIA COUNTY * | 48039C0010I** | 22-SEP-1999
06 | TX | BRAZORIA COUNTY * | 48039C0030I | 22-SEP-1999
06 | TX | BRAZORIA COUNTY * | 48039C0035I | 22-SEP-1999
06 | TX | BRAZORIA COUNTY * | 48039C0040I | 22-SEP-1999
06 | TX | BRAZORIA COUNTY * | 48039C0045J** | 22-SEP-1999
06 | TX | BRAZORIA COUNTY * | 48039C0045J | 22-SEP-1999
06 | TX | BRAZORIA COUNTY * | 48039C0065J | 22-SEP-1999
06 | TX | BRAZORIA COUNTY * | 48039C0135I | 22-SEP-1999
06 | TX | BRAZORIA COUNTY * | 48039C0175I | 22-SEP-1999
06 | TX | BRAZORIA COUNTY * | 48039CIND0 ** | 22-SEP-1999
06 | TX | BRAZORIA, CITY OF | 48039CIND0 ** | 22-SEP-1999
06 | TX | BROOKSIDE VILLAGE, CITY OF | 48039C0030I | 22-SEP-1999
06 | TX | BROOKSIDE VILLAGE, CITY OF | 48039C0035I | 22-SEP-1999
06 | TX | BROOKSIDE VILLAGE, CITY OF | 48039CIND0 ** | 22-SEP-1999
06 | TX | CALDWELL COUNTY* | 4800940025C** | 21-JUL-1999
06 | TX | CALDWELL COUNTY* | 4800940050C** | 21-JUL-1999
06 | TX | CALDWELL COUNTY* | 4800940075C** | 21-JUL-1999
06 | TX | CALDWELL COUNTY* | 4800940100C** | 21-JUL-1999
06 | TX | CALDWELL COUNTY* | 4800940125C** | 21-JUL-1999
06 | TX | CALDWELL COUNTY* | 4800940150C** | 21-JUL-1999
06 | TX | CALDWELL COUNTY* | 4800940155D | 21-JUL-1999
06 | TX | CALDWELL COUNTY* | 4800940160C** | 21-JUL-1999
06 | TX | CALDWELL COUNTY* | 4800940165C | 21-JUL-1999
06 | TX | CALDWELL COUNTY* | 4800940170C | 21-JUL-1999
06 | TX | CALDWELL COUNTY* | 4800940180C** | 21-JUL-1999
06 | TX | CALDWELL COUNTY* | 4800940200C** | 21-JUL-1999
06 | TX | CALDWELL COUNTY* | 4800940210C** | 21-JUL-1999
06 | TX | CALDWELL COUNTY* | 4800940225C** | 21-JUL-1999
06 | TX | CALDWELL COUNTY* | 4800940230C** | 21-JUL-1999
06 | TX | CALDWELL COUNTY* | 4800940250C** | 21-JUL-1999
06 | TX | CALDWELL COUNTY* | 4800940275C** | 21-JUL-1999
06 | TX | CALDWELL COUNTY* | 4800940285C | 21-JUL-1999
06 | TX | CALDWELL COUNTY* | 4800940305C | 21-JUL-1999
06 | TX | CALDWELL COUNTY* | 4800940310C** | 21-JUL-1999
06 | TX | CALDWELL COUNTY* | 4800940315C | 21-JUL-1999
06 | TX | CALDWELL COUNTY* | 4800940320C | 21-JUL-1999
06 | TX | CALDWELL COUNTY* | 4800940340C | 21-JUL-1999
06 | TX | CALDWELL COUNTY* | 4800940350C** | 21-JUL-1999
06 | TX | CALDWELL COUNTY* | 4800940375C** | 21-JUL-1999
06 | TX | CALDWELL COUNTY* | 480094IND0 ** | 21-JUL-1999
06 | TX | CHATEAU WOODS, CITY OF | 48339C0537G | 22-SEP-1999
06 | TX | CHATEAU WOODS, CITY OF | 48339CIND0 ** | 22-SEP-1999
06 | TX | CLUTE, CITY OF | 48039CIND0 ** | 22-SEP-1999
06 | TX | CONROE, CITY OF | 48339CIND0 ** | 22-SEP-1999
06 | TX | CUT 'N SHOOT, CITY OF | 48339CIND0 ** | 22-SEP-1999
06 | TX | DANBURY, CITY OF | 48039CIND0 ** | 22-SEP-1999
06 | TX | FREEPORT, CITY OF | 48039CIND0 ** | 22-SEP-1999
06 | TX | FRIENDSWOOD, CITY OF | 4854680005E | 22-SEP-1999
06 | TX | HILLCREST VILLAGE, CITY OF | 48039CIND0 ** | 22-SEP-1999
06 | TX | HOLIDAY LAKES, TOWN OF | 48039CIND0 ** | 22-SEP-1999
06 | TX | IOWA COLONY, TOWN OF | 48039CIND0 ** | 22-SEP-1999
06 | TX | JONES CREEK, VILLAGE OF | 48039CIND0 ** | 22-SEP-1999
06 | TX | LAKE BARBARA, VILLAGE OF | 48039CIND0 ** | 22-SEP-1999
06 | TX | LAKE JACKSON, CITY OF | 48039CIND0 ** | 22-SEP-1999
06 | TX | LEAGUE CITY, CITY OF | 4854880005D | 22-SEP-1999
06 | TX | LEAGUE CITY, CITY OF | 4854880010D | 22-SEP-1999
06 | TX | LEAGUE CITY, CITY OF | 4854880011D | 22-SEP-1999
06 | TX | LEAGUE CITY, CITY OF | 4854880013D** | 22-SEP-1999
06 | TX | LEAGUE CITY, CITY OF | 4854880020D | 22-SEP-1999
06 | TX | LEAGUE CITY, CITY OF | 4854880025D | 22-SEP-1999
06 | TX | LEAGUE CITY, CITY OF | 4854880030E | 22-SEP-1999
06 | TX | LEAGUE CITY, CITY OF | 485488IND0 ** | 22-SEP-1999
06 | TX | LIVERPOOL, CITY OF | 48039CIND0 ** | 22-SEP-1999
06 | TX | MAGNOLIA, TOWN OF | 48339CIND0 ** | 22-SEP-1999
06 | TX | MANVEL, TOWN OF | 48039C0040I | 22-SEP-1999
06 | TX | MANVEL, TOWN OF | 48039CIND0 ** | 22-SEP-1999
06 | TX | MIDLAND COUNTY * | 48329C0044E | 06-DEC-1999
06 | TX | MIDLAND COUNTY * | 48329C0050E | 06-DEC-1999
06 | TX | MIDLAND COUNTY * | 48329C0058E | 06-DEC-1999
06 | TX | MIDLAND COUNTY * | 48329C0059E | 06-DEC-1999
06 | TX | MIDLAND COUNTY * | 48329C0063E | 06-DEC-1999
06 | TX | MIDLAND COUNTY * | 48329C0064E | 06-DEC-1999
06 | TX | MIDLAND COUNTY * | 48329C0066E | 06-DEC-1999
06 | TX | MIDLAND COUNTY * | 48329C0067E | 06-DEC-1999
06 | TX | MIDLAND COUNTY * | 48329C0068E | 06-DEC-1999
06 | TX | MIDLAND COUNTY * | 48329C0069E | 06-DEC-1999
06 | TX | MIDLAND COUNTY * | 48329C0075E | 06-DEC-1999
06 | TX | MIDLAND COUNTY * | 48329C0086E | 06-DEC-1999
06 | TX | MIDLAND COUNTY * | 48329C0087E | 06-DEC-1999
06 | TX | MIDLAND COUNTY * | 48329C0088E | 06-DEC-1999
06 | TX | MIDLAND COUNTY * | 48329C0089E | 06-DEC-1999
06 | TX | MIDLAND COUNTY * | 48329C0093E | 06-DEC-1999
06 | TX | MIDLAND COUNTY * | 48329C0094E | 06-DEC-1999
06 | TX | MIDLAND COUNTY * | 48329C0100E | 06-DEC-1999
06 | TX | MIDLAND COUNTY * | 48329C0125E | 06-DEC-1999
06 | TX | MIDLAND COUNTY * | 48329C0150E | 06-DEC-1999
06 | TX | MIDLAND COUNTY * | 48329C0175E | 06-DEC-1999
06 | TX | MIDLAND COUNTY * | 48329C0182E | 06-DEC-1999
06 | TX | MIDLAND COUNTY * | 48329C0184E | 06-DEC-1999
06 | TX | MIDLAND COUNTY * | 48329C0200E | 06-DEC-1999
06 | TX | MIDLAND COUNTY * | 48329C0201E | 06-DEC-1999
06 | TX | MIDLAND COUNTY * | 48329C0202E | 06-DEC-1999
06 | TX | MIDLAND COUNTY * | 48329C0203E | 06-DEC-1999
06 | TX | MIDLAND COUNTY * | 48329C0204E | 06-DEC-1999
06 | TX | MIDLAND COUNTY * | 48329C0206E | 06-DEC-1999
06 | TX | MIDLAND COUNTY * | 48329C0207E | 06-DEC-1999
06 | TX | MIDLAND COUNTY * | 48329C0208E | 06-DEC-1999
06 | TX | MIDLAND COUNTY * | 48329C0209E | 06-DEC-1999
06 | TX | MIDLAND COUNTY * | 48329C0211E | 06-DEC-1999
06 | TX | MIDLAND COUNTY * | 48329C0212E | 06-DEC-1999
06 | TX | MIDLAND COUNTY * | 48329C0213E | 06-DEC-1999
06 | TX | MIDLAND COUNTY * | 48329C0214E | 06-DEC-1999
06 | TX | MIDLAND COUNTY * | 48329C0216E | 06-DEC-1999
06 | TX | MIDLAND COUNTY * | 48329C0217E | 06-DEC-1999
06 | TX | MIDLAND COUNTY * | 48329C0218E | 06-DEC-1999
06 | TX | MIDLAND COUNTY * | 48329C0219E | 06-DEC-1999
06 | TX | MIDLAND COUNTY * | 48329C0226E | 06-DEC-1999
06 | TX | MIDLAND COUNTY * | 48329C0227E | 06-DEC-1999
06 | TX | MIDLAND COUNTY * | 48329C0231E | 06-DEC-1999
06 | TX | MIDLAND COUNTY * | 48329C0236E | 06-DEC-1999
06 | TX | MIDLAND COUNTY * | 48329C0238E | 06-DEC-1999
06 | TX | MIDLAND COUNTY * | 48329C0250E | 06-DEC-1999
06 | TX | MIDLAND COUNTY * | 48329C0275E | 06-DEC-1999
06 | TX | MIDLAND COUNTY * | 48329C0300E | 06-DEC-1999
06 | TX | MIDLAND COUNTY * | 48329C0325E | 06-DEC-1999
06 | TX | MIDLAND COUNTY * | 48329C0350E | 06-DEC-1999
06 | TX | MIDLAND COUNTY * | 48329C0375E | 06-DEC-1999
06 | TX | MIDLAND COUNTY * | 48329C0400E | 06-DEC-1999
06 | TX | MIDLAND COUNTY * | 48329C0425E | 06-DEC-1999
06 | TX | MIDLAND COUNTY * | 48329C0450E | 06-DEC-1999
06 | TX | MIDLAND COUNTY * | 48329C0475E | 06-DEC-1999
06 | TX | MIDLAND COUNTY * | 48329C0500E | 06-DEC-1999
06 | TX | MIDLAND COUNTY * | 48329C0525E | 06-DEC-1999
06 | TX | MIDLAND COUNTY * | 48329CIND0 ** | 06-DEC-1999
06 | TX | MIDLAND, CITY OF | 48329C0050E | 06-DEC-1999
06 | TX | MIDLAND, CITY OF | 48329C0058E | 06-DEC-1999
06 | TX | MIDLAND, CITY OF | 48329C0059E | 06-DEC-1999
06 | TX | MIDLAND, CITY OF | 48329C0066E | 06-DEC-1999
06 | TX | MIDLAND, CITY OF | 48329C0067E | 06-DEC-1999
06 | TX | MIDLAND, CITY OF | 48329C0068E | 06-DEC-1999
06 | TX | MIDLAND, CITY OF | 48329C0069E | 06-DEC-1999
06 | TX | MIDLAND, CITY OF | 48329C0086E | 06-DEC-1999
06 | TX | MIDLAND, CITY OF | 48329C0087E | 06-DEC-1999
06 | TX | MIDLAND, CITY OF | 48329C0088E | 06-DEC-1999
06 | TX | MIDLAND, CITY OF | 48329C0089E | 06-DEC-1999
06 | TX | MIDLAND, CITY OF | 48329C0093E | 06-DEC-1999
06 | TX | MIDLAND, CITY OF | 48329C0100E | 06-DEC-1999
06 | TX | MIDLAND, CITY OF | 48329C0182E | 06-DEC-1999
06 | TX | MIDLAND, CITY OF | 48329C0184E | 06-DEC-1999
06 | TX | MIDLAND, CITY OF | 48329C0200E | 06-DEC-1999
06 | TX | MIDLAND, CITY OF | 48329C0201E | 06-DEC-1999
06 | TX | MIDLAND, CITY OF | 48329C0202E | 06-DEC-1999
06 | TX | MIDLAND, CITY OF | 48329C0203E | 06-DEC-1999
06 | TX | MIDLAND, CITY OF | 48329C0204E | 06-DEC-1999
06 | TX | MIDLAND, CITY OF | 48329C0206E | 06-DEC-1999
06 | TX | MIDLAND, CITY OF | 48329CIND0 ** | 06-DEC-1999
06 | TX | MONTGOMERY COUNTY* | 48339C0537G | 22-SEP-1999
06 | TX | MONTGOMERY COUNTY* | 48339C0539G | 22-SEP-1999
06 | TX | MONTGOMERY COUNTY* | 48339C0730G | 22-SEP-1999
06 | TX | MONTGOMERY COUNTY* | 48339CIND0 ** | 22-SEP-1999
06 | TX | MONTGOMERY, CITY OF | 48339CIND0 ** | 22-SEP-1999
06 | TX | OAK RIDGE NORTH, CITY OF | 48339C0537G | 22-SEP-1999
06 | TX | OAK RIDGE NORTH, CITY OF | 48339C0539G | 22-SEP-1999
06 | TX | OAK RIDGE NORTH, CITY OF | 48339CIND0 ** | 22-SEP-1999
06 | TX | ODESSA, CITY OF | 48329C0100E | 06-DEC-1999
06 | TX | ODESSA, CITY OF | 48329C0175E | 06-DEC-1999
06 | TX | ODESSA, CITY OF | 48329C0200E | 06-DEC-1999
06 | TX | ODESSA, CITY OF | 48329CIND0 ** | 06-DEC-1999
06 | TX | OYSTER CREEK, VILLAGE OF | 48039CIND0 ** | 22-SEP-1999
06 | TX | PANORAMA VILLAGE, CITY OF | 48339CIND0 ** | 22-SEP-1999
06 | TX | PATTON VILLAGE, VILLAGE OF | 48339CIND0 ** | 22-SEP-1999
06 | TX | PEARLAND, CITY OF | 48039C0010I** | 22-SEP-1999
06 | TX | PEARLAND, CITY OF | 48039C0030I | 22-SEP-1999
06 | TX | PEARLAND, CITY OF | 48039C0035I | 22-SEP-1999
06 | TX | PEARLAND, CITY OF | 48039C0040I | 22-SEP-1999
06 | TX | PEARLAND, CITY OF | 48039C0045J** | 22-SEP-1999
06 | TX | PEARLAND, CITY OF | 48039C0045J | 22-SEP-1999
06 | TX | PEARLAND, CITY OF | 48039C0065J | 22-SEP-1999
06 | TX | PEARLAND, CITY OF | 48039CIND0 ** | 22-SEP-1999
06 | TX | QUINTANA, CITY OF | 48039CIND0 ** | 22-SEP-1999
06 | TX | QUINTANA, VILLAGE OF | 48039CIND0 ** | 22-SEP-1999
06 | TX | RANGER, CITY OF | 480205 B*** | 01-JUL-1999
06 | TX | RANGER, CITY OF | 4802059999 *** | 01-JUL-1999
06 | TX | RICHWOOD, CITY OF | 48039CIND0 ** | 22-SEP-1999
06 | TX | ROMAN FOREST, TOWN OF | 48339CIND0 ** | 22-SEP-1999
06 | TX | SHENANDOAH, TOWN OF | 48339C0537G | 22-SEP-1999
06 | TX | SHENANDOAH, TOWN OF | 48339CIND0 ** | 22-SEP-1999
06 | TX | SPLENDORA, CITY OF | 48339CIND0 ** | 22-SEP-1999
06 | TX | STAGECOACH, CITY OF | 48339CIND0 ** | 22-SEP-1999
06 | TX | SURFSIDE BEACH, VILLAGE OF | 48039CIND0 ** | 22-SEP-1999
06 | TX | SWEENY, CITY OF | 48039CIND0 ** | 22-SEP-1999
06 | TX | VICTORIA, CITY OF | 4806380005G | 21-JUL-1999
06 | TX | VICTORIA, CITY OF | 480638IND0 ** | 21-JUL-1999
06 | TX | WEST COLUMBIA, CITY OF | 48039CIND0 ** | 22-SEP-1999
06 | TX | WILLIS, CITY OF | 48339CIND0 ** | 22-SEP-1999
06 | TX | WOODBRANCH, VILLAGE OF | 48339CIND0 ** | 22-SEP-1999
06 | TX | WOODLOCH, VILLAGE OF | 48339CIND0 ** | 22-SEP-1999
07 | IA | ANKENY, CITY OF | 1902260003C** | 06-DEC-1999
07 | IA | ANKENY, CITY OF | 1902260004C | 06-DEC-1999
07 | IA | ANKENY, CITY OF | 190226IND0 ** | 06-DEC-1999
07 | IA | BUCHANAN COUNTY* | 1908480025C | 21-JUL-1999
07 | IA | BUCHANAN COUNTY* | 1908480050C** | 21-JUL-1999
07 | IA | BUCHANAN COUNTY* | 1908480075C** | 21-JUL-1999
07 | IA | BUCHANAN COUNTY* | 1908480100C | 21-JUL-1999
07 | IA | BUCHANAN COUNTY* | 1908480125C | 21-JUL-1999
07 | IA | BUCHANAN COUNTY* | 1908480150C** | 21-JUL-1999
07 | IA | BUCHANAN COUNTY* | 1908480175C** | 21-JUL-1999
07 | IA | BUCHANAN COUNTY* | 1908480200C | 21-JUL-1999
07 | IA | BUCHANAN COUNTY* | 1908480225C | 21-JUL-1999
07 | IA | BUCHANAN COUNTY* | 190848IND0 ** | 21-JUL-1999
07 | IA | QUASQUETON, TOWN OF | 1903320001C | 21-JUL-1999
07 | IA | VAN BUREN COUNTY | 1902650025B | 22-SEP-1999
07 | IA | VAN BUREN COUNTY | 1902650100B | 22-SEP-1999
07 | IA | VAN BUREN COUNTY | 190265IND0 ** | 22-SEP-1999
07 | IA | WESTFIELD, CITY OF | 190482 A | 20-OCT-1999
07 | KS | MORGANVILLE, CITY OF | 200055 A | 20-OCT-1999
07 | MO | AUGUSTA, VILLAGE OF | 29183CIND0 ** | 06-DEC-1999
07 | MO | COTTLEVILLE, CITY OF | 29183CIND0 ** | 06-DEC-1999
07 | MO | DARDENNE PRAIRIE, TOWN OF | 29183CIND0 ** | 06-DEC-1999
07 | MO | FLINTHILL, VILLAGE OF | 29183CIND0 ** | 06-DEC-1999
07 | MO | FORISTELL, CITY OF | 29183C0190F | 06-DEC-1999
07 | MO | FORISTELL, CITY OF | 29183CIND0 ** | 06-DEC-1999
07 | MO | JOSEPHVILLE, VILLAGE OF | 29183CIND0 ** | 06-DEC-1999
07 | MO | LAKE ST. LOUIS, CITY OF | 29183CIND0 ** | 06-DEC-1999
07 | MO | LEE'S SUMMIT, CITY OF | 2901740014D | 06-DEC-1999
07 | MO | LEE'S SUMMIT, CITY OF | 2901740022D | 06-DEC-1999
07 | MO | LEE'S SUMMIT, CITY OF | 290174IND0 ** | 06-DEC-1999
07 | MO | NEW MELLE, VILLAGE OF | 29183CIND0 ** | 06-DEC-1999
07 | MO | NIXA, CITY OF | 2900780005B | 22-SEP-1999
07 | MO | O'FALLON, CITY OF | 29183CIND0 ** | 06-DEC-1999
07 | MO | PORTAGE DES SIOUX, CITY OF | 29183CIND0 ** | 06-DEC-1999
07 | MO | ST. CHARLES COUNTY * | 29183C0190F | 06-DEC-1999
07 | MO | ST. CHARLES COUNTY * | 29183CIND0 ** | 06-DEC-1999
07 | MO | ST. CHARLES, CITY OF | 29183CIND0 ** | 06-DEC-1999
07 | MO | ST. PAUL, CITY OF | 29183CIND0 ** | 06-DEC-1999
07 | MO | ST. PETERS, CITY OF | 29183CIND0 ** | 06-DEC-1999
07 | MO | WELDON SPRING HEIGHTS, TOWN OF | 29183CIND0 ** | 06-DEC-1999
07 | MO | WELDON SPRING, CITY OF | 29183CIND0 ** | 06-DEC-1999
07 | MO | WENTZVILLE, CITY OF | 29183C0190F | 06-DEC-1999
07 | MO | WENTZVILLE, CITY OF | 29183CIND0 ** | 06-DEC-1999
07 | MO | WEST ALTON, TOWN OF | 29183CIND0 ** | 06-DEC-1999
07 | NE | ALBION, CITY OF | 31011C0309C | 06-DEC-1999
07 | NE | ALBION, CITY OF | 31011C0325C | 06-DEC-1999
07 | NE | ALBION, CITY OF | 31011C0328C | 06-DEC-1999
07 | NE | ALBION, CITY OF | 31011C0350C | 06-DEC-1999
07 | NE | ALBION, CITY OF | 31011CIND0 ** | 06-DEC-1999
07 | NE | BOELUS, VILLAGE OF | 3101170005B | 08-NOV-1999
07 | NE | BOONE COUNTY* | 31011C0025C | 06-DEC-1999
07 | NE | BOONE COUNTY* | 31011C0050C | 06-DEC-1999
07 | NE | BOONE COUNTY* | 31011C0075C | 06-DEC-1999
07 | NE | BOONE COUNTY* | 31011C0100C | 06-DEC-1999
07 | NE | BOONE COUNTY* | 31011C0125C | 06-DEC-1999
07 | NE | BOONE COUNTY* | 31011C0150C | 06-DEC-1999
07 | NE | BOONE COUNTY* | 31011C0175C | 06-DEC-1999
07 | NE | BOONE COUNTY* | 31011C0177C | 06-DEC-1999
07 | NE | BOONE COUNTY* | 31011C0200C | 06-DEC-1999
07 | NE | BOONE COUNTY* | 31011C0225C | 06-DEC-1999
07 | NE | BOONE COUNTY* | 31011C0250C | 06-DEC-1999
07 | NE | BOONE COUNTY* | 31011C0275C | 06-DEC-1999
07 | NE | BOONE COUNTY* | 31011C0300C | 06-DEC-1999
07 | NE | BOONE COUNTY* | 31011C0309C | 06-DEC-1999
07 | NE | BOONE COUNTY* | 31011C0325C | 06-DEC-1999
07 | NE | BOONE COUNTY* | 31011C0328C | 06-DEC-1999
07 | NE | BOONE COUNTY* | 31011C0350C | 06-DEC-1999
07 | NE | BOONE COUNTY* | 31011C0375C | 06-DEC-1999
07 | NE | BOONE COUNTY* | 31011C0400C | 06-DEC-1999
07 | NE | BOONE COUNTY* | 31011C0409C | 06-DEC-1999
07 | NE | BOONE COUNTY* | 31011C0417C | 06-DEC-1999
07 | NE | BOONE COUNTY* | 31011C0425C | 06-DEC-1999
07 | NE | BOONE COUNTY* | 31011C0450C | 06-DEC-1999
07 | NE | BOONE COUNTY* | 31011C0475C | 06-DEC-1999
07 | NE | BOONE COUNTY* | 31011C0478C | 06-DEC-1999
07 | NE | BOONE COUNTY* | 31011C0486C | 06-DEC-1999
07 | NE | BOONE COUNTY* | 31011C0500C | 06-DEC-1999
07 | NE | BOONE COUNTY* | 31011C0525C | 06-DEC-1999
07 | NE | BOONE COUNTY* | 31011C0550C | 06-DEC-1999
07 | NE | BOONE COUNTY* | 31011C0575C | 06-DEC-1999
07 | NE | BOONE COUNTY* | 31011CIND0 ** | 06-DEC-1999
07 | NE | CEDAR RAPIDS, VILLAGE OF | 31011C0409C | 06-DEC-1999
07 | NE | CEDAR RAPIDS, VILLAGE OF | 31011C0417C | 06-DEC-1999
07 | NE | CEDAR RAPIDS, VILLAGE OF | 31011C0425C | 06-DEC-1999
07 | NE | CEDAR RAPIDS, VILLAGE OF | 31011CIND0 ** | 06-DEC-1999
07 | NE | HOWARD COUNTY * | 3104460110B | 08-NOV-1999
07 | NE | HOWARD COUNTY * | 3104460115B | 08-NOV-1999
07 | NE | HOWARD COUNTY * | 310446IND0 ** | 08-NOV-1999
07 | NE | O'NEILL, CITY OF | 3101160001C | 22-SEP-1999
07 | NE | O'NEILL, CITY OF | 3101160003C | 22-SEP-1999
07 | NE | O'NEILL, CITY OF | 3101160004C | 22-SEP-1999
07 | NE | O'NEILL, CITY OF | 310116IND0 ** | 22-SEP-1999
07 | NE | PETERSBURG, VILLAGE OF | 31011C0177C | 06-DEC-1999
07 | NE | PETERSBURG, VILLAGE OF | 31011CIND0 ** | 06-DEC-1999
07 | NE | ST. EDWARD, CITY OF | 31011C0478C | 06-DEC-1999
07 | NE | ST. EDWARD, CITY OF | 31011C0486C | 06-DEC-1999
07 | NE | ST. EDWARD, CITY OF | 31011CIND0 ** | 06-DEC-1999
08 | CO | CALHAN, TOWN OF | 08041C0391G | 23-AUG-1999
08 | CO | CALHAN, TOWN OF | 08041C0393G | 23-AUG-1999
08 | CO | CALHAN, TOWN OF | 08041CIND0 ** | 23-AUG-1999
08 | CO | COLORADO SPRINGS, CITY OF | 08041CIND0 ** | 23-AUG-1999
08 | CO | EL PASO COUNTY* | 08041C0391G | 23-AUG-1999
08 | CO | EL PASO COUNTY* | 08041C0393G | 23-AUG-1999
08 | CO | EL PASO COUNTY* | 08041C0400G | 23-AUG-1999
08 | CO | EL PASO COUNTY* | 08041CIND0 ** | 23-AUG-1999
08 | CO | FOUNTAIN, CITY OF | 08041CIND0 ** | 23-AUG-1999
08 | CO | GREEN MOUNTAIN FALLS, TOWN OF | 08041CIND0 ** | 23-AUG-1999
08 | CO | MANITOU SPRINGS, CITY OF | 08041CIND0 ** | 23-AUG-1999
08 | CO | MONUMENT, TOWN OF | 08041CIND0 ** | 23-AUG-1999
08 | CO | PALMER LAKE, TOWN OF | 08041CIND0 ** | 23-AUG-1999
08 | CO | RAMAH, TOWN OF | 08041CIND0 ** | 23-AUG-1999
08 | CO | SEVERANCE, TOWN OF | 0803170001A | 22-SEP-1999
08 | CO | WELD COUNTY * | 0802660465D | 22-SEP-1999
08 | CO | WELD COUNTY * | 0802660475D** | 22-SEP-1999
08 | CO | WELD COUNTY * | 080266IND0 ** | 22-SEP-1999
08 | MT | YELLOWSTONE COUNTY * | 3001420865B | 08-SEP-1999
08 | MT | YELLOWSTONE COUNTY * | 3001420870B | 08-SEP-1999
08 | UT | SANTA CLARA, TOWN OF | 4901780005B | 06-DEC-1999
08 | WY | RIVERTON, CITY OF | 560021 B*** | 01-SEP-1999
08 | WY | RIVERTON, CITY OF | 5600219999B*** | 01-SEP-1999
09 | CA | AGUA CALIENTE BAND OF CAHUILLA INDIANS TRIBE | 0602570004D** | 07-JUL-1999
09 | CA | AGUA CALIENTE BAND OF CAHUILLA INDIANS TRIBE | 0602570004D | 07-JUL-1999
09 | CA | AGUA CALIENTE BAND OF CAHUILLA INDIANS TRIBE | 0602570006D** | 07-JUL-1999
09 | CA | AGUA CALIENTE BAND OF CAHUILLA INDIANS TRIBE | 0602570006D | 07-JUL-1999
09 | CA | AGUA CALIENTE BAND OF CAHUILLA INDIANS TRIBE | 0602570007D** | 07-JUL-1999
09 | CA | AGUA CALIENTE BAND OF CAHUILLA INDIANS TRIBE | 0602570007D | 07-JUL-1999
09 | CA | AGUA CALIENTE BAND OF CAHUILLA INDIANS TRIBE | 0602570009D** | 07-JUL-1999
09 | CA | AGUA CALIENTE BAND OF CAHUILLA INDIANS TRIBE | 0602570009D | 07-JUL-1999
09 | CA | AGUA CALIENTE BAND OF CAHUILLA INDIANS TRIBE | 060257IND0 ** | 07-JUL-1999
09 | CA | ALTURAS, CITY OF | 0601930005C | 20-OCT-1999
09 | CA | BUELLTON, CITY OF | 060331IND0 ** | 07-JUL-1999
09 | CA | CATHEDRAL CITY, CITY OF | 0607040005D** | 07-JUL-1999
09 | CA | CATHEDRAL CITY, CITY OF | 0607040010C** | 07-JUL-1999
09 | CA | CATHEDRAL CITY, CITY OF | 060704IND0 ** | 07-JUL-1999
09 | CA | EAST PALO ALTO, CITY OF | 0607080001B | 23-AUG-1999
09 | CA | HILLSBOROUGH, TOWN OF | 0603200002A | 06-OCT-1999
09 | CA | MODOC COUNTY * | 0601920802C | 20-OCT-1999
09 | CA | MODOC COUNTY * | 0601920804C | 20-OCT-1999
09 | CA | MODOC COUNTY * | 0601920825C** | 20-OCT-1999
09 | CA | MODOC COUNTY * | 060192IND0 ** | 20-OCT-1999
09 | CA | PALM SPRINGS, CITY OF | 0602570004D** | 07-JUL-1999
09 | CA | PALM SPRINGS, CITY OF | 0602570004D | 07-JUL-1999
09 | CA | PALM SPRINGS, CITY OF | 0602570006D** | 07-JUL-1999
09 | CA | PALM SPRINGS, CITY OF | 0602570006D | 07-JUL-1999
09 | CA | PALM SPRINGS, CITY OF | 0602570007D** | 07-JUL-1999
09 | CA | PALM SPRINGS, CITY OF | 0602570007D | 07-JUL-1999
09 | CA | PALM SPRINGS, CITY OF | 0602570009D** | 07-JUL-1999
09 | CA | PALM SPRINGS, CITY OF | 0602570009D | 07-JUL-1999
09 | CA | PALM SPRINGS, CITY OF | 060257IND0 ** | 07-JUL-1999
09 | CA | SANTA BARBARA COUNTY * | 0603310229D** | 07-JUL-1999
09 | CA | SANTA BARBARA COUNTY * | 0603310233D** | 07-JUL-1999
09 | CA | SANTA BARBARA COUNTY * | 0603310241D** | 07-JUL-1999
09 | CA | SANTA BARBARA COUNTY * | 060331IND0 ** | 07-JUL-1999
09 | CA | SOLVANG, CITY OF | 060331IND0 ** | 07-JUL-1999
09 | NV | DOUGLAS COUNTY * | 32005C0030F | 08-NOV-1999
09 | NV | DOUGLAS COUNTY * | 32005C0035F** | 08-NOV-1999
09 | NV | DOUGLAS COUNTY * | 32005C0040F** | 08-NOV-1999
09 | NV | DOUGLAS COUNTY * | 32005C0055F** | 08-NOV-1999
09 | NV | DOUGLAS COUNTY * | 32005C0060F | 08-NOV-1999
09 | NV | DOUGLAS COUNTY * | 32005C0065F** | 08-NOV-1999
09 | NV | DOUGLAS COUNTY * | 32005C0070F** | 08-NOV-1999
09 | NV | DOUGLAS COUNTY * | 32005C0080F** | 08-NOV-1999
09 | NV | DOUGLAS COUNTY * | 32005C0090F** | 08-NOV-1999
09 | NV | DOUGLAS COUNTY * | 32005C0093F** | 08-NOV-1999
09 | NV | DOUGLAS COUNTY * | 32005C0150F** | 08-NOV-1999
09 | NV | DOUGLAS COUNTY * | 32005C0175F** | 08-NOV-1999
09 | NV | DOUGLAS COUNTY * | 32005C0205F** | 08-NOV-1999
09 | NV | DOUGLAS COUNTY * | 32005C0210F** | 08-NOV-1999
09 | NV | DOUGLAS COUNTY * | 32005C0230F** | 08-NOV-1999
09 | NV | DOUGLAS COUNTY * | 32005C0235F | 08-NOV-1999
09 | NV | DOUGLAS COUNTY * | 32005C0240F** | 08-NOV-1999
09 | NV | DOUGLAS COUNTY * | 32005C0245F** | 08-NOV-1999
09 | NV | DOUGLAS COUNTY * | 32005C0252F** | 08-NOV-1999
09 | NV | DOUGLAS COUNTY * | 32005C0254F** | 08-NOV-1999
09 | NV | DOUGLAS COUNTY * | 32005C0255F | 08-NOV-1999
09 | NV | DOUGLAS COUNTY * | 32005C0256F** | 08-NOV-1999
09 | NV | DOUGLAS COUNTY * | 32005C0258F** | 08-NOV-1999
09 | NV | DOUGLAS COUNTY * | 32005C0259F | 08-NOV-1999
09 | NV | DOUGLAS COUNTY * | 32005C0265F** | 08-NOV-1999
09 | NV | DOUGLAS COUNTY * | 32005C0266F** | 08-NOV-1999
09 | NV | DOUGLAS COUNTY * | 32005C0267F** | 08-NOV-1999
09 | NV | DOUGLAS COUNTY * | 32005C0268F** | 08-NOV-1999
09 | NV | DOUGLAS COUNTY * | 32005C0286F** | 08-NOV-1999
09 | NV | DOUGLAS COUNTY * | 32005C0325F** | 08-NOV-1999
09 | NV | DOUGLAS COUNTY * | 32005C0350F** | 08-NOV-1999
09 | NV | DOUGLAS COUNTY * | 32005C0360F** | 08-NOV-1999
09 | NV | DOUGLAS COUNTY * | 32005C0400F** | 08-NOV-1999
09 | NV | DOUGLAS COUNTY * | 32005C0425F** | 08-NOV-1999
09 | NV | DOUGLAS COUNTY * | 32005C0450F** | 08-NOV-1999
09 | NV | DOUGLAS COUNTY * | 32005C0500F** | 08-NOV-1999
09 | NV | DOUGLAS COUNTY * | 32005C0525F** | 08-NOV-1999
09 | NV | DOUGLAS COUNTY * | 32005CIND0 ** | 08-NOV-1999
10 | AK | KENAI PENINSULA BOROUGH | 0200122045C | 06-DEC-1999
10 | AK | KENAI PENINSULA BOROUGH | 020012IND0 ** | 06-DEC-1999
10 | AK | SEWARD, CITY OF | 020012IND0 ** | 06-DEC-1999
10 | ID | ADA COUNTY * | 16001C0025G | 22-SEP-1999
10 | ID | ADA COUNTY * | 16001C0050G | 22-SEP-1999
10 | ID | ADA COUNTY * | 16001C0075G | 22-SEP-1999
10 | ID | ADA COUNTY * | 16001C0120G | 22-SEP-1999
10 | ID | ADA COUNTY * | 16001C0130G | 22-SEP-1999
10 | ID | ADA COUNTY * | 16001C0134G | 22-SEP-1999
10 | ID | ADA COUNTY * | 16001C0135G | 22-SEP-1999
10 | ID | ADA COUNTY * | 16001C0139G | 22-SEP-1999
10 | ID | ADA COUNTY * | 16001C0140G | 22-SEP-1999
10 | ID | ADA COUNTY * | 16001C0141G | 22-SEP-1999
10 | ID | ADA COUNTY * | 16001C0142G | 22-SEP-1999
10 | ID | ADA COUNTY * | 16001C0143G | 22-SEP-1999
10 | ID | ADA COUNTY * | 16001C0144G | 22-SEP-1999
10 | ID | ADA COUNTY * | 16001C0151G | 22-SEP-1999
10 | ID | ADA COUNTY * | 16001C0152G | 22-SEP-1999
10 | ID | ADA COUNTY * | 16001C0153G | 22-SEP-1999
10 | ID | ADA COUNTY * | 16001C0154G | 22-SEP-1999
10 | ID | ADA COUNTY * | 16001C0160G | 22-SEP-1999
10 | ID | ADA COUNTY * | 16001C0161G | 22-SEP-1999
10 | ID | ADA COUNTY * | 16001C0162G | 22-SEP-1999
10 | ID | ADA COUNTY * | 16001C0166G | 22-SEP-1999
10 | ID | ADA COUNTY * | 16001C0167G | 22-SEP-1999
10 | ID | ADA COUNTY * | 16001C0169G | 22-SEP-1999
10 | ID | ADA COUNTY * | 16001C0180G | 22-SEP-1999
10 | ID | ADA COUNTY * | 16001C0186G | 22-SEP-1999
10 | ID | ADA COUNTY * | 16001C0187G | 22-SEP-1999
10 | ID | ADA COUNTY * | 16001C0188G | 22-SEP-1999
10 | ID | ADA COUNTY * | 16001C0189G | 22-SEP-1999
10 | ID | ADA COUNTY * | 16001C0193G | 22-SEP-1999
10 | ID | ADA COUNTY * | 16001C0231G | 22-SEP-1999
10 | ID | ADA COUNTY * | 16001C0232G | 22-SEP-1999
10 | ID | ADA COUNTY * | 16001C0234G | 22-SEP-1999
10 | ID | ADA COUNTY * | 16001C0250G | 22-SEP-1999
10 | ID | ADA COUNTY * | 16001C0251G | 22-SEP-1999
10 | ID | ADA COUNTY * | 16001C0253G | 22-SEP-1999
10 | ID | ADA COUNTY * | 16001C0254G | 22-SEP-1999
10 | ID | ADA COUNTY * | 16001C0258G | 22-SEP-1999
10 | ID | ADA COUNTY * | 16001C0259G | 22-SEP-1999
10 | ID | ADA COUNTY * | 16001C0265G | 22-SEP-1999
10 | ID | ADA COUNTY * | 16001C0267G | 22-SEP-1999
10 | ID | ADA COUNTY * | 16001C0270G | 22-SEP-1999
10 | ID | ADA COUNTY * | 16001C0276G | 22-SEP-1999
10 | ID | ADA COUNTY * | 16001C0277G | 22-SEP-1999
10 | ID | ADA COUNTY * | 16001C0281G | 22-SEP-1999
10 | ID | ADA COUNTY * | 16001C0282G | 22-SEP-1999
10 | ID | ADA COUNTY * | 16001C0283G | 22-SEP-1999
10 | ID | ADA COUNTY * | 16001C0284G | 22-SEP-1999
10 | ID | ADA COUNTY * | 16001C0286G | 22-SEP-1999
10 | ID | ADA COUNTY * | 16001C0287G | 22-SEP-1999
10 | ID | ADA COUNTY * | 16001C0291G | 22-SEP-1999
10 | ID | ADA COUNTY * | 16001C0295G | 22-SEP-1999
10 | ID | ADA COUNTY * | 16001C0305G | 22-SEP-1999
10 | ID | ADA COUNTY * | 16001C0315G | 22-SEP-1999
10 | ID | ADA COUNTY * | 16001C0325G | 22-SEP-1999
10 | ID | ADA COUNTY * | 16001C0350G | 22-SEP-1999
10 | ID | ADA COUNTY * | 16001C0400G | 22-SEP-1999
10 | ID | ADA COUNTY * | 16001C0425G | 22-SEP-1999
10 | ID | ADA COUNTY * | 16001C0450G | 22-SEP-1999
10 | ID | ADA COUNTY * | 16001C0475G | 22-SEP-1999
10 | ID | ADA COUNTY * | 16001C0500G | 22-SEP-1999
10 | ID | ADA COUNTY * | 16001C0525G | 22-SEP-1999
10 | ID | ADA COUNTY * | 16001C0550G | 22-SEP-1999
10 | ID | ADA COUNTY * | 16001C0575G | 22-SEP-1999
10 | ID | ADA COUNTY * | 16001C0600G | 22-SEP-1999
10 | ID | ADA COUNTY * | 16001C0625G | 22-SEP-1999
10 | ID | ADA COUNTY * | 16001C0650G | 22-SEP-1999
10 | ID | ADA COUNTY * | 16001C0675G | 22-SEP-1999
10 | ID | ADA COUNTY * | 16001C0700G | 22-SEP-1999
10 | ID | ADA COUNTY * | 16001C0750G | 22-SEP-1999
10 | ID | ADA COUNTY * | 16001C0775G | 22-SEP-1999
10 | ID | ADA COUNTY * | 16001C0800G | 22-SEP-1999
10 | ID | ADA COUNTY * | 16001CIND0 ** | 22-SEP-1999
10 | ID | BOISE, CITY OF | 16001C0161G | 22-SEP-1999
10 | ID | BOISE, CITY OF | 16001C0162G | 22-SEP-1999
10 | ID | BOISE, CITY OF | 16001C0166G | 22-SEP-1999
10 | ID | BOISE, CITY OF | 16001C0167G | 22-SEP-1999
10 | ID | BOISE, CITY OF | 16001C0169G | 22-SEP-1999
10 | ID | BOISE, CITY OF | 16001C0186G | 22-SEP-1999
10 | ID | BOISE, CITY OF | 16001C0187G | 22-SEP-1999
10 | ID | BOISE, CITY OF | 16001C0188G | 22-SEP-1999
10 | ID | BOISE, CITY OF | 16001C0189G | 22-SEP-1999
10 | ID | BOISE, CITY OF | 16001C0193G | 22-SEP-1999
10 | ID | BOISE, CITY OF | 16001C0258G | 22-SEP-1999
10 | ID | BOISE, CITY OF | 16001C0259G | 22-SEP-1999
10 | ID | BOISE, CITY OF | 16001C0267G | 22-SEP-1999
10 | ID | BOISE, CITY OF | 16001C0276G | 22-SEP-1999
10 | ID | BOISE, CITY OF | 16001C0277G | 22-SEP-1999
10 | ID | BOISE, CITY OF | 16001C0281G | 22-SEP-1999
10 | ID | BOISE, CITY OF | 16001C0282G | 22-SEP-1999
10 | ID | BOISE, CITY OF | 16001C0283G | 22-SEP-1999
10 | ID | BOISE, CITY OF | 16001C0284G | 22-SEP-1999
10 | ID | BOISE, CITY OF | 16001C0286G | 22-SEP-1999
10 | ID | BOISE, CITY OF | 16001C0287G | 22-SEP-1999
10 | ID | BOISE, CITY OF | 16001C0291G | 22-SEP-1999
10 | ID | BOISE, CITY OF | 16001C0295G | 22-SEP-1999
10 | ID | BOISE, CITY OF | 16001C0315G | 22-SEP-1999
10 | ID | BOISE, CITY OF | 16001CIND0 ** | 22-SEP-1999
10 | ID | EAGLE, CITY OF | 16001C0134G | 22-SEP-1999
10 | ID | EAGLE, CITY OF | 16001C0142G | 22-SEP-1999
10 | ID | EAGLE, CITY OF | 16001C0152G | 22-SEP-1999
10 | ID | EAGLE, CITY OF | 16001C0153G | 22-SEP-1999
10 | ID | EAGLE, CITY OF | 16001C0154G | 22-SEP-1999
10 | ID | EAGLE, CITY OF | 16001C0161G | 22-SEP-1999
10 | ID | EAGLE, CITY OF | 16001C0162G | 22-SEP-1999
10 | ID | EAGLE, CITY OF | 16001CIND0 ** | 22-SEP-1999
10 | ID | GARDEN CITY, CITY OF | 16001C0162G | 22-SEP-1999
10 | ID | GARDEN CITY, CITY OF | 16001C0166G | 22-SEP-1999
10 | ID | GARDEN CITY, CITY OF | 16001C0167G | 22-SEP-1999
10 | ID | GARDEN CITY, CITY OF | 16001C0169G | 22-SEP-1999
10 | ID | GARDEN CITY, CITY OF | 16001C0188G | 22-SEP-1999
10 | ID | GARDEN CITY, CITY OF | 16001C0276G | 22-SEP-1999
10 | ID | GARDEN CITY, CITY OF | 16001CIND0 ** | 22-SEP-1999
10 | ID | KUNA, CITY OF | 16001C0250G | 22-SEP-1999
10 | ID | KUNA, CITY OF | 16001C0400G | 22-SEP-1999
10 | ID | KUNA, CITY OF | 16001CIND0 ** | 22-SEP-1999
10 | ID | MERIDIAN, CITY OF | 16001C0139G | 22-SEP-1999
10 | ID | MERIDIAN, CITY OF | 16001C0143G | 22-SEP-1999
10 | ID | MERIDIAN, CITY OF | 16001C0144G | 22-SEP-1999
10 | ID | MERIDIAN, CITY OF | 16001C0231G | 22-SEP-1999
10 | ID | MERIDIAN, CITY OF | 16001C0232G | 22-SEP-1999
10 | ID | MERIDIAN, CITY OF | 16001C0234G | 22-SEP-1999
10 | ID | MERIDIAN, CITY OF | 16001C0250G | 22-SEP-1999
10 | ID | MERIDIAN, CITY OF | 16001C0251G | 22-SEP-1999
10 | ID | MERIDIAN, CITY OF | 16001CIND0 ** | 22-SEP-1999
10 | ID | STAR, CITY OF | 16001C0130G | 22-SEP-1999
10 | ID | STAR, CITY OF | 16001C0140G | 22-SEP-1999
10 | ID | STAR, CITY OF | 16001CIND0 ** | 22-SEP-1999
10 | OR | ALBANY, CITY OF | 4101370001F | 07-JUL-1999
10 | OR | ALBANY, CITY OF | 4101370002F | 07-JUL-1999
10 | OR | ALBANY, CITY OF | 4101370003F | 07-JUL-1999
10 | OR | ALBANY, CITY OF | 4101370004F** | 07-JUL-1999
10 | OR | ALBANY, CITY OF | 4101370005F | 07-JUL-1999
10 | OR | ALBANY, CITY OF | 4101370006F | 07-JUL-1999
10 | OR | ALBANY, CITY OF | 4101370007F** | 07-JUL-1999
10 | OR | ALBANY, CITY OF | 410137IND0 ** | 07-JUL-1999
10 | OR | ATHENA, CITY OF | 4102060001D | 08-SEP-1999
10 | OR | UMATILLA COUNTY* | 4102040280C | 08-SEP-1999
10 | OR | UMATILLA COUNTY* | 4102040285C | 08-SEP-1999
10 | OR | UMATILLA COUNTY* | 4102040520C | 08-SEP-1999
10 | OR | UMATILLA COUNTY* | 4102040525C** | 08-SEP-1999
10 | OR | UMATILLA COUNTY* | 4102040530C | 08-SEP-1999
10 | OR | UMATILLA COUNTY* | 4102040540C | 08-SEP-1999
10 | OR | UMATILLA COUNTY* | 410204IND0 ** | 08-SEP-1999
10 | WA | ALGONA, CITY OF | 53033CIND0 ** | 08-NOV-1999
10 | WA | ARLINGTON, CITY OF | 53061C0384E | 08-NOV-1999
10 | WA | ARLINGTON, CITY OF | 53061C0391E | 08-NOV-1999
10 | WA | ARLINGTON, CITY OF | 53061C0392E | 08-NOV-1999
10 | WA | ARLINGTON, CITY OF | 53061C0405E | 08-NOV-1999
10 | WA | ARLINGTON, CITY OF | 53061C0415E | 08-NOV-1999
10 | WA | ARLINGTON, CITY OF | 53061CIND0 ** | 08-NOV-1999
10 | WA | AUBURN, CITY OF | 53033CIND0 ** | 08-NOV-1999
10 | WA | BEAUX ARTS VILLAGE, TOWN OF | 53033CIND0 ** | 08-NOV-1999
10 | WA | BELLEVUE, CITY OF | 53033CIND0 ** | 08-NOV-1999
10 | WA | BLACK DIAMOND, TOWN OF | 53033CIND0 ** | 08-NOV-1999
10 | WA | BOTHELL, CITY OF | 53033C0063G | 08-NOV-1999
10 | WA | BOTHELL, CITY OF | 53033C0064G | 08-NOV-1999
10 | WA | BOTHELL, CITY OF | 53033C0068G | 08-NOV-1999
10 | WA | BOTHELL, CITY OF | 53033C0352G | 08-NOV-1999
10 | WA | BOTHELL, CITY OF | 53033C0360G | 08-NOV-1999
10 | WA | BOTHELL, CITY OF | 53033CIND0 ** | 08-NOV-1999
10 | WA | BOTHELL, CITY OF | 53061C1330E | 08-NOV-1999
10 | WA | BOTHELL, CITY OF | 53061C1335E | 08-NOV-1999
10 | WA | BOTHELL, CITY OF | 53061C1337E | 08-NOV-1999
10 | WA | BOTHELL, CITY OF | 53061C1338E | 08-NOV-1999
10 | WA | BOTHELL, CITY OF | 53061C1339E | 08-NOV-1999
10 | WA | BOTHELL, CITY OF | 53061C1343E | 08-NOV-1999
10 | WA | BOTHELL, CITY OF | 53061C1345E | 08-NOV-1999
10 | WA | BOTHELL, CITY OF | 53061CIND0 ** | 08-NOV-1999
10 | WA | BREWSTER, TOWN OF | 5302750001B | 09-AUG-1999
10 | WA | BRIER, CITY OF | 53061C1317E | 08-NOV-1999
10 | WA | BRIER, CITY OF | 53061C1319E | 08-NOV-1999
10 | WA | BRIER, CITY OF | 53061C1320E | 08-NOV-1999
10 | WA | BRIER, CITY OF | 53061CIND0 ** | 08-NOV-1999
10 | WA | BURIEN, CITY OF | 53033CIND0 ** | 08-NOV-1999
10 | WA | CARNATION, TOWN OF | 53033CIND0 ** | 08-NOV-1999
10 | WA | CLYDE HILL, TOWN OF | 53033CIND0 ** | 08-NOV-1999
10 | WA | COWLITZ COUNTY * | 5300320035D | 07-JUL-1999
10 | WA | COWLITZ COUNTY * | 5300320055C | 07-JUL-1999
10 | WA | COWLITZ COUNTY * | 5300320065C | 07-JUL-1999
10 | WA | COWLITZ COUNTY * | 5300320075C | 07-JUL-1999
10 | WA | COWLITZ COUNTY * | 530032IND0 ** | 07-JUL-1999
10 | WA | DARRINGTON, TOWN OF | 53061C0188E | 08-NOV-1999
10 | WA | DARRINGTON, TOWN OF | 53061C0501E | 08-NOV-1999
10 | WA | DARRINGTON, TOWN OF | 53061C0502E | 08-NOV-1999
10 | WA | DARRINGTON, TOWN OF | 53061CIND0 ** | 08-NOV-1999
10 | WA | DES MOINES, CITY OF | 53033CIND0 ** | 08-NOV-1999
10 | WA | DUVALL, TOWN OF | 53033CIND0 ** | 08-NOV-1999
10 | WA | EDMONDS, CITY OF | 53061C1285E | 08-NOV-1999
10 | WA | EDMONDS, CITY OF | 53061C1292E | 08-NOV-1999
10 | WA | EDMONDS, CITY OF | 53061C1305E | 08-NOV-1999
10 | WA | EDMONDS, CITY OF | 53061C1315E | 08-NOV-1999
10 | WA | EDMONDS, CITY OF | 53061CIND0 ** | 08-NOV-1999
10 | WA | ENUMCLAW, CITY OF | 53033CIND0 ** | 08-NOV-1999
10 | WA | EVERETT, CITY OF | 53061C0695E | 08-NOV-1999
10 | WA | EVERETT, CITY OF | 53061C0715E | 08-NOV-1999
10 | WA | EVERETT, CITY OF | 53061C0720E | 08-NOV-1999
10 | WA | EVERETT, CITY OF | 53061C1010E | 08-NOV-1999
10 | WA | EVERETT, CITY OF | 53061C1020E | 08-NOV-1999
10 | WA | EVERETT, CITY OF | 53061C1030E | 08-NOV-1999
10 | WA | EVERETT, CITY OF | 53061C1035E | 08-NOV-1999
10 | WA | EVERETT, CITY OF | 53061C1040E | 08-NOV-1999
10 | WA | EVERETT, CITY OF | 53061C1045E | 08-NOV-1999
10 | WA | EVERETT, CITY OF | 53061CIND0 ** | 08-NOV-1999
10 | WA | FEDERAL WAY, CITY OF | 53033CIND0 ** | 08-NOV-1999
10 | WA | GOLD BAR, TOWN OF | 53061C1427E | 08-NOV-1999
10 | WA | GOLD BAR, TOWN OF | 53061C1431E | 08-NOV-1999
10 | WA | GOLD BAR, TOWN OF | 53061CIND0 ** | 08-NOV-1999
10 | WA | GRANITE FALLS, TOWN OF | 53061C0755E | 08-NOV-1999
10 | WA | GRANITE FALLS, TOWN OF | 53061CIND0 ** | 08-NOV-1999
10 | WA | HUNTS POINT, TOWN OF | 53033CIND0 ** | 08-NOV-1999
10 | WA | INDEX, TOWN OF | 53061C1454E | 08-NOV-1999
10 | WA | INDEX, TOWN OF | 53061C1458E | 08-NOV-1999
10 | WA | INDEX, TOWN OF | 53061CIND0 ** | 08-NOV-1999
10 | WA | ISSAQUAH, CITY OF | 53033CIND0 ** | 08-NOV-1999
10 | WA | KENMORE, CITY OF | 53033CIND0 ** | 08-NOV-1999
10 | WA | KENT, CITY OF | 53033CIND0 ** | 08-NOV-1999
10 | WA | KING COUNTY* | 53033C0063G** | 08-NOV-1999
10 | WA | KING COUNTY* | 53033C0064G** | 08-NOV-1999
10 | WA | KING COUNTY* | 53033C0068G | 08-NOV-1999
10 | WA | KING COUNTY* | 53033C0352G** | 08-NOV-1999
10 | WA | KING COUNTY* | 53033C0360G** | 08-NOV-1999
10 | WA | KING COUNTY* | 53033CIND0 ** | 08-NOV-1999
10 | WA | KIRKLAND, CITY OF | 53033C0360G** | 08-NOV-1999
10 | WA | KIRKLAND, CITY OF | 53033CIND0 ** | 08-NOV-1999
10 | WA | KITTITAS COUNTY * | 530095IND0 ** | 06-DEC-1999
10 | WA | LAKE FOREST PARK, CITY OF | 53033CIND0 ** | 08-NOV-1999
10 | WA | LAKE STEVENS, CITY OF | 53061C0739E | 08-NOV-1999
10 | WA | LAKE STEVENS, CITY OF | 53061C0743E | 08-NOV-1999
10 | WA | LAKE STEVENS, CITY OF | 53061CIND0 ** | 08-NOV-1999
10 | WA | LYNNWOOD, CITY OF | 53061C1305E | 08-NOV-1999
10 | WA | LYNNWOOD, CITY OF | 53061C1309E | 08-NOV-1999
10 | WA | LYNNWOOD, CITY OF | 53061C1310E | 08-NOV-1999
10 | WA | LYNNWOOD, CITY OF | 53061C1315E | 08-NOV-1999
10 | WA | LYNNWOOD, CITY OF | 53061C1320E | 08-NOV-1999
10 | WA | LYNNWOOD, CITY OF | 53061CIND0 ** | 08-NOV-1999
10 | WA | MARYSVILLE, CITY OF | 53061C0708E | 08-NOV-1999
10 | WA | MARYSVILLE, CITY OF | 53061C0709E | 08-NOV-1999
10 | WA | MARYSVILLE, CITY OF | 53061C0716E | 08-NOV-1999
10 | WA | MARYSVILLE, CITY OF | 53061C0717E | 08-NOV-1999
10 | WA | MARYSVILLE, CITY OF | 53061C0728E | 08-NOV-1999
10 | WA | MARYSVILLE, CITY OF | 53061C0736E | 08-NOV-1999
10 | WA | MARYSVILLE, CITY OF | 53061CIND0 ** | 08-NOV-1999
10 | WA | MEDINA, CITY OF | 53033CIND0 ** | 08-NOV-1999
10 | WA | MERCER ISLAND, CITY OF | 53033CIND0 ** | 08-NOV-1999
10 | WA | MILL CREEK, CITY OF | 53061C1040E | 08-NOV-1999
10 | WA | MILL CREEK, CITY OF | 53061C1330E | 08-NOV-1999
10 | WA | MILL CREEK, CITY OF | 53061C1335E | 08-NOV-1999
10 | WA | MILL CREEK, CITY OF | 53061CIND0 ** | 08-NOV-1999
10 | WA | MONROE, CITY OF | 53061C1100E | 08-NOV-1999
10 | WA | MONROE, CITY OF | 53061C1357E | 08-NOV-1999
10 | WA | MONROE, CITY OF | 53061C1376E | 08-NOV-1999
10 | WA | MONROE, CITY OF | 53061C1377E | 08-NOV-1999
10 | WA | MONROE, CITY OF | 53061CIND0 ** | 08-NOV-1999
10 | WA | MOUNTLAKE TERRACE, CITY OF | 53061C1315E | 08-NOV-1999
10 | WA | MOUNTLAKE TERRACE, CITY OF | 53061C1317E | 08-NOV-1999
10 | WA | MOUNTLAKE TERRACE, CITY OF | 53061C1320E | 08-NOV-1999
10 | WA | MOUNTLAKE TERRACE, CITY OF | 53061CIND0 ** | 08-NOV-1999
10 | WA | MUKILTEO, CITY OF | 53061C1010E | 08-NOV-1999
10 | WA | MUKILTEO, CITY OF | 53061C1015E | 08-NOV-1999
10 | WA | MUKILTEO, CITY OF | 53061C1020E | 08-NOV-1999
10 | WA | MUKILTEO, CITY OF | 53061C1310E | 08-NOV-1999
10 | WA | MUKILTEO, CITY OF | 53061CIND0 ** | 08-NOV-1999
10 | WA | NORMANDY PARK, CITY OF | 53033CIND0 ** | 08-NOV-1999
10 | WA | NORTH BEND, CITY OF | 53033CIND0 ** | 08-NOV-1999
10 | WA | PACIFIC, CITY OF | 53033CIND0 ** | 08-NOV-1999
10 | WA | REDMOND, CITY OF | 53033C0360G | 08-NOV-1999
10 | WA | REDMOND, CITY OF | 53033CIND0 ** | 08-NOV-1999
10 | WA | RENTON, CITY OF | 53033CIND0 ** | 08-NOV-1999
10 | WA | SEATAC, CITY OF | 53033CIND0 ** | 08-NOV-1999
10 | WA | SEATTLE, CITY OF | 53033CIND0 ** | 08-NOV-1999
10 | WA | SHORELINE, CITY OF | 53033CIND0 ** | 08-NOV-1999
10 | WA | SKYKOMISH, TOWN OF | 53033CIND0 ** | 08-NOV-1999
10 | WA | SNOHOMISH COUNTY * | 53061C0020E | 08-NOV-1999
10 | WA | SNOHOMISH COUNTY * | 53061C0040E | 08-NOV-1999
10 | WA | SNOHOMISH COUNTY * | 53061C0090E | 08-NOV-1999
10 | WA | SNOHOMISH COUNTY * | 53061C0095E | 08-NOV-1999
10 | WA | SNOHOMISH COUNTY * | 53061C0115E | 08-NOV-1999
10 | WA | SNOHOMISH COUNTY * | 53061C0120E | 08-NOV-1999
10 | WA | SNOHOMISH COUNTY * | 53061C0140E | 08-NOV-1999
10 | WA | SNOHOMISH COUNTY * | 53061C0145E | 08-NOV-1999
10 | WA | SNOHOMISH COUNTY * | 53061C0165E | 08-NOV-1999
10 | WA | SNOHOMISH COUNTY * | 53061C0170E | 08-NOV-1999
10 | WA | SNOHOMISH COUNTY * | 53061C0188E | 08-NOV-1999
10 | WA | SNOHOMISH COUNTY * | 53061C0189E | 08-NOV-1999
10 | WA | SNOHOMISH COUNTY * | 53061C0190E | 08-NOV-1999
10 | WA | SNOHOMISH COUNTY * | 53061C0195E | 08-NOV-1999
10 | WA | SNOHOMISH COUNTY * | 53061C0225E | 08-NOV-1999
10 | WA | SNOHOMISH COUNTY * | 53061C0250E | 08-NOV-1999
10 | WA | SNOHOMISH COUNTY * | 53061C0275E | 08-NOV-1999
10 | WA | SNOHOMISH COUNTY * | 53061C0300E | 08-NOV-1999
10 | WA | SNOHOMISH COUNTY * | 53061C0332E | 08-NOV-1999
10 | WA | SNOHOMISH COUNTY * | 53061C0351E | 08-NOV-1999
10 | WA | SNOHOMISH COUNTY * | 53061C0352E | 08-NOV-1999
10 | WA | SNOHOMISH COUNTY * | 53061C0355E | 08-NOV-1999
10 | WA | SNOHOMISH COUNTY * | 53061C0360E | 08-NOV-1999
10 | WA | SNOHOMISH COUNTY * | 53061C0365E | 08-NOV-1999
10 | WA | SNOHOMISH COUNTY * | 53061C0370E | 08-NOV-1999
10 | WA | SNOHOMISH COUNTY * | 53061C0380E | 08-NOV-1999
10 | WA | SNOHOMISH COUNTY * | 53061C0384E | 08-NOV-1999
10 | WA | SNOHOMISH COUNTY * | 53061C0385E | 08-NOV-1999
10 | WA | SNOHOMISH COUNTY * | 53061C0390E | 08-NOV-1999
10 | WA | SNOHOMISH COUNTY * | 53061C0391E | 08-NOV-1999
10 | WA | SNOHOMISH COUNTY * | 53061C0392E | 08-NOV-1999
10 | WA | SNOHOMISH COUNTY * | 53061C0405E | 08-NOV-1999
10 | WA | SNOHOMISH COUNTY * | 53061C0410E | 08-NOV-1999
10 | WA | SNOHOMISH COUNTY * | 53061C0415E | 08-NOV-1999
10 | WA | SNOHOMISH COUNTY * | 53061C0420E | 08-NOV-1999
10 | WA | SNOHOMISH COUNTY * | 53061C0445E | 08-NOV-1999
10 | WA | SNOHOMISH COUNTY * | 53061C0450E | 08-NOV-1999
10 | WA | SNOHOMISH COUNTY * | 53061C0465E | 08-NOV-1999
10 | WA | SNOHOMISH COUNTY * | 53061C0500E | 08-NOV-1999
10 | WA | SNOHOMISH COUNTY * | 53061C0501E | 08-NOV-1999
10 | WA | SNOHOMISH COUNTY * | 53061C0502E | 08-NOV-1999
10 | WA | SNOHOMISH COUNTY * | 53061C0525E | 08-NOV-1999
10 | WA | SNOHOMISH COUNTY * | 53061C0550E | 08-NOV-1999
10 | WA | SNOHOMISH COUNTY * | 53061C0575E | 08-NOV-1999
10 | WA | SNOHOMISH COUNTY * | 53061C0600E | 08-NOV-1999
10 | WA | SNOHOMISH COUNTY * | 53061C0695E | 08-NOV-1999
10 | WA | SNOHOMISH COUNTY * | 53061C0700E | 08-NOV-1999
10 | WA | SNOHOMISH COUNTY * | 53061C0708E | 08-NOV-1999
10 | WA | SNOHOMISH COUNTY * | 53061C0709E | 08-NOV-1999
10 | WA | SNOHOMISH COUNTY * | 53061C0710E | 08-NOV-1999
10 | WA | SNOHOMISH COUNTY * | 53061C0715E | 08-NOV-1999
10 | WA | SNOHOMISH COUNTY * | 53061C0716E | 08-NOV-1999
10 | WA | SNOHOMISH COUNTY * | 53061C0717E | 08-NOV-1999
10 | WA | SNOHOMISH COUNTY * | 53061C0720E | 08-NOV-1999
10 | WA | SNOHOMISH COUNTY * | 53061C0728E | 08-NOV-1999
10 | WA | SNOHOMISH COUNTY * | 53061C0730E | 08-NOV-1999
10 | WA | SNOHOMISH COUNTY * | 53061C0735E | 08-NOV-1999
10 | WA | SNOHOMISH COUNTY * | 53061C0736E | 08-NOV-1999
10 | WA | SNOHOMISH COUNTY * | 53061C0739E | 08-NOV-1999
10 | WA | SNOHOMISH COUNTY * | 53061C0740E | 08-NOV-1999
10 | WA | SNOHOMISH COUNTY * | 53061C0743E | 08-NOV-1999
10 | WA | SNOHOMISH COUNTY * | 53061C0745E | 08-NOV-1999
10 | WA | SNOHOMISH COUNTY * | 53061C0755E | 08-NOV-1999
10 | WA | SNOHOMISH COUNTY * | 53061C0760E | 08-NOV-1999
10 | WA | SNOHOMISH COUNTY * | 53061C0775E | 08-NOV-1999
10 | WA | SNOHOMISH COUNTY * | 53061C0780E | 08-NOV-1999
10 | WA | SNOHOMISH COUNTY * | 53061C0785E | 08-NOV-1999
10 | WA | SNOHOMISH COUNTY * | 53061C0805E | 08-NOV-1999
10 | WA | SNOHOMISH COUNTY * | 53061C0825E | 08-NOV-1999
10 | WA | SNOHOMISH COUNTY * | 53061C0850E | 08-NOV-1999
10 | WA | SNOHOMISH COUNTY * | 53061C0875E | 08-NOV-1999
10 | WA | SNOHOMISH COUNTY * | 53061C0900E | 08-NOV-1999
10 | WA | SNOHOMISH COUNTY * | 53061C1010E | 08-NOV-1999
10 | WA | SNOHOMISH COUNTY * | 53061C1015E | 08-NOV-1999
10 | WA | SNOHOMISH COUNTY * | 53061C1020E | 08-NOV-1999
10 | WA | SNOHOMISH COUNTY * | 53061C1030E | 08-NOV-1999
10 | WA | SNOHOMISH COUNTY * | 53061C1035E | 08-NOV-1999
10 | WA | SNOHOMISH COUNTY * | 53061C1040E | 08-NOV-1999
10 | WA | SNOHOMISH COUNTY * | 53061C1045E | 08-NOV-1999
10 | WA | SNOHOMISH COUNTY * | 53061C1055E | 08-NOV-1999
10 | WA | SNOHOMISH COUNTY * | 53061C1060E | 08-NOV-1999
10 | WA | SNOHOMISH COUNTY * | 53061C1061E | 08-NOV-1999
10 | WA | SNOHOMISH COUNTY * | 53061C1062E | 08-NOV-1999
10 | WA | SNOHOMISH COUNTY * | 53061C1065E | 08-NOV-1999
10 | WA | SNOHOMISH COUNTY * | 53061C1070E | 08-NOV-1999
10 | WA | SNOHOMISH COUNTY * | 53061C1100E | 08-NOV-1999
10 | WA | SNOHOMISH COUNTY * | 53061C1114E | 08-NOV-1999
10 | WA | SNOHOMISH COUNTY * | 53061C1125E | 08-NOV-1999
10 | WA | SNOHOMISH COUNTY * | 53061C1150E | 08-NOV-1999
10 | WA | SNOHOMISH COUNTY * | 53061C1175E | 08-NOV-1999
10 | WA | SNOHOMISH COUNTY * | 53061C1200E | 08-NOV-1999
10 | WA | SNOHOMISH COUNTY * | 53061C1225E | 08-NOV-1999
10 | WA | SNOHOMISH COUNTY * | 53061C1285E | 08-NOV-1999
10 | WA | SNOHOMISH COUNTY * | 53061C1292E | 08-NOV-1999
10 | WA | SNOHOMISH COUNTY * | 53061C1294E | 08-NOV-1999
10 | WA | SNOHOMISH COUNTY * | 53061C1305E | 08-NOV-1999
10 | WA | SNOHOMISH COUNTY * | 53061C1309E | 08-NOV-1999
10 | WA | SNOHOMISH COUNTY * | 53061C1310E | 08-NOV-1999
10 | WA | SNOHOMISH COUNTY * | 53061C1315E | 08-NOV-1999
10 | WA | SNOHOMISH COUNTY * | 53061C1317E | 08-NOV-1999
10 | WA | SNOHOMISH COUNTY * | 53061C1319E | 08-NOV-1999
10 | WA | SNOHOMISH COUNTY * | 53061C1320E | 08-NOV-1999
10 | WA | SNOHOMISH COUNTY * | 53061C1330E | 08-NOV-1999
10 | WA | SNOHOMISH COUNTY * | 53061C1335E | 08-NOV-1999
10 | WA | SNOHOMISH COUNTY * | 53061C1337E | 08-NOV-1999
10 | WA | SNOHOMISH COUNTY * | 53061C1338E | 08-NOV-1999
10 | WA | SNOHOMISH COUNTY * | 53061C1339E | 08-NOV-1999
10 | WA | SNOHOMISH COUNTY * | 53061C1343E | 08-NOV-1999
10 | WA | SNOHOMISH COUNTY * | 53061C1345E | 08-NOV-1999
10 | WA | SNOHOMISH COUNTY * | 53061C1355E | 08-NOV-1999
10 | WA | SNOHOMISH COUNTY * | 53061C1357E | 08-NOV-1999
10 | WA | SNOHOMISH COUNTY * | 53061C1360E | 08-NOV-1999
10 | WA | SNOHOMISH COUNTY * | 53061C1365E | 08-NOV-1999
10 | WA | SNOHOMISH COUNTY * | 53061C1370E | 08-NOV-1999
10 | WA | SNOHOMISH COUNTY * | 53061C1376E | 08-NOV-1999
10 | WA | SNOHOMISH COUNTY * | 53061C1377E | 08-NOV-1999
10 | WA | SNOHOMISH COUNTY * | 53061C1380E | 08-NOV-1999
10 | WA | SNOHOMISH COUNTY * | 53061C1385E | 08-NOV-1999
10 | WA | SNOHOMISH COUNTY * | 53061C1390E | 08-NOV-1999
10 | WA | SNOHOMISH COUNTY * | 53061C1402E | 08-NOV-1999
10 | WA | SNOHOMISH COUNTY * | 53061C1405E | 08-NOV-1999
10 | WA | SNOHOMISH COUNTY * | 53061C1406E | 08-NOV-1999
10 | WA | SNOHOMISH COUNTY * | 53061C1407E | 08-NOV-1999
10 | WA | SNOHOMISH COUNTY * | 53061C1427E | 08-NOV-1999
10 | WA | SNOHOMISH COUNTY * | 53061C1430E | 08-NOV-1999
10 | WA | SNOHOMISH COUNTY * | 53061C1431E | 08-NOV-1999
10 | WA | SNOHOMISH COUNTY * | 53061C1435E | 08-NOV-1999
10 | WA | SNOHOMISH COUNTY * | 53061C1454E | 08-NOV-1999
10 | WA | SNOHOMISH COUNTY * | 53061C1455E | 08-NOV-1999
10 | WA | SNOHOMISH COUNTY * | 53061C1458E | 08-NOV-1999
10 | WA | SNOHOMISH COUNTY * | 53061C1460E | 08-NOV-1999
10 | WA | SNOHOMISH COUNTY * | 53061C1465E | 08-NOV-1999
10 | WA | SNOHOMISH COUNTY * | 53061C1470E | 08-NOV-1999
10 | WA | SNOHOMISH COUNTY * | 53061C1500E | 08-NOV-1999
10 | WA | SNOHOMISH COUNTY * | 53061C1525E | 08-NOV-1999
10 | WA | SNOHOMISH COUNTY * | 53061C1550E | 08-NOV-1999
10 | WA | SNOHOMISH COUNTY * | 53061CIND0 ** | 08-NOV-1999
10 | WA | SNOHOMISH, CITY OF | 53061C0775E | 08-NOV-1999
10 | WA | SNOHOMISH, CITY OF | 53061C1055E | 08-NOV-1999
10 | WA | SNOHOMISH, CITY OF | 53061C1061E | 08-NOV-1999
10 | WA | SNOHOMISH, CITY OF | 53061C1062E | 08-NOV-1999
10 | WA | SNOHOMISH, CITY OF | 53061C1065E | 08-NOV-1999
10 | WA | SNOHOMISH, CITY OF | 53061CIND0 ** | 08-NOV-1999
10 | WA | SNOQUALMIE, CITY OF | 53033CIND0 ** | 08-NOV-1999
10 | WA | STANWOOD, CITY OF | 53061C0040E | 08-NOV-1999
10 | WA | STANWOOD, CITY OF | 53061C0332E | 08-NOV-1999
10 | WA | STANWOOD, CITY OF | 53061C0351E | 08-NOV-1999
10 | WA | STANWOOD, CITY OF | 53061C0352E | 08-NOV-1999
10 | WA | STANWOOD, CITY OF | 53061CIND0 ** | 08-NOV-1999
10 | WA | SULTAN, TOWN OF | 53061C1114E | 08-NOV-1999
10 | WA | SULTAN, TOWN OF | 53061C1125E | 08-NOV-1999
10 | WA | SULTAN, TOWN OF | 53061C1402E | 08-NOV-1999
10 | WA | SULTAN, TOWN OF | 53061C1406E | 08-NOV-1999
10 | WA | SULTAN, TOWN OF | 53061C1407E | 08-NOV-1999
10 | WA | SULTAN, TOWN OF | 53061CIND0 ** | 08-NOV-1999
10 | WA | TUKWILA, CITY OF | 53033CIND0 ** | 08-NOV-1999
10 | WA | WOODINVILLE, CITY OF | 53033C0068G | 08-NOV-1999
10 | WA | WOODINVILLE, CITY OF | 53033C0360G | 08-NOV-1999
10 | WA | WOODINVILLE, CITY OF | 53033CIND0 ** | 08-NOV-1999
10 | WA | WOODWAY, TOWN OF | 53061C1292E | 08-NOV-1999
10 | WA | WOODWAY, TOWN OF | 53061C1294E | 08-NOV-1999
10 | WA | WOODWAY, TOWN OF | 53061C1315E | 08-NOV-1999
10 | WA | WOODWAY, TOWN OF | 53061CIND0 ** | 08-NOV-1999
10 | WA | YARROW POINT, TOWN OF | 53033CIND0 ** | 08-NOV-1999

[FR Doc. 00-15504 Filed 6-28-00; 8:45 am]

BILLING CODE 6718-04-F